FEDERAL EMERGENCY MANAGEMENT AGENCY

Compendium of Flood Map Changes

AGENCY: Federal Emergency Management Agency (FEMA).

ACTION: Notice.

SUMMARY: This Notice provides listings of changes made to National Flood Insurance Program (NFIP) maps produced by FEMA effective during the first 6 months of 2002.

DATES: The listings include changes to NFIP maps that became effective January 1, 2002, through June 30, 2002.

FOR FURTHER INFORMATION CONTACT: Michael K. Buckley, P.E., Director, Hazard Mapping Division, Federal Insurance and Mitigation Administration, Federal Emergency Management Agency, Washington, DC 20472, (202)646-2756.

SUPPLEMENTARY INFORMATION: In accordance with Section 1360(i) of the National Flood Insurance Reform Act of 1994, this Notice is provided to inform interested parties of changes made by FEMA to NFIP maps. The two listings provided show communities affected by map changes made by letter and communities affected by physical map changes. For each Letter of Map Change, the first listing provides the map panel(s) affected, effective (determination) date of the change, case number, and determination type. For each physical map change, the Map Revision listing provides the map panel(s) affected and the effective date of the change. The listing also identifies: (1) those panels on which the Special Flood Hazard Areas have not been changed or have been changed only to incorporate the Letters of Map Change issued before the effective date; and (2) those panels for which a Flood Insurance Rate Map is produced for the first time, resulting only in changes to flood insurance and floodplain management requirements in the affected community. Future notices of changes to NFIP maps will be published approximately every 6 months.

Dated: September 4, 2002.
Anthony S. Lowe,
Administrator, Federal Insurance and Mitigation Administration.

Two listings are provided below. The first listing includes all Letters of Map Change issued by FEMA from January 1 through June 30, 2002. The following types of letters are included in the listing:

Type | Description
01 | Letter of Map Revision Based on Fill
02 | Letter of Map Amendment
05 | Letter of Map Revision With Base Flood Elevation Changes
06 | Letter of Map Revision Without Base Flood Elevation Changes
08 | Denial
12 | Floodway Revision
17 | Letter of Map Revision-Inadvertent Inclusion in Floodway
18 | Letter of Map Revision-Inadvertent Inclusion in V Zone
19 | Letter of Map Change Revalidation

The second listing includes map panels that FEMA physically revised and republished from January 1 through June 30, 2002. For those map panels on which the Special Flood Hazard Areas have not been changed or have been changed only to incorporate Letters of Map Change issued before the effective date, two asterisks(**) are shown to the right of the map panel number. For those map panels for which a Flood Insurance Rate Map is produced for the first time, resulting only in changes to flood insurance and floodplain management requirements in the affected community, three asterisks(***) are shown to the right of the map panel number.

For both listings, a single asterisk is shown to the right of each county name that appears in the “Community” column. This asterisk indicates the area covered is the unincorporated areas of that county.

Region | State | Community | Map panel | Determination date | Case No. | Type
01 | CT | BERLIN, TOWN OF | 0900220010D | 15-APR-2002 | 02-01-366P | 05
01 | CT | BRANFORD, TOWN OF | 0900730003D | 08-MAY-2002 | 02-01-0988A | 02
01 | CT | BRISTOL, CITY OF | 0900230007B | 26-APR-2002 | 02-01-0848A | 02
01 | CT | BROOKLYN, TOWN OF | 0901640003A | 06-FEB-2002 | 02-01-0426A | 02
01 | CT | CHESHIRE, TOWN OF | 0900740011C | 06-MAR-2002 | 02-01-0480A | 02
01 | CT | CHESHIRE, TOWN OF | 0900740003E | 16-APR-2002 | 02-01-1164V | 19
01 | CT | CHESHIRE, TOWN OF | 0900740009E | 16-APR-2002 | 02-01-1164V | 19
01 | CT | CHESHIRE, TOWN OF | 0900740012E | 16-APR-2002 | 02-01-1164V | 19
01 | CT | CHESHIRE, TOWN OF | 0900740013E | 16-APR-2002 | 02-01-1164V | 19
01 | CT | CLINTON, TOWN OF | 0900610004C | 04-JAN-2002 | 01-01-1328A | 02
01 | CT | CLINTON, TOWN OF | 0900610002B | 22-MAY-2002 | 02-01-1126A | 02
01 | CT | EAST HARTFORD, TOWN OF | 0900260002D | 27-MAR-2002 | 02-01-0830A | 02
01 | CT | EAST HAVEN, TOWN OF | 0900760008D | 30-JAN-2002 | 02-01-0518A | 02
01 | CT | EAST HAVEN, TOWN OF | 0900760008D | 10-JUN-2002 | 02-01-0776A | 02
01 | CT | FAIRFIELD, TOWN OF | 0900070008C | 09-JAN-2002 | 02-01-0264A | 02
01 | CT | FAIRFIELD, TOWN OF | 0900070008C | 08-MAY-2002 | 02-01-1080A | 02
01 | CT | FAIRFIELD, TOWN OF | 0900070008C | 22-MAY-2002 | 02-01-0934A | 02
01 | CT | FARMINGTON, TOWN OF | 0900290010C | 19-JUN-2002 | 02-01-0780A | 01
01 | CT | GOSHEN, TOWN OF | 0901770015A | 01-MAY-2002 | 02-01-0816A | 02
01 | CT | GREENWICH, TOWN OF | 0900080023C | 04-FEB-2002 | 01-01-029P | 05
01 | CT | GROTON, TOWN OF | 0900970006E | 22-MAY-2002 | 02-01-1116A | 02
01 | CT | GUILFORD, TOWN OF | 0900770017B | 09-JAN-2002 | 02-01-0368X | 01
01 | CT | GUILFORD, TOWN OF | 0900770005B | 11-MAR-2002 | 02-01-0576A | 02
01 | CT | HAMDEN, TOWN OF | 0900780010B | 27-MAR-2002 | 02-01-0636A | 02
01 | CT | MERIDEN, CITY OF | 0900810005C | 27-FEB-2002 | 02-01-0324A | 02
01 | CT | MIDDLETOWN, CITY OF | 0900680011C | 30-JAN-2002 | 02-01-0370A | 02
01 | CT | MILFORD, CITY OF | 0900820003D | 20-FEB-2002 | 02-01-0228A | 02
01 | CT | MILFORD, CITY OF | 0900820005F | 26-JUN-2002 | 02-01-1266A | 02
01 | CT | MONROE, TOWN OF | 0900090010B | 21-JUN-2002 | 02-01-1002A | 02
01 | CT | NEW BRITAIN, CITY OF | 0900320001D | 03-FEB-2002 | 02-01-0651V | 19
01 | CT | NEW BRITAIN, CITY OF | 0900320005D | 03-FEB-2002 | 02-01-0651V | 19
01 | CT | NEW BRITAIN, CITY OF | 0900320005D | 17-APR-2002 | 02-01-0936A | 02
01 | CT | NEW HARTFORD, TOWN OF | 0900480006B | 26-APR-2002 | 02-01-0778A | 02
01 | CT | NEWINGTON, TOWN OF | 0900330001C | 03-FEB-2002 | 02-01-0653V | 19
01 | CT | NEWINGTON, TOWN OF | 0900330003C | 03-FEB-2002 | 02-01-0653V | 19
01 | CT | NORWALK, CITY OF | 0900120007C | 30-JAN-2002 | 02-01-0454A | 02
01 | CT | OLD SAYBROOK, TOWN OF | 0900690004D | 26-APR-2002 | 02-01-0992A | 02
01 | CT | ORANGE, TOWN OF | 0900870005C | 17-APR-2002 | 02-01-0660A | 02
01 | CT | SHELTON, CITY OF | 0900140020B | 05-APR-2002 | 02-01-0732A | 02
01 | CT | SOUTH WINDSOR, TOWN OF | 0900360010D | 31-MAY-2002 | 02-01-1100A | 02
01 | CT | SOUTHINGTON, TOWN OF | 0900370005E | 16-APR-2002 | 02-01-1166V | 19
01 | CT | SOUTHINGTON, TOWN OF | 0900370007E | 16-APR-2002 | 02-01-1166V | 19
01 | CT | SOUTHINGTON, TOWN OF | 0900370010E | 16-APR-2002 | 02-01-1166V | 19
01 | CT | SOUTHINGTON, TOWN OF | 0900370011E | 12-JUN-2002 | 02-01-0740A | 01
01 | CT | STAMFORD, CITY OF | 0900150008D | 20-MAR-2002 | 02-01-0772A | 02
01 | CT | STAMFORD, CITY OF | 0900150005C | 27-MAR-2002 | 02-01-0690A | 02
01 | CT | STAMFORD, CITY OF | 0900150007D | 27-MAR-2002 | 02-01-0756A | 02
01 | CT | STAMFORD, CITY OF | 0900150007D | 23-APR-2002 | 01-01-047P | 05
01 | CT | STAMFORD, CITY OF | 0900150005C | 26-APR-2002 | 02-01-0868A | 02
01 | CT | STONINGTON, BOROUGH OF | 0901930001F | 22-FEB-2002 | 02-01-0128A | 02
01 | CT | STRATFORD, TOWN OF | 0900160003D | 16-JAN-2002 | 02-01-0384A | 02
01 | CT | STRATFORD, TOWN OF | 0900160003D | 29-MAY-2002 | 02-01-1092A | 02
01 | CT | TRUMBULL, TOWN OF | 0900170005B | 09-JAN-2002 | 02-01-0230A | 02
01 | CT | TRUMBULL, TOWN OF | 0900170005B | 11-JAN-2002 | 01-01-043P | 05
01 | CT | TRUMBULL, TOWN OF | 0900170010C | 15-MAY-2002 | 02-01-0710A | 02
01 | CT | WEST HAVEN, CITY OF | 0900920004B | 09-JAN-2002 | 01-01-1150A | 02
01 | CT | WEST HAVEN, CITY OF | 0900920004B | 30-JAN-2002 | 02-01-0418A | 02
01 | CT | WEST HAVEN, CITY OF | 0900920004B | 08-FEB-2002 | 02-01-0552A | 02
01 | CT | WEST HAVEN, CITY OF | 0900920002C | 10-APR-2002 | 02-01-0838A | 02
01 | CT | WEST HAVEN, CITY OF | 0900920004B | 24-APR-2002 | 02-01-0962A | 02
01 | CT | WEST HAVEN, CITY OF | 0900920002C | 12-JUN-2002 | 02-01-1214A | 02
01 | CT | WESTON, TOWN OF | 0900180004C | 31-MAY-2002 | 02-01-1124A | 02
01 | CT | WESTPORT, TOWN OF | 0900190004B | 10-JUN-2002 | 02-01-1044A | 02
01 | CT | WOODSTOCK, TOWN OF | 0901200015B | 16-JAN-2002 | 02-01-0392A | 02
01 | MA | AGAWAM, TOWN OF | 2501330002A | 10-JUN-2002 | 02-01-0794A | 02
01 | MA | AMESBURY, TOWN OF | 2500750004C | 13-FEB-2002 | 02-01-0514A | 02
01 | MA | ANDOVER, TOWN OF | 2500760005B | 11-JAN-2002 | 02-01-0330A | 02
01 | MA | ASHLAND, TOWN OF | 2501790002B | 23-JAN-2002 | 02-01-0478A | 02
01 | MA | ATTLEBORO, CITY OF | 2500490010C | 20-FEB-2002 | 02-01-0450A | 02
01 | MA | ATTLEBORO, CITY OF | 2500490005C | 22-MAY-2002 | 02-01-1050A | 02
01 | MA | BARNSTABLE, TOWN OF | 2500010018D | 27-FEB-2002 | 02-01-0546A | 02
01 | MA | BARNSTABLE, TOWN OF | 2500010008D | 05-JUN-2002 | 02-01-0994A | 02
01 | MA | BERKLEY, TOWN OF | 2500500001B | 22-FEB-2002 | 02-01-0618A | 02
01 | MA | BOSTON, CITY OF | 2502860014C | 20-MAR-2002 | 02-01-0628A | 02
01 | MA | BOURNE, TOWN OF | 2552100005E | 09-JAN-2002 | 02-01-0308A | 02
01 | MA | BRAINTREE, TOWN OF | 2502330004D | 08-FEB-2002 | 02-01-0440A | 02
01 | MA | BRAINTREE, TOWN OF | 2502330004D | 22-MAR-2002 | 02-01-0782A | 02
01 | MA | BRIDGEWATER, TOWN OF | 2502600002C | 20-MAR-2002 | 02-01-0726A | 02
01 | MA | BROCKTON, CITY OF | 2502610010C | 01-FEB-2002 | 02-01-0502A | 02
01 | MA | BURLINGTON, TOWN OF | 2501850001B | 29-MAY-2002 | 02-01-1016A | 02
01 | MA | DIGHTON, TOWN OF | 2500520010B | 14-JUN-2002 | 02-01-0974A | 02
01 | MA | EASTON, TOWN OF | 2500530005C | 19-APR-2002 | 02-01-0458A | 02
01 | MA | FALMOUTH, TOWN OF | 2552110007G | 19-APR-2002 | 02-01-0946A | 02
01 | MA | FRAMINGHAM, TOWN OF | 2501930011B | 24-APR-2002 | 02-01-0900A | 02
01 | MA | GARDNER, CITY OF | 2503050003B | 30-JAN-2002 | 02-01-0558A | 02
01 | MA | GRANBY, TOWN OF | 2501620010B | 04-JAN-2002 | 02-01-0262A | 02
01 | MA | GROVELAND, TOWN OF | 2500830005C | 10-APR-2002 | 02-01-0858A | 02
01 | MA | GROVELAND, TOWN OF | 2500830005C | 22-MAY-2002 | 02-01-1042A | 02
01 | MA | HARDWICK, TOWN OF | 2503070027B | 09-JAN-2002 | 02-01-0100A | 02
01 | MA | HINGHAM, TOWN OF | 2502680007B | 10-APR-2002 | 02-01-0260A | 02
01 | MA | HINGHAM, TOWN OF | 2502680004B | 14-JUN-2002 | 02-01-0604A | 02
01 | MA | HOLBROOK, TOWN OF | 2552120001D | 08-FEB-2002 | 02-01-0440AD | 02
01 | MA | HOPEDALE, TOWN OF | 2503100003B | 04-JAN-2002 | 02-01-0130A | 02
01 | MA | HUDSON, TOWN OF | 2501970003B | 01-MAR-2002 | 02-01-0680A | 02
01 | MA | LYNN, CITY OF | 2500880008B | 20-MAR-2002 | 02-01-0306A | 02
01 | MA | LYNNFIELD, TOWN OF | 2500890005C | 13-MAR-2002 | 02-01-0722A | 02
01 | MA | LYNNFIELD, TOWN OF | 2500890005C | 08-MAY-2002 | 02-01-0896A | 02
01 | MA | MANSFIELD, TOWN OF | 2500570002A | 13-MAR-2002 | 02-01-0534A | 02
01 | MA | MARBLEHEAD, TOWN OF | 2500910003B | 27-MAR-2002 | 02-01-0760A | 02
01 | MA | MARLBOROUGH, CITY OF | 2502030015B | 15-FEB-2002 | 02-01-0408A | 02
01 | MA | MARSHFIELD, TOWN OF | 2502730002D | 16-JAN-2002 | 02-01-0390A | 02
01 | MA | MELROSE , CITY OF | 2502060001B | 04-JAN-2002 | 02-01-0258A | 02
01 | MA | MILLBURY, TOWN OF | 2503180002C | 29-MAR-2002 | 02-01-0244A | 02
01 | MA | NAHANT, TOWN OF | 2500950004B | 31-MAY-2002 | 02-01-0550A | 02
01 | MA | NAHANT, TOWN OF | 2500950004B | 05-JUN-2002 | 02-01-0570A | 02
01 | MA | NORTH ATTLEBOROUGH, TOWN OF | 2500590010B | 13-MAR-2002 | 02-01-0638A | 02
01 | MA | NORTH ATTLEBOROUGH, TOWN OF | 2500590010B | 31-MAY-2002 | 02-01-1040A | 17
01 | MA | NORTH READING, TOWN OF | 2502090003B | 01-FEB-2002 | 02-01-0078A | 02
01 | MA | NORTH READING, TOWN OF | 2502090003B | 01-FEB-2002 | 02-01-0412A | 02
01 | MA | NORTHBOROUGH, TOWN OF | 2503210001B | 26-JUN-2002 | 02-01-1196A | 02
01 | MA | PEMBROKE, TOWN OF | 2502770005C | 08-MAY-2002 | 02-01-0784A | 01
01 | MA | PITTSFIELD, CITY OF | 2500370020C | 04-JAN-2002 | 02-01-0272A | 02
01 | MA | PITTSFIELD, CITY OF | 2500370015D | 03-APR-2002 | 02-01-0580A | 02
01 | MA | PITTSFIELD, CITY OF | 2500370020C | 10-APR-2002 | 02-01-0768A | 17
01 | MA | PITTSFIELD, CITY OF | 2500370020C | 10-APR-2002 | 02-01-0770A | 17
01 | MA | QUINCY, CITY OF | 2552190002C | 17-APR-2002 | 02-01-0612A | 02
01 | MA | QUINCY, CITY OF | 2552190008B | 12-JUN-2002 | 02-01-1118A | 02
01 | MA | RAYNHAM, TOWN OF | 2500610001B | 09-JAN-2002 | 02-01-0092A | 02
01 | MA | REVERE, CITY OF | 2502880003B | 19-JUN-2002 | 02-01-1248A | 02
01 | MA | ROCKLAND, TOWN OF | 2502810001B | 22-MAY-2002 | 02-01-0880A | 01
01 | MA | ROCKLAND, TOWN OF | 2502810002B | 19-JUN-2002 | 02-01-1082A | 02
01 | MA | ROCKPORT, TOWN OF | 2501000001B | 29-MAY-2002 | 02-01-1052A | 02
01 | MA | ROCKPORT, TOWN OF | 2501000002C | 29-MAY-2002 | 02-01-1052A | 02
01 | MA | SHREWSBURY, TOWN OF | 2503320004B | 29-MAY-2002 | 02-01-0564A | 02
01 | MA | SOUTHBRIDGE, TOWN OF | 2503340005B | 15-MAY-2002 | 02-01-0708A | 01
01 | MA | SOUTHWICK, TOWN OF | 2501490015B | 29-MAY-2002 | 02-01-0986A | 02
01 | MA | SUDBURY, TOWN OF | 2502170004C | 23-JAN-2002 | 02-01-0052A | 02
01 | MA | SWANSEA, TOWN OF | 2552210007C | 11-JAN-2002 | 02-01-0410A | 02
01 | MA | SWANSEA, TOWN OF | 2552210009C | 10-APR-2002 | 02-01-0908A | 02
01 | MA | SWANSEA, TOWN OF | 2552210007C | 17-APR-2002 | 02-01-0714A | 02
01 | MA | SWANSEA, TOWN OF | 2552210009C | 17-APR-2002 | 02-01-0714A | 02
01 | MA | TAUNTON, CITY OF | 2500660008C | 29-MAR-2002 | 02-01-0616A | 02
01 | MA | TAUNTON, CITY OF | 2500660008C | 22-MAY-2002 | 02-01-0890A | 02
01 | MA | TOPSFIELD, TOWN OF | 2501060001D | 09-JAN-2002 | 02-01-0288A | 02
01 | MA | TOPSFIELD, TOWN OF | 2501060002D | 10-APR-2002 | 02-01-0822A | 02
01 | MA | TOPSFIELD, TOWN OF | 2501060001D | 22-MAY-2002 | 02-01-0902A | 02
01 | MA | TOWNSEND, TOWN OF | 2502190009B | 22-MAY-2002 | 02-01-0672A | 02
01 | MA | WAKEFIELD, TOWN OF | 2502210005B | 13-FEB-2002 | 02-01-0596A | 02
01 | MA | WALTHAM, CITY OF | 2502220003D | 17-APR-2002 | 02-01-0758A | 02
01 | MA | WESTMINSTER, TOWN OF | 2503470010B | 29-MAY-2002 | 02-01-0972A | 02
01 | MA | WESTWOOD, TOWN OF | 2552250005C | 23-JAN-2002 | 02-01-0470A | 02
01 | MA | WEYMOUTH, TOWN OF | 2502570007C | 08-FEB-2002 | 02-01-0524A | 02
01 | MA | WILMINGTON, TOWN OF | 2502270002C | 01-FEB-2002 | 02-01-0078AD | 02
01 | MA | WINCHENDON, TOWN OF | 2503480010B | 23-JAN-2002 | 02-01-0348A | 02
01 | MA | WINCHESTER, TOWN OF | 2502280002B | 19-JUN-2002 | 02-01-1192A | 02
01 | MA | WORCESTER, CITY OF | 2503490015A | 24-APR-2002 | 02-01-0840A | 02
01 | MA | WORCESTER, CITY OF | 2503490025A | 24-APR-2002 | 02-01-0956A | 02
01 | MA | YARMOUTH, TOWN OF | 2500150001D | 10-MAY-2002 | 02-01-0762A | 02
01 | MA | YARMOUTH, TOWN OF | 2500150001D | 15-MAY-2002 | 02-01-1056A | 02
01 | ME | ADDISON, TOWN OF | 2301320020B | 06-MAR-2002 | 02-01-0382A | 02
01 | ME | ALNA, TOWN OF | 230083—02 | 24-APR-2002 | 02-01-0844A | 02
01 | ME | ANDOVER, TOWN OF | 2301600004B | 09-JAN-2002 | 01-01-1430A | 02
01 | ME | AUBURN, CITY OF | 2300010008C | 30-JAN-2002 | 02-01-0276A | 02
01 | ME | BAR HARBOR, TOWN OF | 2300640015B | 01-FEB-2002 | 02-01-0398A | 02
01 | ME | BAR HARBOR, TOWN OF | 2300640005B | 08-MAY-2002 | 02-01-0594A | 02
01 | ME | BELGRADE, TOWN OF | 2302320015B | 13-FEB-2002 | 02-01-0126A | 02
01 | ME | BELGRADE, TOWN OF | 2302320010B | 13-FEB-2002 | 02-01-0298A | 02
01 | ME | BETHEL, TOWN OF | 2300880005C | 24-APR-2002 | 02-01-0874A | 02
01 | ME | BIDDEFORD, CITY OF | 2301450011B | 05-APR-2002 | 02-01-0734A | 02
01 | ME | BLUE HILL, TOWN OF | 2302740020A | 04-JAN-2002 | 02-01-0242A | 18
01 | ME | BLUE HILL, TOWN OF | 2302740025A | 12-APR-2002 | 02-01-0402A | 18
01 | ME | BRIDGTON, TOWN OF | 2300410010B | 22-FEB-2002 | 02-01-0504A | 02
01 | ME | BRISTOL, TOWN OF | 2302150015C | 05-JAN-2002 | 02-01-0464V | 19
01 | ME | BRISTOL, TOWN OF | 2302150015C | 01-MAY-2002 | 02-01-0960A | 02
01 | ME | BURLINGTON, TOWN OF | 230374—14 | 26-APR-2002 | 02-01-0068A | 02
01 | ME | BUXTON, TOWN OF | 2301460010B | 04-JAN-2002 | 02-01-0082A | 02
01 | ME | BUXTON, TOWN OF | 2301460010B | 12-JUN-2002 | 02-01-0792A | 02
01 | ME | CAMDEN, TOWN OF | 2300740015B | 31-MAY-2002 | 02-01-1068A | 18
01 | ME | CANTON, TOWN OF | 2300910009B | 17-APR-2002 | 02-01-0808A | 02
01 | ME | CAPE ELIZABETH, TOWN OF | 2300430008C | 13-FEB-2002 | 02-01-0566A | 02
01 | ME | CASTINE, TOWN OF | 2302770005B | 13-FEB-2002 | 02-01-0572A | 02
01 | ME | CHESTERVILLE, TOWN OF | 230346—02A | 15-MAR-2002 | 02-01-0624A | 02
01 | ME | CHINA, TOWN OF | 2302350010B | 12-APR-2002 | 02-01-0654A | 02
01 | ME | DAYTON, TOWN OF | 2301480003B | 12-JUN-2002 | 02-01-0852A | 02
01 | ME | DEER ISLE, TOWN OF | 2302800015B | 25-JAN-2002 | 02-01-0316A | 18
01 | ME | DEER ISLE, TOWN OF | 2302800015B | 06-FEB-2002 | 02-01-0394A | 18
01 | ME | DEER ISLE, TOWN OF | 2302800015B | 22-MAY-2002 | 02-01-0930A | 02
01 | ME | ELIOT, TOWN OF | 2301490010B | 04-JAN-2002 | 02-01-0346A | 02
01 | ME | ELIOT, TOWN OF | 2301490010B | 13-FEB-2002 | 02-01-0522A | 02
01 | ME | ELIOT, TOWN OF | 2301490010B | 10-JUN-2002 | 02-01-1090A | 02
01 | ME | ENFIELD, TOWN OF | 2303840005A | 13-MAR-2002 | 02-01-0614A | 02
01 | ME | ENFIELD, TOWN OF | 2303840005A | 10-APR-2002 | 02-01-0774A | 02
01 | ME | ENFIELD, TOWN OF | 2303840010A | 01-MAY-2002 | 02-01-0952A | 02
01 | ME | FORT KENT, TOWN OF | 2300190015C | 22-FEB-2002 | 02-01-0674A | 02
01 | ME | GLENBURN, TOWN OF | 2301060005C | 29-MAR-2002 | 02-01-0626A | 02
01 | ME | GOULDSBORO,TOWN OF | 2302830010B | 08-FEB-2002 | 02-01-0320A | 18
01 | ME | GOULDSBORO,TOWN OF | 2302830020B | 27-FEB-2002 | 02-01-0406A | 18
01 | ME | GREENBUSH, TOWN OF | 2301070005B | 03-APR-2002 | 02-01-0574A | 02
01 | ME | GREENWOOD, TOWN OF | 230332—01 A | 17-APR-2002 | 02-01-0872A | 02
01 | ME | HAMPDEN, TOWN OF | 2301680009B | 16-APR-2002 | 02-01-017P | 05
01 | ME | HARPSWELL, TOWN OF | 2301690014C | 30-JAN-2002 | 02-01-0474A | 02
01 | ME | HARPSWELL, TOWN OF | 2301690005B | 27-FEB-2002 | 02-01-0586A | 02
01 | ME | HARPSWELL, TOWN OF | 2301690003B | 17-APR-2002 | 02-01-0876A | 02
01 | ME | HARPSWELL, TOWN OF | 2301690013C | 26-APR-2002 | 02-01-0854A | 02
01 | ME | HARPSWELL, TOWN OF | 2301690014D | 26-APR-2002 | 02-01-0854A | 02
01 | ME | HARTFORD, TOWN OF | 2303340025B | 30-JAN-2002 | 01-01-1418A | 02
01 | ME | HARTFORD, TOWN OF | 2303340025B | 03-APR-2002 | 02-01-0670A | 01
01 | ME | HARTLAND, TOWN OF | 230361—02A | 19-APR-2002 | 02-01-0910A | 02
01 | ME | HARTLAND, TOWN OF | 230361—03A | 01-MAY-2002 | 02-01-0940A | 02
01 | ME | HARTLAND, TOWN OF | 230361—02A | 05-JUN-2002 | 02-01-1152A | 02
01 | ME | INDUSTRY, TOWN OF | 230348—04A | 27-FEB-2002 | 02-01-0646A | 02
01 | ME | INDUSTRY, TOWN OF | 230348—04A | 20-MAR-2002 | 02-01-0644A | 02
01 | ME | INDUSTRY, TOWN OF | 230348—04 A | 05-APR-2002 | 02-01-0528A | 02
01 | ME | INDUSTRY, TOWN OF | 230348—04A | 01-MAY-2002 | 02-01-0954A | 02
01 | ME | INDUSTRY, TOWN OF | 230348—02A | 08-MAY-2002 | 02-01-0990A | 02
01 | ME | JAY, TOWN OF | 2303490017A | 05-JUN-2002 | 02-01-0894A | 02
01 | ME | JEFFERSON, TOWN OF | 2300850010B | 27-FEB-2002 | 02-01-0630A | 02
01 | ME | LAMOINE, TOWN OF | 2302850010A | 09-JAN-2002 | 02-01-0194A | 02
01 | ME | LAMOINE, TOWN OF | 2302850010A | 01-FEB-2002 | 02-01-0562A | 02
01 | ME | LEVANT, TOWN OF | 230912—03B | 21-JUN-2002 | 02-01-0810A | 02
01 | ME | LEWISTON, CITY OF | 2300040010B | 12-JUN-2002 | 02-01-1048A | 02
01 | ME | LINCOLN, TOWN OF | 2301090015B | 09-JAN-2002 | 02-01-0156A | 02
01 | ME | LINCOLN, TOWN OF | 2301090020B | 15-MAR-2002 | 02-01-0692A | 02
01 | ME | LINCOLNVILLE, TOWN OF | 2301720017A | 19-APR-2002 | 02-01-0860A | 02
01 | ME | LINNEUS, TOWN OF | 230427—01A | 11-JAN-2002 | 02-01-0066A | 02
01 | ME | LITCHFIELD, TOWN OF | 2302380015B | 13-MAR-2002 | 02-01-0696A | 02
01 | ME | LOVELL, TOWN OF | 2303360020B | 01-FEB-2002 | 02-01-0300A | 02
01 | ME | LOVELL, TOWN OF | 23003360015B | 01-MAY-2002 | 02-01-0944A | 02
01 | ME | LOWELL, TOWN OF | 230395—03 | 27-FEB-2002 | 02-01-0648A | 02
01 | ME | MADAWASKA, TOWN OF | 230024—19B | 04-JAN-2002 | 02-01-0340A | 02
01 | ME | MADAWASKA, TOWN OF | 230024—15B | 22-FEB-2002 | 02-01-0542A | 02
01 | ME | MEXICO, TOWN OF | 2300950003B | 03-APR-2002 | 02-01-0682A | 02
01 | ME | MT. VERNON, TOWN OF | 2302410005B | 05-JUN-2002 | 02-01-1086A | 02
01 | ME | NAPLES, TOWN OF | 2300500015B | 08-MAY-2002 | 02-01-1006A | 02
01 | ME | NAPLES, TOWN OF | 2300500021B | 10-MAY-2002 | 02-01-0920A | 02
01 | ME | NEWPORT, TOWN OF | 230398—05B | 23-JAN-2002 | 02-01-0268A | 02
01 | ME | NORRIDGEWOCK, TOWN OF | 2301780008C | 19-APR-2002 | 02-01-0472A | 02
01 | ME | OLD TOWN, CITY OF | 2301120002A | 08-MAY-2002 | 02-01-0976A | 02
01 | ME | OLD TOWN, CITY OF | 2301120001A | 29-MAY-2002 | 02-01-0970A | 02
01 | ME | ORONO, TOWN OF | 2301130010B | 08-MAY-2002 | 02-01-0864A | 02
01 | ME | PENOBSCOT, TOWN OF | 2302900015A | 24-MAY-2002 | 02-01-0926A | 02
01 | ME | PORTLAND, CITY OF | 2300510008B | 29-MAR-2002 | 02-01-0600A | 18
01 | ME | PORTLAND, CITY OF | 2300510007C | 05-JUN-2002 | 02-01-1142A | 02
01 | ME | PRINCETON, TOWN OF | 2303200005C | 16-MAY-2002 | 02-01-1160V | 19
01 | ME | PRINCETON, TOWN OF | 2303200010C | 16-MAY-2002 | 02-01-1160V | 19
01 | ME | PRINCETON, TOWN OF | 2303200025C | 16-MAY-2002 | 02-01-1160V | 19
01 | ME | RAYMOND, TOWN OF | 2302050020B | 10-APR-2002 | 02-01-0806A | 02
01 | ME | RAYMOND, TOWN OF | 2302050010B | 15-MAY-2002 | 02-01-0914A | 02
01 | ME | ROME, TOWN OF | 2302460005B | 06-FEB-2002 | 02-01-0414A | 02
01 | ME | ROME, TOWN OF | 2302460010B | 22-MAY-2002 | 02-01-1128A | 02
01 | ME | RUMFORD, TOWN OF | 2300990009B | 20-MAR-2002 | 02-01-0516A | 02
01 | ME | SACO, CITY OF | 2301550029C | 05-JUN-2002 | 02-01-1174A | 02
01 | ME | SKOWHEGAN, TOWN OF | 2301280020C | 14-MAR-2002 | 02-01-0720A | 02
01 | ME | SOUTHPORT, TOWN OF | 2302210002B | 13-FEB-2002 | 02-01-0582A | 02
01 | ME | ST. ALBANS, TOWN OF | 230369—03 A | 19-APR-2002 | 02-01-0888A | 02
01 | ME | STANDISH, TOWN OF | 2302070025B | 20-MAR-2002 | 02-01-0716A | 02
01 | ME | STANDISH, TOWN OF | 2302070015C | 10-APR-2002 | 02-01-0786A | 02
01 | ME | STANDISH, TOWN OF | 2302070010B | 15-MAY-2002 | 02-01-1076A | 02
01 | ME | STANDISH, TOWN OF | 2302070010B | 05-JUN-2002 | 02-01-1046A | 02
01 | ME | STEUBEN, TOWN OF | 230323—02A | 25-JAN-2002 | 02-01-0442X | 02
01 | ME | SURRY, TOWN OF | 230296 | 11-MAR-2002 | 02-01-0540A | 02
01 | ME | T17 R05 WELS, TOWNSHIP OF | 230454—04A | 08-FEB-2002 | 02-01-0482A | 02
01 | ME | TRENTON, TOWN OF | 2302990010A | 22-FEB-2002 | 02-01-0456A | 18
01 | ME | TRENTON, TOWN OF | 2302990010A | 13-MAR-2002 | 02-01-0678A | 18
01 | ME | TURNER, TOWN OF | 2300100006B | 12-JUN-2002 | 02-01-1188A | 02
01 | ME | UNION,TOWN OF | 2300800015C | 15-MAR-2002 | 02-01-0752A | 02
01 | ME | VINALHAVEN, TOWN OF | 230230—04 A | 03-APR-2002 | 02-01-0488A | 02
01 | ME | VINALHAVEN, TOWN OF | 230230—04 A | 05-APR-2002 | 02-01-0486A | 02
01 | ME | VINALHAVEN, TOWN OF | 230230—04 A | 01-MAY-2002 | 02-01-0790A | 02
01 | ME | VINALHAVEN, TOWN OF | 230230—01A | 21-JUN-2002 | 02-01-1010A | 02
01 | ME | WARREN, TOWN OF | 2300810015B | 15-MAR-2002 | 02-01-0468A | 02
01 | ME | WATERBORO, TOWN OF | 2301990003C | 13-FEB-2002 | 02-01-0496A | 02
01 | ME | WATERBORO, TOWN OF | 2301990004C | 20-MAR-2002 | 02-01-0632A | 02
01 | ME | WATERBORO, TOWN OF | 2301990007C | 01-MAY-2002 | 02-01-0998A | 02
01 | ME | WATERBORO, TOWN OF | 2301990004C | 08-MAY-2002 | 02-01-1034A | 02
01 | ME | WATERBORO, TOWN OF | 2301990003C | 29-MAY-2002 | 02-01-0748A | 02
01 | ME | WATERBORO, TOWN OF | 2301990004C | 29-MAY-2002 | 02-01-0748A | 02
01 | ME | WATERBORO, TOWN OF | 2301990007C | 29-MAY-2002 | 02-01-0748A | 02
01 | ME | WATERBORO, TOWN OF | 2301990003C | 10-JUN-2002 | 02-01-1138A | 02
01 | ME | WATERBORO, TOWN OF | 2301990003C | 14-JUN-2002 | 02-01-1032A | 02
01 | ME | WEST BATH, TOWN OF | 2302110015A | 24-MAY-2002 | 02-01-0578A | 02
01 | ME | WESTON, TOWN OF | 230039—01 | 20-MAR-2002 | 02-01-0538A | 02
01 | ME | WINDHAM, TOWN OF | 2301890030B | 30-JAN-2002 | 02-01-0252A | 02
01 | ME | WINDHAM, TOWN OF | 2301890030B | 27-FEB-2002 | 02-01-0590A | 02
01 | ME | WINDHAM, TOWN OF | 2301890035B | 15-MAR-2002 | 02-01-0718A | 02
01 | ME | WINDHAM, TOWN OF | 2301890015B | 12-APR-2002 | 02-01-0804A | 02
01 | ME | WINDHAM, TOWN OF | 2301890015B | 10-MAY-2002 | 02-01-1066A | 02
01 | ME | WINDHAM, TOWN OF | 2301890015B | 05-JUN-2002 | 02-01-1134A | 02
01 | ME | YARMOUTH, TOWN OF | 2300550005B | 10-APR-2002 | 02-01-0500A | 02
01 | NH | ALEXANDRIA, TOWN OF | 3300410003C | 12-APR-2002 | 02-01-0904A | 01
01 | NH | ALLENSTOWN, TOWN OF | 3301030005B | 11-MAR-2002 | 02-01-0548A | 02
01 | NH | BARTLETT, TOWN OF | 3300100005B | 08-MAY-2002 | 02-01-0606A | 17
01 | NH | BENNINGTON, TOWN OF | 3300840005C | 13-FEB-2002 | 02-01-0160A | 02
01 | NH | BENNINGTON, TOWN OF | 3300840005C | 13-MAR-2002 | 02-01-0292A | 02
01 | NH | CONCORD, CITY OF | 3301100025B | 26-JUN-2002 | 02-01-0622A | 02
01 | NH | CONWAY, TOWN OF | 3300110015B | 26-APR-2002 | 02-01-0800A | 02
01 | NH | CONWAY, TOWN OF | 3300110010B | 01-MAY-2002 | 02-01-0978A | 02
01 | NH | DURHAM, TOWN OF | 3301460015C | 13-FEB-2002 | 02-01-0438A | 02
01 | NH | DURHAM, TOWN OF | 3301460010C | 12-APR-2002 | 02-01-0918A | 02
01 | NH | EPPING, TOWN OF | 3301290010B | 03-MAY-2002 | 02-01-0928A | 02
01 | NH | FRANCONIA, TOWN OF | 3300530005B | 24-MAY-2002 | 02-01-1136A | 02
01 | NH | FRANKLIN, CITY OF | 3301130010B | 08-MAY-2002 | 02-01-0886A | 02
01 | NH | GOFFSTOWN, TOWN OF | 3300870010B | 23-JAN-2002 | 02-01-0218A | 02
01 | NH | HAMPSTEAD, TOWN OF | 3302110005A | 24-MAY-2002 | 02-01-1110A | 02
01 | NH | HILL, TOWN OF | 330214—08 A | 22-MAR-2002 | 02-01-0216A | 02
01 | NH | HUDSON, TOWN OF | 3300920005B | 27-FEB-2002 | 02-01-0598A | 02
01 | NH | KEENE, CITY OF | 3300230008D | 25-JAN-2002 | 02-01-0556A | 02
01 | NH | KEENE, CITY OF | 3300230008D | 22-MAR-2002 | 02-01-0766A | 01
01 | NH | LONDONDERRY, TOWN OF | 3301340002B | 27-MAR-2002 | 02-01-0584A | 02
01 | NH | MANCHESTER, CITY OF | 3301690020B | 13-MAR-2002 | 02-01-0684A | 02
01 | NH | MEREDITH, TOWN OF | 3300060005B | 05-JUN-2002 | 02-01-0568A | 02
01 | NH | MERRIMACK, TOWN OF | 3300950005A | 16-JAN-2002 | 02-01-0372A | 02
01 | NH | MERRIMACK, TOWN OF | 3300950005A | 22-FEB-2002 | 02-01-0332A | 02
01 | NH | MOULTONBOROUGH, TOWN OF | 3300150004C | 11-JAN-2002 | 02-01-0334A | 02
01 | NH | NEW DURHAM, TOWN OF | 3302270010B | 11-JAN-2002 | 02-01-0448A | 02
01 | NH | NEW DURHAM, TOWN OF | 3302270010B | 22-MAR-2002 | 02-01-0700A | 02
01 | NH | NORTH HAMPTON, TOWN OF | 3302320005B | 27-MAR-2002 | 02-01-0824A | 02
01 | NH | PELHAM, TOWN OF | 3301000006B | 27-FEB-2002 | 02-01-0712A | 02
01 | NH | PLYMOUTH, TOWN OF | 3300720005C | 13-MAR-2002 | 02-01-0742A | 02
01 | NH | PORTSMOUTH, CITY OF | 3301390019B | 03-APR-2002 | 02-01-0862A | 02
01 | NH | RINDGE, TOWN OF | 3301890010B | 27-MAR-2002 | 02-01-0798A | 02
01 | NH | SANBORNTON, TOWN OF | 3300080010B | 22-FEB-2002 | 02-01-0530A | 02
01 | NH | STRAFFORD, TOWN OF | 3301960020C | 03-MAY-2002 | 02-01-1158V | 19
01 | NH | STRAFFORD, TOWN OF | 3301960030C | 03-MAY-2002 | 02-01-1158V | 19
01 | NH | TAMWORTH, TOWN OF | 3300180010B | 20-MAR-2002 | 02-01-0750A | 02
01 | NH | THORNTON, TOWN OF | 330075—14 B | 19-APR-2002 | 02-01-0400A | 02
01 | NH | WAKEFIELD, TOWN OF | 3300190005A | 04-JAN-2002 | 02-01-0296A | 02
01 | NH | WAKEFIELD, TOWN OF | 3300190005A | 11-JAN-2002 | 02-01-0432A | 02
01 | NH | WAKEFIELD, TOWN OF | 3300190005A | 11-JAN-2002 | 02-01-0466A | 02
01 | NH | WAKEFIELD, TOWN OF | 3300190005A | 18-JAN-2002 | 02-01-0494A | 02
01 | NH | WAKEFIELD, TOWN OF | 3300190005A | 25-JAN-2002 | 02-01-0510A | 02
01 | NH | WAKEFIELD, TOWN OF | 3300190005A | 25-JAN-2002 | 02-01-0532A | 02
01 | NH | WAKEFIELD, TOWN OF | 3300190005A | 25-JAN-2002 | 02-01-0536A | 02
01 | NH | WAKEFIELD, TOWN OF | 3300190005A | 13-FEB-2002 | 02-01-0634A | 02
01 | NH | WAKEFIELD, TOWN OF | 3300190005A | 22-FEB-2002 | 02-01-0430A | 02
01 | NH | WAKEFIELD, TOWN OF | 3300190005A | 22-FEB-2002 | 02-01-0526A | 02
01 | NH | WAKEFIELD, TOWN OF | 3300190005A | 03-APR-2002 | 02-01-0512A | 02
01 | NH | WARREN, TOWN OF | 3301680025C | 16-JAN-2002 | 02-01-0240A | 02
01 | NH | WARREN, TOWN OF | 3301680025C | 13-FEB-2002 | 02-01-0374A | 02
01 | NH | WEBSTER, TOWN OF | 3302360005B | 25-JAN-2002 | 02-01-0352A | 02
01 | NH | WEBSTER, TOWN OF | 3302360005B | 08-FEB-2002 | 02-01-0344A | 02
01 | NH | WEBSTER, TOWN OF | 3302360005B | 08-FEB-2002 | 02-01-0350A | 02
01 | NH | WEBSTER, TOWN OF | 3302360005B | 08-FEB-2002 | 02-01-0354A | 02
01 | NH | WEBSTER, TOWN OF | 3302360005B | 08-FEB-2002 | 02-01-0356A | 02
01 | NH | WEBSTER, TOWN OF | 3302360005B | 08-FEB-2002 | 02-01-0358A | 02
01 | NH | WEBSTER, TOWN OF | 3302360005B | 08-FEB-2002 | 02-01-0360A | 02
01 | NH | WEBSTER, TOWN OF | 3302360005B | 08-FEB-2002 | 02-01-0362A | 02
01 | NH | WEBSTER, TOWN OF | 3302360005B | 08-FEB-2002 | 02-01-0364A | 02
01 | NH | WEBSTER, TOWN OF | 3302360005B | 11-MAR-2002 | 02-01-0738A | 02
01 | RI | COVENTRY, TOWN OF | 4400040007B | 16-JAN-2002 | 02-01-0314A | 02
01 | RI | CRANSTON, CITY OF | 4453960005B | 04-JAN-2002 | 02-01-0222A | 02
01 | RI | CRANSTON, CITY OF | 4453960006B | 23-JAN-2002 | 02-01-0256A | 02
01 | RI | CRANSTON, CITY OF | 4453960005B | 20-FEB-2002 | 02-01-0476A | 02
01 | RI | CRANSTON, CITY OF | 4453960006B | 05-APR-2002 | 02-01-0892A | 02
01 | RI | CRANSTON, CITY OF | 4453960009B | 10-MAY-2002 | 02-01-0980A | 02
01 | RI | NEWPORT, CITY OF | 4454030002F | 01-MAY-2002 | 02-01-1020A | 02
01 | RI | NORTH KINGSTOWN, TOWN OF | 4454040013C | 05-APR-2002 | 02-01-0802A | 02
01 | RI | NORTH KINGSTOWN, TOWN OF | 4454040008B | 10-APR-2002 | 02-01-0396A | 02
01 | RI | PORTSMOUTH, TOWN OF | 4454050004D | 19-JUN-2002 | 02-01-1072A | 02
01 | RI | WARWICK, CITY OF | 4454090009D | 20-MAR-2002 | 02-01-0730A | 02
01 | RI | WESTERLY, TOWN OF | 4454100015D | 12-JUN-2002 | 02-01-1178A | 02
01 | RI | WESTERLY, TOWN OF | 4454100020E | 12-JUN-2002 | 02-01-688P | 05
01 | VT | ALBURG, TOWN OF | 5002210010A | 22-FEB-2002 | 02-01-0694A | 02
01 | VT | BARRE, CITY OF | 5001050001B | 11-MAR-2002 | 02-01-0664A | 02
01 | VT | BELVIDERE, TOWN OF | 5002270013B | 10-APR-2002 | 02-01-0922A | 02
01 | VT | BERLIN, TOWN OF | 5001060009B | 24-MAY-2002 | 02-01-0964A | 01
01 | VT | CAVENDISH, TOWN OF | 5001450020B | 06-FEB-2002 | 02-01-0588A | 02
01 | VT | CAVENDISH, TOWN OF | 5001450020B | 01-MAY-2002 | 02-01-0916A | 02
01 | VT | CHARLESTON, TOWN OF | 500083—04A | 27-FEB-2002 | 02-01-0728A | 02
01 | VT | COLCHESTER, TOWN OF | 5000330006B | 05-JUN-2002 | 02-01-0984A | 02
01 | VT | ESSEX, TOWN OF | 5000340011B | 22-MAR-2002 | 02-01-0662A | 02
01 | VT | FERRISBURG, TOWN OF | 5000020020B | 04-JAN-2002 | 02-01-0342A | 02
01 | VT | GEORGIA, TOWN OF | 5002170007A | 22-MAY-2002 | 02-01-1018A | 02
01 | VT | GRAFTON, TOWN OF | 5001290010D | 01-MAY-2002 | 02-01-1024A | 02
01 | VT | GROTON, TOWN OF | 5000260010B | 09-JAN-2002 | 02-01-0452A | 02
01 | VT | HYDE PARK, TOWN OF | 5002300002B | 03-MAY-2002 | 02-01-1026A | 02
01 | VT | LINCOLN, TOWN OF | 5000070015B | 24-APR-2002 | 02-01-0832A | 02
01 | VT | MANCHESTER, TOWN OF | 5000150020B | 03-MAY-2002 | 02-01-1028A | 02
01 | VT | MONTPELIER, CITY OF | 5055180003A | 13-FEB-2002 | 02-01-0428A | 02
01 | VT | MONTPELIER, CITY OF | 5055180002A | 27-MAR-2002 | 02-01-0834A | 02
01 | VT | MONTPELIER, CITY OF | 5055180002A | 12-APR-2002 | 02-01-0948A | 02
01 | VT | MORETOWN, TOWN OF | 5001160001C | 27-MAR-2002 | 02-01-0856A | 02
01 | VT | MORGAN, TOWN OF | 500255—H02 | 09-JAN-2002 | 02-01-0434A | 02
01 | VT | MORGAN, TOWN OF | 500255—H02 | 23-JAN-2002 | 02-01-0508A | 02
01 | VT | MORGAN, TOWN OF | 500255—H02 | 25-JAN-2002 | 02-01-0554A | 02
01 | VT | NEWFANE, TOWN AND VILLAGE OF | 5001330020B | 22-FEB-2002 | 02-01-0702A | 02
01 | VT | NEWPORT, CITY OF | 5000860003B | 22-MAY-2002 | 02-01-1084A | 02
01 | VT | NORTHFIELD, TOWN OF | 5001180002B | 25-JAN-2002 | 02-01-0544A | 02
01 | VT | PITTSFORD, TOWN OF | 5000980015B | 09-JAN-2002 | 02-01-0444A | 02
01 | VT | PITTSFORD, TOWN OF | 5000980025B | 16-JAN-2002 | 02-01-0484A | 02
01 | VT | PLYMOUTH, TOWN OF | 5001510005B | 04-JAN-2002 | 02-01-0080A | 02
01 | VT | RUTLAND, TOWN OF | 5002670005B | 11-MAR-2002 | 02-01-0736A | 02
01 | VT | SOUTH BURLINGTON, CITY OF | 5001950006B | 24-APR-2002 | 02-01-0656A | 02
01 | VT | STOWE, TOWN OF | 5000660020D | 24-APR-2002 | 02-01-1062A | 02
01 | VT | STOWE, TOWN OF | 5000660035D | 01-MAY-2002 | 02-01-0968A | 02
01 | VT | UNDERHILL, TOWN OF | 5000420017B | 09-JAN-2002 | 02-01-0420A | 02
01 | VT | WALLINGFORD, TOWN OF | 5001030005B | 09-JAN-2002 | 02-01-0446A | 02
01 | VT | WATERBURY, TOWN OF | 5001230032C | 29-MAR-2002 | 02-01-0882A | 02
01 | VT | WATERBURY, VILLAGE OF | 5001220001C | 13-FEB-2002 | 02-01-0460A | 02
01 | VT | WELLS, TOWN OF | 5002710001B | 04-JAN-2002 | 02-01-0378A | 02
01 | VT | WESTFIELD, TOWN OF | 500257—06B | 16-JAN-2002 | 02-01-0490A | 02
01 | VT | WESTMINSTER, TOWN OF | 5001390008B | 01-MAY-2002 | 02-01-0884A | 01
01 | VT | WESTON, TOWN OF | 5001570010D | 22-FEB-2002 | 02-01-0668A | 02
02 | NJ | BERKELEY HEIGHTS, TOWNSHIP O | 3404590003E | 16-JAN-2002 | 02-02-0326A | 02
02 | NJ | BERKELEY HEIGHTS, TOWNSHIP O | 3404590001E | 16-JAN-2002 | 02-02-0368A | 02
02 | NJ | BERKELEY HEIGHTS, TOWNSHIP O | 3404590003E | 22-FEB-2002 | 02-02-0540A | 02
02 | NJ | BERKELEY HEIGHTS, TOWNSHIP O | 3404590003E | 08-MAR-2002 | 02-02-0714A | 02
02 | NJ | BERKELEY HEIGHTS, TOWNSHIP O | 3404590003E | 27-MAR-2002 | 02-02-0688A | 02
02 | NJ | BERKELEY HEIGHTS, TOWNSHIP O | 3404590001E | 17-APR-2002 | 02-02-0932A | 02
02 | NJ | BERKELEY HEIGHTS, TOWNSHIP O | 3404590003E | 17-MAY-2002 | 02-02-0968A | 17
02 | NJ | BERKELEY, TOWNSHIP OF | 3403690004C | 26-APR-2002 | 02-02-0982A | 02
02 | NJ | BERKELEY, TOWNSHIP OF | 3403690003E | 04-JUN-2002 | 02-02-1310V | 19
02 | NJ | BERKELEY, TOWNSHIP OF | 3403690011E | 04-JUN-2002 | 02-02-1310V | 19
02 | NJ | BERKELEY, TOWNSHIP OF | 3403690020E | 04-JUN-2002 | 02-02-1310V | 19
02 | NJ | BERNARDS, TOWNSHIP OF | 3404280005B | 05-MAR-2002 | 02-02-0654V | 19
02 | NJ | BERNARDS, TOWNSHIP OF | 3404280010B | 05-MAR-2002 | 02-02-0654V | 19
02 | NJ | BORDENTOWN, TOWNSHIP OF | 3400880004C | 03-MAY-2002 | 02-02-0676A | 02
02 | NJ | BRICK, TOWNSHIP OF | 3452850007E | 08-MAR-2002 | 02-02-0740A | 02
02 | NJ | BYRAM, TOWNSHIP OF | 3405570005A | 27-MAR-2002 | 02-02-0504A | 02
02 | NJ | CARNEYS POINT, TOWNSHIP OF | 3404240010B | 22-FEB-2002 | 02-02-0630A | 02
02 | NJ | CARNEYS POINT, TOWNSHIP OF | 3404240010B | 26-APR-2002 | 02-02-0988A | 02
02 | NJ | CARNEYS POINT, TOWNSHIP OF | 3404240010B | 03-MAY-2002 | 02-02-1034A | 02
02 | NJ | DELAWARE, TOWNSHIP OF | 3405060002B | 12-JUN-2002 | 02-02-1096A | 02
02 | NJ | DOVER, TOWNSHIP OF | 3452930007D | 10-APR-2002 | 02-02-0912A | 02
02 | NJ | DOVER, TOWNSHIP OF | 3452930010D | 26-APR-2002 | 02-02-0994A | 02
02 | NJ | DOVER, TOWNSHIP OF | 3452930010D | 12-JUN-2002 | 02-02-1074A | 02
02 | NJ | DOVER, TOWNSHIP OF | 3452930011D | 12-JUN-2002 | 02-02-1074A | 02
02 | NJ | DOVER, TOWNSHIP OF | 3452930011D | 12-JUN-2002 | 02-02-1120A | 02
02 | NJ | DOWNE, TOWNSHIP OF | 340167—04B | 26-APR-2002 | 02-02-0950A | 02
02 | NJ | EAST HANOVER, TOWNSHIP OF | 3403410005D | 29-MAR-2002 | 02-02-0486A | 02
02 | NJ | EAST HANOVER, TOWNSHIP OF | 3403410005D | 26-JUN-2002 | 02-02-1312A | 02
02 | NJ | EDISON, TOWNSHIP OF | 3402610004C | 12-JUN-2002 | 02-02-0600A | 02
02 | NJ | EWING, TOWNSHIP OF | 3452940003D | 15-MAY-2002 | 02-02-0322A | 02
02 | NJ | FAIR LAWN, BOROUGH OF | 34003C0186F | 06-FEB-2002 | 02-02-0530A | 02
02 | NJ | FAIR LAWN, BOROUGH OF | 34003C0167F | 26-APR-2002 | 02-02-1004A | 02
02 | NJ | FLORHAM PARK, BOROUGH OF | 3403420005D | 08-FEB-2002 | 02-02-0534A | 02
02 | NJ | HAMILTON, TOWNSHIP OF | 3402460015C | 16-JAN-2002 | 02-02-0260A | 02
02 | NJ | HAMILTON, TOWNSHIP OF | 3402460015C | 22-FEB-2002 | 02-02-0484A | 02
02 | NJ | HAMILTON, TOWNSHIP OF | 3402460015C | 22-FEB-2002 | 02-02-0568A | 02
02 | NJ | HAMILTON, TOWNSHIP OF | 3402460005B | 26-MAR-2002 | 02-02-0694A | 02
02 | NJ | HAMILTON, TOWNSHIP OF | 3402460015C | 29-MAR-2002 | 02-02-0720A | 02
02 | NJ | HAMILTON, TOWNSHIP OF | 3402460015C | 10-APR-2002 | 02-02-0866A | 02
02 | NJ | HAMILTON, TOWNSHIP OF | 3402460005B | 26-JUN-2002 | 02-02-1398A | 02
02 | NJ | HAMMONTON, TOWN OF | 3400100010C | 11-JAN-2002 | 02-02-0192A | 02
02 | NJ | HAMMONTON, TOWN OF | 3400100015C | 16-JAN-2002 | 02-02-0376A | 02
02 | NJ | HANOVER, TOWNSHIP OF | 3403430005D | 26-APR-2002 | 02-02-0742A | 02
02 | NJ | HANOVER, TOWNSHIP OF | 3403430005D | 29-MAY-2002 | 02-02-1028A | 02
02 | NJ | HILLSBOROUGH, TOWNSHIP OF | 3404360015B | 12-JUN-2002 | 02-02-1144A | 02
02 | NJ | HO-HO-KUS, BOROUGH OF | 34003C0176F | 06-FEB-2002 | 02-02-0528A | 02
02 | NJ | HOPEWELL, TOWNSHIP OF | 3452980015E | 22-FEB-2002 | 02-02-0644A | 02
02 | NJ | JERSEY CITY, CITY OF | 3402230004B | 06-FEB-2002 | 02-02-0544A | 02
02 | NJ | LAKEWOOD, TOWNSHIP OF | 340378—02A | 17-APR-2002 | 02-02-0716A | 02
02 | NJ | LAWRENCE, TOWNSHIP OF | 3402500002B | 16-JAN-2002 | 02-02-0392A | 02
02 | NJ | LINCOLN PARK, BOROUGH OF | 3453000001B | 01-MAY-2002 | 02-02-0664A | 01
02 | NJ | LIVINGSTON, TOWNSHIP OF | 3401850004E | 06-FEB-2002 | 01-02-1372A | 02
02 | NJ | LIVINGSTON, TOWNSHIP OF | 3401850003E | 17-APR-2002 | 02-02-0828A | 02
02 | NJ | LIVINGSTON, TOWNSHIP OF | 3401850002E | 15-MAY-2002 | 02-02-1076A | 17
02 | NJ | LIVINGSTON, TOWNSHIP OF | 3401850004E | 29-MAY-2002 | 02-02-1166A | 02
02 | NJ | LOWER ALLOWAYS CREEK, TOWNSH | 3404160007B | 17-APR-2002 | 02-02-0860A | 02
02 | NJ | LUMBERTON, TOWNSHIP OF | 3401000005B | 06-FEB-2002 | 02-02-0236A | 02
02 | NJ | LUMBERTON, TOWNSHIP OF | 3401000005B | 06-FEB-2002 | 02-02-0238A | 02
02 | NJ | MADISON, BOROUGH OF | 3403470002C | 18-APR-2002 | 02-02-0842V | 19
02 | NJ | MADISON, BOROUGH OF | 3403470003C | 18-APR-2002 | 02-02-0842V | 19
02 | NJ | MAHWAH, TOWNSHIP OF | 34003C0066F | 29-MAR-2002 | 02-02-0344A | 01
02 | NJ | MAHWAH, TOWNSHIP OF | 34003C0066F | 03-APR-2002 | 02-02-0398A | 02
02 | NJ | MANALAPAN, TOWNSHIP OF | 3403080001A | 17-APR-2002 | 02-02-0430A | 02
02 | NJ | MANALAPAN, TOWNSHIP OF | 3403080001A | 17-APR-2002 | 02-02-0850A | 02
02 | NJ | MANALAPAN, TOWNSHIP OF | 3403080001A | 26-APR-2002 | 02-02-0852A | 02
02 | NJ | MANALAPAN, TOWNSHIP OF | 3403080001A | 17-MAY-2002 | 02-02-0640A | 02
02 | NJ | MANALAPAN, TOWNSHIP OF | 3403080001A | 12-JUN-2002 | 02-02-1084A | 02
02 | NJ | MANASQUAN, BOROUGH OF | 3453030001C | 06-FEB-2002 | 02-02-0324A | 02
02 | NJ | MANASQUAN, BOROUGH OF | 3453030001C | 20-FEB-2002 | 02-02-0592A | 02
02 | NJ | MANASQUAN, BOROUGH OF | 3453030001C | 24-APR-2002 | 02-02-0840A | 02
02 | NJ | MARGATE CITY, CITY OF | 3453040001C | 17-APR-2002 | 02-02-0764A | 02
02 | NJ | MEDFORD, TOWNSHIP OF | 3401040005B | 18-JAN-2002 | 02-02-0432A | 02
02 | NJ | MEDFORD, TOWNSHIP OF | 3401040010B | 17-APR-2002 | 02-02-0718A | 02
02 | NJ | MEDFORD, TOWNSHIP OF | 3401040010B | 01-MAY-2002 | 02-02-0602A | 02
02 | NJ | MEDFORD, TOWNSHIP OF | 3401040010B | 01-MAY-2002 | 02-02-0786A | 17
02 | NJ | MIDDLESEX, BOROUGH OF | 3453050001B | 12-APR-2002 | 02-02-0680A | 17
02 | NJ | MIDDLETOWN, TOWNSHIP OF | 3403130002B | 23-JAN-2002 | 02-02-0470A | 02
02 | NJ | MIDDLETOWN, TOWNSHIP OF | 3403130002B | 21-JUN-2002 | 02-02-1200A | 02
02 | NJ | MONROE, TOWNSHIP OF | 3402690006C | 27-MAR-2002 | 02-02-0492A | 17
02 | NJ | MONTVILLE, TOWNSHIP OF | 3403490003C | 15-MAY-2002 | 02-02-0908A | 02
02 | NJ | MOORESTOWN, TOWNSHIP OF | 3401050006B | 27-MAR-2002 | 02-02-0610A | 02
02 | NJ | MOORESTOWN, TOWNSHIP OF | 3401050010B | 26-JUN-2002 | 02-02-1282A | 02
02 | NJ | MOUNT LAUREL, TOWNSHIP OF | 3401070010E | 20-MAR-2002 | 02-02-0578A | 01
02 | NJ | MOUNT LAUREL, TOWNSHIP OF | 3401070010E | 10-APR-2002 | 02-02-0856A | 02
02 | NJ | NEW PROVIDENCE, BOROUGH OF | 3453060001C | 04-JAN-2002 | 02-02-0068A | 02
02 | NJ | NEW PROVIDENCE, BOROUGH OF | 3453060001D | 27-MAR-2002 | 02-02-0560A | 02
02 | NJ | NUTLEY,TOWN OF | 3401910001C | 27-MAR-2002 | 02-02-0760A | 02
02 | NJ | OAKLAND, BOROUGH OF | 34003C0061F | 26-APR-2002 | 02-02-0990A | 01
02 | NJ | OAKLAND, BOROUGH OF | 34003C0061F | 03-MAY-2002 | 02-02-0992A | 01
02 | NJ | OCEAN, TOWNSHIP OF | 3403190005D | 12-JUN-2002 | 02-02-0802A | 02
02 | NJ | OLD BRIDGE, TOWNSHIP OF | 3402650006D | 12-JUN-2002 | 02-02-1152A | 02
02 | NJ | OLD TAPPAN, BOROUGH OF | 34003C0113F | 28-JUN-2002 | 02-02-1304A | 02
02 | NJ | PALMYRA, BOROUGH OF | 3401100001C | 08-FEB-2002 | 02-02-0548A | 02
02 | NJ | PALMYRA, BOROUGH OF | 3401100001C | 22-FEB-2002 | 02-02-0450A | 01
02 | NJ | PALMYRA, BOROUGH OF | 3401100001C | 15-MAR-2002 | 02-02-0624A | 02
02 | NJ | PARAMUS, BOROUGHS OF | 34003C0178F | 11-JAN-2002 | 01-02-1114A | 01
02 | NJ | PARAMUS, BOROUGHS OF | 34003C0187F | 08-MAR-2002 | 02-02-0414A | 02
02 | NJ | PARAMUS, BOROUGHS OF | 34003C0191F | 27-MAR-2002 | 02-02-0734A | 02
02 | NJ | PEMBERTON, TOWNSHIP OF | 3401120035A | 24-APR-2002 | 02-02-0672A | 02
02 | NJ | PEMBERTON, TOWNSHIP OF | 3401120025A | 01-MAY-2002 | 02-02-0724A | 02
02 | NJ | PENNSVILLE, TOWNSHIP OF | 3405120003B | 17-MAY-2002 | 02-02-0800A | 02
02 | NJ | PEQUANNOCK, TOWNSHIP OF | 3453110003C | 23-JAN-2002 | 02-02-0490A | 02
02 | NJ | PEQUANNOCK, TOWNSHIP OF | 3453110001C | 26-APR-2002 | 02-02-0922A | 02
02 | NJ | PITTSGROVE, TOWNSHIP OF | 340421—09B | 15-MAY-2002 | 02-02-1086A | 02
02 | NJ | POINT PLEASANT BEACH, BOROUG | 3403880001D | 26-APR-2002 | 02-02-1026A | 02
02 | NJ | POINT PLEASANT BEACH, BOROUG | 3403880001D | 03-MAY-2002 | 02-02-0998A | 02
02 | NJ | POINT PLEASANT, BOROUGH OF | 3453130001B | 04-JAN-2002 | 02-02-0328A | 02
02 | NJ | POINT PLEASANT, BOROUGH OF | 3453130001B | 16-JAN-2002 | 02-02-0382A | 02
02 | NJ | RAMSEY, BOROUGH OF | 34003C0059F | 22-FEB-2002 | 02-02-0352A | 01
02 | NJ | ROSELAND, BOROUGH OF | 3401930003C | 01-MAY-2002 | 02-02-1008A | 17
02 | NJ | ROSELLE, BOROUGH OF | 3404720001A | 15-MAY-2002 | 02-02-1052A | 02
02 | NJ | ROXBURY, TOWNSHIP OF | 3403620009B | 26-APR-2002 | 02-02-0980A | 02
02 | NJ | SOMERS POINT, CITY OF | 3400170001B | 01-MAY-2002 | 02-02-0710A | 02
02 | NJ | SOUTHAMPTON, TOWNSHIP OF | 3401150015B | 03-MAY-2002 | 02-02-0762A | 02
02 | NJ | SOUTHAMPTON, TOWNSHIP OF | 3401150005B | 12-JUN-2002 | 02-02-1198A | 02
02 | NJ | STAFFORD, TOWNSHIP OF | 3403930009C | 10-APR-2002 | 02-02-0642A | 02
02 | NJ | SUMMIT, CITY OF | 3404760001B | 03-MAY-2002 | 02-02-1102V | 19
02 | NJ | UNION BEACH, BOROUGH OF | 3403310001D | 15-MAR-2002 | 02-02-0702A | 02
02 | NJ | UNION, TOWNSHIP OF | 3404770001A | 01-MAY-2002 | 02-02-0952A | 02
02 | NJ | UNION, TOWNSHIP OF | 3404770001A | 15-MAY-2002 | 02-02-0906A | 02
02 | NJ | UPPER SADDLE RIVER, BOROUGH | 34003C0078G | 14-JUN-2002 | 02-02-0812A | 02
02 | NJ | UPPER SADDLE RIVER, BOROUGH | 34003C0079G | 14-JUN-2002 | 02-02-0814A | 01
02 | NJ | UPPER SADDLE RIVER, BOROUGH | 34003C0086G | 14-JUN-2002 | 02-02-1228A | 02
02 | NJ | UPPER SADDLE RIVER, BOROUGH | 34003C0086G | 14-JUN-2002 | 02-02-1234A | 02
02 | NJ | UPPER SADDLE RIVER, BOROUGH | 34003C0086G | 19-JUN-2002 | 02-02-1230A | 02
02 | NJ | UPPER SADDLE RIVER, BOROUGH | 34003C0078G | 19-JUN-2002 | 02-02-1232A | 02
02 | NJ | UPPER SADDLE RIVER, BOROUGH | 34003C0079G | 19-JUN-2002 | 02-02-1236A | 02
02 | NJ | UPPER SADDLE RIVER, BOROUGH | 34003C0079G | 19-JUN-2002 | 02-02-1238A | 02
02 | NJ | UPPER SADDLE RIVER, BOROUGH | 34003C0079G | 21-JUN-2002 | 02-02-1220A | 02
02 | NJ | UPPER SADDLE RIVER, BOROUGH | 34003C0086G | 21-JUN-2002 | 02-02-1222A | 02
02 | NJ | UPPER SADDLE RIVER, BOROUGH | 34003C0079G | 21-JUN-2002 | 02-02-1224A | 02
02 | NJ | UPPER SADDLE RIVER, BOROUGH | 34003C0078G | 21-JUN-2002 | 02-02-1226A | 02
02 | NJ | VERNON, TOWNSHIP OF | 3405610035A | 03-MAY-2002 | 02-02-1036A | 02
02 | NJ | WANAQUE, BOROUGH OF | 3404090001B | 17-APR-2002 | 02-02-0750A | 17
02 | NJ | WANAQUE, BOROUGH OF | 3404090004C | 01-MAY-2002 | 02-02-0924A | 02
02 | NJ | WARREN, TOWNSHIP OF | 3404460005B | 05-JAN-2002 | 02-02-0426V | 19
02 | NJ | WASHINGTON, TOWNSHIP OF | 34003C0181F | 26-MAR-2002 | 02-02-017P | 05
02 | NJ | WAYNE, TOWNSHIP OF | 3453270007B | 17-APR-2002 | 02-02-0878A | 02
02 | NJ | WEST MILFORD, TOWNSHIP OF | 3404110004B | 25-JAN-2002 | 02-02-0466A | 02
02 | NJ | WESTFIELD, TOWN OF | 3404780001B | 17-MAY-2002 | 02-02-1002A | 02
02 | NJ | WEYMOUTH, TOWNSHIP OF | 3405360002B | 11-JAN-2002 | 02-02-0306A | 02
02 | NJ | WHARTON, BROUGH OF | 3403640001B | 03-MAY-2002 | 02-02-1072A | 01
02 | NJ | WILDWOOD CREST, BOROUGH OF | 3453300001C | 25-FEB-2002 | 02-02-013P | 08
02 | NJ | WINSLOW, TOWNSHIP OF | 3401480026B | 23-JAN-2002 | 02-02-0032A | 02
02 | NY | AMHERST, TOWN OF | 3602260004D | 04-JAN-2002 | 02-02-0124A | 02
02 | NY | AMHERST, TOWN OF | 3602260004D | 04-JAN-2002 | 02-02-0126A | 02
02 | NY | AMHERST, TOWN OF | 3602260004D | 04-JAN-2002 | 02-02-0130A | 02
02 | NY | AMHERST, TOWN OF | 3602260007E | 04-JAN-2002 | 02-02-0134A | 02
02 | NY | AMHERST, TOWN OF | 3602260004D | 16-JAN-2002 | 01-02-1348A | 02
02 | NY | AMHERST, TOWN OF | 3602260004D | 16-JAN-2002 | 02-02-0452A | 02
02 | NY | AMHERST, TOWN OF | 3602260007E | 25-JAN-2002 | 02-02-0396A | 02
02 | NY | AMHERST, TOWN OF | 3602260012E | 06-FEB-2002 | 02-02-0482A | 02
02 | NY | AMHERST, TOWN OF | 3602260007E | 06-FEB-2002 | 02-02-0536A | 02
02 | NY | AMHERST, TOWN OF | 3602260007E | 22-FEB-2002 | 02-02-0128A | 02
02 | NY | AMHERST, TOWN OF | 3602260007E | 22-FEB-2002 | 02-02-0428A | 02
02 | NY | AMHERST, TOWN OF | 3602260006E | 22-FEB-2002 | 02-02-0552A | 02
02 | NY | AMHERST, TOWN OF | 3602260007E | 22-FEB-2002 | 02-02-0574A | 02
02 | NY | AMHERST, TOWN OF | 3602260007E | 22-FEB-2002 | 02-02-0636A | 02
02 | NY | AMHERST, TOWN OF | 3602260006E | 08-MAR-2002 | 02-02-0506A | 02
02 | NY | AMHERST, TOWN OF | 3602260004D | 29-MAR-2002 | 02-02-0628A | 02
02 | NY | AMHERST, TOWN OF | 3602260006E | 17-APR-2002 | 02-02-0532A | 02
02 | NY | AMHERST, TOWN OF | 3602260004D | 24-APR-2002 | 02-02-0518A | 02
02 | NY | AMHERST, TOWN OF | 3602260004D | 24-APR-2002 | 02-02-0520A | 02
02 | NY | AMHERST, TOWN OF | 3602260004D | 24-APR-2002 | 02-02-0522A | 02
02 | NY | AMHERST, TOWN OF | 3602260007E | 24-APR-2002 | 02-02-0524A | 02
02 | NY | AMHERST, TOWN OF | 3602260007E | 08-MAY-2002 | 02-02-0668A | 02
02 | NY | AMHERST, TOWN OF | 3602260007E | 29-MAY-2002 | 02-02-1094A | 02
02 | NY | AMHERST, TOWN OF | 3602260007E | 12-JUN-2002 | 02-02-1122A | 02
02 | NY | AMHERST, TOWN OF | 3602260004D | 12-JUN-2002 | 02-02-1154A | 02
02 | NY | AMHERST, TOWN OF | 3602260007E | 12-JUN-2002 | 02-02-1154A | 02
02 | NY | AMHERST, TOWN OF | 3602260006E | 12-JUN-2002 | 02-02-1162A | 02
02 | NY | AMHERST, TOWN OF | 3602260006E | 21-JUN-2002 | 02-02-1346A | 02
02 | NY | AMHERST, TOWN OF | 3602260006E | 21-JUN-2002 | 02-02-1350A | 02
02 | NY | AMSTERDAM, CITY OF | 3604400002D | 06-FEB-2002 | 02-02-0362A | 01
02 | NY | AMSTERDAM, CITY OF | 360441—04C | 06-FEB-2002 | 02-02-0362A | 01
02 | NY | ARCADE, TOWN OF | 3609390007C | 27-MAR-2002 | 02-02-0284A | 02
02 | NY | BABYLON, VILLAGE OF | 36103C0854G | 26-APR-2002 | 02-02-0880A | 02
02 | NY | BELLMONT, TOWN OF | 361392—04A | 06-FEB-2002 | 02-02-0474A | 02
02 | NY | BELLMONT, TOWN OF | 361392—09A | 24-APR-2002 | 02-02-0712A | 02
02 | NY | BIG FLATS, TOWN OF | 3601480015E | 02-FEB-2002 | 99-02-071P | 05
02 | NY | BROOKHAVEN,TOWN OF | 36103C0742G | 14-JUN-2002 | 02-02-1176A | 02
02 | NY | BUFFALO, CITY OF | 3602300010C | 06-FEB-2002 | 02-02-0514A | 02
02 | NY | BUFFALO, CITY OF | 3602300010C | 06-FEB-2002 | 02-02-0516A | 02
02 | NY | BUFFALO, CITY OF | 3602300010C | 22-FEB-2002 | 02-02-0512A | 02
02 | NY | BUFFALO, CITY OF | 3602300010C | 22-FEB-2002 | 02-02-0566A | 02
02 | NY | BUFFALO, CITY OF | 3602300010C | 06-MAR-2002 | 02-02-0510A | 02
02 | NY | BUFFALO, CITY OF | 3602300010C | 08-MAR-2002 | 02-02-0300A | 02
02 | NY | BUFFALO, CITY OF | 3602300010C | 29-MAY-2002 | 02-02-1142A | 02
02 | NY | CAMPBELL, TOWN OF | 3607680005C | 25-JAN-2002 | 02-02-0230A | 02
02 | NY | CHARLTON, TOWN OF | 36091C0509E | 03-MAY-2002 | 02-02-0704A | 02
02 | NY | CHEEKTOWAGA, TOWN OF | 3602310005E | 26-JAN-2002 | 00-02-013P | 05
02 | NY | CHESTER, TOWN OF | 360609—08A | 18-JAN-2002 | 02-02-0202A | 02
02 | NY | CHESTER, TOWN OF | 3608700005B | 12-JUN-2002 | 02-02-1240A | 02
02 | NY | CHILI, TOWN OF | 3604120020A | 14-JUN-2002 | 02-02-0894A | 01
02 | NY | CICERO, TOWN OF | 3605720005D | 16-JAN-2002 | 02-02-0208A | 02
02 | NY | CICERO, TOWN OF | 3605720003D | 12-APR-2002 | 02-02-0804A | 17
02 | NY | CICERO, TOWN OF | 3605720004D | 12-APR-2002 | 02-02-0804A | 17
02 | NY | CICERO, TOWN OF | 3605720004D | 17-MAY-2002 | 02-02-0970A | 02
02 | NY | CICERO, TOWN OF | 3605720005D | 28-JUN-2002 | 02-02-1114A | 02
02 | NY | CLARENCE, TOWN OF | 3602320013C | 04-JAN-2002 | 02-02-0078A | 02
02 | NY | CLARENCE, TOWN OF | 3602320005C | 04-JAN-2002 | 02-02-0374X | 02
02 | NY | CLARENCE, TOWN OF | 3602320014C | 11-JAN-2002 | 02-02-0144A | 01
02 | NY | CLARENCE, TOWN OF | 3602320005C | 16-JAN-2002 | 01-02-1356A | 01
02 | NY | CLARENCE, TOWN OF | 3602320005C | 16-JAN-2002 | 02-02-0270A | 01
02 | NY | CLARENCE, TOWN OF | 3602320005C | 18-JAN-2002 | 01-02-1286A | 01
02 | NY | CLARENCE, TOWN OF | 3602320011C | 08-FEB-2002 | 02-02-0380A | 02
02 | NY | CLARENCE, TOWN OF | 3602320005C | 27-FEB-2002 | 01-02-1288A | 01
02 | NY | CLARENCE, TOWN OF | 3602320005C | 13-MAR-2002 | 02-02-0562A | 02
02 | NY | CLARENCE, TOWN OF | 3602320005C | 13-MAR-2002 | 02-02-0564A | 02
02 | NY | CLARENCE, TOWN OF | 3602320013C | 27-MAR-2002 | 02-02-0670A | 02
02 | NY | CLARENCE, TOWN OF | 3602320013C | 27-MAR-2002 | 02-02-0810A | 02
02 | NY | CLARENCE, TOWN OF | 3602320013C | 17-APR-2002 | 02-02-0618A | 02
02 | NY | CLARENCE, TOWN OF | 3602320005C | 24-APR-2002 | 02-02-0766A | 02
02 | NY | CLARENCE, TOWN OF | 3602320013C | 03-MAY-2002 | 02-02-1024A | 02
02 | NY | CLARENCE, TOWN OF | 3602320005C | 08-MAY-2002 | 02-02-1048A | 01
02 | NY | CLARENCE, TOWN OF | 3602320005C | 14-JUN-2002 | 02-02-1268A | 02
02 | NY | CLARKSTOWN, TOWN OF | 3606790004F | 16-JAN-2002 | 02-02-0338A | 02
02 | NY | CLARKSTOWN, TOWN OF | 3606790010E | 16-JAN-2002 | 02-02-0354A | 02
02 | NY | CLARKSTOWN, TOWN OF | 3606790014E | 06-FEB-2002 | 02-02-0384A | 02
02 | NY | CLARKSTOWN, TOWN OF | 3606790014E | 06-FEB-2002 | 02-02-0390A | 02
02 | NY | CLARKSTOWN, TOWN OF | 3606790003E | 27-MAR-2002 | 02-02-0254X | 02
02 | NY | CLARKSTOWN, TOWN OF | 3606790004F | 27-MAR-2002 | 02-02-0744A | 02
02 | NY | CLAY, TOWN OF | 3605730010D | 24-APR-2002 | 02-02-0442A | 02
02 | NY | COLLINS,TOWN OF | 360234—01B | 20-MAR-2002 | 02-02-0394A | 02
02 | NY | COPAKE, TOWN OF | 361074—02B | 27-MAR-2002 | 02-02-0692A | 02
02 | NY | COPAKE, TOWN OF | 360174—02B | 29-MAY-2002 | 02-02-1078A | 02
02 | NY | CORTLAND, CITY OF | 3601780001C | 23-JAN-2002 | 02-02-0342A | 02
02 | NY | CORTLAND, CITY OF | 3601780001C | 21-JUN-2002 | 02-02-1150A | 02
02 | NY | CORTLAND, CITY OF | 3601780001C | 21-JUN-2002 | 02-02-1352A | 02
02 | NY | CORTLAND, CITY OF | 3601780001C | 21-JUN-2002 | 02-02-1354A | 02
02 | NY | CORTLANDT, TOWN OF | 3609060010B | 23-JAN-2002 | 02-02-0458A | 02
02 | NY | CORTLANDT, TOWN OF | 3609060002B | 15-MAY-2002 | 02-02-1000A | 02
02 | NY | CORTLANDT, TOWN OF | 3609060005B | 12-JUN-2002 | 02-02-1196A | 02
02 | NY | CROGHAN, TOWN OF | 360362—12A | 06-MAR-2002 | 02-02-0360A | 02
02 | NY | DOVER, TOWN OF | 3613350008A | 11-JAN-2002 | 02-02-0084A | 01
02 | NY | DRYDEN, TOWN OF | 360846—03B | 03-APR-2002 | 02-02-0550A | 02
02 | NY | EAST FISHKILL, TOWN OF | 3613360009B | 27-MAR-2002 | 02-02-0726A | 02
02 | NY | ELLENBURG, TOWN OF | 361382—07 | 24-APR-2002 | 02-02-0872A | 02
02 | NY | ELLENVILLE, VILLAGE OF | 3609750001B | 30-JAN-2002 | 02-02-0334A | 02
02 | NY | ELLERY, TOWN OF | 3610720028B | 12-JUN-2002 | 02-02-1128A | 01
02 | NY | ELMA,TOWN OF | 3602390002B | 12-JUN-2002 | 02-02-1088A | 02
02 | NY | EVANS, TOWN OF | 3602400003F | 03-FEB-2002 | 02-02-0566V | 19
02 | NY | EVANS, TOWN OF | 3602400014F | 03-FEB-2002 | 02-02-0566V | 19
02 | NY | EVANS, TOWN OF | 3602400015F | 03-FEB-2002 | 02-02-0566V | 19
02 | NY | EVANS, TOWN OF | 3602400016F | 03-FEB-2002 | 02-02-0566V | 19
02 | NY | EVANS, TOWN OF | 3602400003F | 08-MAY-2002 | 02-02-0960A | 02
02 | NY | EVANS, TOWN OF | 3602400002F | 26-JUN-2002 | 02-02-1108A | 02
02 | NY | FAYETTEVILLE, VILLAGE OF | 3605780001C | 29-MAR-2002 | 02-02-0782A | 02
02 | NY | FORT ANN, TOWN OF | 3612310050B | 28-JUN-2002 | 02-02-1178A | 02
02 | NY | FOWLER, TOWN OF | 3606980005B | 11-JAN-2002 | 02-02-0118A | 02
02 | NY | FREEPORT, VILLAGE OF | 36059C0239F | 14-MAR-2002 | 02-02-0248A | 01
02 | NY | GAINES, TOWN OF | 3612250005B | 17-APR-2002 | 02-02-0806A | 02
02 | NY | GERMAN FLATTS, TOWN OF | 360305—02B | 29-MAY-2002 | 02-02-0722A | 02
02 | NY | GRAND ISLAND, TOWN OF | 3602420002B | 16-JAN-2002 | 02-02-0298A | 02
02 | NY | GRAND ISLAND, TOWN OF | 3602420011B | 16-JAN-2002 | 02-02-0440A | 02
02 | NY | GRANVILLE, TOWN OF | 361232A—04A | 12-JUN-2002 | 02-02-0954A | 02
02 | NY | GREAT VALLEY, TOWN OF | 3600760025B | 10-JAN-2002 | 00-02-031P | 05
02 | NY | GREECE, TOWN OF | 3604170003F | 11-JAN-2002 | 02-02-0370A | 02
02 | NY | GREECE, TOWN OF | 3604170004E | 16-JAN-2002 | 02-02-0412X | 01
02 | NY | GREECE, TOWN OF | 3604170001E | 22-FEB-2002 | 02-02-0634A | 02
02 | NY | GREECE, TOWN OF | 3604170006E | 02-MAY-2002 | 01-02-027P | 05
02 | NY | GREECE, TOWN OF | 3604170002D | 08-MAY-2002 | 02-02-0902A | 01
02 | NY | GREECE, TOWN OF | 3604170003F | 29-MAY-2002 | 02-02-1148A | 02
02 | NY | GREECE, TOWN OF | 3604170003F | 12-JUN-2002 | 02-02-1186A | 02
02 | NY | GREENE, VILLAGE OF | 3601590001C | 08-MAR-2002 | 02-02-0620A | 02
02 | NY | GREIG, TOWN OF | 360365—03B | 20-FEB-2002 | 01-02-1382A | 02
02 | NY | HAMBURG, TOWN OF | 3602440018D | 03-MAY-2002 | 02-02-1058A | 02
02 | NY | HAMBURG, TOWN OF | 3602440007D | 29-MAY-2002 | 02-02-0892A | 02
02 | NY | HAMLIN, TOWN OF | 3604180002C | 03-MAY-2002 | 02-02-1018A | 02
02 | NY | HAMLIN, TOWN OF | 3604180002C | 29-MAY-2002 | 02-02-0916A | 02
02 | NY | HANCOCK, TOWN OF | 3602010009B | 12-JUN-2002 | 02-02-1194A | 02
02 | NY | HANCOCK, TOWN OF | 3602010010B | 12-JUN-2002 | 02-02-1194A | 02
02 | NY | HANOVER, TOWN OF | 3653360006B | 12-JUN-2002 | 02-02-1060A | 02
02 | NY | HEMPSTEAD, TOWN OF | 36059C0242F | 22-FEB-2002 | 02-02-0542A | 02
02 | NY | HENRIETTA, TOWN OF | 3604190005E | 16-JAN-2002 | 02-02-0410X | 01
02 | NY | HENRIETTA, TOWN OF | 3604190005E | 01-MAY-2002 | 02-02-0674A | 01
02 | NY | HURON, TOWN OF | 3608920015C | 08-MAR-2002 | 02-02-0266A | 02
02 | NY | INDIAN LAKE, TOWN OF | 361113—09B | 08-FEB-2002 | 02-02-0304A | 02
02 | NY | IRONDEQUOIT, TOWN OF | 3604220005B | 17-APR-2002 | 02-02-0546A | 02
02 | NY | ISLIP,TOWNSHIP OF | 36103C0882G | 06-FEB-2002 | 02-02-0386A | 02
02 | NY | ISLIP,TOWNSHIP OF | 36103C0866G | 10-MAY-2002 | 02-02-0596A | 02
02 | NY | ISLIP,TOWNSHIP OF | 36103C0854G | 29-MAY-2002 | 02-02-1046A | 02
02 | NY | JAY, TOWN OF | 3602650014D | 18-JUN-2002 | 02-02-1480V | 19
02 | NY | JAY, TOWN OF | 3602650021D | 18-JUN-2002 | 02-02-1480V | 19
02 | NY | JAY, TOWN OF | 3602650026D | 18-JUN-2002 | 02-02-1480V | 19
02 | NY | JORDON, VILLAGE OF | 3605800001B | 16-JAN-2002 | 02-02-0150A | 02
02 | NY | LACKAWANNA, CITY OF | 3602470001B | 17-APR-2002 | 02-02-0768A | 02
02 | NY | LANCASTER, TOWN OF | 3602490010C | 23-JAN-2002 | 01-02-1366A | 02
02 | NY | LANCASTER, TOWN OF | 3602490006C | 12-JUN-2002 | 02-02-1192A | 02
02 | NY | LIVERPOOL, VILLAGE OF | 3605820001B | 26-APR-2002 | 02-02-0972A | 02
02 | NY | LLOYD, TOWN OF | 3610120003D | 06-FEB-2002 | 02-02-0444A | 02
02 | NY | LOCKPORT, TOWN OF | 3610130023B | 06-FEB-2002 | 02-02-0086A | 02
02 | NY | LOCKPORT, TOWN OF | 3610130023B | 28-JUN-2002 | 02-02-1202A | 02
02 | NY | MALTA, TOWN OF | 36091C0552E | 26-JUN-2002 | 02-02-1172A | 02
02 | NY | MAMARONECK, TOWN OF | 3609170003B | 22-FEB-2002 | 02-02-0438A | 02
02 | NY | MAMARONECK, VILLAGE OF | 3609160002D | 22-FEB-2002 | 02-02-0554A | 02
02 | NY | MANLIUS, TOWN OF | 3605840005E | 11-JAN-2002 | 02-02-0250A | 02
02 | NY | MANLIUS, TOWN OF | 3605840017D | 27-MAR-2002 | 02-02-0332A | 02
02 | NY | MANLIUS, TOWN OF | 3605840010D | 03-MAY-2002 | 02-02-0102A | 02
02 | NY | MANLIUS, TOWN OF | 3605840005E | 03-MAY-2002 | 02-02-0846A | 02
02 | NY | MARCELLUS, VILLAGE OF | 3605860001B | 20-MAR-2002 | 01-02-1202A | 01
02 | NY | MIDDLEBURGH, VILLAGE OF | 3612450001D | 06-FEB-2002 | 02-02-0290A | 02
02 | NY | MILFORD, TOWN OF | 361274—06B | 03-MAY-2002 | 02-02-1066A | 02
02 | NY | MONROE, VILLAGE OF | 3606000001B | 27-MAR-2002 | 02-02-0538A | 02
02 | NY | MURRAY, TOWN OF | 3612560004B | 01-MAY-2002 | 02-02-1044A | 02
02 | NY | NEW YORK, CITY OF | 3604970144E | 16-JAN-2002 | 02-02-0062A | 02
02 | NY | NEW YORK, CITY OF | 3604970137E | 16-JAN-2002 | 02-02-0320A | 02
02 | NY | NEW YORK, CITY OF | 3604970013B | 25-JAN-2002 | 01-02-0914A | 02
02 | NY | NEW YORK, CITY OF | 3604970146E | 08-FEB-2002 | 02-02-0576A | 02
02 | NY | NEW YORK, CITY OF | 3604970134E | 27-MAR-2002 | 02-02-0608A | 02
02 | NY | NEW YORK, CITY OF | 3604970144E | 27-MAR-2002 | 02-02-0792A | 02
02 | NY | NEW YORK, CITY OF | 3604970023B | 27-MAR-2002 | 02-02-0796A | 02
02 | NY | NEW YORK, CITY OF | 3604970139E | 17-APR-2002 | 02-02-0464A | 02
02 | NY | NEW YORK, CITY OF | 3604970139E | 17-APR-2002 | 02-02-0842A | 02
02 | NY | NEW YORK, CITY OF | 3604970149E | 01-MAY-2002 | 02-02-0874A | 02
02 | NY | NEW YORK, CITY OF | 3604970144E | 08-MAY-2002 | 02-02-0978A | 02
02 | NY | NEW YORK, CITY OF | 3604970138E | 10-MAY-2002 | 02-02-0948A | 02
02 | NY | NEW YORK, CITY OF | 3604970149E | 17-MAY-2002 | 02-02-0876A | 02
02 | NY | NEW YORK, CITY OF | 3604970144E | 29-MAY-2002 | 02-02-0996A | 01
02 | NY | NEW YORK, CITY OF | 3604970126E | 29-MAY-2002 | 02-02-1006A | 02
02 | NY | NEW YORK, CITY OF | 3604970144E | 29-MAY-2002 | 02-02-1106A | 02
02 | NY | NEW YORK, CITY OF | 3604970144E | 12-JUN-2002 | 02-02-0976A | 01
02 | NY | NEW YORK, CITY OF | 3604970133E | 12-JUN-2002 | 02-02-1030A | 02
02 | NY | NEW YORK, CITY OF | 3604970139E | 12-JUN-2002 | 02-02-1030A | 02
02 | NY | NEW YORK, CITY OF | 3604970144E | 14-JUN-2002 | 02-02-0896A | 02
02 | NY | NEW YORK, CITY OF | 3604970138E | 26-JUN-2002 | 02-02-1110A | 02
02 | NY | NIAGARA FALLS, CITY OF | 3605060002B | 30-JAN-2002 | 02-02-0446A | 02
02 | NY | NIAGARA FALLS, CITY OF | 3605060002B | 27-MAR-2002 | 02-02-0682A | 02
02 | NY | NIAGARA FALLS, CITY OF | 3605060003C | 08-MAY-2002 | 02-02-0966A | 02
02 | NY | ONEIDA, CITY OF | 3604080004D | 25-JAN-2002 | 02-02-0404A | 02
02 | NY | ONEIDA, CITY OF | 3604080003D | 25-JAN-2002 | 02-02-0454A | 02
02 | NY | ONONDAGA, TOWN OF | 3605880010C | 27-MAR-2002 | 02-02-0244A | 02
02 | NY | ONONDAGA, TOWN OF | 3605880010C | 29-MAR-2002 | 02-02-0606A | 02
02 | NY | ONTARIO, TOWN OF | 3608950005B | 03-MAY-2002 | 02-02-1022A | 02
02 | NY | OYSTER BAY, TOWN OF | 36059C0262F | 23-JAN-2002 | 02-02-0366A | 02
02 | NY | OYSTER BAY, TOWN OF | 36059C0261F | 12-JUN-2002 | 02-02-1206A | 02
02 | NY | OYSTER BAY, TOWN OF | 36059C0263F | 12-JUN-2002 | 02-02-1206A | 02
02 | NY | OYSTER BAY, TOWN OF | 36059C0263F | 28-JUN-2002 | 02-02-0900A | 02
02 | NY | PATTERSON, TOWN OF | 3610230005B | 16-JAN-2002 | 02-02-0330A | 02
02 | NY | PENDLETON, TOWN OF | 3605090004B | 17-JUN-2002 | 01-02-041P | 06
02 | NY | PHILIPSTOWN,TOWN OF | 3610260001B | 15-MAR-2002 | 02-02-0614A | 02
02 | NY | PITTSFORD, TOWN OF | 3604290005C | 21-JUN-2002 | 02-02-1068A | 02
02 | NY | PORT JERVIS, CITY OF | 3609760001B | 16-JAN-2002 | 02-02-0154A | 02
02 | NY | PORT JERVIS, CITY OF | 3609760001C | 03-APR-2002 | 02-02-0829V | 19
02 | NY | POUGHKEEPSIE, TOWN OF | 3611420002C | 17-MAY-2002 | 02-02-0038A | 01
02 | NY | POUGHKEEPSIE, TOWN OF | 3611420002C | 29-MAY-2002 | 02-02-0648A | 02
02 | NY | PREBLE, TOWN OF | 360185—001B | 06-FEB-2002 | 02-02-0340A | 02
02 | NY | PUTTNAM VALLEY, TOWN OF | 3610300018C | 21-JUN-2002 | 02-02-0656V | 19
02 | NY | REMSEN, TOWN OF | 360540—01B | 28-JUN-2002 | 02-02-1032A | 02
02 | NY | RIVERHEAD, TOWN OF | 36103C0487G | 27-MAR-2002 | 02-02-0472A | 02
02 | NY | RIVERHEAD, TOWN OF | 36103C0479G | 03-MAY-2002 | 02-02-0708A | 02
02 | NY | SAND LAKE, TOWN OF | 3611670007A | 06-MAR-2002 | 02-02-0468A | 02
02 | NY | SCHROEPPEL, TOWN OF | 3606620020B | 12-JUN-2002 | 02-02-1112A | 02
02 | NY | SCHROON, TOWN OF | 3611580060C | 08-MAY-2002 | 02-02-0736A | 02
02 | NY | SOUTHAMPTON, TOWN OF | 36103C0486G | 04-JAN-2002 | 02-02-0278A | 02
02 | NY | SOUTHAMPTON, TOWN OF | 36103C0762G | 07-JUN-2002 | 02-02-1334A | 01
02 | NY | STILLWATER, TOWN OF | 36091C0576E | 17-APR-2002 | 02-02-0838A | 02
02 | NY | STONY POINT, TOWN OF | 3606930011C | 11-JAN-2002 | 02-02-0240A | 02
02 | NY | SYLVAN BEACH, VILLAGE OF | 3610420001D | 17-APR-2002 | 02-02-0616A | 02
02 | NY | ULYSSES, TOWN OF | 3608540005B | 15-MAY-2002 | 02-02-0984A | 02
02 | NY | VALLEY STREAM, VILLAGE OF | 36059C0212F | 22-FEB-2002 | 01-02-1284A | 02
02 | NY | WATSON, TOWN OF | 3603370030C | 27-MAR-2002 | 02-02-0690A | 02
02 | NY | WEBB, TOWN OF | 360321A—21A | 06-FEB-2002 | 02-02-0280A | 02
02 | NY | WEBB, TOWN OF | 360321—24A | 06-FEB-2002 | 02-02-0280A | 02
02 | NY | WEBB, TOWN OF | 360321—21A | 08-FEB-2002 | 02-02-0558A | 02
02 | NY | WEBB, TOWN OF | 360321—12A | 15-MAR-2002 | 02-02-0476A | 02
02 | NY | WEBB, TOWN OF | 360321—21A | 27-MAR-2002 | 02-02-0570A | 02
02 | NY | WEBB, TOWN OF | 360321—21A | 15-MAY-2002 | 02-02-0962A | 02
02 | NY | WEBSTER, TOWN OF | 3604360008C | 01-MAY-2002 | 02-02-0774A | 02
02 | NY | WHEATFIELD, TOWN OF | 3605130004D | 24-APR-2002 | 02-02-0938A | 02
02 | NY | WHEATFIELD, TOWN OF | 3605130004D | 10-MAY-2002 | 02-02-0882A | 02
02 | NY | WHEATFIELD, TOWN OF | 3605130007D | 29-MAY-2002 | 02-02-0914A | 02
02 | NY | WILLIAMSVILLE, VILLAGE OF | 3602630001B | 12-JUN-2002 | 02-02-1134A | 01
02 | NY | WILLSBORO, TOWN OF | 3602670015B | 17-APR-2002 | 02-02-0834A | 02
02 | NY | YORKTOWN, TOWN OF | 3609370009C | 29-MAY-2002 | 02-02-1138A | 01
02 | PR | PUERTO RICO,COMMONWEALTH OF | 7200000301D | 11-JAN-2002 | 01-02-248P | 05
02 | PR | PUERTO RICO,COMMONWEALTH OF | 7200000224B | 11-JAN-2002 | 02-02-0104A | 01
02 | PR | PUERTO RICO,COMMONWEALTH OF | 7200000047E | 11-JAN-2002 | 02-02-0350X | 02
02 | PR | PUERTO RICO,COMMONWEALTH OF | 7200000047E | 16-JAN-2002 | 02-02-0406X | 02
02 | PR | PUERTO RICO,COMMONWEALTH OF | 7200000059C | 18-JAN-2002 | 00-02-017P | 05
02 | PR | PUERTO RICO,COMMONWEALTH OF | 7200000120B | 18-JAN-2002 | 00-02-017P | 05
02 | PR | PUERTO RICO,COMMONWEALTH OF | 7200000189D | 23-JAN-2002 | 02-02-0348X | 01
02 | PR | PUERTO RICO,COMMONWEALTH OF | 7200000035E | 08-FEB-2002 | 02-02-0094A | 01
02 | PR | PUERTO RICO,COMMONWEALTH OF | 7200000059C | 08-MAR-2002 | 02-02-0586A | 01
02 | PR | PUERTO RICO,COMMONWEALTH OF | 7200000047E | 08-MAR-2002 | 02-02-0686A | 02
02 | PR | PUERTO RICO,COMMONWEALTH OF | 7200000059C | 20-MAR-2002 | 02-02-0758A | 02
02 | PR | PUERTO RICO,COMMONWEALTH OF | 7200000049C | 27-MAR-2002 | 02-02-0728A | 02
02 | PR | PUERTO RICO,COMMONWEALTH OF | 7200000047E | 27-MAR-2002 | 02-02-0730A | 02
02 | PR | PUERTO RICO,COMMONWEALTH OF | 7200000059C | 27-MAR-2002 | 02-02-0732A | 02
02 | PR | PUERTO RICO,COMMONWEALTH OF | 7200000277D | 17-APR-2002 | 02-02-0316A | 02
02 | PR | PUERTO RICO,COMMONWEALTH OF | 7200000281D | 17-APR-2002 | 02-02-0316A | 02
02 | PR | PUERTO RICO,COMMONWEALTH OF | 7200000189D | 17-APR-2002 | 02-02-0784A | 02
02 | PR | PUERTO RICO,COMMONWEALTH OF | 7200000048B | 24-APR-2002 | 02-02-0046A | 01
02 | PR | PUERTO RICO,COMMONWEALTH OF | 7200000035E | 24-APR-2002 | 02-02-0746A | 02
02 | PR | PUERTO RICO,COMMONWEALTH OF | 7200000049C | 26-APR-2002 | 02-02-1014A | 01
02 | PR | PUERTO RICO,COMMONWEALTH OF | 7200000189D | 15-MAY-2002 | 02-02-0696A | 01
02 | PR | PUERTO RICO,COMMONWEALTH OF | 7200000030D | 15-MAY-2002 | 02-02-1016A | 01
02 | PR | PUERTO RICO,COMMONWEALTH OF | 7200000045E | 17-MAY-2002 | 02-02-1010A | 02
02 | PR | PUERTO RICO,COMMONWEALTH OF | 7200000132D | 17-MAY-2002 | 02-02-1012A | 01
02 | PR | PUERTO RICO,COMMONWEALTH OF | 7200000120B | 17-MAY-2002 | 02-02-1118A | 01
02 | PR | PUERTO RICO,COMMONWEALTH OF | 7200000053D | 29-MAY-2002 | 02-02-1168A | 02
02 | VI | VIRGIN ISLANDS, TERRITORY OF | 7800000015F | 06-FEB-2002 | 02-02-0054A | 02
03 | DC | DISTRICT OF COLUMBIA | 1100010010B | 17-APR-2002 | 02-03-1150A | 02
03 | DE | DOVER, CITY OF | 1000060005C | 30-JAN-2002 | 02-03-0554A | 02
03 | DE | DOVER, CITY OF | 1000060005C | 27-MAR-2002 | 02-03-1090A | 02
03 | DE | DOVER, CITY OF | 1000060005C | 12-APR-2002 | 02-03-1196A | 02
03 | DE | DOVER, CITY OF | 1000060005C | 03-MAY-2002 | 02-03-1394A | 01
03 | DE | KENT COUNTY * | 1000010090B | 01-FEB-2002 | 02-03-0674A | 02
03 | DE | KENT COUNTY * | 1000010080B | 15-FEB-2002 | 02-03-0692A | 02
03 | DE | KENT COUNTY * | 1000010080B | 20-MAR-2002 | 02-03-0842A | 02
03 | DE | KENT COUNTY * | 1000010075B | 27-MAR-2002 | 02-03-0946A | 02
03 | DE | KENT COUNTY * | 1000010090B | 17-APR-2002 | 02-03-1024A | 02
03 | DE | KENT COUNTY * | 1000010075B | 17-APR-2002 | 02-03-1164A | 02
03 | DE | KENT COUNTY * | 1000010130C | 19-APR-2002 | 02-03-1248A | 02
03 | DE | KENT COUNTY * | 1000010130C | 19-APR-2002 | 02-03-1346A | 02
03 | DE | KENT COUNTY * | 1000010130C | 15-MAY-2002 | 02-03-0810A | 02
03 | DE | KENT COUNTY * | 1000010075B | 17-MAY-2002 | 02-03-1506A | 02
03 | DE | KENT COUNTY * | 1000010140B | 28-JUN-2002 | 02-03-1306A | 01
03 | DE | NEW CASTLE COUNTY * | 10003C0069G | 10-JAN-2002 | 02-03-0046A | 02
03 | DE | NEW CASTLE COUNTY * | 10003C0069G | 10-JAN-2002 | 02-03-0048A | 02
03 | DE | NEW CASTLE COUNTY * | 10003C0069G | 10-JAN-2002 | 02-03-0050A | 02
03 | DE | NEW CASTLE COUNTY * | 10003C0069G | 10-JAN-2002 | 02-03-0052A | 02
03 | DE | NEW CASTLE COUNTY * | 10003C0160G | 06-FEB-2002 | 02-03-0644X | 02
03 | DE | NEW CASTLE COUNTY * | 10003C0040G | 08-FEB-2002 | 02-03-0494A | 02
03 | DE | NEW CASTLE COUNTY * | 10003C0165G | 22-FEB-2002 | 02-03-0622A | 02
03 | DE | NEW CASTLE COUNTY * | 10003C0230G | 03-APR-2002 | 02-03-0930A | 02
03 | DE | NEW CASTLE COUNTY * | 10003C0160G | 26-APR-2002 | 02-03-0638A | 01
03 | DE | SUSSEX COUNTY* | 10005C0485F | 05-APR-2002 | 02-03-0982A | 02
03 | DE | SUSSEX COUNTY* | 10005C0355G | 19-APR-2002 | 02-03-1000A | 02
03 | DE | SUSSEX COUNTY* | 10005C0655F | 20-JUN-2002 | 02-03-049P | 05
03 | DE | WILMINGTON, CITY OF | 10003C0160G | 03-APR-2002 | 02-03-0942A | 02
03 | DE | WILMINGTON, CITY OF | 10003C0068G | 14-JUN-2002 | 02-03-1274A | 02
03 | DE | WILMINGTON, CITY OF | 10003C0069G | 14-JUN-2002 | 02-03-1274A | 02
03 | DE | WILMINGTON, CITY OF | 10003C0160G | 14-JUN-2002 | 02-03-1274A | 02
03 | DE | WILMINGTON, CITY OF | 10003C0160G | 14-JUN-2002 | 02-03-1630A | 02
03 | MD | ANNE ARUNDEL COUNTY * | 2400080007C | 13-MAR-2002 | 02-03-0876A | 02
03 | MD | ANNE ARUNDEL COUNTY * | 2400080043C | 29-MAR-2002 | 02-03-0880A | 02
03 | MD | ANNE ARUNDEL COUNTY * | 2400080044D | 15-MAY-2002 | 02-03-1486A | 02
03 | MD | BALTIMORE COUNTY* | 2400100390D | 04-JAN-2002 | 01-03-1612A | 02
03 | MD | BALTIMORE COUNTY* | 2400100440C | 06-FEB-2002 | 02-03-0628A | 02
03 | MD | BALTIMORE COUNTY* | 2400100360B | 27-FEB-2002 | 02-03-0520A | 02
03 | MD | BALTIMORE COUNTY* | 2400100270B | 01-MAR-2002 | 02-03-0824A | 02
03 | MD | BALTIMORE COUNTY* | 2400100220C | 06-MAR-2002 | 02-03-0860A | 02
03 | MD | BALTIMORE COUNTY* | 2400100360B | 11-MAR-2002 | 02-03-0620A | 02
03 | MD | BALTIMORE COUNTY* | 2400100270B | 15-MAR-2002 | 02-03-0678A | 02
03 | MD | BALTIMORE COUNTY* | 2400100265B | 15-MAR-2002 | 02-03-0940A | 02
03 | MD | BALTIMORE COUNTY* | 2400100505B | 17-APR-2002 | 02-03-1028A | 02
03 | MD | BALTIMORE COUNTY* | 2400100270B | 17-APR-2002 | 02-03-1172A | 02
03 | MD | BALTIMORE COUNTY* | 2400100430B | 26-APR-2002 | 02-03-0818A | 02
03 | MD | BALTIMORE COUNTY* | 2400100455B | 03-MAY-2002 | 02-03-0648A | 02
03 | MD | BALTIMORE COUNTY* | 2400100445C | 24-MAY-2002 | 02-03-1180A | 02
03 | MD | BALTIMORE COUNTY* | 2400100445C | 26-JUN-2002 | 02-03-1592A | 02
03 | MD | BALTIMORE COUNTY* | 2400100505B | 26-JUN-2002 | 02-03-1724A | 02
03 | MD | CAROLINE COUNTY * | 2401300220B | 05-APR-2002 | 02-03-1242A | 02
03 | MD | CECIL COUNTY* | 2400190072B | 01-MAR-2002 | 02-03-0150A | 02
03 | MD | CECIL COUNTY* | 2400190080B | 01-MAR-2002 | 02-03-0150A | 02
03 | MD | CECIL COUNTY* | 2400190029A | 01-MAR-2002 | 02-03-0662A | 02
03 | MD | CECIL COUNTY* | 2400190031B | 13-MAR-2002 | 01-03-1722A | 02
03 | MD | CECIL COUNTY* | 2400190057A | 15-MAR-2002 | 02-03-0100A | 02
03 | MD | CECIL COUNTY* | 2400190049A | 17-MAY-2002 | 02-03-1294A | 02
03 | MD | DENTON, TOWN OF | 2401040001A | 15-MAY-2002 | 02-03-1388A | 02
03 | MD | DORCHESTER COUNTY * | 2400260175B | 26-APR-2002 | 02-03-1308A | 02
03 | MD | ELKTON, TOWN OF | 2400220003C | 04-JAN-2002 | 02-03-0210A | 02
03 | MD | ELKTON, TOWN OF | 2400220003C | 09-JAN-2002 | 02-03-0530A | 02
03 | MD | ELKTON, TOWN OF | 2400220003C | 05-APR-2002 | 02-03-1004A | 02
03 | MD | FREDERICK COUNTY * | 2400270180A | 26-APR-2002 | 02-03-1340A | 02
03 | MD | FREDERICK COUNTY * | 2400270180A | 01-MAY-2002 | 02-03-1386A | 02
03 | MD | GAITHERSBURG, CITY OF | 2400500004B | 17-APR-2002 | 02-03-1148A | 02
03 | MD | HARFORD COUNTY * | 24025C0263D | 22-FEB-2002 | 02-03-0388A | 02
03 | MD | HARFORD COUNTY * | 24025C0004D | 12-APR-2002 | 02-03-0546A | 02
03 | MD | HOWARD COUNTY* | 2400440028C | 04-JAN-2002 | 02-03-0436A | 02
03 | MD | HOWARD COUNTY* | 2400440028C | 15-FEB-2002 | 02-03-0562A | 02
03 | MD | HOWARD COUNTY* | 2400440034B | 17-APR-2002 | 02-03-0716A | 02
03 | MD | HOWARD COUNTY* | 2400440027C | 01-MAY-2002 | 02-03-1384A | 02
03 | MD | KENT COUNTY * | 2400450035B | 08-FEB-2002 | 02-03-0570A | 02
03 | MD | LAUREL, CITY OF | 2400530001D | 04-JAN-2002 | 02-03-0300X | 01
03 | MD | MONTGOMERY COUNTY * | 2400490200C | 09-JAN-2002 | 01-03-1772A | 02
03 | MD | MONTGOMERY COUNTY * | 2400490200C | 30-JAN-2002 | 02-03-0120A | 02
03 | MD | MONTGOMERY COUNTY * | 2400490200C | 13-FEB-2002 | 02-03-0556A | 02
03 | MD | MONTGOMERY COUNTY * | 2400490175C | 15-FEB-2002 | 02-03-0600A | 02
03 | MD | MONTGOMERY COUNTY * | 2400490175C | 03-APR-2002 | 02-03-0836A | 17
03 | MD | MONTGOMERY COUNTY * | 2400490200C | 05-APR-2002 | 02-03-1060A | 02
03 | MD | MONTGOMERY COUNTY * | 2400490175C | 12-APR-2002 | 02-03-1138A | 02
03 | MD | MONTGOMERY COUNTY * | 2400490200C | 26-JUN-2002 | 02-03-1570A | 02
03 | MD | PRINCE GEORGES COUNTY * | 2452080065D | 17-MAY-2002 | 02-03-1410A | 02
03 | MD | PRINCE GEORGES COUNTY * | 2452080030D | 14-JUN-2002 | 02-03-1188A | 02
03 | MD | QUEEN ANNES COUNTY* | 2400540047B | 08-FEB-2002 | 02-03-0652A | 02
03 | MD | QUEEN ANNES COUNTY* | 2400540006B | 01-MAR-2002 | 02-03-0864X | 02
03 | MD | ROCKVILLE, CITY OF | 2400510004B | 22-FEB-2002 | 01-03-003P | 05
03 | MD | ROCKVILLE, CITY OF | 2400510001B | 01-MAR-2002 | 02-03-0618A | 02
03 | MD | ROCKVILLE, CITY OF | 2400510003B | 19-APR-2002 | 02-03-0290A | 02
03 | MD | SOMERSET COUNTY * | 2400610300A | 03-JAN-2002 | 02-03-0444A | 02
03 | MD | TALBOT COUNTY * | 2400660038A | 18-JAN-2002 | 02-03-0508A | 02
03 | MD | TALBOT COUNTY * | 2400660047A | 13-FEB-2002 | 02-03-0510A | 02
03 | MD | TALBOT COUNTY * | 2400660032A | 15-FEB-2002 | 02-03-0794A | 02
03 | MD | TALBOT COUNTY * | 2400660031A | 01-MAR-2002 | 02-03-0832A | 02
03 | MD | TALBOT COUNTY * | 2400660024A | 11-MAR-2002 | 02-03-0672A | 02
03 | MD | TALBOT COUNTY * | 2400660024A | 11-MAR-2002 | 02-03-1006A | 02
03 | MD | TALBOT COUNTY * | 2400660035A | 15-MAR-2002 | 02-03-0934A | 02
03 | MD | TALBOT COUNTY * | 2400660031A | 29-MAR-2002 | 02-03-0974A | 01
03 | MD | TALBOT COUNTY * | 2400660030A | 16-APR-2002 | 02-03-0208A | 18
03 | MD | TALBOT COUNTY * | 2400660037A | 08-MAY-2002 | 02-03-1350A | 02
03 | MD | WALKERSVILLE, TOWN OF | 2400320001B | 05-APR-2002 | 02-03-1198A | 02
03 | MD | WASHINGTON COUNTY * | 2400700095B | 17-MAY-2002 | 02-03-021P | 05
03 | MD | WESTERNPORT, CITY OF | 2400070001C | 11-MAR-2002 | 02-03-0900A | 02
03 | MD | WICOMICO COUNTY * | 2400780053D | 30-JAN-2002 | 02-03-0568A | 02
03 | MD | WORCESTER COUNTY * | 2400830025A | 06-FEB-2002 | 02-03-0632A | 02
03 | PA | ALLENTOWN, CITY OF | 42077C0253D | 04-JAN-2002 | 02-03-0396A | 02
03 | PA | ALSACE, TOWNSHIP OF | 42011C0507F | 27-MAR-2002 | 02-03-1130A | 02
03 | PA | AMITY, TOWNSHIP OF | 42011C0544E | 06-FEB-2002 | 02-03-0056A | 02
03 | PA | BEAR CREEK, TOWNSHIP OF | 4211360020B | 22-MAR-2002 | 02-03-0492A | 01
03 | PA | BENSALEM TOWNSHIP OF | 42017C0506F | 22-FEB-2002 | 02-03-0904A | 02
03 | PA | BLAKELY, BOROUGH OF | 4205250005A | 22-FEB-2002 | 02-03-0846A | 02
03 | PA | BRATTON, TOWNSHIP OF | 4211530001A | 22-FEB-2002 | 02-03-0736A | 02
03 | PA | BRISTOL, TOWNSHIP OF | 42017C0462F | 12-JUN-2002 | 02-03-1140A | 02
03 | PA | BUCKINGHAM, TOWNSHIP OF | 4221590010B | 15-FEB-2002 | 02-03-0116A | 02
03 | PA | BUCKINGHAM, TOWNSHIP OF | 4221590010B | 15-FEB-2002 | 02-03-0118A | 02
03 | PA | CHOCONUT, TOWNSHIP OF | 4220760005A | 22-FEB-2002 | 01-03-1746A | 02
03 | PA | COLEBROOKDALE, TOWNSHIP OF | 42011C0559E | 26-APR-2002 | 02-03-0226A | 02
03 | PA | CONEMAUGH, TOWNSHIP OF | 4220470010A | 11-JAN-2002 | 02-03-0414A | 02
03 | PA | CUMBERLAND, TOWNSHIP OF | 4212490015B | 10-JUN-2002 | 02-03-1272A | 02
03 | PA | DINGMAN, TOWNSHIP OF | 42103C0310C | 10-JUN-2002 | 02-03-1094A | 02
03 | PA | EAST BRANDYWINE, TOWNSHIP OF | 42029C0186E | 18-MAR-2002 | 02-03-1042V | 19
03 | PA | EAST FALLOWFIELD, TOWNSHIP O | 42029C0308E | 18-MAR-2002 | 02-04-1044V | 19
03 | PA | EAST FALLOWFIELD, TOWNSHIP O | 42029C0307D | 03-APR-2002 | 02-03-0738A | 02
03 | PA | EAST GOSHEN, TOWNSHIP OF | 42029C0218D | 11-MAR-2002 | 02-03-0658A | 02
03 | PA | EAST MARLBOROUGH, TOWNSHIP O | 42029C0477D | 26-APR-2002 | 02-03-0862A | 02
03 | PA | EAST NORRITON, TOWNSHIP OF | 42091C0263E | 10-APR-2002 | 02-03-1026A | 02
03 | PA | ELIZABETHTOWN, BOROUGH OF | 4205500001B | 19-JUN-2002 | 02-03-1596A | 02
03 | PA | EXETER, TOWNSHIP OF | 42011C0528E | 10-APR-2002 | 02-03-1158A | 02
03 | PA | FAIRVIEW, TOWNSHIP OF | 4209930005C | 26-APR-2002 | 02-03-0041A | 02
03 | PA | FAIRVIEW, TOWNSHIP OF | 4209930005C | 26-APR-2002 | 02-03-1400A | 02
03 | PA | FERGUSON, TOWNSHIP OF | 4202600005D | 20-MAR-2002 | 02-03-0994A | 02
03 | PA | FINDLEY, TOWNSHIP OF | 4218660005B | 11-JAN-2002 | 02-03-0564A | 02
03 | PA | GLADE, TOWNSHIP OF | 4221220013B | 12-JUN-2002 | 02-03-1502A | 02
03 | PA | GREENE, TOWNSHIP OF | 4216490005B | 17-APR-2002 | 02-03-1328A | 02
03 | PA | GREENE, TOWNSHIP OF | 4216490005B | 17-APR-2002 | 02-03-1330A | 02
03 | PA | HALFMOON, TOWNSHIP OF | 4214630001A | 15-MAR-2002 | 02-03-0964A | 02
03 | PA | HALFMOON, TOWNSHIP OF | 4214630001A | 10-APR-2002 | 02-03-1224A | 02
03 | PA | HARBORCREEK, TOWNSHIP OF | 4211440005B | 26-JUN-2002 | 02-03-1098A | 02
03 | PA | HARVEYS LAKE, BOROUGH OF | 4206090005B | 01-MAY-2002 | 02-03-1422A | 02
03 | PA | HATFIELD, TOWNSHIP OF | 42091C0141E | 23-JAN-2002 | 02-03-0626A | 02
03 | PA | HILLTOWN, TOWNSHIP OF | 42017C0163F | 24-MAY-2002 | 02-03-025P | 05
03 | PA | HILLTOWN, TOWNSHIP OF | 42017C0276F | 24-MAY-2002 | 02-03-025P | 05
03 | PA | HOLLENBACK, TOWNSHIP OF | 4218310006A | 27-MAR-2002 | 02-03-1074A | 02
03 | PA | HUSTON, TOWNSHIP OF | 4215250005A | 22-FEB-2002 | 02-03-0438A | 02
03 | PA | JERMYN, BOROUGH OF | 4205300010B | 10-APR-2002 | 02-03-1088A | 02
03 | PA | JOHNSTOWN, CITY OF | 4202310010C | 16-JAN-2002 | 02-03-0206A | 01
03 | PA | JOHNSTOWN, CITY OF | 4202310010C | 08-FEB-2002 | 02-03-0416A | 02
03 | PA | JOHNSTOWN, CITY OF | 4202310010C | 27-MAR-2002 | 02-03-1068A | 01
03 | PA | JOHNSTOWN, CITY OF | 4202310010C | 12-APR-2002 | 02-03-0922A | 02
03 | PA | KISKIMINTAS, TOWNSHIP OF | 4212090005B | 06-FEB-2002 | 02-03-0180A | 02
03 | PA | LIMERICK, TOWNSHIP OF | 42091C0207E | 26-APR-2002 | 02-03-0888A | 02
03 | PA | LITITZ, BOROUGH OF | 4205540001B | 22-MAR-2002 | 02-03-0898A | 02
03 | PA | LONDON GROVE, TOWNSHIP OF | 42029C0452D | 13-MAR-2002 | 02-03-0968A | 02
03 | PA | LOWER BURRELL, CITY OF | 42129C0078D | 08-FEB-2002 | 02-03-0536A | 02
03 | PA | LOWER FREDERICK, TOWNSHIP OF | 42091C0113F | 03-APR-2002 | 02-03-0932A | 02
03 | PA | LOWER FREDERICK, TOWNSHIP OF | 42091C0114F | 10-JUN-2002 | 02-03-1624A | 02
03 | PA | LOWER MACUNGIE, TOWNSHIP OF | 42077C0241D | 24-APR-2002 | 02-03-1320A | 02
03 | PA | LOWER MAKEFIELD, TOWNSHIP OF | 42017C0451F | 10-APR-2002 | 02-03-1206A | 02
03 | PA | LOWER MAKEFIELD, TOWNSHIP OF | 42017C0451F | 03-MAY-2002 | 02-03-1010A | 01
03 | PA | LOWER MERION, TOWNSHIP OF | 42091C0432E | 03-MAY-2002 | 02-03-0604A | 02
03 | PA | LOWER MERION, TOWNSHIP OF | 42091C0369E | 03-MAY-2002 | 02-03-0606A | 02
03 | PA | LOWER MERION, TOWNSHIP OF | 42091C0432E | 03-MAY-2002 | 02-03-0608A | 02
03 | PA | LOWER MERION, TOWNSHIP OF | 42091C0432E | 03-MAY-2002 | 02-03-0610A | 02
03 | PA | LOWER MERION, TOWNSHIP OF | 42091C0432E | 03-MAY-2002 | 02-03-0612A | 02
03 | PA | LOWER MERION, TOWNSHIP OF | 42019C0369E | 03-MAY-2002 | 02-03-1040A | 02
03 | PA | LOWER MERION, TOWNSHIP OF | 42019C0432E | 03-MAY-2002 | 02-03-1040A | 02
03 | PA | LOWER MERION, TOWNSHIP OF | 42091C0432E | 08-MAY-2002 | 02-03-0602A | 02
03 | PA | LOWER MERION, TOWNSHIP OF | 42091C0362E | 08-MAY-2002 | 02-03-075A | 02
03 | PA | LOWER MERION, TOWNSHIP OF | 42091C0369E | 08-MAY-2002 | 02-03-1458A | 02
03 | PA | LOWER MERION, TOWNSHIP OF | 42091C0432E | 08-MAY-2002 | 02-03-1458A | 02
03 | PA | LOWER PAXTON, TOWNSHIP OF | 4203840006B | 22-FEB-2002 | 02-03-0220A | 02
03 | PA | LOWER SALFORD, TOWNSHIP OF | 42091C0019E | 25-JAN-2002 | 02-03-0650A | 02
03 | PA | LOWER SOUTHAMPTON, TOWNSHIP | 42017C0438F | 05-JUN-2002 | 02-03-1204A | 01
03 | PA | LOWER TOWAMENSING, TOWNSHIP | 4214550005A | 05-APR-2002 | 01-03-187P | 05
03 | PA | LOWHILL,TOWNSHIP OF | 42077C0120D | 11-MAR-2002 | 02-03-0748A | 02
03 | PA | MAIDENCREEK, TOWNSHIP OF | 42011C0359E | 02-APR-2002 | 02-03-0060A | 02
03 | PA | MANCHESTER, TOWNSHIP OF | 4209310002B | 08-FEB-2002 | 02-03-0370A | 01
03 | PA | MARION, TOWNSHIP OF | 42011C0452F | 25-JAN-2002 | 02-03-0348A | 02
03 | PA | MCSHERRYSTOWN, BOROUGHS OF | 4212450001B | 17-MAY-2002 | 02-03-1266A | 02
03 | PA | MIDDLETOWN, TOWNSHIP OF | 42017C0433F | 11-MAR-2002 | 02-03-0640A | 02
03 | PA | MIDDLETOWN, TOWNSHIP OF | 42017C0429F | 26-APR-2002 | 02-03-1220A | 02
03 | PA | MILFORD, TOWNSHIP OF | 42017C0109F | 30-JAN-2002 | 02-03-0484A | 02
03 | PA | MINERSVILLE, BOROUGH OF | 4207780005B | 15-MAY-2002 | 02-03-0924A | 02
03 | PA | MONROE, TOWNSHIP OF | 421347—08A | 12-APR-2002 | 02-03-1194A | 02
03 | PA | MONROE, TOWNSHIP OF | 4210200015C | 12-JUN-2002 | 02-03-1414A | 02
03 | PA | MONROE, TOWNSHIP OF | 4203640005B | 26-JUN-2002 | 02-03-0892A | 02
03 | PA | MOON, TOWNSHIP OF | 42003C0145E | 15-MAY-2002 | 02-03-1392A | 02
03 | PA | MOON, TOWNSHIP OF | 42003C0304E | 17-MAY-2002 | 02-03-097P | 05
03 | PA | MOON, TOWNSHIP OF | 42003C0308E | 17-MAY-2002 | 02-03-097P | 05
03 | PA | MORRISVILLE, BOROUGH OF | 42017C0459F | 13-FEB-2002 | 02-03-0726A | 02
03 | PA | MUHLENBERG, TOWNSHIP OF | 42011C0367F | 20-MAR-2002 | 02-03-0840A | 02
03 | PA | MUHLENBERG, TOWNSHIP OF | 42011C0364F | 10-APR-2002 | 02-03-1254A | 02
03 | PA | MUNCY CREEK, TOWNSHIP OF | 4206500010B | 17-MAY-2002 | 02-03-1518A | 02
03 | PA | NETHER PROVIDENCE, TOWNSHIP | 42045C0044D | 12-JUN-2002 | 02-03-1500A | 02
03 | PA | NEVILLE, TOWNSHIP OF | 42003C0169E | 22-MAR-2002 | 02-03-0910A | 01
03 | PA | NEWBERRY, TOWNSHIP OF | 4222260005B | 25-JAN-2002 | 02-03-0542A | 02
03 | PA | NEWLIN, TOWNSHIP OF | 42029C0317E | 18-MAR-2002 | 02-03-1046V | 19
03 | PA | NORTH FAYETTE, TOWNSHIP OF | 42003C0304E | 17-MAY-2002 | 02-03-097P | 05
03 | PA | NORTH FAYETTE, TOWNSHIP OF | 42003C0308E | 17-MAY-2002 | 02-03-097P | 05
03 | PA | NORTH WHITEHALL, TOWNSHIP OF | 42077C0127D | 22-FEB-2002 | 02-03-0750A | 02
03 | PA | NORTHAMPTON, TOWNSHIP OF | 42017C0433F | 05-JUN-2002 | 02-03-1562A | 02
03 | PA | OLEY, TOWNSHIP OF | 42011C0413E | 01-FEB-2002 | 02-03-0540A | 02
03 | PA | PALMERTON, BOROUGH OF | 4202530005A | 05-APR-2002 | 01-03-187P | 05
03 | PA | PERKASIE, BOROUGH OF | 42017C0144G | 22-FEB-2002 | 02-03-0782A | 02
03 | PA | PERKASIE, BOROUGH OF | 42017C0256G | 11-MAR-2002 | 02-03-0406A | 02
03 | PA | PHILADELPHIA, CITY OF | 4207570183F | 22-MAY-2002 | 02-03-1368A | 02
03 | PA | POLK, TOWNSHIP OF | 4218930010A | 10-APR-2002 | 02-03-0426A | 02
03 | PA | POLK, TOWNSHIP OF | 4218930010A | 10-APR-2002 | 02-03-1168A | 02
03 | PA | POLK, TOWNSHIP OF | 4218930010A | 12-APR-2002 | 02-03-1190A | 02
03 | PA | RICHLAND, TOWNSHIP OF | 42017C0127F | 01-FEB-2002 | 02-03-0538A | 02
03 | PA | RICHLAND, TOWNSHIP OF | 42017C0136F | 08-FEB-2002 | 02-03-0092A | 02
03 | PA | RICHLAND, TOWNSHIP OF | 42017C0136F | 08-FEB-2002 | 02-03-0742A | 02
03 | PA | RICHLAND, TOWNSHIP OF | 42017C0128F | 24-MAY-2002 | 02-03-1524A | 02
03 | PA | RICHLAND, TOWNSHIP OF | 42017C0128F | 12-JUN-2002 | 02-03-1578A | 02
03 | PA | RICHMOND, TOWNSHIP OF | 42011C0383E | 26-APR-2002 | 02-03-1326A | 02
03 | PA | RIDLEY, TOWNSHIP OF | 42045C0046D | 10-APR-2002 | 02-03-1160A | 02
03 | PA | ROBESON, TOWNSHIP OF | 42011C0518E | 13-FEB-2002 | 02-03-0828A | 02
03 | PA | ROBESON, TOWNSHIP OF | 42011C0518E | 22-FEB-2002 | 02-03-0502A | 17
03 | PA | SALISBURY, TOWNSHIP OF | 42077C0256D | 17-JUN-2002 | 01-03-191P | 05
03 | PA | SANDY, TOWNSHIP OF | 4211910015B | 03-MAY-2002 | 02-03-1428A | 02
03 | PA | SCOTT, TOWNSHIP OF | 4217570005A | 08-MAY-2002 | 02-03-1154A | 02
03 | PA | SELLERSVILLE, BOROUGH OF | 42017C0256G | 11-MAR-2002 | 02-03-0406AD | 02
03 | PA | SEVEN VALLEYS, BOROUGH OF | 4209360001B | 22-MAR-2002 | 02-03-0768A | 02
03 | PA | SHIPPENSBURG, TOWNSHIP OF | 4215850001B | 11-JAN-2002 | 02-03-0224A | 01
03 | PA | SILVER SPRING, TOWNSHIP OF | 4203700020C | 20-MAR-2002 | 02-03-0442A | 01
03 | PA | SILVER SPRING, TOWNSHIP OF | 4203700020C | 20-MAR-2002 | 02-03-0914A | 01
03 | PA | SOUTH HEIDELBERG, TOWNSHIP O | 42011C0491E | 30-JAN-2002 | 02-03-0702A | 02
03 | PA | SOUTH MIDDLETON, TOWNSHIP OF | 4203710020C | 12-JUN-2002 | 02-03-1336A | 02
03 | PA | SPRING, TOWNSHIP OF | 42011C0491E | 11-JAN-2002 | 02-03-0506A | 17
03 | PA | SPRINGFIELD, TOWNSHIP OF | 42017C0043F | 03-APR-2002 | 02-03-0412A | 02
03 | PA | SUMMIT, TOWNSHIP OF | 4224180020A | 08-FEB-2002 | 02-03-0236A | 02
03 | PA | SWATARA, TOWNSHIP OF | 4203980005B | 15-MAR-2002 | 01-03-145P | 05
03 | PA | SWATARA, TOWNSHIP OF | 4203980010B | 15-MAR-2002 | 01-03-145P | 05
03 | PA | THORNBURY, TOWNSHIP OF | 42029C0359D | 20-MAR-2002 | 02-03-0870A | 02
03 | PA | TRAINER, BOROUGH OF | 42045C0068D | 22-MAR-2002 | 02-03-0764A | 02
03 | PA | TRAPPE, BOROUGH OF | 42091C0228E | 22-FEB-2002 | 01-03-215P | 05
03 | PA | UNION CITY, BOROUGH OF | 4204530001B | 13-FEB-2002 | 02-03-0324A | 02
03 | PA | UNION, TOWNSHIP OF | 4218060015A | 15-MAY-2002 | 02-03-1510A | 02
03 | PA | UPPER DARBY, TOWNSHIP OF | 42045C0024D | 22-MAR-2002 | 02-03-1086A | 02
03 | PA | UPPER DARBY, TOWNSHIP OF | 42045C0024D | 19-JUN-2002 | 02-03-1554A | 02
03 | PA | UPPER MERION, TOWNSHIP OF | 42091C0332F | 22-FEB-2002 | 02-03-0664A | 02
03 | PA | UPPER PROVIDENCE, TOWNSHIP O | 42091C0209E | 22-FEB-2002 | 02-03-0694A | 02
03 | PA | UPPER SOUTHAMPTON, TOWNSHIP | 42017C0416F | 01-MAY-2002 | 02-03-1324A | 01
03 | PA | UPPER UWCHLAN, TWP OF | 42029C0178E | 18-MAR-2002 | 02-03-1048V | 19
03 | PA | UPPER UWCHLAN, TWP OF | 42029C0183D | 10-APR-2002 | 02-03-1020A | 02
03 | PA | UWCHLAN, TOWNSHIP OF | 42029C0187E | 18-MAR-2002 | 02-03-1050V | 19
03 | PA | VALLEY, TOWNSHIP OF | 42029C0302E | 18-MAR-2002 | 02-03-1052V | 19
03 | PA | WARMINSTER, TOWNSHIP OF | 42017C0401F | 01-MAY-2002 | 02-03-1362A | 02
03 | PA | WARREN, BOROUGH OF | 4208430001C | 26-JUN-2002 | 02-03-1472A | 02
03 | PA | WASHINGTON, TOWNSHIP OF | 42011C0438E | 28-MAY-2002 | 02-03-093P | 05
03 | PA | WASHINGTON, TOWNSHIP OF | 42011C0576E | 28-MAY-2002 | 02-03-093P | 05
03 | PA | WAYNE, TOWNSHIP OF | 4212400021A | 23-JAN-2002 | 02-03-0512A | 02
03 | PA | WAYNE, TOWNSHIP OF | 421679—10A | 27-MAR-2002 | 02-03-1062A | 02
03 | PA | WEST BRADFORD, TOWNSHIP OF | 42029C0328E | 18-MAR-2002 | 02-03-1053V | 19
03 | PA | WEST BRADFORD, TOWNSHIP OF | 42029C0331E | 18-MAR-2002 | 02-03-1053V | 19
03 | PA | WEST DEER, TOWNSHIP OF | 42003C0070E | 22-MAR-2002 | 02-03-1064A | 02
03 | PA | WESTFALL, TOWNSHIP OF | 42103C0352C | 25-JAN-2002 | 02-03-0656A | 02
03 | PA | WILLISTOWN, TOWNSHIP OF | 42029C0328D | 01-APR-2002 | 01-03-005P | 05
03 | PA | WILLISTOWN, TOWNSHIP OF | 42029C0219D | 26-APR-2002 | 02-03-0630A | 02
03 | PA | WINSLOW, TOWNSHIP OF | 4212150008C | 23-JAN-2002 | 01-03-1788A | 02
03 | PA | YORK, TOWNSHIP OF | 4210320005B | 26-JUN-2002 | 02-03-1712A | 02
03 | VA | ABINGDON, TOWN OF | 5101690001B | 27-MAR-2002 | 02-03-0992A | 02
03 | VA | ALEXANDRIA, CITY OF | 5155190005D | 29-MAR-2002 | 02-03-1176A | 02
03 | VA | ARLINGTON COUNTY | 5155200010B | 30-JAN-2002 | 02-03-0572A | 02
03 | VA | ARLINGTON COUNTY | 5155200004B | 15-FEB-2002 | 02-03-0792A | 02
03 | VA | ARLINGTON COUNTY | 5155200004B | 15-FEB-2002 | 02-03-0850A | 02
03 | VA | AUGUSTA COUNTY * | 5100130250B | 08-MAY-2002 | 02-03-1226A | 01
03 | VA | BEDFORD COUNTY * | 5100160100A | 06-FEB-2002 | 02-03-0734A | 02
03 | VA | BEDFORD COUNTY * | 5100160175A | 08-FEB-2002 | 02-03-0814A | 02
03 | VA | BEDFORD COUNTY * | 5100160100A | 15-FEB-2002 | 02-03-0500A | 02
03 | VA | BEDFORD COUNTY * | 5100160100A | 20-FEB-2002 | 02-03-0890A | 02
03 | VA | BEDFORD COUNTY * | 5100160100A | 13-MAR-2002 | 02-03-0884A | 02
03 | VA | BEDFORD COUNTY * | 5100160025A | 03-MAY-2002 | 02-03-1284A | 02
03 | VA | BEDFORD COUNTY * | 5100160100A | 03-MAY-2002 | 02-03-1344A | 02
03 | VA | BEDFORD COUNTY * | 5100160100A | 10-JUN-2002 | 02-03-1540A | 02
03 | VA | BLACKSBURG, TOWN OF | 5101000002B | 03-MAY-2002 | 02-03-1412A | 02
03 | VA | BOTETOURT COUNTY * | 5100180150A | 23-JAN-2002 | 02-03-0596A | 02
03 | VA | CHESAPEAKE, CITY OF | 5100340037C | 04-JAN-2002 | 02-03-0504X | 02
03 | VA | CHESAPEAKE, CITY OF | 5100340034C | 08-MAY-2002 | 02-03-1446A | 01
03 | VA | CHESTERFIELD COUNTY * | 5100350091C | 01-MAY-2002 | 02-03-1358A | 02
03 | VA | CHESTERFIELD COUNTY * | 5100350058B | 15-MAY-2002 | 02-03-1490A | 02
03 | VA | CHESTERFIELD COUNTY * | 5100350047B | 10-JUN-2002 | 02-03-1352A | 02
03 | VA | DANVILLE, CITY OF | 5100440014C | 13-MAR-2002 | 02-03-0558A | 01
03 | VA | ELKTON, TOWN OF | 5101370001C | 06-FEB-2002 | 02-03-0760A | 02
03 | VA | ELKTON, TOWN OF | 5101370001C | 20-MAR-2002 | 02-03-0758A | 02
03 | VA | ESSEX COUNTY * | 5100480015B | 29-MAR-2002 | 02-03-1152A | 02
03 | VA | FAIRFAX COUNTY * | 5155250083D | 04-JAN-2002 | 02-03-0428A | 02
03 | VA | FAIRFAX COUNTY * | 5155250100D | 04-JAN-2002 | 02-03-0432A | 02
03 | VA | FAIRFAX COUNTY * | 5155250050D | 16-JAN-2002 | 02-03-0550A | 02
03 | VA | FAIRFAX COUNTY * | 5155250075D | 18-JAN-2002 | 02-03-0402A | 02
03 | VA | FAIRFAX COUNTY * | 5155250075D | 23-JAN-2002 | 02-03-0526A | 02
03 | VA | FAIRFAX COUNTY * | 5155250025D | 23-JAN-2002 | 02-03-0584A | 02
03 | VA | FAIRFAX COUNTY * | 5155250075D | 23-JAN-2002 | 02-03-0590A | 02
03 | VA | FAIRFAX COUNTY * | 5155250100D | 25-JAN-2002 | 02-03-0476A | 02
03 | VA | FAIRFAX COUNTY * | 5155250100D | 25-JAN-2002 | 02-03-0586A | 02
03 | VA | FAIRFAX COUNTY * | 5155250083D | 30-JAN-2002 | 02-03-0588A | 02
03 | VA | FAIRFAX COUNTY * | 5155250050D | 30-JAN-2002 | 02-03-0594A | 02
03 | VA | FAIRFAX COUNTY * | 5155250150D | 30-JAN-2002 | 02-03-0686A | 02
03 | VA | FAIRFAX COUNTY * | 5155250083D | 30-JAN-2002 | 02-03-0724A | 02
03 | VA | FAIRFAX COUNTY * | 5155250050D | 06-FEB-2002 | 02-03-0778A | 02
03 | VA | FAIRFAX COUNTY * | 5155250075D | 08-FEB-2002 | 02-03-0744A | 02
03 | VA | FAIRFAX COUNTY * | 5155250075D | 08-FEB-2002 | 02-03-0774A | 02
03 | VA | FAIRFAX COUNTY * | 5155250125D | 13-FEB-2002 | 02-03-0728A | 02
03 | VA | FAIRFAX COUNTY * | 5155250125D | 13-FEB-2002 | 02-03-0776A | 02
03 | VA | FAIRFAX COUNTY * | 5155250050D | 15-FEB-2002 | 02-03-0304A | 02
03 | VA | FAIRFAX COUNTY * | 5155250050D | 15-FEB-2002 | 02-03-0796A | 02
03 | VA | FAIRFAX COUNTY * | 5155250050D | 27-FEB-2002 | 02-03-0848A | 02
03 | VA | FAIRFAX COUNTY * | 5155250083D | 01-MAR-2002 | 02-03-0912A | 02
03 | VA | FAIRFAX COUNTY * | 5155250100D | 01-MAR-2002 | 02-03-0912A | 02
03 | VA | FAIRFAX COUNTY * | 5155250083D | 01-MAR-2002 | 02-03-0920A | 02
03 | VA | FAIRFAX COUNTY * | 5155250100D | 01-MAR-2002 | 02-03-0920A | 02
03 | VA | FAIRFAX COUNTY * | 5155250025D | 12-MAR-2002 | 02-03-0830A | 02
03 | VA | FAIRFAX COUNTY * | 5155250125D | 13-MAR-2002 | 02-03-0954A | 02
03 | VA | FAIRFAX COUNTY * | 5155250100D | 13-MAR-2002 | 02-03-0962A | 02
03 | VA | FAIRFAX COUNTY * | 5155250100D | 13-MAR-2002 | 02-03-0978A | 02
03 | VA | FAIRFAX COUNTY * | 5155250125D | 13-MAR-2002 | 02-03-0996A | 02
03 | VA | FAIRFAX COUNTY * | 5155250100D | 15-MAR-2002 | 02-03-1066A | 02
03 | VA | FAIRFAX COUNTY * | 5155250075D | 20-MAR-2002 | 02-03-0772A | 02
03 | VA | FAIRFAX COUNTY * | 5155250150D | 27-MAR-2002 | 02-03-1146A | 01
03 | VA | FAIRFAX COUNTY * | 5155250050D | 12-APR-2002 | 02-03-1178A | 02
03 | VA | FAIRFAX COUNTY * | 5155250050D | 12-APR-2002 | 02-03-1236A | 02
03 | VA | FAIRFAX COUNTY * | 5155250150D | 17-APR-2002 | 02-03-1264A | 01
03 | VA | FAIRFAX COUNTY * | 5155250075D | 17-APR-2002 | 02-03-1292A | 02
03 | VA | FAIRFAX COUNTY * | 5155250075D | 01-MAY-2002 | 02-03-1132A | 02
03 | VA | FAIRFAX COUNTY * | 5155250025D | 17-MAY-2002 | 02-03-1480A | 02
03 | VA | FAIRFAX COUNTY * | 5155250100D | 22-MAY-2002 | 02-03-1416A | 02
03 | VA | FAIRFAX COUNTY * | 5155250100D | 24-MAY-2002 | 02-03-1402A | 02
03 | VA | FAIRFAX COUNTY * | 5155250100D | 31-MAY-2002 | 02-03-1478A | 02
03 | VA | FAIRFAX COUNTY * | 5155250125D | 05-JUN-2002 | 02-03-1586A | 02
03 | VA | FAIRFAX COUNTY * | 5155250100D | 19-JUN-2002 | 02-03-1628A | 02
03 | VA | FAIRFAX, CITY OF | 5155240005B | 15-MAR-2002 | 02-03-0998A | 02
03 | VA | FAIRFAX, CITY OF | 5155240005B | 10-MAY-2002 | 02-03-1080A | 02
03 | VA | FAUQUIER COUNTY * | 5100550360A | 24-JAN-2002 | 01-03-085P | 05
03 | VA | FRANKLIN COUNTY * | 5100610240B | 04-JAN-2002 | 02-03-0422A | 02
03 | VA | FRANKLIN COUNTY * | 5100610240B | 04-JAN-2002 | 02-03-0448A | 02
03 | VA | FRANKLIN COUNTY * | 5100610095B | 04-JAN-2002 | 02-03-0456A | 02
03 | VA | FRANKLIN COUNTY * | 5100610230B | 04-JAN-2002 | 02-03-0480A | 02
03 | VA | FRANKLIN COUNTY * | 5100610215B | 09-JAN-2002 | 02-03-0382A | 02
03 | VA | FRANKLIN COUNTY * | 5100610090B | 16-JAN-2002 | 02-03-0614A | 02
03 | VA | FRANKLIN COUNTY * | 5100610220B | 18-JAN-2002 | 02-03-0574A | 02
03 | VA | FRANKLIN COUNTY * | 5100610210B | 18-JAN-2002 | 02-03-0634A | 02
03 | VA | FRANKLIN COUNTY * | 5100610210B | 18-JAN-2002 | 02-03-0636A | 02
03 | VA | FRANKLIN COUNTY * | 5100610230B | 23-JAN-2002 | 02-03-0340A | 02
03 | VA | FRANKLIN COUNTY * | 5100610200B | 30-JAN-2002 | 02-03-0528A | 02
03 | VA | FRANKLIN COUNTY * | 5100610210B | 30-JAN-2002 | 02-03-0730A | 02
03 | VA | FRANKLIN COUNTY * | 5100610090B | 01-FEB-2002 | 02-03-0732A | 02
03 | VA | FRANKLIN COUNTY * | 5100610220B | 06-FEB-2002 | 02-03-0688A | 02
03 | VA | FRANKLIN COUNTY * | 5100610220B | 06-FEB-2002 | 02-03-0762A | 02
03 | VA | FRANKLIN COUNTY * | 5100610230B | 15-FEB-2002 | 02-03-0852A | 02
03 | VA | FRANKLIN COUNTY * | 5100610240B | 15-FEB-2002 | 02-03-0874A | 02
03 | VA | FRANKLIN COUNTY * | 5100610240B | 01-MAR-2002 | 02-03-0944A | 02
03 | VA | FRANKLIN COUNTY * | 5100610215B | 15-MAR-2002 | 02-03-0926A | 02
03 | VA | FRANKLIN COUNTY * | 5100610220B | 27-MAR-2002 | 02-03-0838A | 02
03 | VA | FRANKLIN COUNTY * | 5100610210B | 27-MAR-2002 | 02-03-1038A | 02
03 | VA | FRANKLIN COUNTY * | 5100610215B | 03-APR-2002 | 02-03-1200A | 02
03 | VA | FRANKLIN COUNTY * | 5100610215B | 10-APR-2002 | 02-03-0988A | 02
03 | VA | FRANKLIN COUNTY * | 5100610220B | 10-APR-2002 | 02-03-1012A | 02
03 | VA | FRANKLIN COUNTY * | 5100610240B | 10-APR-2002 | 02-03-1262A | 02
03 | VA | FRANKLIN COUNTY * | 5100610210B | 10-APR-2002 | 02-03-1270A | 02
03 | VA | FRANKLIN COUNTY * | 5100610220B | 10-APR-2002 | 02-03-1278A | 02
03 | VA | FRANKLIN COUNTY * | 5100610210B | 10-JUN-2002 | 02-03-1622A | 02
03 | VA | GILES COUNTY * | 5100670150B | 01-FEB-2002 | 02-03-0710A | 02
03 | VA | GLOUCESTER COUNTY* | 5100710039B | 04-JAN-2002 | 02-03-0418A | 02
03 | VA | GLOUCESTER COUNTY* | 5100710025B | 17-APR-2002 | 02-03-0394A | 02
03 | VA | GREENSVILLE COUNTY * | 5100730050A | 10-APR-2002 | 02-03-1252A | 02
03 | VA | HAMPTON,CITY OF | 5155270014F | 23-JAN-2002 | 02-03-0498A | 02
03 | VA | HAMPTON,CITY OF | 5155270013E | 26-APR-2002 | 02-03-1374A | 02
03 | VA | HANOVER COUNTY * | 5102370310A | 27-FEB-2002 | 02-03-0790A | 02
03 | VA | HANOVER COUNTY * | 5102370320A | 12-MAR-2002 | 02-03-0986A | 02
03 | VA | HANOVER COUNTY * | 5102370320A | 27-MAR-2002 | 02-03-1018A | 02
03 | VA | HENRICO COUNTY * | 5100770025B | 23-JAN-2002 | 02-03-0642A | 02
03 | VA | HENRICO COUNTY * | 5100770050B | 30-JAN-2002 | 02-03-0722A | 02
03 | VA | HENRICO COUNTY * | 5100770025B | 08-FEB-2002 | 02-03-0624A | 02
03 | VA | HENRICO COUNTY * | 5100770050B | 27-FEB-2002 | 02-03-0918A | 02
03 | VA | ISLE OF WIGHT COUNTY * | 5103030055B | 15-FEB-2002 | 02-03-0524A | 02
03 | VA | ISLE OF WIGHT COUNTY * | 5103030055B | 15-FEB-2002 | 02-03-0718A | 02
03 | VA | ISLE OF WIGHT COUNTY * | 5103030055B | 03-APR-2002 | 02-03-1002A | 02
03 | VA | JAMES CITY COUNTY * | 5102010030B | 11-JAN-2002 | 02-03-0240A | 02
03 | VA | JAMES CITY COUNTY * | 5102010030B | 22-FEB-2002 | 02-03-0822A | 01
03 | VA | LANCASTER COUNTY* | 5100840052A | 12-APR-2002 | 02-03-0990A | 02
03 | VA | LEBANON, TOWN OF | 5102220001B | 23-JAN-2002 | 02-03-0544A | 02
03 | VA | LEBANON, TOWN OF | 5103170100B | 23-JAN-2002 | 02-03-0544A | 02
03 | VA | LEESBURG, TOWN OF | 51107C0231D | 30-JAN-2002 | 02-03-0490A | 02
03 | VA | LEESBURG, TOWN OF | 51107C0231D | 27-FEB-2002 | 02-03-0332A | 02
03 | VA | LEESBURG, TOWN OF | 51107C0231D | 01-MAR-2002 | 02-03-0868A | 02
03 | VA | LEESBURG, TOWN OF | 51107C0231D | 15-MAR-2002 | 02-03-1134A | 02
03 | VA | LEESBURG, TOWN OF | 51107C0231D | 10-APR-2002 | 02-03-1216A | 02
03 | VA | LEESBURG, TOWN OF | 51107C0227D | 09-MAY-2002 | 02-03-047P | 05
03 | VA | LEESBURG, TOWN OF | 51107C0230D | 09-MAY-2002 | 02-03-047P | 05
03 | VA | LEESBURG, TOWN OF | 51107C0227D | 09-MAY-2002 | 02-03-073P | 06
03 | VA | LEESBURG, TOWN OF | 51107C0227D | 15-MAY-2002 | 02-03-1014A | 02
03 | VA | LEESBURG, TOWN OF | 51107C0230D | 17-MAY-2002 | 02-03-0916A | 02
03 | VA | LEESBURG, TOWN OF | 51107C0227D | 17-MAY-2002 | 02-03-0976A | 02
03 | VA | LEESBURG, TOWN OF | 51107C0231D | 17-MAY-2002 | 02-03-1474A | 02
03 | VA | LEESBURG, TOWN OF | 51107C0227D | 17-MAY-2002 | 02-03-1508A | 02
03 | VA | LEESBURG, TOWN OF | 51107C0227D | 05-JUN-2002 | 02-03-1470A | 02
03 | VA | LOUDOUN COUNTY * | 5100900235D | 25-JAN-2002 | 02-03-0472A | 01
03 | VA | LOUDOUN COUNTY * | 51107C0235D | 25-JAN-2002 | 02-03-0646A | 01
03 | VA | LOUDOUN COUNTY * | 51107C0215D | 17-APR-2002 | 02-03-1070A | 02
03 | VA | LOUDOUN COUNTY * | 51107C0230D | 09-MAY-2002 | 02-03-047P | 05
03 | VA | LOUDOUN COUNTY * | 51107C0235D | 03-JUN-2002 | 02-03-007P | 05
03 | VA | LOUDOUN COUNTY * | 51107C0290D | 10-JUN-2002 | 02-03-1590A | 02
03 | VA | LOUDOUN COUNTY * | 51107C0385D | 14-JUN-2002 | 02-03-1398A | 02
03 | VA | LOUISA COUNTY * | 51109C0125B | 06-FEB-2002 | 02-03-0440A | 02
03 | VA | LOUISA COUNTY * | 51109C0125B | 17-MAY-2002 | 02-03-1354A | 02
03 | VA | MANASSAS PARK, CITY OF | 51153C0111D | 13-MAR-2002 | 02-03-0972A | 02
03 | VA | MANASSAS PARK, CITY OF | 51153C0113D | 13-MAR-2002 | 02-03-0972A | 02
03 | VA | MATHEWS COUNTY* | 5100960017C | 06-FEB-2002 | 02-03-0144A | 02
03 | VA | MATHEWS COUNTY* | 5100960009B | 11-MAR-2002 | 02-03-0952A | 02
03 | VA | MECKLENBURG COUNTY * | 5101890150A | 22-FEB-2002 | 02-03-0902A | 02
03 | VA | MECKLENBURG COUNTY * | 5101890200A | 03-APR-2002 | 02-03-1202A | 02
03 | VA | MECKLENBURG COUNTY * | 5101890200A | 10-JUN-2002 | 02-03-1482A | 02
03 | VA | MECKLENBURG COUNTY * | 5101890150A | 19-JUN-2002 | 02-03-1692A | 02
03 | VA | MECKLENBURG COUNTY * | 5101890200A | 26-JUN-2002 | 02-03-1548A | 02
03 | VA | MIDDLESEX COUNTY * | 5100980036C | 22-FEB-2002 | 02-03-0458A | 02
03 | VA | MIDDLESEX COUNTY * | 5100980025B | 24-MAY-2002 | 02-03-1488A | 02
03 | VA | MONTGOMERY COUNTY * | 5100990044B | 08-FEB-2002 | 02-03-0272A | 02
03 | VA | MONTGOMERY COUNTY * | 5100990050B | 19-JUN-2002 | 02-03-1522A | 17
03 | VA | NARROWS, TOWN OF | 5100680001B | 01-MAY-2002 | 02-03-1420A | 02
03 | VA | NEWPORT NEWS, CITY OF | 5101030016C | 30-JAN-2002 | 02-03-0514A | 02
03 | VA | NEWPORT NEWS, CITY OF | 510103—14A | 08-FEB-2002 | 02-03-0296A | 02
03 | VA | NORFOLK, CITY OF | 5101040011D | 13-MAR-2002 | 02-03-0482A | 02
03 | VA | NORFOLK, CITY OF | 5101040017D | 12-APR-2002 | 02-03-1258A | 02
03 | VA | NORFOLK, CITY OF | 5101040017D | 12-JUN-2002 | 02-03-1546A | 02
03 | VA | NORTHAMPTON COUNTY * | 5101050020C | 04-JAN-2002 | 02-03-0450X | 02
03 | VA | NORTHAMPTON COUNTY * | 5101050020C | 24-MAY-2002 | 02-03-1268A | 02
03 | VA | NORTHUMBERLAND COUNTY * | 5101070011C | 15-MAY-2002 | 02-03-1366A | 02
03 | VA | PAGE COUNTY * | 5101090025B | 29-MAR-2002 | 02-03-1208A | 02
03 | VA | PORTSMOUTH, CITY OF | 5155290007B | 30-JAN-2002 | 02-03-0366A | 02
03 | VA | PRINCE WILLIAM COUNTY * | 51153C0058D | 03-APR-2002 | 01-03-077P | 05
03 | VA | PRINCE WILLIAM COUNTY * | 51153C0179D | 26-APR-2002 | 02-03-1218A | 02
03 | VA | PRINCE WILLIAM COUNTY * | 51153C0211D | 16-MAY-2002 | 01-03-123P | 05
03 | VA | PRINCE WILLIAM COUNTY * | 51153C0212D | 16-MAY-2002 | 01-03-123P | 05
03 | VA | RICHMOND, CITY OF | 5101290010C | 27-FEB-2002 | 02-03-0908A | 02
03 | VA | ROANOKE COUNTY * | 51161C0043D | 01-MAR-2002 | 02-03-0126A | 02
03 | VA | ROANOKE, CITY OF | 51161C0044D | 04-JAN-2002 | 02-03-0374A | 02
03 | VA | ROANOKE, CITY OF | 51161C0044D | 08-FEB-2002 | 02-03-0816A | 02
03 | VA | ROANOKE, CITY OF | 51161C0042D | 13-MAR-2002 | 02-03-0800A | 02
03 | VA | ROANOKE, CITY OF | 51161C0042D | 13-MAR-2002 | 02-03-0802A | 02
03 | VA | ROANOKE, CITY OF | 51161C0042D | 13-MAR-2002 | 02-03-0804A | 02
03 | VA | ROANOKE, CITY OF | 51161C0042D | 13-MAR-2002 | 02-03-0806A | 02
03 | VA | ROANOKE, CITY OF | 51161C0042D | 20-MAR-2002 | 02-03-0798A | 02
03 | VA | ROCKBRIDGE COUNTY * | 51163C0290C | 08-FEB-2002 | 02-03-0788A | 02
03 | VA | ROCKINGHAM COUNTY* | 5101330021B | 10-JUN-2002 | 02-03-1316A | 02
03 | VA | SALEM, CITY OF | 51161C0023D | 29-MAR-2002 | 02-03-0720A | 02
03 | VA | SALEM, CITY OF | 51161C0037D | 03-APR-2002 | 02-03-1212A | 02
03 | VA | SALEM, CITY OF | 51161C0037D | 10-APR-2002 | 02-03-1238A | 02
03 | VA | SALEM, CITY OF | 51161C0037D | 12-APR-2002 | 02-03-1076A | 02
03 | VA | SALEM, CITY OF | 51161C0041D | 12-APR-2002 | 02-03-1076A | 02
03 | VA | SHENANDOAH COUNTY * | 5101470250B | 23-JAN-2002 | 02-03-0420A | 02
03 | VA | SHENANDOAH COUNTY * | 5101470175B | 25-JAN-2002 | 02-03-0384A | 02
03 | VA | SMITHFIELD, TOWN OF | 5100810005C | 24-MAY-2002 | 02-03-1430A | 01
03 | VA | SPOTSYLVANIA COUNTY* | 5103080075C | 06-MAR-2002 | 02-03-0114A | 02
03 | VA | STAFFORD COUNTY * | 5101540130B | 07-MAY-2002 | 02-03-055P | 05
03 | VA | STAUNTON, CITY OF | 5101550001C | 19-JUN-2002 | 02-03-1528A | 02
03 | VA | SUFFOLK, CITY OF | 5101560022B | 14-JUN-2002 | 02-03-1356A | 01
03 | VA | TAZEWELL COUNTY * | 5101600115B | 22-FEB-2002 | 02-03-0680A | 02
03 | VA | TAZEWELL COUNTY * | 5101600115B | 22-FEB-2002 | 02-03-0696A | 02
03 | VA | VIRGINIA BEACH, CITY OF | 5155310020E | 11-JAN-2002 | 02-03-0470A | 02
03 | VA | VIRGINIA BEACH, CITY OF | 5155310037E | 26-APR-2002 | 02-03-0826A | 01
03 | VA | VIRGINIA BEACH, CITY OF | 5155310037E | 26-APR-2002 | 02-03-1332A | 02
03 | VA | VIRGINIA BEACH, CITY OF | 5155310029E | 29-MAY-2002 | 02-03-1276A | 02
03 | VA | WARREN COUNTY * | 5101660130A | 19-APR-2002 | 02-03-1250A | 02
03 | VA | WARRENTON, TOWN OF | 5100570001B | 05-MAR-2002 | 01-03-544P | 05
03 | VA | WAYNESBORO, CITY OF | 5155320010B | 24-MAY-2002 | 02-03-1280A | 02
03 | VA | WEST POINT, TOWN OF | 5100830002C | 19-JUN-2002 | 02-03-1582A | 02
03 | VA | YORK COUNTY * | 5101820036B | 30-JAN-2002 | 02-03-0518A | 02
03 | WV | BELMONT, TOWN OF | 54073C0040B | 01-MAY-2002 | 02-03-1312A | 02
03 | WV | BERKELEY COUNTY * | 5402820050B | 13-MAR-2002 | 02-03-0486A | 01
03 | WV | BERKELEY COUNTY * | 5402820079B | 13-MAR-2002 | 02-03-0684A | 01
03 | WV | BOONE COUNTY * | 54005C0060C | 27-MAR-2002 | 02-03-0984A | 02
03 | WV | BUCKHANNON, CITY OF | 5401990001B | 02-FEB-2002 | 00-03-125P | 05
03 | WV | CABELL COUNTY* | 5400160045A | 10-MAY-2002 | 02-03-1156A | 02
03 | WV | CHARLESTON, CITY OF | 5400730004C | 17-APR-2002 | 02-03-1256A | 02
03 | WV | COALTON, TOWN OF | 540176—01B | 15-MAR-2002 | 02-03-0548A | 02
03 | WV | DUNBAR, CITY OF | 5400760001C | 13-MAR-2002 | 02-03-0866A | 02
03 | WV | ELEANOR, TOWN OF | 5402220001B | 15-MAY-2002 | 02-03-1310A | 02
03 | WV | ELKINS, CITY OF | 5401770001B | 30-JAN-2002 | 02-03-0668A | 02
03 | WV | ELKINS, CITY OF | 5401770001B | 19-APR-2002 | 02-03-0894A | 02
03 | WV | GREENBRIER COUNTY* | 5400400380B | 22-MAR-2002 | 02-03-0950A | 01
03 | WV | HARRISON COUNTY* | 5400530107C | 01-MAY-2002 | 02-03-1300A | 02
03 | WV | KANAWHA COUNTY * | 5400700271C | 22-FEB-2002 | 02-03-0598A | 01
03 | WV | KANAWHA COUNTY * | 5400700111C | 12-JUN-2002 | 02-03-1468A | 02
03 | WV | LEWIS COUNTY* | 5400850039C | 05-APR-2002 | 02-03-0168A | 02
03 | WV | MASON COUNTY * | 5401120105A | 08-FEB-2002 | 02-03-0740A | 02
03 | WV | MINERAL COUNTY * | 5401290110C | 15-FEB-2002 | 02-03-0468A | 17
03 | WV | MINGO COUNTY * | 5401330048C | 17-APR-2002 | 02-03-0700A | 02
03 | WV | MONONGALIA COUNTY * | 5401390075B | 20-MAR-2002 | 02-03-0752A | 02
03 | WV | MOUNDSVILLE, CITY OF | 5401110001C | 12-JUN-2002 | 02-03-1210A | 02
03 | WV | OAK HILL, CITY OF | 5400310001B | 31-MAY-2002 | 02-03-1496A | 02
03 | WV | PUTNAM COUNTY* | 5401640115A | 27-MAR-2002 | 01-03-1792A | 02
03 | WV | RALEIGH COUNTY * | 5401690065B | 17-MAY-2002 | 02-03-1290A | 02
03 | WV | RANDOLPH COUNTY * | 5401750185A | 06-MAR-2002 | 02-03-0516A | 02
03 | WV | RANDOLPH COUNTY * | 5401750185A | 26-APR-2002 | 02-03-0478A | 02
03 | WV | RANSON, CITY OF | 5400680001D | 14-JUN-2002 | 02-03-1450A | 01
03 | WV | RITCHIE COUNTY * | 5402240004B | 01-MAY-2002 | 02-03-1348A | 02
03 | WV | TYLER COUNTY * | 54095C0100B | 18-JAN-2002 | 02-03-0252A | 02
03 | WV | VIENNA, CITY OF | 5402150002B | 05-JUN-2002 | 02-03-1534A | 02
03 | WV | WAYNE COUNTY* | 5402000125B | 01-FEB-2002 | 02-03-0444A | 02
03 | WV | WAYNE COUNTY* | 5402000125B | 11-MAR-2002 | 02-03-0936A | 02
03 | WV | WAYNE COUNTY* | 5402000101B | 26-APR-2002 | 02-03-1222A | 02
03 | WV | WAYNE COUNTY* | 5402000150B | 03-MAY-2002 | 02-03-0780A | 02
03 | WV | WAYNE COUNTY* | 5402000102B | 03-MAY-2002 | 02-03-1034A | 02
03 | WV | WAYNE COUNTY* | 5402000106B | 15-MAY-2002 | 02-03-1166A | 02
03 | WV | WAYNE COUNTY* | 5402000125B | 26-JUN-2002 | 02-03-1322A | 02
03 | WV | WOOD COUNTY * | 5402130106A | 08-FEB-2002 | 02-03-0316A | 02
03 | WV | WOOD COUNTY * | 5402130123A | 10-JUN-2002 | 02-03-1162A | 02
03 | WV | WOOD COUNTY * | 5402130101A | 26-JUN-2002 | 02-03-1492A | 02
04 | AL | ARAB, CITY OF | 010345—01A | 11-MAR-2002 | 02-04-2296A | 02
04 | AL | AUBURN, CITY OF | 0101440076E | 20-MAY-2002 | 01-04-265P | 05
04 | AL | BALDWIN COUNTY* | 0150000678J | 25-JAN-2002 | 02-04-1234A | 02
04 | AL | BALDWIN COUNTY* | 0150000686J | 25-JAN-2002 | 02-04-1234A | 02
04 | AL | BALDWIN COUNTY* | 0150000570G | 06-MAR-2002 | 02-04-2298A | 02
04 | AL | BALDWIN COUNTY* | 01003C0394K | 18-JUN-2002 | 02-04-6334V | 19
04 | AL | BALDWIN COUNTY* | 01003C0829K | 18-JUN-2002 | 02-04-6334V | 19
04 | AL | BALDWIN COUNTY* | 01003C0830K | 18-JUN-2002 | 02-04-6334V | 19
04 | AL | BALDWIN COUNTY* | 01003C0839K | 18-JUN-2002 | 02-04-6334V | 19
04 | AL | BALDWIN COUNTY* | 01003C0841K | 18-JUN-2002 | 02-04-6334V | 19
04 | AL | BALDWIN COUNTY* | 01003C0855K | 18-JUN-2002 | 02-04-6334V | 19
04 | AL | BIRMINGHAM, CITY OF | 01073C0338E | 27-FEB-2002 | 02-04-1826A | 02
04 | AL | CALHOUN COUNTY * | 0100130234C | 23-JAN-2002 | 02-04-1616A | 01
04 | AL | CEDAR BLUFF,TOWN OF | 0150100005B | 13-FEB-2002 | 02-04-1746A | 02
04 | AL | CHEROKEE COUNTY* | 0102340125B | 03-APR-2002 | 02-04-1140A | 02
04 | AL | CHEROKEE COUNTY* | 0102340125B | 22-MAY-2002 | 02-04-1450A | 01
04 | AL | CHEROKEE COUNTY* | 0102340125B | 10-JUN-2002 | 02-04-5662A | 02
04 | AL | CHILTON COUNTY * | 0100300090B | 10-APR-2002 | 02-04-3820A | 02
04 | AL | COLBERT COUNTY | 0103180125B | 17-APR-2002 | 02-04-3960A | 02
04 | AL | COLBERT COUNTY | 0103180125B | 19-APR-2002 | 02-04-4484A | 02
04 | AL | COLBERT COUNTY | 0103180125B | 10-MAY-2002 | 02-04-3630A | 02
04 | AL | COLBERT COUNTY | 0103180125B | 26-JUN-2002 | 02-04-6124A | 02
04 | AL | CULLMAN COUNTY * | 0102470225B | 04-JAN-2002 | 02-04-1256A | 02
04 | AL | DALLAS COUNTY* | 0100630100B | 20-MAR-2002 | 02-04-2338A | 02
04 | AL | DECATUR, CITY OF | 01103C0060D | 18-JAN-2002 | 01-04-6820A | 01
04 | AL | DECATUR, CITY OF | 01103C0080D | 18-JAN-2002 | 02-04-0424A | 17
04 | AL | DECATUR, CITY OF | 01103C0070D | 27-MAR-2002 | 02-04-1192A | 02
04 | AL | DECATUR, CITY OF | 01103C0060D | 27-MAR-2002 | 02-04-3398A | 02
04 | AL | DECATUR, CITY OF | 01103C0070D | 29-MAR-2002 | 02-04-1190A | 01
04 | AL | DECATUR, CITY OF | 01103C0060D | 24-APR-2002 | 02-04-4584A | 02
04 | AL | DECATUR, CITY OF | 01103C0080D | 19-JUN-2002 | 02-04-5506A | 02
04 | AL | DOTHAN, CITY OF | 0101040037D | 09-JAN-2002 | 01-04-7084A | 02
04 | AL | ELMORE COUNTY* | 0104060025B | 15-FEB-2002 | 02-04-2528A | 02
04 | AL | ELMORE COUNTY* | 0104060025B | 27-MAR-2002 | 02-04-3362A | 02
04 | AL | ELMORE COUNTY* | 0104060025B | 15-MAY-2002 | 02-04-3064A | 02
04 | AL | ELMORE COUNTY* | 0104060025B | 31-MAY-2002 | 02-04-3118A | 02
04 | AL | ETOWAH COUNTY * | 0100770050C | 05-APR-2002 | 02-04-1936A | 02
04 | AL | ETOWAH COUNTY * | 0100770180C | 08-MAY-2002 | 02-04-5142A | 02
04 | AL | FAIRHOPE, CITY OF | 010006—01D | 11-JAN-2002 | 01-04-6936A | 02
04 | AL | FAIRHOPE, CITY OF | 01003C0517K | 18-JUN-2002 | 02-04-6336V | 19
04 | AL | FORT PAYNE, CITY OF | 0100670003A | 31-MAY-2002 | 02-04-4850A | 01
04 | AL | HELENA, TOWN OF | 0102940003B | 30-JAN-2002 | 02-04-0512A | 02
04 | AL | HELENA, TOWN OF | 0102940003B | 01-MAY-2002 | 01-04-7068A | 01
04 | AL | HOMEWOOD, CITY OF | 01073C0479E | 24-APR-2002 | 02-04-2870A | 17
04 | AL | HOMEWOOD, CITY OF | 01073C0481E | 24-MAY-2002 | 02-04-5266A | 02
04 | AL | HOOVER, CITY OF | 0101910045B | 03-MAY-2002 | 02-04-4252A | 02
04 | AL | HOOVER, CITY OF | 01073C0627E | 20-MAY-2002 | 02-04-199P | 05
04 | AL | HOOVER, CITY OF | 0101910040B | 20-MAY-2002 | 02-04-199P | 05
04 | AL | HOUSTON COUNTY * | 0100980205B | 01-MAY-2002 | 02-04-4622A | 02
04 | AL | HUNTSVILLE, CITY OF | 01089C0362D | 20-MAR-2002 | 02-04-3288A | 02
04 | AL | HUNTSVILLE, CITY OF | 01089C0333D | 03-MAY-2002 | 02-04-4300A | 02
04 | AL | HUNTSVILLE, CITY OF | 01089C0340D | 10-MAY-2002 | 02-04-5018A | 02
04 | AL | HUNTSVILLE, CITY OF | 01089C0456D | 10-JUN-2002 | 02-04-5746A | 02
04 | AL | JACKSON COUNTY * | 0101100250B | 05-APR-2002 | 02-04-3840A | 02
04 | AL | JACKSON COUNTY * | 0101100175B | 24-MAY-2002 | 02-04-4686A | 02
04 | AL | JEFFERSON COUNTY * | 01073C0250E | 04-JAN-2002 | 02-04-1376A | 02
04 | AL | JEFFERSON COUNTY * | 01073C0100E | 23-JAN-2002 | 02-04-0932A | 02
04 | AL | JEFFERSON COUNTY * | 01073C0194E | 01-FEB-2002 | 02-04-1864A | 02
04 | AL | JEFFERSON COUNTY * | 01073C0250E | 10-APR-2002 | 02-04-3000A | 02
04 | AL | JEFFERSON COUNTY * | 01073C0489E | 08-MAY-2002 | 02-04-4344A | 02
04 | AL | JEFFERSON COUNTY * | 01073C0281E | 15-MAY-2002 | 02-04-1468A | 02
04 | AL | JEFFERSON COUNTY * | 01073C0627E | 20-MAY-2002 | 02-04-199P | 05
04 | AL | LANETT, CITY OF | 0100290010B | 06-MAR-2002 | 02-04-0818A | 02
04 | AL | LEE COUNTY * | 0102500125C | 08-FEB-2002 | 02-04-1782A | 02
04 | AL | LEE COUNTY * | 0102500140C | 11-MAR-2002 | 02-04-2510A | 17
04 | AL | LEEDS, CITY OF | 01073C0367E | 27-FEB-2002 | 02-04-1876A | 01
04 | AL | LIMESTONE COUNTY * | 0103070087B | 15-MAY-2002 | 02-04-3848A | 01
04 | AL | LIMESTONE COUNTY * | 0103070075B | 12-JUN-2002 | 02-04-4264A | 02
04 | AL | LIMESTONE COUNTY * | 0103070150B | 21-JUN-2002 | 02-04-4404A | 02
04 | AL | MADISON COUNTY * | 01089C0025D | 23-JAN-2002 | 02-04-1902A | 02
04 | AL | MADISON COUNTY * | 01089C0211D | 20-MAR-2002 | 02-04-3192A | 02
04 | AL | MADISON COUNTY * | 01089C0025D | 19-APR-2002 | 02-04-3896A | 02
04 | AL | MADISON COUNTY * | 01089C0211D | 10-MAY-2002 | 02-04-4094A | 02
04 | AL | MARSHALL COUNTY * | 0102750225B | 26-JUN-2002 | 02-04-6190A | 02
04 | AL | MOBILE COUNTY* | 01097C0658J | 10-APR-2002 | 02-04-111P | 05
04 | AL | MOBILE COUNTY* | 01097C0666J | 10-APR-2002 | 02-04-111P | 05
04 | AL | MOBILE, CITY OF | 01097C0543J | 10-JUN-2002 | 02-04-4794A | 02
04 | AL | MOBILE, CITY OF | 01097C0543J | 21-JUN-2002 | 02-04-5538A | 02
04 | AL | MONTGOMERY COUNTY * | 01101C0155F | 19-APR-2002 | 02-04-3430A | 01
04 | AL | MONTGOMERY COUNTY * | 01101C0145F | 17-MAY-2002 | 02-04-2260A | 02
04 | AL | MONTGOMERY COUNTY * | 01101C0090F | 31-MAY-2002 | 02-04-2180A | 02
04 | AL | MONTGOMERY, CITY OF | 01101C0060F | 23-JAN-2002 | 02-04-0816A | 01
04 | AL | MONTGOMERY, CITY OF | 01101C0135F | 20-MAR-2002 | 02-04-2944A | 02
04 | AL | MONTGOMERY, CITY OF | 01101C0070F | 23-APR-2002 | 01-04-317P | 05
04 | AL | MONTGOMERY, CITY OF | 01101C0135F | 23-APR-2002 | 01-04-317P | 05
04 | AL | MONTGOMERY, CITY OF | 01101C0070F | 05-JUN-2002 | 02-04-257P | 05
04 | AL | MONTGOMERY, CITY OF | 01101C0060F | 28-JUN-2002 | 02-04-5970A | 02
04 | AL | MOULTON, CITY OF | 0101420002B | 15-MAY-2002 | 02-04-4744A | 02
04 | AL | MUSCLE SHOALS, CITY OF | 0100470005C | 04-JAN-2002 | 02-04-1052A | 02
04 | AL | MUSCLE SHOALS, CITY OF | 0100470005C | 12-APR-2002 | 02-04-3210A | 02
04 | AL | MUSCLE SHOALS, CITY OF | 0100470005C | 24-APR-2002 | 02-04-4758A | 02
04 | AL | MUSCLE SHOALS, CITY OF | 0100470005C | 01-MAY-2002 | 02-04-4410A | 01
04 | AL | MUSCLE SHOALS, CITY OF | 0100470005C | 22-MAY-2002 | 02-04-5438A | 02
04 | AL | MUSCLE SHOALS, CITY OF | 0100470005C | 22-MAY-2002 | 02-04-5440A | 02
04 | AL | NORTHPORT, CITY OF | 01125C0337E | 17-APR-2002 | 02-04-3240A | 02
04 | AL | NORTHPORT, CITY OF | 01125C0337E | 24-MAY-2002 | 02-04-5900X | 02
04 | AL | OXFORD, CITY OF | 0100230004C | 03-MAY-2002 | 02-04-4994A | 02
04 | AL | OXFORD, CITY OF | 0100230004C | 14-JUN-2002 | 02-04-5988A | 02
04 | AL | PRICHARD, CITY OF | 01097C0419J | 17-APR-2002 | 02-04-2952A | 02
04 | AL | RIVERSIDE, TOWN OF | 010288—03A | 15-MAR-2002 | 02-04-1784A | 02
04 | AL | RIVERSIDE, TOWN OF | 010288—03A | 17-MAY-2002 | 02-04-4112A | 02
04 | AL | SARALAND, CITY OF | 01097C0429J | 22-MAR-2002 | 02-04-3666A | 02
04 | AL | SCOTTSBORO, CITY OF | 0101120005C | 29-MAY-2002 | 02-04-5060A | 02
04 | AL | SHELBY COUNTY* | 0101910020B | 15-FEB-2002 | 02-04-2562A | 02
04 | AL | SHELBY COUNTY* | 0101910195B | 20-MAR-2002 | 02-04-2702A | 02
04 | AL | SHELBY COUNTY* | 0101910145B | 24-APR-2002 | 02-04-3396A | 02
04 | AL | SHELBY COUNTY* | 0101910040B | 20-MAY-2002 | 02-04-199P | 05
04 | AL | SHELBY COUNTY* | 0101910150B | 19-JUN-2002 | 02-04-4586A | 02
04 | AL | SHELBY COUNTY* | 0101910175B | 19-JUN-2002 | 02-04-6066A | 02
04 | AL | ST. CLAIR COUNTY * | 0102900350B | 03-APR-2002 | 02-04-3618A | 02
04 | AL | ST. CLAIR COUNTY * | 0102900350B | 22-MAY-2002 | 02-04-2942A | 02
04 | AL | ST. CLAIR COUNTY * | 0102900325B | 12-JUN-2002 | 02-04-5082A | 02
04 | AL | TALLADEGA COUNTY * | 0102970050B | 30-JAN-2002 | 01-04-6748A | 02
04 | AL | TALLADEGA COUNTY * | 0102970125B | 29-MAR-2002 | 02-04-2846X | 02
04 | AL | TALLADEGA COUNTY * | 0102970050B | 29-MAR-2002 | 02-04-2848X | 02
04 | AL | TALLADEGA COUNTY * | 0102970050B | 29-MAR-2002 | 02-04-2850X | 02
04 | AL | TALLADEGA COUNTY * | 0102970050B | 29-MAR-2002 | 02-04-2852X | 02
04 | AL | TALLADEGA COUNTY * | 0102970050B | 29-MAR-2002 | 02-04-2854X | 02
04 | AL | TALLADEGA COUNTY * | 0102970050B | 24-APR-2002 | 02-04-3392A | 02
04 | AL | TALLADEGA COUNTY * | 0102970225B | 15-MAY-2002 | 02-04-4210A | 02
04 | AL | TALLADEGA COUNTY * | 0102970050B | 10-JUN-2002 | 02-04-5354A | 02
04 | AL | TALLADEGA COUNTY * | 0102970275B | 14-JUN-2002 | 02-04-5210A | 02
04 | AL | TUSCALOOSA COUNTY * | 01125C0500E | 10-APR-2002 | 02-04-2760A | 02
04 | AL | TUSCALOOSA COUNTY * | 01125C0200E | 05-JUN-2002 | 02-04-4852A | 02
04 | AL | TUSCALOOSA, CITY OF | 01125C0344E | 01-FEB-2002 | 02-04-1878A | 02
04 | AL | TUSCALOOSA, CITY OF | 01125C0539E | 22-MAR-2002 | 02-04-3044A | 02
04 | AL | TUSCALOOSA, CITY OF | 01125C0517E | 10-APR-2002 | 02-04-3936A | 02
04 | AL | TUSCALOOSA, CITY OF | 01125C0508E | 17-APR-2002 | 02-04-3174A | 02
04 | AL | TUSCALOOSA, CITY OF | 01125C0700E | 26-APR-2002 | 02-04-4204A | 02
04 | AL | TUSCALOOSA, CITY OF | 01125C0344E | 10-MAY-2002 | 02-04-4770A | 02
04 | AL | TUSCALOOSA, CITY OF | 01125C0508E | 17-MAY-2002 | 02-04-4746A | 02
04 | AL | TUSCALOOSA, CITY OF | 01125C0509E | 24-MAY-2002 | 02-04-5166A | 17
04 | AL | TUSCALOOSA, CITY OF | 01125C0509E | 05-JUN-2002 | 02-04-5030A | 17
04 | AL | TUSCALOOSA, CITY OF | 01125C0517E | 12-JUN-2002 | 02-04-5500A | 17
04 | AL | TUSCALOOSA, CITY OF | 01125C0700E | 21-JUN-2002 | 02-04-5916A | 02
04 | AL | WALKER COUNTY * | 0103010055B | 01-FEB-2002 | 02-04-2300A | 02
04 | AL | WALKER COUNTY * | 0103010055B | 08-FEB-2002 | 02-04-1452A | 02
04 | AL | WALKER COUNTY * | 0103010055B | 08-MAY-2002 | 02-04-2398A | 02
04 | AL | WALKER COUNTY * | 0103010055B | 10-MAY-2002 | 02-04-2398A | 02
04 | AL | WALKER COUNTY * | 0103010055B | 10-JUN-2002 | 02-04-5380A | 02
04 | AL | WETUMPKA, CITY OF | 0100700002C | 11-JAN-2002 | 02-04-1528A | 02
04 | AL | WETUMPKA, CITY OF | 0100700002C | 30-JAN-2002 | 02-04-1656A | 02
04 | AL | WETUMPKA, CITY OF | 0100700002C | 13-MAR-2002 | 02-04-2800A | 02
04 | AL | WETUMPKA, CITY OF | 0100700003C | 10-APR-2002 | 02-04-0174A | 01
04 | AL | WETUMPKA, CITY OF | 0100700002C | 17-APR-2002 | 02-04-4298A | 02
04 | AL | WETUMPKA, CITY OF | 0100700002C | 10-MAY-2002 | 02-04-4406A | 02
04 | AL | WETUMPKA, CITY OF | 0100700002C | 22-MAY-2002 | 02-04-2508A | 02
04 | AL | WETUMPKA, CITY OF | 0100700002C | 12-JUN-2002 | 02-04-5736A | 02
04 | AL | WINSTON COUNTY * | 0103040009B | 22-FEB-2002 | 02-04-2336A | 02
04 | AL | WINSTON COUNTY * | 0103040009B | 05-APR-2002 | 02-04-3214A | 02
04 | AL | WINSTON COUNTY * | 0103040009A | 15-MAY-2002 | 02-04-3838A | 02
04 | AL | WINSTON COUNTY * | 0103040009B | 24-MAY-2002 | 02-04-5084A | 02
04 | FL | ALACHUA COUNTY* | 1200010275A | 06-FEB-2002 | 02-04-1412A | 02
04 | FL | ALACHUA COUNTY* | 1200010425A | 13-MAR-2002 | 02-04-3346A | 02
04 | FL | ALACHUA COUNTY* | 1200010500A | 27-MAR-2002 | 02-04-3168A | 02
04 | FL | ALACHUA COUNTY* | 1200010425A | 24-APR-2002 | 02-04-3750A | 02
04 | FL | ALACHUA COUNTY* | 1200010450A | 28-JUN-2002 | 02-04-1522A | 01
04 | FL | ALACHUA COUNTY* | 1200010425A | 28-JUN-2002 | 02-04-5356A | 02
04 | FL | ALACHUA, CITY OF | 1206640025A | 23-JAN-2002 | 02-04-1408A | 02
04 | FL | ALACHUA, CITY OF | 1206640025A | 15-MAR-2002 | 02-04-2624A | 02
04 | FL | ALACHUA, CITY OF | 1206640025A | 22-MAR-2002 | 02-04-3528A | 02
04 | FL | ALTAMONTE SPRINGS, CITY OF | 12117C0140E | 08-FEB-2002 | 02-04-2396A | 02
04 | FL | ALTAMONTE SPRINGS, CITY OF | 12117C0120E | 01-MAY-2002 | 02-04-4392A | 02
04 | FL | APALACHICOLA, CITY OF | 12037C0526E | 18-JUN-2002 | 02-04-6218V | 19
04 | FL | APOPKA, CITY OF | 12095C0110E | 08-FEB-2002 | 02-04-2394A | 02
04 | FL | APOPKA, CITY OF | 12095C0110E | 13-MAR-2002 | 02-04-2718A | 02
04 | FL | APOPKA, CITY OF | 12095C0140E | 22-MAY-2002 | 02-04-5176A | 02
04 | FL | ATLANTIC BEACH, CITY OF | 1200750001D | 22-MAY-2002 | 02-04-4636A | 02
04 | FL | AUBURNDALE, CITY OF | 12105C0335F | 20-FEB-2002 | 02-04-2802A | 02
04 | FL | AUBURNDALE, CITY OF | 12105C0335F | 20-MAR-2002 | 02-04-2838A | 02
04 | FL | AUBURNDALE, CITY OF | 12105C0335F | 01-MAY-2002 | 02-04-1292A | 02
04 | FL | AUBURNDALE, CITY OF | 12105C0330F | 22-MAY-2002 | 02-04-2264A | 02
04 | FL | BARTOW, CITY OF | 12105C0515F | 16-MAY-2002 | 02-04-269P | 05
04 | FL | BARTOW, CITY OF | 12105C0515F | 20-MAY-2002 | 02-04-271P | 05
04 | FL | BAY COUNTY* | 1200040351D | 12-JUN-2002 | 02-04-5478A | 02
04 | FL | BELLE ISLE, CITY OF | 12095C0430E | 04-JAN-2002 | 02-04-0960A | 02
04 | FL | BELLE ISLE, CITY OF | 12095C0430E | 27-MAR-2002 | 02-04-3188A | 02
04 | FL | BELLE ISLE, CITY OF | 12095C0430E | 12-APR-2002 | 02-04-3456A | 02
04 | FL | BOCA RATON, CITY OF | 1201950004C | 18-JAN-2002 | 02-04-1290A | 02
04 | FL | BOCA RATON, CITY OF | 1201950007C | 25-JAN-2002 | 02-04-1620A | 02
04 | FL | BOYNTON BEACH, CITY OF | 1201960005C | 04-JAN-2002 | 02-04-0052A | 02
04 | FL | BRADFORD COUNTY * | 12007C0245D | 26-APR-2002 | 02-04-2962A | 02
04 | FL | BREVARD COUNTY * | 12009C0430E | 04-JAN-2002 | 02-04-1150A | 02
04 | FL | BREVARD COUNTY * | 12009C0435E | 11-JAN-2002 | 02-04-1350X | 01
04 | FL | BREVARD COUNTY * | 12009C0441F | 18-JAN-2002 | 02-04-0812A | 02
04 | FL | BREVARD COUNTY * | 12009C0430E | 18-JAN-2002 | 02-04-1258A | 02
04 | FL | BREVARD COUNTY * | 12009C0350E | 23-JAN-2002 | 02-04-1148A | 02
04 | FL | BREVARD COUNTY * | 12009C0260E | 23-JAN-2002 | 02-04-1176A | 02
04 | FL | BREVARD COUNTY * | 12009C0260E | 23-JAN-2002 | 02-04-1178A | 02
04 | FL | BREVARD COUNTY * | 12009C0430E | 23-JAN-2002 | 02-04-1260A | 02
04 | FL | BREVARD COUNTY * | 12009C0260E | 25-JAN-2002 | 02-04-1636A | 02
04 | FL | BREVARD COUNTY * | 12009C0526E | 06-FEB-2002 | 02-04-1898A | 02
04 | FL | BREVARD COUNTY * | 12009C0441F | 06-FEB-2002 | 02-04-1944A | 02
04 | FL | BREVARD COUNTY * | 12009C0441F | 06-FEB-2002 | 02-04-1966A | 02
04 | FL | BREVARD COUNTY * | 12009C0370E | 13-FEB-2002 | 02-04-1828A | 01
04 | FL | BREVARD COUNTY * | 12009C0190F | 01-MAR-2002 | 02-04-0476A | 02
04 | FL | BREVARD COUNTY * | 12009C0365E | 01-MAR-2002 | 02-04-2292A | 02
04 | FL | BREVARD COUNTY * | 12009C0435E | 13-MAR-2002 | 02-04-2706A | 02
04 | FL | BREVARD COUNTY * | 12009C0190F | 13-MAR-2002 | 02-04-2886A | 01
04 | FL | BREVARD COUNTY * | 12009C0440E | 20-MAR-2002 | 02-04-2524A | 02
04 | FL | BREVARD COUNTY * | 12009C0441F | 20-MAR-2002 | 02-04-2524A | 02
04 | FL | BREVARD COUNTY * | 12009C0350E | 20-MAR-2002 | 02-04-3038A | 02
04 | FL | BREVARD COUNTY * | 12009C0365E | 20-MAR-2002 | 02-04-3038A | 02
04 | FL | BREVARD COUNTY * | 12009C0430E | 20-MAR-2002 | 02-04-3626A | 01
04 | FL | BREVARD COUNTY * | 12009C0260E | 27-MAR-2002 | 02-04-3326A | 02
04 | FL | BREVARD COUNTY * | 12009C0275E | 27-MAR-2002 | 02-04-3336A | 02
04 | FL | BREVARD COUNTY * | 12009C0435E | 05-APR-2002 | 02-04-3512A | 02
04 | FL | BREVARD COUNTY * | 12009C0435E | 10-APR-2002 | 02-04-0126A | 01
04 | FL | BREVARD COUNTY * | 12009C0430E | 10-APR-2002 | 02-04-3468A | 02
04 | FL | BREVARD COUNTY * | 12009C0270E | 10-APR-2002 | 02-04-3624A | 02
04 | FL | BREVARD COUNTY * | 12009C0275E | 10-APR-2002 | 02-04-3684A | 02
04 | FL | BREVARD COUNTY * | 12009C0275E | 10-APR-2002 | 02-04-3836A | 02
04 | FL | BREVARD COUNTY * | 12009C0180E | 17-APR-2002 | 02-04-4018A | 02
04 | FL | BREVARD COUNTY * | 12009C0617E | 24-APR-2002 | 02-04-4024X | 01
04 | FL | BREVARD COUNTY * | 12009C0435E | 26-APR-2002 | 02-04-4010A | 02
04 | FL | BREVARD COUNTY * | 12009C0435E | 03-MAY-2002 | 02-04-3916A | 02
04 | FL | BREVARD COUNTY * | 12009C0270E | 03-MAY-2002 | 02-04-4690A | 02
04 | FL | BREVARD COUNTY * | 12009C0430E | 03-MAY-2002 | 02-04-4696A | 01
04 | FL | BREVARD COUNTY * | 12009C0260E | 03-MAY-2002 | 02-04-4762A | 02
04 | FL | BREVARD COUNTY * | 12009C0270E | 10-MAY-2002 | 02-04-4822A | 02
04 | FL | BREVARD COUNTY * | 12009C0430E | 17-MAY-2002 | 02-04-0962A | 01
04 | FL | BREVARD COUNTY * | 12009C0430E | 17-MAY-2002 | 02-04-0964A | 01
04 | FL | BREVARD COUNTY * | 12009C0435E | 22-MAY-2002 | 02-04-3510A | 01
04 | FL | BREVARD COUNTY * | 12009C0430E | 22-MAY-2002 | 02-04-5162A | 02
04 | FL | BREVARD COUNTY * | 12009C0260E | 22-MAY-2002 | 02-04-5184A | 02
04 | FL | BREVARD COUNTY * | 12009C0260E | 24-MAY-2002 | 02-04-5232A | 02
04 | FL | BREVARD COUNTY * | 12009C0275E | 31-MAY-2002 | 02-04-5366A | 02
04 | FL | BREVARD COUNTY * | 12009C0290E | 12-JUN-2002 | 02-04-5542A | 02
04 | FL | BREVARD COUNTY * | 12009C0435E | 12-JUN-2002 | 02-04-5544A | 02
04 | FL | BREVARD COUNTY * | 12009C0270E | 12-JUN-2002 | 02-04-5596A | 02
04 | FL | BREVARD COUNTY * | 12009C0700E | 26-JUN-2002 | 02-04-5840A | 01
04 | FL | BREVARD COUNTY * | 12009C0260E | 26-JUN-2002 | 02-04-5842A | 01
04 | FL | BREVARD COUNTY * | 12009C0100E | 26-JUN-2002 | 02-04-5844A | 02
04 | FL | BREVARD COUNTY * | 12009C0100E | 26-JUN-2002 | 02-04-5846A | 02
04 | FL | BROWARD COUNTY* | 12011C0120F | 04-JAN-2002 | 02-04-1446A | 02
04 | FL | BROWARD COUNTY* | 12011C0208F | 09-JAN-2002 | 02-04-1742A | 02
04 | FL | BROWARD COUNTY* | 12011C0117G | 27-MAR-2002 | 02-04-3286A | 02
04 | FL | BROWARD COUNTY* | 12011C0205F | 29-MAR-2002 | 02-04-0108A | 02
04 | FL | BROWARD COUNTY* | 12011C0308F | 17-MAY-2002 | 02-04-5428A | 02
04 | FL | CAPE CORAL, CITY OF | 1250950030C | 04-JAN-2002 | 02-04-1556A | 01
04 | FL | CAPE CORAL, CITY OF | 1250950040C | 09-JAN-2002 | 02-04-1770A | 01
04 | FL | CAPE CORAL, CITY OF | 1250950020C | 16-JAN-2002 | 02-04-1842A | 01
04 | FL | CAPE CORAL, CITY OF | 1250950030C | 16-JAN-2002 | 02-04-1842A | 01
04 | FL | CAPE CORAL, CITY OF | 1250950030C | 23-JAN-2002 | 02-04-1960A | 01
04 | FL | CAPE CORAL, CITY OF | 1250950020C | 01-FEB-2002 | 02-04-2098A | 01
04 | FL | CAPE CORAL, CITY OF | 1250950030C | 01-FEB-2002 | 02-04-2098A | 01
04 | FL | CAPE CORAL, CITY OF | 1250950030C | 22-FEB-2002 | 02-04-2288A | 01
04 | FL | CAPE CORAL, CITY OF | 1250950040C | 22-FEB-2002 | 02-04-2288A | 01
04 | FL | CAPE CORAL, CITY OF | 1250950020C | 01-MAR-2002 | 02-04-2548A | 01
04 | FL | CAPE CORAL, CITY OF | 1250950030C | 01-MAR-2002 | 02-04-2550A | 01
04 | FL | CAPE CORAL, CITY OF | 1250950045C | 01-MAR-2002 | 02-04-2550A | 01
04 | FL | CAPE CORAL, CITY OF | 1250950020C | 11-MAR-2002 | 02-04-2888A | 01
04 | FL | CAPE CORAL, CITY OF | 1250950020C | 15-MAR-2002 | 02-04-3030A | 01
04 | FL | CAPE CORAL, CITY OF | 1250950040C | 15-MAR-2002 | 02-04-3030A | 01
04 | FL | CAPE CORAL, CITY OF | 1250950045C | 15-MAR-2002 | 02-04-3030A | 01
04 | FL | CAPE CORAL, CITY OF | 1250950020C | 22-MAR-2002 | 02-04-3154A | 01
04 | FL | CAPE CORAL, CITY OF | 1250950030C | 22-MAR-2002 | 02-04-3154A | 01
04 | FL | CAPE CORAL, CITY OF | 1250950030C | 27-MAR-2002 | 02-04-3266A | 01
04 | FL | CAPE CORAL, CITY OF | 1250950035C | 27-MAR-2002 | 02-04-3334A | 01
04 | FL | CAPE CORAL, CITY OF | 1250950030C | 27-MAR-2002 | 02-04-3502A | 01
04 | FL | CAPE CORAL, CITY OF | 1250950030C | 29-MAR-2002 | 02-04-3592A | 01
04 | FL | CAPE CORAL, CITY OF | 1250950030C | 24-APR-2002 | 02-04-4284A | 01
04 | FL | CAPE CORAL, CITY OF | 1250950020C | 03-MAY-2002 | 02-04-4728A | 01
04 | FL | CAPE CORAL, CITY OF | 1250950030C | 03-MAY-2002 | 02-04-4728A | 01
04 | FL | CAPE CORAL, CITY OF | 1250950040C | 03-MAY-2002 | 02-04-4728A | 01
04 | FL | CAPE CORAL, CITY OF | 1250950020C | 03-MAY-2002 | 02-04-4782A | 01
04 | FL | CAPE CORAL, CITY OF | 1250950030C | 03-MAY-2002 | 02-04-4782A | 01
04 | FL | CAPE CORAL, CITY OF | 1250950035C | 08-MAY-2002 | 02-04-4904A | 01
04 | FL | CAPE CORAL, CITY OF | 1250950030C | 10-MAY-2002 | 02-04-5054A | 01
04 | FL | CAPE CORAL, CITY OF | 1250950030C | 10-MAY-2002 | 02-04-5134A | 01
04 | FL | CAPE CORAL, CITY OF | 1250950020C | 24-MAY-2002 | 02-04-5632A | 01
04 | FL | CAPE CORAL, CITY OF | 1250950020C | 29-MAY-2002 | 02-04-5470A | 01
04 | FL | CAPE CORAL, CITY OF | 1250950030C | 05-JUN-2002 | 02-04-5430A | 01
04 | FL | CAPE CORAL, CITY OF | 1250950040C | 05-JUN-2002 | 02-04-5430A | 01
04 | FL | CAPE CORAL, CITY OF | 1250950020C | 12-JUN-2002 | 02-04-5784A | 01
04 | FL | CAPE CORAL, CITY OF | 1250950030C | 12-JUN-2002 | 02-04-5784A | 01
04 | FL | CAPE CORAL, CITY OF | 1250950045C | 12-JUN-2002 | 02-04-5784A | 01
04 | FL | CAPE CORAL, CITY OF | 1250950030C | 12-JUN-2002 | 02-04-5876A | 01
04 | FL | CAPE CORAL, CITY OF | 1250950030C | 14-JUN-2002 | 02-04-6100A | 01
04 | FL | CAPE CORAL, CITY OF | 1250950020C | 19-JUN-2002 | 02-04-6186A | 01
04 | FL | CAPE CORAL, CITY OF | 1250950040C | 19-JUN-2002 | 02-04-6186A | 01
04 | FL | CAPE CORAL, CITY OF | 1250950020C | 21-JUN-2002 | 02-04-6338A | 01
04 | FL | CAPE CORAL, CITY OF | 1250950030C | 21-JUN-2002 | 02-04-6338A | 01
04 | FL | CAPE CORAL, CITY OF | 1250950030C | 28-JUN-2002 | 02-04-6446A | 01
04 | FL | CASSELBERRY, CITY OF | 12117C0140E | 13-MAR-2002 | 02-04-3366A | 02
04 | FL | CHARLOTTE COUNTY * | 1200610175D | 29-MAY-2002 | 02-04-3884A | 02
04 | FL | CITRUS COUNTY * | 1200630270B | 23-JAN-2002 | 02-04-1896A | 02
04 | FL | CITRUS COUNTY * | 1200630175B | 13-FEB-2002 | 02-04-2628A | 02
04 | FL | CITRUS COUNTY * | 1200630270B | 15-FEB-2002 | 02-04-2630A | 02
04 | FL | CITRUS COUNTY * | 1200630300B | 15-FEB-2002 | 02-04-2632A | 02
04 | FL | CITRUS COUNTY * | 1200630300B | 03-APR-2002 | 02-04-3638A | 02
04 | FL | CITRUS COUNTY * | 1200630150B | 03-APR-2002 | 02-04-3640A | 02
04 | FL | CITRUS COUNTY * | 1200630270B | 15-MAY-2002 | 02-04-5370A | 02
04 | FL | CITRUS COUNTY * | 1200630400B | 29-MAY-2002 | 02-04-5260A | 02
04 | FL | CITRUS COUNTY * | 1200630120B | 05-JUN-2002 | 02-04-5398A | 02
04 | FL | CITRUS COUNTY * | 1200630205C | 05-JUN-2002 | 02-04-5740A | 02
04 | FL | CITRUS COUNTY * | 1200630255B | 12-JUN-2002 | 02-04-5056A | 02
04 | FL | CLAY COUNTY * | 1200640155D | 23-JAN-2002 | 02-04-1832A | 01
04 | FL | CLAY COUNTY * | 1200640135D | 25-JAN-2002 | 02-04-2130A | 01
04 | FL | CLAY COUNTY * | 1200640155D | 22-FEB-2002 | 02-04-2118X | 01
04 | FL | CLAY COUNTY * | 1200640155D | 06-MAR-2002 | 02-04-1830A | 01
04 | FL | CLAY COUNTY * | 1200640140D | 20-MAR-2002 | 02-04-2418A | 02
04 | FL | CLAY COUNTY * | 1200640065D | 05-APR-2002 | 02-04-0028A | 01
04 | FL | CLAY COUNTY * | 1200640065D | 05-APR-2002 | 02-04-3746A | 01
04 | FL | CLAY COUNTY * | 1200640065D | 12-APR-2002 | 02-04-3230A | 02
04 | FL | CLAY COUNTY * | 1200640155D | 24-APR-2002 | 02-04-4134A | 01
04 | FL | CLAY COUNTY * | 1200640155D | 01-MAY-2002 | 02-04-3944A | 01
04 | FL | CLAY COUNTY * | 1200640065D | 08-MAY-2002 | 02-04-5004A | 02
04 | FL | CLAY COUNTY * | 1200640065D | 29-MAY-2002 | 02-04-2030A | 01
04 | FL | CLAY COUNTY * | 1200640140D | 14-JUN-2002 | 02-04-5712A | 02
04 | FL | CLAY COUNTY * | 1200640155D | 26-JUN-2002 | 02-04-5898A | 01
04 | FL | CLEARWATER, CITY OF | 1250960017D | 15-MAY-2002 | 02-04-4872A | 02
04 | FL | CLEARWATER, CITY OF | 1250960009D | 21-JUN-2002 | 02-04-6264A | 02
04 | FL | COLLIER COUNTY * | 1200670250D | 01-FEB-2002 | 02-04-2070A | 02
04 | FL | COLLIER COUNTY * | 1200670812E | 20-MAR-2002 | 02-04-3216A | 02
04 | FL | COLLIER COUNTY * | 1200670812E | 27-MAR-2002 | 02-04-3390A | 02
04 | FL | COLLIER COUNTY * | 1200670215D | 10-MAY-2002 | 02-04-4874A | 02
04 | FL | COLLIER COUNTY * | 1200670225D | 10-MAY-2002 | 02-04-4874A | 02
04 | FL | COLUMBIA COUNTY* | 1200700175B | 08-FEB-2002 | 02-04-1822A | 02
04 | FL | COLUMBIA COUNTY* | 1200700175B | 27-FEB-2002 | 02-04-2454A | 02
04 | FL | COLUMBIA COUNTY* | 1200700250B | 27-MAR-2002 | 02-04-0258A | 02
04 | FL | COLUMBIA COUNTY* | 1200700175B | 29-MAR-2002 | 02-04-3202A | 02
04 | FL | COLUMBIA COUNTY* | 1200700125B | 17-APR-2002 | 02-04-4192A | 02
04 | FL | COLUMBIA COUNTY* | 1200700270B | 19-JUN-2002 | 02-04-6200A | 02
04 | FL | COOPER CITY, CITY OF | 12011C0285F | 13-MAR-2002 | 02-04-2662A | 02
04 | FL | CORAL SPRINGS, CITY OF | 12011C0095F | 26-APR-2002 | 02-04-4500A | 02
04 | FL | CORAL SPRINGS, CITY OF | 12011C0115F | 17-MAY-2002 | 02-04-4972A | 02
04 | FL | CORAL SPRINGS, CITY OF | 12011C0095F | 22-MAY-2002 | 02-04-4120A | 01
04 | FL | DADE COUNTY* | 12025C0160J | 16-JAN-2002 | 02-04-1648A | 01
04 | FL | DADE COUNTY* | 12025C0075J | 16-JAN-2002 | 02-04-1650A | 01
04 | FL | DADE COUNTY* | 12025C0160J | 23-JAN-2002 | 02-04-1458A | 01
04 | FL | DADE COUNTY* | 12025C0266J | 23-JAN-2002 | 02-04-1698A | 02
04 | FL | DADE COUNTY* | 12025C0180J | 08-FEB-2002 | 02-04-2436A | 02
04 | FL | DADE COUNTY* | 12025C0269J | 27-FEB-2002 | 02-04-2568A | 02
04 | FL | DADE COUNTY* | 12025C0365J | 06-MAR-2002 | 02-04-0234A | 02
04 | FL | DADE COUNTY* | 12025C0260J | 13-MAR-2002 | 02-04-0544A | 02
04 | FL | DADE COUNTY* | 12025C0075J | 20-MAR-2002 | 02-04-3778A | 01
04 | FL | DADE COUNTY* | 12025C0075J | 05-APR-2002 | 02-04-3472A | 01
04 | FL | DADE COUNTY* | 12025C0255J | 12-APR-2002 | 02-04-3554A | 02
04 | FL | DADE COUNTY* | 12025C0255J | 10-MAY-2002 | 02-04-4936A | 02
04 | FL | DADE COUNTY* | 12025C0160J | 15-MAY-2002 | 02-04-4474A | 02
04 | FL | DADE COUNTY* | 12025C0090J | 15-MAY-2002 | 02-04-5186A | 02
04 | FL | DADE COUNTY* | 12025C0080J | 15-MAY-2002 | 02-04-5188A | 02
04 | FL | DADE COUNTY* | 12025C0266J | 29-MAY-2002 | 02-04-5222A | 02
04 | FL | DAVENPORT, TOWN OF | 12105C0240F | 01-FEB-2002 | 01-04-009P | 05
04 | FL | DAVIE, CITY OF | 12011C0302F | 20-FEB-2002 | 02-04-2058A | 02
04 | FL | DAVIE, CITY OF | 12011C0302F | 27-FEB-2002 | 02-04-2060A | 02
04 | FL | DAVIE, CITY OF | 12011C0195F | 06-MAR-2002 | 02-04-2656A | 02
04 | FL | DAVIE, CITY OF | 12011C0304F | 06-MAR-2002 | 02-04-2658A | 02
04 | FL | DAVIE, CITY OF | 12011C0305F | 06-MAR-2002 | 02-04-2658A | 02
04 | FL | DAYTONA BEACH, CITY OF | 1250990010D | 06-FEB-2002 | 01-04-6976A | 01
04 | FL | DAYTONA BEACH, CITY OF | 12127C0368G | 17-APR-2002 | 02-04-3144A | 02
04 | FL | DEERFIELD BEACH, CITY OF | 12011C0108F | 23-JAN-2002 | 02-04-1934A | 02
04 | FL | DEERFIELD BEACH, CITY OF | 12011C0109G | 01-FEB-2002 | 02-04-2106A | 02
04 | FL | DEERFIELD BEACH, CITY OF | 12011C0109G | 26-APR-2002 | 02-04-4582A | 02
04 | FL | DEERFIELD BEACH, CITY OF | 12011C0109G | 22-MAY-2002 | 02-04-3668A | 02
04 | FL | DEERFIELD BEACH, CITY OF | 12011C0109G | 05-JUN-2002 | 02-04-6118A | 02
04 | FL | DEERFIELD BEACH, CITY OF | 12011C0109G | 28-JUN-2002 | 02-04-5550A | 02
04 | FL | DELRAY BEACH, CITY OF | 1251020001D | 16-JAN-2002 | 02-04-1624A | 02
04 | FL | EDGEWOOD, CITY OF | 12095C0410E | 19-APR-2002 | 02-04-4164A | 02
04 | FL | ESCAMBIA COUNTY* | 1200800369F | 30-APR-2002 | 02-04-2776A | 01
04 | FL | ESCAMBIA COUNTY* | 12033C0368F | 15-MAY-2002 | 02-04-4880A | 02
04 | FL | FORT LAUDERDALE, CITY OF | 12011C0217F | 08-FEB-2002 | 02-04-2410A | 02
04 | FL | FORT LAUDERDALE, CITY OF | 12011C0217F | 24-APR-2002 | 02-04-2890A | 02
04 | FL | FORT LAUDERDALE, CITY OF | 12011C0209F | 12-JUN-2002 | 02-04-5472A | 02
04 | FL | FORT LAUDERDALE, CITY OF | 12011C0207G | 19-JUN-2002 | 02-04-6210A | 02
04 | FL | FRANKLIN COUNTY * | 1200880195B | 13-MAR-2002 | 02-04-0850A | 18
04 | FL | FRANKLIN COUNTY * | 12037C0290E | 18-JUN-2002 | 02-04-6216V | 19
04 | FL | FRANKLIN COUNTY * | 12037C0532E | 18-JUN-2002 | 02-04-6216V | 19
04 | FL | FRANKLIN COUNTY * | 12037C0561E | 18-JUN-2002 | 02-04-6216V | 19
04 | FL | GADSDEN COUNTY * | 1200910300A | 22-MAY-2002 | 02-04-4182A | 02
04 | FL | GAINESVILLE, CITY OF | 1200010259A | 15-FEB-2002 | 02-04-1346A | 01
04 | FL | GAINESVILLE, CITY OF | 1251070004B | 20-FEB-2002 | 02-04-0340A | 01
04 | FL | GLADES COUNTY * | 1200950050B | 22-MAR-2002 | 02-04-3636A | 02
04 | FL | GULF COUNTY * | 1200980025B | 25-JAN-2002 | 01-04-7086A | 01
04 | FL | HERNANDO COUNTY * | 1201100225B | 09-JAN-2002 | 02-04-0754A | 01
04 | FL | HERNANDO COUNTY * | 1201100280B | 14-JUN-2002 | 02-04-6104A | 02
04 | FL | HIALEAH GARDENS, CITY OF | 12025C0075J | 29-MAY-2002 | 02-04-5288A | 01
04 | FL | HIALEAH, CITY OF | 12025C0090J | 22-FEB-2002 | 02-04-3092A | 02
04 | FL | HILLSBOROUGH COUNTY* | 1201120180F | 09-JAN-2002 | 02-04-1078A | 02
04 | FL | HILLSBOROUGH COUNTY* | 1201120385E | 16-JAN-2002 | 02-04-0572A | 01
04 | FL | HILLSBOROUGH COUNTY* | 1201120395E | 23-JAN-2002 | 02-04-1740A | 02
04 | FL | HILLSBOROUGH COUNTY* | 1201120045D | 25-JAN-2002 | 02-04-1284A | 01
04 | FL | HILLSBOROUGH COUNTY* | 1201120160C | 30-JAN-2002 | 02-04-1144A | 01
04 | FL | HILLSBOROUGH COUNTY* | 1201120160C | 30-JAN-2002 | 02-04-1328X | 01
04 | FL | HILLSBOROUGH COUNTY* | 1201120180F | 30-JAN-2002 | 02-04-1532A | 02
04 | FL | HILLSBOROUGH COUNTY* | 1201120045D | 06-FEB-2002 | 02-04-1418A | 01
04 | FL | HILLSBOROUGH COUNTY* | 1201120185F | 06-FEB-2002 | 02-04-2116A | 02
04 | FL | HILLSBOROUGH COUNTY* | 1201120180F | 06-FEB-2002 | 02-04-2178A | 01
04 | FL | HILLSBOROUGH COUNTY* | 1201120205D | 08-FEB-2002 | 02-04-2150A | 02
04 | FL | HILLSBOROUGH COUNTY* | 1201120530C | 15-FEB-2002 | 02-04-0024A | 01
04 | FL | HILLSBOROUGH COUNTY* | 1201120367E | 15-FEB-2002 | 02-04-2206A | 01
04 | FL | HILLSBOROUGH COUNTY* | 1201120065D | 22-FEB-2002 | 02-04-2312A | 01
04 | FL | HILLSBOROUGH COUNTY* | 1201120045D | 01-MAR-2002 | 02-04-2190A | 01
04 | FL | HILLSBOROUGH COUNTY* | 1201120205D | 06-MAR-2002 | 02-04-3302A | 02
04 | FL | HILLSBOROUGH COUNTY* | 1201120389D | 15-MAR-2002 | 02-04-2302A | 01
04 | FL | HILLSBOROUGH COUNTY* | 1201120040D | 15-MAR-2002 | 02-04-2938A | 02
04 | FL | HILLSBOROUGH COUNTY* | 1201120290C | 20-MAR-2002 | 02-04-2716A | 02
04 | FL | HILLSBOROUGH COUNTY* | 1201120185F | 22-MAR-2002 | 02-04-2392A | 02
04 | FL | HILLSBOROUGH COUNTY* | 1201120205D | 22-MAR-2002 | 02-04-2392A | 02
04 | FL | HILLSBOROUGH COUNTY* | 1201120190D | 22-MAR-2002 | 02-04-4032A | 01
04 | FL | HILLSBOROUGH COUNTY* | 1201120065D | 27-MAR-2002 | 02-04-3082A | 02
04 | FL | HILLSBOROUGH COUNTY* | 1201120393D | 27-MAR-2002 | 02-04-3170A | 02
04 | FL | HILLSBOROUGH COUNTY* | 1201120065D | 05-APR-2002 | 02-04-3544A | 02
04 | FL | HILLSBOROUGH COUNTY* | 1201120180F | 10-APR-2002 | 02-04-3596A | 02
04 | FL | HILLSBOROUGH COUNTY* | 1201120395E | 10-APR-2002 | 02-04-3808A | 02
04 | FL | HILLSBOROUGH COUNTY* | 1201120192D | 10-APR-2002 | 02-04-3834A | 02
04 | FL | HILLSBOROUGH COUNTY* | 1201120415C | 17-APR-2002 | 02-04-1454A | 01
04 | FL | HILLSBOROUGH COUNTY* | 1201120265D | 08-MAY-2002 | 02-04-5178A | 02
04 | FL | HILLSBOROUGH COUNTY* | 1201120385E | 15-MAY-2002 | 02-04-3768A | 02
04 | FL | HILLSBOROUGH COUNTY* | 1201120387E | 17-MAY-2002 | 02-04-2080A | 01
04 | FL | HILLSBOROUGH COUNTY* | 1201120190D | 05-JUN-2002 | 02-04-4296A | 02
04 | FL | HILLSBOROUGH COUNTY* | 1201120040D | 19-JUN-2002 | 02-04-4624A | 02
04 | FL | HILLSBOROUGH COUNTY* | 1201120185F | 19-JUN-2002 | 02-04-5270A | 01
04 | FL | HILLSBOROUGH COUNTY* | 1201120290C | 26-JUN-2002 | 02-04-5926X | 02
04 | FL | HILLSBOROUGH COUNTY* | 1201120395E | 28-JUN-2002 | 02-04-5368A | 02
04 | FL | HOLLYWOOD, CITY OF | 12011C0316F | 15-MAR-2002 | 02-04-3034A | 02
04 | FL | HOLLYWOOD, CITY OF | 12011C0308F | 27-MAR-2002 | 02-04-3622A | 02
04 | FL | HOLLYWOOD, CITY OF | 12011C0304F | 29-MAY-2002 | 02-04-5658A | 02
04 | FL | HOMESTEAD, CITY OF | 12025C0365J | 10-JUN-2002 | 02-04-0608A | 01
04 | FL | INDIAN RIVER COUNTY * | 12061C0079F | 05-JAN-2002 | 01-04-457P | 05
04 | FL | INDIAN RIVER COUNTY * | 12061C0169F | 17-MAY-2002 | 02-04-4856A | 18
04 | FL | INVERNESS, CITY OF | 1203480001B | 21-JUN-2002 | 02-04-5372A | 02
04 | FL | JACKSONVILLE BEACH, CITY OF | 1200780002D | 15-MAY-2002 | 02-04-4600A | 02
04 | FL | JACKSONVILLE, CITY OF | 1200770209E | 09-JAN-2002 | 02-04-0060A | 02
04 | FL | JACKSONVILLE, CITY OF | 1200770061E | 27-FEB-2002 | 02-04-2412A | 02
04 | FL | JACKSONVILLE, CITY OF | 1200770065E | 27-FEB-2002 | 02-04-2412A | 02
04 | FL | JACKSONVILLE, CITY OF | 1200770164E | 27-MAR-2002 | 02-04-3526A | 02
04 | FL | JACKSONVILLE, CITY OF | 1200770209E | 29-MAR-2002 | 01-04-5378A | 01
04 | FL | JACKSONVILLE, CITY OF | 1200770150E | 01-APR-2002 | 02-04-067P | 05
04 | FL | JACKSONVILLE, CITY OF | 1200770242E | 12-APR-2002 | 02-04-3556A | 02
04 | FL | JACKSONVILLE, CITY OF | 1200770070E | 12-APR-2002 | 02-04-3826A | 02
04 | FL | JACKSONVILLE, CITY OF | 1200770232E | 03-MAY-2002 | 02-04-4340A | 02
04 | FL | JACKSONVILLE, CITY OF | 1200770208E | 22-MAY-2002 | 02-04-3828A | 01
04 | FL | JACKSONVILLE, CITY OF | 1200770144E | 24-MAY-2002 | 02-04-5264A | 02
04 | FL | JACKSONVILLE, CITY OF | 1200770226E | 29-MAY-2002 | 02-04-3966A | 02
04 | FL | JACKSONVILLE, CITY OF | 1200770141E | 14-JUN-2002 | 02-04-2538A | 01
04 | FL | JACKSONVILLE, CITY OF | 1200770219E | 19-JUN-2002 | 02-04-6230A | 02
04 | FL | KISSIMMEE, CITY OF | 12097C0066F | 25-JAN-2002 | 02-04-1862A | 02
04 | FL | KISSIMMEE, CITY OF | 12097C0066F | 01-FEB-2002 | 02-04-2156A | 02
04 | FL | KISSIMMEE, CITY OF | 12097C0060F | 29-MAR-2002 | 02-04-3060A | 02
04 | FL | LAKE COUNTY * | 1204210125B | 04-JAN-2002 | 02-04-0614A | 02
04 | FL | LAKE COUNTY * | 1204210200B | 04-JAN-2002 | 02-04-1184A | 02
04 | FL | LAKE COUNTY * | 1204210150B | 09-JAN-2002 | 02-04-1438A | 02
04 | FL | LAKE COUNTY * | 1204210125B | 23-JAN-2002 | 02-04-1820A | 02
04 | FL | LAKE COUNTY * | 1204210425B | 25-JAN-2002 | 02-04-1986A | 02
04 | FL | LAKE COUNTY * | 1204210200B | 13-FEB-2002 | 02-04-1490A | 02
04 | FL | LAKE COUNTY * | 1204210225B | 15-FEB-2002 | 02-04-2588A | 02
04 | FL | LAKE COUNTY * | 1204210375B | 11-MAR-2002 | 02-04-1358A | 02
04 | FL | LAKE COUNTY * | 1204210225B | 13-MAR-2002 | 02-04-3306A | 02
04 | FL | LAKE COUNTY * | 1204210225B | 03-APR-2002 | 02-04-4150A | 02
04 | FL | LAKE COUNTY * | 1204210325B | 03-MAY-2002 | 02-04-059A | 01
04 | FL | LAKE COUNTY * | 1204210375B | 03-MAY-2002 | 02-04-4458A | 02
04 | FL | LAKE COUNTY * | 1204210325B | 08-MAY-2002 | 02-04-3758A | 02
04 | FL | LAKE COUNTY * | 1204210200B | 22-MAY-2002 | 02-04-4430A | 02
04 | FL | LAKE MARY, CITY OF | 12117C0040E | 16-JAN-2002 | 02-04-1592A | 02
04 | FL | LAKE MARY, CITY OF | 12117C0040E | 06-MAR-2002 | 02-04-3050A | 02
04 | FL | LAKELAND, CITY OF | 12105C0320F | 23-JAN-2002 | 02-04-1800A | 02
04 | FL | LAKELAND, CITY OF | 12105C0294F | 11-FEB-2002 | 01-04-355P | 05
04 | FL | LAKELAND, CITY OF | 12105C0460F | 11-FEB-2002 | 01-04-355P | 05
04 | FL | LAKELAND, CITY OF | 12105C0302F | 11-MAR-2002 | 01-04-529P | 05
04 | FL | LAKELAND, CITY OF | 12105C0304F | 11-MAR-2002 | 01-04-529P | 05
04 | FL | LAKELAND, CITY OF | 12105C0293F | 27-MAR-2002 | 02-04-021P | 05
04 | FL | LAKELAND, CITY OF | 12105C0294F | 27-MAR-2002 | 02-04-021P | 05
04 | FL | LAKELAND, CITY OF | 12105C0480F | 14-MAY-2002 | 02-04-255P | 05
04 | FL | LAUDERDALE LAKES, CITY OF | 12011C0204F | 18-JAN-2002 | 02-04-1330A | 02
04 | FL | LAUDERDALE LAKES, CITY OF | 12011C0204F | 01-FEB-2002 | 02-04-2056A | 02
04 | FL | LAUDERDALE LAKES, CITY OF | 12011C0204F | 08-MAY-2002 | 02-04-4598A | 02
04 | FL | LAUDERDALE LAKES, CITY OF | 12011C0204F | 19-JUN-2002 | 02-04-6102A | 02
04 | FL | LAUDERHILL, CITY OF | 12011C0205F | 03-APR-2002 | 02-04-3552A | 02
04 | FL | LEE COUNTY* | 1251240075D | 16-JAN-2002 | 02-04-1772A | 01
04 | FL | LEE COUNTY* | 1251240465C | 20-FEB-2002 | 02-04-2460A | 01
04 | FL | LEE COUNTY* | 1251240510D | 27-FEB-2002 | 02-04-2096A | 01
04 | FL | LEE COUNTY* | 1251240510D | 22-MAR-2002 | 02-04-3048A | 01
04 | FL | LEE COUNTY* | 1251240250B | 17-APR-2002 | 02-04-3504A | 01
04 | FL | LEE COUNTY* | 1251240280B | 26-APR-2002 | 02-04-4886A | 02
04 | FL | LEE COUNTY* | 1251240250B | 10-MAY-2002 | 02-04-5136A | 01
04 | FL | LEE COUNTY* | 1251240505E | 15-MAY-2002 | 02-04-5050A | 02
04 | FL | LEE COUNTY* | 1251240200C | 24-MAY-2002 | 02-04-4190A | 02
04 | FL | LEE COUNTY* | 125124 E | 21-JUN-2002 | 02-04-289P | 05
04 | FL | LEESBURG, CITY OF | 1201360001C | 01-MAR-2002 | 02-04-3004A | 02
04 | FL | LEON COUNTY * | 12073C0150D | 01-MAR-2002 | 02-04-0632A | 02
04 | FL | LEON COUNTY * | 12073C0278D | 27-MAR-2002 | 02-04-2774A | 01
04 | FL | LEON COUNTY * | 12073C0145D | 12-JUN-2002 | 02-04-6122A | 02
04 | FL | LEVY COUNTY * | 1201450025D | 30-JAN-2002 | 02-04-0054A | 02
04 | FL | LIBERTY COUNTY * | 1201480175B | 10-APR-2002 | 02-04-1354A | 02
04 | FL | LONGWOOD, CITY OF | 12117C0130E | 16-JAN-2002 | 02-04-1802A | 02
04 | FL | LONGWOOD, CITY OF | 12117C0130E | 10-APR-2002 | 02-04-2788A | 02
04 | FL | LYNN HAVEN, CITY OF | 1200040335D | 14-JUN-2002 | 02-04-5520A | 02
04 | FL | MANATEE COUNTY * | 1201530365C | 07-JAN-2002 | 01-04-545P | 05
04 | FL | MANATEE COUNTY * | 1201530184C | 30-JAN-2002 | 02-04-1442A | 01
04 | FL | MANATEE COUNTY * | 1201530329C | 10-APR-2002 | 02-04-3970A | 02
04 | FL | MANATEE COUNTY * | 1201530370C | 24-APR-2002 | 02-04-4226A | 01
04 | FL | MANATEE COUNTY * | 1201530342C | 08-MAY-2002 | 02-04-3760A | 01
04 | FL | MANATEE COUNTY * | 1201530365C | 08-MAY-2002 | 02-04-3760A | 01
04 | FL | MANATEE COUNTY * | 1201530370C | 19-JUN-2002 | 02-04-6196A | 02
04 | FL | MARGATE, CITY OF | 12011C0115F | 13-FEB-2002 | 02-04-2274A | 02
04 | FL | MARION COUNTY * | 1201600500B | 01-FEB-2002 | 02-04-2284A | 02
04 | FL | MARION COUNTY * | 1201600335B | 08-FEB-2002 | 02-04-1588A | 02
04 | FL | MARION COUNTY * | 1201600335B | 08-FEB-2002 | 02-04-2572A | 02
04 | FL | MARION COUNTY * | 1201600750B | 13-FEB-2002 | 01-04-6724A | 02
04 | FL | MARION COUNTY * | 1201600250B | 06-MAR-2002 | 02-04-2464A | 02
04 | FL | MARION COUNTY * | 1201600300B | 22-MAR-2002 | 02-04-3402A | 02
04 | FL | MARION COUNTY * | 1201600125B | 10-APR-2002 | 02-04-3518A | 02
04 | FL | MARION COUNTY * | 1201600750B | 10-MAY-2002 | 02-04-3124A | 01
04 | FL | MARION COUNTY * | 1201600100B | 29-MAY-2002 | 02-04-5312A | 02
04 | FL | MARION COUNTY * | 1201600715B | 29-MAY-2002 | 02-04-5486A | 02
04 | FL | MARTIN COUNTY * | 1201610285B | 10-APR-2002 | 02-04-4184A | 02
04 | FL | MIAMI, CITY OF | 12025C0180J | 24-APR-2002 | 02-04-3498A | 02
04 | FL | MIRAMAR, CITY OF | 12011C0295F | 16-JAN-2002 | 02-04-1594A | 01
04 | FL | MT. DORA, CITY OF | 1204210150B | 08-MAY-2002 | 02-04-4580A | 02
04 | FL | NAPLES, CITY OF | 1251300393C | 05-JUN-2002 | 02-04-5618A | 02
04 | FL | NASSAU COUNTY* | 1201700475C | 06-FEB-2002 | 02-04-1686A | 02
04 | FL | NASSAU COUNTY* | 1201700217C | 22-MAR-2002 | 02-04-2664A | 02
04 | FL | NEW PORT RICHEY, CITY OF | 1202320004D | 21-JUN-2002 | 02-04-6136A | 02
04 | FL | NORTH LAUDERDALE, CITY OF | 12011C0205F | 26-APR-2002 | 02-04-4166A | 02
04 | FL | NORTH MIAMI BEACH, CITY OF | 12025C0083J | 25-JAN-2002 | 02-04-1990A | 02
04 | FL | NORTH MIAMI BEACH, CITY OF | 12025C0083J | 27-MAR-2002 | 02-04-3632A | 02
04 | FL | OCOEE, CITY OF | 12095C0210E | 25-JAN-2002 | 02-04-1796A | 02
04 | FL | OCOEE, CITY OF | 12095C0210E | 15-MAR-2002 | 02-04-2652A | 02
04 | FL | OCOEE, CITY OF | 12095C0210E | 24-APR-2002 | 02-04-2742A | 02
04 | FL | OCOEE, CITY OF | 12095C0210E | 26-JUN-2002 | 02-04-5788A | 02
04 | FL | OKALOOSA COUNTY * | 1201730205E | 24-APR-2002 | 02-04-4224A | 01
04 | FL | OKALOOSA COUNTY * | 1201730230E | 29-MAY-2002 | 02-04-4228A | 02
04 | FL | OKALOOSA COUNTY * | 1201730210E | 26-JUN-2002 | 02-04-6344A | 02
04 | FL | ORANGE COUNTY * | 12095C0270E | 04-JAN-2002 | 02-04-0692A | 02
04 | FL | ORANGE COUNTY * | 12095C0270E | 04-JAN-2002 | 02-04-1058A | 02
04 | FL | ORANGE COUNTY * | 12095C0280E | 04-JAN-2002 | 02-04-1198A | 02
04 | FL | ORANGE COUNTY * | 12095C0410E | 04-JAN-2002 | 02-04-1606A | 02
04 | FL | ORANGE COUNTY * | 12095C0295E | 09-JAN-2002 | 02-04-0014A | 01
04 | FL | ORANGE COUNTY * | 12095C0150E | 09-JAN-2002 | 02-04-1352A | 02
04 | FL | ORANGE COUNTY * | 12095C0295E | 11-JAN-2002 | 02-04-1460A | 01
04 | FL | ORANGE COUNTY * | 12095C0240E | 16-JAN-2002 | 02-04-1776A | 02
04 | FL | ORANGE COUNTY * | 12095C0260E | 16-JAN-2002 | 02-04-2016A | 02
04 | FL | ORANGE COUNTY * | 12095C0285E | 23-JAN-2002 | 02-04-0412A | 02
04 | FL | ORANGE COUNTY * | 12095C0260E | 23-JAN-2002 | 02-04-1436A | 02
04 | FL | ORANGE COUNTY * | 12095C0260E | 23-JAN-2002 | 02-04-1448A | 02
04 | FL | ORANGE COUNTY * | 12095C0420E | 23-JAN-2002 | 02-04-2490A | 17
04 | FL | ORANGE COUNTY * | 12095C0585E | 23-JAN-2002 | 02-04-2490A | 17
04 | FL | ORANGE COUNTY * | 12095C0290E | 25-JAN-2002 | 02-04-0846A | 02
04 | FL | ORANGE COUNTY * | 12095C0625E | 25-JAN-2002 | 02-04-1134A | 02
04 | FL | ORANGE COUNTY * | 12095C0230E | 25-JAN-2002 | 02-04-1654A | 02
04 | FL | ORANGE COUNTY * | 12095C0270E | 25-JAN-2002 | 02-04-1688A | 02
04 | FL | ORANGE COUNTY * | 12095C0295E | 25-JAN-2002 | 02-04-1808A | 02
04 | FL | ORANGE COUNTY * | 12095C0260E | 25-JAN-2002 | 02-04-1856A | 02
04 | FL | ORANGE COUNTY * | 12095C0435E | 01-FEB-2002 | 02-04-2000A | 02
04 | FL | ORANGE COUNTY * | 12095C0465E | 06-FEB-2002 | 02-04-1212A | 01
04 | FL | ORANGE COUNTY * | 12095C0265E | 06-FEB-2002 | 02-04-1850A | 02
04 | FL | ORANGE COUNTY * | 12095C0625E | 06-FEB-2002 | 02-04-1956A | 01
04 | FL | ORANGE COUNTY * | 12095C0580E | 06-FEB-2002 | 02-04-2160A | 02
04 | FL | ORANGE COUNTY * | 12095C0625E | 08-FEB-2002 | 02-04-2158A | 02
04 | FL | ORANGE COUNTY * | 12095C0385E | 08-FEB-2002 | 02-04-2232A | 02
04 | FL | ORANGE COUNTY * | 12095C0260E | 08-FEB-2002 | 02-04-2290A | 02
04 | FL | ORANGE COUNTY * | 12095C0270E | 13-FEB-2002 | 02-04-1384A | 02
04 | FL | ORANGE COUNTY * | 12095C0435E | 13-FEB-2002 | 02-04-1384A | 02
04 | FL | ORANGE COUNTY * | 12095C0270E | 13-FEB-2002 | 02-04-1604A | 02
04 | FL | ORANGE COUNTY * | 12095C0295E | 13-FEB-2002 | 02-04-2192A | 01
04 | FL | ORANGE COUNTY * | 12095C0290E | 13-FEB-2002 | 02-04-2586A | 02
04 | FL | ORANGE COUNTY * | 12095C0290E | 15-FEB-2002 | 02-04-0574A | 01
04 | FL | ORANGE COUNTY * | 12095C0585E | 20-FEB-2002 | 02-04-2262A | 17
04 | FL | ORANGE COUNTY * | 12095C0420E | 20-FEB-2002 | 02-04-2986A | 02
04 | FL | ORANGE COUNTY * | 12095C0230E | 21-FEB-2002 | 01-04-453P | 05
04 | FL | ORANGE COUNTY * | 12095C0260E | 22-FEB-2002 | 02-04-0036A | 02
04 | FL | ORANGE COUNTY * | 12095C0270E | 22-FEB-2002 | 02-04-3070A | 02
04 | FL | ORANGE COUNTY * | 12095C0230E | 25-FEB-2002 | 01-04-577P | 05
04 | FL | ORANGE COUNTY * | 12095C0215E | 01-MAR-2002 | 02-04-2346A | 02
04 | FL | ORANGE COUNTY * | 12095C0280E | 06-MAR-2002 | 02-04-1276A | 02
04 | FL | ORANGE COUNTY * | 12095C0385E | 06-MAR-2002 | 02-04-2404A | 02
04 | FL | ORANGE COUNTY * | 12095C0410E | 06-MAR-2002 | 02-04-2516A | 02
04 | FL | ORANGE COUNTY * | 12095C0125E | 06-MAR-2002 | 02-04-2576A | 02
04 | FL | ORANGE COUNTY * | 12095C0270E | 11-MAR-2002 | 02-04-2654A | 02
04 | FL | ORANGE COUNTY * | 12095C0260E | 13-MAR-2002 | 02-04-1194A | 02
04 | FL | ORANGE COUNTY * | 12095C0260E | 13-MAR-2002 | 02-04-1846A | 02
04 | FL | ORANGE COUNTY * | 12095C0415E | 13-MAR-2002 | 02-04-2458A | 01
04 | FL | ORANGE COUNTY * | 12095C0420E | 15-MAR-2002 | 02-04-1382A | 02
04 | FL | ORANGE COUNTY * | 12095C0270E | 15-MAR-2002 | 02-04-3036A | 02
04 | FL | ORANGE COUNTY * | 12095C0290E | 29-MAR-2002 | 01-04-6972A | 02
04 | FL | ORANGE COUNTY * | 12095C0295E | 29-MAR-2002 | 02-04-2872X | 01
04 | FL | ORANGE COUNTY * | 12095C0280E | 29-MAR-2002 | 02-04-3358A | 02
04 | FL | ORANGE COUNTY * | 12095C0435E | 29-MAR-2002 | 02-04-3460A | 02
04 | FL | ORANGE COUNTY * | 12095C0625E | 03-APR-2002 | 02-04-3506A | 01
04 | FL | ORANGE COUNTY * | 12095C0295E | 10-APR-2002 | 02-04-0012A | 01
04 | FL | ORANGE COUNTY * | 12095C0295E | 10-APR-2002 | 02-04-3616A | 02
04 | FL | ORANGE COUNTY * | 12095C0415E | 12-APR-2002 | 02-04-3172A | 02
04 | FL | ORANGE COUNTY * | 12095C0410E | 12-APR-2002 | 02-04-3620A | 02
04 | FL | ORANGE COUNTY * | 12095C0290E | 12-APR-2002 | 02-04-4016A | 02
04 | FL | ORANGE COUNTY * | 12095C0260E | 17-APR-2002 | 02-04-2204A | 02
04 | FL | ORANGE COUNTY * | 12095C0260E | 19-APR-2002 | 02-04-4012A | 02
04 | FL | ORANGE COUNTY * | 12095C0260E | 19-APR-2002 | 02-04-4434A | 02
04 | FL | ORANGE COUNTY * | 12095C0260E | 19-APR-2002 | 02-04-4454A | 02
04 | FL | ORANGE COUNTY * | 12095C0295E | 24-APR-2002 | 01-04-425P | 05
04 | FL | ORANGE COUNTY * | 12095C0290E | 26-APR-2002 | 02-04-4610A | 01
04 | FL | ORANGE COUNTY * | 12095C0270E | 26-APR-2002 | 02-04-4628A | 02
04 | FL | ORANGE COUNTY * | 12095C0285E | 10-MAY-2002 | 02-04-4212A | 02
04 | FL | ORANGE COUNTY * | 12095C0625E | 15-MAY-2002 | 02-04-3548A | 01
04 | FL | ORANGE COUNTY * | 12095C0280E | 15-MAY-2002 | 02-04-4566A | 02
04 | FL | ORANGE COUNTY * | 12095C0260E | 15-MAY-2002 | 02-04-4596A | 02
04 | FL | ORANGE COUNTY * | 12095C0405E | 17-MAY-2002 | 02-04-5064A | 02
04 | FL | ORANGE COUNTY * | 12095C0625E | 31-MAY-2002 | 02-04-5092A | 02
04 | FL | ORANGE COUNTY * | 12095C0415E | 31-MAY-2002 | 02-04-5516A | 02
04 | FL | ORANGE COUNTY * | 12095C0415E | 05-JUN-2002 | 02-04-5390A | 02
04 | FL | ORANGE COUNTY * | 12095C0290E | 10-JUN-2002 | 02-04-3670A | 01
04 | FL | ORANGE COUNTY * | 12095C0385E | 10-JUN-2002 | 02-04-5594A | 02
04 | FL | ORANGE COUNTY * | 12095C0420E | 10-JUN-2002 | 02-04-5878A | 02
04 | FL | ORANGE COUNTY * | 12095C0315E | 12-JUN-2002 | 02-04-3074A | 02
04 | FL | ORANGE COUNTY * | 12095C0375E | 12-JUN-2002 | 02-04-5540A | 02
04 | FL | ORANGE COUNTY * | 12095C0235E | 12-JUN-2002 | 02-04-5664A | 02
04 | FL | ORANGE COUNTY * | 12095C0265E | 14-JUN-2002 | 02-04-6048A | 02
04 | FL | ORANGE COUNTY * | 12095C0435E | 14-JUN-2002 | 02-04-6054A | 02
04 | FL | ORANGE COUNTY * | 12095C0290E | 19-JUN-2002 | 02-04-5488A | 01
04 | FL | ORANGE COUNTY * | 12095C0385E | 19-JUN-2002 | 02-04-5700A | 02
04 | FL | ORANGE COUNTY * | 12095C0410E | 19-JUN-2002 | 02-04-5706A | 02
04 | FL | ORANGE COUNTY * | 12095C0295E | 21-JUN-2002 | 02-04-5782A | 02
04 | FL | ORANGE COUNTY * | 12095C0220E | 26-JUN-2002 | 02-04-0996A | 01
04 | FL | ORANGE COUNTY * | 12095C0240E | 28-JUN-2002 | 02-04-6280A | 02
04 | FL | ORLANDO, CITY OF | 12095C0270E | 11-JAN-2002 | 02-04-1738X | 02
04 | FL | ORLANDO, CITY OF | 12095C0435E | 20-FEB-2002 | 02-04-1512A | 01
04 | FL | ORLANDO, CITY OF | 12095C0435E | 27-FEB-2002 | 02-04-1092A | 01
04 | FL | ORLANDO, CITY OF | 12095C0265E | 27-FEB-2002 | 02-04-2708A | 02
04 | FL | ORLANDO, CITY OF | 12095C0235E | 11-MAR-2002 | 02-04-2640A | 02
04 | FL | ORLANDO, CITY OF | 12095C0405E | 03-APR-2002 | 02-04-3264A | 01
04 | FL | ORLANDO, CITY OF | 12095C0235E | 17-APR-2002 | 02-04-3400A | 02
04 | FL | ORLANDO, CITY OF | 12095C0265E | 24-APR-2002 | 02-04-3284A | 02
04 | FL | ORLANDO, CITY OF | 12095C0270E | 10-JUN-2002 | 02-04-4766A | 02
04 | FL | ORLANDO, CITY OF | 12095C0240E | 28-JUN-2002 | 02-04-6270A | 01
04 | FL | ORMOND BEACH, CITY OF | 1251360008D | 08-FEB-2002 | 02-04-2272A | 01
04 | FL | ORMOND BEACH, CITY OF | 1251360003D | 16-APR-2002 | 02-04-137P | 05
04 | FL | ORMOND BEACH, CITY OF | 12127C0194G | 19-APR-2002 | 02-04-3032A | 02
04 | FL | OSCEOLA COUNTY * | 12097C0260F | 09-JAN-2002 | 01-04-4044A | 01
04 | FL | OSCEOLA COUNTY * | 12097C0280F | 11-JAN-2002 | 02-04-0780A | 01
04 | FL | OSCEOLA COUNTY * | 12097C0240F | 18-JAN-2002 | 02-04-1572A | 02
04 | FL | OSCEOLA COUNTY * | 12097C0240F | 18-JAN-2002 | 02-04-1574A | 02
04 | FL | OSCEOLA COUNTY * | 12097C0240F | 18-JAN-2002 | 02-04-1576A | 02
04 | FL | OSCEOLA COUNTY * | 12097C0240F | 18-JAN-2002 | 02-04-1578A | 02
04 | FL | OSCEOLA COUNTY * | 12097C0240F | 18-JAN-2002 | 02-04-1580A | 02
04 | FL | OSCEOLA COUNTY * | 12097C0240F | 18-JAN-2002 | 02-04-1582A | 02
04 | FL | OSCEOLA COUNTY * | 12097C0230F | 25-JAN-2002 | 02-04-1900A | 02
04 | FL | OSCEOLA COUNTY * | 12097C0400F | 01-FEB-2002 | 02-04-1696A | 02
04 | FL | OSCEOLA COUNTY * | 12097C0120F | 13-FEB-2002 | 02-04-0510A | 02
04 | FL | OSCEOLA COUNTY * | 12097C0285F | 13-FEB-2002 | 02-04-0510A | 02
04 | FL | OSCEOLA COUNTY * | 12097C0240F | 13-FEB-2002 | 02-04-2470A | 02
04 | FL | OSCEOLA COUNTY * | 12097C0225F | 13-FEB-2002 | 02-04-2472A | 02
04 | FL | OSCEOLA COUNTY * | 12097C0240F | 13-FEB-2002 | 02-04-2474A | 02
04 | FL | OSCEOLA COUNTY * | 12097C0020F | 20-FEB-2002 | 02-04-2326A | 02
04 | FL | OSCEOLA COUNTY * | 12097C0240F | 20-FEB-2002 | 02-04-2666A | 02
04 | FL | OSCEOLA COUNTY * | 12097C0068F | 20-FEB-2002 | 02-04-2766A | 02
04 | FL | OSCEOLA COUNTY * | 12097C0400F | 27-FEB-2002 | 02-04-2910A | 02
04 | FL | OSCEOLA COUNTY * | 12097C0225F | 27-FEB-2002 | 02-04-2912A | 02
04 | FL | OSCEOLA COUNTY * | 12097C0400F | 06-MAR-2002 | 02-04-2506A | 01
04 | FL | OSCEOLA COUNTY * | 12097C0400F | 06-MAR-2002 | 02-04-2684A | 01
04 | FL | OSCEOLA COUNTY * | 12097C0240F | 13-MAR-2002 | 02-04-3308A | 02
04 | FL | OSCEOLA COUNTY * | 12097C0285F | 13-MAR-2002 | 02-04-3320A | 01
04 | FL | OSCEOLA COUNTY * | 12097C0120F | 22-MAR-2002 | 02-04-3462A | 02
04 | FL | OSCEOLA COUNTY * | 12097C0285F | 22-MAR-2002 | 02-04-3462A | 02
04 | FL | OSCEOLA COUNTY * | 12097C0090F | 29-MAR-2002 | 02-04-2344X | 01
04 | FL | OSCEOLA COUNTY * | 12097C0400F | 05-APR-2002 | 02-04-3862A | 02
04 | FL | OSCEOLA COUNTY * | 12097C0240F | 10-APR-2002 | 02-04-1788A | 02
04 | FL | OSCEOLA COUNTY * | 12097C0240F | 24-APR-2002 | 02-04-2968A | 02
04 | FL | OSCEOLA COUNTY * | 12097C0120F | 01-MAY-2002 | 02-04-4222A | 02
04 | FL | OSCEOLA COUNTY * | 12097C0240F | 01-MAY-2002 | 02-04-4266A | 02
04 | FL | OSCEOLA COUNTY * | 12097C0240F | 01-MAY-2002 | 02-04-4268A | 17
04 | FL | OSCEOLA COUNTY * | 12097C0240F | 01-MAY-2002 | 02-04-4270A | 02
04 | FL | OSCEOLA COUNTY * | 12097C0285F | 01-MAY-2002 | 02-04-4302A | 02
04 | FL | OSCEOLA COUNTY * | 12097C0240F | 01-MAY-2002 | 02-04-4370A | 02
04 | FL | OSCEOLA COUNTY * | 12097C0040F | 01-MAY-2002 | 02-04-4414A | 02
04 | FL | OSCEOLA COUNTY * | 12097C0240F | 10-MAY-2002 | 02-04-3508A | 01
04 | FL | OSCEOLA COUNTY * | 12097C0030F | 22-MAY-2002 | 02-04-5012A | 01
04 | FL | OSCEOLA COUNTY * | 12097C0115F | 22-MAY-2002 | 02-04-5086A | 02
04 | FL | OSCEOLA COUNTY * | 12097C0240F | 24-MAY-2002 | 02-04-5870A | 02
04 | FL | OSCEOLA COUNTY * | 12097C0240F | 24-MAY-2002 | 02-04-5874A | 02
04 | FL | OSCEOLA COUNTY * | 12097C0030F | 31-MAY-2002 | 02-04-5138A | 01
04 | FL | OSCEOLA COUNTY * | 12097C0240F | 05-JUN-2002 | 02-04-5868A | 02
04 | FL | OSCEOLA COUNTY * | 12097C0240F | 05-JUN-2002 | 02-04-5872A | 02
04 | FL | OSCEOLA COUNTY * | 12097C0045F | 10-JUN-2002 | 02-04-4466A | 01
04 | FL | OSCEOLA COUNTY * | 12097C0240F | 19-JUN-2002 | 02-04-4976A | 02
04 | FL | OVIEDO, CITY OF | 12117C0170E | 04-JAN-2002 | 02-04-1094A | 02
04 | FL | OVIEDO, CITY OF | 12117C0165E | 24-APR-2002 | 02-04-2764A | 17
04 | FL | PALM BEACH COUNTY * | 1201920115B | 11-MAR-2002 | 02-04-1202A | 01
04 | FL | PALM BEACH COUNTY * | 1201920170A | 10-APR-2002 | 02-04-4030A | 02
04 | FL | PALM BEACH COUNTY * | 1201920175B | 08-MAY-2002 | 02-04-4970A | 02
04 | FL | PALM BEACH GARDENS, CITY OF | 1202210002B | 01-MAY-2002 | 02-04-3872A | 02
04 | FL | PALMETTO, CITY OF | 1201590003C | 11-JAN-2002 | 02-04-1844X | 02
04 | FL | PASCO COUNTY * | 1202300425E | 04-JAN-2002 | 01-04-6884A | 01
04 | FL | PASCO COUNTY * | 1202300354D | 04-JAN-2002 | 02-04-1414A | 02
04 | FL | PASCO COUNTY * | 1202300400D | 09-JAN-2002 | 01-04-5880A | 01
04 | FL | PASCO COUNTY * | 1202300425E | 09-JAN-2002 | 02-04-0010A | 01
04 | FL | PASCO COUNTY * | 1202300352C | 09-JAN-2002 | 02-04-1146A | 01
04 | FL | PASCO COUNTY * | 1202300195D | 09-JAN-2002 | 02-04-1332A | 01
04 | FL | PASCO COUNTY * | 1202300275D | 11-JAN-2002 | 02-04-1618A | 02
04 | FL | PASCO COUNTY * | 1202300205D | 16-JAN-2002 | 02-04-0768A | 02
04 | FL | PASCO COUNTY * | 1202300205D | 16-JAN-2002 | 02-04-0822A | 02
04 | FL | PASCO COUNTY * | 1202300400D | 16-JAN-2002 | 02-04-1090A | 02
04 | FL | PASCO COUNTY * | 1202300195D | 16-JAN-2002 | 02-04-1248A | 02
04 | FL | PASCO COUNTY * | 1202300354D | 18-JAN-2002 | 02-04-1622A | 02
04 | FL | PASCO COUNTY * | 1202300450E | 30-JAN-2002 | 02-04-0698X | 01
04 | FL | PASCO COUNTY * | 1202300075C | 30-JAN-2002 | 02-04-1200A | 02
04 | FL | PASCO COUNTY * | 1202300100B | 01-FEB-2002 | 02-04-1416A | 02
04 | FL | PASCO COUNTY * | 1202300425E | 06-FEB-2002 | 02-04-0018A | 01
04 | FL | PASCO COUNTY * | 1202300430E | 06-FEB-2002 | 02-04-0020A | 01
04 | FL | PASCO COUNTY * | 1202300450E | 06-FEB-2002 | 02-04-0020A | 01
04 | FL | PASCO COUNTY * | 1202300430E | 08-FEB-2002 | 02-04-0016A | 01
04 | FL | PASCO COUNTY * | 1202300075C | 08-FEB-2002 | 02-04-2622A | 02
04 | FL | PASCO COUNTY * | 1202300425E | 15-FEB-2002 | 02-04-0702A | 02
04 | FL | PASCO COUNTY * | 1202300205D | 20-FEB-2002 | 02-04-2644A | 02
04 | FL | PASCO COUNTY * | 1202300185D | 20-FEB-2002 | 02-04-2810A | 02
04 | FL | PASCO COUNTY * | 1202300450E | 22-FEB-2002 | 02-04-0022A | 01
04 | FL | PASCO COUNTY * | 1202300215E | 22-FEB-2002 | 02-04-2532A | 02
04 | FL | PASCO COUNTY * | 1202300354D | 27-FEB-2002 | 02-04-1792A | 01
04 | FL | PASCO COUNTY * | 1202300360D | 27-FEB-2002 | 02-04-2314A | 02
04 | FL | PASCO COUNTY * | 1202300354D | 27-FEB-2002 | 02-04-2812A | 02
04 | FL | PASCO COUNTY * | 1202300195D | 27-FEB-2002 | 02-04-2814A | 02
04 | FL | PASCO COUNTY * | 1202300360D | 01-MAR-2002 | 02-04-2530A | 02
04 | FL | PASCO COUNTY * | 1202300360D | 01-MAR-2002 | 02-04-2534A | 02
04 | FL | PASCO COUNTY * | 1202300360D | 01-MAR-2002 | 02-04-3076A | 02
04 | FL | PASCO COUNTY * | 1202300360D | 01-MAR-2002 | 02-04-3096A | 02
04 | FL | PASCO COUNTY * | 1202300425E | 01-MAR-2002 | 02-04-3152A | 02
04 | FL | PASCO COUNTY * | 1202300354D | 06-MAR-2002 | 02-04-2908A | 02
04 | FL | PASCO COUNTY * | 1202300410E | 11-MAR-2002 | 02-04-2094A | 01
04 | FL | PASCO COUNTY * | 1202300425E | 11-MAR-2002 | 02-04-2182A | 01
04 | FL | PASCO COUNTY * | 1202300195D | 13-MAR-2002 | 02-04-2820A | 02
04 | FL | PASCO COUNTY * | 1202300180C | 13-MAR-2002 | 02-04-3078A | 02
04 | FL | PASCO COUNTY * | 1202300360D | 15-MAR-2002 | 02-04-2266A | 01
04 | FL | PASCO COUNTY * | 1202300195D | 20-MAR-2002 | 02-04-1278A | 01
04 | FL | PASCO COUNTY * | 1202300360D | 20-MAR-2002 | 02-04-2092A | 02
04 | FL | PASCO COUNTY * | 1202300362D | 20-MAR-2002 | 02-04-2334A | 02
04 | FL | PASCO COUNTY * | 1202300370D | 22-MAR-2002 | 02-04-1356A | 01
04 | FL | PASCO COUNTY * | 1202300400D | 27-MAR-2002 | 02-04-2594A | 02
04 | FL | PASCO COUNTY * | 1202300354D | 27-MAR-2002 | 02-04-3290A | 02
04 | FL | PASCO COUNTY * | 1202300354D | 27-MAR-2002 | 02-04-3364A | 02
04 | FL | PASCO COUNTY * | 1202300470B | 05-APR-2002 | 02-04-2074A | 01
04 | FL | PASCO COUNTY * | 1202300335C | 05-APR-2002 | 02-04-3816A | 02
04 | FL | PASCO COUNTY * | 1202300352C | 10-APR-2002 | 02-04-3550A | 02
04 | FL | PASCO COUNTY * | 1202300205D | 10-APR-2002 | 02-04-4100A | 02
04 | FL | PASCO COUNTY * | 1202300354D | 10-APR-2002 | 02-04-4194A | 02
04 | FL | PASCO COUNTY * | 1202300195D | 17-APR-2002 | 02-04-4694A | 01
04 | FL | PASCO COUNTY * | 1202300360D | 24-APR-2002 | 02-04-4680A | 02
04 | FL | PASCO COUNTY * | 1202300195D | 26-APR-2002 | 02-04-3878A | 01
04 | FL | PASCO COUNTY * | 1202300360D | 01-MAY-2002 | 02-04-2452A | 02
04 | FL | PASCO COUNTY * | 1202300360D | 01-MAY-2002 | 02-04-4678A | 02
04 | FL | PASCO COUNTY * | 1202300354D | 01-MAY-2002 | 02-04-4890A | 02
04 | FL | PASCO COUNTY * | 1202300180D | 01-MAY-2002 | 02-04-4892A | 02
04 | FL | PASCO COUNTY * | 1202300370D | 08-MAY-2002 | 02-04-4382A | 01
04 | FL | PASCO COUNTY * | 1202300185D | 08-MAY-2002 | 02-04-4894A | 02
04 | FL | PASCO COUNTY * | 1202300195D | 17-MAY-2002 | 02-04-4478A | 02
04 | FL | PASCO COUNTY * | 1202300195D | 24-MAY-2002 | 02-04-4980A | 02
04 | FL | PASCO COUNTY * | 1202300250E | 29-MAY-2002 | 02-04-4604A | 01
04 | FL | PASCO COUNTY * | 1202300354D | 29-MAY-2002 | 02-04-5518A | 02
04 | FL | PASCO COUNTY * | 1202300425E | 31-MAY-2002 | 02-04-5400A | 02
04 | FL | PASCO COUNTY * | 1202300450E | 05-JUN-2002 | 02-04-2028A | 01
04 | FL | PASCO COUNTY * | 1202300185D | 05-JUN-2002 | 02-04-5096A | 02
04 | FL | PASCO COUNTY * | 1202300185D | 05-JUN-2002 | 02-04-5616A | 02
04 | FL | PASCO COUNTY * | 1202300020C | 05-JUN-2002 | 02-04-5748A | 02
04 | FL | PASCO COUNTY * | 1202300400D | 12-JUN-2002 | 02-04-5946A | 02
04 | FL | PASCO COUNTY * | 1202300354D | 12-JUN-2002 | 02-04-5968A | 02
04 | FL | PASCO COUNTY * | 1202300425E | 12-JUN-2002 | 02-04-6040A | 02
04 | FL | PASCO COUNTY * | 1202300360D | 19-JUN-2002 | 02-04-6138A | 02
04 | FL | PASCO COUNTY * | 1202300425E | 19-JUN-2002 | 02-04-6140A | 02
04 | FL | PASCO COUNTY * | 1202300185D | 21-JUN-2002 | 02-04-6252A | 02
04 | FL | PASCO COUNTY * | 1202300195D | 28-JUN-2002 | 02-04-3340A | 01
04 | FL | PASCO COUNTY * | 1202300180C | 28-JUN-2002 | 02-04-5758A | 01
04 | FL | PEMBROKE PARK, TOWN OF | 12011C0318F | 06-MAR-2002 | 02-04-2660A | 02
04 | FL | PEMBROKE PINES, CITY OF | 12011C0295F | 09-JAN-2002 | 02-04-1186A | 01
04 | FL | PEMBROKE PINES, CITY OF | 12011C0290F | 15-MAR-2002 | 02-04-2982A | 02
04 | FL | PEMBROKE PINES, CITY OF | 12011C0315F | 27-MAR-2002 | 02-04-3678A | 02
04 | FL | PEMBROKE PINES, CITY OF | 12011C0315F | 24-APR-2002 | 02-04-4476A | 02
04 | FL | PEMBROKE PINES, CITY OF | 12011C0312F | 29-MAY-2002 | 02-04-5396A | 02
04 | FL | PEMBROKE PINES, CITY OF | 12011C0304F | 05-JUN-2002 | 02-04-5702A | 01
04 | FL | PINELLAS COUNTY * | 1251390143C | 30-JAN-2002 | 02-04-0968A | 02
04 | FL | PINELLAS COUNTY * | 1251390079C | 30-JAN-2002 | 02-04-1880A | 01
04 | FL | PINELLAS COUNTY * | 1251390286E | 15-FEB-2002 | 02-04-0966A | 02
04 | FL | PINELLAS COUNTY * | 1251390077C | 27-FEB-2002 | 02-04-2668A | 01
04 | FL | PINELLAS COUNTY * | 1251390076C | 11-MAR-2002 | 02-04-2682A | 02
04 | FL | PINELLAS COUNTY * | 1251390179C | 13-MAR-2002 | 02-04-2866A | 02
04 | FL | PINELLAS COUNTY * | 1251390059C | 10-APR-2002 | 02-04-4336A | 02
04 | FL | PINELLAS COUNTY * | 1251390037C | 19-JUN-2002 | 02-04-2960A | 02
04 | FL | PINELLAS COUNTY * | 1251390043C | 21-JUN-2002 | 02-04-3224A | 01
04 | FL | PLANTATION, CITY OF | 12011C0215F | 05-APR-2002 | 02-04-3842A | 01
04 | FL | PLANTATION, CITY OF | 12011C0215F | 12-APR-2002 | 02-04-2780A | 02
04 | FL | POLK COUNTY* | 12105C0284F | 04-JAN-2002 | 01-04-515P | 05
04 | FL | POLK COUNTY* | 12105C0240F | 04-JAN-2002 | 02-04-0622A | 02
04 | FL | POLK COUNTY* | 12105C0100F | 04-JAN-2002 | 02-04-1380A | 02
04 | FL | POLK COUNTY* | 12105C0975F | 09-JAN-2002 | 02-04-1032A | 02
04 | FL | POLK COUNTY* | 12105C0275F | 09-JAN-2002 | 02-04-1104A | 01
04 | FL | POLK COUNTY* | 12105C0425F | 09-JAN-2002 | 02-04-1104A | 01
04 | FL | POLK COUNTY* | 12105C0340F | 16-JAN-2002 | 02-04-1152A | 02
04 | FL | POLK COUNTY* | 12105C0425F | 16-JAN-2002 | 02-04-1568A | 02
04 | FL | POLK COUNTY* | 12105C0425F | 16-JAN-2002 | 02-04-1570A | 02
04 | FL | POLK COUNTY* | 12105C0560F | 23-JAN-2002 | 01-04-6860A | 02
04 | FL | POLK COUNTY* | 12105C0710F | 23-JAN-2002 | 02-04-0550A | 02
04 | FL | POLK COUNTY* | 12105C0490F | 23-JAN-2002 | 02-04-0800A | 01
04 | FL | POLK COUNTY* | 12105C0480F | 30-JAN-2002 | 01-04-6340A | 02
04 | FL | POLK COUNTY* | 12105C0302F | 30-JAN-2002 | 02-04-0472A | 02
04 | FL | POLK COUNTY* | 12105C0220F | 01-FEB-2002 | 01-04-009P | 05
04 | FL | POLK COUNTY* | 12105C0225F | 01-FEB-2002 | 01-04-009P | 05
04 | FL | POLK COUNTY* | 12105C0240F | 01-FEB-2002 | 01-04-009P | 05
04 | FL | POLK COUNTY* | 12105C0250F | 01-FEB-2002 | 01-04-009P | 05
04 | FL | POLK COUNTY* | 12105C0535F | 01-FEB-2002 | 02-04-1002A | 02
04 | FL | POLK COUNTY* | 12105C0250F | 06-FEB-2002 | 02-04-2332A | 02
04 | FL | POLK COUNTY* | 12105C0675F | 07-FEB-2002 | 01-04-535P | 05
04 | FL | POLK COUNTY* | 12105C0425F | 08-FEB-2002 | 02-04-2406A | 02
04 | FL | POLK COUNTY* | 12105C0730F | 13-FEB-2002 | 02-04-1790A | 02
04 | FL | POLK COUNTY* | 12105C0425F | 13-FEB-2002 | 02-04-2466A | 02
04 | FL | POLK COUNTY* | 12105C0510F | 20-FEB-2002 | 02-04-2570A | 02
04 | FL | POLK COUNTY* | 12105C0510F | 27-FEB-2002 | 02-04-077P | 05
04 | FL | POLK COUNTY* | 12105C0535F | 27-FEB-2002 | 02-04-1950A | 02
04 | FL | POLK COUNTY* | 12105C0250F | 28-FEB-2002 | 01-04-151P | 05
04 | FL | POLK COUNTY* | 12105C0425F | 01-MAR-2002 | 02-04-2468A | 02
04 | FL | POLK COUNTY* | 12105C0425F | 06-MAR-2002 | 02-04-3310A | 02
04 | FL | POLK COUNTY* | 12105C0675F | 07-MAR-2002 | 02-04-201X | 05
04 | FL | POLK COUNTY* | 12105C0304F | 11-MAR-2002 | 01-04-529P | 05
04 | FL | POLK COUNTY* | 12105C0480F | 11-MAR-2002 | 02-04-163P | 05
04 | FL | POLK COUNTY* | 12105C0175F | 13-MAR-2002 | 02-04-3324A | 02
04 | FL | POLK COUNTY* | 12105C0480F | 15-MAR-2002 | 02-04-2936A | 02
04 | FL | POLK COUNTY* | 12105C0250F | 29-MAR-2002 | 02-04-3956A | 02
04 | FL | POLK COUNTY* | 12105C0480F | 02-APR-2002 | 02-04-053P | 05
04 | FL | POLK COUNTY* | 12105C0490F | 02-APR-2002 | 02-04-053P | 05
04 | FL | POLK COUNTY* | 12105C0485F | 03-APR-2002 | 02-04-3810A | 02
04 | FL | POLK COUNTY* | 12105C0368F | 03-APR-2002 | 02-04-3812A | 02
04 | FL | POLK COUNTY* | 12105C0480F | 10-APR-2002 | 02-04-2934A | 02
04 | FL | POLK COUNTY* | 12105C0425F | 10-APR-2002 | 02-04-3866A | 02
04 | FL | POLK COUNTY* | 12105C0460F | 12-APR-2002 | 02-04-3328A | 02
04 | FL | POLK COUNTY* | 12105C0425F | 12-APR-2002 | 02-04-3864A | 02
04 | FL | POLK COUNTY* | 12105C0765F | 17-APR-2002 | 01-04-7040A | 02
04 | FL | POLK COUNTY* | 12105C0225F | 17-APR-2002 | 02-04-3814A | 02
04 | FL | POLK COUNTY* | 12105C0425F | 17-APR-2002 | 02-04-3870A | 02
04 | FL | POLK COUNTY* | 12105C0100F | 17-APR-2002 | 02-04-3882A | 02
04 | FL | POLK COUNTY* | 12105C0510F | 24-APR-2002 | 02-04-4098A | 02
04 | FL | POLK COUNTY* | 12105C0510F | 24-APR-2002 | 02-04-4202A | 02
04 | FL | POLK COUNTY* | 12105C0240F | 24-APR-2002 | 02-04-4472A | 02
04 | FL | POLK COUNTY* | 12105C0161F | 26-APR-2002 | 02-04-3752A | 02
04 | FL | POLK COUNTY* | 12105C0302F | 01-MAY-2002 | 02-04-3656A | 02
04 | FL | POLK COUNTY* | 12105C0425F | 01-MAY-2002 | 02-04-3868A | 02
04 | FL | POLK COUNTY* | 12105C0510F | 01-MAY-2002 | 02-04-4020A | 02
04 | FL | POLK COUNTY* | 12105C0425F | 01-MAY-2002 | 02-04-4372A | 02
04 | FL | POLK COUNTY* | 12105C0200F | 08-MAY-2002 | 02-04-4982A | 02
04 | FL | POLK COUNTY* | 12105C0284F | 10-MAY-2002 | 02-04-4882A | 02
04 | FL | POLK COUNTY* | 12105C0590F | 14-MAY-2002 | 02-04-219P | 05
04 | FL | POLK COUNTY* | 12105C0480F | 15-MAY-2002 | 02-04-2450A | 02
04 | FL | POLK COUNTY* | 12105C0480F | 15-MAY-2002 | 02-04-4090A | 02
04 | FL | POLK COUNTY* | 12105C0310F | 15-MAY-2002 | 02-04-5088A | 02
04 | FL | POLK COUNTY* | 12105C0535F | 15-MAY-2002 | 02-04-5670A | 02
04 | FL | POLK COUNTY* | 12105C0515F | 16-MAY-2002 | 02-04-269P | 05
04 | FL | POLK COUNTY* | 12105C0145F | 17-MAY-2002 | 02-04-5608A | 02
04 | FL | POLK COUNTY* | 12105C0515F | 20-MAY-2002 | 02-04-271P | 05
04 | FL | POLK COUNTY* | 12105C0510F | 22-MAY-2002 | 02-04-2634A | 02
04 | FL | POLK COUNTY* | 12105C0535F | 22-MAY-2002 | 02-04-5282A | 02
04 | FL | POLK COUNTY* | 12105C0175F | 24-MAY-2002 | 01-04-6484A | 02
04 | FL | POLK COUNTY* | 12105C0730F | 24-MAY-2002 | 02-04-3968A | 02
04 | FL | POLK COUNTY* | 12105C0755F | 24-MAY-2002 | 02-04-4136A | 02
04 | FL | POLK COUNTY* | 12105C0755F | 24-MAY-2002 | 02-04-5002A | 02
04 | FL | POLK COUNTY* | 12105C0480F | 29-MAY-2002 | 02-04-5262A | 02
04 | FL | POLK COUNTY* | 12105C0425F | 29-MAY-2002 | 02-04-5360A | 02
04 | FL | POLK COUNTY* | 12105C0425F | 29-MAY-2002 | 02-04-5362A | 02
04 | FL | POLK COUNTY* | 12105C0480F | 31-MAY-2002 | 02-04-5172A | 02
04 | FL | POLK COUNTY* | 12105C0395F | 05-JUN-2002 | 02-04-5890A | 02
04 | FL | POLK COUNTY* | 12105C0480F | 10-JUN-2002 | 02-04-1246A | 02
04 | FL | POLK COUNTY* | 12105C0485F | 10-JUN-2002 | 02-04-5546A | 02
04 | FL | POLK COUNTY* | 12105C0735F | 14-JUN-2002 | 02-04-6058A | 02
04 | FL | POLK COUNTY* | 12105C0480F | 19-JUN-2002 | 02-04-5752A | 02
04 | FL | POLK COUNTY* | 12105C0291F | 26-JUN-2002 | 02-04-3496A | 02
04 | FL | POLK COUNTY* | 12105C0355F | 26-JUN-2002 | 02-04-6258A | 02
04 | FL | POLK COUNTY* | 12105C0460F | 28-JUN-2002 | 02-04-6304A | 02
04 | FL | POLK COUNTY* | 12105C0425F | 28-JUN-2002 | 02-04-6598A | 02
04 | FL | POMPANO BEACH, CITY OF | 12011C0115F | 24-APR-2002 | 02-04-0322A | 02
04 | FL | POMPANO BEACH, CITY OF | 12011C0205F | 24-APR-2002 | 02-04-4498A | 02
04 | FL | POMPANO BEACH, CITY OF | 12011C0206F | 26-APR-2002 | 02-04-3858A | 02
04 | FL | PORT ORANGE, CITY OF | 1203130005C | 06-FEB-2002 | 02-04-2114A | 02
04 | FL | PORT ORANGE, CITY OF | 1203130005C | 06-MAR-2002 | 02-04-0008A | 01
04 | FL | PORT ORANGE, CITY OF | 1251550295E | 06-MAR-2002 | 02-04-0008A | 01
04 | FL | PORT ORANGE, CITY OF | 12127C0360G | 19-APR-2002 | 02-04-2354X | 01
04 | FL | PORT ORANGE, CITY OF | 12127C0360G | 19-APR-2002 | 02-04-2356X | 01
04 | FL | PORT ORANGE, CITY OF | 12127C0368G | 08-MAY-2002 | 02-04-4816A | 02
04 | FL | PORT ORANGE, CITY OF | 12127C0368G | 19-JUN-2002 | 02-04-4940A | 01
04 | FL | PORT ST. LUCIE, CITY OF | 12111C0290F | 20-FEB-2002 | 02-04-2626A | 02
04 | FL | PUTNAM COUNTY * | 1202720405A | 09-JAN-2002 | 02-04-0050A | 02
04 | FL | PUTNAM COUNTY * | 1202720150B | 15-MAR-2002 | 02-04-3012A | 02
04 | FL | PUTNAM COUNTY * | 1202720420A | 10-APR-2002 | 02-04-3514A | 02
04 | FL | PUTNAM COUNTY * | 1202720275A | 12-APR-2002 | 02-04-4028A | 02
04 | FL | PUTNAM COUNTY * | 1202720385A | 26-APR-2002 | 02-04-2956A | 02
04 | FL | PUTNAM COUNTY * | 1202720275A | 15-MAY-2002 | 02-04-4764A | 02
04 | FL | ROCKLEDGE, CITY OF | 12009C0355E | 28-JUN-2002 | 02-04-5862A | 01
04 | FL | SAFETY HARBOR, CITY OF | 1251430002C | 21-JUN-2002 | 02-04-5598A | 02
04 | FL | SANFORD, CITY OF | 12117C0045E | 06-MAR-2002 | 01-04-6782A | 02
04 | FL | SANFORD, CITY OF | 12117C0045E | 06-MAR-2002 | 02-04-3094A | 01
04 | FL | SANFORD, CITY OF | 12117C0045E | 17-APR-2002 | 02-04-3918A | 02
04 | FL | SANFORD, CITY OF | 12117C0040E | 15-MAY-2002 | 02-04-4978A | 01
04 | FL | SANTA ROSA COUNTY * | 1202740360D | 06-MAR-2002 | 02-04-2294A | 02
04 | FL | SANTA ROSA COUNTY * | 1202740360D | 27-MAR-2002 | 02-04-3422A | 02
04 | FL | SARASOTA COUNTY * | 1251440432D | 30-JAN-2002 | 02-04-0152A | 02
04 | FL | SARASOTA COUNTY * | 1251440141D | 21-FEB-2002 | 02-04-041P | 05
04 | FL | SARASOTA COUNTY * | 1251440162E | 27-FEB-2002 | 02-04-2808A | 02
04 | FL | SARASOTA COUNTY * | 1251440343E | 27-MAR-2002 | 02-04-3454A | 01
04 | FL | SARASOTA COUNTY * | 1251440162E | 05-JUN-2002 | 02-04-4884A | 02
04 | FL | SARASOTA COUNTY * | 1251440332E | 10-JUN-2002 | 02-04-5714A | 02
04 | FL | SEBASTIAN, CITY OF | 12061C0079F | 20-MAR-2002 | 02-04-3242A | 02
04 | FL | SEBASTIAN, CITY OF | 12061C0079F | 08-MAY-2002 | 02-04-4932A | 01
04 | FL | SEMINOLE COUNTY* | 12117C0130E | 09-JAN-2002 | 02-04-0368A | 02
04 | FL | SEMINOLE COUNTY* | 12117C0210E | 01-FEB-2002 | 02-04-2268A | 02
04 | FL | SEMINOLE COUNTY* | 12117C0145E | 13-FEB-2002 | 02-04-2480A | 01
04 | FL | SEMINOLE COUNTY* | 12117C0110E | 22-MAR-2002 | 02-04-3458A | 02
04 | FL | SEMINOLE COUNTY* | 12117C0040E | 05-APR-2002 | 02-04-3818A | 02
04 | FL | SEMINOLE COUNTY* | 12117C0145E | 12-APR-2002 | 02-04-3388A | 02
04 | FL | SEMINOLE COUNTY* | 12117C0020E | 08-MAY-2002 | 02-04-3832A | 02
04 | FL | SEMINOLE COUNTY* | 12117C0020E | 08-MAY-2002 | 02-04-4692A | 02
04 | FL | SEMINOLE COUNTY* | 12117C0040E | 08-MAY-2002 | 02-04-4692A | 02
04 | FL | SEMINOLE COUNTY* | 12117C0110E | 22-MAY-2002 | 02-04-5160A | 02
04 | FL | SOUTH MIAMI, CITY OF | 12025C0276J | 10-APR-2002 | 02-04-3904A | 02
04 | FL | ST. AUGUSTINE, CITY OF | 1251450001D | 01-FEB-2002 | 02-04-2072A | 01
04 | FL | ST. AUGUSTINE, CITY OF | 1251450001D | 01-MAR-2002 | 02-04-2830A | 02
04 | FL | ST. CLOUD, CITY OF | 12097C0260F | 26-APR-2002 | 02-04-4262A | 02
04 | FL | ST. JOHNS COUNTY * | 1251470090D | 15-MAR-2002 | 02-04-3714A | 02
04 | FL | ST. JOHNS COUNTY * | 1251470090D | 27-MAR-2002 | 02-04-0772A | 02
04 | FL | ST. JOHNS COUNTY * | 1251470095D | 27-MAR-2002 | 02-04-0772A | 02
04 | FL | ST. JOHNS COUNTY * | 1251470085D | 27-MAR-2002 | 02-04-3304A | 02
04 | FL | ST. JOHNS COUNTY * | 1251470075D | 10-APR-2002 | 02-04-1798A | 02
04 | FL | ST. JOHNS COUNTY * | 1251470231F | 10-APR-2002 | 02-04-3524A | 02
04 | FL | ST. JOHNS COUNTY * | 1251470075D | 03-MAY-2002 | 02-04-4626A | 02
04 | FL | ST. JOHNS COUNTY * | 1251470090D | 08-MAY-2002 | 02-04-4642A | 01
04 | FL | ST. JOHNS COUNTY * | 1251470085D | 17-MAY-2002 | 02-04-2832A | 01
04 | FL | ST. JOHNS COUNTY * | 1251470183D | 10-JUN-2002 | 02-04-5006A | 02
04 | FL | ST. PETERSBURG, CITY OF | 1251390207C | 22-FEB-2002 | 02-04-3080A | 01
04 | FL | SUMTER COUNTY * | 1202960125B | 27-MAR-2002 | 02-04-3718A | 02
04 | FL | SUMTER COUNTY * | 1202960125D | 29-MAY-2002 | 02-04-5388A | 02
04 | FL | SUMTER COUNTY * | 1202960150B | 19-JUN-2002 | 02-04-5614A | 02
04 | FL | SUNRISE, CITY OF | 12011C0215F | 30-JAN-2002 | 02-04-1774A | 01
04 | FL | SUNRISE, CITY OF | 12011C0205F | 20-FEB-2002 | 02-04-2868A | 02
04 | FL | TALLAHASSEE, CITY OF | 12073C0282D | 04-JAN-2002 | 01-04-167P | 05
04 | FL | TALLAHASSEE, CITY OF | 12073C0284D | 04-JAN-2002 | 01-04-167P | 05
04 | FL | TALLAHASSEE, CITY OF | 12073C0301D | 04-JAN-2002 | 01-04-167P | 05
04 | FL | TALLAHASSEE, CITY OF | 12073C0281D | 24-APR-2002 | 01-04-073P | 05
04 | FL | TALLAHASSEE, CITY OF | 12073C0283D | 24-APR-2002 | 01-04-073P | 05
04 | FL | TAMARAC, CITY OF | 12011C0185F | 16-JAN-2002 | 02-04-2122A | 01
04 | FL | TAMARAC, CITY OF | 12011C0185F | 29-MAR-2002 | 02-04-2584X | 01
04 | FL | TAMARAC, CITY OF | 12011C0185F | 05-APR-2002 | 02-04-3850A | 01
04 | FL | TAMARAC, CITY OF | 12011C0205F | 29-MAY-2002 | 02-04-3908A | 02
04 | FL | TAMPA, CITY OF | 1201120095C | 22-FEB-2002 | 02-04-2414A | 01
04 | FL | TAMPA, CITY OF | 1201140038C | 20-MAR-2002 | 02-04-3066A | 02
04 | FL | TAMPA, CITY OF | 1201120095C | 05-APR-2002 | 02-04-2416X | 01
04 | FL | TAMPA, CITY OF | 1201120070E | 26-APR-2002 | 02-04-0030A | 01
04 | FL | TAMPA, CITY OF | 1201120210E | 26-APR-2002 | 02-04-0030A | 01
04 | FL | TAMPA, CITY OF | 1201120210E | 26-APR-2002 | 02-04-2024A | 01
04 | FL | TAMPA, CITY OF | 1201120090E | 01-MAY-2002 | 02-04-2440A | 01
04 | FL | TAMPA, CITY OF | 1201140031C | 08-MAY-2002 | 02-04-2620A | 02
04 | FL | TAMPA, CITY OF | 1201120210E | 17-MAY-2002 | 02-04-4656A | 02
04 | FL | TAMPA, CITY OF | 1201120210E | 05-JUN-2002 | 02-04-5426A | 01
04 | FL | TAMPA, CITY OF | 1201120210E | 19-JUN-2002 | 02-04-2078A | 01
04 | FL | TITUSVILLE, CITY OF | 12009C0180E | 11-JAN-2002 | 02-04-1128X | 02
04 | FL | VENICE, CITY OF | 1251440331E | 30-JAN-2002 | 02-04-1560A | 01
04 | FL | VENICE, CITY OF | 1251440332E | 30-JAN-2002 | 02-04-1560A | 01
04 | FL | VOLUSIA COUNTY* | 1251550408E | 09-JAN-2002 | 02-04-1536A | 02
04 | FL | VOLUSIA COUNTY* | 1251550408E | 13-FEB-2002 | 02-04-2420A | 02
04 | FL | VOLUSIA COUNTY* | 12127C0044G | 19-APR-2002 | 02-04-2148A | 01
04 | FL | VOLUSIA COUNTY* | 12127C0200G | 19-APR-2002 | 02-04-2148A | 01
04 | FL | VOLUSIA COUNTY* | 12127C0200G | 19-APR-2002 | 02-04-3942A | 02
04 | FL | VOLUSIA COUNTY* | 12127C0200G | 03-MAY-2002 | 02-04-2970A | 01
04 | FL | VOLUSIA COUNTY* | 12127C0700G | 15-MAY-2002 | 02-04-2564A | 02
04 | FL | VOLUSIA COUNTY* | 12127C0770G | 15-MAY-2002 | 02-04-5182A | 02
04 | FL | WAKULLA COUNTY * | 1203150250B | 27-FEB-2002 | 02-04-1866A | 02
04 | FL | WAKULLA COUNTY * | 1203150250B | 06-MAR-2002 | 02-04-0496A | 02
04 | FL | WAKULLA COUNTY * | 1203150250B | 13-MAR-2002 | 02-04-2876A | 02
04 | FL | WAKULLA COUNTY * | 1203150225B | 13-MAR-2002 | 02-04-2878A | 02
04 | FL | WAKULLA COUNTY * | 1203150250B | 27-MAR-2002 | 02-04-3330A | 02
04 | FL | WAKULLA COUNTY * | 1203150250B | 08-MAY-2002 | 01-04-6328A | 02
04 | FL | WAKULLA COUNTY * | 1203150250B | 29-MAY-2002 | 02-04-1868A | 02
04 | FL | WAKULLA COUNTY * | 1203150250B | 29-MAY-2002 | 02-04-1870A | 02
04 | FL | WAKULLA COUNTY * | 1203150250B | 12-JUN-2002 | 02-04-4480A | 02
04 | FL | WALTON COUNTY * | 12131C0539F | 09-JAN-2002 | 02-04-1700A | 02
04 | FL | WALTON COUNTY * | 12131C0527F | 06-MAR-2002 | 02-04-2590A | 02
04 | FL | WALTON COUNTY * | 12131C0726F | 13-MAR-2002 | 02-04-2786A | 01
04 | FL | WALTON COUNTY * | 12131C0175F | 15-MAR-2002 | 02-04-2932A | 02
04 | FL | WALTON COUNTY * | 12131C0552F | 19-APR-2002 | 02-04-4152A | 02
04 | FL | WALTON COUNTY * | 12131C0543F | 08-MAY-2002 | 02-04-4412A | 02
04 | FL | WALTON COUNTY * | 12131C0736F | 15-MAY-2002 | 02-04-2188A | 02
04 | FL | WALTON COUNTY * | 12131C0564F | 15-MAY-2002 | 02-04-5180A | 02
04 | FL | WEST PALM BEACH, CITY OF | 1201920145B | 18-JAN-2002 | 01-04-7212A | 01
04 | FL | WEST PALM BEACH, CITY OF | 1201920145B | 20-MAR-2002 | 02-04-2536A | 01
04 | FL | WEST PALM BEACH, CITY OF | 1201920150A | 15-MAY-2002 | 02-04-0770A | 01
04 | FL | WINDERMERE, TOWN OF | 12095C0385E | 03-MAY-2002 | 02-04-4778A | 02
04 | FL | WINDERMERE, TOWN OF | 12095C0385E | 28-JUN-2002 | 02-04-4998A | 02
04 | FL | WINTER GARDEN, CITY OF | 12095C0205E | 10-APR-2002 | 02-04-3688A | 02
04 | FL | WINTER GARDEN, CITY OF | 12095C0215E | 12-APR-2002 | 02-04-1434A | 01
04 | FL | WINTER HAVEN, CITY OF | 12105C0355F | 04-JAN-2002 | 02-04-1394A | 02
04 | FL | WINTER HAVEN, CITY OF | 12105C0365F | 13-MAR-2002 | 01-04-7200A | 02
04 | FL | WINTER HAVEN, CITY OF | 12105C0365F | 22-MAY-2002 | 02-04-4780A | 02
04 | FL | WINTER HAVEN, CITY OF | 12105C0365F | 29-MAY-2002 | 02-04-251P | 06
04 | FL | WINTER HAVEN, CITY OF | 12105C0355F | 05-JUN-2002 | 02-04-5548A | 02
04 | FL | WINTER PARK, CITY OF | 12095C0255E | 13-FEB-2002 | 02-04-2456A | 02
04 | FL | WINTER SPRINGS, CITY OF | 12117C0135E | 09-JAN-2002 | 02-04-0748A | 02
04 | FL | WINTER SPRINGS, CITY OF | 12117C0145E | 29-MAY-2002 | 02-04-4334A | 02
04 | GA | ALBANY, CITY OF | 13095C0130D | 06-MAR-2002 | 02-04-3282A | 02
04 | GA | ALBANY, CITY OF | 13095C0105D | 22-MAR-2002 | 02-04-1652A | 02
04 | GA | ALPHARETTA, CITY OF | 13121C0059E | 17-JAN-2002 | 01-04-239P | 05
04 | GA | ALPHARETTA, CITY OF | 13121C0058E | 21-MAR-2002 | 02-04-063P | 05
04 | GA | ALPHARETTA, CITY OF | 13121C0078E | 08-MAY-2002 | 02-04-4060A | 01
04 | GA | ALPHARETTA, CITY OF | 13121C0080E | 19-JUN-2002 | 02-04-4084A | 02
04 | GA | ATLANTA, CITY OF | 13121C0232E | 15-MAR-2002 | 02-04-3558A | 02
04 | GA | ATLANTA, CITY OF | 13121C0233E | 03-APR-2002 | 02-04-1714A | 02
04 | GA | ATLANTA, CITY OF | 13121C0229E | 21-JUN-2002 | 02-04-4330A | 01
04 | GA | AUGUSTA, CITY OF | 1301580060E | 23-JAN-2002 | 02-04-1272A | 02
04 | GA | AUGUSTA, CITY OF | 1301580070E | 22-MAY-2002 | 02-04-5902A | 02
04 | GA | BALDWIN COUNTY* | 1300050050B | 15-MAR-2002 | 02-04-3660A | 02
04 | GA | BALDWIN COUNTY* | 1300050075B | 27-MAR-2002 | 02-04-3946A | 02
04 | GA | BARTOW COUNTY * | 13015C0110F | 22-MAY-2002 | 02-04-4788A | 02
04 | GA | BARTOW COUNTY * | 13015C0135F | 28-JUN-2002 | 02-04-6272A | 02
04 | GA | BIBB COUNTY* | 1300110025D | 13-FEB-2002 | 02-04-1472A | 02
04 | GA | BRUNSWICK,CITY OF | 1300930011C | 15-MAR-2002 | 02-04-025P | 05
04 | GA | BUTTS COUNTY* | 1305180125A | 17-MAY-2002 | 02-04-5020A | 02
04 | GA | CALHOUN, CITY OF | 1300950003C | 04-JAN-2002 | 02-04-1238A | 02
04 | GA | CARROLL COUNTY* | 1304640150B | 13-FEB-2002 | 02-04-1220A | 02
04 | GA | CARROLL COUNTY* | 1304640095B | 17-APR-2002 | 02-04-3104A | 02
04 | GA | CARROLL COUNTY* | 1304640050B | 03-MAY-2002 | 02-04-3448A | 02
04 | GA | CATOOSA COUNTY* | 1300280025D | 13-FEB-2002 | 02-04-1930A | 02
04 | GA | CATOOSA COUNTY* | 1300280025D | 12-APR-2002 | 02-04-3876A | 02
04 | GA | CATOOSA COUNTY* | 1300280025D | 22-MAY-2002 | 02-04-3436A | 01
04 | GA | CEDARTOWN, CITY OF | 1301530001C | 27-MAR-2002 | 02-04-4140A | 02
04 | GA | CHATHAM COUNTY* | 1300300075C | 11-MAR-2002 | 02-04-2384A | 02
04 | GA | CHATHAM COUNTY* | 1300300075C | 12-APR-2002 | 02-04-4186A | 02
04 | GA | CHATHAM COUNTY* | 1300300075 | 14-JUN-2002 | 02-04-6116A | 02
04 | GA | CLAYTON COUNTY* | 1300410015D | 30-JAN-2002 | 02-04-1486A | 02
04 | GA | CLAYTON COUNTY* | 1300410065B | 06-FEB-2002 | 02-04-2482A | 02
04 | GA | CLAYTON COUNTY* | 1300410070C | 03-APR-2002 | 02-04-2108A | 02
04 | GA | CLAYTON COUNTY* | 1300410015D | 26-JUN-2002 | 02-04-4590A | 02
04 | GA | COBB COUNTY* | 13067C0035F | 09-JAN-2002 | 02-04-1922A | 02
04 | GA | COBB COUNTY* | 13067C0015F | 11-JAN-2002 | 02-04-2066A | 02
04 | GA | COBB COUNTY* | 13067C0085F | 16-JAN-2002 | 02-04-1726A | 02
04 | GA | COBB COUNTY* | 13067C0030F | 18-JAN-2002 | 02-04-0580A | 02
04 | GA | COBB COUNTY* | 13067C0055F | 23-JAN-2002 | 02-04-1882A | 02
04 | GA | COBB COUNTY* | 13067C0075F | 30-JAN-2002 | 02-04-2170A | 02
04 | GA | COBB COUNTY* | 13067C0035F | 13-FEB-2002 | 02-04-2514A | 02
04 | GA | COBB COUNTY* | 13067C0050F | 20-FEB-2002 | 02-04-2758A | 02
04 | GA | COBB COUNTY* | 13067C0040F | 06-MAR-2002 | 01-04-4306A | 02
04 | GA | COBB COUNTY* | 13067C0040F | 06-MAR-2002 | 02-04-0876A | 02
04 | GA | COBB COUNTY* | 13067C0080F | 06-MAR-2002 | 02-04-1644A | 02
04 | GA | COBB COUNTY* | 13067C0040F | 06-MAR-2002 | 02-04-3424A | 02
04 | GA | COBB COUNTY* | 13067C0050F | 15-MAR-2002 | 02-04-2730A | 02
04 | GA | COBB COUNTY* | 13067C0015F | 15-MAR-2002 | 02-04-3582A | 02
04 | GA | COBB COUNTY* | 13067C0050F | 22-MAR-2002 | 02-04-2732A | 02
04 | GA | COBB COUNTY* | 13067C0065F | 22-MAR-2002 | 02-04-3940A | 02
04 | GA | COBB COUNTY* | 13067C0045F | 03-APR-2002 | 02-04-2608A | 02
04 | GA | COBB COUNTY* | 13067C0060F | 05-APR-2002 | 02-04-3566A | 02
04 | GA | COBB COUNTY* | 13067C0045F | 10-APR-2002 | 02-04-0460A | 02
04 | GA | COBB COUNTY* | 13067C0075F | 17-APR-2002 | 02-04-2518A | 02
04 | GA | COBB COUNTY* | 13067C0050F | 19-APR-2002 | 02-04-4658A | 02
04 | GA | COBB COUNTY* | 13067C0055F | 26-APR-2002 | 02-04-3800A | 02
04 | GA | COBB COUNTY* | 13067C0010F | 10-MAY-2002 | 02-04-4676A | 02
04 | GA | COBB COUNTY* | 13067C0040F | 10-MAY-2002 | 02-04-5336A | 02
04 | GA | COBB COUNTY* | 13067C0085F | 15-MAY-2002 | 02-04-3802A | 02
04 | GA | COBB COUNTY* | 13067C0060F | 15-MAY-2002 | 02-04-4928A | 02
04 | GA | COBB COUNTY* | 13067C0035F | 15-MAY-2002 | 02-04-5468A | 17
04 | GA | COBB COUNTY* | 13067C0025F | 17-MAY-2002 | 02-04-3412A | 02
04 | GA | COBB COUNTY* | 13067C0035F | 22-MAY-2002 | 02-04-5340A | 02
04 | GA | COBB COUNTY* | 13067C0090F | 24-MAY-2002 | 02-04-4312A | 02
04 | GA | COBB COUNTY* | 13067C0030F | 05-JUN-2002 | 02-04-4390A | 02
04 | GA | COBB COUNTY* | 13067C0090F | 14-JUN-2002 | 02-04-4944A | 02
04 | GA | COBB COUNTY* | 13067C0070F | 14-JUN-2002 | 02-04-5866A | 02
04 | GA | COBB COUNTY* | 13067C0045F | 14-JUN-2002 | 02-04-6160A | 02
04 | GA | COBB COUNTY* | 13067C0065F | 19-JUN-2002 | 02-04-4082A | 02
04 | GA | COBB COUNTY* | 13067C0025F | 19-JUN-2002 | 02-04-4306A | 02
04 | GA | COBB COUNTY* | 13067C0055F | 19-JUN-2002 | 02-04-5908A | 02
04 | GA | COBB COUNTY* | 13067C0025F | 26-JUN-2002 | 02-04-4986A | 02
04 | GA | COBB COUNTY* | 13067C0090F | 28-JUN-2002 | 02-04-6170A | 02
04 | GA | COBB COUNTY* | 13067C0045F | 28-JUN-2002 | 02-04-6668A | 02
04 | GA | COBB COUNTY* | 13067C0085F | 28-JUN-2002 | 02-04-6734A | 02
04 | GA | COLUMBIA COUNTY* | 1300590095B | 01-MAR-2002 | 02-04-3292A | 02
04 | GA | COLUMBUS, CITY OF | 1351580050D | 30-JAN-2002 | 02-04-1294A | 02
04 | GA | COLUMBUS, CITY OF | 1351580075D | 10-APR-2002 | 02-04-2008A | 02
04 | GA | COLUMBUS, CITY OF | 1351580045D | 19-APR-2002 | 02-04-2320A | 02
04 | GA | COLUMBUS, CITY OF | 1351580050D | 19-APR-2002 | 02-04-3568A | 01
04 | GA | COLUMBUS, CITY OF | 1351580050D | 24-APR-2002 | 02-04-4786A | 02
04 | GA | COLUMBUS, CITY OF | 1351580045D | 22-MAY-2002 | 02-04-5810A | 02
04 | GA | COOK COUNTY* | 13075C0095B | 28-JUN-2002 | 02-04-4648A | 02
04 | GA | COWETA COUNTY * | 1302980275A | 24-APR-2002 | 02-04-1716A | 02
04 | GA | COWETA COUNTY * | 1302980250B | 22-MAY-2002 | 02-04-5864A | 02
04 | GA | DADE COUNTY * | 13083C0007C | 17-MAY-2002 | 02-04-5812A | 02
04 | GA | DAWSON COUNTY | 1303040100A | 17-APR-2002 | 02-04-4198A | 02
04 | GA | DE KALB COUNTY * | 13089C0141H | 04-JAN-2002 | 02-04-1476A | 02
04 | GA | DE KALB COUNTY * | 13089C0158H | 11-JAN-2002 | 02-04-0078A | 02
04 | GA | DE KALB COUNTY * | 13089C0169H | 18-JAN-2002 | 02-04-2172A | 02
04 | GA | DE KALB COUNTY * | 13089C0019H | 30-JAN-2002 | 01-04-6522A | 02
04 | GA | DE KALB COUNTY * | 13089C0112H | 30-JAN-2002 | 02-04-0880A | 17
04 | GA | DE KALB COUNTY * | 13089C0059H | 30-JAN-2002 | 02-04-1838A | 02
04 | GA | DE KALB COUNTY * | 13089C0010H | 08-FEB-2002 | 01-04-6732A | 02
04 | GA | DE KALB COUNTY * | 13089C0086H | 08-FEB-2002 | 02-04-2606A | 02
04 | GA | DE KALB COUNTY * | 13089C0113H | 22-FEB-2002 | 02-04-1366A | 17
04 | GA | DE KALB COUNTY * | 13089C0016H | 01-MAR-2002 | 02-04-2196A | 02
04 | GA | DE KALB COUNTY * | 13089C0113H | 01-MAR-2002 | 02-04-3414A | 02
04 | GA | DE KALB COUNTY * | 13089C0066H | 06-MAR-2002 | 02-04-2784A | 02
04 | GA | DE KALB COUNTY * | 13089C0112H | 06-MAR-2002 | 02-04-3420A | 17
04 | GA | DE KALB COUNTY * | 13089C0052H | 13-MAR-2002 | 02-04-3416A | 02
04 | GA | DE KALB COUNTY * | 13089C0153H | 22-MAR-2002 | 02-04-2734A | 02
04 | GA | DE KALB COUNTY * | 13089C0151H | 22-MAR-2002 | 02-04-3146A | 02
04 | GA | DE KALB COUNTY * | 13089C0086H | 27-MAR-2002 | 02-04-3056A | 02
04 | GA | DE KALB COUNTY * | 13089C0084H | 29-MAR-2002 | 02-04-3574A | 02
04 | GA | DE KALB COUNTY * | 13089C0052H | 29-MAR-2002 | 02-04-3806A | 02
04 | GA | DE KALB COUNTY * | 13089C0176H | 29-MAR-2002 | 02-04-4328A | 02
04 | GA | DE KALB COUNTY * | 13089C0167H | 03-APR-2002 | 02-04-3418A | 02
04 | GA | DE KALB COUNTY * | 13089C0162H | 17-APR-2002 | 02-04-2864A | 02
04 | GA | DE KALB COUNTY * | 13089C0086H | 19-APR-2002 | 02-04-3744A | 02
04 | GA | DE KALB COUNTY * | 13089C0163H | 22-MAY-2002 | 02-04-3438A | 02
04 | GA | DE KALB COUNTY * | 13089C0134H | 22-MAY-2002 | 02-04-4810A | 02
04 | GA | DE KALB COUNTY * | 13089C0054H | 29-MAY-2002 | 02-04-5884A | 02
04 | GA | DE KALB COUNTY * | 13089C0188H | 05-JUN-2002 | 02-04-5950A | 02
04 | GA | DE KALB COUNTY * | 13089C0113H | 14-JUN-2002 | 02-04-5952A | 02
04 | GA | DE KALB COUNTY * | 13089C0151H | 28-JUN-2002 | 02-04-5526A | 02
04 | GA | DE KALB COUNTY * | 13089C0152H | 28-JUN-2002 | 02-04-5576A | 02
04 | GA | DE KALB COUNTY * | 13089C0132H | 28-JUN-2002 | 02-04-6174A | 02
04 | GA | DECATUR, CITY OF | 13089C0068H | 15-MAR-2002 | 02-04-3658A | 02
04 | GA | DILLARD, TOWN OF | 130446—02B | 01-FEB-2002 | 02-04-0220A | 01
04 | GA | DOUGHERTY COUNTY * | 13095C0135D | 19-APR-2002 | 02-04-4650A | 02
04 | GA | DOUGHERTY COUNTY * | 13095C0255D | 19-JUN-2002 | 02-04-4594A | 02
04 | GA | DOUGHERTY COUNTY * | 13095C0120D | 26-JUN-2002 | 02-04-5986A | 02
04 | GA | DULUTH, CITY OF | 1300980002C | 25-JAN-2002 | 02-04-2362A | 02
04 | GA | DULUTH, CITY OF | 1300980003C | 05-APR-2002 | 02-04-3578A | 02
04 | GA | EAST POINT, CITY OF | 13121C0361E | 19-JUN-2002 | 02-04-5290A | 02
04 | GA | EATONTON, CITY OF | 1302180005B | 04-JAN-2002 | 02-04-0712A | 02
04 | GA | FANNIN COUNTY* | 13111C0066D | 25-JAN-2002 | 02-04-1836A | 02
04 | GA | FAYETTE COUNTY * | 13113C0080D | 16-JAN-2002 | 02-04-2062X | 02
04 | GA | FLOYD COUNTY* | 13115C0185D | 01-MAR-2002 | 02-04-2674A | 02
04 | GA | FORSYTH COUNTY * | 13117C0115C | 11-JAN-2002 | 02-04-1168A | 02
04 | GA | FORSYTH COUNTY * | 13117C0115C | 17-APR-2002 | 02-04-1926A | 02
04 | GA | FULTON COUNTY * | 13121C0163E | 16-JAN-2002 | 02-04-2012A | 02
04 | GA | FULTON COUNTY * | 13121C0057E | 23-JAN-2002 | 02-04-1924A | 02
04 | GA | FULTON COUNTY * | 13121C0080E | 06-FEB-2002 | 01-04-7004A | 02
04 | GA | FULTON COUNTY * | 13121C0083E | 15-FEB-2002 | 02-04-1938A | 02
04 | GA | FULTON COUNTY * | 13121C0053E | 12-APR-2002 | 02-04-2610A | 02
04 | GA | FULTON COUNTY * | 13121C0153E | 19-APR-2002 | 02-04-4988A | 02
04 | GA | FULTON COUNTY * | 13121C0066E | 24-APR-2002 | 02-04-3712A | 02
04 | GA | FULTON COUNTY * | 13121C0461E | 18-JUN-2002 | 02-04-279P | 05
04 | GA | GILMER COUNTY* | 13123CO150B | 10-APR-2002 | 02-04-2940A | 02
04 | GA | GORDON COUNTY* | 1300940038B | 15-FEB-2002 | 02-04-2768A | 02
04 | GA | GORDON COUNTY* | 1300940039B | 19-APR-2002 | 02-04-3954A | 02
04 | GA | GORDON COUNTY* | 1300940039B | 28-JUN-2002 | 02-04-5414A | 02
04 | GA | GWINNETT COUNTY * | 1303220095C | 04-JAN-2002 | 02-04-0398A | 02
04 | GA | GWINNETT COUNTY * | 1303220195C | 09-JAN-2002 | 02-04-0998A | 02
04 | GA | GWINNETT COUNTY * | 1303220020B | 09-JAN-2002 | 02-04-1680A | 02
04 | GA | GWINNETT COUNTY * | 1303220280C | 09-JAN-2002 | 02-04-1814A | 02
04 | GA | GWINNETT COUNTY * | 1303220190C | 11-JAN-2002 | 02-04-1122A | 02
04 | GA | GWINNETT COUNTY * | 1303220295B | 16-JAN-2002 | 01-04-6620A | 02
04 | GA | GWINNETT COUNTY * | 1303220170C | 23-JAN-2002 | 02-04-0684A | 02
04 | GA | GWINNETT COUNTY * | 1303220195C | 06-FEB-2002 | 02-04-1506A | 02
04 | GA | GWINNETT COUNTY * | 1303220190C | 22-FEB-2002 | 02-04-2488X | 02
04 | GA | GWINNETT COUNTY * | 1303220055C | 13-MAR-2002 | 02-04-2054A | 02
04 | GA | GWINNETT COUNTY * | 1303220195C | 15-MAR-2002 | 02-04-1208A | 02
04 | GA | GWINNETT COUNTY * | 1303220280C | 15-MAR-2002 | 02-04-3356A | 02
04 | GA | GWINNETT COUNTY * | 1303220085C | 22-MAR-2002 | 02-04-3386A | 02
04 | GA | GWINNETT COUNTY * | 1303220020B | 05-APR-2002 | 02-04-3748A | 02
04 | GA | GWINNETT COUNTY * | 1303220095C | 05-APR-2002 | 02-04-3900A | 02
04 | GA | GWINNETT COUNTY * | 1303220095C | 12-APR-2002 | 02-04-1928A | 02
04 | GA | GWINNETT COUNTY * | 1303220280C | 12-APR-2002 | 02-04-2358A | 17
04 | GA | GWINNETT COUNTY * | 1303220195C | 17-APR-2002 | 02-04-2324A | 02
04 | GA | GWINNETT COUNTY * | 1303220170C | 26-APR-2002 | 02-04-4316A | 02
04 | GA | GWINNETT COUNTY * | 1303220055C | 01-MAY-2002 | 02-04-4722A | 02
04 | GA | GWINNETT COUNTY * | 1303220195C | 01-MAY-2002 | 02-04-4848A | 02
04 | GA | GWINNETT COUNTY * | 1303220205C | 17-MAY-2002 | 02-04-4314A | 02
04 | GA | GWINNETT COUNTY * | 1303220310B | 17-MAY-2002 | 02-04-5158A | 02
04 | GA | GWINNETT COUNTY * | 1303220095C | 22-MAY-2002 | 02-04-3212A | 02
04 | GA | GWINNETT COUNTY * | 1303220280C | 22-MAY-2002 | 02-04-5960A | 02
04 | GA | GWINNETT COUNTY * | 1303220170C | 24-MAY-2002 | 02-04-5696A | 02
04 | GA | GWINNETT COUNTY * | 1303220095C | 21-JUN-2002 | 02-04-3486A | 02
04 | GA | GWINNETT COUNTY * | 1303220205C | 28-JUN-2002 | 02-04-2110A | 02
04 | GA | GWINNETT COUNTY * | 1303220085C | 28-JUN-2002 | 02-04-4612A | 02
04 | GA | HABERSHAM COUNTY * | 1304580110B | 19-JUN-2002 | 02-04-6162A | 02
04 | GA | HALL COUNTY * | 13139C0275E | 04-JAN-2002 | 02-04-1720A | 02
04 | GA | HALL COUNTY * | 13139C0180E | 23-JAN-2002 | 02-04-0950A | 02
04 | GA | HALL COUNTY * | 13139C0300E | 23-JAN-2002 | 02-04-1298A | 02
04 | GA | HALL COUNTY * | 13139C0093E | 01-FEB-2002 | 02-04-0974A | 02
04 | GA | HALL COUNTY * | 13139C0093E | 06-MAR-2002 | 02-04-2824A | 02
04 | GA | HALL COUNTY * | 13139C0180E | 05-APR-2002 | 02-04-3380A | 02
04 | GA | HALL COUNTY * | 13139C0300E | 17-APR-2002 | 02-04-3262A | 02
04 | GA | HALL COUNTY * | 13139C0312E | 10-MAY-2002 | 02-04-4542A | 02
04 | GA | HALL COUNTY * | 13139C0183E | 19-JUN-2002 | 02-04-6242A | 02
04 | GA | HALL COUNTY * | 13139C0300E | 28-JUN-2002 | 02-04-5642A | 02
04 | GA | HARRIS COUNTY* | 1303380150A | 15-FEB-2002 | 02-04-1402A | 02
04 | GA | HARRIS COUNTY* | 1303380250A | 22-FEB-2002 | 02-04-1734A | 02
04 | GA | HARRIS COUNTY* | 1303380150A | 27-FEB-2002 | 02-04-2984A | 02
04 | GA | HARRIS COUNTY* | 1303380250A | 24-APR-2002 | 02-04-3500A | 02
04 | GA | HARRIS COUNTY* | 1303380150A | 01-MAY-2002 | 02-04-4664A | 02
04 | GA | HARRIS COUNTY* | 1303380150A | 10-MAY-2002 | 02-04-5328A | 02
04 | GA | HARRIS COUNTY* | 1303380150A | 10-MAY-2002 | 02-04-5338A | 02
04 | GA | HARRIS COUNTY* | 1303380150A | 17-MAY-2002 | 02-04-4180A | 02
04 | GA | HARRIS COUNTY* | 1303380150A | 14-JUN-2002 | 02-04-5912A | 02
04 | GA | HARRIS COUNTY* | 1303380150A | 26-JUN-2002 | 02-04-6372A | 02
04 | GA | HOUSTON COUNTY * | 1302470060A | 12-APR-2002 | 02-04-4734A | 02
04 | GA | JENKINS COUNTY * | 13165C0100D | 20-FEB-2002 | 02-04-1170A | 02
04 | GA | JONES COUNTY* | 13169C0250C | 19-APR-2002 | 02-04-4248A | 02
04 | GA | KENNESAW, CITY OF | 13067C0030F | 28-JUN-2002 | 02-04-5072A | 02
04 | GA | KENNESAW, CITY OF | 13067C0030F | 28-JUN-2002 | 02-04-5464A | 01
04 | GA | LAGRANGE, CITY OF | 1301770006D | 01-FEB-2002 | 02-04-1444A | 02
04 | GA | LAGRANGE, CITY OF | 1301770006D | 15-FEB-2002 | 02-04-1724A | 02
04 | GA | LAWRENCEVILLE, CITY OF | 1300990001B | 24-APR-2002 | 02-04-3674A | 02
04 | GA | LEE COUNTY * | 1301220250B | 27-MAR-2002 | 02-04-3226X | 02
04 | GA | LEE COUNTY * | 1301220250B | 05-JUN-2002 | 02-04-5698A | 02
04 | GA | LIBERTY COUNTY * | 1301230190A | 16-MAY-2002 | 01-04-571P | 05
04 | GA | MACON, CITY OF | 1300110041E | 01-JAN-2002 | 01-04-173P | 05
04 | GA | MACON, CITY OF | 1300110010D | 23-FEB-2002 | 02-04-2052X | 01
04 | GA | MACON, CITY OF | 1300110050D | 03-APR-2002 | 02-04-2930A | 02
04 | GA | MACON, CITY OF | 1300110025D | 17-APR-2002 | 02-04-3384A | 17
04 | GA | MACON, CITY OF | 1300110020E | 15-MAY-2002 | 02-04-5348A | 02
04 | GA | MADISON, CITY OF | 13211C0205A | 16-FEB-2002 | 02-04-3166V | 19
04 | GA | MARIETTA, CITY OF | 13067C0055F | 15-FEB-2002 | 02-04-3006A | 02
04 | GA | MONROE COUNTY* | 1301380025C | 05-APR-2002 | 02-04-3002A | 02
04 | GA | MONROE, CITY OF | 13297C0113B | 15-FEB-2002 | 01-04-6880A | 02
04 | GA | MONROE, CITY OF | 13297C0113B | 22-MAY-2002 | 02-04-5650A | 02
04 | GA | MORGAN COUNTY* | 13211C0230A | 24-MAY-2002 | 02-04-5856A | 02
04 | GA | NEWTON COUNTY * | 1301430050A | 23-JAN-2002 | 02-04-1640A | 02
04 | GA | NEWTON COUNTY * | 1301430045A | 15-MAR-2002 | 02-04-2554A | 02
04 | GA | PAULDING COUNTY * | 13223C0265B | 29-MAR-2002 | 02-04-2728A | 02
04 | GA | PAULDING COUNTY * | 13223C0245B | 26-APR-2002 | 02-04-4326A | 02
04 | GA | PEACHTREE CITY, CITY OF | 13113C0060D | 10-APR-2002 | 02-04-4592A | 02
04 | GA | PERRY, CITY OF | 1301100001B | 22-MAY-2002 | 02-04-4614A | 01
04 | GA | PIKE COUNTY | 1305110050A | 15-MAR-2002 | 02-04-2316A | 02
04 | GA | POLK COUNTY * | 1302560069A | 04-JAN-2002 | 02-04-1118A | 02
04 | GA | POLK COUNTY * | 1302560088A | 12-APR-2002 | 02-04-1388A | 17
04 | GA | RABUN COUNTY * | 1301560125B | 22-MAY-2002 | 02-04-4294A | 02
04 | GA | RICHMOND COUNTY* | 1301580060E | 15-FEB-2002 | 02-04-1884A | 02
04 | GA | RICHMOND COUNTY* | 1301580020E | 22-MAY-2002 | 02-04-4730A | 02
04 | GA | ROCKDALE COUNTY * | 13247C0162C | 04-JAN-2002 | 02-04-0072A | 02
04 | GA | ROCKDALE COUNTY * | 13247C0082C | 13-FEB-2002 | 02-04-2134A | 02
04 | GA | ROCKDALE COUNTY * | 13247C0135C | 11-MAR-2002 | 02-04-2386A | 02
04 | GA | ROME, CITY OF | 13115C0190D | 04-JAN-2002 | 02-04-0262A | 02
04 | GA | ROME, CITY OF | 13115C0190D | 12-APR-2002 | 02-04-4418A | 02
04 | GA | ROME, CITY OF | 13115C0195D | 03-MAY-2002 | 02-04-5042A | 02
04 | GA | ROSWELL, CITY OF | 13121C0063E | 09-JAN-2002 | 02-04-1722A | 02
04 | GA | ROSWELL, CITY OF | 13121C0044E | 22-MAR-2002 | 02-04-3722A | 02
04 | GA | ROSWELL, CITY OF | 13121C0034E | 24-MAY-2002 | 02-04-2834A | 02
04 | GA | SMYRNA, CITY OF | 13067C0075F | 16-JAN-2002 | 01-04-6824A | 02
04 | GA | SMYRNA, CITY OF | 13067C0075F | 28-JUN-2002 | 02-04-6164A | 02
04 | GA | SPALDING COUNTY * | 1303880135B | 24-APR-2002 | 02-04-3888A | 02
04 | GA | TROUP COUNTY * | 1304050100A | 23-JAN-2002 | 02-04-0878A | 02
04 | GA | TROUP COUNTY * | 1304050200A | 14-JUN-2002 | 02-04-6346A | 02
04 | GA | TYRONE, TOWN OF | 13113C0020D | 22-MAY-2002 | 02-04-3522A | 02
04 | GA | UNION COUNTY* | 1302540025C | 25-JAN-2002 | 02-04-1860A | 02
04 | GA | UNION COUNTY* | 1302540100C | 26-APR-2002 | 02-04-2816A | 02
04 | GA | UNION COUNTY* | 1302540025C | 15-MAY-2002 | 02-04-4332A | 02
04 | GA | WALKER COUNTY * | 1301800130B | 09-JAN-2002 | 02-04-1816A | 02
04 | GA | WALTON COUNTY * | 13297C0140B | 01-FEB-2002 | 02-04-2220A | 02
04 | GA | WALTON COUNTY * | 13297C0080B | 08-FEB-2002 | 02-04-2146A | 02
04 | GA | WOODSTOCK, CITY OF | 13057C0030B | 19-APR-2002 | 02-04-4924A | 02
04 | GA | WOODSTOCK, CITY OF | 13057C0330B | 01-MAY-2002 | 02-04-4990A | 17
04 | GA | WOODSTOCK, CITY OF | 13057C0330B | 15-MAY-2002 | 02-04-5248A | 17
04 | GA | WOODSTOCK, CITY OF | 13057C0330B | 19-JUN-2002 | 02-04-5958A | 02
04 | GA | WOODSTOCK, CITY OF | 13057C0330B | 19-JUN-2002 | 02-04-6070A | 02
04 | KY | BOONE COUNTY * | 2100130015B | 13-MAR-2002 | 02-04-2556A | 02
04 | KY | BOYD COUNTY * | 210016 | 15-FEB-2002 | 02-04-0156A | 02
04 | KY | CALLOWAY COUNTY * | 2103130005A | 16-JAN-2002 | 02-04-1364A | 02
04 | KY | CAMPBELL COUNTY * | 2100340105B | 22-MAR-2002 | 02-04-2522A | 02
04 | KY | CARROLL COUNTY | 210045—02B | 03-APR-2002 | 02-04-3700A | 02
04 | KY | COVINGTON, CITY OF | 2101290005D | 01-FEB-2002 | 02-04-2360A | 02
04 | KY | FLOYD COUNTY * | 2100690070B | 09-JAN-2002 | 02-04-0360A | 02
04 | KY | GARRARD COUNTY * | 2100810002B | 15-MAY-2002 | 02-04-5234A | 02
04 | KY | GREENUP COUNTY* | 2102840035B | 17-APR-2002 | 02-04-3606A | 02
04 | KY | HENDERSON COUNTY* | 2102860125B | 15-FEB-2002 | 02-04-1670A | 02
04 | KY | HENDERSON COUNTY* | 2102860200B | 05-JUN-2002 | 02-04-5254A | 02
04 | KY | JEFFERSON COUNTY * | 21111C0160D | 13-FEB-2002 | 02-04-2748A | 02
04 | KY | JEFFERSON COUNTY* | 21111C0240D | 09-JAN-2002 | 02-04-1558A | 02
04 | KY | JEFFERSON COUNTY* | 21111C0085D | 09-JAN-2002 | 02-04-1762A | 02
04 | KY | JEFFERSON COUNTY* | 21111C0160D | 16-JAN-2002 | 02-04-1894A | 02
04 | KY | JEFFERSON COUNTY* | 21111C0095D | 16-JAN-2002 | 02-04-2200A | 02
04 | KY | JEFFERSON COUNTY* | 21111C0170D | 23-JAN-2002 | 02-04-0844A | 02
04 | KY | JEFFERSON COUNTY* | 21111C0085D | 01-FEB-2002 | 02-04-2254A | 02
04 | KY | JEFFERSON COUNTY* | 21111C0160D | 01-FEB-2002 | 02-04-2566A | 02
04 | KY | JEFFERSON COUNTY* | 21111C0080D | 08-FEB-2002 | 02-04-2678A | 02
04 | KY | JEFFERSON COUNTY* | 21111C0095D | 25-FEB-2002 | 02-04-035P | 05
04 | KY | JEFFERSON COUNTY* | 21111C0170D | 06-MAR-2002 | 02-04-2090A | 02
04 | KY | JEFFERSON COUNTY* | 21111C0165D | 13-MAR-2002 | 02-04-2714A | 02
04 | KY | JEFFERSON COUNTY* | 21111C0085D | 13-MAR-2002 | 02-04-3382A | 02
04 | KY | JEFFERSON COUNTY* | 21111C0255D | 27-MAR-2002 | 02-04-4044A | 02
04 | KY | JEFFERSON COUNTY* | 21111C0160D | 29-MAR-2002 | 02-04-3608A | 02
04 | KY | JEFFERSON COUNTY* | 21111C0085D | 03-APR-2002 | 02-04-4038A | 02
04 | KY | JEFFERSON COUNTY* | 21111C0180D | 11-APR-2002 | 02-04-011P | 05
04 | KY | JEFFERSON COUNTY* | 21111C0190D | 11-APR-2002 | 02-04-011P | 05
04 | KY | JEFFERSON COUNTY* | 21111C0280D | 11-APR-2002 | 02-04-011P | 05
04 | KY | JEFFERSON COUNTY* | 21111C0105D | 11-APR-2002 | 02-04-245P | 05
04 | KY | JEFFERSON COUNTY* | 21111C0115D | 11-APR-2002 | 02-04-245P | 05
04 | KY | JEFFERSON COUNTY* | 21111C0115D | 17-APR-2002 | 02-04-4108A | 02
04 | KY | JEFFERSON COUNTY* | 21111C0160D | 17-APR-2002 | 02-04-4394A | 02
04 | KY | JEFFERSON COUNTY* | 21111C0190D | 19-APR-2002 | 02-04-3704A | 02
04 | KY | JEFFERSON COUNTY* | 21111C0160D | 01-MAY-2002 | 02-04-4740A | 02
04 | KY | JEFFERSON COUNTY* | 21111C0235D | 01-MAY-2002 | 02-04-5152A | 02
04 | KY | JEFFERSON COUNTY* | 21111C0170D | 15-MAY-2002 | 02-04-4168A | 01
04 | KY | JEFFERSON COUNTY* | 21111C0080D | 31-MAY-2002 | 02-04-5434A | 02
04 | KY | JEFFERSON COUNTY* | 21111C0020D | 05-JUN-2002 | 02-04-3540A | 02
04 | KY | JEFFERSON COUNTY* | 21111C0145D | 05-JUN-2002 | 02-04-4914A | 02
04 | KY | JEFFERSON COUNTY* | 21111C0020D | 05-JUN-2002 | 02-04-5256A | 02
04 | KY | JEFFERSON COUNTY* | 21111C0170D | 05-JUN-2002 | 02-04-5304A | 02
04 | KY | JEFFERSON COUNTY* | 21111C0170D | 21-JUN-2002 | 02-04-6422A | 02
04 | KY | JEFFERSON COUNTY* | 21111C0080D | 21-JUN-2002 | 02-04-6544A | 02
04 | KY | JEFFERSON COUNTY* | 21111C0160D | 26-JUN-2002 | 02-04-6824A | 02
04 | KY | JEFFERSONTOWN, CITY OF | 21111C0095D | 26-APR-2002 | 02-04-4824A | 02
04 | KY | LEXINGTON-FAYETTE URBAN COUN | 2100670070C | 22-FEB-2002 | 02-04-2700A | 02
04 | KY | LEXINGTON-FAYETTE URBAN COUN | 2100670060C | 03-APR-2002 | 02-04-3662A | 02
04 | KY | LEXINGTON-FAYETTE URBAN COUN | 2100670090C | 05-APR-2002 | 02-04-4074A | 02
04 | KY | LEXINGTON-FAYETTE URBAN COUN | 2100670070C | 12-APR-2002 | 02-04-3676A | 02
04 | KY | LEXINGTON-FAYETTE URBAN COUN | 2100670060C | 10-MAY-2002 | 02-04-4842A | 01
04 | KY | LEXINGTON-FAYETTE URBAN COUN | 2100670080C | 10-JUN-2002 | 02-04-5638A | 01
04 | KY | LEXINGTON-FAYETTE URBAN COUN | 2100670060C | 13-JUN-2002 | 02-04-293P | 05
04 | KY | LEXINGTON-FAYETTE URBAN COUN | 2100670040C | 14-JUN-2002 | 02-04-5996A | 02
04 | KY | LOUISVILLE, CITY OF | 21111C0155D | 16-JAN-2002 | 02-04-1920A | 02
04 | KY | LOUISVILLE, CITY OF | 21111C0095D | 10-JUN-2002 | 02-04-035P | 05
04 | KY | MCCRACKEN COUNTY * | 2101510090B | 24-MAY-2002 | 02-04-5074A | 02
04 | KY | MCCRACKEN COUNTY * | 2101510080B | 31-MAY-2002 | 02-04-5854A | 02
04 | KY | OLDHAM COUNTY* | 2101850080B | 30-JAN-2002 | 02-04-2256A | 02
04 | KY | OWENSBORO, CITY OF | 21059C0180C | 01-FEB-2002 | 02-04-2600A | 02
04 | KY | OWENSBORO, CITY OF | 21059C0260C | 27-FEB-2002 | 02-04-3198A | 02
04 | KY | OWENSBORO, CITY OF | 21059C0260C | 11-MAR-2002 | 02-04-3268A | 02
04 | KY | OWENSBORO, CITY OF | 21059C0120C | 29-MAR-2002 | 02-04-2950A | 02
04 | KY | OWENSBORO, CITY OF | 21059C0260C | 03-APR-2002 | 02-04-4220A | 02
04 | KY | OWENSBORO, CITY OF | 21059C0280C | 05-JUN-2002 | 02-04-4036A | 02
04 | KY | OWENSBORO, CITY OF | 21059C0280C | 28-JUN-2002 | 02-04-6380A | 01
04 | KY | PADUCAH, CITY OF | 2101520005D | 05-JUN-2002 | 02-04-4952A | 02
04 | KY | SHEPHERDSVILLE, CITY OF | 210273—12B | 30-JAN-2002 | 02-04-1764A | 01
04 | KY | SHEPHERDSVILLE, CITY OF | 210273—17B | 30-JAN-2002 | 02-04-1764A | 01
04 | KY | SHIVELY, CITY OF | 21111C0065D | 17-APR-2002 | 02-04-2844A | 02
04 | KY | SHIVELY, CITY OF | 21111C0135D | 01-MAY-2002 | 02-04-5204A | 02
04 | KY | WHITLEY COUNTY* | 21235C0110B | 30-JAN-2002 | 02-04-2276A | 02
04 | KY | WORTHINGTON, CITY OF | 2100920001B | 24-MAY-2002 | 02-04-3736A | 02
04 | MS | CLARKE COUNTY * | 2802200125B | 04-JAN-2002 | 02-04-1324A | 02
04 | MS | CLINTON, CITY OF | 2800710001C | 11-JAN-2002 | 02-04-1524A | 01
04 | MS | COAHOMA COUNTY * | 2800380250C | 27-MAR-2002 | 02-04-1684A | 02
04 | MS | COFFEEVILLE, TOWN OF | 280186—01B | 06-FEB-2002 | 02-04-1840A | 02
04 | MS | COLUMBUS, CITY OF | 28087C0065J | 23-JAN-2002 | 02-04-1736A | 01
04 | MS | COLUMBUS, CITY OF | 28087C0105J | 27-FEB-2002 | 02-04-2754A | 02
04 | MS | COLUMBUS, CITY OF | 28087C0065J | 10-APR-2002 | 02-04-3720A | 01
04 | MS | COLUMBUS, CITY OF | 28087C0065J | 19-APR-2002 | 02-04-4482A | 01
04 | MS | FORREST COUNTY * | 28035C0125C | 08-FEB-2002 | 02-04-2226A | 02
04 | MS | GAUTIER, CITY OF | 2803320005E | 11-JAN-2002 | 02-04-0518A | 02
04 | MS | GAUTIER, CITY OF | 2803320005E | 26-JUN-2002 | 02-04-5498A | 02
04 | MS | GREENE COUNTY * | 280271—06B | 15-MAY-2002 | 02-04-3594A | 02
04 | MS | HANCOCK COUNTY* | 2852540130C | 01-MAY-2002 | 02-04-1946A | 02
04 | MS | HANCOCK COUNTY* | 2852540135C | 10-JUN-2002 | 02-04-5112A | 02
04 | MS | HARRISON COUNTY * | 2852550210E | 19-APR-2002 | 02-04-3958A | 02
04 | MS | HATTIESBURG, CITY OF | 28035C0080C | 16-JAN-2002 | 01-04-307P | 05
04 | MS | HATTIESBURG, CITY OF | 28073C0060C | 16-JAN-2002 | 01-04-307P | 05
04 | MS | HATTIESBURG, CITY OF | 28035C0040C | 24-APR-2002 | 02-04-4092A | 02
04 | MS | HINDS COUNTY* | 2800700250D | 19-JUN-2002 | 02-04-4906A | 01
04 | MS | HINDS COUNTY* | 2800700250D | 28-JUN-2002 | 02-04-4908A | 01
04 | MS | HORN LAKE, CITY OF | 28033C0040E | 12-APR-2002 | 02-04-2496A | 02
04 | MS | HORN LAKE, CITY OF | 28033C0040E | 14-JUN-2002 | 02-04-5508A | 01
04 | MS | ITAWAMBA COUNTY * | 2802900075B | 08-MAY-2002 | 02-04-2086A | 02
04 | MS | JACKSON, CITY OF | 2800720015G | 26-APR-2002 | 02-04-253P | 05
04 | MS | JACKSON, CITY OF | 2800720040F | 26-APR-2002 | 02-04-4144A | 01
04 | MS | JEFFERSON DAVIS COUNTY * | 2803030004A | 24-APR-2002 | 02-04-3204A | 02
04 | MS | LAFAYETTE COUNTY * | 2800930125B | 08-MAY-2002 | 02-04-179P | 05
04 | MS | LAUREL,CITY OF | 2800920005C | 21-JUN-2002 | 02-04-5744A | 02
04 | MS | LOWNDES COUNTY * | 28087C0105J | 15-FEB-2002 | 02-04-2494A | 02
04 | MS | LOWNDES COUNTY * | 28087C0065J | 08-MAY-2002 | 02-04-3998A | 02
04 | MS | MERIDIAN, CITY OF | 28075C0111E | 19-APR-2002 | 02-04-4000A | 02
04 | MS | MORTON, CITY OF | 280150 B | 09-MAY-2002 | 02-04-071P | 06
04 | MS | PASS CHRISTIAN, CITY OF | 2852610002C | 10-MAY-2002 | 02-04-4962A | 02
04 | MS | PETAL, CITY OF | 28035C0045C | 26-APR-2002 | 02-04-2402A | 01
04 | MS | PRENTISS COUNTY | 2802790003A | 20-FEB-2002 | 02-04-1254A | 02
04 | MS | RANKIN COUNTY * | 2801420080C | 11-MAR-2002 | 02-04-2884A | 01
04 | MS | RICHLAND, CITY OF | 2802990003C | 12-JUN-2002 | 02-04-5918A | 02
04 | MS | SOUTHHAVEN, CITY OF | 28033C0030E | 27-MAR-2002 | 02-04-2880A | 02
04 | MS | TISHOMINGO COUNTY | 2802830075B | 29-MAR-2002 | 02-04-0554A | 02
04 | MS | TUPELO, CITY OF | 28081C0163D | 11-JAN-2002 | 02-04-1044A | 02
04 | MS | TUPELO, CITY OF | 28081C0144D | 06-FEB-2002 | 02-04-1948A | 02
04 | MS | TUPELO, CITY OF | 28081C0164D | 20-MAR-2002 | 02-04-3178A | 01
04 | MS | TUPELO, CITY OF | 28081C0163D | 27-MAR-2002 | 02-04-3474A | 02
04 | MS | TUPELO, CITY OF | 28081C0163D | 29-MAY-2002 | 02-04-4792A | 02
04 | MS | TUPELO, CITY OF | 28081C0142D | 19-JUN-2002 | 02-04-6350A | 02
04 | MS | WARREN COUNTY* | 2801980025B | 05-JUN-2002 | 02-04-4432A | 02
04 | MS | WEST POINT, CITY OF | 28025C0111C | 05-APR-2002 | 02-04-3880A | 17
04 | MS | WINSTON COUNTY * | 2803080175B | 21-JUN-2002 | 02-04-4342A | 02
04 | NC | ALAMANCE COUNTY* | 37001C0240E | 05-APR-2002 | 02-04-3646A | 02
04 | NC | ARCHDALE, CITY OF | 3702730003B | 06-MAR-2002 | 02-04-1906A | 02
04 | NC | ARCHDALE, CITY OF | 3702730007B | 06-MAR-2002 | 02-04-1906A | 02
04 | NC | ARCHDALE, CITY OF | 3702730007B | 01-MAY-2002 | 02-04-4750A | 02
04 | NC | ARCHDALE, CITY OF | 3702730007B | 01-MAY-2002 | 02-04-4752A | 02
04 | NC | ARCHDALE, CITY OF | 3702730003B | 16-MAY-2002 | 02-04-027P | 05
04 | NC | BADEN, TOWN OF | 37167C0075D | 10-APR-2002 | 02-04-3652A | 02
04 | NC | BEAUFORT COUNTY* | 3700130360B | 10-APR-2002 | 02-04-4246A | 02
04 | NC | BEAUFORT COUNTY* | 3700130455B | 17-APR-2002 | 02-04-3892A | 02
04 | NC | BLACK MOUNTAIN, TOWN OF | 37021C0239C | 19-JUN-2002 | 02-04-4240A | 02
04 | NC | BLADEN COUNTY * | 3702930013B | 09-JAN-2002 | 02-04-1708A | 02
04 | NC | BREVARD, CITY OF | 37175C0201C | 22-MAR-2002 | 02-04-2690A | 02
04 | NC | BRIDGETON, TOWN OF | 3704360001B | 15-FEB-2002 | 02-04-2924A | 02
04 | NC | BRUNSWICK COUNTY* | 3702950300C | 09-JAN-2002 | 02-04-1498A | 02
04 | NC | BRUNSWICK COUNTY* | 3702950360E | 16-JAN-2002 | 02-04-1100A | 02
04 | NC | BRUNSWICK COUNTY* | 3702950330E | 16-JAN-2002 | 02-04-1704A | 02
04 | NC | BRUNSWICK COUNTY* | 3702950330E | 16-JAN-2002 | 02-04-1706A | 02
04 | NC | BRUNSWICK COUNTY* | 3702950305C | 22-FEB-2002 | 02-04-1308A | 02
04 | NC | BRUNSWICK COUNTY* | 3702950355E | 19-JUN-2002 | 02-04-4630A | 02
04 | NC | BRUNSWICK COUNTY* | 3702950320E | 26-JUN-2002 | 02-04-6550A | 02
04 | NC | BRUNSWICK COUNTY* | 3702950330E | 26-JUN-2002 | 02-04-6732A | 02
04 | NC | BUNCOMBE COUNTY * | 37021C0370C | 06-FEB-2002 | 02-04-1712A | 02
04 | NC | BUNCOMBE COUNTY * | 37021C0290C | 15-MAR-2002 | 02-04-1404A | 02
04 | NC | BURKE COUNTY * | 3700430100C | 13-FEB-2002 | 02-04-2544A | 02
04 | NC | CABARRUS COUNTY * | 37025C0140D | 22-MAR-2002 | 02-04-3254A | 02
04 | NC | CABARRUS COUNTY * | 37025C0140D | 12-APR-2002 | 02-04-3586A | 01
04 | NC | CABARRUS COUNTY * | 37025C0075D | 01-MAY-2002 | 02-04-1702A | 02
04 | NC | CALDWELL COUNTY * | 37027C0050D | 22-MAR-2002 | 02-04-3020A | 02
04 | NC | CALDWELL COUNTY * | 37027C0060D | 16-MAY-2002 | 02-04-2018P | 05
04 | NC | CAROLINA BEACH, TOWN OF | 3753470002C | 30-JAN-2002 | 02-04-2006A | 02
04 | NC | CARRBORO, TOWN OF | 3702750005C | 15-MAR-2002 | 02-04-117P | 05
04 | NC | CARTERET COUNTY * | 3700430440C | 22-FEB-2002 | 02-04-2580A | 02
04 | NC | CATAWBA COUNTY * | 3700500350C | 04-JAN-2002 | 02-04-1668A | 02
04 | NC | CATAWBA COUNTY * | 3700500325B | 16-JAN-2002 | 02-04-1984X | 02
04 | NC | CATAWBA COUNTY * | 3700500200C | 23-JAN-2002 | 02-04-2240A | 02
04 | NC | CATAWBA COUNTY * | 3700500350C | 25-JAN-2002 | 02-04-2168A | 02
04 | NC | CATAWBA COUNTY * | 3700500350C | 30-JAN-2002 | 02-04-2432A | 02
04 | NC | CATAWBA COUNTY * | 3700500350C | 06-FEB-2002 | 02-04-2132A | 02
04 | NC | CATAWBA COUNTY * | 3700500200C | 06-FEB-2002 | 02-04-2498A | 02
04 | NC | CATAWBA COUNTY * | 3700500075C | 06-FEB-2002 | 02-04-2672A | 02
04 | NC | CATAWBA COUNTY * | 3700500075C | 15-FEB-2002 | 02-04-2476A | 02
04 | NC | CATAWBA COUNTY * | 3700500115C | 20-FEB-2002 | 02-04-0432A | 02
04 | NC | CATAWBA COUNTY * | 3700500325B | 01-MAR-2002 | 02-04-1748A | 02
04 | NC | CATAWBA COUNTY * | 3700500325B | 01-MAR-2002 | 02-04-1750A | 02
04 | NC | CATAWBA COUNTY * | 3700500325B | 01-MAR-2002 | 02-04-2144A | 02
04 | NC | CATAWBA COUNTY * | 3700500350C | 01-MAR-2002 | 02-04-2166A | 02
04 | NC | CATAWBA COUNTY * | 3700500325B | 01-MAR-2002 | 02-04-2376A | 02
04 | NC | CATAWBA COUNTY * | 3700500325B | 06-MAR-2002 | 02-04-3278A | 02
04 | NC | CATAWBA COUNTY * | 3700500325B | 13-MAR-2002 | 02-04-1548A | 02
04 | NC | CATAWBA COUNTY * | 3700500350C | 13-MAR-2002 | 02-04-3492A | 02
04 | NC | CATAWBA COUNTY * | 3700500350C | 27-MAR-2002 | 02-04-3920A | 02
04 | NC | CATAWBA COUNTY * | 3700500325B | 27-MAR-2002 | 02-04-3978A | 02
04 | NC | CATAWBA COUNTY * | 3700500325B | 03-APR-2002 | 02-04-3532A | 02
04 | NC | CATAWBA COUNTY * | 3700500325B | 03-APR-2002 | 02-04-3976A | 02
04 | NC | CATAWBA COUNTY * | 3700500325B | 03-APR-2002 | 02-04-4522A | 02
04 | NC | CATAWBA COUNTY * | 3700500350C | 10-APR-2002 | 02-04-2102A | 02
04 | NC | CATAWBA COUNTY * | 3700500350C | 10-APR-2002 | 02-04-4238A | 02
04 | NC | CATAWBA COUNTY * | 3700500350C | 10-APR-2002 | 02-04-4436A | 02
04 | NC | CATAWBA COUNTY * | 3700500350C | 17-APR-2002 | 02-04-4004A | 02
04 | NC | CATAWBA COUNTY * | 3700500020C | 22-APR-2002 | 01-04-557P | 08
04 | NC | CATAWBA COUNTY * | 3700500030C | 22-APR-2002 | 01-04-557P | 08
04 | NC | CATAWBA COUNTY * | 3700500040C | 22-APR-2002 | 01-04-557P | 08
04 | NC | CATAWBA COUNTY * | 3700500045C | 22-APR-2002 | 01-04-557P | 08
04 | NC | CATAWBA COUNTY * | 3700500075C | 22-APR-2002 | 01-04-557P | 08
04 | NC | CATAWBA COUNTY * | 3700500200C | 22-APR-2002 | 01-04-557P | 08
04 | NC | CATAWBA COUNTY * | 3700500325B | 22-APR-2002 | 01-04-557P | 08
04 | NC | CATAWBA COUNTY * | 3700500350C | 22-APR-2002 | 01-04-557P | 08
04 | NC | CATAWBA COUNTY * | 3700500200C | 01-MAY-2002 | 02-04-4398A | 02
04 | NC | CATAWBA COUNTY * | 3700500200C | 01-MAY-2002 | 02-04-4520A | 02
04 | NC | CATAWBA COUNTY * | 3700500350C | 01-MAY-2002 | 02-04-5128A | 02
04 | NC | CATAWBA COUNTY * | 3700500325B | 01-MAY-2002 | 02-04-5130A | 02
04 | NC | CATAWBA COUNTY * | 3700500325B | 15-MAY-2002 | 02-04-4568A | 02
04 | NC | CATAWBA COUNTY * | 3700500135B | 15-MAY-2002 | 02-04-5320A | 02
04 | NC | CATAWBA COUNTY * | 3700500325B | 17-MAY-2002 | 02-04-5564A | 02
04 | NC | CATAWBA COUNTY * | 3700500325B | 17-MAY-2002 | 02-04-5722A | 02
04 | NC | CATAWBA COUNTY * | 3700500030C | 24-MAY-2002 | 02-04-4898A | 02
04 | NC | CATAWBA COUNTY * | 3700500325B | 29-MAY-2002 | 02-04-4896A | 02
04 | NC | CATAWBA COUNTY * | 3700500325B | 31-MAY-2002 | 02-04-5766A | 02
04 | NC | CATAWBA COUNTY * | 3700500350C | 05-JUN-2002 | 02-04-6156A | 02
04 | NC | CATAWBA COUNTY * | 3700500325B | 21-JUN-2002 | 02-04-6552A | 02
04 | NC | CATAWBA COUNTY * | 3700500350C | 28-JUN-2002 | 02-04-4718A | 02
04 | NC | CHARLOTTE, CITY OF | 3701590020B | 06-FEB-2002 | 02-04-2430A | 01
04 | NC | CHARLOTTE, CITY OF | 3701580140C | 08-FEB-2002 | 02-04-2552A | 02
04 | NC | CHARLOTTE, CITY OF | 3701590028B | 01-MAR-2002 | 02-04-1516A | 02
04 | NC | CHARLOTTE, CITY OF | 3701590024B | 01-MAY-2002 | 02-04-4502A | 02
04 | NC | CHARLOTTE, CITY OF | 3701580190B | 05-JUN-2002 | 02-04-5038A | 02
04 | NC | CLEVELAND COUNTY* | 3703020200B | 27-MAR-2002 | 02-04-2084A | 02
04 | NC | CLEVELAND COUNTY* | 3703020100B | 27-MAR-2002 | 02-04-3536A | 02
04 | NC | CLEVELAND COUNTY* | 3703020325B | 10-JUN-2002 | 02-04-2286A | 02
04 | NC | CONCORD, CITY OF | 37025C0115D | 15-FEB-2002 | 02-04-2894A | 02
04 | NC | CONCORD, CITY OF | 37025C0080D | 05-JUN-2002 | 02-04-5906A | 02
04 | NC | CORNELIUS, TOWN OF | 3704980005A | 09-JAN-2002 | 02-04-1756A | 02
04 | NC | CORNELIUS, TOWN OF | 3704980005A | 01-FEB-2002 | 02-04-2378A | 02
04 | NC | CORNELIUS, TOWN OF | 3704980005A | 20-FEB-2002 | 02-04-1096A | 02
04 | NC | CORNELIUS, TOWN OF | 3704980005A | 13-MAR-2002 | 02-04-3408A | 02
04 | NC | CORNELIUS, TOWN OF | 3704980005A | 20-MAR-2002 | 02-04-3376A | 02
04 | NC | CORNELIUS, TOWN OF | 3704980005A | 20-MAR-2002 | 02-04-3534A | 02
04 | NC | CORNELIUS, TOWN OF | 3704980005A | 27-MAR-2002 | 02-04-4170A | 02
04 | NC | CORNELIUS, TOWN OF | 3704980005A | 17-APR-2002 | 02-04-3598A | 01
04 | NC | CORNELIUS, TOWN OF | 3704980005A | 17-APR-2002 | 02-04-3992A | 02
04 | NC | CORNELIUS, TOWN OF | 3704980005A | 17-APR-2002 | 02-04-4396A | 02
04 | NC | CORNELIUS, TOWN OF | 3704980005A | 26-APR-2002 | 02-04-4960A | 02
04 | NC | CORNELIUS, TOWN OF | 3704980005A | 01-MAY-2002 | 02-04-4516A | 02
04 | NC | CORNELIUS, TOWN OF | 3704980005A | 31-MAY-2002 | 02-04-5928A | 02
04 | NC | CORNELIUS, TOWN OF | 3704980005A | 10-JUN-2002 | 02-04-6240A | 02
04 | NC | CRAVEN COUNTY* | 3700720305B | 04-JAN-2002 | 02-04-0330A | 02
04 | NC | CRAVEN COUNTY* | 3700720330B | 11-JAN-2002 | 02-04-1586A | 02
04 | NC | CRAVEN COUNTY* | 3700720420B | 27-MAR-2002 | 02-04-2694A | 02
04 | NC | CUMBERLAND COUNTY * | 3700760115B | 11-JAN-2002 | 02-04-0376A | 02
04 | NC | CUMBERLAND COUNTY * | 3700760035C | 01-FEB-2002 | 02-04-1310A | 02
04 | NC | CURRITUCK COUNTY * | 3700780214E | 27-FEB-2002 | 02-04-2592A | 02
04 | NC | CURRITUCK COUNTY * | 3700780094C | 12-APR-2002 | 02-04-3698A | 02
04 | NC | DARE COUNTY* | 3753480220C | 03-APR-2002 | 02-04-3990A | 02
04 | NC | DARE COUNTY* | 3753480113D | 05-JUN-2002 | 02-04-5378A | 02
04 | NC | DAVIDSON COUNTY * | 37057C0325D | 09-JAN-2002 | 02-04-1858A | 02
04 | NC | DAVIDSON COUNTY * | 37057C0325D | 11-JAN-2002 | 02-04-1662A | 02
04 | NC | DAVIDSON COUNTY * | 37057C0325D | 16-JAN-2002 | 02-04-1908A | 02
04 | NC | DAVIDSON COUNTY * | 37057C0325D | 23-JAN-2002 | 02-04-2076A | 02
04 | NC | DAVIDSON COUNTY * | 37057C0325D | 23-JAN-2002 | 02-04-2140A | 02
04 | NC | DAVIDSON COUNTY * | 37057C0325D | 30-JAN-2002 | 02-04-2308A | 02
04 | NC | DAVIDSON COUNTY * | 37057C0285D | 30-JAN-2002 | 02-04-2426A | 02
04 | NC | DAVIDSON COUNTY * | 37057C0325D | 01-FEB-2002 | 02-04-2352A | 02
04 | NC | DAVIDSON COUNTY * | 37057C0285D | 06-FEB-2002 | 02-04-2478A | 02
04 | NC | DAVIDSON COUNTY * | 37057C0325D | 01-MAR-2002 | 02-04-3312A | 02
04 | NC | DAVIDSON COUNTY * | 37057C0285D | 06-MAR-2002 | 02-04-3378A | 02
04 | NC | DAVIDSON COUNTY * | 37057C0300D | 13-MAR-2002 | 02-04-3370A | 02
04 | NC | DAVIDSON COUNTY * | 37057C0285D | 13-MAR-2002 | 02-04-3372A | 02
04 | NC | DAVIDSON COUNTY * | 37057C0400D | 27-MAR-2002 | 02-04-3692A | 02
04 | NC | DAVIDSON COUNTY * | 37057C0375D | 03-APR-2002 | 02-04-4114A | 02
04 | NC | DAVIDSON COUNTY * | 37057C0285D | 10-APR-2002 | 02-04-4230A | 02
04 | NC | DAVIDSON COUNTY * | 37057C0325D | 17-APR-2002 | 02-04-4172A | 02
04 | NC | DAVIDSON COUNTY * | 37057C0325D | 17-APR-2002 | 02-04-4348A | 02
04 | NC | DAVIDSON COUNTY * | 37057C0325D | 17-APR-2002 | 02-04-4804X | 02
04 | NC | DAVIDSON, TOWN OF | 3705030005A | 01-MAY-2002 | 02-04-3132A | 02
04 | NC | DUPLIN COUNTY * | 3700830200B | 11-JAN-2002 | 02-04-1608A | 02
04 | NC | DUPLIN COUNTY * | 3700830175B | 11-JAN-2002 | 02-04-1610A | 02
04 | NC | DUPLIN COUNTY * | 3700830100B | 11-JAN-2002 | 02-04-1812A | 02
04 | NC | DUPLIN COUNTY * | 3700830175B | 15-MAY-2002 | 02-04-4538A | 02
04 | NC | DUPLIN COUNTY * | 3700830200B | 15-MAY-2002 | 02-04-4538A | 02
04 | NC | DURHAM COUNTY * | 37063C0020G | 01-MAR-2002 | 02-04-1226A | 02
04 | NC | DURHAM, CITY OF | 37063C0177G | 30-JAN-2002 | 01-04-3800A | 01
04 | NC | DURHAM, CITY OF | 37063C0177G | 22-FEB-2002 | 02-04-3228A | 01
04 | NC | DURHAM, CITY OF | 37063C0177G | 26-APR-2002 | 02-04-4062A | 02
04 | NC | DURHAM, CITY OF | 37063C0069G | 01-MAY-2002 | 02-04-4358A | 02
04 | NC | DURHAM, CITY OF | 37063C0168G | 22-MAY-2002 | 02-04-4408A | 02
04 | NC | DURHAM, CITY OF | 37063C0069G | 14-JUN-2002 | 02-04-6154A | 02
04 | NC | EDGECOMBE COUNTY * | 3700870060B | 31-MAY-2002 | 02-04-2676A | 02
04 | NC | EMERALD ISLE, TOWN OF | 3700470002D | 26-APR-2002 | 02-04-3734A | 02
04 | NC | EMERALD ISLE, TOWN OF | 3700470004D | 03-MAY-2002 | 02-04-3798A | 18
04 | NC | FAYETTEVILLE, CITY OF | 3700770014C | 16-JAN-2002 | 02-04-1540A | 02
04 | NC | FLETCHER, TOWN OF | 3701250020B | 29-MAR-2002 | 02-04-4110A | 02
04 | NC | FLETCHER, TOWN OF | 3701250020B | 30-MAY-2002 | 02-04-3140A | 01
04 | NC | FORSYTH COUNTY * | 37067C0244H | 22-MAR-2002 | 02-04-3252A | 02
04 | NC | FORSYTH COUNTY * | 37067C0251H | 19-APR-2002 | 02-04-1916A | 02
04 | NC | FORSYTH COUNTY * | 37067C0268H | 28-JUN-2002 | 02-04-1544A | 01
04 | NC | FRANKLIN COUNTY* | 37069C0355D | 17-MAY-2002 | 02-04-5558A | 02
04 | NC | FRANKLIN COUNTY* | 37069C0355D | 28-JUN-2002 | 02-04-5830A | 02
04 | NC | GASTON COUNTY * | 3700990305B | 13-MAR-2002 | 02-04-3258A | 02
04 | NC | GATES COUNTY * | 3701030100B | 10-APR-2002 | 02-04-3776A | 02
04 | NC | GREENVILLE, CITY OF | 3701910010B | 16-JAN-2002 | 02-04-1912A | 02
04 | NC | GREENVILLE, CITY OF | 3701910010B | 28-JUN-2002 | 02-04-4242A | 01
04 | NC | GREENVILLE, CITY OF | 3701910010B | 28-JUN-2002 | 02-04-4244A | 01
04 | NC | GUILFORD COUNTY * | 3701110177C | 01-MAR-2002 | 02-04-2740A | 02
04 | NC | HALIFAX COUNTY * | 3703270005B | 03-APR-2002 | 02-04-3922A | 02
04 | NC | HARNETT COUNTY * | 37085C0150D | 12-JUN-2002 | 02-04-6082A | 02
04 | NC | HAYWOOD COUNTY* | 370120180C | 13-FEB-2002 | 02-04-2688A | 02
04 | NC | HENDERSON, CITY OF | 370367A | 24-MAY-2002 | 02-04-5832A | 02
04 | NC | HICKORY, CITY OF | 3700540005B | 25-JAN-2002 | 02-04-2104A | 02
04 | NC | HICKORY, CITY OF | 3700540010B | 01-MAY-2002 | 02-04-4064A | 02
04 | NC | HICKORY, CITY OF | 3700540005B | 01-MAY-2002 | 02-04-4720A | 02
04 | NC | HUDSON, TOWN OF | 37027C0085E | 29-MAY-2002 | 02-04-3988A | 02
04 | NC | IREDELL COUNTY * | 3703130100C | 13-MAR-2002 | 02-04-3476A | 02
04 | NC | IREDELL COUNTY * | 3703130200C | 29-MAY-2002 | 02-04-5374A | 02
04 | NC | JACKSONVILLE, CITY OF | 3701780005B | 05-APR-2002 | 02-04-3822A | 02
04 | NC | JOHNSTON COUNTY * | 37101C0265D | 13-FEB-2002 | 02-04-1612A | 02
04 | NC | JOHNSTON COUNTY * | 37101C0495D | 15-FEB-2002 | 02-04-1690A | 02
04 | NC | JOHNSTON COUNTY * | 37101C0140D | 13-MAR-2002 | 02-04-2004A | 02
04 | NC | KINSTON, CITY OF | 3701450015C | 20-MAR-2002 | 02-04-3084A | 01
04 | NC | LENOIR, CITY OF | 37027C0076D | 11-JAN-2002 | 02-04-1422A | 02
04 | NC | LINCOLN COUNTY * | 3701460150C | 13-FEB-2002 | 02-04-2248A | 02
04 | NC | LONG BEACH, TOWN OF | 3753540003D | 24-MAY-2002 | 02-04-5016A | 02
04 | NC | LUMBERTON, CITY OF | 37155C0178D | 13-MAR-2002 | 02-04-3368A | 02
04 | NC | MEBANE, TOWN OF | 37001C0132E | 13-MAR-2002 | 01-04-6990A | 01
04 | NC | MECKLENBURG COUNTY * | 3701580015D | 15-FEB-2002 | 02-04-2896A | 02
04 | NC | MECKLENBURG COUNTY * | 3701580015D | 20-FEB-2002 | 02-04-2976A | 02
04 | NC | MECKLENBURG COUNTY * | 3701580140C | 22-MAR-2002 | 02-04-3068A | 02
04 | NC | MECKLENBURG COUNTY * | 3701580170C | 24-APR-2002 | 02-04-3130A | 02
04 | NC | MECKLENBURG COUNTY * | 3701580190B | 26-APR-2002 | 02-04-4862A | 02
04 | NC | MECKLENBURG COUNTY * | 3701580205B | 26-JUN-2002 | 02-04-4072A | 01
04 | NC | MINT HILL, TOWN OF | 3701580165B | 03-APR-2002 | 02-04-3052A | 02
04 | NC | MONTGOMERY COUNTY* | 3703360025B | 04-JAN-2002 | 02-04-1664A | 02
04 | NC | MONTGOMERY COUNTY* | 3703360055B | 16-JAN-2002 | 02-04-1754A | 02
04 | NC | MONTGOMERY COUNTY* | 3703360025B | 16-JAN-2002 | 02-04-2136A | 02
04 | NC | MONTGOMERY COUNTY* | 3703360065B | 25-JAN-2002 | 02-04-1514A | 02
04 | NC | MONTGOMERY COUNTY* | 3703360055B | 13-FEB-2002 | 02-04-2686A | 02
04 | NC | MONTGOMERY COUNTY* | 3703360065B | 11-MAR-2002 | 02-04-3314A | 02
04 | NC | MONTGOMERY COUNTY* | 3703360025B | 27-MAR-2002 | 02-04-3924A | 02
04 | NC | MONTGOMERY COUNTY* | 3703360025B | 24-APR-2002 | 02-04-4652A | 02
04 | NC | MONTGOMERY COUNTY* | 3703360025B | 15-MAY-2002 | 02-04-5122A | 02
04 | NC | MONTGOMERY COUNTY* | 3703360025B | 22-MAY-2002 | 02-04-5680A | 02
04 | NC | MONTGOMERY COUNTY* | 3703360025B | 29-MAY-2002 | 02-04-5566A | 02
04 | NC | MONTGOMERY COUNTY* | 3703360025B | 31-MAY-2002 | 02-04-5242A | 02
04 | NC | MONTGOMERY COUNTY* | 3703360025B | 12-JUN-2002 | 02-04-5274A | 02
04 | NC | MONTGOMERY COUNTY* | 3703360025B | 12-JUN-2002 | 02-04-5276A | 02
04 | NC | MONTGOMERY COUNTY* | 3703360025B | 21-JUN-2002 | 02-04-6398A | 02
04 | NC | MONTGOMERY COUNTY* | 3703360065B | 26-JUN-2002 | 02-04-6728A | 02
04 | NC | NEW BERN, CITY OF | 3700720320B | 08-MAY-2002 | 02-04-4540A | 02
04 | NC | NEW BERN, CITY OF | 3700720320B | 17-MAY-2002 | 02-04-4802A | 01
04 | NC | NEW HANOVER COUNTY* | 3701680090E | 20-MAR-2002 | 02-04-3538A | 02
04 | NC | NEW HANOVER COUNTY* | 3701680090E | 22-MAY-2002 | 02-04-5560A | 02
04 | NC | NEW HANOVER COUNTY* | 3701680045E | 31-MAY-2002 | 02-04-5630A | 02
04 | NC | NEW HANOVER COUNTY* | 3701680045E | 05-JUN-2002 | 02-04-4440A | 02
04 | NC | NEW HANOVER COUNTY* | 3701680085E | 05-JUN-2002 | 02-04-5446A | 01
04 | NC | NEW HANOVER COUNTY* | 3701680090E | 28-JUN-2002 | 02-04-6908A | 02
04 | NC | OCEAN ISLE BEACH, TOWN OF | 3753570003C | 22-MAR-2002 | 02-04-3128A | 02
04 | NC | ONSLOW COUNTY* | 3703400367D | 01-FEB-2002 | 02-04-1778A | 02
04 | NC | ONSLOW COUNTY* | 3703400040C | 22-MAR-2002 | 02-04-2946A | 02
04 | NC | ONSLOW COUNTY* | 3703400305C | 24-MAY-2002 | 02-04-2922A | 02
04 | NC | PENDER COUNTY* | 3703440394B | 09-JAN-2002 | 02-04-1334A | 02
04 | NC | PENDER COUNTY* | 3703440180B | 09-JAN-2002 | 02-04-1614A | 02
04 | NC | PENDER COUNTY* | 3703440394B | 16-JAN-2002 | 02-04-1550A | 02
04 | NC | PENDER COUNTY* | 3703440394B | 25-JAN-2002 | 02-04-1584A | 02
04 | NC | PENDER COUNTY* | 3703440394B | 20-FEB-2002 | 02-04-3040A | 02
04 | NC | PENDER COUNTY* | 3703440529D | 20-FEB-2002 | 02-04-3042A | 02
04 | NC | PENDER COUNTY* | 3703440412B | 05-APR-2002 | 02-04-3986A | 02
04 | NC | PENDER COUNTY* | 3703440285B | 01-MAY-2002 | 02-04-3276A | 02
04 | NC | PENDER COUNTY* | 3703440305B | 01-MAY-2002 | 02-04-3276A | 02
04 | NC | PENDER COUNTY* | 3703440393B | 15-MAY-2002 | 02-04-4236A | 02
04 | NC | PENDER COUNTY* | 3703440055B | 31-MAY-2002 | 02-04-5786A | 02
04 | NC | PENDER COUNTY* | 3703440411B | 12-JUN-2002 | 02-04-1420A | 02
04 | NC | PENDER COUNTY* | 3703440425B | 12-JUN-2002 | 02-04-1420A | 02
04 | NC | PENDER COUNTY* | 3703440394B | 26-JUN-2002 | 02-04-6730A | 02
04 | NC | PERQUIMANS COUNTY* | 3703150210B | 16-JAN-2002 | 02-04-1914A | 02
04 | NC | PERSON COUNTY* | 37145C0100B | 25-JAN-2002 | 02-04-1600A | 02
04 | NC | PINEVILLE, TOWN OF | 3701600005B | 14-JUN-2002 | 02-04-5444A | 01
04 | NC | PITT COUNTY * | 3703720360B | 14-JUN-2002 | 02-04-5322A | 02
04 | NC | POLK COUNTY* | 3701940004B | 11-MAR-2002 | 02-04-0306A | 02
04 | NC | RALEIGH, CITY OF | 37183C0341E | 04-JAN-2002 | 01-04-5346A | 02
04 | NC | RALEIGH, CITY OF | 37183C0170E | 30-JAN-2002 | 02-04-1834A | 01
04 | NC | ROCKINGHAM COUNTY* | 3703500050B | 25-JAN-2002 | 02-04-2138A | 02
04 | NC | ROCKY MOUNT, CITY OF | 3700920007C | 08-FEB-2002 | 02-04-2582A | 02
04 | NC | ROCKY MOUNT, CITY OF | 3700920007C | 10-APR-2002 | 02-04-3406A | 02
04 | NC | ROCKY MOUNT, CITY OF | 3700920004C | 12-APR-2002 | 02-04-3696A | 01
04 | NC | ROCKY MOUNT, CITY OF | 3700920005C | 03-MAY-2002 | 01-04-489P | 05
04 | NC | ROCKY MOUNT, CITY OF | 3700920004C | 05-JUN-2002 | 02-04-4930A | 01
04 | NC | ROWAN COUNTY * | 3703510150B | 15-MAY-2002 | 02-04-5120A | 02
04 | NC | STANLY COUNTY * | 37167C0050D | 04-JAN-2002 | 02-04-1666A | 02
04 | NC | STANLY COUNTY * | 37167C0075D | 16-JAN-2002 | 02-04-1542A | 02
04 | NC | STANLY COUNTY * | 37167C0175D | 25-JAN-2002 | 02-04-2142A | 02
04 | NC | STANLY COUNTY * | 37167C0050D | 05-APR-2002 | 02-04-3142A | 02
04 | NC | STANLY COUNTY * | 37167C0075D | 15-MAY-2002 | 02-04-4668A | 02
04 | NC | STANLY COUNTY * | 37167C0075D | 15-MAY-2002 | 02-04-5324A | 02
04 | NC | STANLY COUNTY * | 37167C0175D | 22-MAY-2002 | 02-04-5770A | 02
04 | NC | STATESVILLE, CITY OF | 3701350003A | 05-JUN-2002 | 02-04-5880A | 02
04 | NC | SUNSET BEACH, TOWN OF | 3753590002D | 28-JUN-2002 | 02-04-6548A | 02
04 | NC | TRENT WOODS, TOWN OF | 3704340001B | 01-MAY-2002 | 02-04-4356A | 02
04 | NC | UNION COUNTY * | 37179C0015D | 01-FEB-2002 | 02-04-1718A | 01
04 | NC | WAKE COUNTY * | 37183C0370F | 13-FEB-2002 | 02-04-1232A | 02
04 | NC | WAKE COUNTY * | 37183C0165E | 06-MAR-2002 | 02-04-2304A | 17
04 | NC | WAKE COUNTY * | 37183C0580F | 19-APR-2002 | 02-04-3690A | 02
04 | NC | WAKE FOREST, TOWN OF | 37183C0176E | 02-MAY-2002 | 01-04-443P | 05
04 | NC | WAKE FOREST, TOWN OF | 37183C0177E | 02-MAY-2002 | 01-04-443P | 05
04 | NC | WARREN COUNTY* | 3703960002C | 16-JAN-2002 | 02-04-1910A | 02
04 | NC | WARREN COUNTY* | 3703960002C | 23-JAN-2002 | 02-04-1780A | 02
04 | NC | WARREN COUNTY* | 3703960002C | 23-JAN-2002 | 02-04-2238A | 02
04 | NC | WARREN COUNTY* | 3703960002C | 25-JAN-2002 | 02-04-1888A | 02
04 | NC | WARREN COUNTY* | 3703960002C | 30-JAN-2002 | 02-04-2246A | 02
04 | NC | WARREN COUNTY* | 3703960002C | 01-FEB-2002 | 02-04-1872A | 02
04 | NC | WARREN COUNTY* | 3703960002C | 06-FEB-2002 | 02-04-2526A | 02
04 | NC | WARREN COUNTY* | 3703960002C | 08-FEB-2002 | 02-04-2164A | 02
04 | NC | WARREN COUNTY* | 3703960002C | 13-FEB-2002 | 02-04-2428A | 02
04 | NC | WARREN COUNTY* | 3703960002C | 13-FEB-2002 | 02-04-2724A | 02
04 | NC | WARREN COUNTY* | 3703960002C | 15-FEB-2002 | 02-04-2744A | 02
04 | NC | WARREN COUNTY* | 3703960002C | 15-FEB-2002 | 02-04-2926A | 02
04 | NC | WARREN COUNTY* | 3703960002C | 20-FEB-2002 | 02-04-2374A | 02
04 | NC | WARREN COUNTY* | 3703960002C | 20-FEB-2002 | 02-04-3022A | 02
04 | NC | WARREN COUNTY* | 3703960002C | 20-FEB-2002 | 02-04-3024A | 02
04 | NC | WARREN COUNTY* | 3703960002C | 27-FEB-2002 | 02-04-2696A | 02
04 | NC | WARREN COUNTY* | 3703960002C | 27-FEB-2002 | 02-04-3072A | 02
04 | NC | WARREN COUNTY* | 3703960002C | 01-MAR-2002 | 02-04-3248A | 02
04 | NC | WARREN COUNTY* | 3703960002C | 06-MAR-2002 | 02-04-3136A | 02
04 | NC | WARREN COUNTY* | 3703960002C | 11-MAR-2002 | 02-04-1710A | 02
04 | NC | WARREN COUNTY* | 3703960002C | 11-MAR-2002 | 02-04-2306A | 02
04 | NC | WARREN COUNTY* | 3703960002C | 11-MAR-2002 | 02-04-3196A | 02
04 | NC | WARREN COUNTY* | 3703960002C | 13-MAR-2002 | 02-04-2726A | 02
04 | NC | WARREN COUNTY* | 3703960002C | 13-MAR-2002 | 02-04-3018A | 02
04 | NC | WARREN COUNTY* | 3703960002C | 13-MAR-2002 | 02-04-3134A | 02
04 | NC | WARREN COUNTY* | 3703960002C | 13-MAR-2002 | 02-04-3250A | 02
04 | NC | WARREN COUNTY* | 3703960002C | 13-MAR-2002 | 02-04-3300A | 02
04 | NC | WARREN COUNTY* | 3703960002C | 13-MAR-2002 | 02-04-3484A | 02
04 | NC | WARREN COUNTY* | 3703960002C | 13-MAR-2002 | 02-04-3490A | 02
04 | NC | WARREN COUNTY* | 3703960002C | 22-MAR-2002 | 02-04-3732A | 02
04 | NC | WARREN COUNTY* | 3703960002C | 22-MAR-2002 | 02-04-3926A | 02
04 | NC | WARREN COUNTY* | 3703960002C | 27-MAR-2002 | 02-04-2064A | 02
04 | NC | WARREN COUNTY* | 3703960002C | 27-MAR-2002 | 02-04-3482A | 02
04 | NC | WARREN COUNTY* | 3703960002C | 27-MAR-2002 | 02-04-3984A | 02
04 | NC | WARREN COUNTY* | 3703960002C | 29-MAR-2002 | 02-04-3432A | 02
04 | NC | WARREN COUNTY* | 3703960002C | 29-MAR-2002 | 02-04-4022A | 02
04 | NC | WARREN COUNTY* | 3703960002C | 29-MAR-2002 | 02-04-4070A | 02
04 | NC | WARREN COUNTY* | 3703960002C | 29-MAR-2002 | 02-04-4086A | 02
04 | NC | WARREN COUNTY* | 3703960002C | 03-APR-2002 | 02-04-4066A | 02
04 | NC | WARREN COUNTY* | 3703960002C | 03-APR-2002 | 02-04-4118A | 02
04 | NC | WARREN COUNTY* | 3703960002C | 03-APR-2002 | 02-04-4508A | 02
04 | NC | WARREN COUNTY* | 3703960002C | 03-APR-2002 | 02-04-4510A | 02
04 | NC | WARREN COUNTY* | 3703960002C | 05-APR-2002 | 02-04-3478A | 02
04 | NC | WARREN COUNTY* | 3703960002C | 05-APR-2002 | 02-04-3982A | 02
04 | NC | WARREN COUNTY* | 3703960002C | 05-APR-2002 | 02-04-4068A | 02
04 | NC | WARREN COUNTY* | 3703960002C | 05-APR-2002 | 02-04-4176A | 02
04 | NC | WARREN COUNTY* | 3703960002C | 05-APR-2002 | 02-04-4354A | 02
04 | NC | WARREN COUNTY* | 3703960002C | 10-APR-2002 | 02-04-3694A | 02
04 | NC | WARREN COUNTY* | 3703960002C | 10-APR-2002 | 02-04-4232A | 02
04 | NC | WARREN COUNTY* | 3703960002C | 10-APR-2002 | 02-04-4400A | 02
04 | NC | WARREN COUNTY* | 3703960002C | 10-APR-2002 | 02-04-4402A | 02
04 | NC | WARREN COUNTY* | 3703960002C | 10-APR-2002 | 02-04-4506A | 02
04 | NC | WARREN COUNTY* | 3703960002C | 12-APR-2002 | 02-04-2994A | 02
04 | NC | WARREN COUNTY* | 3703960002C | 12-APR-2002 | 02-04-3016A | 02
04 | NC | WARREN COUNTY* | 3703960002C | 12-APR-2002 | 02-04-3898A | 02
04 | NC | WARREN COUNTY* | 3703960002C | 17-APR-2002 | 02-04-0452A | 02
04 | NC | WARREN COUNTY* | 3703960002C | 17-APR-2002 | 02-04-4712A | 02
04 | NC | WARREN COUNTY* | 3703960002C | 17-APR-2002 | 02-04-4716A | 02
04 | NC | WARREN COUNTY* | 3703960002C | 19-APR-2002 | 02-04-3774A | 02
04 | NC | WARREN COUNTY* | 3703960002C | 19-APR-2002 | 02-04-4008A | 02
04 | NC | WARREN COUNTY* | 3703960002C | 26-APR-2002 | 02-04-4178A | 02
04 | NC | WARREN COUNTY* | 3703960002C | 26-APR-2002 | 02-04-4512A | 02
04 | NC | WARREN COUNTY* | 3703960002C | 01-MAY-2002 | 02-04-4900A | 02
04 | NC | WARREN COUNTY* | 3703960002C | 01-MAY-2002 | 02-04-4956A | 02
04 | NC | WARREN COUNTY* | 3703960002C | 01-MAY-2002 | 02-04-5116A | 02
04 | NC | WARREN COUNTY* | 3703960002C | 01-MAY-2002 | 02-04-5118A | 02
04 | NC | WARREN COUNTY* | 3703960002C | 01-MAY-2002 | 02-04-5174A | 02
04 | NC | WARREN COUNTY* | 3703960002C | 08-MAY-2002 | 02-04-4350A | 02
04 | NC | WARREN COUNTY* | 3703960002C | 15-MAY-2002 | 02-04-4514A | 02
04 | NC | WARREN COUNTY* | 3703960002C | 15-MAY-2002 | 02-04-4632A | 02
04 | NC | WARREN COUNTY* | 3703960002C | 15-MAY-2002 | 02-04-5034A | 02
04 | NC | WARREN COUNTY* | 3703960002C | 15-MAY-2002 | 02-04-5226A | 02
04 | NC | WARREN COUNTY* | 3703960002C | 17-MAY-2002 | 02-04-4902A | 02
04 | NC | WARREN COUNTY* | 3703960002C | 17-MAY-2002 | 02-04-5494A | 02
04 | NC | WARREN COUNTY* | 3703960002C | 22-MAY-2002 | 02-04-3480A | 02
04 | NC | WARREN COUNTY* | 3703960002C | 22-MAY-2002 | 02-04-5554A | 02
04 | NC | WARREN COUNTY* | 3703960002C | 29-MAY-2002 | 02-04-4714A | 02
04 | NC | WARREN COUNTY* | 3703960002C | 29-MAY-2002 | 02-04-5556A | 02
04 | NC | WARREN COUNTY* | 3703960002C | 31-MAY-2002 | 02-04-3730A | 02
04 | NC | WARREN COUNTY* | 3703960002C | 31-MAY-2002 | 02-04-4666A | 02
04 | NC | WARREN COUNTY* | 3703960002C | 31-MAY-2002 | 02-04-5420A | 02
04 | NC | WARREN COUNTY* | 3703960002C | 31-MAY-2002 | 02-04-5626A | 02
04 | NC | WARREN COUNTY* | 3703960002C | 31-MAY-2002 | 02-04-5760A | 02
04 | NC | WARREN COUNTY* | 3703960002C | 31-MAY-2002 | 02-04-5834A | 02
04 | NC | WARREN COUNTY* | 3703960002C | 05-JUN-2002 | 02-04-4006A | 02
04 | NC | WARREN COUNTY* | 3703960002C | 05-JUN-2002 | 02-04-5932A | 02
04 | NC | WARREN COUNTY* | 3703960002C | 05-JUN-2002 | 02-04-6078A | 02
04 | NC | WARREN COUNTY* | 3703960002C | 14-JUN-2002 | 02-04-5492A | 02
04 | NC | WARREN COUNTY* | 3703960002C | 14-JUN-2002 | 02-04-5678A | 02
04 | NC | WARREN COUNTY* | 3703960002C | 14-JUN-2002 | 02-04-5720A | 02
04 | NC | WARREN COUNTY* | 3703960002C | 14-JUN-2002 | 02-04-5764A | 02
04 | NC | WARREN COUNTY* | 3703960002C | 19-JUN-2002 | 02-04-6152A | 02
04 | NC | WARREN COUNTY* | 3703960002C | 21-JUN-2002 | 02-04-6288A | 02
04 | NC | WARREN COUNTY* | 3703960002C | 21-JUN-2002 | 02-04-6342A | 02
04 | NC | WARREN COUNTY* | 3703960002C | 21-JUN-2002 | 02-04-6606A | 02
04 | NC | WARREN COUNTY* | 3703960002C | 26-JUN-2002 | 02-04-6008A | 02
04 | NC | WARREN COUNTY* | 3703960002C | 26-JUN-2002 | 02-04-6076A | 02
04 | NC | WARREN COUNTY* | 3703960002C | 26-JUN-2002 | 02-04-6360A | 02
04 | NC | WARREN COUNTY* | 3703960002C | 28-JUN-2002 | 02-04-6010A | 02
04 | NC | WARREN COUNTY* | 3703960002C | 28-JUN-2002 | 02-04-6692A | 02
04 | NC | WATAUGA COUNTY * | 37189C0194E | 22-MAY-2002 | 02-04-5126A | 01
04 | NC | WILMINGTON, CITY OF | 3701710010B | 27-MAR-2002 | 02-04-3126A | 02
04 | NC | WILSON, CITY OF | 3702700005B | 23-JAN-2002 | 02-04-1424A | 02
04 | NC | WINDSOR, TOWN OF | 3700190001C | 06-FEB-2002 | 02-04-1188A | 02
04 | NC | WINSTON-SALEM, CITY OF | 37067C0276H | 11-APR-2002 | 02-04-169P | 05
04 | NC | WINSTON-SALEM, CITY OF | 37067C0278H | 11-APR-2002 | 02-04-169P | 05
04 | SC | AIKEN COUNTY* | 4500020010C | 16-JAN-2002 | 02-04-0640A | 02
04 | SC | ANDERSON COUNTY * | 4500130230B | 11-MAR-2002 | 02-04-0370A | 02
04 | SC | ANDERSON COUNTY * | 4500130140B | 17-MAY-2002 | 02-04-4290A | 02
04 | SC | ARCADIA LAKES, TOWN OF | 45079C0111G | 17-MAY-2002 | 02-04-2974A | 02
04 | SC | BERKELEY COUNTY * | 4500290290C | 29-MAR-2002 | 02-04-2972A | 02
04 | SC | BERKELEY COUNTY * | 4500290290C | 19-JUN-2002 | 02-04-6088A | 02
04 | SC | CHARLESTON COUNTY* | 4554130430F | 17-APR-2002 | 02-04-4702A | 02
04 | SC | CHARLESTON, CITY OF | 4554120023D | 11-MAR-2002 | 02-04-2996A | 02
04 | SC | CLARENDON COUNTY * | 4500510225B | 08-FEB-2002 | 02-04-2444A | 02
04 | SC | CLARENDON COUNTY * | 4500510225B | 12-JUN-2002 | 02-04-5454A | 02
04 | SC | COLUMBIA, CITY OF | 45079C0179G | 20-FEB-2002 | 01-04-6482A | 01
04 | SC | COLUMBIA, CITY OF | 45079C0091H | 21-FEB-2002 | 02-04-3158V | 19
04 | SC | COLUMBIA, CITY OF | 45079C0092H | 21-FEB-2002 | 02-04-3158V | 19
04 | SC | COLUMBIA, CITY OF | 45079C0094H | 21-FEB-2002 | 02-04-3158V | 19
04 | SC | COLUMBIA, CITY OF | 45079C0178H | 21-FEB-2002 | 02-04-3158V | 19
04 | SC | COLUMBIA, CITY OF | 45079C0178H | 01-MAR-2002 | 02-04-2372A | 01
04 | SC | COLUMBIA, CITY OF | 45079C0176G | 13-MAR-2002 | 02-04-3280A | 02
04 | SC | COLUMBIA, CITY OF | 45079C0094H | 05-APR-2002 | 02-04-3046A | 02
04 | SC | COLUMBIA, CITY OF | 45079C0178H | 05-JUN-2002 | 02-04-5794A | 02
04 | SC | FAIRFIELD COUNTY * | 4500750135B | 22-FEB-2002 | 02-04-3062A | 02
04 | SC | FLORENCE COUNTY * | 4500760020B | 03-MAY-2002 | 02-04-2790A | 02
04 | SC | FLORENCE COUNTY * | 4500760085B | 15-MAY-2002 | 02-04-4128A | 17
04 | SC | FORT MILL, TOWN OF | 4501930130D | 01-FEB-2002 | 01-04-5944A | 01
04 | SC | GOOSE CREEK, CITY OF | 4500290290C | 05-JUN-2002 | 02-04-3150A | 02
04 | SC | GREENVILLE COUNTY * | 4500890165B | 15-MAY-2002 | 02-04-4214A | 02
04 | SC | GREENVILLE COUNTY * | 4500890210B | 22-MAY-2002 | 02-04-5450A | 02
04 | SC | GREENWOOD COUNTY* | 4500940150B | 22-MAR-2002 | 02-04-3664A | 02
04 | SC | GREENWOOD COUNTY* | 4500940150B | 29-MAR-2002 | 02-04-3894A | 02
04 | SC | GREENWOOD COUNTY* | 4500940150B | 03-APR-2002 | 02-04-3782A | 02
04 | SC | GREENWOOD COUNTY* | 4500940150B | 10-APR-2002 | 02-04-3932A | 02
04 | SC | GREENWOOD COUNTY* | 4500940150B | 17-APR-2002 | 02-04-4640A | 02
04 | SC | GREENWOOD COUNTY* | 4500940150B | 26-APR-2002 | 02-04-4280A | 02
04 | SC | GREENWOOD COUNTY* | 4500940150B | 01-MAY-2002 | 02-04-4444A | 02
04 | SC | GREENWOOD COUNTY* | 4500940150B | 01-MAY-2002 | 02-04-4446A | 02
04 | SC | GREENWOOD COUNTY* | 4500940150B | 03-MAY-2002 | 02-04-4470A | 02
04 | SC | GREENWOOD COUNTY* | 4500940150B | 03-MAY-2002 | 02-04-4554A | 02
04 | SC | GREENWOOD COUNTY* | 4500940150B | 03-MAY-2002 | 02-04-4556A | 02
04 | SC | GREENWOOD COUNTY* | 4500940150B | 03-MAY-2002 | 02-04-4618A | 02
04 | SC | GREENWOOD COUNTY* | 4500940150B | 03-MAY-2002 | 02-04-4654A | 02
04 | SC | GREENWOOD COUNTY* | 4500940150B | 17-MAY-2002 | 02-04-3672A | 02
04 | SC | GREENWOOD COUNTY* | 4500940150B | 12-JUN-2002 | 02-04-4442A | 02
04 | SC | HORRY COUNTY * | 45051C0734H | 16-JAN-2002 | 02-04-1768X | 02
04 | SC | HORRY COUNTY * | 45051C0514H | 13-FEB-2002 | 02-04-1766A | 02
04 | SC | HORRY COUNTY * | 45051C0652H | 20-MAR-2002 | 02-04-3186A | 02
04 | SC | HORRY COUNTY * | 45051C0415H | 27-MAR-2002 | 02-04-2904A | 02
04 | SC | HORRY COUNTY * | 45051C0560H | 05-APR-2002 | 02-04-2280A | 02
04 | SC | HORRY COUNTY * | 45051C0500H | 01-MAY-2002 | 02-04-4034A | 02
04 | SC | HORRY COUNTY * | 45051C0665H | 10-MAY-2002 | 02-04-3786A | 02
04 | SC | KERSHAW COUNTY * | 45055C0280D | 04-JAN-2002 | 01-04-7002A | 02
04 | SC | KERSHAW COUNTY * | 45055C0280D | 01-FEB-2002 | 02-04-2502A | 02
04 | SC | KERSHAW COUNTY * | 45055C0393D | 22-FEB-2002 | 02-04-1520A | 02
04 | SC | LANCASTER, CITY OF | 4501210003B | 04-JAN-2002 | 02-04-1396A | 02
04 | SC | LAURENS COUNTY * | 4501220130B | 06-MAR-2002 | 02-04-0392A | 02
04 | SC | LEXINGTON COUNTY * | 45063C0142G | 01-FEB-2002 | 02-04-2642A | 02
04 | SC | LEXINGTON COUNTY * | 45063C0164G | 21-FEB-2002 | 02-04-3156V | 19
04 | SC | LEXINGTON COUNTY * | 45063C0168G | 21-FEB-2002 | 02-04-3156V | 19
04 | SC | LEXINGTON COUNTY * | 45063C0277H | 21-FEB-2002 | 02-04-3156V | 19
04 | SC | LEXINGTON COUNTY * | 45063C0281G | 21-FEB-2002 | 02-04-3156V | 19
04 | SC | LEXINGTON COUNTY * | 45063C0283G | 21-FEB-2002 | 02-04-3156V | 19
04 | SC | LEXINGTON COUNTY * | 45063C0285G | 21-FEB-2002 | 02-04-3156V | 19
04 | SC | LEXINGTON COUNTY * | 45063C0287H | 21-FEB-2002 | 02-04-3156V | 19
04 | SC | LEXINGTON COUNTY * | 45063C0291G | 21-FEB-2002 | 02-04-3156V | 19
04 | SC | LEXINGTON COUNTY * | 45063C0294G | 21-FEB-2002 | 02-04-3156V | 19
04 | SC | LEXINGTON COUNTY * | 45063C0040G | 15-MAY-2002 | 02-04-4496A | 02
04 | SC | LEXINGTON COUNTY * | 45063C0139G | 22-MAY-2002 | 02-04-4494A | 02
04 | SC | LEXINGTON COUNTY * | 45063C0137G | 12-JUN-2002 | 02-04-5694A | 02
04 | SC | NEWBERRY COUNTY* | 4502240255B | 04-JAN-2002 | 01-04-6138A | 02
04 | SC | NEWBERRY COUNTY* | 4502240225B | 11-JAN-2002 | 02-04-0824A | 02
04 | SC | NEWBERRY COUNTY* | 4502240225B | 23-JAN-2002 | 02-04-1240A | 02
04 | SC | NEWBERRY COUNTY* | 4502240225B | 06-MAR-2002 | 02-04-3244A | 02
04 | SC | NEWBERRY COUNTY* | 4502240225B | 13-MAR-2002 | 02-04-2602A | 02
04 | SC | NEWBERRY COUNTY* | 4502240225B | 29-MAR-2002 | 02-04-2424A | 02
04 | SC | NEWBERRY COUNTY* | 4502240225B | 29-MAR-2002 | 02-04-3790A | 02
04 | SC | NEWBERRY COUNTY* | 4502240225B | 01-MAY-2002 | 02-04-4866A | 02
04 | SC | NEWBERRY COUNTY* | 4502240225B | 24-MAY-2002 | 02-04-4992A | 02
04 | SC | NEWBERRY COUNTY* | 4502240225B | 29-MAY-2002 | 02-04-5552A | 02
04 | SC | NEWBERRY COUNTY* | 4502240225B | 05-JUN-2002 | 02-04-5582A | 02
04 | SC | NORTH AUGUSTA, CITY OF | 4500070010D | 14-JUN-2002 | 02-04-3934A | 02
04 | SC | ORANGEBURG COUNTY * | 4501600280B | 16-JAN-2002 | 02-04-1322A | 02
04 | SC | PICKENS COUNTY * | 4501660150B | 30-JAN-2002 | 02-04-0890A | 02
04 | SC | PICKENS COUNTY * | 4501660250B | 06-MAR-2002 | 01-04-5288A | 01
04 | SC | RICHLAND COUNTY* | 45079C0176G | 23-JAN-2002 | 02-04-1988A | 02
04 | SC | RICHLAND COUNTY* | 45079C0025G | 25-JAN-2002 | 02-04-1672A | 02
04 | SC | RICHLAND COUNTY* | 45079C0025G | 13-FEB-2002 | 02-04-2152A | 02
04 | SC | RICHLAND COUNTY* | 45079C0025H | 21-FEB-2002 | 02-04-3160V | 19
04 | SC | RICHLAND COUNTY* | 45079C0091H | 21-FEB-2002 | 02-04-3160V | 19
04 | SC | RICHLAND COUNTY* | 45079C0092H | 21-FEB-2002 | 02-04-3160V | 19
04 | SC | RICHLAND COUNTY* | 45079C0094H | 21-FEB-2002 | 02-04-3160V | 19
04 | SC | RICHLAND COUNTY* | 45079C0110H | 21-FEB-2002 | 02-04-3160V | 19
04 | SC | RICHLAND COUNTY* | 45079C0160H | 21-FEB-2002 | 02-04-3160V | 19
04 | SC | RICHLAND COUNTY* | 45079C0178H | 21-FEB-2002 | 02-04-3160V | 19
04 | SC | RICHLAND COUNTY* | 45079C0190H | 21-FEB-2002 | 02-04-3160V | 19
04 | SC | RICHLAND COUNTY* | 45079C0025H | 01-MAR-2002 | 02-04-1112A | 02
04 | SC | RICHLAND COUNTY* | 45079C0025H | 22-MAR-2002 | 02-04-2282A | 02
04 | SC | RICHLAND COUNTY* | 45079C0025H | 29-MAR-2002 | 02-04-3788A | 02
04 | SC | RICHLAND COUNTY* | 45079C0025H | 10-APR-2002 | 02-04-3360A | 02
04 | SC | RICHLAND COUNTY* | 45079C0185G | 26-APR-2002 | 02-04-4162A | 02
04 | SC | RICHLAND COUNTY* | 45079C0105G | 15-MAY-2002 | 02-04-4384A | 02
04 | SC | RICHLAND COUNTY* | 45079C0025H | 15-MAY-2002 | 02-04-4864A | 02
04 | SC | RICHLAND COUNTY* | 45079C0025H | 15-MAY-2002 | 02-04-5250A | 02
04 | SC | RICHLAND COUNTY* | 45079C0025H | 17-MAY-2002 | 02-04-3792A | 02
04 | SC | RICHLAND COUNTY* | 45079C0025H | 17-MAY-2002 | 02-04-4704A | 02
04 | SC | RICHLAND COUNTY* | 45079C0025H | 29-MAY-2002 | 02-04-5530A | 02
04 | SC | RICHLAND COUNTY* | 45079C0105G | 05-JUN-2002 | 02-04-4288A | 02
04 | SC | RICHLAND COUNTY* | 45079C0025H | 05-JUN-2002 | 02-04-5066A | 02
04 | SC | RICHLAND COUNTY* | 45079C0025H | 10-JUN-2002 | 02-04-5806A | 02
04 | SC | RICHLAND COUNTY* | 45079C0105G | 14-JUN-2002 | 02-04-4638A | 01
04 | SC | RICHLAND COUNTY* | 45079C0025H | 19-JUN-2002 | 02-04-5200A | 02
04 | SC | RICHLAND COUNTY* | 45079C0025H | 19-JUN-2002 | 02-04-5942A | 02
04 | SC | RICHLAND COUNTY* | 45079C0025H | 26-JUN-2002 | 02-04-5316A | 02
04 | SC | RICHLAND COUNTY* | 45079C0025H | 28-JUN-2002 | 02-04-6050A | 02
04 | SC | RICHLAND COUNTY* | 45079C0025H | 28-JUN-2002 | 02-04-6146A | 02
04 | SC | SALUDA COUNTY* | 450230002A | 04-JAN-2002 | 01-04-6642A | 02
04 | SC | SALUDA COUNTY* | 4502300002B | 05-JUN-2002 | 02-04-5436A | 02
04 | SC | SUMMERVILLE, TOWN OF | 4500730005D | 11-JAN-2002 | 02-04-0394A | 02
04 | SC | SUMTER COUNTY * | 4501820180C | 06-MAR-2002 | 02-04-3246A | 02
04 | SC | SUMTER COUNTY * | 4501820090C | 15-MAY-2002 | 02-04-2216A | 02
04 | SC | WEST COLUMBIA, CITY OF | 45063C0281G | 29-MAY-2002 | 01-04-7138A | 01
04 | SC | YORK COUNTY * | 4501930050B | 25-JAN-2002 | 02-04-0348A | 02
04 | SC | YORK COUNTY * | 4501930220B | 30-JAN-2002 | 02-04-1932A | 02
04 | SC | YORK COUNTY * | 4501930050B | 06-MAR-2002 | 02-04-1392A | 02
04 | SC | YORK COUNTY * | 4501930050B | 28-JUN-2002 | 02-04-6296A | 02
04 | TN | ANDERSON COUNTY * | 4702170095B | 03-APR-2002 | 02-04-2928A | 02
04 | TN | BLOUNT COUNTY * | 4703560050B | 30-JAN-2002 | 02-04-1132A | 02
04 | TN | BLOUNT COUNTY * | 4703560040B | 22-FEB-2002 | 01-04-6474A | 02
04 | TN | BRADLEY COUNTY * | 4703570060B | 08-FEB-2002 | 02-04-2128A | 02
04 | TN | BRENTWOOD, CITY OF | 4702050005C | 10-APR-2002 | 02-04-3642A | 02
04 | TN | BRIGHTON, TOWN OF | 47167C0135E | 04-JAN-2002 | 02-04-1678A | 02
04 | TN | CARTER COUNTY * | 47019C0070C | 11-MAR-2002 | 02-04-3260A | 02
04 | TN | CHATTANOOGA, CITY OF | 4700720006B | 10-MAY-2002 | 02-04-4050A | 01
04 | TN | CHATTANOOGA, CITY OF | 4700720029E | 24-MAY-2002 | 02-04-3588A | 01
04 | TN | CHEATHAM COUNTY * | 47021C0210C | 15-FEB-2002 | 02-04-1074A | 02
04 | TN | CLEVELAND, CITY OF | 4700150004D | 01-MAY-2002 | 02-04-5108A | 02
04 | TN | COLLIERVILLE, TOWN OF | 47157C0240E | 04-JAN-2002 | 02-04-1596A | 01
04 | TN | COLLIERVILLE, TOWN OF | 47157C0240E | 09-JAN-2002 | 02-04-0994A | 17
04 | TN | COLLIERVILLE, TOWN OF | 47157C0300E | 31-JAN-2002 | 01-04-323P | 05
04 | TN | COLLIERVILLE, TOWN OF | 47157C0245E | 08-FEB-2002 | 02-04-1316A | 01
04 | TN | COLLIERVILLE, TOWN OF | 47157C0245E | 22-FEB-2002 | 02-04-2874A | 02
04 | TN | DYER COUNTY * | 47045C0165D | 19-APR-2002 | 02-04-4286A | 02
04 | TN | DYERSBURG, CITY OF | 47045C0190D | 01-MAR-2002 | 02-04-2840A | 02
04 | TN | EAST RIDGE, CITY OF | 4754240010D | 26-JUN-2002 | 02-04-3726A | 01
04 | TN | GERMANTOWN, CITY OF | 47157C0235E | 09-JAN-2002 | 02-04-1510A | 01
04 | TN | GERMANTOWN, CITY OF | 47157C0235E | 30-JAN-2002 | 02-04-1694A | 01
04 | TN | GERMANTOWN, CITY OF | 47157C0235E | 06-FEB-2002 | 02-04-2212A | 02
04 | TN | GERMANTOWN, CITY OF | 47157C0235E | 20-FEB-2002 | 02-04-2762A | 02
04 | TN | GERMANTOWN, CITY OF | 47157C0235E | 01-MAY-2002 | 02-04-4684A | 02
04 | TN | GERMANTOWN, CITY OF | 47157C0235E | 05-JUN-2002 | 02-04-4706A | 02
04 | TN | GILES COUNTY* | 4700630100B | 10-JUN-2002 | 02-04-5818A | 02
04 | TN | GOODLETTSVILLE, CITY OF | 4701860003C | 04-APR-2002 | 00-04-349P | 05
04 | TN | GOODLETTSVILLE, CITY OF | 4701860007C | 04-APR-2002 | 00-04-349P | 05
04 | TN | GREENE COUNTY* | 4703450200C | 22-FEB-2002 | 02-04-0594A | 02
04 | TN | HAMBLEN COUNTY * | 4703460055B | 05-JUN-2002 | 02-04-4736A | 02
04 | TN | HAMILTON COUNTY * | 4700710235D | 13-FEB-2002 | 02-04-1072A | 02
04 | TN | HENDERSONVILLE, CITY OF | 4701860007C | 17-JAN-2002 | 01-04-511P | 05
04 | TN | HENRY COUNTY | 47079C0225D | 20-FEB-2002 | 02-04-2210A | 02
04 | TN | HENRY COUNTY | 47079C0195D | 03-APR-2002 | 02-04-3180A | 02
04 | TN | JACKSON, CITY OF | 47113C0155D | 17-APR-2002 | 01-04-6682A | 01
04 | TN | JELLICO, CITY OF | 4754310002B | 23-JAN-2002 | 02-04-2112A | 01
04 | TN | KNOX COUNTY * | 4754330045B | 19-APR-2002 | 02-04-1886A | 01
04 | TN | KNOX COUNTY * | 4754330080B | 24-MAY-2002 | 02-04-2756A | 02
04 | TN | KNOXVILLE, CITY OF | 4754340025B | 21-JUN-2002 | 02-04-5052A | 02
04 | TN | LAKE COUNTY * | 4703340100B | 04-MAR-2002 | 01-04-125P | 05
04 | TN | LAWRENCE COUNTY * | 47099C0100B | 17-MAY-2002 | 02-04-4138A | 02
04 | TN | LEBANON, CITY OF | 4702080010C | 15-FEB-2002 | 02-04-2964A | 02
04 | TN | LEWIS COUNTY * | 4701030001A | 08-FEB-2002 | 02-04-1372A | 02
04 | TN | LEWISBURG, CITY OF | 47117C0134C | 10-JUN-2002 | 02-04-2596A | 01
04 | TN | LOUDON COUNTY* | 4701070100B | 31-MAY-2002 | 02-04-5652A | 02
04 | TN | LOUDON COUNTY* | 4701070100B | 14-JUN-2002 | 02-04-5936A | 02
04 | TN | MADISON COUNTY * | 47113C0310D | 22-FEB-2002 | 02-04-2340A | 02
04 | TN | MADISON COUNTY * | 47113C0177D | 20-MAR-2002 | 02-04-3316A | 02
04 | TN | MARSHALL COUNTY* | 47117C0075C | 27-FEB-2002 | 02-04-2370A | 02
04 | TN | MARYVILLE, CITY OF | 475439—07B | 24-APR-2002 | 02-04-2252A | 02
04 | TN | MAYNARDVILLE, CITY OF | 470210—03B | 26-APR-2002 | 02-04-3238A | 02
04 | TN | MAYNARDVILLE, CITY OF | 470210—07B | 26-APR-2002 | 02-04-3238A | 02
04 | TN | MCNAIRY COUNTY* | 4701270070D | 24-APR-2002 | 01-04-549P | 05
04 | TN | MCNAIRY COUNTY* | 4701270100D | 24-APR-2002 | 01-04-549P | 05
04 | TN | MEMPHIS, CITY OF | 47157C0230E | 16-JAN-2002 | 02-04-1890A | 01
04 | TN | MEMPHIS, CITY OF | 47157C0190E | 20-MAR-2002 | 02-04-3272A | 02
04 | TN | MEMPHIS, CITY OF | 47157C0170E | 29-MAR-2002 | 02-04-3600A | 02
04 | TN | MEMPHIS, CITY OF | 47157C0140E | 17-APR-2002 | 02-04-3322A | 02
04 | TN | MEMPHIS, CITY OF | 47157C0170E | 10-JUN-2002 | 02-04-4912A | 02
04 | TN | MEMPHIS, CITY OF | 47157C0285E | 19-JUN-2002 | 02-04-3232A | 01
04 | TN | MONTGOMERY COUNTY * | 4701360050B | 30-JAN-2002 | 02-04-0238A | 02
04 | TN | MONTGOMERY COUNTY * | 4701360070B | 19-APR-2002 | 02-04-3852A | 02
04 | TN | MURFREESBORO, CITY OF | 47149C0143F | 01-MAR-2002 | 02-04-2154A | 02
04 | TN | MURFREESBORO, CITY OF | 47149C0257F | 13-MAR-2002 | 02-04-2918A | 02
04 | TN | MURFREESBORO, CITY OF | 47149C0140E | 14-JUN-2002 | 02-04-6520A | 02
04 | TN | NASHVILLE & DAVIDSON COUNTY, | 47037C0253F | 09-JAN-2002 | 02-04-0098A | 01
04 | TN | NASHVILLE & DAVIDSON COUNTY, | 47037C0231F | 16-JAN-2002 | 02-04-1958A | 01
04 | TN | NASHVILLE & DAVIDSON COUNTY, | 47037C0232F | 16-JAN-2002 | 02-04-1958A | 01
04 | TN | NASHVILLE & DAVIDSON COUNTY, | 47037C0352F | 16-JAN-2002 | 02-04-1976A | 02
04 | TN | NASHVILLE & DAVIDSON COUNTY, | 47037C0203F | 16-JAN-2002 | 02-04-2126A | 02
04 | TN | NASHVILLE & DAVIDSON COUNTY, | 47037C0254F | 18-JAN-2002 | 02-04-1484A | 02
04 | TN | NASHVILLE & DAVIDSON COUNTY, | 47037C0231F | 18-JAN-2002 | 02-04-2162A | 02
04 | TN | NASHVILLE & DAVIDSON COUNTY, | 47037C0227F | 30-JAN-2002 | 02-04-1692A | 01
04 | TN | NASHVILLE & DAVIDSON COUNTY, | 47037C0217F | 08-FEB-2002 | 02-04-1660A | 02
04 | TN | NASHVILLE & DAVIDSON COUNTY, | 47037C0227F | 08-FEB-2002 | 02-04-2318A | 19
04 | TN | NASHVILLE & DAVIDSON COUNTY, | 47037C0378F | 15-FEB-2002 | 02-04-1996A | 02
04 | TN | NASHVILLE & DAVIDSON COUNTY, | 47037C0253F | 20-FEB-2002 | 02-04-0914A | 01
04 | TN | NASHVILLE & DAVIDSON COUNTY, | 47037C0254F | 20-FEB-2002 | 02-04-0914A | 01
04 | TN | NASHVILLE & DAVIDSON COUNTY, | 47037C0227F | 20-FEB-2002 | 02-04-2770A | 19
04 | TN | NASHVILLE & DAVIDSON COUNTY, | 47037C0378F | 22-FEB-2002 | 02-04-2400A | 02
04 | TN | NASHVILLE & DAVIDSON COUNTY, | 47037C0231F | 11-MAR-2002 | 02-04-3352A | 02
04 | TN | NASHVILLE & DAVIDSON COUNTY, | 47037C0231F | 11-MAR-2002 | 02-04-3354A | 02
04 | TN | NASHVILLE & DAVIDSON COUNTY, | 47037C0050F | 22-MAR-2002 | 02-04-3794A | 02
04 | TN | NASHVILLE & DAVIDSON COUNTY, | 47037C0359F | 27-MAR-2002 | 02-04-3220A | 01
04 | TN | NASHVILLE & DAVIDSON COUNTY, | 47037C0239F | 17-APR-2002 | 02-04-3562A | 02
04 | TN | NASHVILLE & DAVIDSON COUNTY, | 47037C0331F | 17-APR-2002 | 02-04-4660A | 02
04 | TN | NASHVILLE & DAVIDSON COUNTY, | 47037C0204F | 24-APR-2002 | 02-04-4738A | 02
04 | TN | NASHVILLE & DAVIDSON COUNTY, | 47037C0362F | 10-MAY-2002 | 02-04-2828A | 02
04 | TN | NASHVILLE & DAVIDSON COUNTY, | 47037C0231F | 10-MAY-2002 | 02-04-4040A | 02
04 | TN | NASHVILLE & DAVIDSON COUNTY, | 47037C0331F | 17-MAY-2002 | 01-04-119P | 05
04 | TN | NASHVILLE & DAVIDSON COUNTY, | 47037C0332F | 17-MAY-2002 | 01-04-119P | 05
04 | TN | NASHVILLE & DAVIDSON COUNTY, | 47037C0231F | 17-MAY-2002 | 02-04-4218A | 02
04 | TN | NASHVILLE & DAVIDSON COUNTY, | 47037C0128F | 17-MAY-2002 | 02-04-4560A | 02
04 | TN | NASHVILLE & DAVIDSON COUNTY, | 47037C0136F | 17-MAY-2002 | 02-04-4560A | 02
04 | TN | NASHVILLE & DAVIDSON COUNTY, | 47037C0184F | 24-MAY-2002 | 02-04-3546A | 02
04 | TN | NASHVILLE & DAVIDSON COUNTY, | 47037C0209F | 10-JUN-2002 | 02-04-5110A | 02
04 | TN | NASHVILLE & DAVIDSON COUNTY, | 47037C0227F | 19-JUN-2002 | 02-04-3116A | 01
04 | TN | NASHVILLE & DAVIDSON COUNTY, | 47037C0202F | 19-JUN-2002 | 02-04-3602A | 02
04 | TN | NASHVILLE & DAVIDSON COUNTY, | 47037C0336F | 19-JUN-2002 | 02-04-4588A | 02
04 | TN | NASHVILLE & DAVIDSON COUNTY, | 47037C0368F | 19-JUN-2002 | 02-04-5024A | 01
04 | TN | NASHVILLE & DAVIDSON COUNTY, | 47037C0331F | 28-JUN-2002 | 02-04-5522A | 02
04 | TN | OAK HILL, TOWN OF | 47037C0332F | 17-MAY-2002 | 01-04-119P | 05
04 | TN | OLIVER SPRINGS, TOWN OF | 4700050001B | 17-APR-2002 | 02-04-4216A | 02
04 | TN | PIGEON FORGE, CITY OF | 4754420002D | 06-FEB-2002 | 02-04-0568A | 01
04 | TN | RHEA COUNTY* | 4701510055B | 13-FEB-2002 | 02-04-1758A | 02
04 | TN | RIPLEY, TOWN OF | 4701000004C | 08-MAY-2002 | 02-04-4672A | 02
04 | TN | ROANE COUNTY * | 4702670135B | 09-JAN-2002 | 02-04-0728A | 02
04 | TN | RUTHERFORD COUNTY * | 47149C0140E | 06-FEB-2002 | 02-04-2222A | 01
04 | TN | RUTHERFORD COUNTY * | 47149C0163F | 29-MAR-2002 | 02-04-2978A | 02
04 | TN | RUTHERFORD COUNTY * | 47149C0170E | 10-MAY-2002 | 02-04-2794A | 02
04 | TN | RUTHERFORD COUNTY * | 47149C0045E | 17-MAY-2002 | 02-04-4250A | 01
04 | TN | SELMER, CITY OF | 4701320005D | 16-APR-2002 | 02-04-4620V | 19
04 | TN | SEVIER COUNTY* | 4702360060B | 13-MAR-2002 | 02-04-2184A | 02
04 | TN | SEVIERVILLE, CITY OF | 4754440015D | 03-APR-2002 | 02-04-1530A | 01
04 | TN | SEVIERVILLE, CITY OF | 4754440015D | 05-JUN-2002 | 02-04-4558A | 02
04 | TN | SHELBY COUNTY * | 47157C0155E | 10-JAN-2002 | 01-04-401P | 05
04 | TN | SHELBY COUNTY * | 47157C0160E | 10-JAN-2002 | 01-04-401P | 05
04 | TN | SHELBY COUNTY * | 47157C0195E | 10-JAN-2002 | 01-04-401P | 05
04 | TN | SHELBY COUNTY * | 47157C0300E | 31-JAN-2002 | 01-04-323P | 05
04 | TN | SHELBY COUNTY * | 47157C0235E | 01-FEB-2002 | 02-04-2446A | 02
04 | TN | SHELBY COUNTY * | 47157C0190E | 11-MAR-2002 | 02-04-0026A | 02
04 | TN | SHELBY COUNTY * | 47157C0195E | 17-APR-2002 | 02-04-2598A | 01
04 | TN | SHELBY COUNTY * | 47157C0235E | 17-MAY-2002 | 02-04-4274A | 02
04 | TN | SHELBY COUNTY * | 47157C0065E | 24-MAY-2002 | 02-04-5286A | 02
04 | TN | SMITHVILLE, CITY OF | 470045—02B | 20-FEB-2002 | 02-04-2842A | 02
04 | TN | SMYRNA, TOWN OF | 47149C0130E | 09-JAN-2002 | 02-04-0372A | 01
04 | TN | SMYRNA, TOWN OF | 47149C0109E | 09-MAY-2002 | 02-04-1014A | 01
04 | TN | SUMNER COUNTY* | 4703490105B | 01-MAR-2002 | 02-04-2380A | 02
04 | TN | TIPTONVILLE, TOWN OF | 4703500001B | 04-MAR-2002 | 01-04-125P | 05
04 | TN | TOWNSEND, CITY OF | 470281—03H | 13-FEB-2002 | 02-04-2342A | 02
04 | TN | TOWNSEND, CITY OF | 470281—02H | 08-MAY-2002 | 02-04-3332A | 02
04 | TN | UNICOI COUNTY * | 4702380005B | 04-JAN-2002 | 02-04-1430A | 01
04 | TN | UNICOI COUNTY * | 4702380005B | 04-JAN-2002 | 02-04-1432A | 01
04 | TN | WHITWELL, CITY OF | 470118—03A | 24-MAY-2002 | 02-04-1760A | 02
04 | TN | WHITWELL, CITY OF | 470118—05A | 24-MAY-2002 | 02-04-1760A | 02
04 | TN | WILLIAMSON COUNTY * | 4702040045D | 09-JAN-2002 | 02-04-0536A | 02
04 | TN | WILLIAMSON COUNTY * | 4702040020C | 16-JAN-2002 | 02-04-1482A | 02
04 | TN | WILSON COUNTY * | 4702070035C | 20-FEB-2002 | 02-04-1406A | 02
04 | TN | WILSON COUNTY * | 4702070040C | 13-MAR-2002 | 02-04-1242A | 02
04 | TN | WINCHESTER, CITY OF | 4700560002C | 04-JAN-2002 | 02-04-1126A | 02
05 | IL | ALSIP, VILLAGE OF | 17031C0636F | 08-MAR-2002 | 02-05-1604A | 02
05 | IL | ALSIP, VILLAGE OF | 17031C0636F | 17-APR-2002 | 02-05-2066A | 02
05 | IL | ARLINGTON HEIGHTS, VILLAGE OF | 17031C0044F | 08-FEB-2002 | 00-05-367P | 05
05 | IL | ARLINGTON HEIGHTS, VILLAGE OF | 17031C0063F | 08-FEB-2002 | 00-05-367P | 05
05 | IL | ARLINGTON HEIGHTS, VILLAGE OF | 17031C0202F | 26-APR-2002 | 02-05-2098A | 02
05 | IL | BARRINGTON HILLS, VILLAGE OF | 1700580003B | 09-JAN-2002 | 02-05-0242A | 02
05 | IL | BATAVIA, CITY OF | 1708960061B | 19-APR-2002 | 02-05-0241A | 02
05 | IL | BELLEVILLE, CITY OF | 1706180070B | 16-APR-2002 | 00-05-315P | 05
05 | IL | BELLWOOD, VILLAGE OF | 17031C0369F | 23-JAN-2002 | 02-05-1040A | 02
05 | IL | BLOOMINGTON, CITY OF | 17113C0501D | 23-JAN-2002 | 02-05-1149A | 02
05 | IL | BLOOMINGTON, CITY OF | 17113C0482D | 20-MAR-2002 | 02-05-1442A | 02
05 | IL | BLOOMINGTON, CITY OF | 17113C0482D | 20-FEB-2002 | 02-05-1512A | 02
05 | IL | BLOOMINGTON, CITY OF | 17113C0318D | 20-FEB-2002 | 02-05-1514A | 02
05 | IL | BLOOMINGTON, CITY OF | 17113C0482D | 05-APR-2002 | 02-05-2151A | 02
05 | IL | BLOOMINGTON, CITY OF | 17113C0501D | 01-MAY-2002 | 02-05-2187A | 02
05 | IL | BLOOMINGTON, CITY OF | 17113C0150D | 08-MAY-2002 | 02-05-2541A | 02
05 | IL | BLOOMINGTON, CITY OF | 17113C0482D | 05-JUN-2002 | 02-05-2969A | 02
05 | IL | BOND COUNTY | 1709960025B | 29-MAR-2002 | 02-05-0771A | 02
05 | IL | BOURBONNAIS, VILLAGE OF | 1703360155B | 16-JAN-2002 | 02-05-0935A | 17
05 | IL | BRADLEY, VILLAGE OF | 1703380001B | 04-JAN-2002 | 01-05-2660A | 17
05 | IL | BRIDGEPORT, CITY OF | 1710080001A | 16-JAN-2002 | 01-05-3676A | 02
05 | IL | BROOKFIELD, VILLAGE OF | 17031C0479F | 20-FEB-2002 | 02-05-1492A | 02
05 | IL | BYRON, CITY OF | 1705250095A | 28-JUN-2002 | 02-05-2847A | 01
05 | IL | CARMI, CITY OF | 1706810005B | 01-MAR-2002 | 02-05-1555A | 02
05 | IL | CARMI, CITY OF | 1706810005B | 17-MAY-2002 | 02-05-2396A | 02
05 | IL | CARMI, CITY OF | 1706810005B | 12-JUN-2002 | 02-05-3092A | 02
05 | IL | CHAMPAIGN COUNTY * | 1708940100B | 18-JAN-2002 | 02-05-0708A | 02
05 | IL | CHAMPAIGN COUNTY * | 1708940205B | 15-MAR-2002 | 02-05-1701A | 02
05 | IL | CHAMPAIGN COUNTY * | 1708940205B | 13-MAR-2002 | 02-05-1703A | 02
05 | IL | CHAMPAIGN COUNTY * | 1708940175B | 05-JUN-2002 | 02-05-2014A | 02
05 | IL | CHAMPAIGN COUNTY * | 1708940100B | 08-MAY-2002 | 02-05-2227A | 02
05 | IL | CHAMPAIGN, CITY OF | 1700260008B | 11-JAN-2002 | 02-05-1010A | 02
05 | IL | CHAMPAIGN, CITY OF | 1700260010B | 06-MAR-2002 | 02-05-1866A | 02
05 | IL | CHICAGO HEIGHTS, CITY OF | 17031C0744F | 20-MAR-2002 | 02-05-1433A | 17
05 | IL | CLINTON COUNTY* | 170044—25 A | 13-FEB-2002 | 01-05-2367A | 02
05 | IL | CLINTON COUNTY* | 170044—29B | 30-JAN-2002 | 02-05-1033A | 02
05 | IL | CLINTON COUNTY* | 170044—05 | 25-JAN-2002 | 02-05-1054A | 02
05 | IL | CLINTON COUNTY* | 170044—17B | 01-FEB-2002 | 02-05-1080A | 02
05 | IL | CLINTON COUNTY* | 170044—15 B | 08-FEB-2002 | 02-05-1283A | 02
05 | IL | CLINTON COUNTY* | 170044—24B | 24-MAY-2002 | 02-05-2013A | 02
05 | IL | CLINTON, CITY OF | 17039C0190D | 13-MAR-2002 | 02-05-1614A | 02
05 | IL | COOK COUNTY | 17031C0236F | 13-MAR-2002 | 02-05-0716A | 17
05 | IL | COOK COUNTY | 17031C0684F | 25-JAN-2002 | 02-05-1241A | 02
05 | IL | COOK COUNTY | 17031C0682F | 08-FEB-2002 | 02-05-1374A | 02
05 | IL | COOK COUNTY | 17031C0801F | 08-FEB-2002 | 02-05-1420A | 02
05 | IL | COOK COUNTY | 17031C0581F | 17-MAY-2002 | 02-05-1446A | 02
05 | IL | COOK COUNTY | 17031C0684F | 22-FEB-2002 | 02-05-1739A | 02
05 | IL | COOK COUNTY | 17031C0684F | 01-MAR-2002 | 02-05-1796A | 02
05 | IL | COOK COUNTY | 17031C0707F | 26-JUN-2002 | 02-05-1825P | 05
05 | IL | COOK COUNTY | 17031C0739F | 05-APR-2002 | 02-05-2122A | 02
05 | IL | COOK COUNTY | 17031C0684F | 01-MAY-2002 | 02-05-2456A | 02
05 | IL | COOK COUNTY | 17031C0684F | 01-MAY-2002 | 02-05-2529A | 02
05 | IL | COOK COUNTY * | 17031C0582F | 24-FEB-2002 | 01-05-2074P | 05
05 | IL | CRAWFORD COUNTY | 1709390125B | 05-APR-2002 | 02-05-2245A | 02
05 | IL | CRYSTAL LAKE, CITY OF | 1704760003C | 03-APR-2002 | 02-05-1615A | 02
05 | IL | CRYSTAL LAKE, CITY OF | 1704760001C | 12-JUN-2002 | 02-05-1856A | 02
05 | IL | CRYSTAL LAKE, CITY OF | 1704760001C | 17-APR-2002 | 02-05-2368A | 02
05 | IL | CRYSTAL LAKE, CITY OF | 1704760001C | 08-MAY-2002 | 02-05-2662A | 02
05 | IL | DE KALB, CITY OF | 17037C0067D | 20-FEB-2002 | 02-05-1593A | 02
05 | IL | DEERFIELD, VILLAGE OF | 17097C0286F | 09-JAN-2002 | 01-05-3674A | 17
05 | IL | DEERFIELD, VILLAGE OF | 17097C0286F | 03-JUN-2002 | 02-05-0993A | 01
05 | IL | DES PLAINES, CITY OF | 17031C0218F | 27-FEB-2002 | 01-05-3831P | 06
05 | IL | DES PLAINES, CITY OF | 17031C0219F | 18-JAN-2002 | 02-05-0967A | 02
05 | IL | DES PLAINES, CITY OF | 17031C0218F | 22-FEB-2002 | 02-05-1629A | 02
05 | IL | DES PLAINES, CITY OF | 17031C0219F | 20-MAR-2002 | 02-05-1853A | 02
05 | IL | DES PLAINES, CITY OF | 17031C0236F | 01-MAY-2002 | 02-05-2480A | 02
05 | IL | DEWITT COUNTY | 17039C0175D | 17-MAY-2002 | 02-05-2761A | 02
05 | IL | DOUGLAS COUNTY | 1701940050B | 18-JAN-2002 | 02-05-1105A | 02
05 | IL | DOUGLAS COUNTY | 1701940050B | 06-MAR-2002 | 02-05-1781A | 02
05 | IL | DOUGLAS COUNTY | 1701940100B | 22-MAR-2002 | 02-05-2090A | 02
05 | IL | DOUGLAS COUNTY | 1701940100B | 03-MAY-2002 | 02-05-2479A | 02
05 | IL | DOUGLAS COUNTY | 1701940025B | 21-JUN-2002 | 02-05-3090A | 02
05 | IL | DOUGLAS COUNTY | 1701940100B | 26-JUN-2002 | 02-05-3210A | 02
05 | IL | DU PAGE COUNTY* | 1701970010C | 09-JAN-2002 | 02-05-0465A | 02
05 | IL | DU PAGE COUNTY* | 1701970055B | 11-JAN-2002 | 02-05-0668A | 02
05 | IL | EAST MOLINE, CITY OF | 1705870005B | 19-JUN-2002 | 02-05-2233A | 02
05 | IL | EDWARDSVILLE, CITY OF | 1704410001C | 22-FEB-2002 | 02-05-0564A | 02
05 | IL | EDWARDSVILLE, CITY OF | 1704410001C | 19-JUN-2002 | 02-05-3000A | 02
05 | IL | EFFINGHAM, CITY OF | 17022902B | 09-JAN-2002 | 02-05-0299P | 06
05 | IL | ELGIN, CITY OF | 1700870007D | 17-MAY-2002 | 02-05-1066A | 02
05 | IL | ELKVILLE, VILLAGE OF | 1708760001B | 20-FEB-2002 | 02-05-1516A | 02
05 | IL | ELMHURST, CITY OF | 1702050004C | 17-MAY-2002 | 02-05-2208A | 01
05 | IL | ERIE, VILLAGE OF | 1706870175B | 11-JAN-2002 | 02-05-0968A | 02
05 | IL | FLOSSMOOR, VILLAGE OF | 17031C0737F | 13-MAR-2002 | 02-05-0860A | 17
05 | IL | FOX LAKE, VILLAGE OF | 17097C0020F | 31-MAY-2002 | 02-05-1375A | 02
05 | IL | FOX LAKE, VILLAGE OF | 17097C0019F | 19-APR-2002 | 02-05-1788A | 02
05 | IL | FOX LAKE, VILLAGE OF | 17097C0020F | 06-MAR-2002 | 02-05-1903A | 02
05 | IL | FOX LAKE, VILLAGE OF | 17097C0015G | 26-APR-2002 | 02-05-2478A | 02
05 | IL | FRANKFORT, VILLAGE OF | 17197C0310E | 01-MAY-2002 | 02-05-2185A | 02
05 | IL | FRANKFORT, VILLAGE OF | 17197C0310E | 15-MAY-2002 | 02-05-2812X | 02
05 | IL | FRANKLIN PARK, VILLAGE OF | 17031C0367F | 11-JAN-2002 | 01-05-3166A | 02
05 | IL | GENEVA, CITY OF | 1703250002B | 12-JUN-2002 | 02-05-447P | 05
05 | IL | GENOA, CITY OF | 17037C0009D | 22-MAY-2002 | 02-05-0596A | 02
05 | IL | GRAYSLAKE, VILLAGE OF | 17097C0133F | 08-MAR-2002 | 02-05-1600A | 02
05 | IL | GRAYSLAKE, VILLAGE OF | 17097C0133F | 15-MAR-2002 | 02-05-1785A | 02
05 | IL | GRUNDY COUNTY | 1702560085C | 05-JUN-2002 | 02-05-3001A | 02
05 | IL | GURNEE, VILLAGE OF | 17097C0068G | 08-MAR-2002 | 02-05-0413A | 17
05 | IL | GURNEE, VILLAGE OF | 17097C0068G | 29-MAR-2002 | 02-05-1505A | 17
05 | IL | HANOVER PARK, VILLAGE OF | 17031C0307F | 09-JAN-2002 | 01-05-3726A | 17
05 | IL | HARVEY, CITY OF | 17031C0731F | 01-MAY-2002 | 02-05-2289A | 02
05 | IL | HENRY COUNTY | 1707390125B | 22-FEB-2002 | 02-05-1348A | 02
05 | IL | HERRIN, CITY OF | 1707170003B | 26-APR-2002 | 02-05-2463A | 02
05 | IL | HERRIN, CITY OF | 1707170003B | 08-MAY-2002 | 02-05-2514A | 02
05 | IL | HERRIN, CITY OF | 1707170003B | 08-MAY-2002 | 02-05-2515A | 02
05 | IL | HIGHLAND PARK, CITY OF | 17097C0291F | 05-JUN-2002 | 02-05-0521A | 01
05 | IL | HIGHLAND PARK, CITY OF | 17097C0279F | 28-JUN-2002 | 02-05-2838A | 02
05 | IL | HIGHLAND, CITY OF | 1704450001B | 11-JAN-2002 | 02-05-0858A | 17
05 | IL | HOFFMAN ESTATES, VILLAGE OF | 17031C0187F | 27-FEB-2002 | 02-05-1392A | 02
05 | IL | HOFFMAN ESTATES, VILLAGE OF | 17031C0187F | 20-FEB-2002 | 02-05-1572A | 02
05 | IL | HOFFMAN ESTATES, VILLAGE OF | 17031C0178F | 05-APR-2002 | 02-05-2260A | 02
05 | IL | HOFFMAN ESTATES, VILLAGE OF | 17031C0186F | 05-APR-2002 | 02-05-2260A | 02
05 | IL | HOMEWOOD, VILLAGE OF | 17031C0741F | 04-JAN-2002 | 02-05-0755A | 02
05 | IL | HOMEWOOD, VILLAGE OF | 17031C0741F | 03-APR-2002 | 02-05-0798A | 02
05 | IL | HOMEWOOD, VILLAGE OF | 17031C0741F | 17-APR-2002 | 02-05-2356A | 02
05 | IL | HUNTLEY, VILLAGE OF | 1704800003C | 26-APR-2002 | 02-05-1146P | 06
05 | IL | HUNTLEY, VILLAGE OF | 1704800002C | 13-FEB-2002 | 02-05-1379A | 01
05 | IL | IROQUOIS COUNTY | 17075C0045D | 16-JAN-2002 | 02-05-0598A | 02
05 | IL | IROQUOIS COUNTY | 17075C0120D | 16-JAN-2002 | 02-05-0934A | 02
05 | IL | IROQUOIS COUNTY | 17075C0040D | 20-FEB-2002 | 02-05-1570A | 02
05 | IL | ISLAND LAKE, VILLAGE OF | 1703700001B | 19-APR-2002 | 02-05-2364A | 02
05 | IL | ISLAND LAKE, VILLAGE OF | 1703700001B | 17-APR-2002 | 02-05-2375A | 02
05 | IL | ISLAND LAKE, VILLAGE OF | 1703700001B | 12-JUN-2002 | 02-05-3222A | 02
05 | IL | ITASCA, VILLAGE OF | 1702100003B | 03-MAY-2002 | 02-05-2018A | 02
05 | IL | JEFFERSON COUNTY | 17030523A | 28-JUN-2002 | 02-05-2968A | 02
05 | IL | JEROME, VILLAGE OF | 1710040001B | 13-FEB-2002 | 02-05-1071A | 02
05 | IL | JOLIET, CITY OF | 17197C0143E | 22-FEB-2002 | 01-05-3828A | 01
05 | IL | JOLIET, CITY OF | 17197C0137E | 15-FEB-2002 | 02-05-0807A | 01
05 | IL | JOLIET, CITY OF | 17197C0141E | 15-FEB-2002 | 02-05-0807A | 01
05 | IL | JOLIET, CITY OF | 17197C0164E | 20-FEB-2002 | 02-05-1135A | 02
05 | IL | JOLIET, CITY OF | 17197C0141E | 24-APR-2002 | 02-05-1561A | 01
05 | IL | JOLIET, CITY OF | 17197C0142E | 24-APR-2002 | 02-05-1561A | 01
05 | IL | JOLIET, CITY OF | 17197C0144E | 24-APR-2002 | 02-05-1566A | 02
05 | IL | JOLIET, CITY OF | 17197C0141E | 03-APR-2002 | 02-05-1812A | 02
05 | IL | JOLIET, CITY OF | 17197C0143E | 03-APR-2002 | 02-05-1812A | 02
05 | IL | JOLIET, CITY OF | 17197C0141E | 01-MAY-2002 | 02-05-2080A | 01
05 | IL | JOLIET, CITY OF | 17197C0170E | 01-MAY-2002 | 02-05-2149A | 02
05 | IL | JOLIET, CITY OF | 17197C0163E | 24-APR-2002 | 02-05-2380A | 02
05 | IL | JOLIET, CITY OF | 17197C0144E | 17-MAY-2002 | 02-05-2808X | 01
05 | IL | KANE COUNTY * | 1708960044B | 09-JAN-2002 | 02-05-0693A | 02
05 | IL | KANKAKEE COUNTY | 1703360160C | 18-JAN-2002 | 02-05-0560A | 02
05 | IL | KANKAKEE COUNTY | 1703360190C | 09-JAN-2002 | 02-05-0640A | 02
05 | IL | KANKAKEE COUNTY | 1703360170C | 11-JAN-2002 | 02-05-0943A | 17
05 | IL | KANKAKEE COUNTY | 1703360185C | 13-FEB-2002 | 02-05-1487A | 02
05 | IL | KANKAKEE COUNTY | 1703360185C | 20-MAR-2002 | 02-05-1618A | 17
05 | IL | KANKAKEE COUNTY | 1703360170C | 08-MAR-2002 | 02-05-1934A | 02
05 | IL | KANKAKEE COUNTY | 1703360185C | 13-MAR-2002 | 02-05-1944A | 02
05 | IL | KANKAKEE COUNTY | 1703360155B | 28-JUN-2002 | 02-05-3348A | 02
05 | IL | KANKAKEE, CITY OF | 1703390005C | 16-JAN-2002 | 02-05-1014A | 17
05 | IL | KANKAKEE, CITY OF | 1703390005C | 08-MAR-2002 | 02-05-1620A | 17
05 | IL | KILDEER, VILLAGE OF | 17097C0241F | 15-MAR-2002 | 02-05-0579A | 17
05 | IL | KILDEER, VILLAGE OF | 17097C0233F | 03-MAY-2002 | 02-05-2397A | 02
05 | IL | KIRKLAND, CITY OF | 17037C0004D | 06-MAR-2002 | 02-05-1669A | 02
05 | IL | LAKE BARRINGTON, VILLAGE OF | 17097C0216F | 11-JAN-2002 | 01-05-2101A | 17
05 | IL | LAKE BARRINGTON, VILLAGE OF | 17097C0207F | 12-APR-2002 | 02-05-0961A | 02
05 | IL | LAKE COUNTY | 17097C0068G | 17-APR-2002 | 02-05-1020A | 02
05 | IL | LAKE COUNTY | 17097C0069G | 17-APR-2002 | 02-05-1020A | 02
05 | IL | LAKE COUNTY | 17097C0205F | 20-FEB-2002 | 02-05-1144A | 02
05 | IL | LAKE COUNTY | 17097C0019F | 30-JAN-2002 | 02-05-1258A | 02
05 | IL | LAKE COUNTY | 17097C0020F | 03-APR-2002 | 02-05-1623A | 02
05 | IL | LAKE COUNTY | 17097C0010F | 01-MAR-2002 | 02-05-1630A | 02
05 | IL | LAKE COUNTY | 17097C0010F | 27-MAR-2002 | 02-05-2039A | 02
05 | IL | LAKE COUNTY | 17097C0019F | 17-APR-2002 | 02-05-2355A | 02
05 | IL | LAKE COUNTY | 17097C0010F | 08-MAY-2002 | 02-05-2722A | 02
05 | IL | LAKE COUNTY | 17097C0010F | 22-MAY-2002 | 02-05-2758A | 02
05 | IL | LAKE FOREST, CITY OF | 17097C0257F | 13-MAR-2002 | 01-05-3165A | 17
05 | IL | LAKE FOREST, CITY OF | 17097C0277F | 06-FEB-2002 | 02-05-1256A | 01
05 | IL | LAKE FOREST, CITY OF | 17097C0257F | 19-JUN-2002 | 02-05-2825A | 02
05 | IL | LAKE-IN-THE-HILLS, VILLAGE OF | 1704810003E | 04-JAN-2002 | 02-05-0479A | 02
05 | IL | LAKEMOOR, VILLAGE OF | 17097C0105H | 22-FEB-2002 | 02-05-1350A | 02
05 | IL | LAKEMOOR, VILLAGE OF | 17097C0110H | 22-FEB-2002 | 02-05-1350A | 02
05 | IL | LEE COUNTY | 17103C0015D | 15-MAR-2002 | 02-05-1576A | 02
05 | IL | LEE COUNTY | 17103C0015D | 20-MAR-2002 | 02-05-1967A | 02
05 | IL | LEE COUNTY | 17103C0150D | 07-JUN-2002 | 02-05-2535A | 02
05 | IL | LEE COUNTY | 17103C0010E | 03-MAY-2002 | 02-05-2641A | 02
05 | IL | LEMONT, VILLAGE OF | 17031C0569F | 29-MAR-2002 | 02-05-1628A | 01
05 | IL | LIBERTYVILLE, VILLAGE OF | 17097C0164G | 08-FEB-2002 | 02-05-1373A | 02
05 | IL | LIBERTYVILLE, VILLAGE OF | 17097C0164G | 27-FEB-2002 | 02-05-1477A | 02
05 | IL | LIBERTYVILLE, VILLAGE OF | 17097C0164G | 26-JUN-2002 | 02-05-3406A | 02
05 | IL | LINCOLNSHIRE, VILLAGE OF | 17097C0258G | 16-JAN-2002 | 01-05-4003A | 02
05 | IL | LISLE, VILLAGE OF | 1701970055B | 04-FEB-2002 | 02-05-122X | 05
05 | IL | LIVINGSTON COUNTY | 1709290004A | 25-JAN-2002 | 02-05-1219A | 02
05 | IL | LONG GROVE, VILLAGE OF | 17097C0253F | 12-JUN-2002 | 02-05-2345A | 02
05 | IL | MADISON COUNTY | 1704360085B | 11-JAN-2002 | 02-05-0842A | 02
05 | IL | MADISON COUNTY | 1704360015B | 15-FEB-2002 | 02-05-1468A | 02
05 | IL | MADISON COUNTY | 1704360020B | 15-FEB-2002 | 02-05-1468A | 02
05 | IL | MAPLE PARK, VILLAGE OF | 17037C0090D | 25-JAN-2002 | 01-05-3862A | 02
05 | IL | MARENGO, CITY OF | 1704820001B | 10-MAY-2002 | 02-05-1662A | 01
05 | IL | MARENGO, CITY OF | 1704820001B | 05-JUN-2002 | 02-05-3050X | 01
05 | IL | MARION COUNTY | 1709320003A | 21-JUN-2002 | 02-05-3248A | 02
05 | IL | MARION, CITY OF | 1707190005B | 06-MAR-2002 | 02-05-1346A | 01
05 | IL | MARION, CITY OF | 1707190003B | 21-JUN-2002 | 02-05-3124A | 02
05 | IL | MAUNIE, VILLAGE OF | 17068401A | 20-FEB-2002 | 02-05-1569A | 02
05 | IL | MAUNIE, VILLAGE OF | 17068401A | 27-FEB-2002 | 02-05-1753A | 02
05 | IL | MCHENRY COUNTY | 1707320240B | 30-JAN-2002 | 02-05-0834A | 02
05 | IL | MCHENRY COUNTY | 1707320240B | 27-FEB-2002 | 02-05-0894A | 02
05 | IL | MCHENRY COUNTY | 1707320330D | 26-APR-2002 | 02-05-1938A | 02
05 | IL | MCHENRY COUNTY | 1707320240B | 21-JUN-2002 | 02-05-2089A | 02
05 | IL | MCHENRY COUNTY | 1707320240B | 29-MAR-2002 | 02-05-2154A | 02
05 | IL | MCHENRY COUNTY | 1707320240B | 24-APR-2002 | 02-05-2469A | 02
05 | IL | MCHENRY COUNTY | 1707320355B | 03-MAY-2002 | 02-05-2584A | 02
05 | IL | MCHENRY COUNTY | 1707320240B | 31-MAY-2002 | 02-05-2893A | 02
05 | IL | MCHENRY COUNTY | 1707320115B | 31-MAY-2002 | 02-05-2894A | 02
05 | IL | MCHENRY COUNTY | 1707320115B | 05-JUN-2002 | 02-05-3046A | 02
05 | IL | MCHENRY COUNTY | 1707320230B | 05-JUN-2002 | 02-05-3046A | 02
05 | IL | MCLEAN COUNTY | 17113C0475D | 26-APR-2002 | 02-05-1936A | 02
05 | IL | MCLEAN COUNTY | 17113C0175D | 05-JUN-2002 | 02-05-2795A | 02
05 | IL | METROPOLIS, CITY OF | 1704690005D | 03-APR-2002 | 02-05-1777A | 02
05 | IL | METTAWA, VILLAGE OF | 17097C0256G | 26-FEB-2002 | 01-05-2055P | 05
05 | IL | METTAWA, VILLAGE OF | 17097C0257F | 26-FEB-2002 | 01-05-2055P | 05
05 | IL | MIDLOTHIAN, VILLAGE OF | 17031C0726F | 13-MAR-2002 | 02-05-1489A | 02
05 | IL | MOKENA, VILLAGE OF | 17197C0195E | 11-MAR-2002 | 01-05-2742P | 06
05 | IL | MOKENA, VILLAGE OF | 17197C0211E | 08-MAY-2002 | 02-05-1827P | 06
05 | IL | MOLINE, CITY OF | 1705910005B | 27-FEB-2002 | 02-05-1286A | 02
05 | IL | MONROE COUNTY* | 1705090175C | 06-MAR-2002 | 02-05-0692A | 02
05 | IL | MONROE COUNTY* | 1705090150C | 08-FEB-2002 | 02-05-1053A | 02
05 | IL | MOUNT PROSPECT, VILLAGE OF | 17031C0209F | 08-FEB-2002 | 01-05-3634A | 01
05 | IL | MOUNT PROSPECT, VILLAGE OF | 17031C0208F | 24-JAN-2002 | 02-05-0174A | 17
05 | IL | MOUNT PROSPECT, VILLAGE OF | 17031C0209F | 06-FEB-2002 | 02-05-0178A | 17
05 | IL | MOUNT PROSPECT, VILLAGE OF | 17031C0202F | 18-JUN-2002 | 02-05-0381P | 06
05 | IL | MOUNT PROSPECT, VILLAGE OF | 17031C0204F | 18-JUN-2002 | 02-05-0381P | 06
05 | IL | MOUNT PROSPECT, VILLAGE OF | 17031C0208F | 13-FEB-2002 | 02-05-1412A | 17
05 | IL | MOUNT PROSPECT, VILLAGE OF | 17031C0216F | 10-MAY-2002 | 02-05-1498A | 17
05 | IL | MOUNT PROSPECT, VILLAGE OF | 17031C0212F | 15-MAR-2002 | 02-05-1499A | 01
05 | IL | MOUNT PROSPECT, VILLAGE OF | 17031C0212F | 27-FEB-2002 | 02-05-1749A | 02
05 | IL | MOUNT PROSPECT, VILLAGE OF | 17031C0212F | 27-FEB-2002 | 02-05-1771A | 02
05 | IL | MOUNT PROSPECT, VILLAGE OF | 17031C0216F | 15-MAY-2002 | 02-05-2025A | 17
05 | IL | MOUNT PROSPECT, VILLAGE OF | 17031C0216F | 15-MAR-2002 | 02-05-2026A | 02
05 | IL | MOUNT PROSPECT, VILLAGE OF | 17031C0216F | 15-MAR-2002 | 02-05-2027A | 02
05 | IL | MOUNT PROSPECT, VILLAGE OF | 17031C0204F | 15-MAR-2002 | 02-05-2028A | 02
05 | IL | MOUNT PROSPECT, VILLAGE OF | 17031C0211F | 05-APR-2002 | 02-05-2104A | 02
05 | IL | MOUNT PROSPECT, VILLAGE OF | 17031C0212F | 05-APR-2002 | 02-05-2104A | 02
05 | IL | MOUNT PROSPECT, VILLAGE OF | 17031C0202F | 15-MAY-2002 | 02-05-2718A | 02
05 | IL | MOUNT PROSPECT, VILLAGE OF | 17031C0204F | 15-MAY-2002 | 02-05-2718A | 02
05 | IL | MOUNT PROSPECT, VILLAGE OF | 17031C0207F | 17-MAY-2002 | 02-05-2764A | 02
05 | IL | MOUNT PROSPECT, VILLAGE OF | 17031C0207F | 17-MAY-2002 | 02-05-2766A | 02
05 | IL | MOUNT PROSPECT, VILLAGE OF | 17031C0209F | 17-MAY-2002 | 02-05-2766A | 02
05 | IL | NAPERVILLE, CITY OF | 17197C0033F | 28-JAN-2002 | 01-05-3978P | 05
05 | IL | NEW LENOX, VILLAGE OF | 17197C0305E | 04-APR-2002 | 02-05-1260P | 05
05 | IL | NEW LENOX, VILLAGE OF | 17197C0305E | 20-MAR-2002 | 02-05-1800A | 02
05 | IL | NEW LENOX, VILLAGE OF | 17197C0190E | 17-APR-2002 | 02-05-2189A | 02
05 | IL | NEW LENOX, VILLAGE OF | 17197C0305E | 26-JUN-2002 | 02-05-2842A | 02
05 | IL | NORTHFIELD, VILLAGE OF | 17031C0234F | 01-MAY-2002 | 02-05-1761A | 02
05 | IL | NORTHFIELD, VILLAGE OF | 17031C0232F | 13-MAR-2002 | 02-05-1922A | 02
05 | IL | NORTHFIELD, VILLAGE OF | 17031C0231F | 03-APR-2002 | 02-05-1956A | 17
05 | IL | NORTHFIELD, VILLAGE OF | 17031C0232F | 17-APR-2002 | 02-05-2320A | 01
05 | IL | NORTHFIELD, VILLAGE OF | 17031C0232F | 12-JUN-2002 | 02-05-2794A | 02
05 | IL | OAK FOREST, CITY OF | 17031C0726F | 22-FEB-2002 | 02-05-0365A | 17
05 | IL | OAK FOREST, CITY OF | 17031C0707F | 26-JUN-2002 | 02-05-1825P | 05
05 | IL | OAK FOREST, CITY OF | 17031C0707F | 26-APR-2002 | 02-05-1918A | 02
05 | IL | OAK FOREST, CITY OF | 17031C0707F | 10-APR-2002 | 02-05-2109A | 02
05 | IL | OAK FOREST, CITY OF | 17031C0707F | 03-APR-2002 | 02-05-2349A | 02
05 | IL | OAK FOREST, CITY OF | 17031C0707F | 16-APR-2002 | 02-05-2568A | 02
05 | IL | OAK LAWN, VILLAGE OF | 17031C0609F | 15-FEB-2002 | 02-05-1413A | 02
05 | IL | OAK LAWN, VILLAGE OF | 17031C0609F | 07-JUN-2002 | 02-05-2681A | 02
05 | IL | OAK LAWN, VILLAGE OF | 17031C0609F | 31-MAY-2002 | 02-05-2956A | 02
05 | IL | OFALLON, CITY OF | 1706330002B | 03-MAY-2002 | 02-05-0963A | 02
05 | IL | OGLE COUNTY | 1705250115A | 20-MAR-2002 | 02-05-1508A | 01
05 | IL | ORLAND PARK, VILLAGE OF | 17031C0594F | 09-JAN-2002 | 01-05-3821A | 17
05 | IL | ORLAND PARK, VILLAGE OF | 17031C0702F | 20-FEB-2002 | 02-05-0231A | 17
05 | IL | ORLAND PARK, VILLAGE OF | 17031C0704F | 25-JAN-2002 | 02-05-1171A | 02
05 | IL | ORLAND PARK, VILLAGE OF | 17031C0613F | 19-JUN-2002 | 02-05-2493A | 02
05 | IL | PALATINE, VILLAGE OF | 17031C0044F | 15-MAR-2002 | 02-05-1317A | 17
05 | IL | PALATINE, VILLAGE OF | 17031C0043F | 03-APR-2002 | 02-05-1798A | 02
05 | IL | PALATINE, VILLAGE OF | 17031C0039F | 22-MAY-2002 | 02-05-2563A | 02
05 | IL | PALOS HEIGHTS, CITY OF | 17031C0616F | 04-FEB-2002 | 01-05-3012P | 06
05 | IL | PALOS HILLS, CITY OF | 17031C0604F | 15-MAR-2002 | 02-05-1546A | 02
05 | IL | PALOS HILLS, CITY OF | 17031C0604F | 19-JUN-2002 | 02-05-3120A | 02
05 | IL | PEORIA COUNTY | 1705330150B | 13-FEB-2002 | 02-05-0558A | 02
05 | IL | PEORIA COUNTY | 1705330125B | 13-FEB-2002 | 02-05-1388A | 02
05 | IL | PEORIA, CITY OF | 1705360020B | 13-MAR-2002 | 02-05-1553A | 02
05 | IL | PLAINFIELD, VILLAGE OF | 17197C0045F | 29-MAY-2002 | 01-05-1864P | 05
05 | IL | PLAINFIELD, VILLAGE OF | 17197C0135F | 29-MAY-2002 | 01-05-1864P | 05
05 | IL | PLAINFIELD, VILLAGE OF | 17197C0045F | 22-FEB-2002 | 02-05-0380A | 17
05 | IL | PLAINFIELD, VILLAGE OF | 17197C0045F | 11-JAN-2002 | 02-05-0487A | 01
05 | IL | PLAINFIELD, VILLAGE OF | 17197C0036E | 08-MAY-2002 | 02-05-1930A | 01
05 | IL | PLAINFIELD, VILLAGE OF | 17197C0036E | 26-JUN-2002 | 02-05-2869A | 02
05 | IL | PONTIAC, CITY OF | 1704260001C | 09-JAN-2002 | 02-05-0944A | 02
05 | IL | PONTIAC, CITY OF | 1704260001C | 30-JAN-2002 | 02-05-1250A | 02
05 | IL | POPE COUNTY | 1709040050B | 25-JAN-2002 | 02-05-0896A | 02
05 | IL | PRINCETON, CITY OF | 17001402B | 09-JAN-2002 | 02-05-0994A | 02
05 | IL | PROSPECT HEIGHTS, CITY OF | 17031C0206F | 07-JUN-2002 | 02-05-2421A | 02
05 | IL | RANDOLPH COUNTY | 1705750050B | 30-JAN-2002 | 02-05-1344A | 02
05 | IL | RANDOLPH COUNTY | 1705750125B | 06-MAR-2002 | 02-05-1837A | 02
05 | IL | ROMEOVILLE, VILLAGE OF | 17197C0135F | 27-FEB-2002 | 01-05-3151A | 01
05 | IL | ROMEOVILLE, VILLAGE OF | 17197C0065F | 09-JAN-2002 | 01-05-3986A | 02
05 | IL | ROMEOVILLE, VILLAGE OF | 17197C0065F | 13-FEB-2002 | 02-05-1194A | 02
05 | IL | ROMEOVILLE, VILLAGE OF | 17197C0065F | 08-MAY-2002 | 02-05-1857A | 02
05 | IL | ROMEOVILLE, VILLAGE OF | 17197C0135F | 15-MAR-2002 | 02-05-1895A | 01
05 | IL | ROUND LAKE BEACH, VILLAGE OF | 17097C0126F | 01-FEB-2002 | 01-05-3655A | 02
05 | IL | ROUND LAKE BEACH, VILLAGE OF | 17097C0127G | 20-MAR-2002 | 02-05-2048A | 02
05 | IL | ROUND LAKE, VILLAGE OF | 17097C0127G | 13-MAR-2002 | 02-05-0987A | 02
05 | IL | SANGAMON COUNTY * | 1709120325C | 01-MAY-2002 | 02-05-1309A | 02
05 | IL | SANGAMON COUNTY * | 1709120165C | 05-JUN-2002 | 02-05-2217A | 02
05 | IL | SAUK VILLAGE, VILLAGE OF | 17031C0827F | 16-JAN-2002 | 02-05-1111A | 02
05 | IL | SCHAUMBURG, VILLAGE OF | 17031C0191F | 13-FEB-2002 | 02-05-0981A | 01
05 | IL | SCHAUMBURG, VILLAGE OF | 17031C0167F | 12-APR-2002 | 02-05-1126P | 06
05 | IL | SCHAUMBURG, VILLAGE OF | 17031C0169F | 12-APR-2002 | 02-05-1126P | 06
05 | IL | SCHILLER PARK, VILLAGE OF | 17031C0359F | 16-JAN-2002 | 02-05-0997A | 02
05 | IL | SIDNEY, VILLAGE OF | 1700330001B | 16-JAN-2002 | 02-05-0723A | 02
05 | IL | SIDNEY, VILLAGE OF | 1700330001B | 09-JAN-2002 | 02-05-1013A | 02
05 | IL | SOUTH BARRINGTON, VILLAGE OF | 17031C0159F | 24-APR-2002 | 02-05-1259P | 06
05 | IL | SOUTH HOLLAND, VILLAGE OF | 17031C0754F | 13-FEB-2002 | 02-05-0141A | 01
05 | IL | SOUTH WILMINGTON, VILLAGE OF | 1710130001A | 13-MAR-2002 | 02-05-1926A | 02
05 | IL | ST. CLAIR COUNTY * | 1706160050A | 27-FEB-2002 | 02-05-0695A | 02
05 | IL | ST. CLAIR COUNTY * | 1706160065A | 24-MAY-2002 | 02-05-1718A | 02
05 | IL | ST. CLAIR COUNTY * | 1706160135A | 21-JUN-2002 | 02-05-2598A | 02
05 | IL | STREAMWOOD, VILLAGE OF | 17031C0164F | 28-JAN-2002 | 01-05-1230P | 05
05 | IL | SWANSEA, VILLAGE OF | 1706370001B | 03-JUN-2002 | 02-05-1108A | 02
05 | IL | TAZEWELL COUNTY | 1708150075B | 13-MAR-2002 | 02-05-1925A | 02
05 | IL | THORNTON, VILLAGE OF | 17031C0753F | 05-APR-2002 | 02-05-0743A | 01
05 | IL | TINLEY PARK, CITY OF | 17031C0712F | 04-MAR-2002 | 01-05-3901P | 05
05 | IL | TINLEY PARK, CITY OF | 17197C0212F | 04-MAR-2002 | 01-05-3901P | 05
05 | IL | TINLEY PARK, CITY OF | 17031C0706F | 15-MAR-2002 | 02-05-0664A | 17
05 | IL | TINLEY PARK, CITY OF | 17031C0709F | 27-MAR-2002 | 02-05-0888A | 17
05 | IL | TINLEY PARK, CITY OF | 17031C0717F | 22-MAY-2002 | 02-05-1454A | 01
05 | IL | TOULON,CITY OF | 17077901B | 24-MAY-2002 | 02-05-2037A | 02
05 | IL | TUSCOLA, CITY OF | 1701950005C | 07-JUN-2002 | 02-05-2784A | 02
05 | IL | VILLA GROVE, CITY OF | 1701940050B | 22-MAR-2002 | 02-05-2085A | 02
05 | IL | VILLA PARK, VILLAGE OF | 1702170001B | 08-FEB-2002 | 02-05-1039A | 02
05 | IL | WABASH COUNTY | 1709380075B | 12-APR-2002 | 02-05-2276A | 02
05 | IL | WARRENVILLE, CITY OF | 1702180002C | 01-APR-2002 | 02-05-1915A | 02
05 | IL | WATSEKA, CITY OF | 17075C0120D | 27-FEB-2002 | 02-05-1786A | 02
05 | IL | WAUCONDA, VILLAGE OF | 17097C0117F | 10-APR-2002 | 02-05-0904A | 02
05 | IL | WAUCONDA, VILLAGE OF | 17097C0140F | 10-APR-2002 | 02-05-0904A | 02
05 | IL | WAUKEGAN, CITY OF | 17097C0066G | 08-MAY-2002 | 02-05-2646A | 02
05 | IL | WESTCHESTER, VILLAGE OF | 17031C0459F | 12-APR-2002 | 02-05-2200A | 02
05 | IL | WESTCHESTER, VILLAGE OF | 17031C0459F | 19-APR-2002 | 02-05-2366A | 02
05 | IL | WHEELING, VILLAGE OF | 17031C0068F | 27-MAR-2002 | 02-05-1452A | 01
05 | IL | WHITESIDE COUNTY | 1706870125B | 25-JAN-2002 | 02-05-0604A | 02
05 | IL | WHITESIDE COUNTY | 1706870050B | 25-JAN-2002 | 02-05-1197A | 02
05 | IL | WHITESIDE COUNTY | 1706870075B | 08-MAR-2002 | 02-05-1451A | 02
05 | IL | WHITESIDE COUNTY | 1706870125B | 27-FEB-2002 | 02-05-1567A | 02
05 | IL | WHITESIDE COUNTY | 1706870175B | 29-MAY-2002 | 02-05-2819A | 01
05 | IL | WHITESIDE COUNTY | 1706870075B | 05-JUN-2002 | 02-05-3033A | 02
05 | IL | WILL COUNTY | 17197C0260E | 05-MAR-2002 | 01-05-3661P | 06
05 | IL | WILL COUNTY | 17197C0270E | 05-MAR-2002 | 01-05-3661P | 06
05 | IL | WILL COUNTY | 17197C0350E | 07-MAR-2002 | 01-05-369P | 06
05 | IL | WILL COUNTY | 17197C0310E | 15-FEB-2002 | 01-05-3751A | 02
05 | IL | WILL COUNTY | 17197C0385E | 26-MAR-2002 | 02-05-0926P | 06
05 | IL | WILL COUNTY | 17197C0580E | 20-FEB-2002 | 02-05-0941A | 02
05 | IL | WILL COUNTY | 17197C0385E | 13-MAR-2002 | 02-05-0953A | 02
05 | IL | WILL COUNTY | 17197C0353E | 26-APR-2002 | 02-05-1354A | 02
05 | IL | WILL COUNTY | 17197C0260E | 20-MAR-2002 | 02-05-1638P | 06
05 | IL | WILL COUNTY | 17197C0255E | 29-MAR-2002 | 02-05-1897A | 02
05 | IL | WILL COUNTY | 17197C0365E | 28-JUN-2002 | 02-05-1958A | 02
05 | IL | WILL COUNTY | 17197C0255E | 03-APR-2002 | 02-05-2182A | 02
05 | IL | WILL COUNTY | 17197C0405E | 03-APR-2002 | 02-05-2292A | 02
05 | IL | WILL COUNTY | 17197C0395E | 19-APR-2002 | 02-05-2406A | 02
05 | IL | WILL COUNTY | 17197C0420E | 05-JUN-2002 | 02-05-3032A | 02
05 | IL | WILLIAMSON COUNTY | 1709340001B | 05-APR-2002 | 02-05-1931A | 02
05 | IL | WILLOW SPRINGS, CITY OF | 17031C0582F | 24-FEB-2002 | 01-05-2074P | 05
05 | IL | WINFIELD, VILLAGE OF | 1702230001C | 21-JUN-2002 | 02-05-1709A | 02
05 | IL | WINNEBAGO COUNTY | 1707200035B | 16-JAN-2002 | 02-05-0965A | 02
05 | IL | WINNEBAGO COUNTY | 1707200035B | 23-JAN-2002 | 02-05-1161A | 02
05 | IL | WINNEBAGO COUNTY | 1707200035B | 30-JAN-2002 | 02-05-1239A | 02
05 | IL | WINNEBAGO COUNTY | 1707200050B | 06-MAR-2002 | 02-05-1622A | 02
05 | IL | WOOD RIVER, CITY OF | 1704510005B | 31-MAY-2002 | 02-05-2399A | 02
05 | IL | ZION, CITY OF | 17097C0079F | 17-MAY-2002 | 02-05-2781A | 02
05 | IN | ALLEN COUNTY * | 18003C0170D | 25-JAN-2002 | 02-05-0133A | 02
05 | IN | ALLEN COUNTY * | 18003C0385D | 27-MAR-2002 | 02-05-0685A | 02
05 | IN | ALLEN COUNTY * | 18003C0305D | 06-FEB-2002 | 02-05-1072A | 02
05 | IN | ALLEN COUNTY * | 18003C0165E | 12-APR-2002 | 02-05-2005A | 02
05 | IN | ALLEN COUNTY * | 18003C0405D | 12-JUN-2002 | 02-05-2874A | 02
05 | IN | BARTHOLOMEW COUNTY | 1800060150B | 24-APR-2002 | 02-05-2457A | 02
05 | IN | BARTHOLOMEW COUNTY | 1800060075B | 01-MAY-2002 | 02-05-2501A | 02
05 | IN | BATTLE GROUND, TOWN OF | 1802520001C | 05-APR-2002 | 02-05-0583A | 17
05 | IN | BATTLE GROUND, TOWN OF | 1804280015B | 05-APR-2002 | 02-05-0583A | 17
05 | IN | BOONE COUNTY | 1800110020C | 22-MAY-2002 | 02-05-2458A | 02
05 | IN | BROWN COUNTY | 1851740080B | 09-JAN-2002 | 02-05-0989A | 02
05 | IN | BROWN COUNTY | 1851740080B | 19-APR-2002 | 02-05-2395A | 02
05 | IN | BROWN COUNTY | 1851740015B | 19-APR-2002 | 02-05-2418A | 02
05 | IN | BROWN COUNTY | 1851740015B | 24-APR-2002 | 02-05-2466A | 02
05 | IN | CARMEL, CITY OF | 1800810009C | 07-JUN-2002 | 02-05-3188A | 02
05 | IN | CARROLL COUNTY | 1800190013B | 11-JAN-2002 | 02-05-1005A | 02
05 | IN | CARROLL COUNTY | 1800190013B | 29-MAR-2002 | 02-05-1811A | 02
05 | IN | CHESTERFIELD, TOWN OF | 1801510001B | 29-MAR-2002 | 02-05-2145A | 02
05 | IN | CLARK COUNTY | 1804260175C | 20-FEB-2002 | 02-05-1019A | 02
05 | IN | CLARK COUNTY | 1804260175C | 23-JAN-2002 | 02-05-1132A | 02
05 | IN | CLARK COUNTY | 1804260175C | 13-FEB-2002 | 02-05-1397A | 02
05 | IN | CLARK COUNTY | 1804260175C | 13-FEB-2002 | 02-05-1457A | 02
05 | IN | CLARK COUNTY | 1804260175C | 26-APR-2002 | 02-05-1459A | 01
05 | IN | CLARK COUNTY | 1804260175C | 03-MAY-2002 | 02-05-1575A | 02
05 | IN | CLARK COUNTY | 1804260175C | 15-MAR-2002 | 02-05-1919A | 02
05 | IN | CLARK COUNTY | 1804260175C | 03-MAY-2002 | 02-05-2086A | 01
05 | IN | CLARK COUNTY | 1804260175C | 19-APR-2002 | 02-05-2407A | 02
05 | IN | CLARK COUNTY | 1804260175C | 05-JUN-2002 | 02-05-2996A | 02
05 | IN | CLARK COUNTY | 1804260175C | 19-JUN-2002 | 02-05-3252A | 02
05 | IN | COLUMBUS, CITY OF | 1800070015D | 08-MAR-2002 | 02-05-1424A | 01
05 | IN | COLUMBUS, CITY OF | 1800070015D | 20-MAR-2002 | 02-05-1513A | 02
05 | IN | COLUMBUS, CITY OF | 1800070020D | 03-MAY-2002 | 02-05-2532A | 02
05 | IN | COLUMBUS, CITY OF | 1800070020D | 03-MAY-2002 | 02-05-2648A | 02
05 | IN | DE KALB COUNTY * | 1800440125B | 13-FEB-2002 | 02-05-0670A | 02
05 | IN | DE KALB COUNTY * | 180248—01C | 13-FEB-2002 | 02-05-1055A | 02
05 | IN | DE KALB COUNTY * | 1800440125B | 06-MAR-2002 | 02-05-1682A | 02
05 | IN | DE KALB COUNTY * | 1800440050B | 28-MAR-2002 | 02-05-675P | 05
05 | IN | DEARBORN COUNTY | 1800380025B | 29-MAY-2002 | 02-05-1351A | 02
05 | IN | DECATUR COUNTY | 1804300065C | 05-APR-2002 | 02-05-2315A | 02
05 | IN | DECATUR, CITY OF | 1800010005C | 20-FEB-2002 | 02-05-1265A | 02
05 | IN | DELAWARE COUNTY | 1800510125C | 14-JUN-2002 | 02-05-2993A | 02
05 | IN | DYER, TOWN OF | 1801290002D | 16-JAN-2002 | 02-05-0971A | 02
05 | IN | DYER, TOWN OF | 1801290001D | 17-APR-2002 | 02-05-2265A | 01
05 | IN | DYER, TOWN OF | 1801290002D | 03-JUN-2002 | 02-05-2307A | 01
05 | IN | DYER, TOWN OF | 1801290002D | 26-APR-2002 | 02-05-2640A | 02
05 | IN | DYER, TOWN OF | 1801290001D | 19-JUN-2002 | 02-05-3130A | 01
05 | IN | EDINBURGH, TOWN OF | 1801130005C | 12-APR-2002 | 02-05-0245A | 02
05 | IN | ELKHART COUNTY | 1800560075A | 15-FEB-2002 | 02-05-1422A | 02
05 | IN | ELLETTSVILLE, TOWN OF | 18017001C | 19-APR-2002 | 02-05-2385A | 02
05 | IN | ELWOOD, CITY OF | 1801520001C | 12-APR-2002 | 02-05-1189A | 02
05 | IN | ELWOOD, CITY OF | 1801520001C | 07-JUN-2002 | 02-05-2390A | 02
05 | IN | EVANSVILLE, CITY OF | 1802570001B | 03-APR-2002 | 02-05-1699A | 02
05 | IN | EVANSVILLE, CITY OF | 1802570001B | 12-APR-2002 | 02-05-1727A | 02
05 | IN | FISHERS, TOWN OF | 1800820030E | 31-MAY-2002 | 02-05-1479A | 01
05 | IN | FLOYD COUNTY | 1804320020B | 12-JUN-2002 | 02-05-2978A | 02
05 | IN | FORT WAYNE, CITY OF | 18003C0270E | 12-APR-2002 | 02-05-2004A | 02
05 | IN | FORT WAYNE, CITY OF | 18003C0270E | 24-APR-2002 | 02-05-2006A | 02
05 | IN | FORT WAYNE, CITY OF | 18003C0270E | 17-MAY-2002 | 02-05-2235A | 02
05 | IN | FORT WAYNE, CITY OF | 18003C0270E | 29-MAY-2002 | 02-05-2611A | 02
05 | IN | FRANKLIN COUNTY * | 18047C0100C | 03-APR-2002 | 02-05-1710A | 02
05 | IN | FRANKLIN, CITY OF | 1801110100C | 09-JAN-2002 | 02-05-0616A | 01
05 | IN | GRANT COUNTY* | 1804350100B | 01-FEB-2002 | 02-05-0287A | 02
05 | IN | GRANT COUNTY* | 1804350100B | 20-MAR-2002 | 02-05-0425A | 02
05 | IN | GREENDALE, TOWN OF | 1800400002B | 09-JAN-2002 | 00-05-285P | 05
05 | IN | GREENSBURG, CITY OF | 1800430001B | 20-FEB-2002 | 02-05-0715A | 02
05 | IN | GREENSBURG, CITY OF | 1804300105B | 05-APR-2002 | 02-05-1405A | 01
05 | IN | GREENWOOD, CITY OF | 1801150002B | 22-APR-2002 | 02-05-0605P | 05
05 | IN | HAMILTON COUNTY* | 1800800025B | 24-MAY-2002 | 02-05-2209A | 02
05 | IN | HAMMOND, CITY OF | 1801340008B | 15-FEB-2002 | 02-05-0590A | 01
05 | IN | HANCOCK COUNTY | 1804190125B | 25-JAN-2002 | 02-05-0349A | 02
05 | IN | HANCOCK COUNTY | 1804190100B | 06-MAR-2002 | 02-05-0526A | 01
05 | IN | HANCOCK COUNTY | 1804190025B | 15-FEB-2002 | 02-05-1086A | 02
05 | IN | HANCOCK COUNTY | 1804190025B | 13-MAR-2002 | 02-05-1113A | 02
05 | IN | HANCOCK COUNTY | 1804190100B | 07-JUN-2002 | 02-05-3108A | 02
05 | IN | HARRISON COUNTY | 1800850003B | 19-APR-2002 | 02-05-2273A | 02
05 | IN | HENDRICKS COUNTY | 1804150050B | 09-JAN-2002 | 02-05-0550A | 17
05 | IN | HENDRICKS COUNTY | 1804150050B | 01-FEB-2002 | 02-05-0725A | 17
05 | IN | HENDRICKS COUNTY | 1804150025B | 22-MAY-2002 | 02-05-1184A | 02
05 | IN | HENDRICKS COUNTY | 1804150100B | 06-FEB-2002 | 02-05-1393A | 02
05 | IN | HENDRICKS COUNTY | 1804150050B | 12-APR-2002 | 02-05-2064A | 02
05 | IN | HIGHLAND, TOWN OF | 1851760002C | 13-FEB-2002 | 02-05-1022A | 01
05 | IN | HOBART, CITY OF | 1801360005B | 29-MAR-2002 | 02-05-2160A | 02
05 | IN | HOWARD COUNTY | 1804140027B | 20-FEB-2002 | 02-05-1602A | 17
05 | IN | HOWARD COUNTY | 1804140029B | 12-APR-2002 | 02-05-2247A | 02
05 | IN | HOWARD COUNTY | 1804140034B | 31-MAY-2002 | 02-05-2857A | 02
05 | IN | INDIANAPOLIS, CITY OF | 18097C0126E | 07-MAR-2002 | 02-05-676P | 05
05 | IN | INDIANAPOLIS, CITY OF | 18097C0190E | 11-JAN-2002 | 01-05-3717A | 17
05 | IN | INDIANAPOLIS, CITY OF | 18097C0262E | 23-JAN-2002 | 02-05-0029A | 01
05 | IN | INDIANAPOLIS, CITY OF | 18097C0128E | 11-JAN-2002 | 02-05-0151A | 17
05 | IN | INDIANAPOLIS, CITY OF | 18097C0264E | 16-JAN-2002 | 02-05-0167A | 02
05 | IN | INDIANAPOLIS, CITY OF | 18097C0254E | 09-JAN-2002 | 02-05-0243A | 17
05 | IN | INDIANAPOLIS, CITY OF | 18097C0263E | 16-JAN-2002 | 02-05-0730A | 02
05 | IN | INDIANAPOLIS, CITY OF | 18097C0114E | 20-MAR-2002 | 02-05-0737A | 01
05 | IN | INDIANAPOLIS, CITY OF | 18097C0205E | 20-MAR-2002 | 02-05-0737A | 01
05 | IN | INDIANAPOLIS, CITY OF | 18097C0062E | 29-MAR-2002 | 02-05-0907A | 01
05 | IN | INDIANAPOLIS, CITY OF | 18097C0244E | 04-JAN-2002 | 02-05-0910A | 02
05 | IN | INDIANAPOLIS, CITY OF | 18097C0127E | 11-JAN-2002 | 02-05-0932A | 02
05 | IN | INDIANAPOLIS, CITY OF | 18097C0136E | 15-MAR-2002 | 02-05-0940A | 17
05 | IN | INDIANAPOLIS, CITY OF | 18097C0114E | 06-FEB-2002 | 02-05-0951A | 01
05 | IN | INDIANAPOLIS, CITY OF | 18097C0240E | 30-JAN-2002 | 02-05-1016A | 01
05 | IN | INDIANAPOLIS, CITY OF | 18097C0127E | 18-JAN-2002 | 02-05-1030A | 02
05 | IN | INDIANAPOLIS, CITY OF | 18097C0089E | 16-JAN-2002 | 02-05-1097A | 02
05 | IN | INDIANAPOLIS, CITY OF | 18097C0061E | 30-JAN-2002 | 02-05-1104A | 02
05 | IN | INDIANAPOLIS, CITY OF | 18097C0063E | 25-JAN-2002 | 02-05-1145A | 02
05 | IN | INDIANAPOLIS, CITY OF | 18097C0180E | 27-FEB-2002 | 02-05-1163A | 02
05 | IN | INDIANAPOLIS, CITY OF | 18097C0061E | 30-JAN-2002 | 02-05-1210A | 02
05 | IN | INDIANAPOLIS, CITY OF | 18097C0264E | 13-FEB-2002 | 02-05-1244A | 02
05 | IN | INDIANAPOLIS, CITY OF | 18097C0241E | 05-APR-2002 | 02-05-1326A | 01
05 | IN | INDIANAPOLIS, CITY OF | 18097C0243E | 05-APR-2002 | 02-05-1326A | 01
05 | IN | INDIANAPOLIS, CITY OF | 18097C0240E | 12-APR-2002 | 02-05-1327A | 01
05 | IN | INDIANAPOLIS, CITY OF | 18097C0241E | 12-APR-2002 | 02-05-1327A | 01
05 | IN | INDIANAPOLIS, CITY OF | 18097C0261E | 01-FEB-2002 | 02-05-1338A | 02
05 | IN | INDIANAPOLIS, CITY OF | 18097C0114E | 06-MAR-2002 | 02-05-1343A | 01
05 | IN | INDIANAPOLIS, CITY OF | 18097C0136E | 13-FEB-2002 | 02-05-1377A | 02
05 | IN | INDIANAPOLIS, CITY OF | 18097C0114E | 02-APR-2002 | 02-05-1466P | 06
05 | IN | INDIANAPOLIS, CITY OF | 18097C0118E | 02-APR-2002 | 02-05-1466P | 06
05 | IN | INDIANAPOLIS, CITY OF | 18097C0262E | 20-FEB-2002 | 02-05-1520A | 02
05 | IN | INDIANAPOLIS, CITY OF | 18097C0188E | 03-APR-2002 | 02-05-1527P | 06
05 | IN | INDIANAPOLIS, CITY OF | 18097C0126E | 03-APR-2002 | 02-05-1528P | 06
05 | IN | INDIANAPOLIS, CITY OF | 18097C0088E | 02-APR-2002 | 02-05-1530P | 06
05 | IN | INDIANAPOLIS, CITY OF | 18097C0089E | 02-APR-2002 | 02-05-1530P | 06
05 | IN | INDIANAPOLIS, CITY OF | 18097C0088E | 20-FEB-2002 | 02-05-1597A | 02
05 | IN | INDIANAPOLIS, CITY OF | 18097C0069E | 01-MAY-2002 | 02-05-1605A | 17
05 | IN | INDIANAPOLIS, CITY OF | 18097C0089E | 08-MAR-2002 | 02-05-1745A | 02
05 | IN | INDIANAPOLIS, CITY OF | 18097C0114E | 27-FEB-2002 | 02-05-1755A | 02
05 | IN | INDIANAPOLIS, CITY OF | 18097C0089E | 13-MAR-2002 | 02-05-1791A | 02
05 | IN | INDIANAPOLIS, CITY OF | 18097C0186E | 05-APR-2002 | 02-05-1832A | 01
05 | IN | INDIANAPOLIS, CITY OF | 18097C0109E | 31-MAY-2002 | 02-05-1869A | 02
05 | IN | INDIANAPOLIS, CITY OF | 18097C0041E | 15-MAR-2002 | 02-05-1901A | 02
05 | IN | INDIANAPOLIS, CITY OF | 18097C0169E | 03-MAY-2002 | 02-05-1948A | 01
05 | IN | INDIANAPOLIS, CITY OF | 18097C0252E | 01-MAY-2002 | 02-05-1955A | 02
05 | IN | INDIANAPOLIS, CITY OF | 18097C0164E | 28-JUN-2002 | 02-05-2021A | 02
05 | IN | INDIANAPOLIS, CITY OF | 18097C0254E | 29-MAR-2002 | 02-05-2091A | 02
05 | IN | INDIANAPOLIS, CITY OF | 18097C0044E | 29-MAR-2002 | 02-05-2136A | 02
05 | IN | INDIANAPOLIS, CITY OF | 18097C0240E | 05-APR-2002 | 02-05-2269A | 02
05 | IN | INDIANAPOLIS, CITY OF | 18097C0086E | 04-APR-2002 | 02-05-2301A | 02
05 | IN | INDIANAPOLIS, CITY OF | 18097C0142E | 10-MAY-2002 | 02-05-2318A | 02
05 | IN | INDIANAPOLIS, CITY OF | 18097C0039E | 19-APR-2002 | 02-05-2376A | 02
05 | IN | INDIANAPOLIS, CITY OF | 18097C0205E | 24-APR-2002 | 02-05-2425A | 01
05 | IN | INDIANAPOLIS, CITY OF | 18097C0109E | 26-APR-2002 | 02-05-2488A | 02
05 | IN | INDIANAPOLIS, CITY OF | 18097C0107E | 03-MAY-2002 | 02-05-2581A | 02
05 | IN | INDIANAPOLIS, CITY OF | 18097C0044E | 17-MAY-2002 | 02-05-2585A | 02
05 | IN | INDIANAPOLIS, CITY OF | 18097C0114E | 15-MAY-2002 | 02-05-2707A | 02
05 | IN | INDIANAPOLIS, CITY OF | 18097C0110E | 10-MAY-2002 | 02-05-2735A | 02
05 | IN | INDIANAPOLIS, CITY OF | 18097C0105E | 08-MAY-2002 | 02-05-2739A | 02
05 | IN | INDIANAPOLIS, CITY OF | 18097C0244E | 12-JUN-2002 | 02-05-2809A | 02
05 | IN | INDIANAPOLIS, CITY OF | 18097C0089E | 17-MAY-2002 | 02-05-2814A | 02
05 | IN | INDIANAPOLIS, CITY OF | 18097C0290E | 07-JUN-2002 | 02-05-2835A | 02
05 | IN | INDIANAPOLIS, CITY OF | 18097C0089E | 29-MAY-2002 | 02-05-2859A | 02
05 | IN | INDIANAPOLIS, CITY OF | 18097C0064E | 12-JUN-2002 | 02-05-2865A | 02
05 | IN | INDIANAPOLIS, CITY OF | 18097C0061E | 31-MAY-2002 | 02-05-2881A | 02
05 | IN | INDIANAPOLIS, CITY OF | 18097C0210E | 05-JUN-2002 | 02-05-3013A | 02
05 | IN | INDIANAPOLIS, CITY OF | 18097C0261E | 14-JUN-2002 | 02-05-3069A | 02
05 | IN | INDIANAPOLIS, CITY OF | 18097C0160E | 19-JUN-2002 | 02-05-3098A | 02
05 | IN | INDIANAPOLIS, CITY OF | 18097C0167E | 19-JUN-2002 | 02-05-3132A | 02
05 | IN | INDIANAPOLIS, CITY OF | 18097C0068E | 07-JUN-2002 | 02-05-3137A | 02
05 | IN | INDIANAPOLIS, CITY OF | 18097C0254E | 12-JUN-2002 | 02-05-3176A | 02
05 | IN | INDIANAPOLIS, CITY OF | 18097C0180E | 14-JUN-2002 | 02-05-3202A | 01
05 | IN | INDIANAPOLIS, CITY OF | 18097C0160E | 19-JUN-2002 | 02-05-3203A | 01
05 | IN | INDIANAPOLIS, CITY OF | 18097C0126E | 14-JUN-2002 | 02-05-3218A | 02
05 | IN | JACKSON COUNTY | 1804050130B | 05-APR-2002 | 02-05-2314X | 01
05 | IN | JACKSON COUNTY | 1804050130B | 24-APR-2002 | 02-05-2511X | 01
05 | IN | JASPER, CITY OF | 1800550010C | 08-FEB-2002 | 02-05-0621A | 01
05 | IN | JAY COUNTY | 1804400002A | 19-APR-2002 | 02-05-1877A | 02
05 | IN | JEFFERSONVILLE, CITY OF | 1800270005D | 22-MAY-2002 | 02-05-2690A | 02
05 | IN | JENNINGS COUNTY | 1801080003B | 09-JAN-2002 | 02-05-0613A | 02
05 | IN | JOHNSON COUNTY | 1801110100C | 29-MAR-2002 | 02-05-0901A | 02
05 | IN | JOHNSON COUNTY | 1801110012C | 01-MAY-2002 | 02-05-1659A | 01
05 | IN | JOHNSON COUNTY | 1801110050C | 01-MAR-2002 | 02-05-1817A | 02
05 | IN | JOHNSON COUNTY | 1801110100C | 31-MAY-2002 | 02-05-2252A | 02
05 | IN | JOHNSON COUNTY | 1801110125C | 19-APR-2002 | 02-05-2461A | 02
05 | IN | JOHNSON COUNTY | 1801110014C | 24-APR-2002 | 02-05-2465A | 02
05 | IN | KOSCIUSKO COUNTY | 18085C0067C | 09-JAN-2002 | 01-05-4000A | 17
05 | IN | KOSCIUSKO COUNTY | 18085C0125C | 16-JAN-2002 | 02-05-0988A | 01
05 | IN | KOSCIUSKO COUNTY | 18085C0100C | 30-JAN-2002 | 02-05-1205A | 02
05 | IN | KOSCIUSKO COUNTY | 18085C0100C | 06-FEB-2002 | 02-05-1358A | 02
05 | IN | KOSCIUSKO COUNTY | 18085C0100C | 10-APR-2002 | 02-05-1404A | 02
05 | IN | KOSCIUSKO COUNTY | 18085C0080C | 20-FEB-2002 | 02-05-1537A | 02
05 | IN | KOSCIUSKO COUNTY | 18085C0080C | 27-FEB-2002 | 02-05-1738A | 02
05 | IN | KOSCIUSKO COUNTY | 18085C0067C | 07-JUN-2002 | 02-05-1929A | 01
05 | IN | KOSCIUSKO COUNTY | 18085C0040C | 26-APR-2002 | 02-05-1947A | 02
05 | IN | KOSCIUSKO COUNTY | 18085C0035C | 03-APR-2002 | 02-05-2167A | 02
05 | IN | KOSCIUSKO COUNTY | 18085C0080C | 17-APR-2002 | 02-05-2360A | 02
05 | IN | KOSCIUSKO COUNTY | 18085C0100C | 10-MAY-2002 | 02-05-2658A | 02
05 | IN | KOSCIUSKO COUNTY | 18085C0080C | 07-JUN-2002 | 02-05-2714A | 02
05 | IN | KOSCIUSKO COUNTY | 18085C0080C | 08-MAY-2002 | 02-05-2744A | 02
05 | IN | KOSCIUSKO COUNTY | 18085C0035C | 05-JUN-2002 | 02-05-2856A | 02
05 | IN | KOSCIUSKO COUNTY | 18085C0080C | 31-MAY-2002 | 02-05-2970A | 02
05 | IN | KOSCIUSKO COUNTY | 18085C0059C | 07-JUN-2002 | 02-05-3101A | 02
05 | IN | LAGRANGE COUNTY | 1801250004B | 05-APR-2002 | 02-05-2110A | 02
05 | IN | LAGRANGE COUNTY | 1801250004B | 19-JUN-2002 | 02-05-2295A | 02
05 | IN | LAGRANGE COUNTY | 1801250004B | 19-JUN-2002 | 02-05-3088A | 02
05 | IN | LAKE COUNTY | 1801260225B | 17-APR-2002 | 02-05-1775A | 02
05 | IN | LAWRENCE COUNTY | 1804410001B | 04-JAN-2002 | 01-05-3872A | 02
05 | IN | LAWRENCE COUNTY | 1804410002B | 04-JAN-2002 | 01-05-3872A | 02
05 | IN | LAWRENCE COUNTY | 1804410002B | 15-MAY-2002 | 02-05-1807A | 02
05 | IN | LAWRENCE COUNTY | 1804410002B | 28-JUN-2002 | 02-05-3257A | 02
05 | IN | LEBANON, CITY OF | 1800130001D | 06-FEB-2002 | 01-05-3662A | 02
05 | IN | LEBANON, CITY OF | 1800130001D | 21-JUN-2002 | 02-05-3358A | 02
05 | IN | LIBERTY, TOWNSHIP OF | 1804880002A | 04-JAN-2002 | 02-05-0903A | 02
05 | IN | LIBERTY, TOWNSHIP OF | 1804880002A | 07-JUN-2002 | 02-05-3106A | 02
05 | IN | MADISON COUNTY | 1804420005B | 10-APR-2002 | 02-05-1754A | 02
05 | IN | MADISON COUNTY | 1804420003B | 01-MAY-2002 | 02-05-1793A | 02
05 | IN | MADISON COUNTY | 1804420003B | 08-MAY-2002 | 02-05-2305A | 02
05 | IN | MADISON COUNTY | 1804420005B | 19-JUN-2002 | 02-05-3245A | 02
05 | IN | MARSHALL COUNTY | 1804430025B | 20-MAR-2002 | 02-05-1664A | 02
05 | IN | MARSHALL COUNTY | 1804430070B | 13-MAR-2002 | 02-05-1808A | 02
05 | IN | MARSHALL COUNTY | 1804430070B | 05-APR-2002 | 02-05-2096A | 02
05 | IN | MARSHALL COUNTY | 1804430070B | 14-JUN-2002 | 02-05-3122A | 02
05 | IN | MERRILLVILLE, TOWN OF | 1801380005B | 03-APR-2002 | 02-05-1547A | 02
05 | IN | MORGAN COUNTY | 1801760050B | 08-FEB-2002 | 02-05-1603A | 02
05 | IN | MORGAN COUNTY | 1801760050B | 15-MAR-2002 | 02-05-1882A | 02
05 | IN | MORGAN COUNTY | 1801760050B | 10-MAY-2002 | 02-05-2253A | 02
05 | IN | MORGAN COUNTY | 1801760100B | 15-MAY-2002 | 02-05-2582A | 02
05 | IN | MUNCIE, CITY OF | 1800510075C | 19-APR-2002 | 02-05-2171A | 02
05 | IN | MUNCIE, CITY OF | 1800510075C | 25-APR-2002 | 02-05-2453A | 02
05 | IN | NEW ALBANY, CITY OF | 1800620004D | 06-MAR-2002 | 02-05-1385A | 02
05 | IN | NOBLE COUNTY * | 1801830100B | 14-MAY-2002 | 01-05-1706P | 05
05 | IN | NOBLE COUNTY * | 1801830075B | 18-JAN-2002 | 01-05-3565P | 05
05 | IN | NOBLE COUNTY * | 1801830075B | 06-FEB-2002 | 02-05-0456A | 02
05 | IN | NOBLE COUNTY * | 1801830075B | 20-FEB-2002 | 02-05-1070A | 02
05 | IN | NOBLE COUNTY * | 1801830075B | 01-FEB-2002 | 02-05-1073A | 02
05 | IN | NOBLE COUNTY * | 1801830075B | 26-APR-2002 | 02-05-1698A | 02
05 | IN | NOBLE COUNTY * | 1801830075B | 20-MAR-2002 | 02-05-1722A | 02
05 | IN | NOBLE COUNTY * | 1801830075A | 17-MAY-2002 | 02-05-1985A | 02
05 | IN | NOBLESVILLE, CITY OF | 1800820030E | 01-MAR-2002 | 02-05-1694A | 02
05 | IN | NOBLESVILLE, CITY OF | 1800820005E | 26-APR-2002 | 02-05-1721A | 02
05 | IN | NOBLESVILLE, CITY OF | 1800820005E | 31-MAY-2002 | 02-05-2155A | 02
05 | IN | NOBLESVILLE, CITY OF | 1800820015E | 01-FEB-2002 | 02-05-1142A | 01
05 | IN | NORTH WEBSTER, TOWN OF | 18085C0045C | 19-APR-2002 | 02-05-2369A | 02
05 | IN | PLAINFIELD, TOWN OF | 1804150100B | 17-APR-2002 | 02-05-2293A | 02
05 | IN | PLYMOUTH, CITY OF | 18016401B | 15-MAY-2002 | 02-05-2348A | 02
05 | IN | POSEY COUNTY | 18020912B | 08-FEB-2002 | 02-05-1431A | 02
05 | IN | POSEY COUNTY | 18020930B | 08-MAY-2002 | 02-05-2499A | 02
05 | IN | POSEY COUNTY | 18020919B | 26-JUN-2002 | 02-05-2708A | 02
05 | IN | POSEY COUNTY | 18020930B | 22-MAY-2002 | 02-05-2948X | 02
05 | IN | PUTNAM COUNTY | 1802130003B | 18-JAN-2002 | 02-05-1004A | 02
05 | IN | PUTNAM COUNTY | 1802130003B | 16-JAN-2002 | 02-05-1098A | 02
05 | IN | RUSH COUNTY | 1804210125B | 15-MAY-2002 | 02-05-2573A | 02
05 | IN | SCHERERVILLE, TOWN OF | 1801260085B | 16-JAN-2002 | 02-05-0869A | 02
05 | IN | SCHERERVILLE, TOWN OF | 1801420005B | 05-APR-2002 | 02-05-0979A | 02
05 | IN | SCHERERVILLE, TOWN OF | 1801260085B | 03-MAY-2002 | 02-05-2552A | 02
05 | IN | SCOTT COUNTY | 1804740001B | 06-FEB-2002 | 02-05-1311A | 02
05 | IN | SELLERSBURG, TOWN OF | 1800280001B | 08-FEB-2002 | 02-05-1337A | 02
05 | IN | SEYMOUR, CITY OF | 1800990004C | 11-JAN-2002 | 02-05-0991A | 02
05 | IN | SEYMOUR, CITY OF | 1800990004C | 20-FEB-2002 | 02-05-1025A | 02
05 | IN | SEYMOUR, CITY OF | 1800990004C | 22-MAR-2002 | 02-05-1359A | 01
05 | IN | SEYMOUR, CITY OF | 1800990004C | 05-APR-2002 | 02-05-2032P | 06
05 | IN | SEYMOUR, CITY OF | 1800990004C | 26-APR-2002 | 02-05-2497A | 02
05 | IN | SOUTH BEND, CITY OF | 1802310006C | 26-APR-2002 | 02-05-1365A | 02
05 | IN | SOUTH WHITLEY, TOWN OF | 18030102B | 16-JAN-2002 | 02-05-0827A | 02
05 | IN | SPENCER COUNTY | 1802370150A | 20-FEB-2002 | 02-05-1150A | 02
05 | IN | SPENCER COUNTY | 1802370150A | 22-FEB-2002 | 02-05-1579A | 02
05 | IN | SPENCER COUNTY | 1802370150A | 13-MAR-2002 | 02-05-1959A | 02
05 | IN | ST. JOSEPH COUNTY | 1802240040B | 22-FEB-2002 | 02-05-1361A | 02
05 | IN | ST. JOSEPH COUNTY | 1802240040B | 19-APR-2002 | 02-05-1676A | 02
05 | IN | ST. JOSEPH COUNTY | 1802240040B | 22-MAY-2002 | 02-05-2834A | 02
05 | IN | STEUBEN COUNTY* | 1802430100B | 07-MAR-2002 | 01-05-1705P | 05
05 | IN | STEUBEN COUNTY* | 1802430025B | 18-JAN-2002 | 02-05-1035A | 02
05 | IN | STEUBEN COUNTY* | 1802430050B | 13-FEB-2002 | 02-05-1274A | 02
05 | IN | STEUBEN COUNTY* | 1802430025B | 20-FEB-2002 | 02-05-1285A | 02
05 | IN | STEUBEN COUNTY* | 1802430025B | 27-FEB-2002 | 02-05-1685A | 02
05 | IN | STEUBEN COUNTY* | 1802430025B | 13-MAR-2002 | 02-05-1717A | 02
05 | IN | STEUBEN COUNTY* | 1802430025B | 10-APR-2002 | 02-05-2007A | 02
05 | IN | STEUBEN COUNTY* | 1802430025B | 10-APR-2002 | 02-05-2008A | 02
05 | IN | STEUBEN COUNTY* | 1802430025B | 03-APR-2002 | 02-05-2009A | 02
05 | IN | STEUBEN COUNTY* | 1802430025B | 08-MAY-2002 | 02-05-2238A | 02
05 | IN | STEUBEN COUNTY* | 1802430025B | 08-MAY-2002 | 02-05-2597X | 02
05 | IN | STEUBEN COUNTY* | 1802430025B | 17-MAY-2002 | 02-05-2616A | 02
05 | IN | STEUBEN COUNTY* | 1802430025B | 17-MAY-2002 | 02-05-2618A | 02
05 | IN | STEUBEN COUNTY* | 1802430100B | 28-JUN-2002 | 02-05-2935A | 02
05 | IN | TELL CITY, CITY OF | 18019709B | 22-FEB-2002 | 02-05-1568A | 02
05 | IN | TELL CITY, CITY OF | 18019709B | 19-APR-2002 | 02-05-2384A | 02
05 | IN | TIPPECANOE COUNTY | 1804280030B | 12-JUN-2002 | 02-05-3144A | 02
05 | IN | TIPPECANOE COUNTY | 1804280030B | 14-JUN-2002 | 02-05-3146A | 02
05 | IN | TIPPECANOE COUNTY | 1804280030B | 12-JUN-2002 | 02-05-3150A | 02
05 | IN | TIPPECANOE COUNTY | 1804280050B | 12-JUN-2002 | 02-05-3150A | 02
05 | IN | TIPTON, CITY OF | 1802550001C | 15-MAY-2002 | 02-05-2547A | 02
05 | IN | VANDERBURGH COUNTY * | 1802560015C | 16-JAN-2002 | 02-05-0421A | 02
05 | IN | VANDERBURGH COUNTY * | 1802560075C | 25-JAN-2002 | 02-05-0698A | 02
05 | IN | VANDERBURGH COUNTY * | 1802560025C | 04-JAN-2002 | 02-05-0700A | 02
05 | IN | VANDERBURGH COUNTY * | 1802560025C | 09-JAN-2002 | 02-05-0705A | 01
05 | IN | VANDERBURGH COUNTY * | 1802560025C | 18-JAN-2002 | 02-05-0710A | 01
05 | IN | VANDERBURGH COUNTY * | 1802560015C | 11-JAN-2002 | 02-05-0711A | 01
05 | IN | VANDERBURGH COUNTY * | 1802560025C | 18-JAN-2002 | 02-05-0712A | 01
05 | IN | VANDERBURGH COUNTY * | 1802560025C | 30-JAN-2002 | 02-05-1074A | 01
05 | IN | VANDERBURGH COUNTY * | 1802560025C | 13-FEB-2002 | 02-05-1075A | 01
05 | IN | VANDERBURGH COUNTY * | 1802560015C | 01-FEB-2002 | 02-05-1079A | 01
05 | IN | VANDERBURGH COUNTY * | 1802560025C | 22-FEB-2002 | 02-05-1081A | 02
05 | IN | VANDERBURGH COUNTY * | 1802560025C | 06-FEB-2002 | 02-05-1082A | 01
05 | IN | VANDERBURGH COUNTY * | 1802560025C | 06-FEB-2002 | 02-05-1261A | 02
05 | IN | VANDERBURGH COUNTY * | 1802560025C | 20-FEB-2002 | 02-05-1272A | 01
05 | IN | VANDERBURGH COUNTY * | 1802560025C | 22-FEB-2002 | 02-05-1291A | 02
05 | IN | VANDERBURGH COUNTY * | 1802560025C | 13-MAR-2002 | 02-05-1307A | 01
05 | IN | VANDERBURGH COUNTY * | 1802560015C | 22-FEB-2002 | 02-05-1308A | 02
05 | IN | VANDERBURGH COUNTY * | 1802560025C | 27-FEB-2002 | 02-05-1686A | 01
05 | IN | VANDERBURGH COUNTY * | 1802560025C | 27-FEB-2002 | 02-05-1687A | 02
05 | IN | VANDERBURGH COUNTY * | 1802560025C | 20-FEB-2002 | 02-05-1689X | 02
05 | IN | VANDERBURGH COUNTY * | 1802560025C | 20-MAR-2002 | 02-05-1700A | 02
05 | IN | VANDERBURGH COUNTY * | 1802560015C | 20-MAR-2002 | 02-05-1714A | 01
05 | IN | VANDERBURGH COUNTY * | 1802560015C | 13-MAR-2002 | 02-05-1715A | 02
05 | IN | VANDERBURGH COUNTY * | 1802560025C | 03-APR-2002 | 02-05-1724A | 01
05 | IN | VANDERBURGH COUNTY * | 1802560075C | 26-MAR-2002 | 02-05-1971P | 05
05 | IN | VANDERBURGH COUNTY * | 1802560025C | 20-MAR-2002 | 02-05-1972A | 02
05 | IN | VANDERBURGH COUNTY * | 1802560015C | 20-MAR-2002 | 02-05-1973A | 01
05 | IN | VANDERBURGH COUNTY * | 1802560025C | 20-MAR-2002 | 02-05-1984A | 01
05 | IN | VANDERBURGH COUNTY * | 1802560100B | 27-MAR-2002 | 02-05-1997A | 02
05 | IN | VANDERBURGH COUNTY * | 1802560025C | 27-MAR-2002 | 02-05-1998A | 02
05 | IN | VANDERBURGH COUNTY * | 1802560025C | 10-APR-2002 | 02-05-2202A | 01
05 | IN | VANDERBURGH COUNTY * | 1802560025C | 24-APR-2002 | 02-05-2214A | 01
05 | IN | VANDERBURGH COUNTY * | 1802560025C | 26-APR-2002 | 02-05-2232A | 02
05 | IN | VANDERBURGH COUNTY * | 1802560025C | 17-MAY-2002 | 02-05-2591A | 01
05 | IN | VANDERBURGH COUNTY * | 1802560015C | 08-MAY-2002 | 02-05-2595A | 02
05 | IN | VANDERBURGH COUNTY * | 1802560075C | 12-JUN-2002 | 02-05-2600A | 02
05 | IN | VANDERBURGH COUNTY * | 1802560025C | 17-MAY-2002 | 02-05-2606A | 02
05 | IN | VANDERBURGH COUNTY * | 1802560025C | 17-MAY-2002 | 02-05-2609A | 02
05 | IN | VANDERBURGH COUNTY * | 1802560015C | 24-MAY-2002 | 02-05-2610A | 02
05 | IN | VANDERBURGH COUNTY * | 1802560015C | 26-JUN-2002 | 02-05-2620A | 02
05 | IN | VANDERBURGH COUNTY * | 1802560025C | 29-MAY-2002 | 02-05-2629A | 01
05 | IN | VANDERBURGH COUNTY * | 1802560015C | 05-JUN-2002 | 02-05-2898A | 02
05 | IN | VANDERBURGH COUNTY * | 1802560075C | 28-JUN-2002 | 02-05-2900A | 02
05 | IN | VANDERBURGH COUNTY * | 1802560025C | 12-JUN-2002 | 02-05-2906A | 01
05 | IN | VANDERBURGH COUNTY * | 1802560075C | 21-JUN-2002 | 02-05-2921A | 02
05 | IN | VANDERBURGH COUNTY * | 1802560025C | 21-JUN-2002 | 02-05-2922A | 01
05 | IN | VANDERBURGH COUNTY * | 1802560025C | 26-JUN-2002 | 02-05-2923A | 02
05 | IN | VANDERBURGH COUNTY * | 1802560025C | 28-JUN-2002 | 02-05-2924A | 01
05 | IN | VANDERBURGH COUNTY * | 1802560100B | 28-JUN-2002 | 02-05-2926A | 02
05 | IN | VERMILLION COUNTY | 1804490001B | 11-JAN-2002 | 02-05-0962A | 02
05 | IN | VIGO COUNTY | 1802630070B | 30-JAN-2002 | 01-05-3417A | 02
05 | IN | VIGO COUNTY | 1802630020B | 22-MAR-2002 | 02-05-1734A | 02
05 | IN | VIGO COUNTY | 1802630070B | 24-APR-2002 | 02-05-2388A | 02
05 | IN | VIGO COUNTY | 1802630130B | 19-JUN-2002 | 02-05-3225A | 02
05 | IN | WABASH COUNTY | 18169C0105D | 12-JUN-2002 | 02-05-1855A | 01
05 | IN | WABASH, CITY OF | 18169C0070D | 21-JUN-2002 | 02-05-3185A | 02
05 | IN | WABASH, CITY OF | 18169C0070D | 19-JUN-2002 | 02-05-3243A | 02
05 | IN | WABASH, CITY OF | 18169C0070D | 19-JUN-2002 | 02-05-3260A | 02
05 | IN | WARRICK COUNTY * | 1804180175B | 30-JAN-2002 | 02-05-1069A | 02
05 | IN | WARRICK COUNTY * | 1804180175B | 08-MAY-2002 | 02-05-1270A | 02
05 | IN | WARRICK COUNTY * | 1804180175B | 13-MAR-2002 | 02-05-1711A | 02
05 | IN | WARRICK COUNTY * | 1804180200B | 24-APR-2002 | 02-05-2203A | 02
05 | IN | WARRICK COUNTY * | 1804180175B | 08-MAY-2002 | 02-05-2237A | 02
05 | IN | WARRICK COUNTY * | 1804180175B | 12-JUN-2002 | 02-05-2630A | 02
05 | IN | WARSAW, CITY OF | 18085C0078C | 09-JAN-2002 | 02-05-0614A | 02
05 | IN | WARSAW, CITY OF | 18085C0078C | 14-JUN-2002 | 02-05-1495A | 02
05 | IN | WHITE COUNTY | 1804470005C | 18-JAN-2002 | 02-05-0283A | 02
05 | IN | WHITE COUNTY | 1804470002C | 08-MAR-2002 | 02-05-1242A | 02
05 | IN | WHITE COUNTY | 1804470005C | 05-APR-2002 | 02-05-1423A | 02
05 | IN | WHITE COUNTY | 1804470002C | 01-MAY-2002 | 02-05-2430A | 02
05 | IN | WHITELAND, TOWN OF | 1801180001A | 12-APR-2002 | 02-05-0731A | 01
05 | IN | WHITELAND, TOWN OF | 1801180001A | 28-JUN-2002 | 02-05-2271A | 02
05 | IN | WHITLEY COUNTY | 1802980002B | 16-JAN-2002 | 02-05-0208A | 02
05 | IN | WHITLEY COUNTY | 1802980001B | 30-JAN-2002 | 02-05-1212A | 02
05 | IN | WHITLEY COUNTY | 1802980004B | 01-MAR-2002 | 02-05-1221A | 02
05 | IN | WHITLEY COUNTY | 1802980004B | 30-JAN-2002 | 02-05-1254A | 02
05 | IN | WHITLEY COUNTY | 1802980002B | 03-APR-2002 | 02-05-2084A | 02
05 | IN | WHITLEY COUNTY | 1802980002B | 05-JUN-2002 | 02-05-2408A | 02
05 | IN | WINONA LAKE, TOWN OF | 18085C0086C | 22-FEB-2002 | 02-05-1641X | 02
05 | IN | WINONA LAKE, TOWN OF | 18085C0086C | 03-APR-2002 | 02-05-2170A | 02
05 | MI | AKRON, TOWNSHIP OF | 26020705B | 26-JUN-2002 | 02-05-3093A | 02
05 | MI | ALBEE, TOWNSHIP OF | 26145C0240D | 27-MAR-2002 | 02-05-1894A | 02
05 | MI | ALBEE, TOWNSHIP OF | 26145C0240D | 03-MAY-2002 | 02-05-2576A | 02
05 | MI | ALGONAC, CITY OF | 2601910001C | 26-JUN-2002 | 02-05-2793A | 02
05 | MI | ALPENA, TOWNSHIP OF | 2600110020B | 22-MAR-2002 | 02-05-1367A | 02
05 | MI | ALPENA, TOWNSHIP OF | 2600110039C | 22-MAY-2002 | 02-05-1417X | 02
05 | MI | ALPENA, TOWNSHIP OF | 2600110024B | 20-FEB-2002 | 02-05-1521A | 02
05 | MI | ALPENA, TOWNSHIP OF | 2600110024B | 06-MAR-2002 | 02-05-1596A | 02
05 | MI | ALPENA, TOWNSHIP OF | 2600110010A | 20-MAR-2002 | 02-05-2056A | 02
05 | MI | ARGENTINE, TOWNSHIP OF | 2603920010A | 19-APR-2002 | 02-05-2485A | 02
05 | MI | AUGRES, TOWNSHIP OF | 2600130025B | 13-MAR-2002 | 02-05-1806A | 02
05 | MI | BANGOR, CHARTER TOWNSHIP OF | 26017C0140D | 11-JAN-2002 | 02-05-0877A | 02
05 | MI | BANGOR, CHARTER TOWNSHIP OF | 26017C0140D | 21-FEB-2002 | 02-05-1409A | 02
05 | MI | BANGOR, CHARTER TOWNSHIP OF | 26017C0140D | 14-JUN-2002 | 02-05-1440A | 01
05 | MI | BANGOR, CHARTER TOWNSHIP OF | 26017C0140D | 08-FEB-2002 | 02-05-1493A | 02
05 | MI | BANGOR, CHARTER TOWNSHIP OF | 26017C0140D | 13-FEB-2002 | 02-05-1500A | 02
05 | MI | BANGOR, CHARTER TOWNSHIP OF | 26017C0140D | 01-MAY-2002 | 02-05-2063A | 02
05 | MI | BANGOR, CHARTER TOWNSHIP OF | 26017C0140D | 05-JUN-2002 | 02-05-2656A | 02
05 | MI | BAY MILLS, TOWNSHIP OF | 2603740050B | 04-JAN-2002 | 02-05-0942A | 02
05 | MI | BAY MILLS, TOWNSHIP OF | 2603740050B | 13-FEB-2002 | 02-05-1434A | 02
05 | MI | BAY MILLS, TOWNSHIP OF | 2603740050B | 31-MAY-2002 | 02-05-2950A | 02
05 | MI | BAY MILLS, TOWNSHIP OF | 2603740025B | 05-JUN-2002 | 02-05-2959A | 02
05 | MI | BEAUGRAND, TOWNSHIP OF | 2606460002B | 22-FEB-2002 | 02-05-1663A | 02
05 | MI | BEDFORD, TOWNSHIP OF | 2600520010B | 20-MAR-2002 | 02-05-0851A | 02
05 | MI | BEDFORD, TOWNSHIP OF | 26115C0477D | 27-MAR-2002 | 02-05-2100A | 02
05 | MI | BIG RAPIDS, TOWNSHIP OF | 260135011B | 08-MAY-2002 | 02-05-1449A | 02
05 | MI | BIG RAPIDS, TOWNSHIP OF | 26013511B | 12-JUN-2002 | 02-05-3111A | 02
05 | MI | BRIDGEPORT, CHARTER TOWNSHIP OF | 26145C0195D | 10-APR-2002 | 02-05-2180A | 02
05 | MI | BRIDGEPORT, CHARTER TOWNSHIP OF | 26145C0250D | 19-JUN-2002 | 02-05-3255A | 02
05 | MI | BROOMFIELD, TOWNSHIP OF | 26073C0145C | 28-JUN-2002 | 02-05-3095A | 02
05 | MI | BROWNSTOWN, CHARTER TOWNSHIP OF | 2602180010B | 30-JAN-2002 | 02-05-1028A | 17
05 | MI | BROWNSTOWN, CHARTER TOWNSHIP OF | 2602180010B | 01-FEB-2002 | 02-05-1155A | 02
05 | MI | BROWNSTOWN, CHARTER TOWNSHIP OF | 2602180015B | 24-APR-2002 | 02-05-1766A | 02
05 | MI | BROWNSTOWN, CHARTER TOWNSHIP OF | 2602180010B | 17-APR-2002 | 02-05-1824A | 01
05 | MI | BRUCE, TOWNSHIP OF | 2608840025A | 05-JUN-2002 | 02-05-2517A | 02
05 | MI | BRUCE, TOWNSHIP OF | 2603750050A | 01-MAY-2002 | 02-05-2534A | 02
05 | MI | BUENA VISTA, TOWNSHIP OF | 26145C0085D | 27-FEB-2002 | 02-05-1230A | 02
05 | MI | CADILLAC, CITY OF | 26165C0457C | 06-FEB-2002 | 01-05-3446A | 01
05 | MI | CANNON, TOWNSHIP OF | 2607340025A | 22-MAY-2002 | 02-05-1757A | 02
05 | MI | CANNON, TOWNSHIP OF | 2607340025A | 26-APR-2002 | 02-05-1836A | 02
05 | MI | CANTON, TOWNSHIP OF | 2602190009B | 14-JUN-2002 | 01-05-2843P | 05
05 | MI | CANTON, TOWNSHIP OF | 2602190005B | 20-MAR-2002 | 02-05-1912A | 02
05 | MI | CANTON, TOWNSHIP OF | 2602190006B | 03-MAY-2002 | 02-05-2669A | 02
05 | MI | CARROLLTON, TOWNSHIP OF | 26145C0085D | 24-APR-2002 | 02-05-2184A | 02
05 | MI | CASCADE, CHARTER TOWNSHIP OF | 2608140025A | 12-JUN-2002 | 02-05-1937A | 02
05 | MI | CEDARVILLE, TOWNSHIP OF | 2606590020C | 07-JUN-2002 | 02-05-3128A | 02
05 | MI | CHEBOYGAN, CITY OF | 2600580005B | 12-APR-2002 | 02-05-1946A | 02
05 | MI | CHESTERFIELD, TOWNSHIP OF | 2601200010B | 30-JAN-2002 | 02-05-1234A | 02
05 | MI | CHESTERFIELD, TOWNSHIP OF | 2601200010B | 03-MAY-2002 | 02-05-2577A | 02
05 | MI | CHINA, TOWNSHIP OF | 2602030010B | 19-JUN-2002 | 02-05-1447A | 02
05 | MI | CHINA, TOWNSHIP OF | 2602030020B | 19-JUN-2002 | 02-05-1447A | 02
05 | MI | CHOCOLAY, TOWNSHIP OF | 2604480010B | 31-MAY-2002 | 02-05-2378A | 02
05 | MI | CLARK, TOWNSHIP OF | 2607590050B | 16-JAN-2002 | 02-05-0977A | 02
05 | MI | CLARK, TOWNSHIP OF | 2607590050B | 30-JAN-2002 | 02-05-1200A | 02
05 | MI | CLARK, TOWNSHIP OF | 2607590050B | 08-MAR-2002 | 02-05-1902A | 02
05 | MI | CLARK, TOWNSHIP OF | 2607590050B | 26-APR-2002 | 02-05-2402A | 02
05 | MI | CLAY, TOWNSHIP OF | 2601940003B | 18-JAN-2002 | 02-05-0945A | 02
05 | MI | CLAY, TOWNSHIP OF | 2601940003B | 17-APR-2002 | 02-05-2316A | 02
05 | MI | CLAY, TOWNSHIP OF | 2601940003B | 24-APR-2002 | 02-05-2494A | 02
05 | MI | CLAY, TOWNSHIP OF | 2601940003B | 05-JUN-2002 | 02-05-2689A | 02
05 | MI | CLINTON, CHARTER TOWNSHIP OF | 2601210005E | 05-JUN-2002 | 02-05-2886A | 02
05 | MI | CLINTON, CHARTER TOWNSHIP OF | 2601210005E | 24-MAY-2002 | 02-05-2962A | 02
05 | MI | COLDWATER, TOWNSHIP OF | 2608260005A | 14-JUN-2002 | 02-05-3195A | 02
05 | MI | COMMERCE, TOWNSHIP OF | 2604730005B | 21-JUN-2002 | 02-05-1726A | 02
05 | MI | COMMERCE, TOWNSHIP OF | 2604730005B | 17-MAY-2002 | 02-05-2786A | 02
05 | MI | COMMERCE, TOWNSHIP OF | 2604730005B | 24-MAY-2002 | 02-05-2840A | 02
05 | MI | CORUNNA, CITY OF | 2606020001A | 11-JAN-2002 | 02-05-0190A | 02
05 | MI | CORUNNA, CITY OF | 2606020001A | 11-JAN-2002 | 02-05-0865A | 17
05 | MI | DEARBORN HEIGHTS, CITY OF | 2602210007C | 13-MAR-2002 | 02-05-1691A | 02
05 | MI | DEARBORN HEIGHTS, CITY OF | 2602210007C | 22-MAY-2002 | 02-05-2737A | 02
05 | MI | DEERFIELD, TOWNSHIP OF | 26073C0305C | 25-JAN-2002 | 02-05-0840A | 02
05 | MI | DEERFIELD, TOWNSHIP OF | 26073C0305C | 05-APR-2002 | 02-05-2272A | 02
05 | MI | DELHI, CHARTER TOWNSHIP OF | 2600880005C | 19-JUN-2002 | 02-05-2850A | 02
05 | MI | DETOUR, TOWNSHIP OF | 2607750001A | 08-FEB-2002 | 02-05-1407A | 02
05 | MI | DRUMMOND ISLAND, TOWNSHIP OF | 2608030075A | 01-MAR-2002 | 02-05-1815A | 02
05 | MI | EAST CHINA, TOWNSHIP OF | 2601970005B | 01-MAY-2002 | 02-05-0371A | 01
05 | MI | EAST CHINA, TOWNSHIP OF | 2601970005B | 05-JUN-2002 | 02-05-2890A | 02
05 | MI | EAST TAWAS, CITY OF | 2601000001C | 15-MAY-2002 | 02-05-2789A | 02
05 | MI | FABIUS, TOWNSHIP OF | 2607810025A | 06-MAR-2002 | 02-05-1885A | 02
05 | MI | FABIUS, TOWNSHIP OF | 2607810025A | 03-MAY-2002 | 02-05-2650A | 02
05 | MI | FABIUS, TOWNSHIP OF | 2607810025A | 21-JUN-2002 | 02-05-3117A | 02
05 | MI | FABIUS, TOWNSHIP OF | 2607810025A | 19-JUN-2002 | 02-05-3118A | 02
05 | MI | FABIUS, TOWNSHIP OF | 2607810025A | 21-JUN-2002 | 02-05-3330A | 02
05 | MI | FARMINGTON HILLS, CITY OF | 2601720007C | 16-JAN-2002 | 01-05-3896A | 02
05 | MI | FARMINGTON HILLS, CITY OF | 2601720006C | 25-JAN-2002 | 02-05-0714A | 02
05 | MI | FARMINGTON HILLS, CITY OF | 2601720003C | 11-JAN-2002 | 02-05-0821A | 02
05 | MI | FARMINGTON HILLS, CITY OF | 2601720010C | 21-JUN-2002 | 02-05-3102A | 01
05 | MI | FLAT ROCK, CITY OF | 2602240003B | 06-FEB-2002 | 02-05-0626A | 01
05 | MI | FLAT ROCK, CITY OF | 2602240005B | 08-MAR-2002 | 02-05-1319A | 02
05 | MI | FLAT ROCK, CITY OF | 2602240003B | 29-MAR-2002 | 02-05-1363A | 02
05 | MI | FLAT ROCK, CITY OF | 2602240005B | 22-MAR-2002 | 02-05-1391A | 02
05 | MI | FLAT ROCK, CITY OF | 2602240003B | 08-MAY-2002 | 02-05-1539A | 02
05 | MI | FRANKENLUST, TOWNSHIP OF | 26017C0200D | 08-MAR-2002 | 02-05-1503A | 02
05 | MI | FRASER, CITY OF | 2601220001B | 01-MAR-2002 | 02-05-0828A | 02
05 | MI | FRASER, CITY OF | 2601220001B | 09-JAN-2002 | 02-05-0895A | 02
05 | MI | FRASER, CITY OF | 2601220001B | 09-JAN-2002 | 02-05-0920A | 02
05 | MI | FRASER, CITY OF | 2601220001B | 20-MAR-2002 | 02-05-1564A | 02
05 | MI | FRASER, CITY OF | 2601220001B | 17-APR-2002 | 02-05-2426A | 17
05 | MI | FRASER, CITY OF | 2601220001B | 10-MAY-2002 | 02-05-2504A | 02
05 | MI | FRASER, CITY OF | 2601220001B | 26-APR-2002 | 02-05-2567A | 02
05 | MI | FRASER, CITY OF | 2601220001B | 08-MAY-2002 | 02-05-2706A | 02
05 | MI | FRASER, CITY OF | 2601220001B | 07-JUN-2002 | 02-05-2876A | 02
05 | MI | FRASER, TOWNSHIP OF | 26017C0110D | 24-APR-2002 | 02-05-2352A | 02
05 | MI | FRENCHTOWN, CHARTER TOWNSHIP OF | 26115C0258D | 20-MAR-2002 | 02-05-1935A | 02
05 | MI | GAINES, TOWNSHIP OF | 2602930006A | 03-MAY-2002 | 02-05-2560A | 17
05 | MI | GARDEN, TOWNSHIP OF | 26041C0710C | 03-MAY-2002 | 02-05-2649A | 02
05 | MI | GARFIELD, TOWNSHIP OF | 2607660050A | 20-FEB-2002 | 02-05-1238A | 02
05 | MI | GEORGETOWN, CHARTER TOWNSHIP OF | 2605890007B | 01-MAR-2002 | 02-05-0964A | 02
05 | MI | GRAND RAPIDS, CITY OF | 2601060025C | 28-JUN-2002 | 02-05-0441A | 02
05 | MI | GRANT, TOWNSHIP OF | 2606100025A | 21-JUN-2002 | 02-05-2400A | 01
05 | MI | GREEN OAK, TOWNSHIP OF | 2604400015B | 13-FEB-2002 | 02-05-1485A | 02
05 | MI | GREENBUSH, TOWNSHIP OF | 2600010007C | 01-FEB-2002 | 02-05-0815A | 02
05 | MI | GREENBUSH, TOWNSHIP OF | 2600010007C | 16-JAN-2002 | 02-05-0893A | 02
05 | MI | GREENBUSH, TOWNSHIP OF | 2600010007C | 09-JAN-2002 | 02-05-0992A | 02
05 | MI | GREENBUSH, TOWNSHIP OF | 2600010004C | 06-FEB-2002 | 02-05-1096A | 02
05 | MI | GREENBUSH, TOWNSHIP OF | 2600010004C | 06-MAR-2002 | 02-05-1356A | 02
05 | MI | GREENBUSH, TOWNSHIP OF | 2600010007C | 27-MAR-2002 | 02-05-2042A | 02
05 | MI | GREENBUSH, TOWNSHIP OF | 2600010004C | 05-JUN-2002 | 02-05-2536A | 02
05 | MI | GREENBUSH, TOWNSHIP OF | 2600010004C | 08-MAY-2002 | 02-05-2743A | 02
05 | MI | GREENBUSH, TOWNSHIP OF | 2600010007C | 14-JUN-2002 | 02-05-2852A | 02
05 | MI | GROSSE ILE, TOWNSHIP OF | 2602270010B | 18-JAN-2002 | 02-05-0812A | 02
05 | MI | GROSSE ILE, TOWNSHIP OF | 2602270010B | 16-JAN-2002 | 02-05-0900A | 02
05 | MI | GROSSE ILE, TOWNSHIP OF | 2602270005B | 17-APR-2002 | 02-05-2424A | 02
05 | MI | HAMBURG, TOWNSHIP OF | 2601180010C | 19-JUN-2002 | 02-05-3214A | 02
05 | MI | HAMPTON, TOWNSHIP OF | 26017C0190D | 09-JAN-2002 | 01-05-3724A | 01
05 | MI | HAMPTON, TOWNSHIP OF | 26017C0185D | 06-MAR-2002 | 02-05-1410A | 02
05 | MI | HAMPTON, TOWNSHIP OF | 26017C0190D | 22-MAR-2002 | 02-05-1819A | 01
05 | MI | HAMPTON, TOWNSHIP OF | 26017C0190D | 17-APR-2002 | 02-05-1871A | 02
05 | MI | HARRISON, TOWNSHIP OF | 2601230005C | 30-JAN-2002 | 02-05-0843A | 01
05 | MI | HARRISON, TOWNSHIP OF | 2601230005C | 18-JAN-2002 | 02-05-0887A | 02
05 | MI | HARRISON, TOWNSHIP OF | 2601230010C | 04-JAN-2002 | 02-05-0925A | 02
05 | MI | HARRISON, TOWNSHIP OF | 2601230010C | 09-JAN-2002 | 02-05-0957A | 02
05 | MI | HARRISON, TOWNSHIP OF | 2601230010C | 01-FEB-2002 | 02-05-1116A | 02
05 | MI | HARRISON, TOWNSHIP OF | 2601230010C | 18-JAN-2002 | 02-05-1165A | 02
05 | MI | HARRISON, TOWNSHIP OF | 2601230010C | 18-JAN-2002 | 02-05-1177A | 02
05 | MI | HARRISON, TOWNSHIP OF | 2601230010C | 08-FEB-2002 | 02-05-1432A | 02
05 | MI | HARRISON, TOWNSHIP OF | 2601230010C | 22-FEB-2002 | 02-05-1653A | 02
05 | MI | HARRISON, TOWNSHIP OF | 2601230005C | 06-MAR-2002 | 02-05-1900A | 02
05 | MI | HARRISON, TOWNSHIP OF | 2601230010C | 22-MAY-2002 | 02-05-2254A | 02
05 | MI | HARRISON, TOWNSHIP OF | 2601230005C | 10-APR-2002 | 02-05-2280A | 02
05 | MI | HARRISON, TOWNSHIP OF | 2601230005C | 10-APR-2002 | 02-05-2298A | 02
05 | MI | HARRISON, TOWNSHIP OF | 2601230010C | 08-MAY-2002 | 02-05-2363A | 02
05 | MI | HARRISON, TOWNSHIP OF | 2601230005C | 26-APR-2002 | 02-05-2498A | 02
05 | MI | HARRISON, TOWNSHIP OF | 2601230005C | 26-JUN-2002 | 02-05-2668A | 02
05 | MI | HARRISON, TOWNSHIP OF | 2601230005C | 10-MAY-2002 | 02-05-2763A | 02
05 | MI | HARRISON, TOWNSHIP OF | 2601230010C | 12-JUN-2002 | 02-05-2830A | 02
05 | MI | HARRISON, TOWNSHIP OF | 2601230010C | 31-MAY-2002 | 02-05-2885A | 02
05 | MI | HARRISON, TOWNSHIP OF | 2601230010C | 12-JUN-2002 | 02-05-3015A | 02
05 | MI | HARRISON, TOWNSHIP OF | 2601230005C | 12-JUN-2002 | 02-05-3063A | 02
05 | MI | HARRISON, TOWNSHIP OF | 2601230010C | 19-JUN-2002 | 02-05-3244A | 02
05 | MI | HART, CITY OF | 26048401A | 23-JAN-2002 | 02-05-0189A | 02
05 | MI | HART, CITY OF | 26048401A | 05-APR-2002 | 02-05-1332A | 02
05 | MI | IDA, TOWNSHIP OF | 26115C0215D | 26-APR-2002 | 02-05-1372A | 02
05 | MI | IDA, TOWNSHIP OF | 26115C0360D | 05-JUN-2002 | 02-05-2310A | 02
05 | MI | IDA, TOWNSHIP OF | 26115C0360D | 05-JUN-2002 | 02-05-2311A | 02
05 | MI | IDA, TOWNSHIP OF | 26115C0355D | 12-JUN-2002 | 02-05-2703A | 02
05 | MI | INDEPENDENCE, TOWNSHIP OF | 2604750008B | 13-MAR-2002 | 02-05-1298A | 02
05 | MI | INDEPENDENCE, TOWNSHIP OF | 2604750006B | 22-FEB-2002 | 02-05-1303A | 02
05 | MI | IONIA, CITY OF | 2600970001C | 20-MAR-2002 | 01-05-3683A | 01
05 | MI | IRA, TOWNSHIP OF | 2601990010B | 17-MAY-2002 | 02-05-2677A | 02
05 | MI | IRA, TOWNSHIP OF | 2601990005B | 26-JUN-2002 | 02-05-2810A | 02
05 | MI | IRONWOOD, TOWNSHIP OF | 2604030002B | 22-MAY-2002 | 02-05-2661A | 02
05 | MI | JAMES, TOWNSHIP OF | 26145C0130D | 13-FEB-2002 | 02-05-1232A | 02
05 | MI | JAMES, TOWNSHIP OF | 26145C0130D | 22-MAR-2002 | 02-05-1390A | 02
05 | MI | JAMES, TOWNSHIP OF | 26145C0130D | 22-MAR-2002 | 02-05-1609A | 02
05 | MI | JAMES, TOWNSHIP OF | 26145C0130D | 08-MAR-2002 | 02-05-1656A | 02
05 | MI | JAMES, TOWNSHIP OF | 26145C0130D | 08-MAR-2002 | 02-05-1742A | 02
05 | MI | JAMES, TOWNSHIP OF | 26145C0130D | 05-JUN-2002 | 02-05-1872A | 02
05 | MI | JAMES, TOWNSHIP OF | 26145C0185D | 08-MAY-2002 | 02-05-2053A | 02
05 | MI | JOHNSTOWN, TOWNSHIP OF | 26035505A | 09-JAN-2002 | 02-05-0580A | 02
05 | MI | JOHNSTOWN, TOWNSHIP OF | 260355—03A | 13-MAR-2002 | 02-05-1667A | 02
05 | MI | JOHNSTOWN, TOWNSHIP OF | 26035512A | 24-APR-2002 | 02-05-2121A | 02
05 | MI | KEEGO HARBOR, CITY OF | 2601730001B | 21-JUN-2002 | 02-05-1712A | 02
05 | MI | KINGSFORD, CITY OF | 260064AHO2 | 28-JUN-2002 | 02-05-2304P | 06
05 | MI | KOCHVILLE, TOWNSHIP OF | 26145C0080D | 09-JAN-2002 | 02-05-0012A | 02
05 | MI | KOCHVILLE, TOWNSHIP OF | 26145C0080D | 20-FEB-2002 | 02-05-1517A | 02
05 | MI | KOCHVILLE, TOWNSHIP OF | 26145C0080D | 14-JUN-2002 | 02-05-3054A | 02
05 | MI | LAKE ORION, VILLAGE OF | 2605880001A | 05-APR-2002 | 01-05-214P | 05
05 | MI | LAKE ORION, VILLAGE OF | 2605880001A | 09-JAN-2002 | 02-05-0837A | 02
05 | MI | LAKE, TOWNSHIP OF | 26003009A | 01-FEB-2002 | 02-05-1322A | 02
05 | MI | LANSING, CITY OF | 2600900006B | 27-MAR-2002 | 02-05-1821A | 02
05 | MI | LEELANAU, TOWNSHIP OF | 26011407B | 08-FEB-2002 | 02-05-1462A | 02
05 | MI | LEELANAU, TOWNSHIP OF | 26011407B | 19-APR-2002 | 02-05-2055A | 02
05 | MI | LINCOLN, TOWNSHIP OF | 2608280005A | 27-FEB-2002 | 02-05-1140A | 02
05 | MI | LIVONIA, CITY OF | 2602330004B | 17-APR-2002 | 02-05-2403A | 02
05 | MI | MACOMB, TOWNSHIP OF | 2604450010B | 07-FEB-2002 | 01-05-2196P | 06
05 | MI | MACOMB, TOWNSHIP OF | 2604450020B | 07-FEB-2002 | 01-05-2196P | 06
05 | MI | MACOMB, TOWNSHIP OF | 2604450010B | 29-MAR-2002 | 02-05-0401A | 02
05 | MI | MACOMB, TOWNSHIP OF | 2604450010B | 23-APR-2002 | 02-05-0510P | 06
05 | MI | MACOMB, TOWNSHIP OF | 2604450020B | 06-MAR-2002 | 02-05-0975A | 17
05 | MI | MACOMB, TOWNSHIP OF | 2604450020B | 10-APR-2002 | 02-05-1251A | 02
05 | MI | MACOMB, TOWNSHIP OF | 2604450020B | 01-MAR-2002 | 02-05-1488A | 02
05 | MI | MACOMB, TOWNSHIP OF | 2604450010B | 08-APR-2002 | 02-05-1524P | 06
05 | MI | MENOMINEE, CITY OF | 2601380005B | 01-FEB-2002 | 02-05-0824A | 02
05 | MI | MENOMINEE, CITY OF | 2601380005B | 10-APR-2002 | 02-05-2358A | 02
05 | MI | MENOMINEE, CITY OF | 2601380005B | 19-APR-2002 | 02-05-2433A | 02
05 | MI | MENOMINEE, CITY OF | 2601380005B | 22-MAY-2002 | 02-05-2816A | 02
05 | MI | MERIDIAN, CHARTER TOWNSHIP OF | 2600930015B | 09-JAN-2002 | 02-05-1001A | 02
05 | MI | MERIDIAN, CHARTER TOWNSHIP OF | 2600930015B | 06-FEB-2002 | 02-05-1483A | 02
05 | MI | MERIDIAN, CHARTER TOWNSHIP OF | 2600930015B | 26-APR-2002 | 02-05-1681A | 01
05 | MI | MERIDIAN, CHARTER TOWNSHIP OF | 2600930010B | 13-MAR-2002 | 02-05-1957A | 02
05 | MI | MERIDIAN, CHARTER TOWNSHIP OF | 2600930015B | 10-APR-2002 | 02-05-2112A | 02
05 | MI | MERIDIAN, CHARTER TOWNSHIP OF | 2600930015B | 05-JUN-2002 | 02-05-2884A | 02
05 | MI | MERIDIAN, CHARTER TOWNSHIP OF | 2600930015B | 28-JUN-2002 | 02-05-3382A | 02
05 | MI | MEYER, TOWNSHIP OF | 2604580050A | 01-MAR-2002 | 02-05-1328A | 02
05 | MI | MIDDLEVILLE, VILLAGE OF | 26035601A | 12-APR-2002 | 02-05-1472A | 02
05 | MI | MIDLAND, CITY OF | 2601400007D | 15-MAY-2002 | 02-05-2774A | 02
05 | MI | MONITOR, TOWNSHIP OF | 26017C0135D | 03-APR-2002 | 02-05-1736A | 02
05 | MI | MONROE, CITY OF | 26115C0241D | 19-JUN-2002 | 02-05-3200A | 02
05 | MI | MONROE, TOWNSHIP OF | 26115C0382D | 27-MAR-2002 | 02-05-2117A | 02
05 | MI | MOUNT CLEMENS, CITY OF | 2601240001B | 01-MAY-2002 | 02-05-2510A | 02
05 | MI | NEW BALTIMORE, CITY OF | 2601250005B | 24-APR-2002 | 02-05-1665A | 02
05 | MI | NEW BUFFALO, TOWNSHIP OF | 2600390010B | 19-JUN-2002 | 02-05-2191A | 02
05 | MI | NORVELL, TOWNSHIP OF | 26042401A | 22-FEB-2002 | 02-05-1180A | 02
05 | MI | NORVELL, TOWNSHIP OF | 26042403A | 10-APR-2002 | 02-05-2256A | 02
05 | MI | NORVELL, TOWNSHIP OF | 26042404A | 07-JUN-2002 | 02-05-3021A | 02
05 | MI | NOTTAWA, TOWNSHIP OF | 26073C0165C | 23-JAN-2002 | 02-05-0492A | 02
05 | MI | NOTTAWA, TOWNSHIP OF | 26073C0165C | 23-JAN-2002 | 02-05-1158A | 02
05 | MI | NOTTAWA, TOWNSHIP OF | 26073C0175C | 01-FEB-2002 | 02-05-1347A | 02
05 | MI | NOTTAWA, TOWNSHIP OF | 26073C0175C | 07-JUN-2002 | 02-05-3018A | 02
05 | MI | NOTTAWA, TOWNSHIP OF | 2605140015B | 21-JUN-2002 | 02-05-3316A | 02
05 | MI | NOVI, CITY OF | 2601750009C | 25-JAN-2002 | 02-05-0706A | 02
05 | MI | NOVI, CITY OF | 260175 C | 25-JUN-2002 | 02-05-1068P | 05
05 | MI | NOVI, CITY OF | 2601750009C | 18-MAY-2002 | 02-05-2471A | 17
05 | MI | NOVI, CITY OF | 2601750009C | 26-JUN-2002 | 02-05-2652A | 02
05 | MI | NOVI, CITY OF | 2601750009C | 14-JUN-2002 | 02-05-2799A | 01
05 | MI | ONOTA, TOWNSHIP OF | 2603450025B | 19-APR-2002 | 02-05-2477A | 02
05 | MI | OWOSSO, CITY OF | 2605960002A | 10-MAY-2002 | 02-05-1854A | 02
05 | MI | OWOSSO, CITY OF | 2605960002A | 10-MAY-2002 | 02-05-2216A | 02
05 | MI | OWOSSO, CITY OF | 2605960002A | 12-JUN-2002 | 02-05-2769A | 02
05 | MI | OWOSSO, CITY OF | 2605960002A | 21-JUN-2002 | 02-05-2905A | 02
05 | MI | PLAINFIELD, TOWNSHIP OF | 2601090010B | 20-FEB-2002 | 02-05-1619A | 17
05 | MI | PORT AUSTIN, TOWNSHIP OF | 26029002C | 29-MAR-2002 | 02-05-1085A | 02
05 | MI | PORTAGE, CITY OF | 2605770006A | 04-JAN-2002 | 02-05-0791A | 02
05 | MI | READING, TOWNSHIP OF | 2604100002A | 07-JUN-2002 | 02-05-2791A | 02
05 | MI | REDFORD, TOWNSHIP OF | 2602380005B | 16-JAN-2002 | 02-05-0779A | 02
05 | MI | SAGINAW, TOWNSHIP OF | 26145C0130D | 20-FEB-2002 | 01-05-1287A | 01
05 | MI | SALEM,TOWNSHIP OF | 2606360002B | 05-JUN-2002 | 02-05-2831A | 02
05 | MI | SAUGATUCK, TOWNSHIP OF | 2600090005B | 12-APR-2002 | 02-05-2139A | 02
05 | MI | SAULT SAINTE MARIE, CITY OF | 2600590006B | 09-JAN-2002 | 02-05-0921A | 02
05 | MI | SCIO, TOWNSHIP OF | 2605370025A | 22-FEB-2002 | 02-05-1737A | 02
05 | MI | SCIO, TOWNSHIP OF | 2605370025A | 19-JUN-2002 | 02-05-2030A | 02
05 | MI | SHELBY, TOWNSHIP OF | 2601260015B | 03-APR-2002 | 02-05-1215A | 02
05 | MI | SHELBY, TOWNSHIP OF | 2601260020B | 29-MAR-2002 | 02-05-1733A | 02
05 | MI | SOUTH HAVEN, CITY OF | 2602110002B | 08-FEB-2002 | 02-05-0225A | 01
05 | MI | SOUTHFIELD, CITY OF | 2601790010B | 08-MAY-2002 | 02-05-2710A | 02
05 | MI | SPAULDING, TOWNSHIP OF | 26145C0190D | 09-JAN-2002 | 02-05-0011A | 02
05 | MI | SPAULDING, TOWNSHIP OF | 26145C0190D | 25-JAN-2002 | 02-05-1204A | 02
05 | MI | SPRING LAKE, VILLAGE OF | 2602820001B | 19-JUN-2002 | 02-05-1384A | 02
05 | MI | SPRING LAKE, VILLAGE OF | 2602820001B | 05-APR-2002 | 02-05-2261A | 02
05 | MI | ST. CHARLES, VILLAGE OF | 26145C0230D | 29-MAR-2002 | 02-05-2074A | 02
05 | MI | ST. CHARLES, VILLAGE OF | 26145C0230D | 08-MAY-2002 | 02-05-2116A | 02
05 | MI | ST. CLAIR SHORES, CITY OF | 2601270005B | 16-JAN-2002 | 02-05-0661A | 02
05 | MI | ST. CLAIR SHORES, CITY OF | 2601270005B | 09-JAN-2002 | 02-05-0806A | 02
05 | MI | ST. CLAIR SHORES, CITY OF | 2601270005B | 09-JAN-2002 | 02-05-0841A | 02
05 | MI | ST. CLAIR SHORES, CITY OF | 2601270005B | 11-JAN-2002 | 02-05-1029A | 02
05 | MI | ST. CLAIR SHORES, CITY OF | 2601270005B | 29-MAR-2002 | 02-05-1094A | 02
05 | MI | ST. CLAIR SHORES, CITY OF | 2601270005B | 18-JAN-2002 | 02-05-1114A | 02
05 | MI | ST. CLAIR SHORES, CITY OF | 2601270005B | 18-JAN-2002 | 02-05-1147A | 02
05 | MI | ST. CLAIR SHORES, CITY OF | 2601270005B | 18-JAN-2002 | 02-05-1153A | 02
05 | MI | ST. CLAIR SHORES, CITY OF | 2601270005B | 03-APR-2002 | 02-05-1156A | 02
05 | MI | ST. CLAIR SHORES, CITY OF | 2601270005B | 30-JAN-2002 | 02-05-1225A | 02
05 | MI | ST. CLAIR SHORES, CITY OF | 2601270005B | 22-FEB-2002 | 02-05-1426A | 02
05 | MI | ST. CLAIR SHORES, CITY OF | 2601270005B | 13-MAR-2002 | 02-05-1429A | 02
05 | MI | ST. CLAIR SHORES, CITY OF | 2601270005B | 13-MAR-2002 | 02-05-1522A | 02
05 | MI | ST. CLAIR SHORES, CITY OF | 2601270005B | 27-FEB-2002 | 02-05-1776A | 02
05 | MI | ST. CLAIR SHORES, CITY OF | 2601270005B | 06-MAR-2002 | 02-05-1834A | 01
05 | MI | ST. CLAIR SHORES, CITY OF | 2601270005B | 06-MAR-2002 | 02-05-1835A | 02
05 | MI | ST. CLAIR SHORES, CITY OF | 2601270005B | 24-APR-2002 | 02-05-1860A | 02
05 | MI | ST. CLAIR SHORES, CITY OF | 2601270005B | 03-APR-2002 | 02-05-1923A | 02
05 | MI | ST. CLAIR SHORES, CITY OF | 2601270005B | 26-APR-2002 | 02-05-1951A | 02
05 | MI | ST. CLAIR SHORES, CITY OF | 2601270005B | 20-MAR-2002 | 02-05-1966A | 02
05 | MI | ST. CLAIR SHORES, CITY OF | 2601270005B | 29-MAR-2002 | 02-05-2099A | 02
05 | MI | ST. CLAIR SHORES, CITY OF | 2601270005B | 27-MAR-2002 | 02-05-2156A | 02
05 | MI | ST. CLAIR SHORES, CITY OF | 2601270005B | 10-APR-2002 | 02-05-2299A | 02
05 | MI | ST. CLAIR SHORES, CITY OF | 2601270005B | 17-APR-2002 | 02-05-2344A | 02
05 | MI | ST. CLAIR SHORES, CITY OF | 2601270005B | 12-APR-2002 | 02-05-2362A | 02
05 | MI | ST. CLAIR SHORES, CITY OF | 2601270005B | 31-MAY-2002 | 02-05-2486A | 02
05 | MI | ST. CLAIR SHORES, CITY OF | 2601270005B | 01-MAY-2002 | 02-05-2676A | 02
05 | MI | ST. CLAIR SHORES, CITY OF | 2601270005B | 08-MAY-2002 | 02-05-2715A | 02
05 | MI | ST. CLAIR SHORES, CITY OF | 2601270005B | 22-MAY-2002 | 02-05-2824A | 02
05 | MI | ST. CLAIR SHORES, CITY OF | 2601270005B | 17-MAY-2002 | 02-05-2828A | 02
05 | MI | ST. CLAIR SHORES, CITY OF | 2601270005B | 31-MAY-2002 | 02-05-2866A | 02
05 | MI | ST. CLAIR SHORES, CITY OF | 2601270005B | 31-MAY-2002 | 02-05-2953A | 02
05 | MI | ST. CLAIR SHORES, CITY OF | 2601270005B | 19-JUN-2002 | 02-05-2972A | 02
05 | MI | ST. CLAIR SHORES, CITY OF | 2601270005B | 31-MAY-2002 | 02-05-2979A | 02
05 | MI | ST. CLAIR SHORES, CITY OF | 2601270005B | 05-JUN-2002 | 02-05-3006A | 02
05 | MI | ST. CLAIR SHORES, CITY OF | 2601270005B | 14-JUN-2002 | 02-05-3183A | 02
05 | MI | ST. LOUIS, CITY OF | 2600850001B | 08-MAR-2002 | 02-05-1403A | 02
05 | MI | STERLING HEIGHTS, CITY OF | 2601280015F | 21-JUN-2002 | 02-05-1674A | 02
05 | MI | STERLING HEIGHTS, CITY OF | 2601280020E | 03-APR-2002 | 02-05-1868A | 01
05 | MI | STERLING HEIGHTS, CITY OF | 2601280015F | 01-MAY-2002 | 02-05-2556A | 02
05 | MI | STERLING HEIGHTS, CITY OF | 2601280015F | 08-MAY-2002 | 02-05-2704A | 17
05 | MI | SUMPTER, TOWNSHIP OF | 2602430005C | 18-JAN-2002 | 02-05-0654A | 02
05 | MI | SWAN CREEK, TOWNSHIP OF | 26145C0125D | 22-MAR-2002 | 02-05-1599A | 02
05 | MI | TAYMOUTH, TOWNSHIP OF | 26145C0250D | 27-FEB-2002 | 02-05-1741A | 02
05 | MI | THOMAS, TOWNSHIP OF | 26145C0065D | 10-APR-2002 | 02-05-1202A | 02
05 | MI | THOMAS, TOWNSHIP OF | 26145C0125D | 22-FEB-2002 | 02-05-1550A | 02
05 | MI | THOMAS, TOWNSHIP OF | 26145C0130D | 13-MAR-2002 | 02-05-1608A | 02
05 | MI | THOMAS, TOWNSHIP OF | 26145C0130D | 24-MAY-2002 | 02-05-2442A | 02
05 | MI | TROY, CITY OF | 2601800004E | 20-MAR-2002 | 02-05-0995A | 02
05 | MI | TROY, CITY OF | 2601800003E | 25-JAN-2002 | 02-05-1044A | 02
05 | MI | TROY, CITY OF | 2601800002D | 10-APR-2002 | 02-05-1288A | 02
05 | MI | TROY, CITY OF | 2601800004E | 22-MAR-2002 | 02-05-1293A | 02
05 | MI | TROY, CITY OF | 2601800004E | 05-APR-2002 | 02-05-1731A | 02
05 | MI | TROY, CITY OF | 2601800004E | 03-APR-2002 | 02-05-1983A | 02
05 | MI | TROY, CITY OF | 2601800004E | 12-JUN-2002 | 02-05-2561A | 02
05 | MI | TROY, CITY OF | 2601800004E | 26-JUN-2002 | 02-05-2693A | 02
05 | MI | TROY, CITY OF | 2601800002D | 08-MAY-2002 | 02-05-2702X | 01
05 | MI | TROY, CITY OF | 2601800004E | 05-JUN-2002 | 02-05-2777A | 02
05 | MI | TROY, CITY OF | 2601800004E | 14-JUN-2002 | 02-05-2882A | 02
05 | MI | UNION, TOWNSHIP OF | 2608050025A | 27-FEB-2002 | 02-05-1187A | 02
05 | MI | UNION, TOWNSHIP OF | 26073C0308C | 12-APR-2002 | 02-05-1880A | 17
05 | MI | UNION, TOWNSHIP OF | 2608050025A | 22-MAY-2002 | 02-05-2818A | 02
05 | MI | VICTOR, TOWNSHIP OF | 2607200010B | 01-FEB-2002 | 02-05-0719A | 02
05 | MI | WARREN, CITY OF | 2601290005C | 28-JUN-2002 | 01-05-2299P | 05
05 | MI | WARREN, CITY OF | 2601290010C | 13-FEB-2002 | 02-05-0796A | 17
05 | MI | WARREN, CITY OF | 2601290010C | 03-APR-2002 | 02-05-2065A | 02
05 | MI | WARREN, CITY OF | 2601290010C | 19-APR-2002 | 02-05-2420A | 02
05 | MI | WARREN, CITY OF | 2601290010C | 12-JUN-2002 | 02-05-3152A | 02
05 | MI | WATERFORD, CHARTER TOWNSHIP OF | 2602840010B | 25-JAN-2002 | 02-05-1052A | 02
05 | MI | WATERFORD, CHARTER TOWNSHIP OF | 2602840010B | 29-MAR-2002 | 02-05-1284A | 02
05 | MI | WATERFORD, CHARTER TOWNSHIP OF | 2602840020B | 20-FEB-2002 | 02-05-1402A | 02
05 | MI | WATERFORD, CHARTER TOWNSHIP OF | 2602840010B | 24-APR-2002 | 02-05-2195A | 02
05 | MI | WATERFORD, CHARTER TOWNSHIP OF | 2602840020B | 03-MAY-2002 | 02-05-2580A | 02
05 | MI | WATERFORD, CHARTER TOWNSHIP OF | 2602840010B | 22-MAY-2002 | 02-05-2832A | 02
05 | MI | WATERFORD, CHARTER TOWNSHIP OF | 2602840020B | 07-JUN-2002 | 02-05-3024A | 02
05 | MI | WATERFORD, CHARTER TOWNSHIP OF | 2602840020B | 28-JUN-2002 | 02-05-3103A | 02
05 | MI | WATERFORD, CHARTER TOWNSHIP OF | 2602840010B | 19-JUN-2002 | 02-05-3221A | 02
05 | MI | WATERFORD, CHARTER TOWNSHIP OF | 2602840005B | 26-JUN-2002 | 02-05-3356A | 02
05 | MI | WHITE LAKE, TOWNSHIP OF | 2604790010B | 25-JAN-2002 | 02-05-0691A | 02
05 | MI | WHITE LAKE, TOWNSHIP OF | 2604790005B | 03-APR-2002 | 02-05-1695A | 02
05 | MI | WHITEWATER, TOWNSHIP OF | 2607940025A | 08-MAY-2002 | 02-05-1657A | 02
05 | MI | WHITEWATER, TOWNSHIP OF | 2607940025A | 05-JUN-2002 | 02-05-2801A | 02
05 | MI | WILLIAMSTON, CITY OF | 2600940001B | 15-FEB-2002 | 02-05-1583A | 02
05 | MI | WILLIAMSTON, CITY OF | 2600940001B | 03-APR-2002 | 02-05-2068A | 02
05 | MI | WILLIAMSTON, CITY OF | 2600940001B | 22-MAY-2002 | 02-05-2797A | 02
05 | MI | WILLIAMSTOWN, TOWNSHIP OF | 2600950005A | 28-JUN-2002 | 02-05-3167A | 02
05 | MI | WILLIAMSTOWN, TOWNSHIP OF | 2600950010A | 12-JUN-2002 | 02-05-3171A | 01
05 | MI | WINDSOR, CHARTER TOWNSHIP OF | 2600710010C | 26-JUN-2002 | 02-05-2773A | 02
05 | MI | WISNER, TOWNSHIP OF | 2602090002B | 09-JAN-2002 | 02-05-0883A | 02
05 | MI | WOODHAVEN, CITY OF | 2607300005A | 13-MAR-2002 | 02-05-1626A | 02
05 | MI | ZILWAUKEE, CITY OF | 26145C0085D | 12-JUN-2002 | 02-05-3068A | 02
05 | MN | AITKIN COUNTY | 2706280110C | 23-JAN-2002 | 02-05-0734A | 01
05 | MN | AITKIN COUNTY | 2706280500B | 13-MAR-2002 | 02-05-1621A | 02
05 | MN | AITKIN COUNTY | 2706280325C | 27-FEB-2002 | 02-05-1780A | 02
05 | MN | AITKIN COUNTY | 2706280240C | 01-MAR-2002 | 02-05-1867A | 02
05 | MN | AITKIN COUNTY | 2706280110C | 29-MAR-2002 | 02-05-2035A | 01
05 | MN | AITKIN COUNTY | 2706280205C | 24-APR-2002 | 02-05-2394A | 02
05 | MN | ANDOVER, CITY OF | 2706890015B | 30-JAN-2002 | 02-05-1231A | 02
05 | MN | ANDOVER, CITY OF | 2706890015B | 20-FEB-2002 | 02-05-1408A | 01
05 | MN | ANOKA COUNTY | 2700050100A | 08-MAR-2002 | 02-05-1515A | 02
05 | MN | ANOKA COUNTY | 2700050050A | 26-JUN-2002 | 02-05-3313A | 02
05 | MN | ANOKA, CITY OF | 27522704A | 19-JUN-2002 | 02-05-0032A | 01
05 | MN | BENTON COUNTY | 2700190025B | 19-JUN-2002 | 02-05-2300A | 02
05 | MN | BLAINE, CITY OF | 2700070005C | 16-JAN-2002 | 01-05-0741A | 01
05 | MN | BLAINE, CITY OF | 2700070005C | 23-JAN-2002 | 02-05-0095A | 02
05 | MN | BLAINE, CITY OF | 2700070005C | 25-JAN-2002 | 02-05-0429A | 01
05 | MN | BLAINE, CITY OF | 2700070005C | 06-MAR-2002 | 02-05-1276A | 01
05 | MN | BLAINE, CITY OF | 2700070006D | 19-JUN-2002 | 02-05-1300A | 01
05 | MN | BLAINE, CITY OF | 2700070005C | 10-APR-2002 | 02-05-1693A | 02
05 | MN | BLAINE, CITY OF | 2700070005C | 20-MAR-2002 | 02-05-1976A | 02
05 | MN | BROOKLYN PARK, CITY OF | 2701520003D | 16-JAN-2002 | 02-05-0704A | 02
05 | MN | BROOKLYN PARK, CITY OF | 2701520004C | 22-FEB-2002 | 02-05-1304A | 01
05 | MN | BROOKLYN PARK, CITY OF | 2701520004C | 26-APR-2002 | 02-05-2015A | 02
05 | MN | BURNSVILLE, CITY OF | 2701020002B | 13-MAR-2002 | 02-05-1228A | 02
05 | MN | BURNSVILLE, CITY OF | 2701020002B | 17-APR-2002 | 02-05-2416A | 02
05 | MN | CARVER COUNTY | 2700490050C | 17-MAY-2002 | 02-05-2679A | 02
05 | MN | CHAMPLIN, CITY OF | 2701530001A | 20-MAR-2002 | 01-05-3694A | 01
05 | MN | CHISAGO COUNTY | 2706820125B | 17-MAY-2002 | 02-05-2428A | 02
05 | MN | CHISAGO COUNTY | 2706820200C | 01-MAY-2002 | 02-05-2539A | 02
05 | MN | CLAY COUNTY | 2752350175C | 16-JAN-2002 | 02-05-0635A | 01
05 | MN | CLAY COUNTY | 2752350200C | 05-APR-2002 | 02-05-2142A | 01
05 | MN | CLAY COUNTY | 2752350125C | 21-JUN-2002 | 02-05-3395A | 02
05 | MN | COON RAPIDS,CITY OF | 2700110002A | 22-JAN-2002 | 01-05-2586P | 05
05 | MN | COON RAPIDS,CITY OF | 2700110001A | 18-JAN-2002 | 02-05-0863A | 02
05 | MN | COON RAPIDS,CITY OF | 2700110002A | 16-JAN-2002 | 02-05-0980A | 02
05 | MN | COON RAPIDS,CITY OF | 2700110001A | 20-MAR-2002 | 02-05-1164A | 01
05 | MN | COON RAPIDS,CITY OF | 2700110001A | 07-FEB-2002 | 02-05-1558P | 05
05 | MN | COON RAPIDS,CITY OF | 2700110002A | 07-FEB-2002 | 02-05-1558P | 05
05 | MN | COON RAPIDS,CITY OF | 27001101A | 10-MAY-2002 | 02-05-2527A | 02
05 | MN | CORCORAN, CITY OF | 2701550005C | 29-MAR-2002 | 02-05-0701A | 02
05 | MN | CROOKSTON, CITY OF | 2703640002C | 13-FEB-2002 | 02-05-1024A | 17
05 | MN | CROOKSTON, CITY OF | 2703640002C | 03-APR-2002 | 02-05-2157A | 02
05 | MN | CROOKSTON, CITY OF | 2703640002C | 28-JUN-2002 | 02-05-2694A | 02
05 | MN | CROSSLAKE, CITY OF | 27009511B | 22-FEB-2002 | 02-05-1427A | 02
05 | MN | CROSSLAKE, CITY OF | 27009505B | 19-APR-2002 | 02-05-2382A | 02
05 | MN | CROW WING COUNTY | 2700910250B | 15-FEB-2002 | 02-05-1366A | 02
05 | MN | CROW WING COUNTY | 2700910250B | 10-APR-2002 | 02-05-1406A | 02
05 | MN | CROW WING COUNTY | 2700910275B | 08-FEB-2002 | 02-05-1463A | 02
05 | MN | CROW WING COUNTY | 2700910275B | 15-FEB-2002 | 02-05-1595A | 02
05 | MN | CROW WING COUNTY | 2700910200B | 27-FEB-2002 | 02-05-1818A | 02
05 | MN | CROW WING COUNTY | 2700910275B | 03-APR-2002 | 02-05-2354X | 02
05 | MN | DAKOTA COUNTY | 2701010175B | 09-JAN-2002 | 02-05-0079A | 02
05 | MN | DAKOTA COUNTY | 2701010175B | 09-JAN-2002 | 02-05-0277A | 02
05 | MN | DAKOTA COUNTY | 2701010175B | 13-FEB-2002 | 02-05-1389A | 02
05 | MN | DELANO, CITY OF | 2705390001C | 08-MAY-2002 | 02-05-2518A | 02
05 | MN | DOVER, CITY OF | 27109C0357D | 24-APR-2002 | 02-05-2306A | 02
05 | MN | DULUTH, CITY OF | 2704210045C | 28-JUN-2002 | 02-05-3196A | 02
05 | MN | DUNDAS, CITY OF | 2704030001A | 01-MAY-2002 | 02-05-0173P | 05
05 | MN | EAST BETHEL, CITY OF | 2700120010A | 27-MAR-2002 | 02-05-2177A | 02
05 | MN | EAST BETHEL, CITY OF | 2700120010A | 08-MAY-2002 | 02-05-2274A | 02
05 | MN | EAST GRAND FORKS, CITY OF | 2752360005C | 16-JAN-2002 | 02-05-0958A | 02
05 | MN | EAST GRAND FORKS, CITY OF | 2752360005C | 23-JAN-2002 | 02-05-1310X | 02
05 | MN | EAST GRAND FORKS, CITY OF | 2752360005C | 22-MAR-2002 | 02-05-1830A | 02
05 | MN | EAST GRAND FORKS, CITY OF | 2752360005C | 29-MAR-2002 | 02-05-2176A | 01
05 | MN | EAST GRAND FORKS, CITY OF | 2752360005C | 17-APR-2002 | 02-05-2392A | 02
05 | MN | EAST GRAND FORKS, CITY OF | 2752360005C | 03-MAY-2002 | 02-05-2409A | 01
05 | MN | EAST GRAND FORKS, CITY OF | 2752360005C | 08-MAY-2002 | 02-05-2570A | 02
05 | MN | EDEN PRAIRIE, CITY OF | 2701590005C | 27-FEB-2002 | 02-05-0430A | 02
05 | MN | EDEN PRAIRIE, CITY OF | 2701590005C | 05-APR-2002 | 02-05-0454A | 02
05 | MN | EDEN PRAIRIE, CITY OF | 2701590005C | 20-FEB-2002 | 02-05-1279A | 02
05 | MN | EDEN PRAIRIE, CITY OF | 2701590010C | 29-MAR-2002 | 02-05-1692A | 02
05 | MN | ELBA, CITY OF | 2705270005C | 01-MAY-2002 | 02-05-1787A | 01
05 | MN | FARIBAULT, CITY OF | 2704040002C | 23-JAN-2002 | 02-05-1188A | 02
05 | MN | FILLMORE COUNTY | 2701240025B | 22-MAR-2002 | 02-05-0950A | 02
05 | MN | GREENFIELD, CITY OF | 2706730010C | 19-JUN-2002 | 02-05-2231A | 02
05 | MN | HAM LAKE, CITY OF | 2706740005B | 18-JAN-2002 | 02-05-1002A | 02
05 | MN | HAM LAKE, CITY OF | 2706740005B | 30-JAN-2002 | 02-05-1203A | 02
05 | MN | HAM LAKE, CITY OF | 2706740005B | 13-FEB-2002 | 02-05-1245A | 02
05 | MN | HAM LAKE, CITY OF | 2706740005B | 20-FEB-2002 | 02-05-1382A | 02
05 | MN | HAM LAKE, CITY OF | 2706740010B | 15-MAY-2002 | 02-05-1743A | 02
05 | MN | HAM LAKE, CITY OF | 2706740005B | 13-MAR-2002 | 02-05-1960A | 02
05 | MN | HAM LAKE, CITY OF | 2706740010B | 31-MAY-2002 | 02-05-3107X | 02
05 | MN | HAM LAKE, CITY OF | 2706740005B | 19-JUN-2002 | 02-05-3332A | 02
05 | MN | HARRIS, CITY OF | 2700710002B | 09-JAN-2002 | 02-05-0844A | 02
05 | MN | HERMANTOWN, CITY OF | 2707080012B | 03-MAY-2002 | 02-05-2163A | 02
05 | MN | HERMANTOWN, CITY OF | 2707080005B | 31-MAY-2002 | 02-05-2391A | 01
05 | MN | ISANTI COUNTY | 2701970055A | 20-MAR-2002 | 02-05-0876A | 02
05 | MN | ISANTI COUNTY | 2701970020A | 30-JAN-2002 | 02-05-1162A | 02
05 | MN | ISANTI COUNTY | 2701970075A | 19-JUN-2002 | 02-05-1220A | 02
05 | MN | ISANTI COUNTY | 2701970060B | 21-JUN-2002 | 02-05-1859A | 02
05 | MN | ISANTI COUNTY | 2701970035B | 13-MAR-2002 | 02-05-1878A | 02
05 | MN | ISANTI COUNTY | 2701970045C | 05-APR-2002 | 02-05-2159A | 02
05 | MN | ISANTI COUNTY | 2701970090A | 10-APR-2002 | 02-05-2302A | 02
05 | MN | ISANTI COUNTY | 2701970010A | 12-APR-2002 | 02-05-2313A | 02
05 | MN | KASSON, CITY OF | 2705810001A | 08-FEB-2002 | 02-05-0855A | 02
05 | MN | KOOCHICHING COUNTY | 2702330006B | 18-JAN-2002 | 02-05-1092A | 02
05 | MN | KOOCHICHING COUNTY | 2702330006A | 26-JUN-2002 | 02-05-3323A | 02
05 | MN | KOOCHICHING COUNTY | 2702330006B | 26-JUN-2002 | 02-05-3381A | 02
05 | MN | LANESBORO, CITY OF | 2701260001B | 20-MAR-2002 | 02-05-1380A | 02
05 | MN | LE SUEUR COUNTY | 27079C0425D | 17-APR-2002 | 02-05-1963A | 02
05 | MN | LE SUEUR COUNTY | 27079C0425D | 08-MAY-2002 | 02-05-2719A | 02
05 | MN | LITTLE CANADA, CITY OF | 2703770002A | 16-JAN-2002 | 02-05-0729A | 02
05 | MN | MC LEOD COUNTY | 2706160050C | 10-APR-2002 | 02-05-1506A | 02
05 | MN | MEDINA, CITY OF | 2701710003B | 27-FEB-2002 | 02-05-1269A | 02
05 | MN | MILLE LACS COUNTY | 2706240200B | 05-JUN-2002 | 02-05-2523A | 02
05 | MN | MINNETRISTA, CITY OF | 270175—08B | 25-JAN-2002 | 01-05-3891A | 02
05 | MN | MINNETRISTA, CITY OF | 270175—02B | 05-JUN-2002 | 02-05-2632A | 02
05 | MN | MORRISON COUNTY | 2706170225B | 15-MAY-2002 | 02-05-1193A | 02
05 | MN | MORRISON COUNTY | 2706170290B | 15-MAR-2002 | 02-05-2050A | 02
05 | MN | MORRISON COUNTY | 2706170025B | 27-MAR-2002 | 02-05-2078A | 02
05 | MN | MORRISON COUNTY | 2706170200B | 22-MAY-2002 | 02-05-2647A | 02
05 | MN | MORRISON COUNTY | 2706170290B | 10-MAY-2002 | 02-05-2657A | 02
05 | MN | MOWER COUNTY | 2703070175A | 22-MAR-2002 | 02-05-2082A | 02
05 | MN | MOWER COUNTY | 2703070200A | 17-MAY-2002 | 02-05-2447A | 02
05 | MN | NEW BRIGHTON, CITY OF | 2703800005B | 15-FEB-2002 | 02-05-1490A | 01
05 | MN | NEW BRIGHTON, CITY OF | 2703800005B | 24-APR-2002 | 02-05-1554A | 02
05 | MN | NORTHFIELD, CITY OF | 2706460150B | 27-FEB-2002 | 02-05-1587A | 01
05 | MN | OLMSTED COUNTY | 27109C0075D | 23-JAN-2002 | 01-05-3786A | 02
05 | MN | OLMSTED COUNTY | 27109C0075D | 16-JAN-2002 | 02-05-1120A | 02
05 | MN | OLMSTED COUNTY | 27109C0075D | 22-FEB-2002 | 02-05-1747A | 02
05 | MN | OTSEGO, CITY OF | 2705340032C | 13-MAR-2002 | 02-05-0228A | 01
05 | MN | OWATONNA, CITY OF | 2704630004B | 30-JAN-2002 | 02-05-1243A | 02
05 | MN | POLK COUNTY | 2705030175B | 05-APR-2002 | 02-05-1573A | 02
05 | MN | POLK COUNTY | 2705030050B | 01-MAR-2002 | 02-05-1782A | 02
05 | MN | POLK COUNTY | 2705030475B | 05-APR-2002 | 02-05-1888A | 02
05 | MN | POLK COUNTY | 2705030025B | 01-MAY-2002 | 02-05-2545A | 02
05 | MN | POPE COUNTY | 270368B | 12-JUN-2002 | 02-05-2955A | 02
05 | MN | PRESTON, CITY OF | 2701290001D | 03-MAY-2002 | 02-05-2492A | 02
05 | MN | PRIOR LAKE, CITY OF | 2704320003C | 04-JAN-2002 | 02-05-0609A | 02
05 | MN | PRIOR LAKE, CITY OF | 2704320004C | 27-FEB-2002 | 02-05-1590A | 02
05 | MN | PRIOR LAKE, CITY OF | 2704320002C | 26-APR-2002 | 02-05-2546A | 02
05 | MN | PRIOR LAKE, CITY OF | 2704320002C | 22-MAY-2002 | 02-05-2823A | 02
05 | MN | RAMSEY, CITY OF | 2706810015B | 13-FEB-2002 | 02-05-1538A | 17
05 | MN | RAMSEY, CITY OF | 2706810005B | 13-MAR-2002 | 02-05-1954A | 17
05 | MN | RED WING, CITY OF | 2701460010C | 27-FEB-2002 | 02-05-0974A | 17
05 | MN | RICE COUNTY | 2706460075B | 13-FEB-2002 | 02-05-0850A | 02
05 | MN | RICE COUNTY | 2706460100B | 25-JAN-2002 | 02-05-1134A | 02
05 | MN | RICE COUNTY | 2706460025C | 20-FEB-2002 | 02-05-1540A | 02
05 | MN | RICE COUNTY | 2706460100B | 29-MAR-2002 | 02-05-2137A | 02
05 | MN | RICE COUNTY | 2706460050B | 14-JUN-2002 | 02-05-3062A | 02
05 | MN | RICE COUNTY | 2706460025C | 21-JUN-2002 | 02-05-3355A | 02
05 | MN | ROCHESTER, CITY OF | 27109C0142E | 20-MAR-2002 | 02-05-1473A | 01
05 | MN | ROCKFORD, CITY OF | 2701820001C | 12-JUN-2002 | 02-05-2633A | 02
05 | MN | ROSEAU COUNTY | 2706330200C | 13-FEB-2002 | 02-05-0912A | 02
05 | MN | ROSEAU COUNTY | 2706330100C | 15-FEB-2002 | 02-05-1496A | 01
05 | MN | ROSEAU COUNTY | 2706330125C | 15-FEB-2002 | 02-05-1496A | 01
05 | MN | ROSEAU COUNTY | 2706330250C | 17-MAY-2002 | 02-05-1884A | 02
05 | MN | ROSEAU, CITY OF | 2704140005C | 05-JUN-2002 | 02-05-1952A | 01
05 | MN | SHERBURNE COUNTY | 27141C0240E | 04-JAN-2002 | 01-05-3842A | 02
05 | MN | SHERBURNE COUNTY | 27141C0245E | 04-JAN-2002 | 01-05-3842A | 02
05 | MN | SHERBURNE COUNTY | 27141C0335E | 09-JAN-2002 | 02-05-0938A | 02
05 | MN | SHERBURNE COUNTY | 27141C0245E | 01-FEB-2002 | 02-05-1331X | 02
05 | MN | SHERBURNE COUNTY | 27141C0245E | 26-APR-2002 | 02-05-2250A | 02
05 | MN | SHOREVIEW, CITY OF | 2703840001B | 09-JAN-2002 | 02-05-0570A | 02
05 | MN | SHOREVIEW, CITY OF | 2703840001B | 16-JAN-2002 | 02-05-0835A | 01
05 | MN | SHOREVIEW, CITY OF | 2703840001B | 03-APR-2002 | 02-05-2193X | 01
05 | MN | SHOREVIEW, CITY OF | 2703840001B | 15-MAY-2002 | 02-05-2365A | 01
05 | MN | SHOREVIEW, CITY OF | 2703840001B | 19-JUN-2002 | 02-05-2751A | 01
05 | MN | ST. CHARLES, CITY OF | 2705310001B | 25-JUN-2002 | 02-05-2277A | 01
05 | MN | ST. LOUIS COUNTY | 2704160575C | 24-APR-2002 | 02-05-2438A | 02
05 | MN | STEARNS COUNTY | 2705460265B | 09-JAN-2002 | 02-05-0387A | 02
05 | MN | STEARNS COUNTY | 2705460075A | 03-MAY-2002 | 02-05-1119A | 02
05 | MN | STEARNS COUNTY | 2705460270B | 25-JAN-2002 | 02-05-1213A | 02
05 | MN | STEARNS COUNTY | 2705460270B | 06-MAR-2002 | 02-05-1312A | 02
05 | MN | STEARNS COUNTY | 2705460095A | 03-MAY-2002 | 02-05-1784A | 01
05 | MN | STEARNS COUNTY | 2705460265B | 10-MAY-2002 | 02-05-2474A | 02
05 | MN | STEARNS COUNTY | 2705460270B | 10-MAY-2002 | 02-05-2746A | 02
05 | MN | STEELE COUNTY | 2706350070B | 01-MAY-2002 | 02-05-2555A | 02
05 | MN | STEELE COUNTY | 2706350100B | 12-JUN-2002 | 02-05-3004A | 02
05 | MN | STEELE COUNTY | 2706350070B | 07-JUN-2002 | 02-05-3067A | 02
05 | MN | WADENA COUNTY | 2706370300B | 25-JAN-2002 | 02-05-1110A | 02
05 | MN | WARROAD, CITY OF | 2704150001B | 04-JAN-2002 | 02-05-0633A | 01
05 | MN | WARROAD, CITY OF | 2704150001B | 15-MAR-2002 | 02-05-2019X | 01
05 | MN | WASHINGTON COUNTY | 2704990125B | 16-JAN-2002 | 02-05-1117A | 02
05 | MN | WASHINGTON COUNTY | 2704990125B | 13-FEB-2002 | 02-05-1318A | 02
05 | MN | WASHINGTON COUNTY | 2704990125B | 28-JUN-2002 | 02-05-2854A | 02
05 | MN | WASHINGTON COUNTY | 2704990125B | 26-JUN-2002 | 02-05-3413A | 02
05 | MN | WAVERLY, CITY OF | 27066601A | 22-MAY-2002 | 02-05-2367A | 02
05 | MN | WHITE BEAR,TOWNSHIP OF | 2706880005B | 20-FEB-2002 | 02-05-1535A | 02
05 | MN | WHITE BEAR,TOWNSHIP OF | 2706880005B | 05-APR-2002 | 02-05-1801A | 02
05 | MN | WHITE BEAR,TOWNSHIP OF | 2706880005B | 20-MAR-2002 | 02-05-2088A | 02
05 | MN | WINONA COUNTY | 2705250157C | 29-MAR-2002 | 01-05-1473P | 05
05 | MN | WINONA COUNTY | 2705250200C | 08-FEB-2002 | 02-05-0787A | 02
05 | MN | WRIGHT COUNTY | 2705340009B | 20-FEB-2002 | 02-05-1584A | 02
05 | MN | WRIGHT COUNTY | 2705340042C | 31-MAY-2002 | 02-05-1822A | 02
05 | OH | AKRON, CITY OF | 3905230004B | 22-MAR-2002 | 02-05-1469X | 17
05 | OH | ALLEN COUNTY | 3907580120B | 11-JAN-2002 | 02-05-0388A | 01
05 | OH | ASHLAND COUNTY | 3907590004B | 15-MAR-2002 | 02-05-1352A | 02
05 | OH | ATHENS, CITY OF | 3900160005B | 10-APR-2002 | 02-05-2077A | 02
05 | OH | AUGLAIZE COUNTY | 39011C0090C | 09-JAN-2002 | 02-05-0905A | 02
05 | OH | AUGLAIZE COUNTY | 39011C0090C | 01-MAR-2002 | 02-05-1627A | 02
05 | OH | AUGLAIZE COUNTY | 39011C0090C | 21-JUN-2002 | 02-05-2118A | 02
05 | OH | AUGLAIZE COUNTY | 39011C0090C | 03-MAY-2002 | 02-05-2521A | 02
05 | OH | AVON LAKE, CITY OF | 390602B | 30-JAN-2002 | 01-05-2713P | 05
05 | OH | AVON LAKE, CITY OF | 3906020002B | 01-FEB-2002 | 02-05-1109A | 02
05 | OH | AVON, CITY OF | 3903480005C | 28-JUN-2002 | 01-05-665P | 05
05 | OH | AVON, CITY OF | 3903480005C | 20-JUN-2002 | 02-05-0982P | 05
05 | OH | AVON, CITY OF | 3903480005C | 15-FEB-2002 | 02-05-1542A | 02
05 | OH | AVON, CITY OF | 3903480005C | 01-MAY-2002 | 02-05-2569A | 02
05 | OH | BAY VILLAGE, CITY OF | 3900930001B | 12-JUN-2002 | 02-05-1790A | 02
05 | OH | BEVERLY, VILLAGE OF | 3905680001C | 26-JUN-2002 | 02-05-1078A | 01
05 | OH | BUTLER COUNTY | 3900370045C | 12-JUN-2002 | 02-05-3058A | 01
05 | OH | CHAMPAIGN COUNTY | 3900550050B | 20-MAR-2002 | 02-05-1909A | 01
05 | OH | CHAMPAIGN COUNTY | 3900550110B | 20-MAR-2002 | 02-05-1909A | 01
05 | OH | COLUMBUS, CITY OF | 39049C0290G | 17-APR-2002 | 02-05-0747A | 01
05 | OH | COLUMBUS, CITY OF | 39049C0138G | 27-MAR-2002 | 02-05-1476A | 02
05 | OH | COLUMBUS, CITY OF | 39049C0290G | 01-MAR-2002 | 02-05-1642A | 01
05 | OH | COLUMBUS, CITY OF | 39049C0377H | 24-APR-2002 | 02-05-1833A | 01
05 | OH | COLUMBUS, CITY OF | 39049C0167G | 06-MAR-2002 | 02-05-1851A | 02
05 | OH | COLUMBUS, CITY OF | 39049C0270G | 27-MAR-2002 | 02-05-2153A | 02
05 | OH | COLUMBUS, CITY OF | 39049C0290G | 24-APR-2002 | 02-05-2351A | 01
05 | OH | CONNEAUT, CITY OF | 3900120010B | 14-JUN-2002 | 02-05-2952A | 02
05 | OH | COSHOCTON, CITY OF | 3900890005B | 15-FEB-2002 | 02-05-1581A | 02
05 | OH | DELAWARE COUNTY | 39041C0265J | 12-JUN-2002 | 02-05-2459A | 02
05 | OH | DELAWARE, CITY OF | 39041C0115J | 09-JAN-2002 | 02-05-0930A | 02
05 | OH | ERIE COUNTY | 3901530075C | 31-MAY-2002 | 02-05-2286A | 01
05 | OH | FAIRFIELD, CITY OF | 3900380005B | 13-FEB-2002 | 02-05-0978A | 02
05 | OH | FAIRFIELD, CITY OF | 3900380005B | 11-JAN-2002 | 02-05-1003X | 02
05 | OH | FAIRFIELD, CITY OF | 3900380005B | 25-JAN-2002 | 02-05-1224A | 02
05 | OH | FINDLAY, CITY OF | 3907670080B | 01-FEB-2002 | 01-05-3771A | 01
05 | OH | FINDLAY, CITY OF | 3902440005C | 16-JAN-2002 | 02-05-0086A | 01
05 | OH | FINDLAY, CITY OF | 3902440004B | 01-FEB-2002 | 02-05-1335A | 02
05 | OH | FINDLAY, CITY OF | 3902440005C | 27-FEB-2002 | 02-05-1759A | 02
05 | OH | FINDLAY, CITY OF | 3902440007B | 08-MAY-2002 | 02-05-2740A | 02
05 | OH | FINDLAY, CITY OF | 3902440007B | 14-JUN-2002 | 02-05-3017A | 02
05 | OH | FRANKLIN COUNTY | 39049C0045H | 04-JAN-2002 | 02-05-0847A | 02
05 | OH | FRANKLIN COUNTY | 39049C0376H | 25-JAN-2002 | 02-05-1201A | 02
05 | OH | FRANKLIN COUNTY | 39049C0227G | 19-APR-2002 | 02-05-2138A | 02
05 | OH | FRANKLIN COUNTY | 39049C0064H | 26-JUN-2002 | 02-05-2401A | 01
05 | OH | FRANKLIN COUNTY | 39049C0290G | 15-MAY-2002 | 02-05-2870A | 02
05 | OH | FRANKLIN, CITY OF | 3905560005C | 05-APR-2002 | 02-05-2259A | 02
05 | OH | FREMONT, CITY OF | 3904860115B | 08-MAY-2002 | 02-05-2699A | 02
05 | OH | FULTON COUNTY | 3901820025C | 05-APR-2002 | 02-05-0999A | 02
05 | OH | FULTON COUNTY | 3901820025C | 10-APR-2002 | 02-05-1160A | 02
05 | OH | GAHANNA, CITY OF | 39049C0186G | 08-MAY-2002 | 02-05-2698A | 02
05 | OH | GALLIPOLIS, CITY OF | 3901880005C | 12-JUN-2002 | 02-05-2436A | 02
05 | OH | GATES MILLS, VILLAGE OF | 3905930001B | 06-MAR-2002 | 02-05-1864A | 02
05 | OH | GEAUGA COUNTY | 3901900125B | 20-MAR-2002 | 02-05-2031A | 02
05 | OH | GENOA, VILLAGE OF | 3906120001A | 21-JUN-2002 | 02-05-3328A | 02
05 | OH | GROVE CITY, CITY OF | 39049C0328G | 20-MAY-2002 | 02-05-1464P | 06
05 | OH | GROVE CITY, CITY OF | 39049C0335G | 15-MAR-2002 | 02-05-1823A | 01
05 | OH | GUERNSEY COUNTY | 39059C0025C | 06-FEB-2002 | 02-05-0956A | 02
05 | OH | HAMILTON COUNTY * | 3902040070B | 04-APR-2002 | 01-05-2359P | 05
05 | OH | HAMILTON COUNTY * | 3902040095B | 04-APR-2002 | 01-05-2359P | 05
05 | OH | HAMILTON COUNTY * | 3902040040C | 16-JAN-2002 | 02-05-0440A | 02
05 | OH | HAMILTON COUNTY * | 3902040040C | 12-JUN-2002 | 02-05-1287A | 02
05 | OH | HANCOCK COUNTY | 3907670080B | 16-JAN-2002 | 02-05-1103A | 02
05 | OH | HANCOCK COUNTY | 3907670110B | 19-APR-2002 | 02-05-2387A | 17
05 | OH | HOLLAND, VILLAGE OF | 39095C0227D | 03-APR-2002 | 02-05-1329A | 01
05 | OH | HUDSON, VILLAGE OF | 3906600001B | 05-JUN-2002 | 02-05-2059A | 02
05 | OH | HURON COUNTY | 3907700004B | 03-APR-2002 | 02-05-1666A | 02
05 | OH | HURON, CITY OF | 3901540001B | 28-JUN-2002 | 02-05-2839A | 02
05 | OH | JACKSON COUNTY | 3902900005B | 31-MAY-2002 | 02-05-2103A | 02
05 | OH | KENT, CITY OF | 3904560001B | 17-MAY-2002 | 02-05-2654A | 02
05 | OH | KENT, CITY OF | 3904560001B | 19-JUN-2002 | 02-05-2730A | 02
05 | OH | KETTERING, CITY OF | 3904120020B | 10-APR-2002 | 02-05-2251A | 02
05 | OH | KETTERING, CITY OF | 3904120020B | 05-JUN-2002 | 02-05-3035A | 02
05 | OH | KNOX COUNTY | 3903060070C | 15-MAR-2002 | 02-05-1543A | 02
05 | OH | KNOX COUNTY | 3903060120C | 03-APR-2002 | 02-05-1920A | 02
05 | OH | KNOX COUNTY | 3903060100C | 12-JUN-2002 | 02-05-2557A | 02
05 | OH | LANCASTER, CITY OF | 3901610003D | 26-APR-2002 | 02-05-1797A | 02
05 | OH | LAWRENCE COUNTY | 3903250145B | 12-APR-2002 | 02-05-2079A | 02
05 | OH | LAWRENCE COUNTY * | 3903250180B | 29-MAR-2002 | 02-05-1979A | 02
05 | OH | LEXINGTON, VILLAGE OF | 3906180001D | 04-JAN-2002 | 02-05-0517A | 02
05 | OH | LICKING COUNTY | 3903280175B | 05-JUN-2002 | 02-05-2974A | 02
05 | OH | LORAIN COUNTY | 3903460040B | 20-FEB-2002 | 02-05-1549A | 02
05 | OH | LOUISVILLE, CITY OF | 3905160003D | 20-FEB-2002 | 02-05-1591A | 17
05 | OH | LOUISVILLE, CITY OF | 3905160002D | 31-MAY-2002 | 02-05-2047A | 02
05 | OH | LUCAS COUNTY | 39095C0064D | 28-MAY-2002 | 01-05-2963P | 05
05 | OH | LUCAS COUNTY | 39095C0236D | 25-JAN-2002 | 01-05-3742A | 01
05 | OH | LUCAS COUNTY | 39095C0237D | 16-JAN-2002 | 02-05-0172A | 02
05 | OH | LUCAS COUNTY | 39095C0045D | 08-MAR-2002 | 02-05-0612A | 02
05 | OH | LUCAS COUNTY | 39095C0042D | 25-JAN-2002 | 02-05-0846A | 01
05 | OH | LUCAS COUNTY | 39095C0061D | 18-JAN-2002 | 02-05-0936A | 02
05 | OH | LUCAS COUNTY | 39095C0053D | 08-FEB-2002 | 02-05-1208A | 01
05 | OH | LUCAS COUNTY | 39095C0061D | 06-FEB-2002 | 02-05-1216A | 01
05 | OH | LUCAS COUNTY | 39095C0236D | 13-FEB-2002 | 02-05-1439X | 01
05 | OH | LUCAS COUNTY | 39095C0062D | 20-FEB-2002 | 02-05-1565A | 02
05 | OH | LUCAS COUNTY | 39095C0105D | 13-FEB-2002 | 02-05-1651A | 02
05 | OH | LUCAS COUNTY | 39095C0064D | 22-FEB-2002 | 02-05-1677A | 02
05 | OH | LUCAS COUNTY | 39095C0145D | 22-MAR-2002 | 02-05-1758A | 02
05 | OH | LUCAS COUNTY | 39095C0053D | 01-MAR-2002 | 02-05-1792A | 02
05 | OH | LUCAS COUNTY | 39095C0062D | 15-MAY-2002 | 02-05-2574A | 02
05 | OH | LUCAS COUNTY | 39095C0062D | 10-MAY-2002 | 02-05-2659A | 02
05 | OH | LUCAS COUNTY | 39095C0061D | 26-JUN-2002 | 02-05-3350A | 02
05 | OH | MAHONING COUNTY | 3903670125B | 28-FEB-2002 | 01-05-653P | 06
05 | OH | MAHONING COUNTY | 3903670050B | 03-APR-2002 | 02-05-2049A | 02
05 | OH | MAHONING COUNTY | 3903670050B | 31-MAY-2002 | 02-05-3008A | 02
05 | OH | MANSFIELD, CITY OF | 3904770009C | 10-MAY-2002 | 02-05-2745A | 02
05 | OH | MANSFIELD, CITY OF | 3904770009C | 14-JUN-2002 | 02-05-3051A | 01
05 | OH | MASON, CITY OF | 3905590005C | 20-MAR-2002 | 02-05-1471A | 02
05 | OH | MAYFIELD, VILLAGE OF | 39011608D | 23-JAN-2002 | 02-05-1017A | 02
05 | OH | MEDINA COUNTY | 3903780005B | 12-APR-2002 | 02-05-2347A | 02
05 | OH | MEDINA COUNTY | 3903780080B | 28-JUN-2002 | 02-05-3134A | 02
05 | OH | MEDINA COUNTY | 3903780080B | 28-JUN-2002 | 02-05-3135A | 02
05 | OH | MERCER COUNTY | 3903920100B | 11-JAN-2002 | 02-05-0969A | 02
05 | OH | MERCER COUNTY | 3903920075B | 05-APR-2002 | 02-05-2164A | 02
05 | OH | MERCER COUNTY | 3903920100B | 17-APR-2002 | 02-05-2404A | 02
05 | OH | MERCER COUNTY | 3903920100B | 17-MAY-2002 | 02-05-2692A | 01
05 | OH | MERCER COUNTY | 3903920075B | 24-MAY-2002 | 02-05-2756A | 02
05 | OH | MERCER COUNTY | 3903920100B | 31-MAY-2002 | 02-05-2958A | 01
05 | OH | MERCER COUNTY | 3903920100B | 14-JUN-2002 | 02-05-3094A | 02
05 | OH | MERCER COUNTY | 3903920100B | 12-JUN-2002 | 02-05-3148A | 02
05 | OH | MERCER COUNTY * | 3903920100B | 05-APR-2002 | 02-05-1706A | 02
05 | OH | MIAMI COUNTY | 3903980090B | 24-APR-2002 | 02-05-1883A | 02
05 | OH | MIAMI COUNTY | 3903980080B | 03-APR-2002 | 02-05-1890A | 02
05 | OH | MIAMI COUNTY | 3903980075C | 12-JUN-2002 | 02-05-2664A | 02
05 | OH | MIDDLEBURG HEIGHTS, CITY OF | 3901170001B | 08-JAN-2002 | 02-05-0331P | 05
05 | OH | MUSKINGUM COUNTY | 3904250175C | 05-JUN-2002 | 02-05-2858A | 02
05 | OH | NEW PHILADELPHIA, CITY OF | 3907820090B | 22-FEB-2002 | 02-05-1368A | 02
05 | OH | NEW PHILADELPHIA, CITY OF | 3905450005C | 22-FEB-2002 | 02-05-1551A | 02
05 | OH | NEWARK,CITY OF | 3903350002F | 23-JAN-2002 | 02-05-1181A | 02
05 | OH | NEWTOWN, VILLAGE OF | 3903200005C | 27-FEB-2002 | 02-05-1277A | 02
05 | OH | NORTH CANTON, CITY OF | 3905210002B | 25-JAN-2002 | 02-05-1167A | 02
05 | OH | NORTH RIDGEVILLE, CITY OF | 3903520005C | 22-MAY-2002 | 02-05-2449A | 02
05 | OH | NORTH RIDGEVILLE, CITY OF | 3903520005C | 10-MAY-2002 | 02-05-2589A | 02
05 | OH | OLMSTED FALLS, CITY OF | 3906720001B | 17-APR-2002 | 02-05-2423A | 02
05 | OH | OREGON, CITY OF | 39095C0110D | 31-MAY-2002 | 02-05-2350A | 02
05 | OH | OREGON, CITY OF | 39095C0110D | 22-MAY-2002 | 02-05-2778A | 01
05 | OH | OREGON, CITY OF | 39095C0110D | 21-JUN-2002 | 02-05-2873A | 01
05 | OH | OTTAWA COUNTY | 3904320050B | 06-FEB-2002 | 02-05-0753A | 02
05 | OH | OTTAWA COUNTY | 3904320200B | 23-JAN-2002 | 02-05-1174A | 02
05 | OH | OTTAWA COUNTY | 3904320125B | 05-JUN-2002 | 02-05-1435A | 01
05 | OH | OTTAWA COUNTY | 3904320125B | 20-FEB-2002 | 02-05-1486A | 02
05 | OH | OTTAWA COUNTY | 3904320200B | 12-APR-2002 | 02-05-2076A | 02
05 | OH | OTTAWA COUNTY | 3904320125B | 12-JUN-2002 | 02-05-3223A | 02
05 | OH | OTTAWA, VILLAGE OF | 3904720002C | 20-FEB-2002 | 02-05-1580A | 02
05 | OH | PARMA, CITY OF | 3901230004B | 22-MAR-2002 | 02-05-2029A | 02
05 | OH | PAULDING COUNTY | 3907770065D | 14-JUN-2002 | 02-05-3071A | 02
05 | OH | PERRY COUNTY | 3907780070C | 01-MAY-2002 | 02-05-2097A | 01
05 | OH | PICKERINGTON, VILLAGE OF | 3901620005E | 18-JAN-2002 | 02-05-0588A | 01
05 | OH | PORTAGE COUNTY | 39045334C | 13-MAR-2002 | 02-05-0918A | 02
05 | OH | PORTAGE COUNTY | 39045322C | 22-MAY-2002 | 02-05-2140A | 02
05 | OH | PUTNAM COUNTY | 3904650100B | 10-MAY-2002 | 02-05-2516A | 02
05 | OH | RAVENNA, CITY OF | 39045802A | 20-MAR-2002 | 02-05-1907A | 02
05 | OH | REYNOLDSBURG, CITY OF | 39049C0283G | 22-MAY-2002 | 02-05-2813A | 02
05 | OH | RICHLAND COUNTY | 3904760100B | 10-MAY-2002 | 02-05-1436A | 02
05 | OH | SANDUSKY COUNTY | 3904860120B | 16-JAN-2002 | 01-05-3825A | 02
05 | OH | SANDUSKY COUNTY | 3904860075B | 11-JAN-2002 | 02-05-0592A | 02
05 | OH | SANDUSKY COUNTY | 3904860200B | 17-APR-2002 | 02-05-2371A | 02
05 | OH | SANDUSKY, CITY OF | 39015607B | 16-JAN-2002 | 02-05-0949A | 02
05 | OH | SANDUSKY, CITY OF | 39015606B | 11-JAN-2002 | 02-05-0966A | 02
05 | OH | SENECA COUNTY | 3907790025B | 16-JAN-2002 | 02-05-1121A | 02
05 | OH | SHELBY COUNTY | 3905030060C | 08-MAY-2002 | 02-05-2687A | 02
05 | OH | SHELBY, CITY OF | 3904790001B | 13-FEB-2002 | 02-05-1441A | 02
05 | OH | SPRINGBORO, CITY OF | 3905640001B | 24-MAY-2002 | 02-05-2949A | 02
05 | OH | SPRINGFIELD, CITY OF | 3907320180A | 20-FEB-2002 | 02-05-1518A | 02
05 | OH | ST. MARYS, CITY OF | 39011C0080C | 31-MAY-2002 | 02-05-2771A | 02
05 | OH | STARK COUNTY | 3907800102B | 08-FEB-2002 | 02-05-0409A | 02
05 | OH | STARK COUNTY | 3907800085B | 01-MAY-2002 | 02-05-2533A | 02
05 | OH | STRONGSVILLE, CITY OF | 3901320005B | 04-JAN-2002 | 02-05-0899A | 02
05 | OH | STRONGSVILLE, CITY OF | 3901320005B | 18-JAN-2002 | 02-05-1006A | 02
05 | OH | STRONGSVILLE, CITY OF | 3901320005B | 18-JAN-2002 | 02-05-1007A | 02
05 | OH | STRONGSVILLE, CITY OF | 3901320005B | 15-MAY-2002 | 02-05-1008A | 02
05 | OH | STRONGSVILLE, CITY OF | 3901320005B | 18-JAN-2002 | 02-05-1009A | 02
05 | OH | STRONGSVILLE, CITY OF | 3901320005B | 18-JAN-2002 | 02-05-1011A | 02
05 | OH | STRONGSVILLE, CITY OF | 3901320005B | 18-JAN-2002 | 02-05-1015A | 02
05 | OH | STRONGSVILLE, CITY OF | 3901320005B | 23-JAN-2002 | 02-05-1099A | 02
05 | OH | STRONGSVILLE, CITY OF | 3901320005B | 23-JAN-2002 | 02-05-1100A | 02
05 | OH | STRONGSVILLE, CITY OF | 3901320005B | 23-JAN-2002 | 02-05-1106A | 02
05 | OH | STRONGSVILLE, CITY OF | 3901320005B | 23-JAN-2002 | 02-05-1136A | 02
05 | OH | STRONGSVILLE, CITY OF | 3901320005B | 23-JAN-2002 | 02-05-1138A | 02
05 | OH | STRONGSVILLE, CITY OF | 3901320005B | 23-JAN-2002 | 02-05-1139A | 02
05 | OH | STRONGSVILLE, CITY OF | 3901320005B | 23-JAN-2002 | 02-05-1175A | 02
05 | OH | STRONGSVILLE, CITY OF | 3901320005B | 25-JAN-2002 | 02-05-1214A | 02
05 | OH | STRONGSVILLE, CITY OF | 3901320005B | 25-JAN-2002 | 02-05-1226A | 02
05 | OH | STRONGSVILLE, CITY OF | 3901320005B | 08-FEB-2002 | 02-05-1450A | 02
05 | OH | STRONGSVILLE, CITY OF | 3901320005B | 08-FEB-2002 | 02-05-1455A | 02
05 | OH | STRONGSVILLE, CITY OF | 3901320005B | 08-FEB-2002 | 02-05-1456A | 02
05 | OH | STRONGSVILLE, CITY OF | 3901320005B | 08-FEB-2002 | 02-05-1460A | 02
05 | OH | STRONGSVILLE, CITY OF | 3901320005B | 08-FEB-2002 | 02-05-1494A | 02
05 | OH | STRONGSVILLE, CITY OF | 3901320005B | 15-FEB-2002 | 02-05-1523A | 02
05 | OH | STRONGSVILLE, CITY OF | 3901320005B | 01-MAR-2002 | 02-05-1675A | 02
05 | OH | STRONGSVILLE, CITY OF | 3901320005B | 01-MAR-2002 | 02-05-1816A | 02
05 | OH | STRONGSVILLE, CITY OF | 3901320005B | 06-MAR-2002 | 02-05-1874A | 02
05 | OH | SUMMIT COUNTY | 3907810010B | 08-MAY-2002 | 02-05-2312A | 17
05 | OH | SUMMIT COUNTY | 3907810015B | 24-APR-2002 | 02-05-2434A | 02
05 | OH | SUMMIT COUNTY | 3907810010B | 05-JUN-2002 | 02-05-3020A | 02
05 | OH | SYLVANIA, CITY OF | 39095C0054D | 15-FEB-2002 | 02-05-1093A | 02
05 | OH | SYLVANIA, CITY OF | 39095C0051D | 01-MAY-2002 | 02-05-1425A | 02
05 | OH | SYLVANIA, CITY OF | 39095C0054D | 05-APR-2002 | 02-05-2022A | 17
05 | OH | SYRACUSE, VILLAGE OF | 3903910005B | 21-JUN-2002 | 02-05-1768A | 02
05 | OH | TIPP CITY, CITY OF | 3904010005D | 12-JUN-2002 | 02-05-1950A | 01
05 | OH | TOLEDO, CITY OF | 39095C0059D | 09-JAN-2002 | 01-05-3451A | 01
05 | OH | TOLEDO, CITY OF | 39095C0079D | 04-JAN-2002 | 02-05-0727A | 02
05 | OH | TOLEDO, CITY OF | 39095C0232D | 18-JAN-2002 | 02-05-0867A | 02
05 | OH | TOLEDO, CITY OF | 39095C0059D | 16-JAN-2002 | 02-05-0886A | 02
05 | OH | TOLEDO, CITY OF | 39095C0088D | 26-APR-2002 | 02-05-0911A | 01
05 | OH | TOLEDO, CITY OF | 39095C0231D | 05-APR-2002 | 02-05-0914P | 06
05 | OH | TOLEDO, CITY OF | 39095C0059D | 04-JAN-2002 | 02-05-0948A | 02
05 | OH | TOLEDO, CITY OF | 39095C0105D | 10-MAY-2002 | 02-05-1095A | 02
05 | OH | TOLEDO, CITY OF | 39095C0059D | 16-JAN-2002 | 02-05-1141A | 02
05 | OH | TOLEDO, CITY OF | 39095C0079D | 19-APR-2002 | 02-05-1892A | 02
05 | OH | TOLEDO, CITY OF | 39095C0066D | 01-MAY-2002 | 02-05-2290A | 02
05 | OH | TOLEDO, CITY OF | 39095C0059D | 01-MAY-2002 | 02-05-2481X | 02
05 | OH | TOLEDO, CITY OF | 39095C0059D | 28-JUN-2002 | 02-05-3366A | 02
05 | OH | TRUMBULL COUNTY | 3905350100B | 08-MAY-2002 | 02-05-1563A | 02
05 | OH | TRUMBULL COUNTY | 3905350100B | 29-MAY-2002 | 02-05-2827A | 02
05 | OH | UHRICHSVILLE, CITY OF | 3905470005C | 03-MAY-2002 | 02-05-2377A | 02
05 | OH | UNION COUNTY | 3908080100B | 20-FEB-2002 | 02-05-1562A | 02
05 | OH | UNION COUNTY | 3908080150B | 24-APR-2002 | 02-05-1585A | 02
05 | OH | UNION COUNTY | 3908080100B | 31-MAY-2002 | 02-05-2464A | 01
05 | OH | UPPER ARLINGTON, CITY OF | 39049C0137G | 28-JUN-2002 | 02-05-1770A | 02
05 | OH | VALLEY VIEW, VILLAGE OF | 3901340001B | 17-MAY-2002 | 02-05-1369A | 02
05 | OH | WASHINGTON COUNTY | 3905660125B | 20-FEB-2002 | 02-05-1507A | 02
05 | OH | WASHINGTON COUNTY | 3905660125B | 19-APR-2002 | 02-05-2472A | 02
05 | OH | WESTERVILLE, CITY OF | 39041C0240J | 12-JUN-2002 | 01-05-1490P | 05
05 | OH | WESTERVILLE, CITY OF | 39049C0064H | 12-JUN-2002 | 01-05-1490P | 05
05 | OH | WESTERVILLE, CITY OF | 39041C0245J | 08-MAR-2002 | 01-05-3976P | 05
05 | OH | WESTERVILLE, CITY OF | 39049C0069H | 08-MAR-2002 | 01-05-3976P | 05
05 | OH | WESTERVILLE, CITY OF | 39041C0245J | 08-APR-2002 | 02-05-2128P | 05
05 | OH | WESTERVILLE, CITY OF | 39049C0069H | 08-APR-2002 | 02-05-2128P | 05
05 | OH | WESTERVILLE, CITY OF | 39049C0159G | 19-JUN-2002 | 02-05-3065A | 01
05 | OH | WHITEHOUSE, VILLAGE OF | 39095C0216D | 15-MAY-2002 | 02-05-1893A | 02
05 | OH | WILLIAMS COUNTY | 3907850050B | 06-FEB-2002 | 02-05-1206A | 02
05 | OH | WILLIAMS COUNTY | 3907850050B | 25-JAN-2002 | 02-05-1207A | 02
05 | OH | WILLIAMS COUNTY | 3907850150B | 17-APR-2002 | 02-05-1316A | 02
05 | OH | WILLIAMS COUNTY | 3907850025B | 29-MAY-2002 | 02-05-2760A | 02
05 | OH | WILLOUGHBY HILLS, CITY OF | 3903230004B | 05-JUN-2002 | 02-05-2141A | 02
05 | OH | WOOD COUNTY | 3908090120B | 19-JUN-2002 | 02-05-2297A | 02
05 | OH | WOOD COUNTY | 3908090016B | 07-JUN-2002 | 02-05-2951A | 02
05 | OH | WOOD COUNTY | 3908090050C | 07-JUN-2002 | 02-05-2966A | 02
05 | OH | WOODVILLE, VILLAGE OF | 3904950005B | 26-JUN-2002 | 02-05-1652A | 02
05 | OH | WYANDOT COUNTY | 3907870050C | 05-JUN-2002 | 02-05-2566A | 02
05 | VA | LOUDOUN COUNTY * | 51107C0075D | 06-MAY-2002 | 02-03-077P | 05
05 | WI | ALLOUEZ, VILLAGE OF | 5500200150B | 15-MAR-2002 | 02-05-1263A | 02
05 | WI | ALLOUEZ, VILLAGE OF | 5500500125B | 15-MAR-2002 | 02-05-1765A | 02
05 | WI | BARRON COUNTY | 5505680025C | 18-JAN-2002 | 02-05-0908A | 02
05 | WI | BARRON COUNTY | 5505680225C | 24-APR-2002 | 02-05-2443A | 02
05 | WI | BAYFIELD COUNTY | 5505390008C | 10-APR-2002 | 02-05-2060A | 02
05 | WI | BAYFIELD COUNTY | 5505390008C | 10-APR-2002 | 02-05-2061A | 02
05 | WI | BAYFIELD COUNTY | 5505390020B | 05-JUN-2002 | 02-05-2700A | 02
05 | WI | BEAVER DAM, CITY OF | 5500950001D | 11-JAN-2002 | 02-05-0955A | 02
05 | WI | BOYCEVILLE, VILLAGE OF | 5501190001B | 09-JAN-2002 | 02-05-0295A | 02
05 | WI | BROOKFIELD, CITY OF | 5504780005B | 27-FEB-2002 | 02-05-1735A | 02
05 | WI | BROWN COUNTY * | 5500200125B | 28-JUN-2002 | 02-05-0462A | 01
05 | WI | BROWN COUNTY * | 5500200075B | 13-FEB-2002 | 02-05-1057A | 01
05 | WI | BROWN COUNTY * | 5500200150B | 15-FEB-2002 | 02-05-1264A | 01
05 | WI | BROWN COUNTY * | 5500200125B | 08-MAY-2002 | 02-05-1280A | 01
05 | WI | BROWN COUNTY * | 5500200125B | 15-FEB-2002 | 02-05-1289A | 02
05 | WI | BROWN COUNTY * | 5500200150B | 06-MAR-2002 | 02-05-1299A | 01
05 | WI | BROWN COUNTY * | 5500200150B | 15-MAY-2002 | 02-05-2213A | 02
05 | WI | BURNETT COUNTY | 5500320225B | 06-FEB-2002 | 02-05-1480A | 02
05 | WI | BURNETT COUNTY * | 5500320225B | 10-APR-2002 | 02-05-1428A | 02
05 | WI | CAMPBELLSPORT, VILLAGE OF | 5501330001B | 19-JUN-2002 | 02-05-3042A | 02
05 | WI | CEDARBURG, CITY OF | 55089C0064D | 08-MAR-2002 | 02-05-1179A | 02
05 | WI | CHASEBURG, VILLAGE OF | 5504510001B | 30-JAN-2002 | 01-05-3989A | 02
05 | WI | CHIPPEWA COUNTY | 5555490200C | 27-FEB-2002 | 02-05-0554A | 02
05 | WI | CHIPPEWA COUNTY | 5555490200C | 13-MAR-2002 | 02-05-0937A | 02
05 | WI | CHIPPEWA COUNTY | 5555490275C | 01-FEB-2002 | 02-05-1341A | 02
05 | WI | CHIPPEWA COUNTY | 5555490125B | 13-MAR-2002 | 02-05-1613A | 02
05 | WI | CHIPPEWA COUNTY | 5555490200C | 13-MAR-2002 | 02-05-1613A | 02
05 | WI | CHIPPEWA COUNTY | 5555490250C | 29-MAR-2002 | 02-05-2043A | 02
05 | WI | CHIPPEWA COUNTY | 5555490250C | 10-APR-2002 | 02-05-2249A | 02
05 | WI | COLUMBIA COUNTY | 5505810075C | 27-FEB-2002 | 02-05-1671A | 02
05 | WI | COLUMBUS, CITY OF | 5500580001B | 19-APR-2002 | 02-05-2070A | 02
05 | WI | CUDAHY, CITY OF | 5502720001B | 26-APR-2002 | 02-05-1840P | 06
05 | WI | DANE COUNTY* | 5500770500A | 30-JAN-2002 | 02-05-0469A | 02
05 | WI | DANE COUNTY* | 5500770150C | 19-JUN-2002 | 02-05-1387A | 02
05 | WI | DANE COUNTY* | 5500770175C | 27-FEB-2002 | 02-05-1683A | 02
05 | WI | DANE COUNTY* | 5500770025C | 19-JUN-2002 | 02-05-1708A | 02
05 | WI | DANE COUNTY* | 5500770150C | 15-MAY-2002 | 02-05-1987A | 02
05 | WI | DANE COUNTY* | 5500770375A | 10-JUN-2002 | 02-05-2197A | 02
05 | WI | DANE COUNTY* | 5500770175C | 21-JUN-2002 | 02-05-2236A | 02
05 | WI | DE FOREST, VILLAGE OF | 5500820005C | 03-APR-2002 | 02-05-0437A | 17
05 | WI | DE FOREST, VILLAGE OF | 5500820005C | 12-JUN-2002 | 02-05-0699A | 01
05 | WI | DE FOREST, VILLAGE OF | 5500820005C | 26-APR-2002 | 02-05-2255A | 02
05 | WI | DE PERE, CITY OF | 5500200125B | 04-JAN-2002 | 02-05-0682A | 02
05 | WI | DE PERE, CITY OF | 5500210005C | 15-MAY-2002 | 02-05-1720A | 02
05 | WI | DE PERE, CITY OF | 5500210005C | 01-MAY-2002 | 02-05-2204A | 02
05 | WI | DODGE COUNTY | 5500940145B | 13-MAR-2002 | 02-05-1415A | 02
05 | WI | DODGE COUNTY | 5500940155B | 10-MAY-2002 | 02-05-2696A | 02
05 | WI | DODGE COUNTY | 5500940180B | 12-JUN-2002 | 02-05-2973A | 02
05 | WI | DOOR COUNTY | 5501090085A | 19-JUN-2002 | 02-05-2081A | 02
05 | WI | DOUSMAN, VILLAGE OF | 5504760065B | 20-FEB-2002 | 02-05-1559A | 02
05 | WI | DUNN COUNTY | 5501180225B | 06-MAR-2002 | 02-05-0658A | 02
05 | WI | DUNN COUNTY | 5501180100A | 01-MAR-2002 | 02-05-1751A | 02
05 | WI | DUNN COUNTY | 5501180125A | 07-JUN-2002 | 02-05-2723A | 02
05 | WI | EAU CLAIRE COUNTY | 5555520225B | 16-JAN-2002 | 01-05-3753A | 02
05 | WI | EAU CLAIRE, CITY OF | 5501280015D | 01-MAR-2002 | 02-05-1661A | 02
05 | WI | EAU CLAIRE, CITY OF | 5501280005D | 07-JUN-2002 | 02-05-2727A | 02
05 | WI | FOND DU LAC COUNTY | 5501310060B | 06-MAR-2002 | 02-05-0478A | 01
05 | WI | FOND DU LAC COUNTY | 5501310070C | 16-JAN-2002 | 02-05-0826A | 02
05 | WI | FOND DU LAC COUNTY | 5501310080B | 06-FEB-2002 | 02-05-1148A | 02
05 | WI | FOND DU LAC COUNTY | 5501310060B | 20-FEB-2002 | 02-05-1159A | 02
05 | WI | FOND DU LAC COUNTY | 5501310110B | 17-APR-2002 | 02-05-1168A | 02
05 | WI | FOND DU LAC COUNTY | 5501310015B | 01-MAR-2002 | 02-05-1313A | 02
05 | WI | FOND DU LAC COUNTY | 5501310115B | 08-MAR-2002 | 02-05-1645A | 02
05 | WI | FOND DU LAC COUNTY | 5501310070C | 27-MAR-2002 | 02-05-1814A | 02
05 | WI | FOND DU LAC COUNTY | 5501310135D | 27-MAR-2002 | 02-05-2114A | 02
05 | WI | FOND DU LAC COUNTY | 5501310135D | 27-MAR-2002 | 02-05-2162A | 02
05 | WI | FOND DU LAC COUNTY | 5501310140B | 22-MAY-2002 | 02-05-2513A | 02
05 | WI | FOND DU LAC COUNTY | 5501310115B | 29-MAY-2002 | 02-05-2997A | 02
05 | WI | FOND DU LAC, CITY OF | 5501310070C | 18-JAN-2002 | 01-05-3768A | 01
05 | WI | FOND DU LAC, CITY OF | 5501360005D | 22-FEB-2002 | 02-05-0823A | 02
05 | WI | FOND DU LAC, CITY OF | 5501360005D | 16-JAN-2002 | 02-05-1102A | 02
05 | WI | FOND DU LAC, CITY OF | 5501360005D | 06-FEB-2002 | 02-05-1396A | 02
05 | WI | FOND DU LAC, CITY OF | 5501360005D | 08-MAR-2002 | 02-05-1917A | 02
05 | WI | FOND DU LAC, CITY OF | 5501360005D | 13-MAR-2002 | 02-05-1921A | 02
05 | WI | FOND DU LAC, CITY OF | 5501360005D | 15-MAY-2002 | 02-05-2642A | 02
05 | WI | FOREST COUNTY | 5506030001A | 20-FEB-2002 | 02-05-1746A | 02
05 | WI | FOREST COUNTY | 5506030001A | 27-FEB-2002 | 02-05-1756A | 02
05 | WI | FOREST COUNTY | 5506030009A | 26-APR-2002 | 02-05-2460A | 02
05 | WI | FOREST COUNTY | 5506030001A | 07-JUN-2002 | 02-05-3174A | 02
05 | WI | FOX POINT, VILLAGE OF | 55027401B | 10-APR-2002 | 02-05-2373A | 02
05 | WI | FREMONT, VILLAGE OF | 5504960001C | 09-JAN-2002 | 02-05-0909A | 02
05 | WI | FREMONT, VILLAGE OF | 5504960001C | 06-MAR-2002 | 02-05-1862A | 02
05 | WI | GERMANTOWN, VILLAGE OF | 5504720011B | 12-JUN-2002 | 02-05-2811A | 02
05 | WI | GLENDALE, CITY OF | 5502750005C | 16-JAN-2002 | 02-05-1021A | 02
05 | WI | GLENDALE, CITY OF | 5502750005C | 14-JUN-2002 | 02-05-1899A | 02
05 | WI | GRANT COUNTY | 5555570300B | 31-MAY-2002 | 02-05-2803A | 02
05 | WI | GRATIOT, VILLAGE OF | 5502290001C | 14-JUN-2002 | 02-05-1772A | 01
05 | WI | GREEN BAY, CITY OF | 5500220010E | 01-FEB-2002 | 02-05-1042A | 02
05 | WI | GREEN BAY, CITY OF | 5500220015E | 03-APR-2002 | 02-05-1504A | 02
05 | WI | GREEN COUNTY | 5501570105B | 21-JUN-2002 | 02-05-3247A | 02
05 | WI | GREEN LAKE COUNTY | 5501650004A | 27-FEB-2002 | 02-05-1779A | 02
05 | WI | GREENFIELD, CITY OF | 5502770001B | 18-JAN-2002 | 02-05-0954A | 02
05 | WI | HALES CORNERS, VILLAGE OF | 5505240001C | 13-MAR-2002 | 02-05-1939A | 02
05 | WI | HOWARD, VILLAGE OF | 5500230005B | 20-MAR-2002 | 02-05-0135A | 01
05 | WI | HOWARD, VILLAGE OF | 5500230005B | 05-APR-2002 | 02-05-1764A | 02
05 | WI | HOWARD, VILLAGE OF | 5500230005B | 17-APR-2002 | 02-05-1942A | 02
05 | WI | HOWARD, VILLAGE OF | 5500230005B | 26-APR-2002 | 02-05-2201A | 02
05 | WI | IRON COUNTY | 5501820008B | 06-FEB-2002 | 02-05-1211A | 02
05 | WI | IRON COUNTY | 5501820008B | 03-MAY-2002 | 02-05-2682A | 02
05 | WI | JEFFERSON COUNTY | 5501910050B | 15-MAR-2002 | 02-05-1962A | 17
05 | WI | JEFFERSON COUNTY | 5501910250B | 24-APR-2002 | 02-05-2440A | 02
05 | WI | JEFFERSON COUNTY | 5501910150B | 21-JUN-2002 | 02-05-2684A | 02
05 | WI | JEFFERSON, CITY OF | 5555610001B | 12-JUN-2002 | 02-05-3061A | 02
05 | WI | KENOSHA COUNTY | 5505230050B | 12-JUN-2002 | 02-05-1763A | 02
05 | WI | KEWASKUM, VILLAGE OF | 5504740001C | 11-JAN-2002 | 02-05-0508A | 02
05 | WI | LA CROSSE COUNTY * | 5502170120A | 20-MAR-2002 | 02-05-1296A | 02
05 | WI | LA CROSSE COUNTY * | 5502170120A | 24-APR-2002 | 02-05-2199A | 02
05 | WI | LA CROSSE COUNTY * | 5502170120A | 05-JUN-2002 | 02-05-2229A | 02
05 | WI | LA CROSSE, CITY OF | 5555620005B | 22-FEB-2002 | 02-05-0707A | 02
05 | WI | LA CROSSE, CITY OF | 5555620005B | 22-MAR-2002 | 02-05-1713A | 02
05 | WI | LA CROSSE, CITY OF | 5555620008B | 22-MAR-2002 | 02-05-1723A | 02
05 | WI | LA CROSSE, CITY OF | 5555620005B | 22-MAY-2002 | 02-05-1381A | 01
05 | WI | LA CROSSE, CITY OF | 5555620005B | 12-JUN-2002 | 02-05-3211X | 01
05 | WI | LANGLADE COUNTY | 5505760155B | 10-APR-2002 | 02-05-1769A | 02
05 | WI | LODI, CITY OF | 5500610001B | 20-MAR-2002 | 02-05-1670A | 02
05 | WI | MANITOWOC, CITY OF | 55024004B | 20-MAR-2002 | 02-05-1481A | 02
05 | WI | MARATHON COUNTY | 5502450375B | 27-FEB-2002 | 02-05-0530A | 01
05 | WI | MARATHON COUNTY | 5502450425B | 11-JAN-2002 | 02-05-0960A | 02
05 | WI | MARATHON COUNTY | 5502450400B | 11-JAN-2002 | 02-05-0984A | 02
05 | WI | MARATHON COUNTY | 5502450375B | 30-JAN-2002 | 02-05-1196A | 02
05 | WI | MARATHON COUNTY | 5502450525B | 06-MAR-2002 | 02-05-1762A | 02
05 | WI | MARATHON COUNTY | 5502450375B | 10-APR-2002 | 02-05-2073A | 02
05 | WI | MARATHON COUNTY | 5502450525B | 10-APR-2002 | 02-05-2073A | 02
05 | WI | MARATHON COUNTY | 5502450125B | 07-JUN-2002 | 02-05-2441A | 02
05 | WI | MARINETTE COUNTY | 5502590755B | 08-MAR-2002 | 02-05-1339A | 02
05 | WI | MARINETTE COUNTY | 5502590765B | 08-FEB-2002 | 02-05-1443A | 02
05 | WI | MARINETTE COUNTY | 5502590765B | 20-FEB-2002 | 02-05-1461A | 02
05 | WI | MARINETTE COUNTY | 5502590275B | 03-APR-2002 | 02-05-1904A | 02
05 | WI | MARINETTE COUNTY | 5502590765B | 10-APR-2002 | 02-05-1913A | 17
05 | WI | MARQUETTE COUNTY | 5506010125B | 08-MAR-2002 | 02-05-1536A | 02
05 | WI | MARQUETTE COUNTY | 5506010075B | 26-APR-2002 | 02-05-1914A | 02
05 | WI | MENASHA, CITY OF | 5505100005C | 30-JAN-2002 | 02-05-1067A | 02
05 | WI | MENASHA, CITY OF | 5505100005C | 13-FEB-2002 | 02-05-1281A | 02
05 | WI | MENASHA, CITY OF | 5505100005C | 27-FEB-2002 | 02-05-1323A | 02
05 | WI | MENASHA, CITY OF | 5505100005C | 08-MAY-2002 | 02-05-2220A | 02
05 | WI | MENASHA, CITY OF | 5505100005C | 26-APR-2002 | 02-05-2221A | 02
05 | WI | MEQUON, CITY OF | 55089C0085D | 08-MAR-2002 | 02-05-1370A | 02
05 | WI | MEQUON, CITY OF | 55089C0090D | 24-APR-2002 | 02-05-2444A | 02
05 | WI | MERRIMAC, VILLAGE OF | 55111C0575D | 11-JAN-2002 | 02-05-1018A | 02
05 | WI | MIDDLETON, CITY OF | 5500870002C | 10-APR-2002 | 02-05-1295A | 01
05 | WI | MILWAUKEE, CITY OF | 5502780015B | 21-JUN-2002 | 02-05-1357A | 01
05 | WI | MUSKEGO, CITY OF | 5504860001B | 31-MAY-2002 | 02-05-2467A | 02
05 | WI | MUSKEGO, CITY OF | 5504860005B | 03-MAY-2002 | 02-05-2660A | 02
05 | WI | NEOSHO, VILLAGE OF | 5501040001B | 25-JAN-2002 | 02-05-0795A | 02
05 | WI | NEW BERLIN, CITY OF | 5504870004E | 20-FEB-2002 | 02-05-0924A | 02
05 | WI | NEW LONDON, CITY OF | 5503080001A | 01-MAR-2002 | 02-05-0406A | 02
05 | WI | NEW LONDON, CITY OF | 55030801A | 05-JUN-2002 | 02-05-3019A | 02
05 | WI | OCONTO COUNTY | 5502940295A | 01-MAY-2002 | 02-05-1252A | 17
05 | WI | OCONTO COUNTY | 5502940285A | 12-APR-2002 | 02-05-1773A | 02
05 | WI | OCONTO, CITY OF | 5502970001B | 27-FEB-2002 | 02-05-1617A | 02
05 | WI | OCONTO, CITY OF | 5502970002B | 01-MAY-2002 | 02-05-1927A | 02
05 | WI | ONEIDA COUNTY | 55085C0250B | 08-MAR-2002 | 02-05-1794A | 02
05 | WI | ONEIDA COUNTY | 55085C0200B | 31-MAY-2002 | 02-05-3089A | 02
05 | WI | OSHKOSH, CITY OF | 5505110010D | 05-JUN-2002 | 02-05-2226A | 02
05 | WI | OUTAGAMIE COUNTY | 5503020100C | 13-FEB-2002 | 02-05-0939A | 02
05 | WI | OUTAGAMIE COUNTY | 5503020050B | 29-MAR-2002 | 02-05-2083A | 02
05 | WI | OUTAGAMIE COUNTY | 5503020075B | 31-MAY-2002 | 02-05-2281A | 02
05 | WI | OZAUKEE COUNTY | 55089C0065D | 13-MAR-2002 | 02-05-1519A | 17
05 | WI | PEPIN COUNTY | 55557018C | 15-MAY-2002 | 02-05-2779A | 02
05 | WI | PIERCE COUNTY | 5555710025B | 07-JUN-2002 | 02-05-2895A | 02
05 | WI | PITTSVILLE, CITY OF | 55141C0245F | 22-MAR-2002 | 02-05-2113A | 01
05 | WI | PORTAGE, CITY OF | 5500630005B | 13-MAR-2002 | 02-05-1916A | 02
05 | WI | PRAIRIE DU CHIEN, CITY OF | 55557302A | 20-FEB-2002 | 02-05-1601X | 02
05 | WI | RACINE COUNTY | 5503470010B | 26-APR-2002 | 02-05-0264A | 02
05 | WI | RACINE COUNTY | 5503470010B | 27-MAR-2002 | 02-05-0728A | 02
05 | WI | RACINE COUNTY | 5503470045B | 08-FEB-2002 | 02-05-1448A | 02
05 | WI | RACINE COUNTY | 5503470045B | 06-MAR-2002 | 02-05-1924A | 02
05 | WI | RACINE COUNTY | 5503470010B | 14-JUN-2002 | 02-05-3172A | 02
05 | WI | RACINE COUNTY | 5503470045B | 26-JUN-2002 | 02-05-3368A | 02
05 | WI | RHINELANDER, TOWN OF | 55085C0328B | 22-FEB-2002 | 02-05-1418A | 02
05 | WI | RICHLAND COUNTY | 5503560075B | 09-JAN-2002 | 02-05-0983A | 02
05 | WI | RICHLAND COUNTY | 5503560200B | 30-JAN-2002 | 02-05-1012A | 01
05 | WI | RICHLAND COUNTY | 5503560120B | 27-FEB-2002 | 02-05-1624A | 02
05 | WI | RICHLAND COUNTY | 5503560175B | 05-APR-2002 | 02-05-2194A | 17
05 | WI | RIPON, CITY OF | 5501400001B | 11-JAN-2002 | 02-05-0915A | 17
05 | WI | RIPON, CITY OF | 5501400001B | 27-FEB-2002 | 02-05-1157A | 17
05 | WI | ROCK COUNTY | 5503630090A | 27-FEB-2002 | 02-05-1130A | 17
05 | WI | ROCK COUNTY | 5503630060A | 10-APR-2002 | 02-05-2144A | 02
05 | WI | ROCK COUNTY | 5503630105A | 14-JUN-2002 | 02-05-2851A | 01
05 | WI | RUSK COUNTY | 5506020245B | 11-JAN-2002 | 02-05-0566A | 02
05 | WI | RUSK COUNTY | 5506020225B | 06-FEB-2002 | 02-05-0882A | 02
05 | WI | RUSK COUNTY | 5506020245B | 30-JAN-2002 | 02-05-0933A | 02
05 | WI | RUSK COUNTY | 5506020230B | 06-FEB-2002 | 02-05-1362A | 17
05 | WI | RUSK COUNTY | 5506020240B | 06-FEB-2002 | 02-05-1362A | 17
05 | WI | RUSK COUNTY | 5506020230B | 27-FEB-2002 | 02-05-1395A | 17
05 | WI | RUSK COUNTY | 5506020240B | 27-FEB-2002 | 02-05-1395A | 17
05 | WI | RUSK COUNTY | 5506020240B | 22-FEB-2002 | 02-05-1398A | 17
05 | WI | RUSK COUNTY | 5506020245B | 27-FEB-2002 | 02-05-1430A | 02
05 | WI | RUSK COUNTY | 5506020225B | 07-JUN-2002 | 02-05-2543A | 02
05 | WI | SAUK COUNTY | 55111C0200D | 22-MAR-2002 | 02-05-1183A | 02
05 | WI | SAUK COUNTY | 55111C0200D | 23-JAN-2002 | 02-05-1186A | 02
05 | WI | SAUK COUNTY | 55111C0575D | 05-APR-2002 | 02-05-1672A | 17
05 | WI | SAUK COUNTY | 55111C0200D | 19-APR-2002 | 02-05-1678A | 02
05 | WI | SAUK COUNTY | 55111C0525D | 28-JUN-2002 | 02-05-3170A | 02
05 | WI | SAWYER COUNTY | 5505910050B | 30-JAN-2002 | 02-05-1023A | 02
05 | WI | SAWYER COUNTY | 5505910225B | 17-APR-2002 | 02-05-2475A | 02
05 | WI | SAWYER COUNTY | 5505910045B | 05-JUN-2002 | 02-05-2849A | 02
05 | WI | SCHOFIELD, CITY OF | 5555790001C | 01-MAY-2002 | 02-05-2143A | 02
05 | WI | SEYMOUR, CITY OF | 5505340001A | 20-MAR-2002 | 02-05-1876A | 02
05 | WI | SHAWANO COUNTY | 5504120150B | 13-MAR-2002 | 02-05-1353A | 02
05 | WI | SHAWANO COUNTY | 5504120150B | 12-APR-2002 | 02-05-1805A | 02
05 | WI | SHAWANO COUNTY | 5504120150B | 27-MAR-2002 | 02-05-2168A | 02
05 | WI | SHAWANO COUNTY | 5504120150B | 17-APR-2002 | 02-05-2432A | 02
05 | WI | SHEBOYGAN COUNTY * | 5504240025B | 22-FEB-2002 | 02-05-1273A | 02
05 | WI | SHELL LAKE, CITY OF | 5504690001E | 05-JUN-2002 | 02-05-3047A | 02
05 | WI | SHIOCTON, VILLAGE OF | 5503090001B | 09-JAN-2002 | 02-05-0990A | 02
05 | WI | SILVER LAKE, VILLAGE OF | 5502100005B | 19-JUN-2002 | 02-05-2186A | 02
05 | WI | STEVENS POINT, CITY OF | 5503420005B | 03-APR-2002 | 02-05-2051A | 02
05 | WI | STURGEON BAY, CITY OF | 5501110005B | 15-MAY-2002 | 02-05-2524A | 02
05 | WI | SUPERIOR, CITY OF | 5501160001C | 14-JUN-2002 | 02-05-2999A | 01
05 | WI | SUSSEX, VILLAGE OF | 5504900001C | 27-FEB-2002 | 02-05-0970A | 17
05 | WI | TREMPEALEAU COUNTY * | 555585—16A | 26-APR-2002 | 01-05-2930A | 02
05 | WI | TREMPEALEAU COUNTY * | 555585—11A | 26-APR-2002 | 02-05-0713A | 02
05 | WI | TREMPEALEAU COUNTY * | 555585—15A | 24-MAY-2002 | 02-05-2003A | 02
05 | WI | VERNON COUNTY | 5504500025B | 29-MAR-2002 | 02-05-1169A | 02
05 | WI | VERNON COUNTY | 5504500150B | 19-JUN-2002 | 02-05-1178A | 02
05 | WI | VERNON COUNTY | 5504500025B | 28-JUN-2002 | 02-05-3007A | 01
05 | WI | WASHBURN COUNTY | 5506060125B | 27-MAR-2002 | 02-05-1910A | 02
05 | WI | WASHBURN COUNTY | 5506060075B | 27-MAR-2002 | 02-05-2058A | 02
05 | WI | WASHBURN COUNTY | 5506060075B | 12-APR-2002 | 02-05-2069A | 02
05 | WI | WASHBURN COUNTY | 5506060200B | 07-JUN-2002 | 02-05-3157A | 02
05 | WI | WASHINGTON COUNTY | 5504710065B | 22-FEB-2002 | 02-05-1087A | 02
05 | WI | WASHINGTON COUNTY | 5504710020B | 08-MAR-2002 | 02-05-1911A | 02
05 | WI | WAUKESHA COUNTY | 5504760065B | 01-FEB-2002 | 02-05-0216A | 02
05 | WI | WAUKESHA COUNTY | 5504760080C | 19-APR-2002 | 02-05-0972A | 02
05 | WI | WAUKESHA COUNTY | 5504760015B | 27-MAR-2002 | 02-05-1474A | 02
05 | WI | WAUKESHA COUNTY | 5504760040C | 29-MAR-2002 | 02-05-1578A | 02
05 | WI | WAUKESHA COUNTY | 5504760120B | 17-APR-2002 | 02-05-2419A | 02
05 | WI | WAUKESHA COUNTY | 5504760020B | 19-JUN-2002 | 02-05-2755A | 02
05 | WI | WAUKESHA COUNTY | 5504760055B | 19-JUN-2002 | 02-05-2848A | 02
05 | WI | WAUKESHA COUNTY | 5504760020B | 28-JUN-2002 | 02-05-3224A | 02
05 | WI | WAUPACA COUNTY | 5504920115A | 09-JAN-2002 | 01-05-3797A | 02
05 | WI | WAUPACA COUNTY | 5504920205B | 01-FEB-2002 | 02-05-0509A | 01
05 | WI | WAUPACA COUNTY | 5504920210B | 01-FEB-2002 | 02-05-0509A | 01
05 | WI | WAUPACA COUNTY | 5504920130A | 23-JAN-2002 | 02-05-0529A | 02
05 | WI | WAUPACA COUNTY | 5504920090A | 13-FEB-2002 | 02-05-1383A | 02
05 | WI | WAUPACA COUNTY | 5504920155A | 20-MAR-2002 | 02-05-1643A | 02
05 | WI | WAUPACA COUNTY | 5504920155A | 22-MAR-2002 | 02-05-1654A | 02
05 | WI | WAUPACA COUNTY | 5504920030A | 24-APR-2002 | 02-05-2268A | 02
05 | WI | WAUPUN, CITY OF | 5501080001E | 13-FEB-2002 | 02-05-1333A | 02
05 | WI | WAUPUN, CITY OF | 5501080001E | 01-FEB-2002 | 02-05-1342A | 17
05 | WI | WAUPUN, CITY OF | 5501080001E | 13-FEB-2002 | 02-05-1544A | 17
05 | WI | WAUPUN, CITY OF | 5501080001E | 22-MAY-2002 | 02-05-2587A | 17
05 | WI | WAUPUN, CITY OF | 5501080001E | 05-JUN-2002 | 02-05-3066A | 02
05 | WI | WAUSHARA COUNTY | 5505400300B | 27-FEB-2002 | 02-05-0586A | 02
05 | WI | WAUWATOSA, CITY OF | 5502840005B | 12-APR-2002 | 02-05-0646A | 01
05 | WI | WINNEBAGO COUNTY * | 5505370050C | 23-JAN-2002 | 02-05-1058A | 02
05 | WI | WINNEBAGO COUNTY * | 5505370075C | 08-FEB-2002 | 02-05-1266A | 02
05 | WI | WINNEBAGO COUNTY * | 5505370075C | 06-MAR-2002 | 02-05-1704A | 02
05 | WI | WINNEBAGO COUNTY * | 5505370075C | 19-JUN-2002 | 02-05-1725A | 02
05 | WI | WOOD COUNTY | 55141C0100E | 20-FEB-2002 | 02-05-0862A | 01
05 | WI | WOOD COUNTY | 55141C0400E | 13-MAR-2002 | 02-05-1131A | 02
05 | WI | WOOD COUNTY | 55141C0420E | 12-JUN-2002 | 02-05-2173A | 02
05 | WI | WOOD COUNTY | 55141C0420E | 22-MAY-2002 | 02-05-2798A | 02
06 | AR | ARKANSAS COUNTY | 0504180004B | 13-FEB-2002 | 01-06-1618A | 02
06 | AR | ASHLEY COUNTY | 0500030025B | 13-MAR-2002 | 02-06-1043A | 02
06 | AR | BENTON COUNTY | 05007C0100E | 12-JUN-2002 | 02-06-1591A | 02
06 | AR | BENTON, CITY OF | 0501920005B | 16-JAN-2002 | 02-06-329A | 02
06 | AR | BENTONVILLE, CITY OF | 05007C0155H | 06-MAR-2002 | 02-06-332A | 02
06 | AR | BENTONVILLE, CITY OF | 05007C0044F | 25-JAN-2002 | 02-06-685A | 02
06 | AR | BENTONVILLE, CITY OF | 05007C0044F | 29-MAR-2002 | 02-06-888A | 02
06 | AR | BRADLEY COUNTY | 0504200200B | 01-MAR-2002 | 02-06-909A | 02
06 | AR | BRADLEY COUNTY | 0504200250B | 01-MAR-2002 | 02-06-909A | 02
06 | AR | CABOT, CITY OF | 0504480020B | 13-MAR-2002 | 02-06-122A | 01
06 | AR | CABOT, CITY OF | 0503090005C | 03-MAY-2002 | 02-06-852A | 02
06 | AR | CLARK COUNTY | 0504220275B | 10-MAY-2002 | 02-06-850A | 02
06 | AR | CLEBURNE COUNTY | 0504240025C | 12-MAR-2002 | 02-06-784P | 05
06 | AR | CLEBURNE COUNTY | 0504240100C | 12-MAR-2002 | 02-06-784P | 05
06 | AR | CLEBURNE COUNTY | 0504240125C | 12-MAR-2002 | 02-06-784P | 05
06 | AR | CONWAY, CITY OF | 05045C0130F | 06-MAR-2002 | 02-06-671A | 02
06 | AR | CRAWFORD COUNTY | 05033C0170G | 01-MAY-2002 | 02-06-1432A | 02
06 | AR | DUMAS, CITY OF | 0500670005C | 22-MAY-2002 | 02-06-330A | 01
06 | AR | ELKINS, CITY OF | 05143C0115E | 20-MAR-2002 | 02-06-1109A | 02
06 | AR | ELKINS, CITY OF | 05143C0115E | 05-JUN-2002 | 02-06-1612A | 02
06 | AR | FAYETTEVILLE, CITY OF | 05143C0084D | 29-MAR-2002 | 02-06-1034A | 02
06 | AR | FAYETTEVILLE, CITY OF | 05143C0084D | 22-MAY-2002 | 02-06-1650A | 02
06 | AR | FAYETTEVILLE, CITY OF | 05143C0091D | 21-JUN-2002 | 02-06-1873A | 02
06 | AR | FAYETTEVILLE, CITY OF | 05143C0083D | 13-MAR-2002 | 02-06-581A | 01
06 | AR | FORT SMITH, CITY OF | 0550130010D | 31-MAY-2002 | 01-06-1837P | 05
06 | AR | FORT SMITH, CITY OF | 0550130015D | 12-JUN-2002 | 02-06-1131A | 02
06 | AR | FORT SMITH, CITY OF | 0550130010D | 04-JAN-2002 | 02-06-269A | 01
06 | AR | FORT SMITH, CITY OF | 0550130015D | 04-JAN-2002 | 02-06-269A | 01
06 | AR | GARLAND COUNTY | 05051C0050C | 11-JAN-2002 | 02-06-327A | 02
06 | AR | GARLAND COUNTY | 05051C0154C | 13-FEB-2002 | 02-06-816A | 02
06 | AR | HARDY, CITY OF | 0503300001B | 15-FEB-2002 | 01-06-1804A | 02
06 | AR | HARRISON, CITY OF | 0500200003C | 08-MAY-2002 | 02-06-1346A | 17
06 | AR | HELENA, CITY OF | 0501680005B | 10-APR-2002 | 02-06-1193A | 17
06 | AR | HORSESHOE BEND, CITY OF | 0502560005B | 13-FEB-2002 | 02-06-680A | 02
06 | AR | HORSESHOE BEND, CITY OF | 0502560010B | 13-FEB-2002 | 02-06-680A | 02
06 | AR | HOT SPRING COUNTY | 0504370001B | 06-MAR-2002 | 02-06-1016A | 02
06 | AR | HOT SPRING COUNTY | 0504370001B | 09-JAN-2002 | 02-06-112A | 02
06 | AR | JACKSONVILLE, CITY OF | 0501800010E | 03-JAN-2002 | 01-06-1459A | 01
06 | AR | JACKSONVILLE, CITY OF | 0501800005E | 17-MAY-2002 | 02-06-1466A | 02
06 | AR | JACKSONVILLE, CITY OF | 0501800010E | 04-JAN-2002 | 02-06-388A | 01
06 | AR | JOHNSON, CITY OF | 05143C0082D | 24-MAY-2002 | 02-06-1723A | 02
06 | AR | JONESBORO, CITY OF | 05031C0043C | 17-APR-2002 | 02-06-1200A | 01
06 | AR | JONESBORO, CITY OF | 05031C0039C | 22-MAR-2002 | 02-06-587A | 02
06 | AR | JONESBORO, CITY OF | 05031C0132C | 29-MAY-2002 | 02-06-951A | 01
06 | AR | LAWRENCE COUNTY | 0504430125C | 26-JUN-2002 | 02-06-1526A | 02
06 | AR | LITTLE ROCK, CITY OF | 0501810111F | 13-MAR-2002 | 02-06-1032A | 02
06 | AR | LITTLE ROCK, CITY OF | 0501810043F | 10-APR-2002 | 02-06-1063A | 02
06 | AR | LITTLE ROCK, CITY OF | 0501810043F | 26-APR-2002 | 02-06-1218A | 02
06 | AR | LITTLE ROCK, CITY OF | 0501810064F | 12-APR-2002 | 02-06-1277A | 02
06 | AR | LITTLE ROCK, CITY OF | 0501810043F | 03-MAY-2002 | 02-06-1292A | 17
06 | AR | LITTLE ROCK, CITY OF | 0501810044F | 10-MAY-2002 | 02-06-1480A | 02
06 | AR | LITTLE ROCK, CITY OF | 0501810044F | 31-MAY-2002 | 02-06-1527A | 02
06 | AR | LITTLE ROCK, CITY OF | 0501810044F | 31-MAY-2002 | 02-06-1578A | 02
06 | AR | LITTLE ROCK, CITY OF | 0501810043F | 29-MAR-2002 | 02-06-433A | 02
06 | AR | LITTLE ROCK, CITY OF | 0501810044F | 09-JAN-2002 | 02-06-492A | 02
06 | AR | LITTLE ROCK, CITY OF | 0501810043F | 09-JAN-2002 | 02-06-505A | 02
06 | AR | LITTLE ROCK, CITY OF | 0501810037F | 10-MAY-2002 | 02-06-558A | 01
06 | AR | LITTLE ROCK, CITY OF | 0501810043F | 01-FEB-2002 | 02-06-612A | 01
06 | AR | LITTLE ROCK, CITY OF | 0501810041F | 15-FEB-2002 | 02-06-615A | 02
06 | AR | LITTLE ROCK, CITY OF | 0501810113F | 06-FEB-2002 | 02-06-706A | 02
06 | AR | LITTLE ROCK, CITY OF | 0501810064F | 27-FEB-2002 | 02-06-751A | 02
06 | AR | LITTLE ROCK, CITY OF | 0501810037F | 13-FEB-2002 | 02-06-802A | 02
06 | AR | LITTLE ROCK, CITY OF | 0501810037F | 01-MAY-2002 | 02-06-896A | 02
06 | AR | LOWELL, CITY OF | 05007C0164E | 14-JUN-2002 | 02-06-1053A | 02
06 | AR | MORRILTON, CITY OF | 0500440005B | 19-JUN-2002 | 02-06-1701A | 01
06 | AR | PERRY COUNTY | 05105C0129B | 12-APR-2002 | 02-06-1194A | 02
06 | AR | PERRY COUNTY | 05105C0150B | 12-APR-2002 | 02-06-1194A | 02
06 | AR | PERRY COUNTY | 05105C0050C | 24-MAY-2002 | 02-06-1670A | 02
06 | AR | PERRY COUNTY | 05105C0150B | 21-JUN-2002 | 02-06-1878A | 02
06 | AR | PERRYVILLE, CITY OF | 05105C0129B | 16-JAN-2002 | 02-06-392A | 02
06 | AR | POCAHONTAS, CITY OF | 0501830003B | 08-MAY-2002 | 02-06-855A | 01
06 | AR | POCAHONTAS, CITY OF | 0501830003B | 05-JUN-2002 | 02-06-879A | 02
06 | AR | POPE COUNTY | 0504580012A | 12-JUN-2002 | 02-06-1571A | 02
06 | AR | PULASKI COUNTY | 0501790279D | 04-JAN-2002 | 01-06-1401A | 01
06 | AR | PULASKI COUNTY | 0501790258E | 24-APR-2002 | 02-06-1159A | 02
06 | AR | PULASKI COUNTY | 0501790445D | 06-FEB-2002 | 02-06-694A | 17
06 | AR | PULASKI COUNTY | 0501790254D | 12-JUN-2002 | 02-06-717A | 01
06 | AR | ROGERS, CITY OF | 05007C0162F | 30-JAN-2002 | 02-06-121A | 01
06 | AR | ROGERS, CITY OF | 05007C0155H | 24-APR-2002 | 02-06-1361A | 02
06 | AR | ROGERS, CITY OF | 05007C0165F | 18-JAN-2002 | 02-06-411A | 02
06 | AR | ROGERS, CITY OF | 05007C0152H | 23-JAN-2002 | 02-06-649A | 02
06 | AR | ROGERS, CITY OF | 05007C0155H | 13-MAR-2002 | 02-06-834A | 02
06 | AR | RUSSELLVILLE, CITY OF | 0501780036D | 24-APR-2002 | 02-06-503A | 01
06 | AR | SEBASTIAN COUNTY | 05046224D | 27-FEB-2002 | 02-06-918A | 02
06 | AR | SHARP COUNTY | 05046413A | 24-APR-2002 | 02-06-1389A | 02
06 | AR | SHARP COUNTY | 05046413A | 05-JUN-2002 | 02-06-1529A | 02
06 | AR | SHERWOOD, CITY OF | 0502350002E | 17-APR-2002 | 02-06-1323A | 02
06 | AR | SHERWOOD, CITY OF | 0502350002E | 27-FEB-2002 | 02-06-391A | 01
06 | AR | SHERWOOD, CITY OF | 0502350001E | 25-JAN-2002 | 02-06-435A | 01
06 | AR | SPRINGDALE, CITY OF | 05143C0016C | 26-JUN-2002 | 02-06-1693A | 02
06 | AR | SPRINGDALE, CITY OF | 05143C0016C | 26-JUN-2002 | 02-06-1778A | 02
06 | AR | STUTTGART, CITY OF | 0500020005C | 07-JUN-2002 | 02-06-1780A | 02
06 | AR | STUTTGART, CITY OF | 0500020005C | 04-JAN-2002 | 02-06-273A | 02
06 | AR | TEXARKANA, CITY OF | 0501370058C | 09-JAN-2002 | 02-06-182A | 02
06 | AR | VAN BUREN, CITY OF | 05033C0170G | 27-MAR-2002 | 02-06-620A | 02
06 | AR | WASHINGTON COUNTY | 05143C0082D | 08-MAR-2002 | 01-06-072A | 01
06 | AR | WASHINGTON COUNTY | 05143C0085D | 08-MAR-2002 | 01-06-072A | 01
06 | AR | WEST FORK, CITY OF | 05143C0170C | 01-MAR-2002 | 02-06-965A | 02
06 | AR | WEST MEMPHIS, CITY OF | 0500550018D | 06-MAR-2002 | 02-06-1015A | 02
06 | AR | WEST MEMPHIS, CITY OF | 0500550018D | 22-MAR-2002 | 02-06-914A | 01
06 | AR | WYNNE, CITY OF | 0500600005B | 11-JAN-2002 | 02-06-552A | 02
06 | AR | WYNNE, CITY OF | 0500600005B | 22-MAY-2002 | 02-06-756A | 02
06 | AR | WYNNE, CITY OF | 0500600005B | 29-MAY-2002 | 02-06-757A | 01
06 | AR | YELLVILLE , CITY OF | 05013601B | 15-FEB-2002 | 02-06-722A | 01
06 | LA | ALEXANDRIA, CITY OF | 2201460015F | 26-JUN-2002 | 02-06-1923A | 02
06 | LA | ALEXANDRIA, CITY OF | 2201460010F | 16-JAN-2002 | 02-06-496A | 02
06 | LA | ALEXANDRIA, CITY OF | 2201460015F | 20-FEB-2002 | 02-06-815A | 02
06 | LA | ALLEN PARISH | 2200090225B | 01-MAY-2002 | 02-06-1475A | 02
06 | LA | ALLEN PARISH | 2200090225B | 03-MAY-2002 | 02-06-1489A | 02
06 | LA | ALLEN PARISH | 2200090225B | 22-MAY-2002 | 02-06-1639A | 02
06 | LA | ALLEN PARISH | 2200090225B | 24-MAY-2002 | 02-06-1728A | 02
06 | LA | ALLEN PARISH | 2200090225B | 13-FEB-2002 | 02-06-797A | 02
06 | LA | ALLEN PARISH | 2200090225B | 15-FEB-2002 | 02-06-895A | 02
06 | LA | ASCENSION PARISH | 2200130040B | 05-APR-2002 | 02-06-1136A | 02
06 | LA | ASCENSION PARISH | 2200130045C | 29-MAR-2002 | 02-06-1182A | 02
06 | LA | ASCENSION PARISH | 2200130120C | 24-MAY-2002 | 02-06-1195A | 01
06 | LA | ASCENSION PARISH | 2200130045C | 03-MAY-2002 | 02-06-1514A | 02
06 | LA | ASCENSION PARISH | 2200130040B | 15-MAY-2002 | 02-06-1590A | 02
06 | LA | ASCENSION PARISH | 2200130040B | 22-MAY-2002 | 02-06-1658A | 02
06 | LA | ASCENSION PARISH | 2200130045C | 29-MAY-2002 | 02-06-1722A | 02
06 | LA | ASCENSION PARISH | 2200130045C | 11-JAN-2002 | 02-06-538A | 02
06 | LA | ASCENSION PARISH | 2200130040B | 08-MAR-2002 | 02-06-860A | 02
06 | LA | ASCENSION PARISH | 2200130040B | 22-FEB-2002 | 02-06-867A | 02
06 | LA | AVOYELLES PARISH | 2200190075B | 22-MAY-2002 | 02-06-1640A | 02
06 | LA | AVOYELLES PARISH | 2200190075B | 16-JAN-2002 | 02-06-534A | 02
06 | LA | BOGALUSA,CITY OF | 2202320005B | 24-APR-2002 | 02-06-1148A | 02
06 | LA | BOSSIER CITY, CITY OF | 2200310295B | 20-MAR-2002 | 02-06-1041A | 01
06 | LA | BOSSIER CITY, CITY OF | 2200330030C | 20-MAR-2002 | 02-06-1124A | 02
06 | LA | BOSSIER CITY, CITY OF | 2200330010C | 20-MAR-2002 | 02-06-1153A | 02
06 | LA | BOSSIER CITY, CITY OF | 2200310315B | 03-APR-2002 | 02-06-1189A | 02
06 | LA | BOSSIER CITY, CITY OF | 2200310295B | 24-APR-2002 | 02-06-1351A | 02
06 | LA | BOSSIER CITY, CITY OF | 2200330005C | 19-APR-2002 | 02-06-1352A | 02
06 | LA | BOSSIER CITY, CITY OF | 2200330030C | 15-MAY-2002 | 02-06-1595A | 02
06 | LA | BOSSIER CITY, CITY OF | 2200310295B | 19-JUN-2002 | 02-06-1597A | 02
06 | LA | BOSSIER CITY, CITY OF | 2200330030C | 22-MAY-2002 | 02-06-1672A | 02
06 | LA | BOSSIER CITY, CITY OF | 2200310315B | 24-MAY-2002 | 02-06-1698A | 02
06 | LA | BOSSIER CITY, CITY OF | 2200310285B | 26-JUN-2002 | 02-06-1700A | 02
06 | LA | BOSSIER CITY, CITY OF | 2200330030C | 29-MAY-2002 | 02-06-1703A | 02
06 | LA | BOSSIER CITY, CITY OF | 2200330005C | 19-JUN-2002 | 02-06-1866A | 02
06 | LA | BOSSIER CITY, CITY OF | 2200330005C | 26-JUN-2002 | 02-06-1902A | 02
06 | LA | BOSSIER CITY, CITY OF | 2200330005C | 04-JAN-2002 | 02-06-462A | 02
06 | LA | BOSSIER CITY, CITY OF | 2200330005C | 16-JAN-2002 | 02-06-523A | 02
06 | LA | BOSSIER CITY, CITY OF | 2200330005C | 23-JAN-2002 | 02-06-573A | 02
06 | LA | BOSSIER CITY, CITY OF | 2200330005C | 18-JAN-2002 | 02-06-619A | 02
06 | LA | BOSSIER CITY, CITY OF | 2200330005C | 01-FEB-2002 | 02-06-669A | 01
06 | LA | BOSSIER CITY, CITY OF | 2200330030C | 06-FEB-2002 | 02-06-743A | 02
06 | LA | BOSSIER CITY, CITY OF | 2200330030C | 15-FEB-2002 | 02-06-848A | 02
06 | LA | BOSSIER PARISH | 2200310240B | 11-JAN-2002 | 02-06-020A | 02
06 | LA | BOSSIER PARISH | 2200310295B | 03-APR-2002 | 02-06-1052A | 01
06 | LA | BOSSIER PARISH | 2200310305B | 24-APR-2002 | 02-06-1223A | 01
06 | LA | BOSSIER PARISH | 2200310285B | 26-APR-2002 | 02-06-1393A | 02
06 | LA | BOSSIER PARISH | 2200310305B | 26-APR-2002 | 02-06-1393A | 02
06 | LA | BOSSIER PARISH | 2200310285B | 15-MAY-2002 | 02-06-1596A | 02
06 | LA | BOSSIER PARISH | 2200310305B | 15-MAY-2002 | 02-06-1596A | 02
06 | LA | BOSSIER PARISH | 2200310315B | 29-MAY-2002 | 02-06-1736A | 02
06 | LA | BOSSIER PARISH | 2200310315B | 04-JAN-2002 | 02-06-476X | 02
06 | LA | BOSSIER PARISH | 2200310285B | 23-JAN-2002 | 02-06-598A | 02
06 | LA | BOSSIER PARISH | 2200310295B | 16-JAN-2002 | 02-06-602A | 02
06 | LA | BOSSIER PARISH | 2200310285B | 23-JAN-2002 | 02-06-641A | 02
06 | LA | BOSSIER PARISH | 2200310285B | 25-JAN-2002 | 02-06-697A | 02
06 | LA | BOSSIER PARISH | 2200310435B | 20-MAR-2002 | 02-06-806A | 02
06 | LA | BOSSIER PARISH | 2200310285B | 20-FEB-2002 | 02-06-846A | 02
06 | LA | BOSSIER PARISH | 2200310475B | 15-FEB-2002 | 02-06-865A | 02
06 | LA | BREAUX BRIDGE, TOWN OF | 2201800005B | 19-JUN-2002 | 02-06-1915A | 02
06 | LA | CADDO PARISH | 22017C0610F | 16-JAN-2002 | 02-06-013A | 02
06 | LA | CADDO PARISH | 22017C0487F | 19-APR-2002 | 02-06-1353A | 02
06 | LA | CADDO PARISH | 22017C0585F | 19-APR-2002 | 02-06-1359A | 02
06 | LA | CADDO PARISH | 22017C0487F | 03-MAY-2002 | 02-06-1513A | 02
06 | LA | CALCASIEU PARISH | 2200370250D | 01-MAR-2002 | 01-06-1869A | 02
06 | LA | CALCASIEU PARISH | 2200370375C | 20-MAR-2002 | 02-06-1126A | 02
06 | LA | CALCASIEU PARISH | 2200370250D | 10-APR-2002 | 02-06-1203A | 02
06 | LA | CALCASIEU PARISH | 2200370375C | 08-MAY-2002 | 02-06-1495A | 02
06 | LA | CATAHOULA PARISH | 2200470250D | 12-APR-2002 | 02-06-1152A | 02
06 | LA | CATAHOULA PARISH | 2200470200D | 26-APR-2002 | 02-06-1253P | 06
06 | LA | CLAIBORNE PARISH | 2203620115B | 01-MAY-2002 | 02-06-1470A | 02
06 | LA | CLAIBORNE PARISH | 2203620125B | 06-FEB-2002 | 02-06-681A | 02
06 | LA | DENHAM SPRINGS, CITY OF | 22063C0205D | 13-MAR-2002 | 02-06-1017A | 02
06 | LA | DENHAM SPRINGS, CITY OF | 22063C0205D | 19-APR-2002 | 02-06-1226A | 02
06 | LA | DENHAM SPRINGS, CITY OF | 22063C0205D | 19-APR-2002 | 02-06-1341A | 02
06 | LA | DENHAM SPRINGS, CITY OF | 22063C0205D | 03-MAY-2002 | 02-06-1365A | 02
06 | LA | DENHAM SPRINGS, CITY OF | 22063C0205D | 22-MAY-2002 | 02-06-1607A | 02
06 | LA | DENHAM SPRINGS, CITY OF | 22063C0115D | 07-JUN-2002 | 02-06-1789A | 02
06 | LA | DENHAM SPRINGS, CITY OF | 22063C0205D | 23-JAN-2002 | 02-06-566A | 02
06 | LA | DENHAM SPRINGS, CITY OF | 22063C0205D | 01-FEB-2002 | 02-06-575A | 02
06 | LA | DENHAM SPRINGS, CITY OF | 22063C0205D | 22-FEB-2002 | 02-06-708A | 02
06 | LA | EAST BATON ROUGE PARISH | 2200580115D | 17-APR-2002 | 02-06-1081A | 01
06 | LA | EAST BATON ROUGE PARISH | 2200580085D | 20-MAR-2002 | 02-06-1112A | 02
06 | LA | EAST BATON ROUGE PARISH | 2200580115D | 19-JUN-2002 | 02-06-1572A | 01
06 | LA | EAST BATON ROUGE PARISH | 2200580095D | 21-JUN-2002 | 02-06-1642A | 02
06 | LA | EAST BATON ROUGE PARISH | 2200580105D | 12-JUN-2002 | 02-06-1776A | 02
06 | LA | EAST BATON ROUGE PARISH | 2200580100D | 22-MAR-2002 | 02-06-854A | 02
06 | LA | EAST BATON ROUGE PARISH | 2200580115D | 20-MAR-2002 | 02-06-859A | 02
06 | LA | EAST BATON ROUGE PARISH | 2200580110D | 01-MAR-2002 | 02-06-869A | 02
06 | LA | EAST BATON ROUGE PARISH | 2200580100D | 01-MAR-2002 | 02-06-978A | 02
06 | LA | EVANGELINE PARISH | 2200640007C | 12-JUN-2002 | 02-06-1661A | 02
06 | LA | FRANKLIN PARISH | 220071001B | 31-MAY-2002 | 02-06-1186A | 02
06 | LA | GONZALES, CITY OF | 2200130110D | 01-MAY-2002 | 02-06-1360A | 01
06 | LA | JEFFERSON PARISH | 22051C0135E | 08-FEB-2002 | 02-06-618A | 02
06 | LA | KINDER, TOWN OF | 22001001C | 03-APR-2002 | 02-06-1202A | 02
06 | LA | KINDER, TOWN OF | 22001001C | 10-APR-2002 | 02-06-1298A | 02
06 | LA | KINDER, TOWN OF | 22001001C | 15-MAY-2002 | 02-06-1602A | 02
06 | LA | KINDER, TOWN OF | 22001001C | 16-JAN-2002 | 02-06-563A | 02
06 | LA | KINDER, TOWN OF | 22001001C | 06-MAR-2002 | 02-06-856A | 02
06 | LA | LAFAYETTE PARISH | 22055C0040H | 16-JAN-2002 | 01-06-1785A | 01
06 | LA | LAFAYETTE PARISH | 22055C0040H | 13-MAR-2002 | 02-06-1054A | 02
06 | LA | LAFAYETTE PARISH | 22055C0070G | 03-APR-2002 | 02-06-1137A | 01
06 | LA | LAFAYETTE PARISH | 22055C0045G | 24-APR-2002 | 02-06-1429A | 02
06 | LA | LAFAYETTE PARISH | 22055C0075G | 10-MAY-2002 | 02-06-1472A | 01
06 | LA | LAFAYETTE PARISH | 22055C0010G | 10-MAY-2002 | 02-06-1491A | 02
06 | LA | LAFAYETTE PARISH | 22055C0075G | 28-JUN-2002 | 02-06-1504A | 02
06 | LA | LAFAYETTE PARISH | 22055C0065G | 24-MAY-2002 | 02-06-1585A | 02
06 | LA | LAFAYETTE PARISH | 22055C0065G | 29-MAY-2002 | 02-06-1598A | 01
06 | LA | LAFAYETTE PARISH | 22055C0045G | 25-JAN-2002 | 02-06-554A | 01
06 | LA | LAFAYETTE PARISH | 22055C0010G | 01-FEB-2002 | 02-06-613A | 02
06 | LA | LAFAYETTE PARISH | 22055C0010G | 01-FEB-2002 | 02-06-614A | 02
06 | LA | LAFAYETTE PARISH | 22055C0060G | 01-FEB-2002 | 02-06-632A | 02
06 | LA | LAFAYETTE PARISH | 22055C0065G | 20-MAR-2002 | 02-06-740A | 02
06 | LA | LAFAYETTE PARISH | 22055C0005G | 29-MAR-2002 | 02-06-933A | 02
06 | LA | LAFAYETTE, CITY OF | 22055C0045G | 21-JUN-2002 | 02-06-1877A | 02
06 | LA | LAFAYETTE, CITY OF | 22055C0045G | 01-FEB-2002 | 02-06-696A | 02
06 | LA | LAFAYETTE, CITY OF | 22055C0045G | 06-FEB-2002 | 02-06-741A | 02
06 | LA | LAFOURCHE PARISH | 2252020290C | 15-MAR-2002 | 02-06-908A | 02
06 | LA | LAKE CHARLES, CITY OF | 2200400010E | 22-MAY-2002 | 02-06-1653A | 02
06 | LA | LAKE CHARLES, CITY OF | 2200400010E | 18-JAN-2002 | 02-06-527A | 02
06 | LA | LEESVILLE, CITY OF | 2202290002C | 19-APR-2002 | 02-06-1377A | 02
06 | LA | LIVINGSTON PARISH | 22063C0025D | 17-APR-2002 | 02-06-1028A | 02
06 | LA | LIVINGSTON PARISH | 22063C0125D | 13-MAR-2002 | 02-06-1037A | 02
06 | LA | LIVINGSTON PARISH | 22063C0125D | 08-MAR-2002 | 02-06-1044A | 02
06 | LA | LIVINGSTON PARISH | 22063C0115D | 15-MAR-2002 | 02-06-1077A | 02
06 | LA | LIVINGSTON PARISH | 22063C0125D | 20-MAR-2002 | 02-06-1135A | 02
06 | LA | LIVINGSTON PARISH | 22063C0125D | 22-MAR-2002 | 02-06-1143A | 02
06 | LA | LIVINGSTON PARISH | 22063C0125D | 27-MAR-2002 | 02-06-1144A | 02
06 | LA | LIVINGSTON PARISH | 22063C0125D | 27-MAR-2002 | 02-06-1147A | 02
06 | LA | LIVINGSTON PARISH | 22063C0115D | 27-MAR-2002 | 02-06-1155A | 02
06 | LA | LIVINGSTON PARISH | 22063C0205D | 27-MAR-2002 | 02-06-1158A | 02
06 | LA | LIVINGSTON PARISH | 22063C0120D | 27-MAR-2002 | 02-06-1160A | 02
06 | LA | LIVINGSTON PARISH | 22063C0210D | 27-MAR-2002 | 02-06-1162A | 02
06 | LA | LIVINGSTON PARISH | 22063C0275D | 17-APR-2002 | 02-06-1169A | 02
06 | LA | LIVINGSTON PARISH | 22063C0125D | 03-APR-2002 | 02-06-1212A | 02
06 | LA | LIVINGSTON PARISH | 22063C0226D | 03-APR-2002 | 02-06-1213A | 02
06 | LA | LIVINGSTON PARISH | 22063C0125D | 03-APR-2002 | 02-06-1217A | 02
06 | LA | LIVINGSTON PARISH | 22063C0125D | 05-APR-2002 | 02-06-1234A | 02
06 | LA | LIVINGSTON PARISH | 22063C0125D | 19-APR-2002 | 02-06-1240A | 02
06 | LA | LIVINGSTON PARISH | 22063C0115D | 14-JUN-2002 | 02-06-1251A | 02
06 | LA | LIVINGSTON PARISH | 22063C0125D | 03-APR-2002 | 02-06-1252A | 02
06 | LA | LIVINGSTON PARISH | 22063C0115D | 05-APR-2002 | 02-06-1254A | 02
06 | LA | LIVINGSTON PARISH | 22063C0125D | 12-APR-2002 | 02-06-1286A | 02
06 | LA | LIVINGSTON PARISH | 22063C0115D | 10-APR-2002 | 02-06-1296A | 02
06 | LA | LIVINGSTON PARISH | 22063C0115D | 17-APR-2002 | 02-06-1328A | 02
06 | LA | LIVINGSTON PARISH | 22063C0125D | 19-APR-2002 | 02-06-1342A | 02
06 | LA | LIVINGSTON PARISH | 22063C0125D | 24-APR-2002 | 02-06-1345A | 02
06 | LA | LIVINGSTON PARISH | 22063C0125D | 01-MAY-2002 | 02-06-1354A | 02
06 | LA | LIVINGSTON PARISH | 22063C0115D | 17-APR-2002 | 02-06-1362A | 02
06 | LA | LIVINGSTON PARISH | 22063C0120D | 24-APR-2002 | 02-06-1368A | 02
06 | LA | LIVINGSTON PARISH | 22063C0115D | 05-JUN-2002 | 02-06-1390A | 02
06 | LA | LIVINGSTON PARISH | 22063C0125D | 15-MAY-2002 | 02-06-1394A | 02
06 | LA | LIVINGSTON PARISH | 22063C0120D | 15-MAY-2002 | 02-06-1399A | 02
06 | LA | LIVINGSTON PARISH | 22063C0125D | 26-APR-2002 | 02-06-1400A | 02
06 | LA | LIVINGSTON PARISH | 22063C0125D | 24-APR-2002 | 02-06-1401A | 02
06 | LA | LIVINGSTON PARISH | 22063C0125D | 26-APR-2002 | 02-06-1449A | 02
06 | LA | LIVINGSTON PARISH | 22063C0115D | 01-MAY-2002 | 02-06-1453A | 02
06 | LA | LIVINGSTON PARISH | 22063C0125D | 03-MAY-2002 | 02-06-1515A | 02
06 | LA | LIVINGSTON PARISH | 22063C0125D | 12-JUN-2002 | 02-06-1516A | 02
06 | LA | LIVINGSTON PARISH | 22063C0115D | 21-JUN-2002 | 02-06-1560A | 02
06 | LA | LIVINGSTON PARISH | 22063C0138D | 08-MAY-2002 | 02-06-1568A | 02
06 | LA | LIVINGSTON PARISH | 22063C0275D | 08-MAY-2002 | 02-06-1573A | 02
06 | LA | LIVINGSTON PARISH | 22063C0125D | 08-MAY-2002 | 02-06-1575A | 02
06 | LA | LIVINGSTON PARISH | 22063C0120D | 08-MAY-2002 | 02-06-1576A | 02
06 | LA | LIVINGSTON PARISH | 22063C0225D | 31-MAY-2002 | 02-06-1624A | 02
06 | LA | LIVINGSTON PARISH | 22063C0125D | 22-MAY-2002 | 02-06-1641A | 02
06 | LA | LIVINGSTON PARISH | 22063C0125D | 24-MAY-2002 | 02-06-1692A | 02
06 | LA | LIVINGSTON PARISH | 22063C0125D | 29-MAY-2002 | 02-06-1740A | 02
06 | LA | LIVINGSTON PARISH | 22063C0225D | 19-JUN-2002 | 02-06-1782A | 02
06 | LA | LIVINGSTON PARISH | 22063C0210D | 12-JUN-2002 | 02-06-1786A | 02
06 | LA | LIVINGSTON PARISH | 22063C0115D | 14-JUN-2002 | 02-06-1853A | 02
06 | LA | LIVINGSTON PARISH | 22063C0210D | 19-JUN-2002 | 02-06-1892A | 02
06 | LA | LIVINGSTON PARISH | 22063C0125D | 21-JUN-2002 | 02-06-1897A | 02
06 | LA | LIVINGSTON PARISH | 22063C0115D | 21-JUN-2002 | 02-06-1910A | 02
06 | LA | LIVINGSTON PARISH | 22063C0125D | 21-JUN-2002 | 02-06-1912A | 02
06 | LA | LIVINGSTON PARISH | 22063C0125D | 26-JUN-2002 | 02-06-1933A | 02
06 | LA | LIVINGSTON PARISH | 22063C0175D | 08-FEB-2002 | 02-06-351A | 02
06 | LA | LIVINGSTON PARISH | 22063C0355D | 16-JAN-2002 | 02-06-408A | 02
06 | LA | LIVINGSTON PARISH | 22063C0115D | 09-JAN-2002 | 02-06-438A | 02
06 | LA | LIVINGSTON PARISH | 22063C0115D | 22-FEB-2002 | 02-06-455A | 02
06 | LA | LIVINGSTON PARISH | 22063C0125D | 04-JAN-2002 | 02-06-461A | 02
06 | LA | LIVINGSTON PARISH | 22063C0120D | 04-JAN-2002 | 02-06-466A | 02
06 | LA | LIVINGSTON PARISH | 22063C0125D | 04-JAN-2002 | 02-06-487A | 02
06 | LA | LIVINGSTON PARISH | 22063C0115D | 09-JAN-2002 | 02-06-498A | 02
06 | LA | LIVINGSTON PARISH | 22063C0275D | 16-JAN-2002 | 02-06-499A | 02
06 | LA | LIVINGSTON PARISH | 22063C0115D | 11-JAN-2002 | 02-06-521A | 02
06 | LA | LIVINGSTON PARISH | 22063C0115D | 18-JAN-2002 | 02-06-532A | 02
06 | LA | LIVINGSTON PARISH | 22063C0115D | 13-FEB-2002 | 02-06-556A | 02
06 | LA | LIVINGSTON PARISH | 22063C0125D | 16-JAN-2002 | 02-06-565A | 02
06 | LA | LIVINGSTON PARISH | 22063C0125D | 18-JAN-2002 | 02-06-621A | 02
06 | LA | LIVINGSTON PARISH | 22063C0125D | 25-JAN-2002 | 02-06-651A | 02
06 | LA | LIVINGSTON PARISH | 22063C0125D | 23-JAN-2002 | 02-06-652A | 02
06 | LA | LIVINGSTON PARISH | 22063C0125D | 27-FEB-2002 | 02-06-686A | 02
06 | LA | LIVINGSTON PARISH | 22063C0125D | 22-FEB-2002 | 02-06-703A | 02
06 | LA | LIVINGSTON PARISH | 22063C0250D | 06-FEB-2002 | 02-06-724A | 02
06 | LA | LIVINGSTON PARISH | 22063C0115D | 01-MAY-2002 | 02-06-744A | 02
06 | LA | LIVINGSTON PARISH | 22063C0125D | 08-FEB-2002 | 02-06-773A | 02
06 | LA | LIVINGSTON PARISH | 22063C0125D | 08-FEB-2002 | 02-06-808A | 02
06 | LA | LIVINGSTON PARISH | 22063C0115D | 13-FEB-2002 | 02-06-812A | 02
06 | LA | LIVINGSTON PARISH | 22063C0115D | 13-FEB-2002 | 02-06-813A | 02
06 | LA | LIVINGSTON PARISH | 22063C0115D | 13-FEB-2002 | 02-06-814A | 02
06 | LA | LIVINGSTON PARISH | 22063C0120D | 13-FEB-2002 | 02-06-847A | 02
06 | LA | LIVINGSTON PARISH | 22063C0120D | 20-FEB-2002 | 02-06-871A | 02
06 | LA | LIVINGSTON PARISH | 22063C0125D | 22-FEB-2002 | 02-06-903A | 02
06 | LA | LIVINGSTON PARISH | 22063C0125D | 20-FEB-2002 | 02-06-919A | 02
06 | LA | LIVINGSTON PARISH | 22063C0115D | 01-MAR-2002 | 02-06-977A | 01
06 | LA | MANY, TOWN OF | 22085C0215C | 15-MAY-2002 | 02-06-1231A | 02
06 | LA | MINDEN, CITY OF | 2202370005D | 26-JUN-2002 | 02-06-1938A | 02
06 | LA | NATCHITOCHES PARISH | 2201290175B | 03-MAY-2002 | 02-06-1220A | 02
06 | LA | NEW ORLEANS/ORLEANS PARISH | 2252030160E | 10-APR-2002 | 02-06-1299A | 02
06 | LA | OUACHITA PARISH | 22073C0070E | 22-MAY-2002 | 02-06-1644A | 02
06 | LA | OUACHITA PARISH | 22073C0050E | 20-MAR-2002 | 02-06-987A | 01
06 | LA | PATTERSON, CITY OF | 2201970001C | 08-MAY-2002 | 02-06-884A | 02
06 | LA | RAPIDES PARISH | 2201450275C | 03-APR-2002 | 02-06-1104A | 01
06 | LA | RAPIDES PARISH | 2201450250C | 30-JAN-2002 | 02-06-115A | 02
06 | LA | RAPIDES PARISH | 2201450235D | 26-APR-2002 | 02-06-1447A | 02
06 | LA | RAPIDES PARISH | 2201450250C | 06-MAR-2002 | 02-06-949A | 02
06 | LA | RICHLAND PARISH | 22015434C | 26-APR-2002 | 02-06-783A | 02
06 | LA | SABINE PARISH | 22085C0275C | 14-JUN-2002 | 02-06-1382A | 02
06 | LA | SCOTT, CITY OF | 22055C0040H | 26-JUN-2002 | 02-06-1741A | 02
06 | LA | SCOTT, CITY OF | 22055C0045G | 27-FEB-2002 | 02-06-970A | 01
06 | LA | SHREVEPORT, CITY OF | 22017C0478F | 26-APR-2002 | 02-06-1249A | 02
06 | LA | SHREVEPORT, CITY OF | 22017C0487F | 12-APR-2002 | 02-06-1282A | 02
06 | LA | SHREVEPORT, CITY OF | 22017C0478F | 19-APR-2002 | 02-06-1332A | 02
06 | LA | SHREVEPORT, CITY OF | 22017C0487F | 24-APR-2002 | 02-06-1392A | 02
06 | LA | SHREVEPORT, CITY OF | 22017C0478F | 19-JUN-2002 | 02-06-1403A | 01
06 | LA | SHREVEPORT, CITY OF | 22017C0487F | 01-MAY-2002 | 02-06-1474A | 02
06 | LA | SHREVEPORT, CITY OF | 22017C0487F | 03-MAY-2002 | 02-06-1566A | 02
06 | LA | SHREVEPORT, CITY OF | 22017C0488F | 20-MAR-2002 | 02-06-308A | 01
06 | LA | SHREVEPORT, CITY OF | 22017C0479F | 23-JAN-2002 | 02-06-539A | 02
06 | LA | SHREVEPORT, CITY OF | 22017C0487F | 25-JAN-2002 | 02-06-543A | 02
06 | LA | SHREVEPORT, CITY OF | 22017C0487F | 16-JAN-2002 | 02-06-555A | 02
06 | LA | SHREVEPORT, CITY OF | 22017C0478F | 18-JAN-2002 | 02-06-571A | 02
06 | LA | SHREVEPORT, CITY OF | 22017C0479F | 11-JAN-2002 | 02-06-608A | 02
06 | LA | SHREVEPORT, CITY OF | 22017C0487F | 25-JAN-2002 | 02-06-687A | 02
06 | LA | SHREVEPORT, CITY OF | 22017C0487F | 13-FEB-2002 | 02-06-746A | 02
06 | LA | ST. CHARLES PARISH | 2201600150C | 15-FEB-2002 | 02-06-764X | 02
06 | LA | ST. MARY PARISH | 2201920125C | 19-JUN-2002 | 02-06-1519A | 02
06 | LA | ST. TAMMANY PARISH | 2252050230C | 05-APR-2002 | 02-06-1309A | 02
06 | LA | ST. TAMMANY PARISH | 2252050215C | 19-JUN-2002 | 02-06-1506A | 02
06 | LA | ST. TAMMANY PARISH | 2252050235C | 10-MAY-2002 | 02-06-1523A | 02
06 | LA | ST. TAMMANY PARISH | 2252050275C | 10-MAY-2002 | 02-06-1523A | 02
06 | LA | ST. TAMMANY PARISH | 2252050230C | 17-MAY-2002 | 02-06-1613A | 02
06 | LA | ST. TAMMANY PARISH | 2252050125C | 21-JUN-2002 | 02-06-1734A | 02
06 | LA | ST. TAMMANY PARISH | 2252050360C | 23-JAN-2002 | 02-06-544A | 02
06 | LA | SULPHUR, CITY OF | 2200410001C | 06-MAR-2002 | 02-06-778A | 02
06 | LA | TANGIPAHOA PARISH | 2202060175E | 10-APR-2002 | 02-06-1130A | 02
06 | LA | TANGIPAHOA PARISH | 2202060205D | 05-APR-2002 | 02-06-1224A | 02
06 | LA | TANGIPAHOA PARISH | 2202060225E | 17-APR-2002 | 02-06-1225A | 02
06 | LA | TANGIPAHOA PARISH | 2202060175E | 28-JUN-2002 | 02-06-1855A | 02
06 | LA | TANGIPAHOA PARISH | 2202060125D | 23-JAN-2002 | 02-06-580A | 02
06 | LA | UNION PARISH | 2203590250C | 19-APR-2002 | 02-06-1358A | 02
06 | LA | UNION PARISH | 2203590150C | 12-JUN-2002 | 02-06-1793A | 02
06 | LA | VERMILION PARISH | 2202210275D | 24-APR-2002 | 02-06-1210A | 02
06 | LA | VERMILION PARISH | 2202210275D | 19-JUN-2002 | 02-06-1896A | 02
06 | LA | VERMILION PARISH | 2202210275D | 01-MAR-2002 | 02-06-777A | 02
06 | LA | VERNON PARISH | 2202280002B | 19-APR-2002 | 02-06-1344A | 02
06 | LA | VERNON PARISH | 2202280006B | 16-MAR-2002 | 02-06-960A | 02
06 | LA | VILLE PLATTE, TOWN OF | 2200700001C | 08-MAR-2002 | 02-06-820A | 02
06 | LA | WALKER, TOWN OF | 22063C0226D | 26-JUN-2002 | 02-06-1888A | 02
06 | LA | WALKER, TOWN OF | 22063C0226D | 13-FEB-2002 | 02-06-776A | 02
06 | NM | ALBUQUERQUE, CITY OF | 35001C0362D | 06-FEB-2002 | 02-06-535A | 02
06 | NM | ALBUQUERQUE, CITY OF | 35001C0141E | 28-JUN-2002 | 00-06-1990V | 19
06 | NM | ALBUQUERQUE, CITY OF | 35001C0367E | 28-JUN-2002 | 00-06-1990V | 19
06 | NM | BERNALILLO COUNTY | 35001C0161D | 06-FEB-2002 | 02-06-061A | 02
06 | NM | BERNALILLO COUNTY | 35001C0341D | 27-MAR-2002 | 02-06-1035A | 02
06 | NM | BERNALILLO COUNTY | 35001C0117E | 14-JUN-2002 | 02-06-1812A | 02
06 | NM | BERNALILLO COUNTY | 35001C0117E | 28-JUN-2002 | 00-06-1990V | 19
06 | NM | BERNALILLO COUNTY | 35001C0109E | 28-JUN-2002 | 00-06-1990V | 19
06 | NM | BERNALILLO COUNTY | 35001C0141E | 28-JUN-2002 | 00-06-1990V | 19
06 | NM | BERNALILLO COUNTY | 35001C0142E | 28-JUN-2002 | 00-06-1990V | 19
06 | NM | BERNALILLO COUNTY | 35001C0161E | 28-JUN-2002 | 00-06-1990V | 19
06 | NM | BOSQUE FARMS, CITY OF | 3501420001B | 09-JAN-2002 | 02-06-441A | 02
06 | NM | CHAVES COUNTY | 3501250764B | 26-APR-2002 | 02-06-1313A | 02
06 | NM | DONA ANA COUNTY | 35013C0637E | 12-JUN-2002 | 02-06-1582A | 02
06 | NM | LAS CRUCES, CITY OF | 35013C0631E | 10-APR-2002 | 02-06-1128A | 01
06 | NM | LAS CRUCES, CITY OF | 35013C0518F | 01-MAY-2002 | 02-06-801A | 02
06 | NM | LINCOLN COUNTY | 3501220036A | 04-JAN-2002 | 02-06-118A | 02
06 | NM | LOS LUNAS, VILLAGE OF | 3501440005A | 13-MAR-2002 | 02-06-917A | 02
06 | NM | LOS RANCHOS, VILLAGE OF | 35001C0117E | 28-JUN-2002 | 00-06-1990V | 19
06 | NM | PORTALES, CITY OF | 3500540002D | 08-MAR-2002 | 02-06-922A | 02
06 | NM | SAN JUAN COUNTY | 3500640150B | 27-MAR-2002 | 01-06-2022A | 02
06 | NM | SANTA FE COUNTY | 3500690100B | 15-MAR-2002 | 02-06-1127A | 02
06 | NM | SANTA FE COUNTY | 3500690100B | 19-JUN-2002 | 02-06-1802A | 02
06 | NM | SANTA FE, CITY OF | 3500700009B | 25-JAN-2002 | 02-06-484A | 02
06 | NM | TAOS COUNTY | 3500780455C | 06-FEB-2002 | 02-06-059A | 02
06 | NM | VALENCIA COUNTY | 3500860195D | 06-MAR-2002 | 02-06-668A | 02
06 | NM | VALENCIA COUNTY | 3500860185D | 20-FEB-2002 | 02-06-758A | 02
06 | OK | ARDMORE,CITY OF | 4000310015B | 20-MAR-2002 | 02-06-1140A | 02
06 | OK | ARDMORE,CITY OF | 4000310015B | 01-FEB-2002 | 02-06-631A | 02
06 | OK | ARDMORE,CITY OF | 4000310015B | 01-MAR-2002 | 02-06-911A | 02
06 | OK | BROKEN ARROW, CITY OF | 40143C0540H | 07-FEB-2002 | 00-06-1454P | 05
06 | OK | BROKEN ARROW, CITY OF | 40143C0534H | 24-JAN-2002 | 01-06-1190P | 05
06 | OK | BROKEN ARROW, CITY OF | 40143C0534H | 08-MAR-2002 | 02-06-1027A | 02
06 | OK | BROKEN ARROW, CITY OF | 40143C0631H | 07-JUN-2002 | 02-06-1814A | 02
06 | OK | CANADIAN COUNTY | 40017C0190D | 05-JUN-2002 | 02-06-1762A | 02
06 | OK | CATOOSA, CITY OF | 4001850001D | 10-MAY-2002 | 02-06-1238A | 02
06 | OK | CHEROKEE COUNTY | 40021C0105C | 13-MAR-2002 | 02-06-394A | 02
06 | OK | CHOCTAW, CITY OF | 4003570015B | 04-JAN-2002 | 02-06-173A | 02
06 | OK | CLAREMORE, CITY OF | 4053750005F | 10-APR-2002 | 02-06-1181A | 02
06 | OK | COMANCHE COUNTY | 40031C0229C | 08-MAY-2002 | 02-06-1561A | 02
06 | OK | CRAIG COUNTY | 4005400200A | 03-MAY-2002 | 02-06-1517A | 02
06 | OK | CREEK COUNTY | 4004900130C | 03-MAY-2002 | 02-06-1484A | 02
06 | OK | CREEK COUNTY | 4004900065C | 03-APR-2002 | 02-06-497A | 02
06 | OK | CUSHING, CITY OF | 4001650002B | 31-MAY-2002 | 02-06-1726A | 02
06 | OK | DEL CITY, CITY OF | 4002330003D | 25-JAN-2002 | 01-06-1885A | 02
06 | OK | DELAWARE COUNTY | 4005020075C | 26-APR-2002 | 02-06-1430A | 02
06 | OK | DELAWARE COUNTY | 4005020075C | 17-MAY-2002 | 02-06-1525A | 02
06 | OK | DELAWARE COUNTY | 4005020025C | 05-JUN-2002 | 02-06-1629A | 02
06 | OK | DELAWARE COUNTY | 4005020025C | 05-JUN-2002 | 02-06-1660A | 02
06 | OK | DELAWARE COUNTY | 4005020075C | 19-JUN-2002 | 02-06-1804A | 02
06 | OK | DUNCAN, CITY OF | 40137C0085D | 05-JUN-2002 | 02-06-1627A | 02
06 | OK | DUNCAN, CITY OF | 40137C0085D | 26-APR-2002 | 02-06-868A | 17
06 | OK | EDMOND, CITY OF | 4002520025D | 28-FEB-2002 | 00-06-1829P | 05
06 | OK | EDMOND, CITY OF | 4002520025D | 12-JUN-2002 | 02-06-210P | 05
06 | OK | EDMOND, CITY OF | 4002520045B | 28-FEB-2002 | 00-06-1829P | 05
06 | OK | EL RENO, CITY OF | 40017C0315D | 05-JUN-2002 | 02-06-1369A | 02
06 | OK | ENID, CITY OF | 40047C0115C | 14-JUN-2002 | 02-06-1794A | 02
06 | OK | GARFIELD COUNTY | 40047C0155C | 30-JAN-2002 | 02-06-155A | 02
06 | OK | GARFIELD COUNTY | 40047C0090C | 21-JUN-2002 | 02-06-1743A | 02
06 | OK | HENRYETTA, CITY OF | 4001440003C | 01-FEB-2002 | 02-06-648A | 02
06 | OK | KAY COUNTY | 4004770175A | 05-JUN-2002 | 02-06-1760A | 02
06 | OK | KAY COUNTY | 4004770025A | 06-MAR-2002 | 02-06-959A | 02
06 | OK | KINGFISHER, CITY OF | 40008202A | 24-APR-2002 | 02-06-824A | 01
06 | OK | LAWTON, CITY OF | 40031C0232C | 01-MAR-2002 | 02-06-1014A | 02
06 | OK | LAWTON, CITY OF | 40031C0251C | 21-JUN-2002 | 02-06-1280A | 02
06 | OK | LAWTON, CITY OF | 40031C0258C | 10-APR-2002 | 02-06-158X | 01
06 | OK | LE FLORE COUNTY | 4004840003A | 24-MAY-2002 | 02-06-1619A | 02
06 | OK | LOGAN COUNTY | 40083C0125D | 24-APR-2002 | 02-06-1372A | 02
06 | OK | MAYES COUNTY | 4004580150C | 06-FEB-2002 | 02-06-604A | 02
06 | OK | MCCURTAIN COUNTY | 4001060017A | 06-FEB-2002 | 02-06-178A | 02
06 | OK | MCLOUD, TOWN OF | 40125C0015D | 04-JAN-2002 | 02-06-370A | 02
06 | OK | MIDWEST CITY, CITY OF | 4004050010E | 24-APR-2002 | 02-06-493A | 01
06 | OK | MOORE, CITY OF | 40027C0039F | 28-JUN-2002 | 01-06-1452P | 06
06 | OK | MOORE, CITY OF | 40027C0029F | 12-APR-2002 | 02-06-1276A | 02
06 | OK | MOORE, CITY OF | 40027C0037F | 12-APR-2002 | 02-06-1276A | 02
06 | OK | MOORE, CITY OF | 40027C0037F | 17-MAY-2002 | 02-06-1293A | 02
06 | OK | MOORE, CITY OF | 40027C0041F | 17-MAY-2002 | 02-06-1293A | 02
06 | OK | MOORE, CITY OF | 40027C0029F | 13-FEB-2002 | 02-06-141A | 02
06 | OK | MOORE, CITY OF | 40027C0039F | 24-MAY-2002 | 02-06-1482A | 02
06 | OK | MOORE, CITY OF | 40027C0039F | 22-MAY-2002 | 02-06-1500A | 02
06 | OK | MOORE, CITY OF | 40027C0037F | 22-MAY-2002 | 02-06-1655A | 02
06 | OK | MOORE, CITY OF | 40027C0039F | 05-JUN-2002 | 02-06-1792X | 02
06 | OK | MOORE, CITY OF | 40027C0037F | 30-JAN-2002 | 02-06-710A | 02
06 | OK | MOORE, CITY OF | 40027C0037F | 13-FEB-2002 | 02-06-835A | 02
06 | OK | MUSTANG, CITY OF | 40017C0470D | 20-MAR-2002 | 02-06-1055A | 02
06 | OK | NEWCASTLE, CITY OF | 4001030013E | 28-JUN-2002 | 02-06-1724A | 02
06 | OK | NORMAN,CITY OF | 40027C0115F | 14-JUN-2002 | 02-06-1811A | 02
06 | OK | NORMAN,CITY OF | 40027C0115F | 11-JAN-2002 | 02-06-477A | 02
06 | OK | NORMAN,CITY OF | 40027C0095G | 18-JAN-2002 | 02-06-549A | 02
06 | OK | OKLAHOMA CITY, CITY OF | 4053780160D | 09-JAN-2002 | 01-06-1918A | 02
06 | OK | OKLAHOMA CITY, CITY OF | 4053780170F | 04-JAN-2002 | 01-06-2008A | 02
06 | OK | OKLAHOMA CITY, CITY OF | 4053780150C | 13-MAR-2002 | 01-06-2041P | 05
06 | OK | OKLAHOMA CITY, CITY OF | 4053780190F | 08-MAR-2002 | 02-06-1005A | 17
06 | OK | OKLAHOMA CITY, CITY OF | 4053780155E | 21-JUN-2002 | 02-06-1039A | 02
06 | OK | OKLAHOMA CITY, CITY OF | 4053780170F | 29-MAY-2002 | 02-06-1166A | 02
06 | OK | OKLAHOMA CITY, CITY OF | 4053780160D | 29-MAR-2002 | 02-06-1239A | 02
06 | OK | OKLAHOMA CITY, CITY OF | 4053780080C | 15-MAY-2002 | 02-06-1357A | 02
06 | OK | OKLAHOMA CITY, CITY OF | 4053780195C | 07-JUN-2002 | 02-06-1376A | 02
06 | OK | OKLAHOMA CITY, CITY OF | 4053780160D | 01-MAY-2002 | 02-06-1397A | 02
06 | OK | OKLAHOMA CITY, CITY OF | 4053780195C | 01-MAY-2002 | 02-06-1408A | 02
06 | OK | OKLAHOMA CITY, CITY OF | 4053780230C | 03-MAY-2002 | 02-06-1468A | 02
06 | OK | OKLAHOMA CITY, CITY OF | 4053780160D | 08-MAY-2002 | 02-06-1518A | 02
06 | OK | OKLAHOMA CITY, CITY OF | 4053780160D | 08-MAY-2002 | 02-06-1551A | 02
06 | OK | OKLAHOMA CITY, CITY OF | 4053780195C | 17-MAY-2002 | 02-06-1565A | 02
06 | OK | OKLAHOMA CITY, CITY OF | 4053780225F | 29-MAY-2002 | 02-06-1689A | 01
06 | OK | OKLAHOMA CITY, CITY OF | 4053780160D | 23-JAN-2002 | 02-06-172A | 01
06 | OK | OKLAHOMA CITY, CITY OF | 4053780110C | 14-JUN-2002 | 02-06-1815A | 02
06 | OK | OKLAHOMA CITY, CITY OF | 4053780170F | 21-JUN-2002 | 02-06-1816A | 02
06 | OK | OKLAHOMA CITY, CITY OF | 4053780215D | 06-FEB-2002 | 02-06-413A | 02
06 | OK | OKLAHOMA CITY, CITY OF | 4053780110C | 27-FEB-2002 | 02-06-537A | 17
06 | OK | OKLAHOMA CITY, CITY OF | 4053780195C | 27-MAR-2002 | 02-06-780A | 02
06 | OK | OKLAHOMA CITY, CITY OF | 4053780195C | 27-MAR-2002 | 02-06-781A | 02
06 | OK | OKLAHOMA CITY, CITY OF | 4053780060C | 22-FEB-2002 | 02-06-862A | 02
06 | OK | OKLAHOMA CITY, CITY OF | 4053780195C | 27-MAR-2002 | 02-06-928A | 02
06 | OK | OSAGE COUNTY | 4001460655C | 12-APR-2002 | 02-06-1281A | 02
06 | OK | OWASSO, CITY OF | 40143C0228H | 06-FEB-2002 | 02-06-767A | 02
06 | OK | PAWHUSKA, CITY OF | 4001520001B | 05-APR-2002 | 02-06-1107A | 02
06 | OK | PAYNE COUNTY | 4004930110C | 28-JUN-2002 | 02-06-1637A | 02
06 | OK | PAYNE COUNTY | 4004930170C | 14-JUN-2002 | 02-06-1752A | 02
06 | OK | PIEDMONT, CITY OF | 40017C0180D | 01-MAY-2002 | 02-06-1486A | 02
06 | OK | PIEDMONT, CITY OF | 40017C0180D | 26-JUN-2002 | 02-06-1634A | 02
06 | OK | PONCA CITY, CITY OF | 4000800010C | 10-APR-2002 | 02-06-1129A | 02
06 | OK | PONTOTOC COUNTY | 4004950004A | 05-JUN-2002 | 02-06-1580A | 02
06 | OK | POTEAU, CITY OF | 4000930032A | 09-JAN-2002 | 02-06-084A | 01
06 | OK | POTTAWATOMIE COUNTY | 40125C0040D | 12-APR-2002 | 02-06-1304A | 02
06 | OK | POTTAWATOMIE COUNTY | 40125C0125D | 06-FEB-2002 | 02-06-647A | 02
06 | OK | PRAGUE, CITY OF | 4004350005B | 13-MAR-2002 | 02-06-081A | 02
06 | OK | ROGERS COUNTY | 4053790050C | 24-MAY-2002 | 02-06-1036A | 02
06 | OK | ROGERS COUNTY | 4053790025B | 15-MAY-2002 | 02-06-1434A | 02
06 | OK | ROGERS COUNTY | 4053790025B | 14-JUN-2002 | 02-06-1772A | 02
06 | OK | ROGERS COUNTY | 4053790070D | 26-JUN-2002 | 02-06-1864A | 02
06 | OK | ROGERS COUNTY | 4053790130C | 16-JAN-2002 | 02-06-557A | 17
06 | OK | ROGERS COUNTY | 4053790105C | 05-APR-2002 | 02-06-893A | 02
06 | OK | SALLISAW, CITY OF | 40135C0155E | 07-JUN-2002 | 02-06-1668A | 02
06 | OK | SAPULPA, CITY OF | 4000530135C | 16-JAN-2002 | 02-06-531A | 02
06 | OK | SEMINOLE, CITY OF | 40133C0068C | 19-JUN-2002 | 02-06-1766A | 02
06 | OK | SHAWNEE, CITY OF | 40125C0125D | 15-APR-2002 | 01-06-1796P | 06
06 | OK | SHAWNEE, CITY OF | 40125C0111D | 27-FEB-2002 | 02-06-887A | 01
06 | OK | SLAUGHTERVILLE, TOWN OF | 40027C0153G | 17-APR-2002 | 02-06-1118A | 02
06 | OK | SLAUGHTERVILLE, TOWN OF | 40027C0155G | 12-JUN-2002 | 02-06-1622A | 02
06 | OK | STILLWATER, CITY OF | 4053800005D | 27-MAR-2002 | 02-06-1134A | 02
06 | OK | TECUMSEH, CITY OF | 40125C0125D | 20-FEB-2002 | 02-06-501A | 01
06 | OK | TULSA COUNTY | 40143C0239H | 13-JUN-2002 | 01-06-1178P | 05
06 | OK | TULSA COUNTY | 40143C0582H | 19-APR-2002 | 02-06-1374A | 02
06 | OK | TULSA COUNTY | 40143C0227H | 14-JUN-2002 | 02-06-1746A | 02
06 | OK | TULSA COUNTY | 40143C0595H | 03-APR-2002 | 02-06-482A | 02
06 | OK | TULSA COUNTY | 40143C0660H | 03-APR-2002 | 02-06-482A | 02
06 | OK | TULSA COUNTY | 40143C0510H | 13-FEB-2002 | 02-06-716A | 02
06 | OK | TULSA COUNTY | 40143C0492H | 15-FEB-2002 | 02-06-883A | 02
06 | OK | TULSA COUNTY | 40143C0494H | 15-FEB-2002 | 02-06-883A | 02
06 | OK | TULSA, CITY OF | 40143C0505H | 13-MAR-2002 | 02-06-1056A | 17
06 | OK | TULSA, CITY OF | 40143C0520H | 27-MAR-2002 | 02-06-1057A | 02
06 | OK | TULSA, CITY OF | 40143C0390H | 03-APR-2002 | 02-06-1111A | 02
06 | OK | TULSA, CITY OF | 40143C0520H | 20-MAR-2002 | 02-06-1174X | 02
06 | OK | TULSA, CITY OF | 40143C0510H | 12-APR-2002 | 02-06-1314A | 17
06 | OK | TULSA, CITY OF | 40143C0530H | 17-APR-2002 | 02-06-1333A | 02
06 | OK | TULSA, CITY OF | 40143C0540H | 19-APR-2002 | 02-06-1334A | 02
06 | OK | TULSA, CITY OF | 40143C0520H | 20-FEB-2002 | 02-06-146A | 02
06 | OK | TULSA, CITY OF | 40143C0520H | 15-MAY-2002 | 02-06-1600A | 02
06 | OK | TULSA, CITY OF | 40143C0530H | 07-JUN-2002 | 02-06-1756A | 02
06 | OK | TULSA, CITY OF | 40143C0511J | 07-JUN-2002 | 02-06-1768A | 02
06 | OK | TULSA, CITY OF | 40143C0530H | 12-JUN-2002 | 02-06-1817A | 02
06 | OK | TULSA, CITY OF | 40143C0510H | 13-MAR-2002 | 02-06-545A | 02
06 | OK | TULSA, CITY OF | 40143C0510H | 06-FEB-2002 | 02-06-560A | 02
06 | OK | TULSA, CITY OF | 40143C0520H | 13-FEB-2002 | 02-06-840A | 02
06 | OK | TUTTLE, TOWN OF | 40044307A | 08-MAY-2002 | 02-06-1522A | 02
06 | OK | WARR ACRES, CITY OF | 4004490001A | 19-JUN-2002 | 02-06-1875A | 02
06 | OK | WESTVILLE, CITY OF | 4000030001B | 08-MAY-2002 | 02-06-1439A | 02
06 | OK | YUKON, CITY OF | 40017C0340D | 19-APR-2002 | 02-06-1337A | 02
06 | OK | YUKON, CITY OF | 40017C0320D | 04-JAN-2002 | 02-06-464A | 02
06 | OK | YUKON, CITY OF | 40017C0340D | 15-FEB-2002 | 02-06-748A | 02
06 | TX | ABILENE, CITY OF | 4854500020D | 24-MAY-2002 | 02-06-1605A | 02
06 | TX | ABILENE, CITY OF | 4854500035D | 15-FEB-2002 | 02-06-890A | 01
06 | TX | ALLEN, CITY OF | 48085C0435G | 12-MAR-2002 | 01-06-1899P | 08
06 | TX | ALLEN, CITY OF | 48085C0435G | 19-APR-2002 | 02-06-1278A | 02
06 | TX | ALLEN, CITY OF | 48085C0435G | 04-JAN-2002 | 02-06-310A | 02
06 | TX | ARLINGTON, CITY OF | 48439C0444H | 03-MAY-2002 | 02-06-1110A | 02
06 | TX | ARLINGTON, CITY OF | 48439C0431J | 24-MAY-2002 | 02-06-1601A | 02
06 | TX | ARLINGTON, CITY OF | 48439C0453H | 05-JUN-2002 | 02-06-1647A | 02
06 | TX | ARLINGTON, CITY OF | 48439C0464H | 19-JUN-2002 | 02-06-1767A | 02
06 | TX | ARLINGTON, CITY OF | 48439C0318J | 28-JUN-2002 | 02-06-1823A | 02
06 | TX | ARLINGTON, CITY OF | 48439C0431J | 28-JUN-2002 | 02-06-1823A | 02
06 | TX | ARLINGTON, CITY OF | 48439C0433J | 28-JUN-2002 | 02-06-1931A | 02
06 | TX | ARLINGTON, CITY OF | 48439C0576H | 30-JAN-2002 | 02-06-564A | 01
06 | TX | ARLINGTON, CITY OF | 48439C0336J | 23-JAN-2002 | 02-06-644A | 02
06 | TX | ARLINGTON, CITY OF | 48439C0336J | 13-FEB-2002 | 02-06-688A | 02
06 | TX | ARLINGTON, CITY OF | 48439C0441J | 01-FEB-2002 | 02-06-692A | 02
06 | TX | ARLINGTON, CITY OF | 48439C0433J | 01-MAY-2002 | 02-06-738A | 02
06 | TX | ARLINGTON, CITY OF | 48439C0429J | 01-MAR-2002 | 02-06-754A | 02
06 | TX | ARLINGTON, CITY OF | 48439C0463H | 20-MAR-2002 | 02-06-769A | 01
06 | TX | ARLINGTON, CITY OF | 48439C0463H | 27-FEB-2002 | 02-06-779A | 01
06 | TX | ARLINGTON, CITY OF | 48439C0464H | 27-FEB-2002 | 02-06-779A | 01
06 | TX | AUSTIN, CITY OF | 48453C0165E | 18-JAN-2002 | 01-06-674P | 05
06 | TX | AUSTIN, CITY OF | 48453C0150E | 05-APR-2002 | 02-06-079A | 02
06 | TX | AUSTIN, CITY OF | 48453C0155E | 31-MAY-2002 | 02-06-1010A | 02
06 | TX | AUSTIN, CITY OF | 48453C0155E | 12-APR-2002 | 02-06-1317A | 02
06 | TX | AUSTIN, CITY OF | 48453C0245E | 22-MAY-2002 | 02-06-1628A | 02
06 | TX | AUSTIN, CITY OF | 48453C0255F | 24-MAY-2002 | 02-06-1648A | 02
06 | TX | AUSTIN, CITY OF | 48453C0165E | 06-FEB-2002 | 02-06-207A | 02
06 | TX | AUSTIN, CITY OF | 48453C0155E | 06-FEB-2002 | 02-06-356A | 02
06 | TX | AUSTIN, CITY OF | 48453C0165E | 27-FEB-2002 | 02-06-693A | 02
06 | TX | AUSTIN, CITY OF | 48453C0165E | 15-MAR-2002 | 02-06-775A | 02
06 | TX | AUSTIN, CITY OF | 48453C0205E | 27-FEB-2002 | 02-06-930A | 02
06 | TX | AUSTIN, CITY OF | 48453C0205E | 06-MAR-2002 | 02-06-973A | 02
06 | TX | AZLE, CITY OF | 48439C0232H | 24-APR-2002 | 02-06-1402A | 02
06 | TX | BEDFORD, CITY OF | 48439C0307J | 12-APR-2002 | 02-06-1183A | 02
06 | TX | BELL COUNTY | 4807060280B | 11-JAN-2002 | 01-06-1605A | 01
06 | TX | BELLAIRE, CITY OF | 48201C0855K | 20-FEB-2002 | 02-06-762A | 02
06 | TX | BENBROOK, CITY OF | 48439C0380H | 20-FEB-2002 | 01-06-1711A | 01
06 | TX | BENBROOK, CITY OF | 48439C0380H | 26-JUN-2002 | 02-06-1011A | 01
06 | TX | BENBROOK, CITY OF | 48439C0390J | 06-MAR-2002 | 02-06-934A | 02
06 | TX | BEXAR COUNTY | 48029C0476E | 28-MAR-2002 | 01-06-1642P | 06
06 | TX | BEXAR COUNTY | 48029C0477E | 28-MAR-2002 | 01-06-1642P | 06
06 | TX | BEXAR COUNTY | 48029C0415E | 30-MAY-2002 | 01-06-1714P | 05
06 | TX | BEXAR COUNTY | 48029C0416E | 30-MAY-2002 | 01-06-1714P | 05
06 | TX | BEXAR COUNTY | 48029C0291F | 13-FEB-2002 | 01-06-1850A | 01
06 | TX | BEXAR COUNTY | 48029C0415E | 25-APR-2002 | 01-06-543P | 05
06 | TX | BEXAR COUNTY | 48029C0416E | 25-APR-2002 | 01-06-543P | 05
06 | TX | BEXAR COUNTY | 48029C0408E | 29-MAR-2002 | 01-06-547P | 05
06 | TX | BEXAR COUNTY | 48029C0314E | 03-MAY-2002 | 02-06-1443A | 02
06 | TX | BEXAR COUNTY | 48029C0477E | 03-MAY-2002 | 02-06-1443A | 02
06 | TX | BEXAR COUNTY | 48029C0243E | 11-JAN-2002 | 02-06-447A | 02
06 | TX | BEXAR COUNTY | 48029C0284F | 08-MAR-2002 | 02-06-768A | 02
06 | TX | BOERNE, CITY OF | 4804170261B | 17-JUN-2002 | 02-06-275P | 06
06 | TX | BONHAM WATER AUTHORITY | 4815820005B | 17-APR-2002 | 02-06-955A | 02
06 | TX | BOWIE COUNTY | 4811940210B | 19-APR-2002 | 02-06-958A | 01
06 | TX | BRAZORIA COUNTY | 48039C0030I | 22-MAY-2002 | 02-06-1662A | 02
06 | TX | BRAZORIA COUNTY | 48039C0010I | 16-MAY-2002 | 02-06-548A | 01
06 | TX | BRAZORIA COUNTY | 48039C0235H | 22-FEB-2002 | 02-06-771A | 02
06 | TX | BRAZOS COUNTY | 48041C0161C | 05-APR-2002 | 01-06-1950A | 02
06 | TX | BROWN COUNTY | 4807170007B | 01-MAR-2002 | 02-06-872A | 02
06 | TX | BROWNSVILLE, CITY OF | 4801010350B | 05-APR-2002 | 02-06-905A | 01
06 | TX | BRYAN, CITY OF | 48041C0131C | 15-MAY-2002 | 02-06-1444A | 02
06 | TX | BURLESON COUNTY | 4811690150B | 06-FEB-2002 | 02-06-646A | 02
06 | TX | BURLESON, CITY OF | 48251C0029H | 29-MAY-2002 | 00-06-1649P | 05
06 | TX | BURNET COUNTY | 48053C0150C | 16-JAN-2002 | 02-06-213A | 02
06 | TX | CARROLLTON, CITY OF | 48113C0180J | 22-MAR-2002 | 02-06-1059A | 02
06 | TX | CARROLLTON, CITY OF | 48113C0020J | 22-MAR-2002 | 02-06-1060A | 02
06 | TX | CARROLLTON, CITY OF | 48113C0040J | 22-MAR-2002 | 02-06-1061A | 02
06 | TX | CARROLLTON, CITY OF | 48113C0020J | 27-MAR-2002 | 02-06-1123A | 02
06 | TX | CARROLLTON, CITY OF | 48113C0180J | 03-APR-2002 | 02-06-1175A | 02
06 | TX | CARROLLTON, CITY OF | 48113C0160J | 03-APR-2002 | 02-06-1176A | 02
06 | TX | CARROLLTON, CITY OF | 48113C0040J | 05-APR-2002 | 02-06-1177A | 02
06 | TX | CARROLLTON, CITY OF | 48113C0020J | 24-APR-2002 | 02-06-1364A | 02
06 | TX | CARROLLTON, CITY OF | 48113C0040J | 22-MAY-2002 | 02-06-1615A | 02
06 | TX | CARROLLTON, CITY OF | 48113C0020J | 17-MAY-2002 | 02-06-1616A | 02
06 | TX | CARROLLTON, CITY OF | 48113C0020J | 17-MAY-2002 | 02-06-1617A | 02
06 | TX | CARROLLTON, CITY OF | 48113C0020J | 24-MAY-2002 | 02-06-1690A | 02
06 | TX | CARROLLTON, CITY OF | 48113C0160J | 12-JUN-2002 | 02-06-1725A | 01
06 | TX | CARROLLTON, CITY OF | 48113C0155J | 22-MAR-2002 | 02-06-185A | 01
06 | TX | CARROLLTON, CITY OF | 48113C0020J | 28-JUN-2002 | 02-06-1916A | 02
06 | TX | CARROLLTON, CITY OF | 48113C0040J | 28-JUN-2002 | 02-06-1916A | 02
06 | TX | CARROLLTON, CITY OF | 48113C0020J | 09-JAN-2002 | 02-06-395A | 02
06 | TX | CARROLLTON, CITY OF | 48113C0040J | 16-JAN-2002 | 02-06-396A | 02
06 | TX | CARROLLTON, CITY OF | 48113C0160J | 22-MAR-2002 | 02-06-540A | 02
06 | TX | CARROLLTON, CITY OF | 48113C0160J | 25-JAN-2002 | 02-06-578A | 02
06 | TX | CARROLLTON, CITY OF | 48113C0020J | 06-FEB-2002 | 02-06-622A | 02
06 | TX | CARROLLTON, CITY OF | 48113C0180J | 23-JAN-2002 | 02-06-623A | 17
06 | TX | CARROLLTON, CITY OF | 48113C0020J | 25-JAN-2002 | 02-06-625A | 02
06 | TX | CARROLLTON, CITY OF | 48113C0160J | 27-FEB-2002 | 02-06-789A | 17
06 | TX | CARROLLTON, CITY OF | 48113C0020J | 27-FEB-2002 | 02-06-791A | 17
06 | TX | CARROLLTON, CITY OF | 48113C0160J | 27-FEB-2002 | 02-06-792A | 02
06 | TX | CARROLLTON, CITY OF | 48113C0040J | 08-MAR-2002 | 02-06-809A | 02
06 | TX | CARROLLTON, CITY OF | 48113C0040J | 01-MAR-2002 | 02-06-837A | 02
06 | TX | CARROLLTON, CITY OF | 48113C0040J | 06-MAR-2002 | 02-06-853A | 02
06 | TX | CARROLLTON, CITY OF | 48113C0040J | 03-APR-2002 | 02-06-882A | 02
06 | TX | CARROLLTON, CITY OF | 48113C0020J | 13-MAR-2002 | 02-06-899A | 02
06 | TX | CARROLLTON, CITY OF | 48113C0040J | 08-MAR-2002 | 02-06-925A | 02
06 | TX | CARROLLTON, CITY OF | 48113C0020J | 15-MAR-2002 | 02-06-988A | 17
06 | TX | CEDAR HILL, CITY OF | 48113C0605J | 19-JUN-2002 | 02-06-1485A | 02
06 | TX | COLLEYVILLE, CITY OF | 48439C0195H | 21-JUN-2002 | 02-06-1867A | 02
06 | TX | COLLEYVILLE, CITY OF | 48439C0215H | 31-MAY-2002 | 02-06-457A | 01
06 | TX | COPPELL, CITY OF | 48113C0155J | 22-MAR-2002 | 02-06-1012A | 02
06 | TX | COPPELL, CITY OF | 48113C0155J | 27-MAR-2002 | 02-06-1042A | 02
06 | TX | COPPELL, CITY OF | 48113C0155J | 26-JUN-2002 | 02-06-1145A | 02
06 | TX | COPPELL, CITY OF | 48113C0135J | 15-MAY-2002 | 02-06-1146A | 17
06 | TX | COPPELL, CITY OF | 48113C0135J | 21-JUN-2002 | 02-06-1339A | 01
06 | TX | COPPELL, CITY OF | 48113C0155J | 31-MAY-2002 | 02-06-1745A | 02
06 | TX | COPPELL, CITY OF | 48113C0155J | 14-JUN-2002 | 02-06-1806A | 02
06 | TX | COPPELL, CITY OF | 48113C0155J | 16-JAN-2002 | 02-06-463A | 02
06 | TX | COPPELL, CITY OF | 48113C0155J | 08-FEB-2002 | 02-06-609A | 02
06 | TX | COPPELL, CITY OF | 48113C0155J | 01-FEB-2002 | 02-06-610A | 02
06 | TX | COPPELL, CITY OF | 48113C0155J | 08-FEB-2002 | 02-06-611A | 01
06 | TX | COPPELL, CITY OF | 48113C0155J | 03-MAY-2002 | 02-06-838A | 02
06 | TX | COPPELL, CITY OF | 48113C0155J | 26-JUN-2002 | 02-06-912A | 01
06 | TX | COPPELL, CITY OF | 48113C0155J | 29-MAR-2002 | 02-06-920A | 17
06 | TX | COPPELL, CITY OF | 48113C0135J | 06-MAR-2002 | 02-06-961A | 17
06 | TX | CORINTH, TOWN OF | 48121C0393E | 20-MAR-2002 | 02-06-256A | 02
06 | TX | CORINTH, TOWN OF | 48121C0393E | 29-MAR-2002 | 02-06-690A | 02
06 | TX | CORSICANA, CITY OF | 4804980005A | 06-MAR-2002 | 02-06-974A | 02
06 | TX | CRYSTAL CITY, CITY OF | 48068802B | 28-JUN-2002 | 02-06-1965A | 02
06 | TX | DALLAS COUNTY | 48113C0135J | 28-MAR-2002 | 01-06-1126P | 05
06 | TX | DALLAS COUNTY | 48113C0145J | 28-MAR-2002 | 01-06-1126P | 05
06 | TX | DALLAS COUNTY | 48113C0685J | 19-APR-2002 | 02-06-191A | 02
06 | TX | DALLAS COUNTY | 48113C0235J | 25-JAN-2002 | 02-06-550A | 02
06 | TX | DALLAS, CITY OF | 48113C0365J | 19-APR-2002 | 02-06-1030A | 02
06 | TX | DALLAS, CITY OF | 48113C0335J | 17-APR-2002 | 02-06-1157A | 02
06 | TX | DALLAS, CITY OF | 48113C0355J | 05-APR-2002 | 02-06-1192A | 02
06 | TX | DALLAS, CITY OF | 48113C0355J | 24-MAY-2002 | 02-06-1228A | 02
06 | TX | DALLAS, CITY OF | 48113C0355J | 24-MAY-2002 | 02-06-1294A | 02
06 | TX | DALLAS, CITY OF | 48113C0510J | 19-APR-2002 | 02-06-1306A | 02
06 | TX | DALLAS, CITY OF | 48113C0185J | 08-MAY-2002 | 02-06-1395A | 02
06 | TX | DALLAS, CITY OF | 48113C0510J | 07-JUN-2002 | 02-06-1450A | 02
06 | TX | DALLAS, CITY OF | 48113C0185J | 15-MAY-2002 | 02-06-1493A | 02
06 | TX | DALLAS, CITY OF | 48113C0190J | 24-MAY-2002 | 02-06-1574A | 02
06 | TX | DALLAS, CITY OF | 48113C0195J | 21-JUN-2002 | 02-06-1765A | 02
06 | TX | DALLAS, CITY OF | 48113C0365J | 21-JUN-2002 | 02-06-1899A | 02
06 | TX | DALLAS, CITY OF | 48113C0185J | 21-JUN-2002 | 02-06-1919A | 02
06 | TX | DALLAS, CITY OF | 48113C0215J | 17-APR-2002 | 02-06-316A | 01
06 | TX | DALLAS, CITY OF | 48113C0355J | 17-APR-2002 | 02-06-316A | 01
06 | TX | DALLAS, CITY OF | 48113C0190J | 16-JAN-2002 | 02-06-342A | 01
06 | TX | DALLAS, CITY OF | 48113C0330J | 16-JAN-2002 | 02-06-342A | 01
06 | TX | DALLAS, CITY OF | 48113C0355J | 04-JAN-2002 | 02-06-448A | 02
06 | TX | DALLAS, CITY OF | 48113C0355J | 08-MAR-2002 | 02-06-494A | 02
06 | TX | DALLAS, CITY OF | 48113C0215J | 20-FEB-2002 | 02-06-626A | 02
06 | TX | DALLAS, CITY OF | 48113C0215J | 01-FEB-2002 | 02-06-635A | 02
06 | TX | DALLAS, CITY OF | 48113C0185J | 27-MAR-2002 | 02-06-684A | 02
06 | TX | DALLAS, CITY OF | 48113C0185J | 08-FEB-2002 | 02-06-730A | 02
06 | TX | DALLAS, CITY OF | 48113C0195J | 27-FEB-2002 | 02-06-782A | 01
06 | TX | DALLAS, CITY OF | 48113C0180J | 06-MAR-2002 | 02-06-811A | 02
06 | TX | DALLAS, CITY OF | 48113C0190J | 26-APR-2002 | 02-06-906A | 02
06 | TX | DALLAS, CITY OF | 48113C0355J | 08-MAR-2002 | 02-06-921A | 02
06 | TX | DALLAS, CITY OF | 48113C0455J | 01-MAY-2002 | 02-06-444P | 06
06 | TX | DALLAS, CITY OF | 48113C0465J | 01-MAY-2002 | 02-06-444P | 06
06 | TX | DEER PARK, CITY OF | 48201C0940J | 22-MAY-2002 | 02-06-1656A | 02
06 | TX | DEER PARK, CITY OF | 48201C0940J | 20-FEB-2002 | 02-06-586A | 17
06 | TX | DENTON COUNTY | 48121C0420E | 17-JAN-2002 | 01-06-1008P | 06
06 | TX | DENTON COUNTY | 48121C0420E | 09-JAN-2002 | 01-06-1428A | 02
06 | TX | DENTON COUNTY | 48121C0386E | 02-MAY-2002 | 02-06-276P | 05
06 | TX | DENTON COUNTY | 48121C0500F | 13-MAR-2002 | 02-06-541A | 02
06 | TX | DENTON, CITY OF | 48121C0370E | 13-JUN-2002 | 02-06-1096P | 06
06 | TX | DENTON, CITY OF | 48121C0360E | 24-MAY-2002 | 02-06-1737A | 02
06 | TX | DENTON, CITY OF | 48121C0380E | 19-JUN-2002 | 02-06-1775A | 01
06 | TX | DESOTO, CITY OF | 48113C0630J | 24-MAY-2002 | 02-06-957A | 02
06 | TX | DUNCANVILLE, CITY OF | 48113C0470J | 08-MAY-2002 | 02-06-1187A | 02
06 | TX | DUNCANVILLE, CITY OF | 48113C0470J | 12-APR-2002 | 02-06-1208A | 02
06 | TX | DUNCANVILLE, CITY OF | 48113C0470J | 12-APR-2002 | 02-06-1284A | 02
06 | TX | DUNCANVILLE, CITY OF | 48113C0470J | 20-MAR-2002 | 02-06-568A | 02
06 | TX | EDINBURG,CITY OF | 4803380010E | 06-FEB-2002 | 02-06-012A | 02
06 | TX | EDINBURG,CITY OF | 4803380030E | 07-JUN-2002 | 02-06-787A | 01
06 | TX | EL PASO, CITY OF | 4802140042B | 05-APR-2002 | 02-06-1168A | 02
06 | TX | EL PASO, CITY OF | 4802140015D | 10-MAY-2002 | 02-06-1219A | 02
06 | TX | EL PASO, CITY OF | 4802140048B | 24-MAY-2002 | 02-06-1604A | 02
06 | TX | EL PASO, CITY OF | 4802140026D | 13-FEB-2002 | 02-06-440A | 02
06 | TX | EL PASO, CITY OF | 4802140014D | 20-MAR-2002 | 02-06-836A | 02
06 | TX | EL PASO, CITY OF | 4802140044B | 17-APR-2002 | 02-06-892A | 02
06 | TX | ELLIS COUNTY | 48139C0110D | 05-APR-2002 | 02-06-1233A | 02
06 | TX | ELLIS COUNTY | 48139C0105D | 15-MAY-2002 | 02-06-659A | 02
06 | TX | EULESS, CITY OF | 48439C0330J | 22-MAY-2002 | 02-06-1528A | 01
06 | TX | FARMERS BRANCH, CITY OF | 48113C0190J | 01-MAY-2002 | 02-06-1221A | 02
06 | TX | FARMERS BRANCH, CITY OF | 48113C0170J | 12-JUN-2002 | 02-06-1749A | 02
06 | TX | FLOWER MOUND, TOWN OF | 48121C0545E | 20-FEB-2002 | 02-06-117A | 02
06 | TX | FLOWER MOUND, TOWN OF | 48121C0540E | 19-JUN-2002 | 02-06-1791A | 02
06 | TX | FLOWER MOUND, TOWN OF | 48121C0545E | 19-APR-2002 | 02-06-803A | 02
06 | TX | FOREST HILL, CITY OF | 48439C0420H | 29-MAY-2002 | 02-06-1437A | 02
06 | TX | FORNEY, CITY OF | 48041002B | 10-MAY-2002 | 02-06-1113A | 02
06 | TX | FORT BEND COUNTY | 48157C0175J | 04-JAN-2002 | 01-06-1976A | 02
06 | TX | FORT BEND COUNTY | 48157C0015J | 10-APR-2002 | 02-06-223A | 01
06 | TX | FORT BEND COUNTY | 48157C0100J | 10-APR-2002 | 02-06-223A | 01
06 | TX | FORT BEND COUNTY | 48157C0205J | 09-JAN-2002 | 02-06-516A | 17
06 | TX | FORT BEND COUNTY | 48157C0075J | 31-MAY-2002 | 02-06-617A | 01
06 | TX | FORT BEND COUNTY L.I.D. #2 | 48157C0255J | 20-MAR-2002 | 02-06-313A | 02
06 | TX | FORT WORTH, CITY OF | 48439C0270J | 30-APR-2002 | 02-06-1268P | 06
06 | TX | FORT WORTH, CITY OF | 48439C0312J | 05-APR-2002 | 02-06-1303A | 01
06 | TX | FORT WORTH, CITY OF | 48439C0395J | 03-APR-2002 | 02-06-131A | 02
06 | TX | FORT WORTH, CITY OF | 48439C0295J | 08-MAY-2002 | 02-06-1446A | 02
06 | TX | FORT WORTH, CITY OF | 48439C0385J | 01-MAY-2002 | 02-06-1464A | 02
06 | TX | FORT WORTH, CITY OF | 48439C0395J | 01-MAY-2002 | 02-06-1464A | 02
06 | TX | FORT WORTH, CITY OF | 48439C0260H | 14-JUN-2002 | 02-06-1558A | 02
06 | TX | FORT WORTH, CITY OF | 48439C0280J | 28-JUN-2002 | 02-06-1678P | 06
06 | TX | FORT WORTH, CITY OF | 48439C0420H | 28-JUN-2002 | 02-06-1890A | 02
06 | TX | FORT WORTH, CITY OF | 48439C0265H | 17-JUN-2002 | 02-06-374P | 06
06 | TX | FORT WORTH, CITY OF | 48439C0312J | 13-MAR-2002 | 02-06-897A | 01
06 | TX | FRIENDSWOOD, CITY OF | 4854680005E | 17-MAY-2002 | 02-06-1557A | 01
06 | TX | FRIENDSWOOD, CITY OF | 4854680005E | 03-APR-2002 | 02-06-981A | 01
06 | TX | FRISCO, CITY OF | 48085C0270G | 25-JAN-2002 | 02-06-415A | 02
06 | TX | GARLAND, CITY OF | 48113C0240J | 22-MAR-2002 | 01-06-1380P | 08
06 | TX | GARLAND, CITY OF | 48113C0380J | 17-JAN-2002 | 01-06-1620P | 06
06 | TX | GARLAND, CITY OF | 48113C0220J | 27-MAR-2002 | 02-06-1013A | 02
06 | TX | GARLAND, CITY OF | 48113C0220J | 17-MAY-2002 | 02-06-1150A | 02
06 | TX | GARLAND, CITY OF | 48113C0240J | 10-APR-2002 | 02-06-1209A | 02
06 | TX | GARLAND, CITY OF | 48113C0360J | 01-MAY-2002 | 02-06-1476A | 02
06 | TX | GARLAND, CITY OF | 48113C0220J | 17-MAY-2002 | 02-06-1497A | 17
06 | TX | GARLAND, CITY OF | 48113C0210J | 17-MAY-2002 | 02-06-1498A | 02
06 | TX | GARLAND, CITY OF | 48113C0360J | 17-MAY-2002 | 02-06-1499A | 17
06 | TX | GARLAND, CITY OF | 48113C0240J | 28-JUN-2002 | 02-06-1535P | 05
06 | TX | GARLAND, CITY OF | 48113C0220J | 05-JUN-2002 | 02-06-1738A | 02
06 | TX | GARLAND, CITY OF | 48113C0210J | 21-JUN-2002 | 02-06-1790A | 02
06 | TX | GARLAND, CITY OF | 48113C0240J | 22-FEB-2002 | 02-06-282P | 06
06 | TX | GARLAND, CITY OF | 48113C0210J | 23-JAN-2002 | 02-06-546A | 17
06 | TX | GARLAND, CITY OF | 48113C0380J | 13-JUN-2002 | 02-06-591P | 05
06 | TX | GARLAND, CITY OF | 48113C0380J | 01-FEB-2002 | 02-06-630A | 02
06 | TX | GARLAND, CITY OF | 48113C0360J | 20-MAR-2002 | 02-06-711A | 02
06 | TX | GARLAND, CITY OF | 48113C0220J | 06-FEB-2002 | 02-06-728A | 17
06 | TX | GARLAND, CITY OF | 48113C0240J | 01-MAR-2002 | 02-06-807A | 02
06 | TX | GARLAND, CITY OF | 48113C0360J | 08-MAR-2002 | 02-06-891A | 02
06 | TX | GARLAND, CITY OF | 48113C0220J | 08-MAR-2002 | 02-06-931A | 02
06 | TX | GARLAND, CITY OF | 48113C0220J | 15-MAR-2002 | 02-06-950A | 01
06 | TX | GILLESPIE COUNTY | 48171C0267C | 12-APR-2002 | 02-06-1321A | 02
06 | TX | GILLESPIE COUNTY | 48171C0300C | 24-MAY-2002 | 02-06-1569A | 02
06 | TX | GLADEWATER, CITY OF | 4802620005B | 28-JUN-2002 | 02-06-1797A | 02
06 | TX | GRAHAM, CITY OF | 48503C0215D | 01-MAY-2002 | 02-06-1428A | 02
06 | TX | GRANBURY, CITY OF | 4803570005B | 21-JUN-2002 | 02-06-1462A | 02
06 | TX | GRAND PRAIRIE, CITY OF | 48113C0285J | 08-MAY-2002 | 01-06-1516P | 06
06 | TX | GRAND PRAIRIE, CITY OF | 48113C0295J | 08-MAY-2002 | 01-06-1516P | 06
06 | TX | GRAND PRAIRIE, CITY OF | 48439C0335J | 08-MAY-2002 | 01-06-1516P | 06
06 | TX | GRAND PRAIRIE, CITY OF | 48439C0341J | 08-MAY-2002 | 01-06-1516P | 06
06 | TX | GRAND PRAIRIE, CITY OF | 48113C0445J | 12-APR-2002 | 02-06-1173A | 01
06 | TX | GRAND PRAIRIE, CITY OF | 48113C0295J | 06-MAR-2002 | 02-06-526A | 02
06 | TX | GRAND PRAIRIE, CITY OF | 48113C0455J | 06-MAR-2002 | 02-06-804A | 02
06 | TX | GRAND PRAIRIE, CITY OF | 48113C0465J | 06-MAR-2002 | 02-06-804A | 02
06 | TX | GRAND PRAIRIE, CITY OF | 48113C0295J | 22-MAR-2002 | 02-06-844A | 02
06 | TX | GRAPEVINE, CITY OF | 48439C0215H | 08-MAY-2002 | 02-06-1165A | 02
06 | TX | GRAPEVINE, CITY OF | 48439C0215H | 16-JAN-2002 | 02-06-358A | 02
06 | TX | GRAPEVINE, CITY OF | 48439C0205H | 10-APR-2002 | 02-06-574A | 02
06 | TX | GREENVILLE, CITY OF | 48231C0180F | 03-MAY-2002 | 02-06-1433A | 02
06 | TX | HALTOM CITY, CITY OF | 48439C0285J | 04-JAN-2002 | 02-06-399A | 02
06 | TX | HARRIS COUNTY | 48201C0245K | 06-FEB-2002 | 01-06-1356A | 01
06 | TX | HARRIS COUNTY | 48201C0430K | 15-MAY-2002 | 01-06-1914A | 01
06 | TX | HARRIS COUNTY | 48201C0320K | 22-MAR-2002 | 02-06-1103A | 02
06 | TX | HARRIS COUNTY | 48201C0445K | 05-APR-2002 | 02-06-1117A | 17
06 | TX | HARRIS COUNTY | 48201C0295J | 27-MAR-2002 | 02-06-1120A | 02
06 | TX | HARRIS COUNTY | 48201C0265J | 20-MAR-2002 | 02-06-1121A | 02
06 | TX | HARRIS COUNTY | 48201C0245K | 01-MAY-2002 | 02-06-1188A | 02
06 | TX | HARRIS COUNTY | 48201C0265J | 01-MAY-2002 | 02-06-1188A | 02
06 | TX | HARRIS COUNTY | 48201C0545J | 19-APR-2002 | 02-06-1215A | 02
06 | TX | HARRIS COUNTY | 48201C0565J | 19-APR-2002 | 02-06-1215A | 02
06 | TX | HARRIS COUNTY | 48201C0765J | 31-MAY-2002 | 02-06-1456A | 02
06 | TX | HARRIS COUNTY | 48201C0215J | 29-MAY-2002 | 02-06-1593A | 01
06 | TX | HARRIS COUNTY | 48201C0220J | 29-MAY-2002 | 02-06-1593A | 01
06 | TX | HARRIS COUNTY | 48201C0245K | 22-MAY-2002 | 02-06-1638A | 02
06 | TX | HARRIS COUNTY | 48201C0320K | 26-APR-2002 | 02-06-187X | 01
06 | TX | HARRIS COUNTY | 48201C0245K | 18-JAN-2002 | 02-06-227A | 01
06 | TX | HARRIS COUNTY | 48201C0455J | 23-JAN-2002 | 02-06-485A | 01
06 | TX | HARRIS COUNTY | 48201C0410J | 23-JAN-2002 | 02-06-509A | 01
06 | TX | HARRIS COUNTY | 48201C0270J | 06-FEB-2002 | 02-06-585A | 01
06 | TX | HARRIS COUNTY | 48201C0215J | 25-JAN-2002 | 02-06-592A | 01
06 | TX | HARRIS COUNTY | 48201C0220J | 25-JAN-2002 | 02-06-592A | 01
06 | TX | HARRIS COUNTY | 48201C0430K | 24-APR-2002 | 02-06-712A | 01
06 | TX | HARRIS COUNTY | 48201C0440K | 22-MAR-2002 | 02-06-864A | 02
06 | TX | HARRIS COUNTY | 48201C0515J | 26-APR-2002 | 02-06-976A | 02
06 | TX | HAYS COUNTY | 48209C0185E | 27-MAR-2002 | 02-06-380A | 01
06 | TX | HEATH, CITY OF | 4805450005A | 22-FEB-2002 | 02-06-143A | 01
06 | TX | HEATH, CITY OF | 4805450005A | 22-MAY-2002 | 02-06-1609A | 02
06 | TX | HEATH, CITY OF | 4805450005A | 26-JUN-2002 | 02-06-1805A | 02
06 | TX | HELOTES, CITY OF | 48029C0233F | 21-MAY-2002 | 01-06-1723P | 06
06 | TX | HIDALGO COUNTY | 4803340290D | 11-JAN-2002 | 01-06-1652A | 01
06 | TX | HIDALGO COUNTY | 4803340290D | 12-APR-2002 | 02-06-1038A | 01
06 | TX | HIDALGO COUNTY | 4803340450C | 30-MAY-2002 | 02-06-715P | 05
06 | TX | HIDALGO COUNTY | 4803340325D | 17-APR-2002 | 02-06-886A | 02
06 | TX | HIGHLAND VILLAGE, VILLAGE OF | 48121C0533F | 27-MAR-2002 | 02-06-1142A | 02
06 | TX | HILL COUNTY | 4808570004A | 07-JUN-2002 | 02-06-1216A | 02
06 | TX | HILL COUNTY | 4808570004A | 28-JUN-2002 | 02-06-1907A | 02
06 | TX | HILL COUNTY | 4808570007A | 22-MAR-2002 | 02-06-704A | 02
06 | TX | HOOD COUNTY | 4803560110C | 15-MAY-2002 | 02-06-1133A | 02
06 | TX | HOOD COUNTY | 4803560145B | 01-MAY-2002 | 02-06-1477A | 02
06 | TX | HOOD COUNTY | 4803560145B | 22-FEB-2002 | 02-06-234A | 02
06 | TX | HOOD COUNTY | 4803560130C | 09-JAN-2002 | 02-06-270A | 02
06 | TX | HOOD COUNTY | 4803560045B | 13-FEB-2002 | 02-06-628A | 02
06 | TX | HOOD COUNTY | 4803560130C | 06-FEB-2002 | 02-06-701A | 02
06 | TX | HOUSTON COUNTY | 48201C0855K | 09-JAN-2002 | 02-06-446A | 02
06 | TX | HOUSTON COUNTY | 48201C0320K | 13-MAR-2002 | 02-06-759A | 02
06 | TX | HOUSTON, CITY OF | 48201C0670K | 17-APR-2002 | 02-06-1066A | 02
06 | TX | HOUSTON, CITY OF | 48201C0810K | 20-MAR-2002 | 02-06-1086A | 02
06 | TX | HOUSTON, CITY OF | 48201C0845K | 20-MAR-2002 | 02-06-1115A | 02
06 | TX | HOUSTON, CITY OF | 48201C0665K | 08-MAY-2002 | 02-06-1505A | 02
06 | TX | HOUSTON, CITY OF | 48201C0860K | 24-MAY-2002 | 02-06-1599A | 02
06 | TX | HOUSTON, CITY OF | 48201C0655K | 12-JUN-2002 | 02-06-1813A | 02
06 | TX | HOUSTON, CITY OF | 48201C0865K | 04-JAN-2002 | 02-06-458A | 02
06 | TX | HOUSTON, CITY OF | 48201C0845K | 25-JAN-2002 | 02-06-507A | 01
06 | TX | HOUSTON, CITY OF | 48201C0640J | 06-FEB-2002 | 02-06-569A | 02
06 | TX | HOUSTON, CITY OF | 48201C0655K | 13-FEB-2002 | 02-06-723A | 02
06 | TX | HOUSTON, CITY OF | 48201C0670K | 01-FEB-2002 | 02-06-726A | 02
06 | TX | HOUSTON, CITY OF | 48201C0670K | 13-FEB-2002 | 02-06-818A | 02
06 | TX | HOUSTON, CITY OF | 48201C0845K | 15-FEB-2002 | 02-06-898X | 01
06 | TX | HOUSTON, CITY OF | 48201C0810K | 06-MAR-2002 | 02-06-985A | 02
06 | TX | HOUSTON, CITY OF | 48201C0670K | 10-APR-2002 | 02-06-986A | 01
06 | TX | HURST, CITY OF | 48439C0308H | 30-APR-2002 | 01-06-1481P | 05
06 | TX | HURST, CITY OF | 48439C0306J | 05-JUN-2002 | 02-06-1312A | 02
06 | TX | HURST, CITY OF | 48439C0306J | 10-MAY-2002 | 02-06-1436A | 02
06 | TX | HUTTO, TOWN OF | 48491C0244C | 30-MAY-2002 | 01-06-213P | 06
06 | TX | HUTTO, TOWN OF | 48491C0335C | 30-MAY-2002 | 01-06-213P | 06
06 | TX | HUTTO, TOWN OF | 48491C0244C | 14-JUN-2002 | 02-06-1763A | 02
06 | TX | IRVING, CITY OF | 48113C0135J | 08-MAR-2002 | 01-06-1643P | 05
06 | TX | IRVING, CITY OF | 48113C0145J | 08-MAR-2002 | 01-06-1643P | 05
06 | TX | IRVING, CITY OF | 48113C0315J | 10-APR-2002 | 02-06-1214A | 02
06 | TX | IRVING, CITY OF | 48113C0305J | 03-MAY-2002 | 02-06-1387A | 02
06 | TX | IRVING, CITY OF | 48113C0320J | 03-MAY-2002 | 02-06-1404A | 02
06 | TX | IRVING, CITY OF | 48113C0315J | 21-JUN-2002 | 02-06-1784A | 02
06 | TX | IRVING, CITY OF | 48113C0315J | 20-MAR-2002 | 02-06-459A | 02
06 | TX | IRVING, CITY OF | 48113C0320J | 04-JAN-2002 | 02-06-465A | 02
06 | TX | IRVING, CITY OF | 48113C0315J | 25-JAN-2002 | 02-06-595A | 02
06 | TX | IRVING, CITY OF | 48113C0315J | 18-JAN-2002 | 02-06-596A | 02
06 | TX | IRVING, CITY OF | 48113C0315J | 20-FEB-2002 | 02-06-915A | 02
06 | TX | IRVING, CITY OF | 48113C0315J | 22-FEB-2002 | 02-06-924A | 02
06 | TX | IRVING, CITY OF | 48113C0320J | 22-FEB-2002 | 02-06-924A | 02
06 | TX | IRVING, CITY OF | 48113C0315J | 20-FEB-2002 | 02-06-927A | 02
06 | TX | JEFFERSON, CITY OF | 4804650005B | 24-APR-2002 | 02-06-1349A | 02
06 | TX | JOHNSON COUNTY | 48251C0125F | 12-JUN-2002 | 02-06-1222A | 01
06 | TX | KATY, CITY OF | 4803010005D | 19-JUN-2002 | 02-06-1881A | 02
06 | TX | KELLER, CITY OF | 48439C0190H | 26-APR-2002 | 02-06-1331A | 02
06 | TX | KENDALL COUNTY | 4804170180B | 03-APR-2002 | 02-06-1211A | 02
06 | TX | KERRVILLE, CITY OF | 48265C0170E | 12-JUN-2002 | 02-06-1563A | 02
06 | TX | KERRVILLE, CITY OF | 48265C0165E | 27-FEB-2002 | 02-06-819A | 02
06 | TX | KILLEEN, CITY OF | 4800310005C | 05-APR-2002 | 02-06-1029A | 02
06 | TX | KIMBLE COUNTY | 4812320175A | 18-JAN-2002 | 02-06-233A | 02
06 | TX | KIRBY, CITY OF | 48029C0459E | 17-MAY-2002 | 02-06-1502A | 02
06 | TX | KIRBY, CITY OF | 48029C0457E | 12-JUN-2002 | 02-06-1747A | 02
06 | TX | LAGO VISTA, CITY OF | 48453C0784F | 28-JUN-2002 | 00-06-1892V | 19
06 | TX | LAGO VISTA, CITY OF | 48453C0792F | 08-MAY-2002 | 02-06-1300A | 02
06 | TX | LAGO VISTA, CITY OF | 48453C0792F | 28-JUN-2002 | 00-06-1892V | 19
06 | TX | LAGO VISTA, CITY OF | 48453C0801F | 28-JUN-2002 | 00-06-1892V | 19
06 | TX | LAGO VISTA, CITY OF | 48453C0803F | 28-JUN-2002 | 00-06-1892V | 19
06 | TX | LAGO VISTA, CITY OF | 48453C0811F | 28-JUN-2002 | 00-06-1892V | 19
06 | TX | LAKEWAY, CITY OF | 48453C0813F | 28-JUN-2002 | 00-06-1892V | 19
06 | TX | LAMAR COUNTY | 4808910008A | 30-JAN-2002 | 02-06-318A | 02
06 | TX | LANCASTER, CITY OF | 48113C0630J | 18-FEB-2002 | 00-06-1773P | 06
06 | TX | LANCASTER, CITY OF | 48113C0635J | 24-APR-2002 | 02-06-653A | 17
06 | TX | LEAGUE CITY, CITY OF | 4854880025D | 21-MAR-2002 | 01-06-673P | 05
06 | TX | LEANDER, CITY OF | 48491C0218C | 05-JUN-2002 | 02-06-1384A | 02
06 | TX | LEON VALLEY, CITY OF | 48029C0263E | 02-JAN-2002 | 01-06-1953X | 06
06 | TX | LEON VALLEY, CITY OF | 48029C0263F | 26-APR-2002 | 02-06-1347A | 02
06 | TX | LEON VALLEY, CITY OF | 48029C0263F | 28-JUN-2002 | 02-06-1825A | 01
06 | TX | LEON VALLEY, CITY OF | 48029C0426E | 02-JAN-2002 | 01-06-1953X | 06
06 | TX | LEWISVILLE, CITY OF | 48121C0545E | 15-MAR-2002 | 02-06-881A | 02
06 | TX | LIBERTY COUNTY | 4804380175B | 27-MAR-2002 | 02-06-1122A | 02
06 | TX | LIVE OAK, CITY OF | 48029C0312E | 06-MAR-2002 | 02-06-916A | 02
06 | TX | LLANO COUNTY | 4812340135B | 13-MAR-2002 | 02-06-1026A | 02
06 | TX | LLANO COUNTY | 4812340135B | 17-MAY-2002 | 02-06-1326A | 02
06 | TX | LLANO COUNTY | 4812340210B | 13-FEB-2002 | 02-06-674A | 02
06 | TX | LONGVIEW, CITY OF | 4802640010D | 20-FEB-2002 | 02-06-714A | 02
06 | TX | LUBBOCK COUNTY | 4809150007A | 19-JUN-2002 | 02-06-1859A | 02
06 | TX | LUBBOCK, CITY OF | 4804520050B | 27-MAR-2002 | 02-06-1062A | 02
06 | TX | LUBBOCK, CITY OF | 4804520025C | 05-APR-2002 | 02-06-1171A | 01
06 | TX | LUBBOCK, CITY OF | 4804520045C | 05-JUN-2002 | 02-06-1651A | 02
06 | TX | LUBBOCK, CITY OF | 4804520045C | 18-JAN-2002 | 02-06-302A | 01
06 | TX | LUBBOCK, CITY OF | 4804520025C | 18-JAN-2002 | 02-06-303A | 01
06 | TX | LUBBOCK, CITY OF | 4804520050B | 18-JAN-2002 | 02-06-547A | 02
06 | TX | LUBBOCK, CITY OF | 4804520040B | 24-APR-2002 | 02-06-673A | 01
06 | TX | LUBBOCK, CITY OF | 4804520045C | 13-FEB-2002 | 02-06-749A | 02
06 | TX | LUBBOCK, CITY OF | 4804520025C | 20-FEB-2002 | 02-06-765X | 01
06 | TX | MARBLE FALLS, CITY OF | 48053C0312C | 25-JAN-2002 | 02-06-629A | 01
06 | TX | MAYPEARL, CITY OF | 48139C0170D | 20-FEB-2002 | 02-06-417A | 02
06 | TX | MCKINNEY, CITY OF | 48085C0280G | 01-MAY-2002 | 02-06-1388A | 02
06 | TX | MESQUITE, CITY OF | 48113C0390J | 22-MAY-2002 | 02-06-1082A | 02
06 | TX | MESQUITE, CITY OF | 48113C0390J | 31-MAY-2002 | 02-06-1161A | 02
06 | TX | MESQUITE, CITY OF | 48113C0360J | 27-MAR-2002 | 02-06-1167A | 02
06 | TX | MESQUITE, CITY OF | 48113C0530J | 10-MAY-2002 | 02-06-1335A | 02
06 | TX | MESQUITE, CITY OF | 48113C0390J | 12-JUN-2002 | 02-06-1451A | 02
06 | TX | MESQUITE, CITY OF | 48113C0535J | 18-JAN-2002 | 02-06-517A | 02
06 | TX | MESQUITE, CITY OF | 48113C0390J | 10-APR-2002 | 02-06-533A | 02
06 | TX | MESQUITE, CITY OF | 48113C0390J | 20-MAR-2002 | 02-06-745A | 02
06 | TX | MESQUITE, CITY OF | 48113C0390J | 20-FEB-2002 | 02-06-805A | 02
06 | TX | MESQUITE, CITY OF | 48113C0390J | 06-MAR-2002 | 02-06-861A | 02
06 | TX | MESQUITE, CITY OF | 48113C0530J | 24-APR-2002 | 02-06-983A | 02
06 | TX | MESQUITE, CITY OF | 48113C0390J | 17-MAY-2002 | 02-06-990A | 02
06 | TX | MIDLAND, CITY OF | 48329C0067E | 27-MAR-2002 | 02-06-1078A | 02
06 | TX | MIDLAND, CITY OF | 48329C0088E | 05-APR-2002 | 02-06-1141A | 02
06 | TX | MIDLAND, CITY OF | 48329C0100E | 24-APR-2002 | 02-06-1329A | 02
06 | TX | MIDLAND, CITY OF | 48329C0088E | 24-MAY-2002 | 02-06-1567A | 02
06 | TX | MIDLAND, CITY OF | 48329C0088E | 21-MAY-2002 | 02-06-1695A | 02
06 | TX | MIDLAND, CITY OF | 48329C0100E | 14-JUN-2002 | 02-06-1730A | 02
06 | TX | MIDLAND, CITY OF | 48329C0089E | 21-JUN-2002 | 02-06-1863A | 02
06 | TX | MIDLAND, CITY OF | 48329C0058E | 18-JAN-2002 | 02-06-242A | 01
06 | TX | MIDLAND, CITY OF | 48329C0066E | 18-JAN-2002 | 02-06-242A | 01
06 | TX | MIDLAND, CITY OF | 48329C0086E | 06-MAR-2002 | 02-06-353A | 01
06 | TX | MIDLAND, CITY OF | 48329C0087E | 16-JAN-2002 | 02-06-481A | 02
06 | TX | MIDLAND, CITY OF | 48329C0069E | 06-FEB-2002 | 02-06-572A | 01
06 | TX | MIDLAND, CITY OF | 48329C0088E | 06-MAR-2002 | 02-06-902A | 02
06 | TX | MIDLAND, CITY OF | 48329C0088E | 06-MAR-2002 | 02-06-954A | 02
06 | TX | MIDLAND, CITY OF | 48329C0088E | 06-MAR-2002 | 02-06-979A | 02
06 | TX | MIDLOTHIAN, CITY OF | 48139C0075D | 14-FEB-2002 | 01-06-689P | 06
06 | TX | MISSOURI CITY, CITY OF | 48157C0255J | 12-JUN-2002 | 02-06-244P | 06
06 | TX | MISSOURI CITY, CITY OF | 48157C0265J | 12-JUN-2002 | 02-06-244P | 06
06 | TX | MONTAGUE COUNTY | 48337C0060C | 24-APR-2002 | 02-06-1340A | 02
06 | TX | MONTGOMERY COUNTY | 48339C0195F | 01-MAR-2002 | 01-06-1145P | 05
06 | TX | MONTGOMERY COUNTY | 48339C0529F | 26-FEB-2002 | 01-06-1170P | 05
06 | TX | MONTGOMERY COUNTY | 48339C0530F | 26-FEB-2002 | 01-06-1170P | 05
06 | TX | MONTGOMERY COUNTY | 48339C0195F | 12-MAR-2002 | 01-06-1264P | 06
06 | TX | MONTGOMERY COUNTY | 48339C0705F | 20-MAR-2002 | 01-06-1970A | 02
06 | TX | MONTGOMERY COUNTY | 48339C0540F | 04-JAN-2002 | 01-06-1977A | 02
06 | TX | MONTGOMERY COUNTY | 48339C0539G | 12-JUN-2002 | 01-06-599P | 05
06 | TX | MONTGOMERY COUNTY | 48339C0543F | 12-JUN-2002 | 01-06-599P | 05
06 | TX | MONTGOMERY COUNTY | 48339C0215F | 25-JAN-2002 | 02-06-103A | 02
06 | TX | MONTGOMERY COUNTY | 48339C0215F | 12-APR-2002 | 02-06-1310A | 02
06 | TX | MONTGOMERY COUNTY | 48339C0535F | 29-MAY-2002 | 02-06-1645A | 02
06 | TX | MONTGOMERY COUNTY | 48339C0215F | 22-MAY-2002 | 02-06-1691A | 02
06 | TX | MONTGOMERY COUNTY | 48339C0355F | 22-MAY-2002 | 02-06-1691A | 02
06 | TX | MONTGOMERY COUNTY | 48339C0430F | 21-JUN-2002 | 02-06-1795A | 02
06 | TX | MONTGOMERY COUNTY | 48339C0415F | 16-JAN-2002 | 02-06-443A | 02
06 | TX | MONTGOMERY COUNTY | 48339C0215F | 17-JAN-2002 | 02-06-606P | 06
06 | TX | MONTGOMERY COUNTY | 48339C0220F | 17-JAN-2002 | 02-06-606P | 06
06 | TX | MONTGOMERY COUNTY | 48339C0215F | 18-JAN-2002 | 02-06-607A | 02
06 | TX | MONTGOMERY COUNTY | 48339C0730G | 15-APR-2002 | 02-06-763P | 05
06 | TX | MONTGOMERY COUNTY | 48339C0560F | 27-MAR-2002 | 02-06-923A | 02
06 | TX | MONTGOMERY COUNTY | 48339C0215F | 01-MAR-2002 | 02-06-972A | 02
06 | TX | MORGAN'S POINT RESORT, CITY OF | 4815250001A | 21-JUN-2002 | 02-06-1801A | 02
06 | TX | MURPHY, CITY OF | 48085C0465H | 12-JUN-2002 | 02-06-1796A | 02
06 | TX | NACOGDOCHES COUNTY | 4809470004B | 24-APR-2002 | 02-06-935A | 02
06 | TX | NORTH RICHLAND HILLS, CITY OF | 48439C0301H | 19-JUN-2002 | 01-06-790P | 05
06 | TX | ODESSA, CITY OF | 48135C0170D | 04-JAN-2002 | 01-06-1896A | 01
06 | TX | ODESSA, CITY OF | 48135C0170D | 10-APR-2002 | 02-06-1204A | 02
06 | TX | ODESSA, CITY OF | 48135C0140D | 03-MAY-2002 | 02-06-1378A | 02
06 | TX | ODESSA, CITY OF | 48135C0140D | 28-JUN-2002 | 02-06-1908A | 02
06 | TX | ODESSA, CITY OF | 48135C0170D | 08-MAR-2002 | 02-06-407A | 02
06 | TX | ODESSA, CITY OF | 48135C0170D | 09-JAN-2002 | 02-06-409A | 02
06 | TX | ODESSA, CITY OF | 48135C0170D | 06-MAR-2002 | 02-06-495A | 01
06 | TX | ODESSA, CITY OF | 48135C0170D | 22-FEB-2002 | 02-06-662A | 01
06 | TX | ODESSA, CITY OF | 48135C0140D | 27-FEB-2002 | 02-06-956A | 02
06 | TX | ORANGE COUNTY | 4805100075C | 20-FEB-2002 | 02-06-810A | 02
06 | TX | PARKER COUNTY | 4805200150C | 14-JUN-2002 | 02-06-1459A | 02
06 | TX | PARKER, CITY OF | 48085C0435G | 27-MAR-2002 | 02-06-866A | 02
06 | TX | PEARLAND, CITY OF | 48039C0010I | 09-JAN-2002 | 02-06-106A | 01
06 | TX | PEARLAND, CITY OF | 48039C0045J | 24-APR-2002 | 02-06-1206A | 01
06 | TX | PEARLAND, CITY OF | 48039C0045J | 22-MAY-2002 | 02-06-1386A | 01
06 | TX | PEARLAND, CITY OF | 48039C0045J | 21-JUN-2002 | 02-06-1731A | 01
06 | TX | PEARLAND, CITY OF | 48039C0045J | 27-FEB-2002 | 02-06-747A | 01
06 | TX | PLAINVIEW, CITY OF | 4802750007B | 12-JUN-2002 | 02-06-1632A | 02
06 | TX | PLANO, CITY OF | 48085C0410G | 05-MAR-2002 | 01-06-1678P | 05
06 | TX | PLANO, CITY OF | 48085C0410G | 29-MAY-2002 | 00-06-1193P | 05
06 | TX | PLANO, CITY OF | 48085C0420G | 29-MAY-2002 | 00-06-1193P | 05
06 | TX | PLANO, CITY OF | 48085C0420G | 15-MAY-2002 | 02-06-1229A | 02
06 | TX | PLANO, CITY OF | 48085C0440G | 26-JUN-2002 | 02-06-1906A | 01
06 | TX | PLANO, CITY OF | 48085C0445G | 13-FEB-2002 | 02-06-576A | 02
06 | TX | POLK COUNTY | 4805260006B | 15-FEB-2002 | 02-06-300A | 02
06 | TX | PRINCETON, CITY OF | 48085C0325G | 15-FEB-2002 | 00-06-1489P | 06
06 | TX | RICHARDSON, CITY OF | 48113C0205J | 26-FEB-2002 | 00-06-1859P | 05
06 | TX | RICHARDSON, CITY OF | 48113C0205J | 01-MAY-2002 | 02-06-1076A | 02
06 | TX | RICHARDSON, CITY OF | 48113C0185J | 28-JUN-2002 | 02-06-1872A | 02
06 | TX | RICHARDSON, CITY OF | 48113C0185J | 04-JAN-2002 | 02-06-367A | 02
06 | TX | RICHARDSON, CITY OF | 48113C0205J | 23-JAN-2002 | 02-06-467A | 02
06 | TX | RICHARDSON, CITY OF | 48113C0205J | 01-MAR-2002 | 02-06-528A | 02
06 | TX | RICHARDSON, CITY OF | 48113C0205J | 13-FEB-2002 | 02-06-691A | 17
06 | TX | RICHARDSON, CITY OF | 48113C0185J | 06-FEB-2002 | 02-06-720A | 02
06 | TX | RICHARDSON, CITY OF | 48113C0205J | 27-MAR-2002 | 02-06-907A | 17
06 | TX | ROCKWALL, CITY OF | 4805470005C | 28-JUN-2002 | 01-06-355P | 06
06 | TX | ROCKWALL, CITY OF | 4805470005C | 17-MAY-2002 | 02-06-1588A | 02
06 | TX | ROUND ROCK, CITY OF | 48491C0250C | 03-MAY-2002 | 02-06-1440A | 02
06 | TX | ROUND ROCK, CITY OF | 48491C0330D | 28-JUN-2002 | 02-06-1913A | 02
06 | TX | ROWLETT, CITY OF | 48113C0235J | 20-FEB-2002 | 02-06-605A | 02
06 | TX | ROYSE CITY, CITY OF | 4805480003B | 19-APR-2002 | 02-06-1079A | 01
06 | TX | SACHSE, CITY OF | 48113C0230J | 23-MAY-2002 | 02-06-1531A | 01
06 | TX | SACHSE, CITY OF | 48113C0230J | 12-JUN-2002 | 02-06-948A | 01
06 | TX | SACHSE, CITY OF | 48113C0235J | 23-MAY-2002 | 02-06-1531A | 01
06 | TX | SACHSE, CITY OF | 48085C0580H | 05-JUN-2002 | 02-06-472A | 02
06 | TX | SAN ANGELO, CITY OF | 4806230035D | 19-APR-2002 | 02-06-1336A | 02
06 | TX | SAN ANTONIO, CITY OF | 48029C0263E | 02-JAN-2002 | 01-06-1953X | 05
06 | TX | SAN ANTONIO, CITY OF | 48029C0426E | 02-JAN-2002 | 01-06-1953X | 05
06 | TX | SAN ANTONIO, CITY OF | 48029C0120E | 24-APR-2002 | 01-06-546P | 06
06 | TX | SAN ANTONIO, CITY OF | 48029C0257E | 24-APR-2002 | 01-06-546P | 06
06 | TX | SAN ANTONIO, CITY OF | 48029C0258F | 21-MAR-2002 | 02-06-1031A | 02
06 | TX | SAN ANTONIO, CITY OF | 48029C0441E | 22-MAR-2002 | 02-06-1040A | 02
06 | TX | SAN ANTONIO, CITY OF | 48029C0259F | 19-APR-2002 | 02-06-1064A | 02
06 | TX | SAN ANTONIO, CITY OF | 48029C0244F | 10-APR-2002 | 02-06-1138A | 02
06 | TX | SAN ANTONIO, CITY OF | 48029C0283F | 03-MAY-2002 | 02-06-1197A | 02
06 | TX | SAN ANTONIO, CITY OF | 48029C0259F | 29-MAR-2002 | 02-06-1241A | 02
06 | TX | SAN ANTONIO, CITY OF | 48029C0262F | 24-APR-2002 | 02-06-1301A | 02
06 | TX | SAN ANTONIO, CITY OF | 48029C0266F | 24-APR-2002 | 02-06-1301A | 02
06 | TX | SAN ANTONIO, CITY OF | 48029C0140F | 08-MAY-2002 | 02-06-1379A | 02
06 | TX | SAN ANTONIO, CITY OF | 48029C0239E | 02-JAN-2002 | 01-06-1953X | 05
06 | TX | SAN ANTONIO, CITY OF | 48029C0239F | 01-MAY-2002 | 02-06-1391A | 02
06 | TX | SAN ANTONIO, CITY OF | 48029C0266F | 07-JUN-2002 | 02-06-1460A | 02
06 | TX | SAN ANTONIO, CITY OF | 48029C0140F | 24-MAY-2002 | 02-06-1552A | 02
06 | TX | SAN ANTONIO, CITY OF | 48029C0259F | 07-JUN-2002 | 02-06-1555A | 02
06 | TX | SAN ANTONIO, CITY OF | 48029C0259F | 19-JUN-2002 | 02-06-1625A | 02
06 | TX | SAN ANTONIO, CITY OF | 48029C0266F | 31-MAY-2002 | 02-06-1751A | 02
06 | TX | SAN ANTONIO, CITY OF | 48029C0402E | 02-JAN-2002 | 01-06-1953X | 05
06 | TX | SAN ANTONIO, CITY OF | 48029C0406E | 02-JAN-2002 | 01-06-1953X | 05
06 | TX | SAN ANTONIO, CITY OF | 48029C0406F | 28-JUN-2002 | 02-06-1755A | 02
06 | TX | SAN ANTONIO, CITY OF | 48029C0407E | 02-JAN-2002 | 01-06-1953X | 05
06 | TX | SAN ANTONIO, CITY OF | 48029C0407F | 21-JUN-2002 | 02-06-1818A | 02
06 | TX | SAN ANTONIO, CITY OF | 48029C0407F | 12-JUN-2002 | 02-06-1819A | 02
06 | TX | SAN ANTONIO, CITY OF | 48029C0409E | 02-JAN-2002 | 01-06-1953X | 05
06 | TX | SAN ANTONIO, CITY OF | 48029C0277F | 23-JAN-2002 | 02-06-599A | 02
06 | TX | SAN ANTONIO, CITY OF | 48029C0259F | 06-FEB-2002 | 02-06-616A | 02
06 | TX | SAN ANTONIO, CITY OF | 48029C0140F | 27-FEB-2002 | 02-06-713A | 02
06 | TX | SAN ANTONIO, CITY OF | 48029C0257E | 13-JUN-2002 | 02-06-786P | 06
06 | TX | SAN MARCOS, CITY OF | 48209C0194E | 10-MAY-2002 | 02-06-1350A | 01
06 | TX | SAN MARCOS, CITY OF | 48209C0193E | 13-FEB-2002 | 02-06-570A | 02
06 | TX | SEABROOK, CITY OF | 48201C1085J | 29-MAR-2002 | 02-06-1004A | 02
06 | TX | SEABROOK, CITY OF | 48201C1085J | 03-APR-2002 | 02-06-1006A | 02
06 | TX | SEGUIN, CITY OF | 4855080010D | 24-MAY-2002 | 02-06-1367A | 02
06 | TX | SELMA, CITY OF | 48029C0304E | 15-APR-2002 | 00-06-1663P | 08
06 | TX | SELMA, CITY OF | 48029C0308E | 15-APR-2002 | 00-06-1663P | 08
06 | TX | SELMA, CITY OF | 48029C0304E | 22-FEB-2002 | 02-06-212A | 02
06 | TX | SNYDER, CITY OF | 4810010005B | 26-MAR-2002 | 01-06-1980A | 01
06 | TX | STEPHENS COUNTY | 48429C0085C | 08-MAY-2002 | 02-06-398A | 02
06 | TX | TARRANT COUNTY | 48439C0195H | 31-MAY-2002 | 02-06-1554A | 02
06 | TX | TARRANT COUNTY | 48439C0140H | 01-FEB-2002 | 02-06-689A | 02
06 | TX | TARRANT COUNTY | 48439C0535H | 01-MAR-2002 | 02-06-880A | 02
06 | TX | TEXARKANA, CITY OF | 4800600005B | 31-MAY-2002 | 02-06-1562A | 02
06 | TX | TRAVIS COUNTY | 48453C0100F | 12-JUN-2002 | 00-06-1827P | 06
06 | TX | TRAVIS COUNTY | 48453C0180E | 16-JAN-2002 | 01-06-1871A | 01
06 | TX | TRAVIS COUNTY | 48453C0250E | 06-MAR-2002 | 02-06-1003A | 02
06 | TX | TRAVIS COUNTY | 48453C0250E | 03-MAY-2002 | 02-06-1205A | 02
06 | TX | TRAVIS COUNTY | 48453C0200E | 30-JAN-2002 | 02-06-445A | 02
06 | TX | TRAVIS COUNTY | 48453C0783F | 28-JUN-2002 | 00-06-1892V | 19
06 | TX | TRAVIS COUNTY | 48453C0791F | 28-JUN-2002 | 00-06-1892V | 19
06 | TX | TRAVIS COUNTY | 48453C0793F | 28-JUN-2002 | 00-06-1892V | 19
06 | TX | TRAVIS COUNTY | 48453C0803F | 28-JUN-2002 | 00-06-1892V | 19
06 | TX | TRAVIS COUNTY | 48453C0813F | 28-JUN-2002 | 00-06-1892V | 19
06 | TX | TRAVIS COUNTY | 48453C0814F | 28-JUN-2002 | 00-06-1892V | 19
06 | TX | TROPHY CLUB, TOWN OF | 48121C0655E | 12-APR-2002 | 02-06-1232A | 02
06 | TX | UPSHUR COUNTY | 48103607B | 12-JUN-2002 | 02-06-1583A | 02
06 | TX | WESTON, TOWN OF | 48085C0150G | 14-JUN-2002 | 02-06-1669A | 02
06 | TX | WICHITA FALLS, CITY OF | 4806620025E | 22-MAY-2002 | 02-06-1521A | 02
06 | TX | WILLIAMSON COUNTY | 48491C0375C | 05-APR-2002 | 02-06-1180A | 02
06 | TX | WILLIAMSON COUNTY | 48491C0330D | 22-MAY-2002 | 02-06-1494A | 02
06 | TX | WISE COUNTY | 48497C0100C | 24-MAY-2002 | 02-06-258A | 02
06 | TX | WYLIE, CITY OF | 48085C0470G | 01-MAR-2002 | 01-06-1232P | 06
07 | IA | ADEL, CITY OF | 19049C0118D | 19-APR-2002 | 02-07-592A | 02
07 | IA | AMES, CITY OF | 1902540008C | 01-MAY-2002 | 02-07-578A | 02
07 | IA | BENTON COUNTY | 1908450004A | 27-FEB-2002 | 02-07-330A | 02
07 | IA | BETTENDORF, CITY OF | 1902400004D | 13-FEB-2002 | 02-07-225A | 02
07 | IA | BETTENDORF, CITY OF | 1902400005E | 05-APR-2002 | 02-07-515A | 02
07 | IA | BETTENDORF, CITY OF | 1902400003C | 12-JUN-2002 | 02-07-783A | 02
07 | IA | BLACK HAWK COUNTY | 1905350095B | 04-JAN-2002 | 02-07-196A | 02
07 | IA | BLACK HAWK COUNTY | 1905350095B | 06-MAR-2002 | 02-07-244A | 02
07 | IA | BLACK HAWK COUNTY | 1905350050B | 08-FEB-2002 | 02-07-334A | 02
07 | IA | BOONE COUNTY | 1908460004B | 08-MAR-2002 | 02-07-293A | 02
07 | IA | BREMER COUNTY | 19017C0060C | 26-JUN-2002 | 02-07-817A | 02
07 | IA | BUCHANAN COUNTY | 1908480100C | 13-MAR-2002 | 02-07-438A | 02
07 | IA | BUTLER COUNTY | 1908500075B | 25-JAN-2002 | 02-07-276A | 02
07 | IA | BUTLER COUNTY | 1908500150B | 27-MAR-2002 | 02-07-379A | 02
07 | IA | BUTLER COUNTY | 1908500100B | 27-FEB-2002 | 02-07-395A | 02
07 | IA | CARTER LAKE, CITY OF | 19049201A | 13-MAR-2002 | 02-07-388A | 01
07 | IA | CASS COUNTY | 1908520001B | 24-APR-2002 | 02-07-275A | 02
07 | IA | CEDAR FALLS, CITY OF | 1900170002B | 15-MAR-2002 | 02-07-380A | 02
07 | IA | CEDAR FALLS, CITY OF | 1900170006B | 20-MAR-2002 | 02-07-448A | 02
07 | IA | CEDAR FALLS, CITY OF | 1900170008B | 26-APR-2002 | 02-07-547A | 02
07 | IA | CEDAR FALLS, CITY OF | 1900170006B | 21-JUN-2002 | 02-07-820A | 02
07 | IA | CEDAR RAPIDS, CITY OF | 1901870010B | 30-JAN-2002 | 02-07-273A | 02
07 | IA | CEDAR RAPIDS, CITY OF | 1901870025B | 10-APR-2002 | 02-07-510A | 02
07 | IA | CEDAR RAPIDS, CITY OF | 1901870015C | 12-JUN-2002 | 02-07-768A | 02
07 | IA | CHICKASAW COUNTY | 1908550005A | 04-JAN-2002 | 02-07-217A | 02
07 | IA | CLAY COUNTY | 1908570002A | 06-MAR-2002 | 02-07-427A | 02
07 | IA | CLINTON, CITY OF | 1900880015C | 20-MAR-2002 | 02-07-442A | 02
07 | IA | CLINTON, CITY OF | 1900880015C | 12-APR-2002 | 02-07-479A | 17
07 | IA | CLIVE, CITY OF | 1904880005C | 25-JAN-2002 | 02-07-076A | 02
07 | IA | CLIVE, CITY OF | 1904880005C | 01-FEB-2002 | 02-07-154A | 02
07 | IA | CLIVE, CITY OF | 1904880005C | 12-APR-2002 | 02-07-535A | 02
07 | IA | CLIVE, CITY OF | 1904880005C | 12-JUN-2002 | 02-07-570A | 01
07 | IA | CLIVE, CITY OF | 1904880005C | 10-MAY-2002 | 02-07-603A | 02
07 | IA | CLIVE, CITY OF | 1904880005C | 17-MAY-2002 | 02-07-706A | 02
07 | IA | COUNCIL BLUFFS, CITY OF | 1902350005D | 15-MAY-2002 | 02-07-691A | 02
07 | IA | COUNCIL BLUFFS, CITY OF | 1902350005D | 15-MAY-2002 | 02-07-695A | 02
07 | IA | COUNCIL BLUFFS, CITY OF | 1902350010C | 05-JUN-2002 | 02-07-747A | 02
07 | IA | DAVENPORT, CITY OF | 1902420005B | 19-APR-2002 | 02-07-505A | 02
07 | IA | DAVENPORT, CITY OF | 1902420004C | 08-MAY-2002 | 02-07-681A | 02
07 | IA | DELAWARE COUNTY | 1908630003A | 15-MAY-2002 | 02-07-698A | 02
07 | IA | DES MOINES COUNTY | 1901130088B | 01-MAR-2002 | 02-07-369X | 17
07 | IA | DES MOINES, CITY OF | 1902270004D | 20-FEB-2002 | 02-07-359A | 02
07 | IA | DICKINSON COUNTY | 1908640050C | 24-MAY-2002 | 02-07-649A | 02
07 | IA | DICKINSON COUNTY | 1908640050C | 12-JUN-2002 | 02-07-689A | 02
07 | IA | DUBUQUE COUNTY | 1905340045B | 29-MAR-2002 | 02-07-347A | 02
07 | IA | FREMONT COUNTY | 1908680006B | 16-JAN-2002 | 02-07-240A | 02
07 | IA | GILBERT,CITY OF | 19025601B | 23-JAN-2002 | 02-07-150A | 02
07 | IA | GILBERT,CITY OF | 19025601B | 03-MAY-2002 | 02-07-221A | 01
07 | IA | GUTHRIE COUNTY | 1908710004B | 10-MAY-2002 | 02-07-622A | 02
07 | IA | GUTHRIE COUNTY | 1908710004B | 19-JUN-2002 | 02-07-814A | 02
07 | IA | INDEPENDENCE, CITY OF | 1900310001C | 21-JUN-2002 | 02-07-812A | 02
07 | IA | IOWA CITY, CITY OF | 1901710005C | 11-JAN-2002 | 02-07-207A | 02
07 | IA | JOHNSON COUNTY | 1908820125B | 05-JUN-2002 | 02-07-755A | 02
07 | IA | LEE COUNTY | 1901820175B | 09-JAN-2002 | 02-07-247A | 02
07 | IA | LINN COUNTY | 1908290050B | 22-MAY-2002 | 02-07-711A | 02
07 | IA | MARION COUNTY | 19088914B | 20-MAR-2002 | 02-07-397A | 02
07 | IA | MARION, CITY OF | 1901910004B | 03-APR-2002 | 02-07-501A | 02
07 | IA | MARION, CITY OF | 1908290075B | 24-APR-2002 | 02-07-580A | 02
07 | IA | MARION, CITY OF | 1901910001B | 12-JUN-2002 | 02-07-807A | 02
07 | IA | MASON CITY, CITY OF | 1900600005B | 09-JAN-2002 | 02-07-022A | 02
07 | IA | MISSOURI VALLEY, CITY OF | 1901470001B | 15-MAY-2002 | 02-07-522A | 01
07 | IA | MUSCATINE, CITY OF | 1902130002B | 01-FEB-2002 | 02-07-146A | 02
07 | IA | NASHUA, CITY OF | 1900680001B | 08-FEB-2002 | 02-07-300A | 02
07 | IA | NEW VIENNA, CITY OF | 1901210001C | 19-JUN-2002 | 02-07-692A | 02
07 | IA | NORTH LIBERTY, CITY OF | 1906300005A | 26-JUN-2002 | 02-07-834A | 02
07 | IA | NORWALK, CITY OF | 19181C0010D | 15-MAR-2002 | 02-07-420A | 02
07 | IA | NORWALK, CITY OF | 19181C0010D | 03-APR-2002 | 02-07-509A | 02
07 | IA | PLEASANT HILL, CITY OF | 1904890002B | 18-JAN-2002 | 01-07-869A | 01
07 | IA | PLYMOUTH COUNTY | 1908990250B | 29-MAR-2002 | 02-07-443A | 02
07 | IA | POTTAWATTAMIE COUNTY | 1902320175B | 19-JUN-2002 | 02-07-703A | 01
07 | IA | SCOTT COUNTY | 1902390050B | 29-MAR-2002 | 02-07-500A | 02
07 | IA | SIOUX CITY, CITY OF | 1902980017A | 27-MAR-2002 | 02-07-488A | 02
07 | IA | SPENCER, CITY OF | 1900710005B | 01-FEB-2002 | 02-07-296A | 02
07 | IA | SPENCER, CITY OF | 1900710005B | 01-FEB-2002 | 02-07-297A | 02
07 | IA | SPENCER, CITY OF | 1900710005B | 29-MAY-2002 | 02-07-733A | 02
07 | IA | SPENCER, CITY OF | 1900710005B | 26-JUN-2002 | 02-07-837A | 02
07 | IA | URBANDALE, CITY OF | 1902300010D | 04-JAN-2002 | 02-07-106A | 02
07 | IA | URBANDALE, CITY OF | 1902300005D | 22-FEB-2002 | 02-07-315A | 02
07 | IA | URBANDALE, CITY OF | 1902300010D | 20-MAR-2002 | 02-07-475A | 02
07 | IA | WAVERLY, CITY OF | 19017C0054C | 16-JAN-2002 | 02-07-242A | 02
07 | IA | WAVERLY, CITY OF | 19017C0054C | 27-FEB-2002 | 02-07-406A | 02
07 | IA | WAVERLY, CITY OF | 19017C0054C | 24-APR-2002 | 02-07-593A | 02
07 | IA | WHEATLAND, CITY OF | 19009002A | 24-APR-2002 | 02-07-629A | 02
07 | KS | ALLEN COUNTY | 20001C0100D | 13-MAR-2002 | 02-07-277A | 02
07 | KS | AUGUSTA, CITY OF | 2000380001D | 01-MAR-2002 | 02-07-417A | 02
07 | KS | BUTLER COUNTY | 2000370170C | 08-MAR-2002 | 02-07-436A | 02
07 | KS | BUTLER COUNTY | 2000370235B | 07-JUN-2002 | 02-07-739A | 02
07 | KS | CHEROKEE COUNTY | 2000440100B | 29-MAR-2002 | 02-07-393A | 02
07 | KS | CHEROKEE COUNTY | 2000440300B | 03-MAY-2002 | 02-07-572A | 02
07 | KS | COWLEY COUNTY | 2005630100B | 26-APR-2002 | 02-07-605A | 02
07 | KS | DICKINSON COUNTY | 20041C0061C | 24-MAY-2002 | 02-07-727A | 02
07 | KS | DOWNS, CITY OF | 200490—01A | 19-JUN-2002 | 02-07-294A | 02
07 | KS | DESOTO, CITY OF | 20091C0155F | 18-JUN-2002 | 02-07-729V | 19
07 | KS | EL DORADO, CITY OF | 2000390001D | 24-APR-2002 | 02-07-544A | 02
07 | KS | ELLIS COUNTY | 2000940185B | 04-JAN-2002 | 02-07-176A | 02
07 | KS | ELLIS, CITY OF | 2000950001B | 04-JAN-2002 | 02-07-141A | 02
07 | KS | EUDORA, CITY OF | 20045C0044C | 22-FEB-2002 | 02-07-230A | 02
07 | KS | EUDORA, CITY OF | 20045C0044C | 27-FEB-2002 | 02-07-396A | 02
07 | KS | FAIRWAY, CITY OF | 20091C0094F | 18-JUN-2002 | 02-07-729V | 19
07 | KS | FAIRWAY, CITY OF | 20091C0113F | 18-JUN-2002 | 02-07-729V | 19
07 | KS | HARVEY COUNTY | 2005850125D | 10-APR-2002 | 01-07-568A | 01
07 | KS | HAYS, CITY OF | 2000960002B | 13-FEB-2002 | 02-07-340A | 02
07 | KS | IOLA, CITY OF | 20001C0105D | 17-APR-2002 | 02-07-346A | 01
07 | KS | JEFFERSON COUNTY | 2001470150C | 15-MAR-2002 | 02-07-450A | 02
07 | KS | JOHNSON COUNTY | 20091C0042D | 15-MAY-2002 | 02-07-323A | 02
07 | KS | JOHNSON COUNTY | 20091C0300F | 20-JUN-2002 | 02-07-718A | 02
07 | KS | KANSAS CITY, CITY OF | 2003630010A | 19-JUN-2002 | 02-07-719A | 01
07 | KS | LAWRENCE, CITY OF | 20045C0036C | 06-MAR-2002 | 02-07-409A | 02
07 | KS | LAWRENCE, CITY OF | 20045C0038C | 27-MAR-2002 | 02-07-484A | 02
07 | KS | LAWRENCE, CITY OF | 20045C0037C | 05-JUN-2002 | 02-07-536A | 02
07 | KS | LAWRENCE, CITY OF | 20045C0038C | 12-APR-2002 | 02-07-542A | 02
07 | KS | LAWRENCE, CITY OF | 20045C0060C | 10-MAY-2002 | 02-07-617A | 02
07 | KS | LAWRENCE, CITY OF | 20045C0036C | 08-MAY-2002 | 02-07-636A | 02
07 | KS | LAWRENCE, CITY OF | 20045C0036C | 22-MAY-2002 | 02-07-734A | 02
07 | KS | LAWRENCE, CITY OF | 20045C0036C | 26-JUN-2002 | 02-07-835A | 02
07 | KS | LAWRENCE, CITY OF | 20045C0036C | 28-JUN-2002 | 02-07-845A | 02
07 | KS | LEAVENWORTH COUNTY | 2001860125D | 20-MAR-2002 | 02-07-464A | 02
07 | KS | LEAVENWORTH COUNTY | 2001860025C | 26-JUN-2002 | 02-07-802A | 02
07 | KS | LEAWOOD, CITY OF | 20091C0217F | 18-JUN-2002 | 02-07-729V | 19
07 | KS | LEAWOOD, CITY OF | 20091C0228F | 18-JUN-2002 | 02-07-729V | 19
07 | KS | LEAWOOD, CITY OF | 20091C0332F | 18-JUN-2002 | 02-07-729V | 19
07 | KS | LENEXA, CITY OF | 20091C0184F | 18-JUN-2002 | 02-07-729V | 19
07 | KS | MANHATTAN, CITY OF | 2003000002D | 22-MAY-2002 | 02-07-707A | 02
07 | KS | MCPHERSON COUNTY | 2002140125B | 23-JAN-2002 | 02-07-042A | 02
07 | KS | MCPHERSON COUNTY | 2002140050B | 05-JUN-2002 | 02-07-715A | 02
07 | KS | MCPHERSON, CITY OF | 2002170015D | 13-MAR-2002 | 02-07-418A | 02
07 | KS | MCPHERSON, CITY OF | 2002170015D | 24-APR-2002 | 02-07-614A | 02
07 | KS | MCPHERSON, CITY OF | 2002170005D | 07-JUN-2002 | 02-07-759A | 02
07 | KS | MIAMI COUNTY | 20022006A | 22-FEB-2002 | 02-07-394A | 02
07 | KS | MISSION HILLS, CITY OF | 20091C0094F | 20-JUN-2002 | 02-07-716A | 02
07 | KS | NEW CAMBRIA, CITY OF | 2003180001A | 06-FEB-2002 | 02-07-314A | 02
07 | KS | NEW CAMBRIA, CITY OF | 2003180001A | 24-MAY-2002 | 02-07-724A | 02
07 | KS | NEWTON, CITY OF | 2001330005C | 15-FEB-2002 | 02-07-130A | 01
07 | KS | NEWTON, CITY OF | 2001330005C | 03-APR-2002 | 02-07-494A | 02
07 | KS | NICKERSON, CITY OF | 20155C0090D | 13-MAR-2002 | 02-07-441A | 02
07 | KS | NICKERSON, CITY OF | 20155C0090D | 14-JUN-2002 | 02-07-749A | 02
07 | KS | OLATHE, CITY OF | 20091C0301F | 18-JUN-2002 | 02-07-729V | 19
07 | KS | OLATHE, CITY OF | 20091C0306F | 18-JUN-2002 | 02-07-729V | 19
07 | KS | OLATHE, CITY OF | 20091C0310F | 18-JUN-2002 | 02-07-729V | 19
07 | KS | OLATHE, CITY OF | 20091C0330F | 18-JUN-2002 | 02-07-729V | 19
07 | KS | OVERLAND PARK, CITY OF | 20091C0095D | 01-FEB-2002 | 02-07-239A | 01
07 | KS | OVERLAND PARK, CITY OF | 20091C0093F | 18-JUN-2002 | 02-07-729V | 19
07 | KS | OVERLAND PARK, CITY OF | 20091C0204F | 18-JUN-2002 | 02-07-729V | 19
07 | KS | OVERLAND PARK, CITY OF | 20091C0208F | 18-JUN-2002 | 02-07-729V | 19
07 | KS | OVERLAND PARK, CITY OF | 20091C0209F | 18-JUN-2002 | 02-07-729V | 19
07 | KS | OVERLAND PARK, CITY OF | 20091C0211F | 18-JUN-2002 | 02-07-729V | 19
07 | KS | OVERLAND PARK, CITY OF | 20091C0212F | 18-JUN-2002 | 02-07-729V | 19
07 | KS | OVERLAND PARK, CITY OF | 20091C0213F | 18-JUN-2002 | 02-07-729V | 19
07 | KS | OVERLAND PARK, CITY OF | 20091C0220F | 18-JUN-2002 | 02-07-729V | 19
07 | KS | PARK CITY, CITY OF | 2009630001A | 01-FEB-2002 | 02-07-237A | 01
07 | KS | PITTSBURG, CITY OF | 2000720005D | 21-JUN-2002 | 02-07-836A | 02
07 | KS | PRAIRIE VILLAGE, CITY OF | 20091C0206F | 20-JUN-2002 | 02-07-717A | 02
07 | KS | RENO COUNTY | 20155C0310D | 08-MAR-2002 | 02-07-316A | 17
07 | KS | RENO COUNTY | 20155C0315D | 20-FEB-2002 | 02-07-364A | 02
07 | KS | RENO COUNTY | 20155C0310D | 15-MAR-2002 | 02-07-446A | 17
07 | KS | ROELAND PARK, CITY OF | 20091C0092F | 18-JUN-2002 | 02-07-729V | 19
07 | KS | ROELAND PARK, CITY OF | 20091C0042D | 15-FEB-2002 | 02-07-342A | 02
07 | KS | ROELAND PARK, CITY OF | 20091C0042D | 01-MAY-2002 | 02-07-584A | 02
07 | KS | ROELAND PARK, CITY OF | 20091C0042D | 17-APR-2002 | 02-07-587A | 02
07 | KS | ROELAND PARK, CITY OF | 20091C0042D | 05-JUN-2002 | 02-07-595A | 02
07 | KS | SALINA, CITY OF | 2003160060B | 04-JAN-2002 | 02-07-170A | 02
07 | KS | SALINA, CITY OF | 2003190015B | 25-JAN-2002 | 02-07-181A | 02
07 | KS | SALINA, CITY OF | 2003190015B | 06-MAR-2002 | 02-07-209A | 02
07 | KS | SALINA, CITY OF | 2003190005B | 03-APR-2002 | 02-07-232A | 02
07 | KS | SALINA, CITY OF | 2003190015B | 18-JAN-2002 | 02-07-261A | 02
07 | KS | SALINA, CITY OF | 2003190005B | 06-FEB-2002 | 02-07-311A | 02
07 | KS | SALINA, CITY OF | 2003190005B | 13-FEB-2002 | 02-07-331A | 02
07 | KS | SALINA, CITY OF | 2003190005B | 20-FEB-2002 | 02-07-392A | 02
07 | KS | SALINA, CITY OF | 2003190015B | 01-MAR-2002 | 02-07-410A | 02
07 | KS | SALINA, CITY OF | 2003160060B | 13-MAR-2002 | 02-07-437A | 02
07 | KS | SALINA, CITY OF | 2003190015B | 13-MAR-2002 | 02-07-439A | 02
07 | KS | SALINA, CITY OF | 2003160060B | 27-MAR-2002 | 02-07-449A | 02
07 | KS | SALINA, CITY OF | 2003190015B | 20-MAR-2002 | 02-07-461A | 02
07 | KS | SALINA, CITY OF | 2003190015B | 17-MAY-2002 | 02-07-483A | 02
07 | KS | SALINA, CITY OF | 2003190015B | 27-MAR-2002 | 02-07-485A | 02
07 | KS | SALINA, CITY OF | 2003190015B | 27-MAR-2002 | 02-07-486A | 02
07 | KS | SALINA, CITY OF | 2003190015B | 10-APR-2002 | 02-07-495A | 02
07 | KS | SALINA, CITY OF | 2003190015B | 03-APR-2002 | 02-07-502A | 02
07 | KS | SALINA, CITY OF | 2003160060B | 10-APR-2002 | 02-07-508A | 02
07 | KS | SALINA, CITY OF | 2003190015B | 10-APR-2002 | 02-07-543A | 02
07 | KS | SALINA, CITY OF | 2003160060B | 17-APR-2002 | 02-07-565X | 02
07 | KS | SALINA, CITY OF | 2003190015B | 24-APR-2002 | 02-07-582A | 02
07 | KS | SALINA, CITY OF | 2003190005B | 24-APR-2002 | 02-07-591A | 02
07 | KS | SALINA, CITY OF | 2003190005B | 08-MAY-2002 | 02-07-627A | 02
07 | KS | SALINA, CITY OF | 2003190015B | 08-MAY-2002 | 02-07-645A | 02
07 | KS | SALINA, CITY OF | 2003190015B | 10-MAY-2002 | 02-07-690A | 02
07 | KS | SALINA, CITY OF | 2003160060B | 12-JUN-2002 | 02-07-728A | 02
07 | KS | SALINA, CITY OF | 2003190015B | 14-JUN-2002 | 02-07-752A | 02
07 | KS | SALINA, CITY OF | 2003190015B | 14-JUN-2002 | 02-07-771A | 02
07 | KS | SALINE COUNTY | 2003160070B | 25-JAN-2002 | 02-07-279A | 02
07 | KS | SALINE COUNTY | 2003160100B | 10-APR-2002 | 02-07-511A | 02
07 | KS | SALINE COUNTY | 2003160150B | 14-JUN-2002 | 02-07-714A | 02
07 | KS | SALINE COUNTY | 2003160100B | 12-JUN-2002 | 02-07-761A | 02
07 | KS | SEDGWICK COUNTY | 2003210125A | 04-JAN-2002 | 02-07-013A | 02
07 | KS | SEDGWICK COUNTY | 2003210200A | 04-JAN-2002 | 02-07-013A | 02
07 | KS | SEDGWICK COUNTY | 2003210300A | 16-JAN-2002 | 02-07-113P | 06
07 | KS | SEDGWICK COUNTY | 2003210150A | 03-APR-2002 | 02-07-210A | 02
07 | KS | SEDGWICK COUNTY | 2003210225A | 16-JAN-2002 | 02-07-246A | 17
07 | KS | SEDGWICK COUNTY | 2003210275A | 15-MAR-2002 | 02-07-262A | 02
07 | KS | SEDGWICK COUNTY | 2003210150A | 10-APR-2002 | 02-07-440A | 02
07 | KS | SHAWNEE, CITY OF | 20091C0065F | 18-JUN-2002 | 02-07-729V | 19
07 | KS | SHAWNEE, CITY OF | 20091C0070F | 18-JUN-2002 | 02-07-729V | 19
07 | KS | SHAWNEE COUNTY | 2003310025C | 15-FEB-2002 | 02-07-303A | 02
07 | KS | SHAWNEE, CITY OF | 20091C0041D | 24-APR-2002 | 02-07-576A | 02
07 | KS | STERLING, CITY OF | 2002900008C | 13-MAR-2002 | 02-07-142A | 01
07 | KS | SUMNER COUNTY | 20191C0105B | 15-MAY-2002 | 02-07-625A | 02
07 | KS | TOPEKA, CITY OF | 2051870018C | 25-JAN-2002 | 02-07-243A | 02
07 | KS | TOPEKA, CITY OF | 2051870011C | 19-APR-2002 | 02-07-588A | 02
07 | KS | VALLEY CENTER, CITY OF | 2003210075A | 15-MAY-2002 | 02-07-527A | 01
07 | KS | WICHITA, CITY OF | 2003210150A | 09-JAN-2002 | 02-07-123A | 01
07 | KS | WICHITA, CITY OF | 2003280020B | 27-FEB-2002 | 02-07-180A | 01
07 | KS | WICHITA, CITY OF | 2003280010B | 11-JAN-2002 | 02-07-202A | 02
07 | KS | WICHITA, CITY OF | 2003280030B | 11-JAN-2002 | 02-07-224A | 17
07 | KS | WICHITA, CITY OF | 2003280020B | 09-JAN-2002 | 02-07-231A | 02
07 | KS | WICHITA, CITY OF | 2003280005B | 13-FEB-2002 | 02-07-348A | 02
07 | KS | WICHITA, CITY OF | 2003280030B | 17-MAY-2002 | 02-07-415A | 02
07 | KS | WICHITA, CITY OF | 2003210225A | 29-MAR-2002 | 02-07-451A | 01
07 | KS | WICHITA, CITY OF | 2003280035B | 22-MAR-2002 | 02-07-460A | 02
07 | KS | WICHITA, CITY OF | 2003280030B | 12-APR-2002 | 02-07-546A | 02
07 | KS | WICHITA, CITY OF | 2003210225A | 17-APR-2002 | 02-07-563A | 02
07 | KS | WICHITA, CITY OF | 2003280035B | 19-APR-2002 | 02-07-564A | 02
07 | KS | WICHITA, CITY OF | 2003280035B | 07-JUN-2002 | 02-07-566A | 01
07 | KS | WICHITA, CITY OF | 2003280020B | 01-MAY-2002 | 02-07-612A | 01
07 | KS | WICHITA, CITY OF | 2003280010B | 24-APR-2002 | 02-07-613A | 02
07 | KS | WICHITA, CITY OF | 2003210200A | 08-MAY-2002 | 02-07-623A | 02
07 | KS | WICHITA, CITY OF | 2003210200A | 26-JUN-2002 | 02-07-644A | 02
07 | KS | WICHITA, CITY OF | 2003280035B | 08-MAY-2002 | 02-07-651A | 02
07 | KS | WICHITA, CITY OF | 2003280005B | 15-MAY-2002 | 02-07-654A | 02
07 | KS | WICHITA, CITY OF | 2003280010B | 08-MAY-2002 | 02-07-684A | 17
07 | KS | WICHITA, CITY OF | 2003280035B | 31-MAY-2002 | 02-07-740A | 02
07 | KS | WICHITA, CITY OF | 2003210200A | 31-MAY-2002 | 02-07-745X | 01
07 | KS | WICHITA, CITY OF | 2003280035B | 26-JUN-2002 | 02-07-765A | 01
07 | KS | WICHITA, CITY OF | 2003280020B | 19-JUN-2002 | 02-07-805A | 02
07 | KS | WILSON COUNTY | 2006170006B | 29-MAY-2002 | 02-07-589A | 02
07 | MO | ARNOLD, CITY OF | 2901880002C | 24-APR-2002 | 02-07-602A | 02
07 | MO | AVONDALE,CITY OF | 29008701B | 22-MAR-2002 | 02-07-474A | 02
07 | MO | BLUE SPRINGS, CITY OF | 2904920140B | 10-MAY-2002 | 02-07-469A | 02
07 | MO | BRENTWOOD, CITY OF | 29189C0301H | 19-JUN-2002 | 02-07-781A | 02
07 | MO | BUTLER COUNTY | 2900440055C | 19-JUN-2002 | 02-07-482A | 02
07 | MO | CALLAWAY COUNTY | 2900490275B | 01-MAY-2002 | 02-07-577A | 02
07 | MO | CAMDEN COUNTY | 2907890005B | 20-FEB-2002 | 02-07-301A | 02
07 | MO | CAMDEN COUNTY | 2907890002B | 10-APR-2002 | 02-07-537A | 02
07 | MO | CAPE GIRARDEAU COUNTY | 2907900125B | 03-APR-2002 | 02-07-462A | 02
07 | MO | CAPE GIRARDEAU, CITY OF | 2904580002B | 10-MAY-2002 | 02-07-646A | 02
07 | MO | CASS COUNTY | 2907830100C | 27-MAR-2002 | 02-07-360A | 02
07 | MO | CASS COUNTY | 2907830125B | 13-MAR-2002 | 02-07-391A | 02
07 | MO | CASS COUNTY | 2907830125B | 27-MAR-2002 | 02-07-434A | 02
07 | MO | CASS COUNTY | 2907830100C | 26-APR-2002 | 02-07-470A | 02
07 | MO | CASS COUNTY | 2907830225B | 24-APR-2002 | 02-07-539A | 02
07 | MO | CHESTERFIELD, CITY OF | 29189C0140H | 20-FEB-2002 | 01-07-719A | 01
07 | MO | CHESTERFIELD, CITY OF | 29189C0140H | 22-MAR-2002 | 01-07-785A | 01
07 | MO | CHESTERFIELD, CITY OF | 29189C0145H | 04-JAN-2002 | 02-07-199X | 01
07 | MO | CHESTERFIELD, CITY OF | 29189C0140H | 17-APR-2002 | 02-07-497A | 01
07 | MO | CHESTERFIELD, CITY OF | 29189C0145H | 14-JUN-2002 | 02-07-725A | 01
07 | MO | CHESTERFIELD, CITY OF | 29189C0161H | 19-JUN-2002 | 02-07-819A | 02
07 | MO | CLAY COUNTY | 2900960004B | 08-MAY-2002 | 02-07-628A | 02
07 | MO | CLAY COUNTY | 2900860025A | 24-MAY-2002 | 02-07-657A | 02
07 | MO | CLAY COUNTY | 2900860025A | 15-MAY-2002 | 02-07-687A | 02
07 | MO | CLINTON, CITY OF | 2901550001B | 05-APR-2002 | 02-07-489A | 02
07 | MO | COLE COUNTY | 2901070060B | 25-JAN-2002 | 02-07-274A | 02
07 | MO | COLUMBIA, CITY OF | 2900360006B | 24-APR-2002 | 02-07-562A | 02
07 | MO | COOPER COUNTY | 2907940225B | 01-MAR-2002 | 02-07-304A | 02
07 | MO | CRESTWOOD, CITY OF | 29189C0311H | 16-JAN-2002 | 02-07-238A | 02
07 | MO | CREVE COEUR, CITY OF | 29189C0161H | 26-JUN-2002 | 02-07-741A | 01
07 | MO | DE SOTO, CITY OF | 2952630001C | 07-JUN-2002 | 02-07-072A | 01
07 | MO | DES PERES, CITY OF | 29189C0281J | 08-MAY-2002 | 02-07-305A | 02
07 | MO | EUREKA, CITY OF | 29189C0244H | 26-JUN-2002 | 02-07-750A | 01
07 | MO | EUREKA, CITY OF | 29189C0332H | 26-JUN-2002 | 02-07-750A | 01
07 | MO | FLORISSANT, CITY OF | 29189C0061J | 14-JUN-2002 | 02-07-778A | 02
07 | MO | FRANKLIN COUNTY | 2904930075B | 22-MAY-2002 | 02-07-731A | 02
07 | MO | GRANDVIEW, CITY OF | 2901710005C | 17-APR-2002 | 02-07-569A | 02
07 | MO | GREEN PARK, CITY OF | 29189C0315H | 08-MAR-2002 | 02-07-140A | 01
07 | MO | GREENE COUNTY | 2907820095C | 26-JUN-2002 | 02-07-492A | 02
07 | MO | GREENE COUNTY | 2907820120B | 24-APR-2002 | 02-07-585A | 02
07 | MO | HANNIBAL, CITY OF | 2902230005C | 19-JUN-2002 | 02-07-818A | 02
07 | MO | INDEPENDENCE,CITY OF | 2901720015E | 29-MAR-2002 | 02-07-091A | 02
07 | MO | INDEPENDENCE,CITY OF | 2901720020E | 13-MAR-2002 | 02-07-426A | 02
07 | MO | INDEPENDENCE,CITY OF | 2901720040E | 24-APR-2002 | 02-07-526A | 01
07 | MO | JACKSON COUNTY | 2904920208B | 08-MAR-2002 | 02-07-101A | 02
07 | MO | JASPER COUNTY | 2908070115B | 10-APR-2002 | 02-07-528A | 02
07 | MO | JEFFERSON CITY, CITY OF | 2901080003C | 27-MAR-2002 | 02-07-374A | 02
07 | MO | JEFFERSON COUNTY | 2908080080C | 04-JAN-2002 | 02-07-214A | 02
07 | MO | JEFFERSON COUNTY | 2908080020B | 27-FEB-2002 | 02-07-233A | 02
07 | MO | JEFFERSON COUNTY | 2908080080C | 16-JAN-2002 | 02-07-245A | 02
07 | MO | JEFFERSON COUNTY | 2908080080C | 08-FEB-2002 | 02-07-324A | 02
07 | MO | JEFFERSON COUNTY | 2908080080C | 13-FEB-2002 | 02-07-341A | 02
07 | MO | JEFFERSON COUNTY | 2908080085C | 13-FEB-2002 | 02-07-368A | 01
07 | MO | JEFFERSON COUNTY | 2908080155B | 27-FEB-2002 | 02-07-405A | 02
07 | MO | JEFFERSON COUNTY | 2908080160B | 10-MAY-2002 | 02-07-490A | 02
07 | MO | JEFFERSON COUNTY | 2908080105C | 22-MAY-2002 | 02-07-618A | 02
07 | MO | JEFFERSON COUNTY | 2908080180B | 08-MAY-2002 | 02-07-650A | 02
07 | MO | JEFFERSON COUNTY | 2908080105C | 15-MAY-2002 | 02-07-697A | 02
07 | MO | JEFFERSON COUNTY | 2908080020B | 26-JUN-2002 | 02-07-748A | 01
07 | MO | JOHNSON COUNTY | 2908090200A | 16-JAN-2002 | 02-07-204A | 02
07 | MO | JOHNSON COUNTY | 2908090200A | 13-FEB-2002 | 02-07-259A | 02
07 | MO | JOPLIN, CITY OF | 2901830015C | 06-MAR-2002 | 02-07-284A | 17
07 | MO | KANSAS CITY, CITY OF | 2901730130C | 05-APR-2002 | 02-07-158A | 01
07 | MO | KANSAS CITY, CITY OF | 2901730030B | 15-MAY-2002 | 02-07-638A | 02
07 | MO | LADUE,CITY OF | 29189C0169J | 02-APR-2002 | 01-07-499P | 05
07 | MO | LADUE,CITY OF | 29189C0301H | 08-MAY-2002 | 02-07-653A | 02
07 | MO | LAKE WINNEBAGO, CITY OF | 2908770001A | 29-MAR-2002 | 02-07-425A | 02
07 | MO | LAKE WINNEBAGO, CITY OF | 2908770001A | 05-APR-2002 | 02-07-433A | 02
07 | MO | LEE'S SUMMIT, CITY OF | 2901740007C | 27-FEB-2002 | 02-07-339A | 02
07 | MO | LEXINGTON, CITY OF | 2907070005B | 30-JAN-2002 | 02-07-285A | 02
07 | MO | LIBERTY, CITY OF | 2900960001B | 12-JUN-2002 | 02-07-779A | 02
07 | MO | LIVINGSTON COUNTY | 2908140125B | 01-FEB-2002 | 02-07-145A | 02
07 | MO | MANCHESTER, CITY OF | 29189C0278J | 16-MAY-2002 | 02-07-183A | 01
07 | MO | MANCHESTER, CITY OF | 29189C0259H | 08-MAR-2002 | 02-07-400A | 17
07 | MO | MAPLEWOOD, CITY OF | 29189C0302H | 07-JUN-2002 | 02-07-419A | 02
07 | MO | MARYLAND HEIGHTS, CITY OF | 29189C0158H | 27-FEB-2002 | 02-07-174A | 01
07 | MO | MARYLAND HEIGHTS, CITY OF | 29189C0156H | 06-MAR-2002 | 02-07-422A | 02
07 | MO | MCDONALD COUNTY | 2908170100B | 20-FEB-2002 | 02-07-251A | 02
07 | MO | MCDONALD COUNTY | 2908170050B | 17-APR-2002 | 02-07-390A | 02
07 | MO | MCDONALD COUNTY | 2908170050B | 26-JUN-2002 | 02-07-652A | 02
07 | MO | MILLER COUNTY | 2902260200A | 10-APR-2002 | 02-07-481A | 02
07 | MO | MORGAN COUNTY | 2902440200B | 31-MAY-2002 | 02-07-345A | 02
07 | MO | MORGAN COUNTY | 2902440175B | 29-MAR-2002 | 02-07-496A | 02
07 | MO | NEW HAMPTON, CITY OF | 2905500001B | 01-FEB-2002 | 02-07-265A | 02
07 | MO | NEWTON COUNTY | 2908200100B | 23-JAN-2002 | 02-07-253A | 02
07 | MO | NEWTON COUNTY | 2908200175B | 05-JUN-2002 | 02-07-414A | 02
07 | MO | NEWTON COUNTY | 2908200115B | 12-APR-2002 | 02-07-444A | 01
07 | MO | O'FALLON, CITY OF | 29183C0430E | 04-JUN-2002 | 01-07-806A | 01
07 | MO | O'FALLON, CITY OF | 29183C0239E | 27-FEB-2002 | 02-07-203A | 01
07 | MO | O'FALLON, CITY OF | 29183C0235E | 30-JAN-2002 | 02-07-266A | 01
07 | MO | O'FALLON, CITY OF | 29183C0430E | 20-FEB-2002 | 02-07-306A | 01
07 | MO | O'FALLON, CITY OF | 29183C0239E | 13-FEB-2002 | 02-07-336A | 02
07 | MO | O'FALLON, CITY OF | 29183C0430E | 22-MAR-2002 | 02-07-337A | 01
07 | MO | O'FALLON, CITY OF | 29183C0430E | 20-FEB-2002 | 02-07-338A | 02
07 | MO | O'FALLON, CITY OF | 29183C0239E | 13-MAR-2002 | 02-07-366A | 01
07 | MO | OSAGE BEACH, CITY OF | 29067102A | 04-JAN-2002 | 02-07-216A | 02
07 | MO | OSAGE BEACH, CITY OF | 290671 | 14-JUN-2002 | 02-07-704A | 02
07 | MO | OSAGE COUNTY | 2902680150B | 20-FEB-2002 | 02-07-235A | 02
07 | MO | PACIFIC, CITY OF | 2901340001C | 09-JAN-2002 | 02-07-223A | 02
07 | MO | PACIFIC, CITY OF | 2901340001C | 19-JUN-2002 | 02-07-809A | 02
07 | MO | PACIFIC, CITY OF | 2901340001C | 26-JUN-2002 | 02-07-831A | 02
07 | MO | PARKVILLE, CITY OF | 2904750155A | 28-FEB-2002 | 01-07-655P | 06
07 | MO | PLATTE COUNTY | 2904750165A | 05-JUN-2002 | 02-07-694A | 02
07 | MO | REPUBLIC, CITY OF | 2901480001B | 17-MAY-2002 | 02-07-531A | 01
07 | MO | ROCK HILL, CITY OF | 29189C0301H | 09-JAN-2002 | 02-07-229A | 02
07 | MO | ST. CHARLES COUNTY | 29183C0243E | 11-JAN-2002 | 00-07-308P | 05
07 | MO | ST. CHARLES COUNTY | 29183C0244E | 11-JAN-2002 | 00-07-308P | 05
07 | MO | ST. CHARLES COUNTY | 29183C0435E | 11-JAN-2002 | 00-07-308P | 05
07 | MO | ST. CHARLES COUNTY | 29183C0451E | 08-MAR-2002 | 02-07-144A | 01
07 | MO | ST. CHARLES COUNTY | 29183C0435E | 16-JAN-2002 | 02-07-248A | 17
07 | MO | ST. CHARLES COUNTY | 29183C0040E | 10-APR-2002 | 02-07-533A | 01
07 | MO | ST. CHARLES COUNTY | 29183C0435E | 31-MAY-2002 | 02-07-713A | 02
07 | MO | ST. CHARLES, CITY OF | 29183C0288E | 30-JAN-2002 | 02-07-219A | 02
07 | MO | ST. CHARLES, CITY OF | 29183C0267E | 22-FEB-2002 | 02-07-268A | 01
07 | MO | ST. CHARLES, CITY OF | 29183C0286E | 06-FEB-2002 | 02-07-321A | 02
07 | MO | ST. CHARLES, CITY OF | 29183C0286E | 19-APR-2002 | 02-07-601A | 02
07 | MO | ST. CHARLES, CITY OF | 29183C0267E | 17-MAY-2002 | 02-07-643A | 17
07 | MO | ST. FRANCOIS COUNTY | 2908320075B | 04-JAN-2002 | 01-07-557A | 02
07 | MO | ST. LOUIS COUNTY | 29189C0279J | 18-JAN-2002 | 02-07-135A | 01
07 | MO | ST. LOUIS COUNTY | 29189C0278J | 16-JAN-2002 | 02-07-182X | 01
07 | MO | ST. LOUIS COUNTY | 29189C0278J | 20-FEB-2002 | 02-07-373A | 02
07 | MO | ST. LOUIS COUNTY | 29189C0279J | 20-FEB-2002 | 02-07-373A | 02
07 | MO | ST. LOUIS COUNTY | 29189C0054J | 08-MAR-2002 | 02-07-423A | 02
07 | MO | ST. LOUIS COUNTY | 29189C0058H | 08-MAR-2002 | 02-07-423A | 02
07 | MO | ST. LOUIS COUNTY | 29189C0405H | 10-MAY-2002 | 02-07-516A | 02
07 | MO | ST. LOUIS COUNTY | 29189C0315H | 19-JUN-2002 | 02-07-822A | 02
07 | MO | ST. PETERS, CITY OF | 29183C0242E | 01-FEB-2002 | 02-07-074A | 01
07 | MO | ST. PETERS, CITY OF | 29183C0244E | 30-JAN-2002 | 02-07-088A | 02
07 | MO | ST. PETERS, CITY OF | 29183C0261E | 27-MAR-2002 | 02-07-363A | 02
07 | MO | ST. PETERS, CITY OF | 29183C0263E | 10-APR-2002 | 02-07-445A | 17
07 | MO | ST. PETERS, CITY OF | 29183C0244E | 22-MAR-2002 | 02-07-477A | 02
07 | MO | ST. PETERS, CITY OF | 29183C0242E | 26-JUN-2002 | 02-07-735A | 01
07 | MO | STE. GENEVIEVE COUNTY | 2908330075B | 08-FEB-2002 | 01-07-425P | 05
07 | MO | STODDARD COUNTY | 2908450200B | 12-JUN-2002 | 02-07-701A | 02
07 | MO | SUNSET HILLS, CITY OF | 29189C0293H | 26-APR-2002 | 02-07-413A | 01
07 | MO | UNION, CITY OF | 2901370005B | 18-JAN-2002 | 02-07-107A | 01
07 | MO | UNIVERSITY CITY, CITY OF | 29189C0187H | 26-APR-2002 | 02-07-607A | 01
07 | MO | WARDSVILLE, CITY OF | 2901070175B | 15-MAY-2002 | 02-07-688A | 02
07 | MO | WEST PLAINS, CITY OF | 2901660004D | 06-MAR-2002 | 02-07-351A | 01
07 | MO | WILDWOOD, CITY OF | 29189C0138H | 17-MAY-2002 | 02-07-639A | 01
07 | NE | BEATRICE, CITY OF | 3100910015B | 08-MAY-2002 | 02-07-658A | 02
07 | NE | BELLEVUE, CITY OF | 31153C0065F | 06-FEB-2002 | 02-07-318A | 02
07 | NE | BELLEVUE, CITY OF | 31153C0065F | 10-MAY-2002 | 02-07-677A | 02
07 | NE | BELLEVUE, CITY OF | 31153C0065F | 10-MAY-2002 | 02-07-686A | 02
07 | NE | BURT COUNTY | 3104200005A | 11-JAN-2002 | 02-07-193A | 02
07 | NE | BURT COUNTY | 3104200005A | 06-FEB-2002 | 02-07-212A | 02
07 | NE | BURT COUNTY | 3104200005A | 23-JAN-2002 | 02-07-215A | 02
07 | NE | BUTLER COUNTY | 3104670255D | 12-JUN-2002 | 02-07-504A | 02
07 | NE | CASS COUNTY | 3104070125B | 14-JUN-2002 | 02-07-763A | 02
07 | NE | CEDAR RAPIDS, VILLAGE OF | 31011C0417C | 01-FEB-2002 | 02-07-252A | 02
07 | NE | CENTRAL CITY, CITY OF | 3101480005C | 15-MAR-2002 | 02-07-447A | 02
07 | NE | COLUMBUS, CITY OF | 3152720015D | 03-APR-2002 | 02-07-282A | 02
07 | NE | COLUMBUS, CITY OF | 3152720015D | 08-FEB-2002 | 02-07-332A | 02
07 | NE | COLUMBUS, CITY OF | 3152720015D | 12-APR-2002 | 02-07-529A | 02
07 | NE | CRETE, CITY OF | 3101860001C | 26-APR-2002 | 02-07-195A | 02
07 | NE | CROFTON, VILLAGE OF | 3103610005B | 24-APR-2002 | 02-07-604A | 02
07 | NE | CUSTER COUNTY | 3104280018B | 13-MAR-2002 | 02-07-404A | 02
07 | NE | DODGE COUNTY | 3100680125B | 27-FEB-2002 | 02-07-344A | 17
07 | NE | DOUGLAS COUNTY | 3100730125B | 01-MAY-2002 | 02-07-596A | 01
07 | NE | ELKHORN, CITY OF | 3100750005B | 24-APR-2002 | 02-07-586A | 02
07 | NE | GRAND ISLAND, CITY OF | 3101030015B | 30-JAN-2002 | 02-07-281A | 02
07 | NE | GRAND ISLAND, CITY OF | 3101030005B | 01-FEB-2002 | 02-07-308A | 02
07 | NE | GRAND ISLAND, CITY OF | 3101030020B | 06-FEB-2002 | 02-07-309A | 02
07 | NE | GRAND ISLAND, CITY OF | 3101030015B | 01-FEB-2002 | 02-07-310A | 02
07 | NE | GRAND ISLAND, CITY OF | 3101030005B | 06-FEB-2002 | 02-07-326A | 02
07 | NE | GRAND ISLAND, CITY OF | 3101030015B | 08-FEB-2002 | 02-07-327A | 02
07 | NE | GRAND ISLAND, CITY OF | 3101030015B | 15-FEB-2002 | 02-07-328A | 02
07 | NE | GRAND ISLAND, CITY OF | 3101030005B | 08-FEB-2002 | 02-07-329A | 02
07 | NE | GRAND ISLAND, CITY OF | 3101030015B | 27-FEB-2002 | 02-07-398A | 02
07 | NE | GRAND ISLAND, CITY OF | 3101030020B | 27-FEB-2002 | 02-07-398A | 02
07 | NE | GRAND ISLAND, CITY OF | 3101030010B | 08-MAR-2002 | 02-07-416A | 02
07 | NE | GRAND ISLAND, CITY OF | 3101000100C | 05-MAR-2002 | 02-07-429A | 02
07 | NE | GRAND ISLAND, CITY OF | 3101030020B | 06-MAR-2002 | 02-07-430A | 02
07 | NE | GRAND ISLAND, CITY OF | 3101030005B | 20-MAR-2002 | 02-07-452A | 02
07 | NE | GRAND ISLAND, CITY OF | 3101030010B | 20-MAR-2002 | 02-07-453A | 02
07 | NE | GRAND ISLAND, CITY OF | 3101030005B | 03-APR-2002 | 02-07-454A | 02
07 | NE | GRAND ISLAND, CITY OF | 3101030005B | 27-MAR-2002 | 02-07-455A | 02
07 | NE | GRAND ISLAND, CITY OF | 3101030005B | 27-MAR-2002 | 02-07-456A | 02
07 | NE | GRAND ISLAND, CITY OF | 3101030005B | 27-MAR-2002 | 02-07-457A | 02
07 | NE | GRAND ISLAND, CITY OF | 3101030005B | 29-MAR-2002 | 02-07-458A | 02
07 | NE | GRAND ISLAND, CITY OF | 3101030015B | 05-APR-2002 | 02-07-519A | 02
07 | NE | GRAND ISLAND, CITY OF | 3101030015B | 10-APR-2002 | 02-07-520A | 02
07 | NE | GRAND ISLAND, CITY OF | 3101030020B | 12-APR-2002 | 02-07-548A | 02
07 | NE | GRAND ISLAND, CITY OF | 3101030005B | 19-APR-2002 | 02-07-600A | 02
07 | NE | GRAND ISLAND, CITY OF | 3101030015B | 03-MAY-2002 | 02-07-621A | 02
07 | NE | GRAND ISLAND, CITY OF | 3101030020B | 03-MAY-2002 | 02-07-641A | 02
07 | NE | GRAND ISLAND, CITY OF | 3101030020B | 15-MAY-2002 | 02-07-656A | 02
07 | NE | GRAND ISLAND, CITY OF | 3101030020B | 10-MAY-2002 | 02-07-685A | 02
07 | NE | GRAND ISLAND, CITY OF | 3101030005B | 15-MAY-2002 | 02-07-700A | 02
07 | NE | GRAND ISLAND, CITY OF | 3101030015B | 31-MAY-2002 | 02-07-746A | 02
07 | NE | GRAND ISLAND, CITY OF | 3104570225A | 05-JUN-2002 | 02-07-751A | 02
07 | NE | GRAND ISLAND, CITY OF | 3101030005B | 05-JUN-2002 | 02-07-758A | 02
07 | NE | GRAND ISLAND, CITY OF | 3101030010B | 12-JUN-2002 | 02-07-777A | 02
07 | NE | GRAND ISLAND, CITY OF | 3101030020B | 14-JUN-2002 | 02-07-784A | 02
07 | NE | GRAND ISLAND, CITY OF | 3101030015B | 19-JUN-2002 | 02-07-823A | 02
07 | NE | GRAND ISLAND, CITY OF | 3101030020B | 21-JUN-2002 | 02-07-838A | 02
07 | NE | GRAND ISLAND, CITY OF | 3101030020B | 21-JUN-2002 | 02-07-839A | 02
07 | NE | GRAND ISLAND, CITY OF | 3101030020B | 21-JUN-2002 | 02-07-840A | 02
07 | NE | GRAND ISLAND, CITY OF | 3101030010B | 28-JUN-2002 | 02-07-854A | 02
07 | NE | GRAND ISLAND, CITY OF | 3101030010B | 28-JUN-2002 | 02-07-854A | 02
07 | NE | HALL COUNTY | 3101000075C | 13-FEB-2002 | 02-07-367A | 02
07 | NE | HALL COUNTY | 3101000100C | 05-APR-2002 | 02-07-523A | 02
07 | NE | HALL COUNTY | 3101000100C | 15-MAY-2002 | 02-07-699A | 02
07 | NE | HAMILTON COUNTY | 3104410025A | 18-JAN-2002 | 02-07-264A | 02
07 | NE | HAMILTON COUNTY | 3104410025A | 03-APR-2002 | 02-07-506A | 02
07 | NE | KEARNEY, CITY OF | 3100160020C | 18-JAN-2002 | 02-07-127A | 01
07 | NE | LINCOLN, CITY OF | 31109C0305E | 04-JAN-2002 | 02-07-218A | 02
07 | NE | LINCOLN, CITY OF | 31109C0455E | 16-JAN-2002 | 02-07-241A | 02
07 | NE | LINCOLN, CITY OF | 31109C0310E | 08-FEB-2002 | 02-07-254A | 02
07 | NE | LINCOLN, CITY OF | 31109C0316E | 13-FEB-2002 | 02-07-255A | 02
07 | NE | LINCOLN, CITY OF | 31109C0310E | 22-FEB-2002 | 02-07-269A | 01
07 | NE | LINCOLN, CITY OF | 31109C0305E | 08-FEB-2002 | 02-07-335A | 02
07 | NE | LINCOLN, CITY OF | 31109C0318E | 13-FEB-2002 | 02-07-365A | 02
07 | NE | LINCOLN, CITY OF | 31109C0316E | 08-MAR-2002 | 02-07-370A | 02
07 | NE | LINCOLN, CITY OF | 31109C0316E | 01-MAR-2002 | 02-07-382A | 02
07 | NE | LINCOLN, CITY OF | 31109C0305E | 13-MAR-2002 | 02-07-432A | 02
07 | NE | LINCOLN, CITY OF | 31109C0310E | 20-MAR-2002 | 02-07-473A | 01
07 | NE | LINCOLN, CITY OF | 31109C0310E | 27-MAR-2002 | 02-07-487A | 02
07 | NE | LINCOLN, CITY OF | 31109C0315E | 12-APR-2002 | 02-07-525A | 01
07 | NE | LINCOLN, CITY OF | 31109C0338E | 12-APR-2002 | 02-07-540A | 01
07 | NE | LINCOLN, CITY OF | 31109C0310E | 24-APR-2002 | 02-07-616A | 02
07 | NE | LINCOLN, CITY OF | 31109C0310E | 24-MAY-2002 | 02-07-676A | 01
07 | NE | LINCOLN, CITY OF | 31109C0305E | 29-MAY-2002 | 02-07-730A | 02
07 | NE | LINCOLN, CITY OF | 31109C0305E | 29-MAY-2002 | 02-07-738A | 02
07 | NE | LINCOLN, CITY OF | 31109C0310E | 26-JUN-2002 | 02-07-815A | 02
07 | NE | MERRICK COUNTY | 3104570175B | 09-JAN-2002 | 02-07-213A | 02
07 | NE | MERRICK COUNTY | 3104570200B | 30-JAN-2002 | 02-07-291A | 02
07 | NE | MERRICK COUNTY | 3104570200B | 20-MAR-2002 | 02-07-292A | 02
07 | NE | MERRICK COUNTY | 3104570200B | 08-MAR-2002 | 02-07-349A | 02
07 | NE | MERRICK COUNTY | 3104570125B | 08-FEB-2002 | 02-07-350A | 02
07 | NE | MERRICK COUNTY | 3104570150A | 08-FEB-2002 | 02-07-350A | 02
07 | NE | MERRICK COUNTY | 3104570225A | 20-FEB-2002 | 02-07-375A | 02
07 | NE | MERRICK COUNTY | 3104570075A | 20-FEB-2002 | 02-07-387A | 02
07 | NE | MERRICK COUNTY | 3104570175B | 03-APR-2002 | 02-07-498A | 02
07 | NE | MERRICK COUNTY | 3104570175B | 10-APR-2002 | 02-07-507A | 02
07 | NE | MERRICK COUNTY | 3104570200B | 05-APR-2002 | 02-07-534A | 02
07 | NE | MERRICK COUNTY | 3104570125B | 24-APR-2002 | 02-07-597A | 02
07 | NE | MERRICK COUNTY | 3104570125B | 19-APR-2002 | 02-07-598A | 02
07 | NE | NORFOLK, CITY OF | 3101470020C | 06-MAR-2002 | 02-07-381A | 02
07 | NE | OMAHA, CITY OF | 3152740025F | 01-MAR-2002 | 02-07-263A | 17
07 | NE | OMAHA, CITY OF | 3152740045G | 22-FEB-2002 | 02-07-386A | 02
07 | NE | OMAHA, CITY OF | 3152740045G | 12-APR-2002 | 02-07-512A | 02
07 | NE | OMAHA, CITY OF | 3152740045G | 10-MAY-2002 | 02-07-624A | 01
07 | NE | OMAHA, CITY OF | 3152740045G | 08-MAY-2002 | 02-07-642A | 02
07 | NE | OMAHA, CITY OF | 3152740045G | 08-MAY-2002 | 02-07-648A | 17
07 | NE | PLATTE COUNTY | 3104670115D | 20-MAR-2002 | 02-07-431A | 02
07 | NE | RALSTON, CITY OF | 3100770001B | 13-MAR-2002 | 02-07-256A | 01
07 | NE | SALINE COUNTY | 3104720050A | 11-JAN-2002 | 02-07-227A | 02
07 | NE | SARPY COUNTY | 31153C0135F | 30-JAN-2002 | 02-07-206A | 02
07 | NE | SARPY COUNTY | 31153C0025F | 20-FEB-2002 | 02-07-320A | 02
07 | NE | SARPY COUNTY | 31153C0135F | 06-MAR-2002 | 02-07-343A | 02
07 | NE | SARPY COUNTY | 31153C0120F | 27-MAR-2002 | 02-07-478A | 17
07 | NE | SARPY COUNTY | 31153C0100F | 26-APR-2002 | 02-07-574A | 17
07 | NE | SARPY COUNTY | 31153C0135F | 08-MAY-2002 | 02-07-626A | 02
07 | NE | SARPY COUNTY | 31153C0120F | 21-JUN-2002 | 02-07-821A | 02
07 | NE | SAUNDERS COUNTY | 3101950255B | 16-JAN-2002 | 02-07-102A | 02
07 | NE | SCHUYLER, CITY OF | 3100460010B | 13-FEB-2002 | 02-07-362A | 02
07 | NE | SCHUYLER, CITY OF | 3100460010B | 20-FEB-2002 | 02-07-378A | 02
07 | NE | SCHUYLER, CITY OF | 3100460005B | 26-APR-2002 | 02-07-606A | 02
07 | NE | SCOTTS BLUFF COUNTY | 3104730050A | 27-MAR-2002 | 02-07-480A | 02
07 | NE | WASHINGTON COUNTY | 3104830125B | 27-MAR-2002 | 02-07-299A | 02
07 | NE | YORK COUNTY | 3104860003B | 30-JAN-2002 | 02-07-271A | 02
08 | CO | ADAMS COUNTY | 08001C0390G | 23-JAN-2002 | 00-08-342P | 05
08 | CO | ADAMS COUNTY | 08001C0655G | 23-JAN-2002 | 00-08-342P | 05
08 | CO | ADAMS COUNTY | 08001C0010G | 09-APR-2002 | 01-08-416P | 05
08 | CO | ADAMS COUNTY | 08001C0320G | 22-MAY-2002 | 02-08-253A | 01
08 | CO | ADAMS COUNTY | 08001C0320G | 07-JUN-2002 | 02-08-320A | 01
08 | CO | ARAPAHOE COUNTY | 08005C0460J | 06-MAR-2002 | 02-08-154A | 02
08 | CO | ARAPAHOE COUNTY | 08005C0145J | 20-MAR-2002 | 02-08-172A | 02
08 | CO | ARAPAHOE COUNTY | 08005C0280J | 25-MAR-2002 | 02-08-197A | 01
08 | CO | ARVADA, CITY OF | 0850720002B | 11-JAN-2002 | 02-08-086A | 02
08 | CO | ARVADA, CITY OF | 0850720002B | 11-JAN-2002 | 02-08-100A | 02
08 | CO | AURORA, CITY OF | 0800020205E | 23-JAN-2002 | 00-08-342P | 05
08 | CO | AURORA, CITY OF | 0800020195E | 29-MAY-2002 | 02-08-302A | 02
08 | CO | BLACK HAWK, CITY OF | 0800760001B | 20-JUN-2002 | 01-08-251P | 05
08 | CO | BLACK HAWK, CITY OF | 0800760001B | 06-MAR-2002 | 02-08-122P | 06
08 | CO | BOULDER COUNTY | 08013C0270F | 25-MAR-2002 | 02-08-082P | 05
08 | CO | BOULDER COUNTY | 08013C0395F | 12-MAR-2002 | 02-08-131A | 02
08 | CO | BOULDER, CITY OF | 08013C0535F | 16-JAN-2002 | 02-08-104A | 02
08 | CO | BOULDER, CITY OF | 08013C0395F | 11-JAN-2002 | 02-08-107A | 01
08 | CO | BROOMFIELD, CITY OF | 0850730015D | 05-FEB-2002 | 01-08-339P | 05
08 | CO | BROOMFIELD, CITY OF | 0850730010D | 09-APR-2002 | 01-08-416P | 05
08 | CO | CHAFFEE COUNTY | 0802690305B | 10-APR-2002 | 02-08-231A | 02
08 | CO | CHERRY HILLS VILLAGE, CITY OF | 08005C0165J | 23-JAN-2002 | 01-08-262P | 06
08 | CO | CHERRY HILLS VILLAGE, CITY OF | 08005C0165J | 12-APR-2002 | 02-08-052P | 05
08 | CO | CLEAR CREEK COUNTY | 0800340075A | 22-FEB-2002 | 02-08-084A | 02
08 | CO | COLORADO SPRINGS, CITY OF | 08041C0514F | 17-APR-2002 | 02-08-146A | 01
08 | CO | COLORADO SPRINGS, CITY OF | 08041C0726F | 05-APR-2002 | 02-08-147A | 02
08 | CO | COLORADO SPRINGS, CITY OF | 08041C0726F | 26-APR-2002 | 02-08-174A | 01
08 | CO | COLORADO SPRINGS, CITY OF | 08041C0512F | 26-JUN-2002 | 02-08-354A | 02
08 | CO | DENVER, CITY AND COUNTY OF | 0800460013C | 08-MAY-2002 | 02-08-191A | 02
08 | CO | DOUGLAS COUNTY | 0800490050C | 26-APR-2002 | 02-08-188A | 02
08 | CO | DOUGLAS COUNTY | 0800490301C | 05-APR-2002 | 02-08-209A | 02
08 | CO | EL PASO COUNTY | 08041C0575F | 14-MAY-2002 | 01-08-226P | 05
08 | CO | ERIE, TOWN OF | 08013C0435F | 22-FEB-2002 | 02-08-137A | 02
08 | CO | FLORENCE, CITY OF | 0800670365B | 11-JAN-2002 | 02-08-096A | 02
08 | CO | FLORENCE, CITY OF | 0800700342D | 21-JUN-2002 | 02-08-103A | 02
08 | CO | FLORENCE, CITY OF | 0800700342D | 25-MAR-2002 | 02-08-200A | 02
08 | CO | FLORENCE, CITY OF | 0800700342D | 26-JUN-2002 | 02-08-308A | 02
08 | CO | FLORENCE, CITY OF | 0800700361D | 26-JUN-2002 | 02-08-308A | 02
08 | CO | FORT COLLINS, CITY OF | 0801010192C | 15-FEB-2002 | 02-08-021A | 01
08 | CO | FORT COLLINS, CITY OF | 0801020012C | 06-MAR-2002 | 02-08-045P | 05
08 | CO | FORT COLLINS, CITY OF | 0801010179E | 03-APR-2002 | 02-08-189A | 01
08 | CO | FORT COLLINS, CITY OF | 0801020004C | 03-APR-2002 | 02-08-189A | 01
08 | CO | FORT COLLINS, CITY OF | 0801020004C | 07-JUN-2002 | 02-08-292A | 02
08 | CO | GEORGETOWN, TOWN OF | 0800350001C | 12-JUN-2002 | 02-08-280A | 02
08 | CO | GUNNISON COUNTY | 0800780325B | 18-JAN-2002 | 02-08-054A | 02
08 | CO | GUNNISON COUNTY | 0800780775B | 22-FEB-2002 | 02-08-056A | 02
08 | CO | GUNNISON COUNTY | 0800780775B | 20-MAR-2002 | 02-08-170A | 02
08 | CO | GUNNISON COUNTY | 0800780615B | 05-APR-2002 | 02-08-215A | 02
08 | CO | GUNNISON COUNTY | 0800780325B | 10-APR-2002 | 02-08-227A | 02
08 | CO | GYPSUM, TOWN OF | 0802950001C | 20-MAR-2002 | 02-08-168A | 02
08 | CO | JEFFERSON COUNTY | 0800870390B | 22-FEB-2002 | 02-08-132A | 01
08 | CO | LARIMER COUNTY | 0801010180E | 10-APR-2002 | 01-08-404P | 05
08 | CO | LARIMER COUNTY | 0801010179E | 20-MAR-2002 | 02-08-181A | 02
08 | CO | LARIMER COUNTY | 0801010231B | 07-JUN-2002 | 02-08-288A | 02
08 | CO | LITTLETON, CITY OF | 0800170005D | 12-APR-2002 | 01-08-412P | 06
08 | CO | LONGMONT, CITY OF | 08013C0270F | 25-MAR-2002 | 02-08-082P | 05
08 | CO | LONGMONT, CITY OF | 08013C0288F | 29-MAY-2002 | 02-08-301A | 02
08 | CO | LYONS, TOWN OF | 08013C0232F | 27-FEB-2002 | 02-08-064A | 17
08 | CO | LYONS, TOWN OF | 08013C0232F | 29-MAY-2002 | 02-08-251A | 17
08 | CO | MANITOU SPRINGS, CITY OF | 08041C0707F | 19-FEB-2002 | 02-08-098A | 02
08 | CO | PROWERS COUNTY | 0802720005B | 27-FEB-2002 | 02-08-078A | 02
08 | CO | ROUTT COUNTY | 0801560415A | 05-APR-2002 | 02-08-208A | 02
08 | CO | SUMMIT COUNTY | 0802900192D | 31-JAN-2002 | 02-08-117A | 02
08 | CO | WELD COUNTY | 0802660850C | 26-JUN-2002 | 02-08-157A | 02
08 | CO | WELLINGTON, TOWN OF | 0801040001D | 12-APR-2002 | 02-08-242A | 02
08 | CO | WELLINGTON, TOWN OF | 0801040001D | 26-JUN-2002 | 02-08-351A | 02
08 | CO | WESTMINSTER, CITY OF | 0800080012C | 14-FEB-2002 | 01-08-179P | 06
08 | MT | CARBON COUNTY | 3001390175B | 17-APR-2002 | 02-08-145A | 02
08 | MT | CASCADE COUNTY | 3000080240C | 19-FEB-2002 | 99-08-455V | 19
08 | MT | CASCADE COUNTY | 3000080426C | 19-FEB-2002 | 99-08-455V | 19
08 | MT | CASCADE COUNTY | 3000080437C | 19-FEB-2002 | 99-08-455V | 19
08 | MT | ENNIS, TOWN OF | 3000440001D | 15-MAY-2002 | 02-08-243A | 02
08 | MT | FLATHEAD COUNTY | 3000231800C | 05-JUN-2002 | 02-08-219A | 02
08 | MT | FLATHEAD COUNTY | 3000231810D | 28-JUN-2002 | 02-08-349A | 01
08 | MT | GALLATIN COUNTY | 3000280016C | 07-JUN-2002 | 02-08-151A | 17
08 | MT | GALLATIN COUNTY | 3000270190B | 10-APR-2002 | 02-08-183A | 02
08 | MT | GREAT FALLS, CITY OF | 3000100005D | 19-FEB-2002 | 99-08-259V | 19
08 | MT | HELENA, CITY OF | 3000400004B | 27-FEB-2002 | 02-08-169A | 02
08 | MT | LAKE COUNTY | 30047C0015B | 19-FEB-2002 | 02-08-133A | 02
08 | MT | LEWIS AND CLARK COUNTY | 3000381544C | 11-JAN-2002 | 01-08-340A | 02
08 | MT | LEWIS AND CLARK COUNTY | 3000381527C | 18-JUN-2002 | 02-08-328V | 19
08 | MT | LEWIS AND CLARK COUNTY | 3000381534D | 18-JUN-2002 | 02-08-328V | 19
08 | MT | LEWIS AND CLARK COUNTY | 3000381544D | 18-JUN-2002 | 02-08-328V | 19
08 | MT | LINCOLN COUNTY | 3001570755B | 01-FEB-2002 | 02-08-042A | 02
08 | MT | LINCOLN COUNTY | 3001570620B | 25-MAR-2002 | 02-08-129A | 02
08 | MT | LINCOLN COUNTY | 3001570580B | 13-MAR-2002 | 02-08-159A | 02
08 | MT | LINCOLN COUNTY | 3001570900B | 12-JUN-2002 | 02-08-223A | 02
08 | MT | MILES CITY, CITY OF | 3000140005C | 23-JAN-2002 | 01-08-406A | 01
08 | MT | MILES CITY, CITY OF | 3000140005C | 29-MAY-2002 | 02-08-306A | 02
08 | MT | MISSOULA COUNTY | 30063C1460D | 10-APR-2002 | 02-08-236A | 02
08 | MT | MISSOULA COUNTY | 30063C0890D | 24-APR-2002 | 02-08-247A | 02
08 | MT | MISSOULA COUNTY | 30063C0875D | 22-MAY-2002 | 02-08-287A | 02
08 | MT | MISSOULA COUNTY | 30063C1455D | 28-JUN-2002 | 02-08-350A | 02
08 | MT | MISSOULA, CITY OF | 30063C1460D | 20-MAR-2002 | 02-08-161A | 02
08 | MT | PARK COUNTY | 3001600024B | 15-MAY-2002 | 02-08-279A | 02
08 | MT | RAVALLI COUNTY | 30081C0110C | 05-JUN-2002 | 02-08-226X | 02
08 | MT | ROUNDUP, CITY OF | 3000500001B | 26-APR-2002 | 02-08-005A | 02
08 | MT | SUPERIOR, TOWN OF | 3001280005A | 16-JAN-2002 | 02-08-034A | 02
08 | MT | SWEET GRASS COUNTY | 3001670625A | 10-APR-2002 | 02-08-125A | 02
08 | MT | WHITEFISH, CITY OF | 3000231090C | 25-MAR-2002 | 01-08-400A | 02
08 | MT | YELLOWSTONE COUNTY | 3001421020A | 25-JAN-2002 | 02-08-113A | 02
08 | MT | YELLOWSTONE COUNTY | 3001421020A | 05-JUN-2002 | 02-08-291A | 01
08 | ND | BISMARCK, CITY OF | 3801490025A | 03-APR-2002 | 02-08-173A | 01
08 | ND | BISMARCK, CITY OF | 3801490015A | 01-MAY-2002 | 02-08-257A | 02
08 | ND | BISMARCK, CITY OF | 3801490015A | 29-MAY-2002 | 02-08-261A | 02
08 | ND | BURLEIGH COUNTY | 3800170780A | 31-MAY-2002 | 02-08-270A | 01
08 | ND | DURBIN, TOWNSHIP OF | 3803250025B | 05-JAN-2002 | 98-08-085V | 19
08 | ND | FARGO, CITY OF | 3853640035E | 22-MAY-2002 | 02-08-245A | 01
08 | ND | GRAFTON, CITY OF | 3801370003C | 09-JAN-2002 | 02-08-025A | 01
08 | ND | GRAND FORKS COUNTY | 3800330016B | 06-FEB-2002 | 02-08-041A | 01
08 | ND | GRAND FORKS COUNTY | 3800330012B | 20-JUN-2002 | 02-08-339A | 02
08 | ND | GRAND FORKS, CITY OF | 3853650015D | 05-APR-2002 | 02-08-194A | 02
08 | ND | HAZEN, CITY OF | 3800670005D | 16-JAN-2002 | 02-08-043A | 02
08 | ND | HAZEN, CITY OF | 3800670005D | 26-JUN-2002 | 02-08-344A | 02
08 | ND | LANGDON, CITY OF | 380025—01B | 05-JUN-2002 | 02-08-177A | 02
08 | ND | LANGDON, CITY OF | 380025—02B | 05-JUN-2002 | 02-08-177A | 02
08 | ND | MANDAN, CITY OF | 3800720020B | 19-APR-2002 | 02-08-217A | 01
08 | ND | MORTON COUNTY | 3801480230A | 22-MAY-2002 | 02-08-167A | 01
08 | ND | PEMBINA COUNTY | 3800790275A | 27-MAR-2002 | 02-08-206A | 02
08 | ND | PLEASANT, TOWNSHIP OF | 3802630025A | 27-MAR-2002 | 02-08-201A | 02
08 | ND | RANSOM COUNTY | 3800890125B | 12-APR-2002 | 02-08-240A | 02
08 | ND | RANSOM COUNTY | 3800890125B | 05-JUN-2002 | 02-08-315A | 02
08 | ND | RAYMOND, TOWNSHIP OF | 3802610025C | 05-JAN-2002 | 98-08-086V | 19
08 | ND | VALLEY CITY, CITY OF | 3800020002E | 27-FEB-2002 | 02-08-150A | 02
08 | ND | VALLEY CITY, CITY OF | 3800020004E | 20-JUN-2002 | 02-08-329A | 02
08 | SD | ABERDEEN, CITY OF | 46013C0265C | 13-MAR-2002 | 02-08-144A | 02
08 | SD | ABERDEEN, CITY OF | 46013C0265C | 25-MAR-2002 | 02-08-230X | 01
08 | SD | BROOKINGS COUNTY | 4602530008B | 20-JUN-2002 | 02-08-336A | 02
08 | SD | BROOKINGS COUNTY | 4602530005B | 26-JUN-2002 | 02-08-337A | 02
08 | SD | BROWN COUNTY | 46013C0310C | 27-FEB-2002 | 02-08-176X | 02
08 | SD | CUSTER COUNTY | 4600180085B | 03-MAY-2002 | 02-08-272A | 02
08 | SD | GROTON, CITY OF | 46013C0352C | 25-MAR-2002 | 02-08-039A | 02
08 | SD | LAWRENCE COUNTY | 4600940125B | 07-JUN-2002 | 02-08-214P | 06
08 | SD | LAWRENCE COUNTY | 4600940200B | 20-JUN-2002 | 02-08-220A | 02
08 | SD | LINCOLN COUNTY | 4602770001B | 26-JUN-2002 | 02-08-187A | 02
08 | SD | MADISON, CITY OF | 4600440001B | 05-APR-2002 | 02-08-205A | 02
08 | SD | MADISON, CITY OF | 4600440002B | 08-MAY-2002 | 02-08-239A | 02
08 | SD | MINNEHAHA COUNTY | 4600570065B | 08-MAY-2002 | 02-08-266A | 02
08 | SD | PENNINGTON COUNTY | 4600641113B | 26-APR-2002 | 02-08-175A | 02
08 | SD | RAPID CITY, CITY OF | 4654200016F | 15-FEB-2002 | 01-08-387A | 01
08 | SD | SIOUX FALLS, CITY OF | 4600600015C | 15-MAY-2002 | 02-08-281A | 02
08 | SD | SPEARFISH, CITY OF | 4600460002D | 12-MAR-2002 | 02-08-062A | 02
08 | SD | SPINK COUNTY | 4600760125B | 19-FEB-2002 | 02-08-148A | 02
08 | SD | WEBSTER, CITY OF | 46037C0450A | 01-MAY-2002 | 02-08-218A | 02
08 | UT | ALPINE, CITY OF | 4902280005A | 01-FEB-2002 | 01-08-370A | 02
08 | UT | ALPINE, CITY OF | 4902280005A | 04-JAN-2002 | 02-08-079A | 02
08 | UT | CACHE COUNTY | 4900120006B | 01-MAR-2002 | 02-08-126A | 02
08 | UT | CENTERVILLE, CITY OF | 4900400001C | 13-JUN-2002 | 02-08-106P | 06
08 | UT | DAVIS COUNTY | 4900380190C | 13-JUN-2002 | 02-08-106P | 06
08 | UT | HERRIMAN, TOWN OF | 49035C0575E | 23-APR-2002 | 00-08-164P | 06
08 | UT | HERRIMAN, TOWN OF | 49035C0575E | 20-FEB-2002 | 02-08-070A | 02
08 | UT | HERRIMAN, TOWN OF | 49035C0420E | 29-MAY-2002 | 02-08-296X | 02
08 | UT | HERRIMAN, TOWN OF | 49035C0575E | 29-MAY-2002 | 02-08-296X | 02
08 | UT | LINDON, CITY OF | 4902100005C | 28-JAN-2002 | 01-08-183P | 06
08 | UT | MORGAN COUNTY | 4900920105B | 17-MAY-2002 | 02-08-282A | 02
08 | UT | MURRAY, CITY OF | 49035C0292F | 16-MAY-2002 | 98-08-057V | 19
08 | UT | MURRAY, CITY OF | 49035C0310E | 16-MAY-2002 | 98-08-057V | 19
08 | UT | MURRAY, CITY OF | 49035C0313E | 16-MAY-2002 | 98-08-057V | 19
08 | UT | MURRAY, CITY OF | 49035C0350E | 16-MAY-2002 | 98-08-057V | 19
08 | UT | MURRAY, CITY OF | 49035C0450E | 16-MAY-2002 | 98-08-057V | 19
08 | UT | OAKLEY, TOWN OF | 4901380001B | 26-JUN-2002 | 02-08-345A | 02
08 | UT | PANGUITCH, CITY OF | 4900700001B | 01-MAY-2002 | 02-08-224A | 02
08 | UT | RIVERTON, CITY OF | 49035C0440F | 28-JUN-2002 | 02-08-335X | 19
08 | UT | RIVERTON, CITY OF | 49035C0440F | 16-MAY-2002 | 98-08-057V | 19
08 | UT | SALT LAKE COUNTY | 49035C0303E | 16-MAY-2002 | 02-08-077V | 19
08 | UT | SALT LAKE COUNTY | 49035C0303F | 16-MAY-2002 | 02-08-077V | 19
08 | UT | SALT LAKE COUNTY | 49035C0311E | 16-MAY-2002 | 02-08-077V | 19
08 | UT | SALT LAKE COUNTY | 49035C0311F | 16-MAY-2002 | 02-08-077V | 19
08 | UT | SALT LAKE COUNTY | 49035C0317E | 22-MAY-2002 | 02-08-163A | 02
08 | UT | SALT LAKE COUNTY | 49035C0311F | 12-JUN-2002 | 02-08-228A | 02
08 | UT | SALT LAKE COUNTY | 49035C0458E | 12-JUN-2002 | 02-08-327A | 02
08 | UT | SALT LAKE COUNTY | 49035C0303F | 28-JUN-2002 | 02-08-335X | 19
08 | UT | SALT LAKE COUNTY | 49035C0311F | 28-JUN-2002 | 02-08-335X | 19
08 | UT | SANTA CLARA, CITY OF | 4901780005B | 18-JAN-2002 | 02-08-037A | 01
08 | UT | SOUTH JORDAN, CITY OF | 49035C0440F | 16-MAY-2002 | 00-08-426V | 19
08 | UT | SOUTH JORDAN, CITY OF | 49035C0441F | 16-MAY-2002 | 00-08-426V | 19
08 | UT | SOUTH JORDAN, CITY OF | 49035C0436F | 28-JUN-2002 | 02-08-335X | 19
08 | UT | SOUTH JORDAN, CITY OF | 49035C0437F | 28-JUN-2002 | 02-08-335X | 19
08 | UT | SOUTH JORDAN, CITY OF | 49035C0441F | 28-JUN-2002 | 02-08-335X | 19
08 | UT | TAYLORSVILLE, CITY OF | 49035C0291F | 29-MAY-2002 | 02-08-298A | 01
08 | UT | WASATCH COUNTY | 490164—23D | 03-MAY-2002 | 02-08-260A | 02
08 | UT | WEBER COUNTY | 4901870250B | 16-JAN-2002 | 01-08-325A | 01
08 | UT | WEBER COUNTY | 4901870275B | 11-JAN-2002 | 02-08-035A | 02
08 | UT | WEBER COUNTY | 4901870275B | 31-JAN-2002 | 02-08-138X | 02
08 | UT | WELLSVILLE, CITY OF | 4900310001B | 27-MAR-2002 | 02-08-124A | 02
08 | WY | CHEYENNE, CITY OF | 5600300005E | 31-MAY-2002 | 02-08-255A | 02
08 | WY | EVANSTON, CITY OF | 5600540001A | 28-JUN-2002 | 02-08-361A | 02
08 | WY | GILLETTE, CITY OF | 5600070005C | 17-APR-2002 | 02-08-244A | 02
08 | WY | LARAMIE COUNTY | 5600290520E | 13-MAR-2002 | 02-08-063A | 02
08 | WY | PARK COUNTY | 5600850029B | 05-APR-2002 | 02-08-112A | 02
09 | AZ | AVONDALE, CITY OF | 04013C2080H | 15-JAN-2002 | 02-09-257P | 06
09 | AZ | AVONDALE, CITY OF | 04013C2080H | 01-MAR-2002 | 02-09-471X | 01
09 | AZ | CAMP VERDE, TOWN OF | 04025C2205F | 01-MAR-2002 | 02-09-481A | 02
09 | AZ | CAMP VERDE, TOWN OF | 04025C2185F | 03-MAY-2002 | 02-09-791A | 02
09 | AZ | CAMP VERDE, TOWN OF | 04025C2215F | 21-JUN-2002 | 02-09-815A | 02
09 | AZ | CAVE CREEK, TOWN OF | 04013C0414F | 03-APR-2002 | 01-09-551P | 05
09 | AZ | CAVE CREEK, TOWN OF | 04013C0415G | 03-APR-2002 | 01-09-551P | 05
09 | AZ | CAVE CREEK, TOWN OF | 04013C0802G | 03-APR-2002 | 01-09-551P | 05
09 | AZ | CAVE CREEK, TOWN OF | 04013C0805G | 03-APR-2002 | 01-09-551P | 05
09 | AZ | CAVE CREEK, TOWN OF | 04013C0414F | 03-APR-2002 | 02-09-241X | 05
09 | AZ | CAVE CREEK, TOWN OF | 04013C0415F | 03-APR-2002 | 02-09-241X | 05
09 | AZ | CAVE CREEK, TOWN OF | 04013C0802G | 03-APR-2002 | 02-09-241X | 05
09 | AZ | CAVE CREEK, TOWN OF | 04013C0805G | 03-APR-2002 | 02-09-241X | 05
09 | AZ | CAVE CREEK, TOWN OF | 04013C0414F | 03-APR-2002 | 02-09-309X | 06
09 | AZ | CAVE CREEK, TOWN OF | 04013C0415F | 03-APR-2002 | 02-09-309X | 06
09 | AZ | CAVE CREEK, TOWN OF | 04013C0802G | 03-APR-2002 | 02-09-309X | 06
09 | AZ | CAVE CREEK, TOWN OF | 04013C0805G | 03-APR-2002 | 02-09-309X | 06
09 | AZ | CHANDLER, CITY OF | 04013C3030G | 08-FEB-2002 | 02-09-048A | 01
09 | AZ | CHANDLER, CITY OF | 04013C2665F | 27-FEB-2002 | 02-09-307A | 01
09 | AZ | CHANDLER, CITY OF | 04013C2670G | 26-APR-2002 | 02-09-773A | 02
09 | AZ | COCHISE COUNTY | 0400120750B | 13-MAR-2002 | 02-09-540A | 02
09 | AZ | COCHISE COUNTY | 0400120563B | 12-JUN-2002 | 02-09-581A | 01
09 | AZ | EL MIRAGE, CITY OF | 04013C1605H | 04-JAN-2002 | 00-09-083P | 05
09 | AZ | EL MIRAGE, CITY OF | 04013C1605H | 03-JUN-2002 | 02-09-1008P | 06
09 | AZ | EL MIRAGE, CITY OF | 04013C1605H | 21-JUN-2002 | 02-09-1136X | 01
09 | AZ | EL MIRAGE, CITY OF | 04013C1610H | 21-JUN-2002 | 02-09-1136X | 01
09 | AZ | EL MIRAGE, CITY OF | 04013C1605H | 27-FEB-2002 | 02-09-337A | 01
09 | AZ | EL MIRAGE, CITY OF | 04013C1605H | 14-JUN-2002 | 02-09-751A | 01
09 | AZ | EL MIRAGE, CITY OF | 04013C1610H | 14-JUN-2002 | 02-09-751A | 01
09 | AZ | GILA COUNTY | 0400280285B | 12-APR-2002 | 02-09-632A | 02
09 | AZ | GILBERT, TOWN OF | 04013C2660F | 06-FEB-2002 | 02-09-398A | 01
09 | AZ | GILBERT, TOWN OF | 04013C2660F | 15-FEB-2002 | 02-09-416X | 01
09 | AZ | GILBERT, TOWN OF | 04013C2660F | 01-MAY-2002 | 02-09-745A | 01
09 | AZ | GILBERT, TOWN OF | 04013C2655F | 21-JUN-2002 | 02-09-936A | 01
09 | AZ | GLENDALE, CITY OF | 04012C1640E | 18-JAN-2002 | 02-09-274A | 01
09 | AZ | GLENDALE, CITY OF | 04013C1640E | 27-FEB-2002 | 02-09-512X | 01
09 | AZ | GOODYEAR, CITY OF | 04013C2080H | 15-JAN-2002 | 02-09-257P | 05
09 | AZ | LA PAZ COUNTY | 0401220017A | 05-APR-2002 | 02-09-489A | 02
09 | AZ | MARANA, TOWN OF | 04019C1015K | 25-MAR-2002 | 01-09-1059P | 06
09 | AZ | MARICOPA COUNTY | 04013C1605H | 04-JAN-2002 | 00-09-083P | 05
09 | AZ | MARICOPA COUNTY | 04013C1615J | 05-MAR-2002 | 01-09-1158P | 05
09 | AZ | MARICOPA COUNTY | 04013C0414F | 03-APR-2002 | 01-09-551P | 05
09 | AZ | MARICOPA COUNTY | 04013C0415G | 03-APR-2002 | 01-09-551P | 05
09 | AZ | MARICOPA COUNTY | 04013C0802G | 03-APR-2002 | 01-09-551P | 05
09 | AZ | MARICOPA COUNTY | 04013C0805G | 03-APR-2002 | 01-09-551P | 05
09 | AZ | MARICOPA COUNTY | 04013C0730G | 15-MAY-2002 | 02-09-031P | 06
09 | AZ | MARICOPA COUNTY | 04013C0735G | 15-MAY-2002 | 02-09-031P | 06
09 | AZ | MARICOPA COUNTY | 04013C0740G | 15-MAY-2002 | 02-09-031P | 06
09 | AZ | MARICOPA COUNTY | 04013C0745G | 15-MAY-2002 | 02-09-031P | 06
09 | AZ | MARICOPA COUNTY | 04013C1160G | 15-MAY-2002 | 02-09-031P | 06
09 | AZ | MARICOPA COUNTY | 04013C1590G | 20-JUN-2002 | 02-09-1051A | 01
09 | AZ | MARICOPA COUNTY | 04013C0795G | 06-MAR-2002 | 02-09-224A | 01
09 | AZ | MARICOPA COUNTY | 04013C0414F | 03-APR-2002 | 02-09-241X | 05
09 | AZ | MARICOPA COUNTY | 04013C0415F | 03-APR-2002 | 02-09-241X | 05
09 | AZ | MARICOPA COUNTY | 04013C0802G | 03-APR-2002 | 02-09-241X | 05
09 | AZ | MARICOPA COUNTY | 04013C0805G | 03-APR-2002 | 02-09-241X | 05
09 | AZ | MARICOPA COUNTY | 04013C2115F | 19-FEB-2002 | 02-09-402A | 02
09 | AZ | MARICOPA COUNTY | 04013C0795G | 05-JUN-2002 | 02-09-494A | 02
09 | AZ | MARICOPA COUNTY | 04013C1590G | 01-MAY-2002 | 02-09-677A | 01
09 | AZ | MARICOPA COUNTY | 04013C0795G | 12-APR-2002 | 02-09-680A | 02
09 | AZ | MARICOPA COUNTY | 04013C0795G | 22-MAY-2002 | 02-09-827A | 02
09 | AZ | MESA, CITY OF | 04013C2195F | 19-FEB-2002 | 01-09-1160A | 01
09 | AZ | MESA, CITY OF | 04013C2195F | 19-FEB-2002 | 02-09-283A | 01
09 | AZ | MESA, CITY OF | 04013C2195F | 19-FEB-2002 | 02-09-452A | 02
09 | AZ | MESA, CITY OF | 04013C2170F | 17-APR-2002 | 02-09-589A | 02
09 | AZ | MESA, CITY OF | 04013C2195F | 28-MAY-2002 | 02-09-705A | 01
09 | AZ | MESA, CITY OF | 04013C2215G | 01-MAY-2002 | 02-09-736A | 02
09 | AZ | MESA, CITY OF | 04013C2195F | 31-MAY-2002 | 02-09-901A | 02
09 | AZ | PARADISE VALLEY, TOWN OF | 04013C1695G | 23-JAN-2002 | 02-09-196P | 06
09 | AZ | PEORIA, CITY OF | 04013C1180F | 13-JUN-2002 | 01-09-1060P | 05
09 | AZ | PEORIA, CITY OF | 04013C0730G | 15-MAY-2002 | 02-09-031P | 06
09 | AZ | PEORIA, CITY OF | 04013C0735G | 15-MAY-2002 | 02-09-031P | 06
09 | AZ | PEORIA, CITY OF | 04013C0740G | 15-MAY-2002 | 02-09-031P | 06
09 | AZ | PEORIA, CITY OF | 04013C0745G | 15-MAY-2002 | 02-09-031P | 06
09 | AZ | PEORIA, CITY OF | 04013C1160G | 15-MAY-2002 | 02-09-031P | 06
09 | AZ | PHOENIX, CITY OF | 04013C1680G | 28-JUN-2002 | 02-09-1064P | 06
09 | AZ | PHOENIX, CITY OF | 04013C2130F | 14-JAN-2002 | 02-09-117P | 06
09 | AZ | PHOENIX, CITY OF | 04013C1195E | 11-JAN-2002 | 02-09-207A | 01
09 | AZ | PHOENIX, CITY OF | 04013C1210G | 31-JAN-2002 | 02-09-363A | 01
09 | AZ | PHOENIX, CITY OF | 04013C2155F | 31-JAN-2002 | 02-09-365A | 01
09 | AZ | PHOENIX, CITY OF | 04013C1210G | 31-JAN-2002 | 02-09-366A | 01
09 | AZ | PHOENIX, CITY OF | 04013C1660G | 01-MAR-2002 | 02-09-469A | 02
09 | AZ | PHOENIX, CITY OF | 04013C1185G | 17-APR-2002 | 02-09-486A | 01
09 | AZ | PHOENIX, CITY OF | 04013C2145G | 29-MAR-2002 | 02-09-538A | 01
09 | AZ | PHOENIX, CITY OF | 04013C2130F | 15-MAR-2002 | 02-09-554A | 02
09 | AZ | PHOENIX, CITY OF | 04013C1195E | 20-MAR-2002 | 02-09-561A | 01
09 | AZ | PHOENIX, CITY OF | 04013C2130F | 10-APR-2002 | 02-09-579A | 02
09 | AZ | PHOENIX, CITY OF | 04013C1640E | 19-APR-2002 | 02-09-686A | 02
09 | AZ | PHOENIX, CITY OF | 04013C2085F | 23-APR-2002 | 02-09-723P | 06
09 | AZ | PHOENIX, CITY OF | 04013C1195E | 29-MAY-2002 | 02-09-850A | 01
09 | AZ | PHOENIX, CITY OF | 04013C2130F | 29-MAY-2002 | 02-09-885A | 02
09 | AZ | PHOENIX, CITY OF | 04013C2610E | 14-JUN-2002 | 02-09-953A | 01
09 | AZ | PIMA COUNTY | 04019C1617K | 29-MAR-2002 | 01-09-685P | 05
09 | AZ | PIMA COUNTY | 04019C1636K | 29-MAR-2002 | 01-09-685P | 05
09 | AZ | PIMA COUNTY | 04019C2810K | 12-MAR-2002 | 02-09-500A | 02
09 | AZ | PIMA COUNTY | 04019C1025K | 15-MAY-2002 | 02-09-821A | 02
09 | AZ | PIMA COUNTY | 04019C1655K | 05-JUN-2002 | 02-09-826A | 02
09 | AZ | PINAL COUNTY | 0400770450D | 19-APR-2002 | 02-09-249P | 06
09 | AZ | PINAL COUNTY | 0400770125D | 13-MAR-2002 | 02-09-488A | 02
09 | AZ | PRESCOTT, CITY OF | 04025C2090F | 11-JAN-2002 | 02-09-167A | 02
09 | AZ | SANTA CRUZ COUNTY | 0400900260A | 04-JAN-2002 | 01-09-1139A | 02
09 | AZ | SANTA CRUZ COUNTY | 0400900165A | 20-MAR-2002 | 02-09-562A | 02
09 | AZ | SANTA CRUZ COUNTY | 0400900225A | 29-MAY-2002 | 02-09-877A | 02
09 | AZ | SANTA CRUZ COUNTY | 0400900020B | 12-JUN-2002 | 02-09-938A | 02
09 | AZ | SCOTTSDALE, CITY OF | 04013C0820F | 05-JUN-2002 | 01-09-1199P | 05
09 | AZ | SCOTTSDALE, CITY OF | 04013C0850E | 05-JUN-2002 | 01-09-1199P | 05
09 | AZ | SCOTTSDALE, CITY OF | 04013C1235F | 05-JUN-2002 | 01-09-1199P | 05
09 | AZ | SCOTTSDALE, CITY OF | 04013C2160E | 28-JUN-2002 | 02-09-1054A | 02
09 | AZ | SCOTTSDALE, CITY OF | 04013C1695G | 23-JAN-2002 | 02-09-196P | 06
09 | AZ | SCOTTSDALE, CITY OF | 04013C1705F | 15-FEB-2002 | 02-09-390A | 02
09 | AZ | SCOTTSDALE, CITY OF | 04013C1705F | 15-FEB-2002 | 02-09-443A | 02
09 | AZ | SCOTTSDALE, CITY OF | 04013C1695G | 13-MAR-2002 | 02-09-506A | 02
09 | AZ | SCOTTSDALE, CITY OF | 04013C2160E | 05-APR-2002 | 02-09-651A | 02
09 | AZ | SCOTTSDALE, CITY OF | 04013C1695G | 19-APR-2002 | 02-09-706A | 02
09 | AZ | SCOTTSDALE, CITY OF | 04013C2160E | 26-APR-2002 | 02-09-743A | 02
09 | AZ | SCOTTSDALE, CITY OF | 04013C2160E | 29-MAY-2002 | 02-09-763A | 02
09 | AZ | SURPRISE, TOWN OF | 04013C1605H | 04-JAN-2002 | 00-09-083P | 05
09 | AZ | SURPRISE, TOWN OF | 04013C1145G | 19-FEB-2002 | 02-09-165P | 05
09 | AZ | SURPRISE, TOWN OF | 04013C1585G | 19-FEB-2002 | 02-09-165P | 05
09 | AZ | TEMPE, CITY OF | 04013C2165G | 15-MAY-2002 | 02-09-817A | 02
09 | AZ | TUCSON, CITY OF | 04019C1644K | 26-JUN-2002 | 02-09-1018A | 02
09 | AZ | TUCSON, CITY OF | 04019C2227K | 04-JAN-2002 | 02-09-220P | 06
09 | AZ | TUCSON, CITY OF | 04019C2252K | 23-JAN-2002 | 02-09-238A | 01
09 | AZ | TUCSON, CITY OF | 04019C2227K | 25-JAN-2002 | 02-09-256A | 02
09 | AZ | TUCSON, CITY OF | 04019C2253K | 18-JAN-2002 | 02-09-317A | 02
09 | AZ | TUCSON, CITY OF | 04019C2262K | 23-JAN-2002 | 02-09-328A | 02
09 | AZ | TUCSON, CITY OF | 04019C2226K | 06-FEB-2002 | 02-09-360A | 01
09 | AZ | TUCSON, CITY OF | 04019C2253K | 19-FEB-2002 | 02-09-425A | 02
09 | AZ | TUCSON, CITY OF | 04019C2256K | 20-FEB-2002 | 02-09-534A | 02
09 | AZ | TUCSON, CITY OF | 04019C1643K | 17-APR-2002 | 02-09-694A | 02
09 | AZ | TUCSON, CITY OF | 04019C1663K | 29-MAY-2002 | 02-09-841A | 02
09 | AZ | TUCSON, CITY OF | 04019C2228K | 29-MAY-2002 | 02-09-881A | 02
09 | AZ | TUCSON, CITY OF | 04019C1670K | 12-JUN-2002 | 02-09-920A | 02
09 | AZ | TUCSON, CITY OF | 04019C2232K | 14-JUN-2002 | 02-09-967A | 02
09 | AZ | WICKENBURG, TOWN OF | 04013C0255G | 11-JAN-2002 | 02-09-289A | 02
09 | AZ | WICKENBURG, TOWN OF | 04013C0235F | 29-MAR-2002 | 02-09-587A | 02
09 | AZ | YAVAPAI COUNTY | 04025C1784F | 15-MAR-2002 | 01-09-1162A | 02
09 | AZ | YAVAPAI COUNTY | 04025C1810F | 20-FEB-2002 | 02-09-173A | 02
09 | AZ | YAVAPAI COUNTY | 04025C2200F | 29-MAR-2002 | 02-09-237A | 02
09 | AZ | YAVAPAI COUNTY | 04025C1782F | 01-MAY-2002 | 02-09-766A | 02
09 | AZ | YAVAPAI COUNTY | 04025C1845F | 12-JUN-2002 | 02-09-921A | 02
09 | CA | ALAMEDA COUNTY | 0600010090D | 01-MAR-2002 | 02-09-458A | 02
09 | CA | ALAMEDA COUNTY | 0600010090D | 20-MAR-2002 | 02-09-658X | 02
09 | CA | ANAHEIM, CITY OF | 06059C0009F | 27-FEB-2002 | 02-09-396A | 02
09 | CA | AZUSA, CITY OF | 0650430695B | 17-APR-2002 | 02-09-330P | 06
09 | CA | BARSTOW, CITY OF | 06071C4527F | 13-MAR-2002 | 02-09-033A | 01
09 | CA | BELLFLOWER, CITY OF | 0601020005A | 11-JAN-2002 | 02-09-034P | 06
09 | CA | BRENTWOOD, CITY OF | 0600250355C | 19-FEB-2002 | 02-09-434A | 01
09 | CA | BURLINGAME, CITY OF | 0650190002C | 12-JUN-2002 | 02-09-951A | 02
09 | CA | BUTTE COUNTY | 06007C0520C | 21-JUN-2002 | 02-09-974A | 02
09 | CA | CARSON, CITY OF | 0601070005A | 11-JAN-2002 | 02-09-034P | 06
09 | CA | CHULA VISTA, CITY OF | 06073C1939F | 01-MAR-2002 | 02-09-014A | 01
09 | CA | CITRUS HEIGHTS, CITY OF | 0602620090E | 01-FEB-2002 | 02-09-355A | 02
09 | CA | CLAYTON, CITY OF | 0600270001C | 25-JAN-2002 | 02-09-340A | 02
09 | CA | CLAYTON, CITY OF | 0600270001C | 20-FEB-2002 | 02-09-438A | 02
09 | CA | CLAYTON, CITY OF | 0600270001C | 13-MAR-2002 | 02-09-573A | 02
09 | CA | CLEARLAKE, CITY OF | 0607140005C | 28-JUN-2002 | 02-09-1002A | 02
09 | CA | CLEARLAKE, CITY OF | 0607140005C | 15-FEB-2002 | 02-09-470X | 02
09 | CA | CLEARLAKE, CITY OF | 0607140005C | 17-MAY-2002 | 02-09-603A | 02
09 | CA | CLOVIS, CITY OF | 06019C1585F | 28-JUN-2002 | 02-09-1145X | 01
09 | CA | CLOVIS, CITY OF | 06019C1580F | 29-MAY-2002 | 02-09-856A | 02
09 | CA | COLTON, CITY OF | 06071C8683F | 22-JAN-2002 | 01-09-126P | 06
09 | CA | COLTON, CITY OF | 06071C8686F | 22-JAN-2002 | 01-09-126P | 06
09 | CA | COLTON, CITY OF | 06071C8687F | 22-JAN-2002 | 01-09-126P | 06
09 | CA | COLTON, CITY OF | 06071C8691F | 22-JAN-2002 | 01-09-126P | 06
09 | CA | COMPTON, CITY OF | 0601110005A | 11-JAN-2002 | 02-09-034P | 06
09 | CA | CONCORD, CITY OF | 0650220006C | 19-APR-2002 | 02-09-497A | 02
09 | CA | CONTRA COSTA COUNTY | 0600250470C | 19-JUN-2002 | 01-09-653P | 06
09 | CA | CONTRA COSTA COUNTY | 0600250400B | 18-JUN-2002 | 01-09-751P | 06
09 | CA | CONTRA COSTA COUNTY | 0600250315C | 20-MAR-2002 | 02-09-124A | 02
09 | CA | CONTRA COSTA COUNTY | 0600250400B | 22-FEB-2002 | 02-09-142A | 01
09 | CA | CONTRA COSTA COUNTY | 0600250435C | 04-JAN-2002 | 02-09-225A | 02
09 | CA | CONTRA COSTA COUNTY | 0600250235C | 16-JAN-2002 | 02-09-273A | 02
09 | CA | CONTRA COSTA COUNTY | 0600250275B | 15-FEB-2002 | 02-09-329A | 02
09 | CA | CONTRA COSTA COUNTY | 0600250230C | 31-JAN-2002 | 02-09-419A | 02
09 | CA | CONTRA COSTA COUNTY | 0600250295C | 29-MAY-2002 | 02-09-556A | 02
09 | CA | CONTRA COSTA COUNTY | 0600250470C | 29-MAY-2002 | 02-09-576P | 06
09 | CA | CONTRA COSTA COUNTY | 0600250295C | 29-MAY-2002 | 02-09-870A | 02
09 | CA | CONTRA COSTA COUNTY | 0600250435C | 05-JUN-2002 | 02-09-908A | 02
09 | CA | CORONA, CITY OF | 0602500005F | 29-MAY-2002 | 02-09-559A | 02
09 | CA | CORONA, CITY OF | 0602500005F | 17-MAY-2002 | 02-09-965A | 02
09 | CA | CORTE MADERA, TOWN OF | 0650230001B | 27-FEB-2002 | 02-09-292A | 02
09 | CA | COTATI, CITY OF | 0603770001D | 13-MAY-2002 | 02-09-671A | 01
09 | CA | COTATI, CITY OF | 0603770001D | 20-JUN-2002 | 02-09-672A | 01
09 | CA | DANVILLE, TOWN OF | 0607070001B | 20-FEB-2002 | 02-09-397A | 02
09 | CA | DANVILLE, TOWN OF | 0607070001B | 15-MAY-2002 | 02-09-693A | 01
09 | CA | DAVIS, CITY OF | 0604240002B | 27-FEB-2002 | 02-09-549A | 02
09 | CA | DAVIS, CITY OF | 0604230575C | 20-MAR-2002 | 02-09-634A | 01
09 | CA | DINUBA, CITY OF | 0650660280B | 24-APR-2002 | 02-09-193A | 01
09 | CA | DIXON, CITY OF | 0603690001B | 21-JUN-2002 | 02-09-1035A | 02
09 | CA | DOWNEY, CITY OF | 0606450005A | 11-JAN-2002 | 02-09-034P | 06
09 | CA | EAST PALO ALTO, CITY OF | 0607080001B | 26-APR-2002 | 02-09-655A | 01
09 | CA | EAST PALO ALTO, CITY OF | 0607080001B | 29-MAY-2002 | 02-09-909A | 01
09 | CA | EL CAJON, CITY OF | 06073C1662F | 13-MAR-2002 | 02-09-607A | 02
09 | CA | EL CAJON, CITY OF | 06073C1662F | 29-MAY-2002 | 02-09-687A | 02
09 | CA | EL CAJON, CITY OF | 06073C1653F | 11-MAR-2002 | 99-09-811P | 06
09 | CA | EL DORADO COUNTY | 0600400700D | 29-MAY-2002 | 02-09-897A | 02
09 | CA | ESCONDIDO, CITY OF | 06073C1083F | 10-APR-2002 | 01-09-835P | 05
09 | CA | ESCONDIDO, CITY OF | 06037C1079F | 25-JAN-2002 | 02-09-030P | 05
09 | CA | ESCONDIDO, CITY OF | 06037C1083F | 25-JAN-2002 | 02-09-030P | 05
09 | CA | ESCONDIDO, CITY OF | 06073C1079F | 19-FEB-2002 | 02-09-498X | 05
09 | CA | ESCONDIDO, CITY OF | 06073C1083F | 19-FEB-2002 | 02-09-498X | 05
09 | CA | ESCONDIDO, CITY OF | 06073C1076F | 03-APR-2002 | 02-09-552A | 02
09 | CA | ESCONDIDO, CITY OF | 06073C1076F | 03-MAY-2002 | 02-09-664A | 01
09 | CA | FAIRFIELD, CITY OF | 0603700009D | 01-MAR-2002 | 02-09-099A | 01
09 | CA | FAIRFIELD, CITY OF | 0603700009D | 19-FEB-2002 | 02-09-131A | 01
09 | CA | FAIRFIELD, CITY OF | 0603700010C | 10-APR-2002 | 02-09-558A | 01
09 | CA | FERNDALE, CITY OF | 0604450001C | 20-JUN-2002 | 02-09-828A | 02
09 | CA | FERNDALE, CITY OF | 0604450001C | 14-JUN-2002 | 02-09-962A | 02
09 | CA | FILLMORE, CITY OF | 0604150001D | 08-MAY-2002 | 01-09-709P | 05
09 | CA | FRESNO COUNTY | 06019C1975F | 03-MAY-2002 | 01-09-1030A | 01
09 | CA | FRESNO COUNTY | 06019C1620F | 20-FEB-2002 | 02-09-141A | 01
09 | CA | FRESNO COUNTY | 06019C2125F | 15-MAR-2002 | 02-09-259A | 02
09 | CA | FRESNO COUNTY | 06019C2180F | 12-APR-2002 | 02-09-357A | 02
09 | CA | FRESNO COUNTY | 06019C0450F | 29-MAY-2002 | 02-09-456A | 02
09 | CA | FRESNO COUNTY | 06019C1615F | 15-MAR-2002 | 02-09-509A | 01
09 | CA | FRESNO COUNTY | 06019C1605F | 26-APR-2002 | 02-09-642A | 02
09 | CA | FRESNO COUNTY | 06019C2225F | 29-MAY-2002 | 02-09-848A | 02
09 | CA | FRESNO, CITY OF | 06019C1040F | 23-JAN-2002 | 02-09-153A | 01
09 | CA | FRESNO, CITY OF | 06019C1590F | 26-JUN-2002 | 02-09-975A | 02
09 | CA | GARDEN GROVE, CITY OF | 06059C0020F | 27-FEB-2002 | 02-09-144A | 02
09 | CA | GARDEN GROVE, CITY OF | 06059C0028F | 06-FEB-2002 | 02-09-229A | 02
09 | CA | GRANDE TERRACE, CITY OF | 06071C8687F | 22-JAN-2002 | 01-09-126P | 06
09 | CA | HEMET, CITY OF | 0602530005D | 11-JAN-2002 | 02-09-281A | 01
09 | CA | HEMET, CITY OF | 0602530005D | 16-JAN-2002 | 02-09-308A | 01
09 | CA | HEMET, CITY OF | 0602530005D | 27-FEB-2002 | 02-09-521A | 01
09 | CA | HEMET, CITY OF | 0602530005D | 19-APR-2002 | 02-09-656A | 01
09 | CA | HEMET, CITY OF | 0602530005D | 22-MAY-2002 | 02-09-752A | 01
09 | CA | HIGHLAND, CITY OF | 06071C8702F | 22-JAN-2002 | 01-09-126P | 06
09 | CA | HIGHLAND, CITY OF | 06071C8706F | 22-JAN-2002 | 01-09-126P | 06
09 | CA | HIGHLAND, CITY OF | 06071C8707F | 22-JAN-2002 | 01-09-126P | 06
09 | CA | HUMBOLDT COUNTY | 0600600775C | 06-MAR-2002 | 02-09-412A | 02
09 | CA | HUMBOLDT COUNTY | 0600600615D | 26-JUN-2002 | 02-09-699A | 02
09 | CA | HUNTINGTON BEACH, CITY OF | 06059C0045F | 13-FEB-2002 | 00-09-825P | 05
09 | CA | HUNTINGTON BEACH, CITY OF | 06059C0046F | 13-FEB-2002 | 00-09-825P | 05
09 | CA | HUNTINGTON BEACH, CITY OF | 06059C0054F | 13-FEB-2002 | 00-09-825P | 05
09 | CA | KERN COUNTY | 0600751860B | 01-FEB-2002 | 02-09-145A | 02
09 | CA | LAKE COUNTY | 0600900525B | 12-MAR-2002 | 02-09-535A | 02
09 | CA | LAKE ELSINORE, CITY OF | 0606360014E | 01-MAY-2002 | 02-09-760A | 01
09 | CA | LAKEWOOD, CITY OF | 0601300005A | 11-JAN-2002 | 02-09-034P | 06
09 | CA | LANCASTER, CITY OF | 0650430125B | 01-MAY-2002 | 02-09-797A | 02
09 | CA | LASSEN COUNTY | 0600920675B | 29-MAY-2002 | 02-09-892A | 02
09 | CA | LODI,CITY OF | 0603000001E | 17-APR-2002 | 02-09-177A | 02
09 | CA | LODI,CITY OF | 0603000001E | 07-MAY-2002 | 02-09-768P | 06
09 | CA | LODI,CITY OF | 0603000002E | 07-MAY-2002 | 02-09-768P | 06
09 | CA | LONG BEACH, CITY OF | 0601360005C | 11-JAN-2002 | 02-09-034P | 06
09 | CA | LONG BEACH, CITY OF | 0601360010C | 11-JAN-2002 | 02-09-034P | 06
09 | CA | LONG BEACH, CITY OF | 0601360015C | 11-JAN-2002 | 02-09-034P | 06
09 | CA | LONG BEACH, CITY OF | 0601360025C | 11-JAN-2002 | 02-09-034P | 06
09 | CA | LONG BEACH, CITY OF | 0601360025C | 15-FEB-2002 | 02-09-437A | 02
09 | CA | LOS ALTOS HILLS, TOWN OF | 0603420002B | 29-MAY-2002 | 02-09-612A | 02
09 | CA | LOS ALTOS, CITY OF | 0603410002B | 23-MAY-2002 | 02-09-586P | 06
09 | CA | LOS ANGELES COUNTY | 0650430365B | 01-FEB-2002 | 01-09-1092A | 02
09 | CA | LOS ANGELES COUNTY | 0650430940C | 11-JAN-2002 | 02-09-034P | 06
09 | CA | LOS ANGELES COUNTY | 0650430945C | 11-JAN-2002 | 02-09-034P | 06
09 | CA | LOS ANGELES COUNTY | 0650431030D | 11-JAN-2002 | 02-09-034P | 06
09 | CA | LOS ANGELES COUNTY | 0650431035D | 11-JAN-2002 | 02-09-034P | 06
09 | CA | LOS ANGELES COUNTY | 0650430365B | 25-MAR-2002 | 02-09-588A | 02
09 | CA | LOS ANGELES COUNTY | 0650430340B | 01-MAY-2002 | 02-09-742A | 02
09 | CA | LOS ANGELES COUNTY | 0650430360B | 05-JUN-2002 | 02-09-900A | 02
09 | CA | LOS ANGELES, CITY OF | 0601370071C | 11-JAN-2002 | 02-09-288A | 02
09 | CA | LOS ANGELES, CITY OF | 0601370071C | 22-FEB-2002 | 02-09-453A | 02
09 | CA | LOS ANGELES, CITY OF | 0601370071C | 06-MAR-2002 | 02-09-532A | 02
09 | CA | LOS ANGELES, CITY OF | 0601370071C | 29-MAY-2002 | 02-09-689A | 02
09 | CA | LOS ANGELES, CITY OF | 0601370086C | 03-MAY-2002 | 02-09-761A | 02
09 | CA | LOS ANGELES, CITY OF | 0601370071C | 01-MAY-2002 | 02-09-767A | 02
09 | CA | LOS ANGELES, CITY OF | 0601370073D | 29-MAY-2002 | 02-09-898A | 02
09 | CA | LOS BANOS, CITY OF | 06047C0850E | 04-JAN-2002 | 02-09-226A | 02
09 | CA | LYNWOOD, CITY OF | 0606350001C | 11-JAN-2002 | 02-09-034P | 06
09 | CA | LYNWOOD, CITY OF | 0606350002C | 11-JAN-2002 | 02-09-034P | 06
09 | CA | MARIN COUNTY | 0601730259A | 09-JAN-2002 | 01-09-1141A | 02
09 | CA | MARIN COUNTY | 0601730465A | 11-JAN-2002 | 02-09-081A | 02
09 | CA | MARIN COUNTY | 0601730443A | 19-FEB-2002 | 02-09-430A | 02
09 | CA | MARIN COUNTY | 0601730250A | 20-MAR-2002 | 02-09-504A | 02
09 | CA | MARIN COUNTY | 0601730250A | 26-APR-2002 | 02-09-740A | 02
09 | CA | MARIN COUNTY | 0601730250A | 26-APR-2002 | 02-09-748A | 02
09 | CA | MARTINEZ, CITY OF | 0650440001B | 28-JUN-2002 | 02-09-970X | 19
09 | CA | MARTINEZ, CITY OF | 0650440001B | 16-MAY-2002 | 98-09-171V | 19
09 | CA | MENDOCINO COUNTY | 0601830794B | 18-JAN-2002 | 02-09-122A | 02
09 | CA | MENDOCINO COUNTY | 0601830600B | 01-FEB-2002 | 02-09-223A | 02
09 | CA | MENDOCINO COUNTY | 0601830794B | 24-APR-2002 | 02-09-590A | 02
09 | CA | MENLO PARK, CITY OF | 0603210004D | 04-JAN-2002 | 02-09-125A | 01
09 | CA | MENLO PARK, CITY OF | 0603210007D | 27-MAR-2002 | 02-09-585A | 02
09 | CA | MERCED COUNTY | 06047C0420E | 11-JAN-2002 | 02-09-282A | 01
09 | CA | MERCED, CITY OF | 06047C0440E | 23-JAN-2002 | 02-09-320A | 01
09 | CA | MERCED, CITY OF | 06047C0430E | 13-MAR-2002 | 02-09-389A | 01
09 | CA | MERCED, CITY OF | 06047C0420E | 13-MAR-2002 | 02-09-463X | 01
09 | CA | MILL VALLEY, CITY OF | 0601770005B | 12-MAR-2002 | 02-09-519A | 02
09 | CA | MILPITAS, CITY OF | 0603440003G | 18-JAN-2002 | 01-09-1167A | 01
09 | CA | MILPITAS, CITY OF | 0603440001G | 26-JUN-2002 | 02-09-1015A | 02
09 | CA | MILPITAS, CITY OF | 0603440001G | 28-JUN-2002 | 02-09-1059A | 02
09 | CA | MILPITAS, CITY OF | 0603440003G | 16-JAN-2002 | 02-09-310A | 02
09 | CA | MILPITAS, CITY OF | 0603440001G | 16-JAN-2002 | 02-09-325A | 02
09 | CA | MILPITAS, CITY OF | 0603440001G | 16-JAN-2002 | 02-09-331A | 02
09 | CA | MILPITAS, CITY OF | 0603440003G | 16-JAN-2002 | 02-09-338A | 02
09 | CA | MILPITAS, CITY OF | 0603440003G | 06-FEB-2002 | 02-09-377A | 02
09 | CA | MILPITAS, CITY OF | 0603440001G | 15-FEB-2002 | 02-09-383A | 02
09 | CA | MILPITAS, CITY OF | 0603440001G | 15-FEB-2002 | 02-09-385A | 02
09 | CA | MILPITAS, CITY OF | 0603440001G | 06-FEB-2002 | 02-09-426A | 02
09 | CA | MILPITAS, CITY OF | 0603440001G | 06-FEB-2002 | 02-09-429A | 02
09 | CA | MILPITAS, CITY OF | 0603440003G | 15-FEB-2002 | 02-09-502A | 02
09 | CA | MILPITAS, CITY OF | 0603440001G | 19-FEB-2002 | 02-09-508A | 02
09 | CA | MILPITAS, CITY OF | 0603440003G | 19-FEB-2002 | 02-09-513A | 02
09 | CA | MILPITAS, CITY OF | 0603440003G | 22-FEB-2002 | 02-09-557A | 02
09 | CA | MILPITAS, CITY OF | 0603440003G | 27-FEB-2002 | 02-09-564A | 02
09 | CA | MILPITAS, CITY OF | 0603440001G | 01-MAR-2002 | 02-09-566A | 02
09 | CA | MILPITAS, CITY OF | 0603440001G | 13-MAR-2002 | 02-09-618A | 02
09 | CA | MILPITAS, CITY OF | 0603440001G | 25-MAR-2002 | 02-09-650A | 02
09 | CA | MILPITAS, CITY OF | 0603440001G | 27-MAR-2002 | 02-09-669A | 02
09 | CA | MILPITAS, CITY OF | 0603440001G | 10-APR-2002 | 02-09-679A | 02
09 | CA | MILPITAS, CITY OF | 0603440001G | 17-APR-2002 | 02-09-707A | 02
09 | CA | MILPITAS, CITY OF | 0603440003G | 17-APR-2002 | 02-09-733A | 02
09 | CA | MILPITAS, CITY OF | 0603440001G | 01-MAY-2002 | 02-09-750A | 02
09 | CA | MILPITAS, CITY OF | 0603440003G | 29-MAY-2002 | 02-09-868A | 02
09 | CA | MILPITAS, CITY OF | 0603440001G | 07-JUN-2002 | 02-09-918A | 02
09 | CA | MILPITAS, CITY OF | 0603440001G | 20-JUN-2002 | 02-09-978A | 02
09 | CA | MILPITAS, CITY OF | 0603440003G | 20-JUN-2002 | 02-09-998A | 02
09 | CA | MISSION VIEJO, CIY OF | 06059C0058F | 27-FEB-2002 | 02-09-181A | 02
09 | CA | MISSION VIEJO, CIY OF | 06059C0065F | 18-JAN-2002 | 02-09-278A | 02
09 | CA | MODESTO, CITY OF | 0603870015D | 19-FEB-2002 | 02-09-168A | 02
09 | CA | MODESTO, CITY OF | 0603870020D | 19-APR-2002 | 02-09-440A | 02
09 | CA | MONTEBELLO, CITY OF | 0601410001C | 11-JAN-2002 | 02-09-034P | 06
09 | CA | MONTEBELLO, CITY OF | 0601410002C | 11-JAN-2002 | 02-09-034P | 06
09 | CA | MORGAN HILL, CITY OF | 0603460002C | 04-JAN-2002 | 02-09-268A | 02
09 | CA | MORRO BAY, CITY OF | 0603070005C | 15-FEB-2002 | 02-09-413A | 02
09 | CA | MURRIETA, CITY OF | 0607512730A | 18-MAR-2002 | 01-09-849P | 05
09 | CA | MURRIETA, CITY OF | 0607512730A | 19-FEB-2002 | 02-09-401P | 06
09 | CA | MURRIETA, CITY OF | 0607512745A | 29-MAY-2002 | 02-09-867A | 01
09 | CA | MURRIETA, CITY OF | 0607512740A | 05-JUN-2002 | 02-09-912A | 02
09 | CA | NAPA COUNTY | 0602050460B | 20-JUN-2002 | 02-09-990A | 02
09 | CA | NAPA, CITY OF | 0602070005D | 23-JAN-2002 | 02-09-324A | 02
09 | CA | NAPA, CITY OF | 0602070010C | 23-JAN-2002 | 02-09-324A | 02
09 | CA | NAPA, CITY OF | 0602070005D | 06-FEB-2002 | 02-09-384A | 02
09 | CA | NAPA, CITY OF | 0602070005D | 06-MAR-2002 | 02-09-482A | 02
09 | CA | NAPA, CITY OF | 0602070005D | 10-APR-2002 | 02-09-582A | 02
09 | CA | NAPA, CITY OF | 0602070005D | 15-MAY-2002 | 02-09-813A | 02
09 | CA | NAPA, CITY OF | 0602070005D | 15-MAY-2002 | 02-09-818A | 02
09 | CA | NAPA, CITY OF | 0602070005D | 29-MAY-2002 | 02-09-887A | 02
09 | CA | NAPA, CITY OF | 0602070005D | 12-JUN-2002 | 02-09-940A | 02
09 | CA | NEVADA COUNTY | 0602100579B | 05-APR-2002 | 02-09-572A | 17
09 | CA | NEVADA COUNTY | 0602100475B | 22-MAY-2002 | 02-09-721A | 02
09 | CA | NORCO, CITY OF | 0602560001B | 30-JAN-2002 | 01-09-085P | 05
09 | CA | NORCO, CITY OF | 0602560001B | 30-JAN-2002 | 02-09-195X | 05
09 | CA | NOVATO, CITY OF | 0601780002C | 18-JAN-2002 | 02-09-298A | 02
09 | CA | NOVATO, CITY OF | 0601780002C | 20-MAR-2002 | 02-09-455A | 02
09 | CA | NOVATO, CITY OF | 0601730257A | 12-JUN-2002 | 02-09-724A | 02
09 | CA | NOVATO, CITY OF | 0601780002C | 21-JUN-2002 | 02-09-994A | 01
09 | CA | OAKLEY, CITY OF | 0607660355A | 01-MAR-2002 | 02-09-475A | 01
09 | CA | OAKLEY, CITY OF | 0607660355A | 19-FEB-2002 | 02-09-477A | 01
09 | CA | OAKLEY, CITY OF | 0607660335A | 05-JUN-2002 | 02-09-865P | 06
09 | CA | OCEANSIDE, CITY OF | 06073C0759F | 06-MAR-2002 | 02-09-507A | 02
09 | CA | OCEANSIDE, CITY OF | 06073C0756G | 19-APR-2002 | 02-09-517A | 01
09 | CA | OCEANSIDE, CITY OF | 06073C0759F | 05-JUN-2002 | 02-09-703A | 02
09 | CA | ORANGE COVE, CITY OF | 06019C2731F | 31-MAY-2002 | 02-09-617A | 01
09 | CA | PALO ALTO, CITY OF | 0603480003E | 26-APR-2002 | 02-09-255A | 02
09 | CA | PALO ALTO, CITY OF | 0603480003E | 18-JAN-2002 | 02-09-313A | 02
09 | CA | PALO ALTO, CITY OF | 0603480003E | 22-FEB-2002 | 02-09-354A | 02
09 | CA | PALO ALTO, CITY OF | 0603480003E | 15-FEB-2002 | 02-09-420A | 02
09 | CA | PALO ALTO, CITY OF | 0603480002E | 20-FEB-2002 | 02-09-478A | 02
09 | CA | PALO ALTO, CITY OF | 0603480003E | 22-FEB-2002 | 02-09-524A | 02
09 | CA | PALO ALTO, CITY OF | 0603480002E | 26-APR-2002 | 02-09-613A | 02
09 | CA | PALO ALTO, CITY OF | 0603480003E | 15-MAR-2002 | 02-09-615A | 02
09 | CA | PALO ALTO, CITY OF | 0603480002E | 17-APR-2002 | 02-09-697A | 02
09 | CA | PALO ALTO, CITY OF | 0603480002E | 15-MAY-2002 | 02-09-820A | 02
09 | CA | PALO ALTO, CITY OF | 0603480003E | 28-JUN-2002 | 02-09-977A | 02
09 | CA | PALOS VERDES ESTATES, CITY OF | 0601450005B | 29-MAR-2002 | 02-09-596A | 02
09 | CA | PARAMOUNT, CITY OF | 0650490001C | 11-JAN-2002 | 02-09-034P | 06
09 | CA | PARAMOUNT, CITY OF | 0650490002C | 11-JAN-2002 | 02-09-034P | 06
09 | CA | PERRIS, CITY OF | 0602580010D | 01-APR-2002 | 01-09-524P | 05
09 | CA | PERRIS, CITY OF | 0602580015D | 01-APR-2002 | 01-09-524P | 05
09 | CA | PERRIS, CITY OF | 0602580010D | 08-MAY-2002 | 02-09-775A | 02
09 | CA | PICO RIVERA, CITY OF | 0601480005A | 11-JAN-2002 | 02-09-034P | 06
09 | CA | PISMO BEACH, CITY OF | 0603090002B | 31-JAN-2002 | 02-09-345A | 02
09 | CA | PITTSBURG,CITY OF | 0600330004E | 01-MAR-2002 | 02-09-473A | 01
09 | CA | PLACER COUNTY | 06061C0067F | 04-JAN-2002 | 01-09-1123A | 02
09 | CA | PLACER COUNTY | 06061C0483G | 15-FEB-2002 | 02-09-388A | 02
09 | CA | PLACER COUNTY | 06061C0067F | 15-MAR-2002 | 02-09-499A | 02
09 | CA | PLACER COUNTY | 06061C0069F | 13-MAY-2002 | 02-09-806A | 17
09 | CA | PLACER COUNTY | 06061C0483G | 28-MAY-2002 | 02-09-886A | 02
09 | CA | PLEASANT HILL, CITY OF | 0600340005B | 06-MAR-2002 | 01-09-870A | 02
09 | CA | PLEASANTON, CITY OF | 0600120002D | 07-JUN-2002 | 02-09-922A | 01
09 | CA | PLUMAS COUNTY | 0602440850C | 22-FEB-2002 | 02-09-432A | 02
09 | CA | PLUMAS COUNTY | 0602441275C | 20-MAR-2002 | 02-09-560A | 02
09 | CA | POWAY, CITY OF | 06073C1358F | 04-JAN-2002 | 02-09-254A | 02
09 | CA | POWAY, CITY OF | 06073C1354F | 26-FEB-2002 | 02-09-286P | 06
09 | CA | POWAY, CITY OF | 06073C1358F | 26-FEB-2002 | 02-09-286P | 06
09 | CA | RANCHO CUCAMONGA, CITY OF | 06071C8629F | 13-MAR-2002 | 02-09-044P | 06
09 | CA | RANCHO CUCAMONGA, CITY OF | 06071C8630F | 13-MAR-2002 | 02-09-044P | 06
09 | CA | RANCHO CUCAMONGA, CITY OF | 06071C8630F | 13-MAY-2002 | 02-09-568A | 02
09 | CA | RANCHO CUCAMONGA, CITY OF | 06071C7890F | 08-MAY-2002 | 02-09-776A | 02
09 | CA | REDDING, CITY OF | 0603600005C | 12-MAR-2002 | 01-09-682P | 05
09 | CA | REDDING, CITY OF | 0603600015C | 12-MAR-2002 | 01-09-682P | 05
09 | CA | REDDING, CITY OF | 0603600015C | 12-MAR-2002 | 01-09-862P | 06
09 | CA | REDDING, CITY OF | 0603580520C | 23-JAN-2002 | 02-09-284A | 02
09 | CA | REDDING, CITY OF | 0603600025D | 31-JAN-2002 | 02-09-362A | 02
09 | CA | REDDING, CITY OF | 0603600020D | 06-MAR-2002 | 02-09-516A | 02
09 | CA | REDDING, CITY OF | 0603600025D | 12-MAR-2002 | 02-09-536A | 02
09 | CA | REDLANDS, CITY OF | 06071C8701F | 22-JAN-2002 | 01-09-126P | 06
09 | CA | REDLANDS, CITY OF | 06071C8702F | 22-JAN-2002 | 01-09-126P | 06
09 | CA | REDLANDS, CITY OF | 06071C8703F | 22-JAN-2002 | 01-09-126P | 06
09 | CA | REDLANDS, CITY OF | 06071C8704F | 22-JAN-2002 | 01-09-126P | 06
09 | CA | REDLANDS, CITY OF | 06071C8706F | 22-JAN-2002 | 01-09-126P | 06
09 | CA | REDLANDS, CITY OF | 06071C8707F | 22-JAN-2002 | 01-09-126P | 06
09 | CA | REDLANDS, CITY OF | 06071C8708F | 22-JAN-2002 | 01-09-126P | 06
09 | CA | REDLANDS, CITY OF | 06071C8709F | 22-JAN-2002 | 01-09-126P | 06
09 | CA | REDLANDS, CITY OF | 06071C8730F | 22-JAN-2002 | 01-09-126P | 06
09 | CA | REEDLEY, CITY OF | 06019C2710F | 13-MAY-2002 | 02-09-719A | 01
09 | CA | RIALTO, CITY OF | 06071C8686F | 22-JAN-2002 | 01-09-126P | 06
09 | CA | RIVERSIDE COUNTY | 0602450680A | 30-JAN-2002 | 01-09-085P | 05
09 | CA | RIVERSIDE COUNTY | 0602450685B | 30-JAN-2002 | 01-09-085P | 05
09 | CA | RIVERSIDE COUNTY | 0602452730C | 18-MAR-2002 | 01-09-849P | 05
09 | CA | RIVERSIDE COUNTY | 0602450680A | 30-JAN-2002 | 02-09-195X | 05
09 | CA | RIVERSIDE COUNTY | 0602450685B | 30-JAN-2002 | 02-09-195X | 05
09 | CA | RIVERSIDE COUNTY | 0602453355D | 29-JAN-2002 | 02-09-394P | 06
09 | CA | RIVERSIDE COUNTY | 0602452710C | 14-MAR-2002 | 02-09-417X | 06
09 | CA | RIVERSIDE COUNTY | 0602450680A | 06-MAR-2002 | 02-09-569X | 05
09 | CA | RIVERSIDE COUNTY | 0602450685B | 06-MAR-2002 | 02-09-569X | 05
09 | CA | ROCKLIN, CITY OF | 06061C0477G | 29-MAY-2002 | 02-09-844A | 01
09 | CA | ROSEVILLE, CITY OF | 06061C0413F | 05-APR-2002 | 02-09-625A | 01
09 | CA | ROSEVILLE, CITY OF | 06061C0479G | 05-JUN-2002 | 02-09-915A | 02
09 | CA | ROSEVILLE, CITY OF | 06061C0479G | 05-JUN-2002 | 02-09-917A | 02
09 | CA | SACRAMENTO COUNTY | 0602620310F | 09-JAN-2002 | 02-09-261A | 01
09 | CA | SACRAMENTO COUNTY | 0602620330D | 09-JAN-2002 | 02-09-261A | 01
09 | CA | SACRAMENTO COUNTY | 0602620090E | 18-JAN-2002 | 02-09-316A | 02
09 | CA | SACRAMENTO COUNTY | 0602620205E | 16-JAN-2002 | 02-09-349X | 02
09 | CA | SACRAMENTO COUNTY | 0602620190E | 20-MAR-2002 | 02-09-474A | 02
09 | CA | SACRAMENTO COUNTY | 0602620205E | 29-MAY-2002 | 02-09-846A | 02
09 | CA | SACRAMENTO COUNTY | 0602620095E | 21-JUN-2002 | 02-09-973A | 02
09 | CA | SACRAMENTO, CITY OF | 0602660025F | 23-JAN-2002 | 02-09-245A | 02
09 | CA | SACRAMENTO, CITY OF | 0602660020F | 15-FEB-2002 | 02-09-431A | 02
09 | CA | SACRAMENTO, CITY OF | 0602660020F | 13-MAY-2002 | 02-09-709A | 02
09 | CA | SAN BERNARDINO COUNTY | 06071C8686F | 22-JAN-2002 | 01-09-126P | 06
09 | CA | SAN BERNARDINO COUNTY | 06071C8687F | 22-JAN-2002 | 01-09-126P | 06
09 | CA | SAN BERNARDINO COUNTY | 06071C8707F | 22-JAN-2002 | 01-09-126P | 06
09 | CA | SAN BERNARDINO COUNTY | 06071C8709F | 22-JAN-2002 | 01-09-126P | 06
09 | CA | SAN BERNARDINO COUNTY | 06071C8730F | 22-JAN-2002 | 01-09-126P | 06
09 | CA | SAN BERNARDINO COUNTY | 06071C7135F | 04-JAN-2002 | 02-09-293A | 02
09 | CA | SAN BERNARDINO, CITY OF | 06071C8683F | 22-JAN-2002 | 01-09-126P | 06
09 | CA | SAN BERNARDINO, CITY OF | 06071C8686F | 22-JAN-2002 | 01-09-126P | 06
09 | CA | SAN BERNARDINO, CITY OF | 06071C8687F | 22-JAN-2002 | 01-09-126P | 06
09 | CA | SAN BERNARDINO, CITY OF | 06071C8691F | 22-JAN-2002 | 01-09-126P | 06
09 | CA | SAN BERNARDINO, CITY OF | 06071C7930F | 20-JUN-2002 | 02-09-421A | 02
09 | CA | SAN DIEGO COUNTY | 06073C1081F | 23-JAN-2002 | 01-09-1047A | 02
09 | CA | SAN DIEGO COUNTY | 06073C1686F | 11-JAN-2002 | 02-09-279A | 02
09 | CA | SAN DIEGO COUNTY | 06073C1687F | 11-JAN-2002 | 02-09-279A | 02
09 | CA | SAN DIEGO COUNTY | 06073C1666F | 20-FEB-2002 | 02-09-418A | 02
09 | CA | SAN DIEGO COUNTY | 06073C1136F | 19-FEB-2002 | 02-09-462A | 02
09 | CA | SAN DIEGO COUNTY | 06073C0650F | 19-APR-2002 | 02-09-565A | 02
09 | CA | SAN DIEGO COUNTY | 06073C0525F | 22-MAY-2002 | 02-09-640A | 02
09 | CA | SAN DIEGO COUNTY | 06073C0525F | 05-JUN-2002 | 02-09-794A | 02
09 | CA | SAN DIEGO, CITY OF | 06037C1079F | 25-JAN-2002 | 02-09-030P | 05
09 | CA | SAN DIEGO, CITY OF | 06037C1083F | 25-JAN-2002 | 02-09-030P | 05
09 | CA | SAN DIEGO, CITY OF | 06037C1087F | 25-JAN-2002 | 02-09-030P | 05
09 | CA | SAN DIEGO, CITY OF | 06073C1333F | 13-MAR-2002 | 02-09-235A | 01
09 | CA | SAN DIEGO, CITY OF | 06073C1079F | 19-FEB-2002 | 02-09-498X | 05
09 | CA | SAN DIEGO, CITY OF | 06073C1083F | 19-FEB-2002 | 02-09-498X | 05
09 | CA | SAN DIEGO, CITY OF | 06073C1087F | 19-FEB-2002 | 02-09-498X | 05
09 | CA | SAN JACINTO, CITY OF | 0650560005D | 05-APR-2002 | 02-09-162A | 01
09 | CA | SAN JOAQUIN COUNTY | 0602990295C | 03-APR-2002 | 02-09-222P | 06
09 | CA | SAN JOAQUIN COUNTY | 0602990435C | 03-APR-2002 | 02-09-222P | 06
09 | CA | SAN JOAQUIN COUNTY | 0602990430C | 03-APR-2002 | 02-09-623V | 19
09 | CA | SAN JOAQUIN COUNTY | 0602990435C | 03-APR-2002 | 02-09-623V | 19
09 | CA | SAN JOAQUIN COUNTY | 0602990445C | 03-APR-2002 | 02-09-623V | 19
09 | CA | SAN JOAQUIN COUNTY | 0602990455C | 03-APR-2002 | 02-09-623V | 19
09 | CA | SAN JOAQUIN COUNTY | 0602990580C | 03-APR-2002 | 02-09-623V | 19
09 | CA | SAN JOAQUIN COUNTY | 0602990285C | 07-MAY-2002 | 02-09-768P | 06
09 | CA | SAN JOSE, CITY OF | 0603490009G | 11-JAN-2002 | 01-09-1062A | 02
09 | CA | SAN JOSE, CITY OF | 0603490047E | 05-APR-2002 | 01-09-488P | 05
09 | CA | SAN JOSE, CITY OF | 0603490048E | 05-APR-2002 | 01-09-488P | 05
09 | CA | SAN JOSE, CITY OF | 0603490053E | 05-APR-2002 | 01-09-488P | 05
09 | CA | SAN JOSE, CITY OF | 0603490020F | 20-JUN-2002 | 02-09-1012A | 02
09 | CA | SAN JOSE, CITY OF | 0603490009G | 04-JAN-2002 | 02-09-146A | 02
09 | CA | SAN JOSE, CITY OF | 0603490009G | 04-JAN-2002 | 02-09-247A | 02
09 | CA | SAN JOSE, CITY OF | 0603490014E | 23-JAN-2002 | 02-09-339A | 02
09 | CA | SAN JOSE, CITY OF | 0603490026D | 23-JAN-2002 | 02-09-341A | 02
09 | CA | SAN JOSE, CITY OF | 0603490026D | 25-JAN-2002 | 02-09-342A | 02
09 | CA | SAN JOSE, CITY OF | 0603490020F | 25-JAN-2002 | 02-09-343A | 02
09 | CA | SAN JOSE, CITY OF | 0603490026D | 25-JAN-2002 | 02-09-344A | 02
09 | CA | SAN JOSE, CITY OF | 0603370255E | 08-FEB-2002 | 02-09-380A | 01
09 | CA | SAN JOSE, CITY OF | 0603490010E | 08-FEB-2002 | 02-09-399A | 02
09 | CA | SAN JOSE, CITY OF | 0603490009G | 19-FEB-2002 | 02-09-427A | 02
09 | CA | SAN JOSE, CITY OF | 0603490037D | 15-FEB-2002 | 02-09-448A | 02
09 | CA | SAN JOSE, CITY OF | 0603490026D | 19-FEB-2002 | 02-09-454A | 02
09 | CA | SAN JOSE, CITY OF | 0603490037D | 12-MAR-2002 | 02-09-531A | 02
09 | CA | SAN JOSE, CITY OF | 0603490009G | 22-FEB-2002 | 02-09-550A | 02
09 | CA | SAN JOSE, CITY OF | 0603490009G | 15-MAR-2002 | 02-09-578A | 02
09 | CA | SAN JOSE, CITY OF | 0603490014E | 13-MAR-2002 | 02-09-600A | 02
09 | CA | SAN JOSE, CITY OF | 0603490009G | 15-MAR-2002 | 02-09-616A | 02
09 | CA | SAN JOSE, CITY OF | 0603490009G | 27-MAR-2002 | 02-09-653A | 02
09 | CA | SAN JOSE, CITY OF | 0603490026D | 05-APR-2002 | 02-09-681A | 02
09 | CA | SAN JOSE, CITY OF | 0603490020F | 05-APR-2002 | 02-09-690A | 02
09 | CA | SAN JOSE, CITY OF | 0603490020F | 10-APR-2002 | 02-09-698A | 02
09 | CA | SAN JOSE, CITY OF | 0603490020F | 24-APR-2002 | 02-09-704A | 02
09 | CA | SAN JOSE, CITY OF | 0603490026D | 24-APR-2002 | 02-09-712A | 02
09 | CA | SAN JOSE, CITY OF | 0603490014E | 01-MAY-2002 | 02-09-734A | 02
09 | CA | SAN JOSE, CITY OF | 0603490020F | 01-MAY-2002 | 02-09-735A | 02
09 | CA | SAN JOSE, CITY OF | 0603490037D | 01-MAY-2002 | 02-09-774A | 02
09 | CA | SAN JOSE, CITY OF | 0603490020F | 15-MAY-2002 | 02-09-824A | 02
09 | CA | SAN JOSE, CITY OF | 0603490037D | 15-MAY-2002 | 02-09-825A | 02
09 | CA | SAN JOSE, CITY OF | 0603490009G | 07-JUN-2002 | 02-09-930A | 02
09 | CA | SAN JOSE, CITY OF | 0603490037D | 07-JUN-2002 | 02-09-932A | 02
09 | CA | SAN JOSE, CITY OF | 0603490020F | 20-JUN-2002 | 02-09-969A | 02
09 | CA | SAN JOSE, CITY OF | 0603490020F | 20-JUN-2002 | 02-09-986A | 02
09 | CA | SAN JUAN CAPISTRANO, CITY OF | 06059C0075F | 08-FEB-2002 | 02-09-277A | 02
09 | CA | SAN JUAN CAPISTRANO, CITY OF | 06059C0071F | 14-JUN-2002 | 02-09-968A | 17
09 | CA | SAN LEANDRO, CITY OF | 0600130003C | 20-FEB-2002 | 02-09-447A | 02
09 | CA | SAN LUIS OBISPO COUNTY | 0603040188C | 01-MAR-2002 | 02-09-422A | 02
09 | CA | SAN LUIS OBISPO COUNTY | 0603040275B | 29-MAR-2002 | 02-09-599A | 02
09 | CA | SAN LUIS OBISPO COUNTY | 0603040338C | 15-MAY-2002 | 02-09-816A | 02
09 | CA | SAN LUIS OBISPO COUNTY | 0603040364B | 07-JUN-2002 | 02-09-916A | 02
09 | CA | SAN MARCOS, CITY OF | 06073C1052F | 23-JAN-2002 | 01-09-1174A | 02
09 | CA | SAN MATEO COUNTY | 0603110350B | 25-JAN-2002 | 02-09-271A | 02
09 | CA | SAN MATEO COUNTY | 0603110350B | 05-APR-2002 | 02-09-375A | 02
09 | CA | SAN MATEO COUNTY | 0603110113B | 20-MAR-2002 | 02-09-381A | 02
09 | CA | SAN MATEO COUNTY | 0603110401B | 12-APR-2002 | 02-09-515A | 02
09 | CA | SAN MATEO, CITY OF | 0603280002B | 24-APR-2002 | 02-09-592A | 02
09 | CA | SAN RAFAEL, CITY OF | 0650580020B | 20-JUN-2002 | 02-09-988A | 02
09 | CA | SANTA BARBARA COUNTY | 0603310730C | 24-APR-2002 | 02-09-710A | 02
09 | CA | SANTA BARBARA COUNTY | 0603310765E | 29-MAY-2002 | 02-09-884A | 02
09 | CA | SANTA BARBARA COUNTY | 0603310765E | 26-JUN-2002 | 02-09-980A | 01
09 | CA | SANTA BARBARA, CITY OF | 0603350005D | 20-MAR-2002 | 02-09-577A | 02
09 | CA | SANTA CLARA COUNTY | 0603370410D | 18-JAN-2002 | 01-09-1113A | 02
09 | CA | SANTA CLARA COUNTY | 0603370405E | 05-APR-2002 | 01-09-488P | 05
09 | CA | SANTA CLARA, CITY OF | 0603500001D | 04-JAN-2002 | 01-09-1106P | 05
09 | CA | SANTA CLARA, CITY OF | 0603500003D | 04-JAN-2002 | 01-09-1106P | 05
09 | CA | SANTA CLARA, CITY OF | 0603500001D | 23-JAN-2002 | 01-09-1128A | 02
09 | CA | SANTA CLARA, CITY OF | 0603500001D | 26-JUN-2002 | 02-09-1017A | 02
09 | CA | SANTA CLARA, CITY OF | 0603500003D | 26-JUN-2002 | 02-09-1031A | 02
09 | CA | SANTA CLARA, CITY OF | 0603500003D | 18-JAN-2002 | 02-09-311A | 02
09 | CA | SANTA CLARA, CITY OF | 0603500003D | 15-FEB-2002 | 02-09-392A | 02
09 | CA | SANTA CLARA, CITY OF | 0603500003D | 05-APR-2002 | 02-09-663A | 02
09 | CA | SANTA CLARA, CITY OF | 0603500001D | 03-MAY-2002 | 02-09-790A | 02
09 | CA | SANTA CLARITA, CITY OF | 0607290460C | 31-MAY-2002 | 02-09-890A | 02
09 | CA | SANTA CRUZ, CITY OF | 0603550002B | 26-JUN-2002 | 02-09-439P | 06
09 | CA | SANTA CRUZ, CITY OF | 0603550004C | 26-JUN-2002 | 02-09-439P | 06
09 | CA | SANTA MARIA, CITY OF | 0603360005D | 10-APR-2002 | 02-09-433A | 02
09 | CA | SANTA ROSA, CITY OF | 0603810011B | 13-MAR-2002 | 02-09-584A | 02
09 | CA | SANTEE, CITY OF | 06073C1653F | 20-FEB-2002 | 02-09-408A | 02
09 | CA | SANTEE, CITY OF | 06073C1653F | 11-MAR-2002 | 99-09-811P | 06
09 | CA | SHASTA COUNTY | 0603580500B | 31-JAN-2002 | 02-09-353A | 02
09 | CA | SHASTA COUNTY | 0603580625B | 19-FEB-2002 | 02-09-406A | 02
09 | CA | SHASTA COUNTY | 0603580885E | 19-APR-2002 | 02-09-525A | 01
09 | CA | SHASTA COUNTY | 0603580885E | 29-MAY-2002 | 02-09-875A | 02
09 | CA | SIMI VALLEY, CITY OF | 0604210006B | 11-JAN-2002 | 02-09-095A | 02
09 | CA | SIMI VALLEY, CITY OF | 0604210004B | 20-JUN-2002 | 02-09-1016A | 02
09 | CA | SIMI VALLEY, CITY OF | 0604210008B | 29-MAR-2002 | 02-09-205A | 02
09 | CA | SIMI VALLEY, CITY OF | 0604210004B | 09-JAN-2002 | 02-09-280A | 02
09 | CA | SIMI VALLEY, CITY OF | 0604210006B | 16-JAN-2002 | 02-09-295A | 02
09 | CA | SIMI VALLEY, CITY OF | 0604210006B | 18-JAN-2002 | 02-09-312A | 02
09 | CA | SIMI VALLEY, CITY OF | 0604210004B | 24-APR-2002 | 02-09-409A | 02
09 | CA | SIMI VALLEY, CITY OF | 0604210006B | 19-FEB-2002 | 02-09-449A | 02
09 | CA | SIMI VALLEY, CITY OF | 0604210002B | 19-FEB-2002 | 02-09-495A | 02
09 | CA | SIMI VALLEY, CITY OF | 0604210004B | 27-FEB-2002 | 02-09-522A | 02
09 | CA | SIMI VALLEY, CITY OF | 0604210002B | 06-MAR-2002 | 02-09-580A | 02
09 | CA | SIMI VALLEY, CITY OF | 0604210008B | 15-MAR-2002 | 02-09-619A | 02
09 | CA | SIMI VALLEY, CITY OF | 0604210006B | 25-MAR-2002 | 02-09-667A | 02
09 | CA | SIMI VALLEY, CITY OF | 0604210002B | 15-MAY-2002 | 02-09-796A | 02
09 | CA | SIMI VALLEY, CITY OF | 0604210004B | 15-MAY-2002 | 02-09-822A | 02
09 | CA | SIMI VALLEY, CITY OF | 0604210006B | 22-MAY-2002 | 02-09-836A | 02
09 | CA | SIMI VALLEY, CITY OF | 0604210004B | 29-MAY-2002 | 02-09-882A | 02
09 | CA | SIMI VALLEY, CITY OF | 0604210004B | 31-MAY-2002 | 02-09-903A | 02
09 | CA | SIMI VALLEY, CITY OF | 0604210008B | 21-JUN-2002 | 02-09-996A | 02
09 | CA | SISKIYOU COUNTY | 0603621081B | 04-JAN-2002 | 02-09-253A | 02
09 | CA | SISKIYOU COUNTY | 0603621325B | 01-MAY-2002 | 02-09-730A | 02
09 | CA | SISKIYOU COUNTY | 0603620900C | 15-MAY-2002 | 02-09-814A | 02
09 | CA | SISKIYOU COUNTY | 0603621150B | 28-JUN-2002 | 02-09-971A | 02
09 | CA | SOLANO COUNTY | 0606310050B | 24-APR-2002 | 02-09-539A | 02
09 | CA | SOLANO COUNTY | 0606310406B | 17-APR-2002 | 02-09-659A | 02
09 | CA | SONOMA COUNTY | 0603750335C | 04-JAN-2002 | 02-09-120A | 02
09 | CA | SONOMA COUNTY | 0603750685B | 13-MAR-2002 | 02-09-192A | 02
09 | CA | SONOMA COUNTY | 0603750685B | 03-APR-2002 | 02-09-553A | 02
09 | CA | SONOMA COUNTY | 0603750865B | 20-MAR-2002 | 02-09-601A | 02
09 | CA | SONOMA COUNTY | 0603750685B | 29-MAY-2002 | 02-09-864A | 02
09 | CA | SOUTH GATE, CITY OF | 0601630005A | 11-JAN-2002 | 02-09-034P | 06
09 | CA | SOUTH SAN FRANCISCO, CITY OF | 0650620001B | 29-MAY-2002 | 02-09-492A | 01
09 | CA | STANISLAUS COUNTY | 0603840505B | 05-JUN-2002 | 02-09-893A | 17
09 | CA | STOCKTON, CITY OF | 0603020010D | 03-APR-2002 | 02-09-222P | 06
09 | CA | STOCKTON, CITY OF | 0603020015E | 03-APR-2002 | 02-09-622V | 19
09 | CA | STOCKTON, CITY OF | 0603020015E | 12-JUN-2002 | 02-09-952A | 02
09 | CA | SUNNYVALE, CITY OF | 0603520001D | 21-JUN-2002 | 02-09-1005A | 02
09 | CA | SUNNYVALE, CITY OF | 0603520001D | 26-JUN-2002 | 02-09-1045A | 02
09 | CA | SUSANVILLE, CITY OF | 0600930001B | 12-JUN-2002 | 02-09-946A | 02
09 | CA | TEHAMA COUNTY | 0650640480D | 04-JAN-2002 | 02-09-251A | 02
09 | CA | TEHAMA COUNTY | 0650640850B | 12-JUN-2002 | 02-09-391A | 02
09 | CA | TEHAMA COUNTY | 0650640475B | 20-JUN-2002 | 02-09-958A | 02
09 | CA | TEMECULA, CITY OF | 0607420010B | 10-APR-2002 | 02-09-629A | 02
09 | CA | THOUSAND OAKS, CITY OF | 0604220020A | 22-FEB-2002 | 02-09-088A | 02
09 | CA | THOUSAND OAKS, CITY OF | 0604220015B | 03-MAY-2002 | 02-09-533A | 02
09 | CA | THOUSAND OAKS, CITY OF | 0604220015B | 26-APR-2002 | 02-09-701A | 02
09 | CA | TRACY, CITY OF | 0603030005A | 10-APR-2002 | 02-09-641A | 02
09 | CA | TULARE COUNTY | 0650660825B | 20-FEB-2002 | 02-09-423A | 01
09 | CA | TULARE COUNTY | 0650661210B | 24-APR-2002 | 02-09-691A | 01
09 | CA | UKIAH, CITY OF | 0601860001E | 04-JAN-2002 | 02-09-236A | 02
09 | CA | UNION CITY, CITY OF | 0600140010C | 20-FEB-2002 | 02-09-056A | 02
09 | CA | VACAVILLE, CITY OF | 0603730004D | 21-FEB-2002 | 01-09-935P | 05
09 | CA | VALLEJO, CITY OF | 0603740005C | 12-JUN-2002 | 02-09-985A | 02
09 | CA | VENTURA COUNTY | 0604130940B | 07-FEB-2002 | 01-09-1082P | 06
09 | CA | VENTURA COUNTY | 0604130620B | 08-MAY-2002 | 01-09-709P | 05
09 | CA | VENTURA COUNTY | 0604130935C | 26-JUN-2002 | 02-09-1013A | 02
09 | CA | VENTURA COUNTY | 0604130645B | 08-FEB-2002 | 02-09-370A | 01
09 | CA | VENTURA COUNTY | 0604130645B | 12-APR-2002 | 02-09-548A | 01
09 | CA | VISALIA, CITY OF | 0604090010C | 14-JUN-2002 | 02-09-888A | 01
09 | CA | WALNUT CREEK, CITY OF | 0600250315C | 29-MAY-2002 | 02-09-503A | 02
09 | CA | WALNUT CREEK, CITY OF | 0650700003C | 29-MAY-2002 | 02-09-787A | 02
09 | CA | WOODLAND, CITY OF | 0604260410C | 03-APR-2002 | 01-09-437V | 19
09 | CA | WOODLAND, CITY OF | 0604260420C | 03-APR-2002 | 01-09-437V | 19
09 | CA | WOODLAND, CITY OF | 0604260410C | 10-APR-2002 | 02-09-652A | 01
09 | CA | WOODLAND, CITY OF | 0604260420C | 10-APR-2002 | 02-09-676A | 02
09 | CA | YUCAIPA, CITY OF | 06071C8745F | 05-MAR-2002 | 01-09-280P | 06
09 | CA | YUCAIPA, CITY OF | 06071C8740F | 04-JAN-2002 | 02-09-143A | 02
09 | CA | YUCAIPA, CITY OF | 06071C8740F | 01-MAY-2002 | 02-09-731A | 02
09 | HI | HAWAII COUNTY | 1551660278C | 20-MAR-2002 | 02-09-457A | 02
09 | HI | HAWAII COUNTY | 1551660278C | 03-MAY-2002 | 02-09-633P | 05
09 | HI | HAWAII COUNTY | 1551660713D | 21-JUN-2002 | 02-09-976A | 02
09 | HI | HONOLULU , CITY AND COUNTY OF | 15003C0380E | 23-JAN-2002 | 02-09-199A | 02
09 | HI | HONOLULU , CITY AND COUNTY OF | 15003C0030E | 23-MAY-2002 | 02-09-657P | 06
09 | HI | HONOLULU , CITY AND COUNTY OF | 15003C0370E | 07-JUN-2002 | 02-09-939A | 02
09 | HI | KAUAI COUNTY | 1500020070C | 18-JAN-2002 | 02-09-080A | 18
09 | HI | KAUAI COUNTY | 1500020030C | 01-MAY-2002 | 02-09-764A | 02
09 | NV | CARSON CITY, CITY OF | 3200010130D | 28-MAY-2002 | 02-09-855A | 02
09 | NV | CHURCHILL COUNTY | 3200300665E | 01-FEB-2002 | 02-09-376A | 02
09 | NV | CLARK COUNTY | 32003C2200D | 11-JAN-2002 | 02-09-336A | 01
09 | NV | CLARK COUNTY | 32003C2590D | 25-MAR-2002 | 02-09-459A | 02
09 | NV | CLARK COUNTY | 32003C2550D | 05-APR-2002 | 02-09-501A | 01
09 | NV | CLARK COUNTY | 32003C2590D | 12-JUN-2002 | 02-09-805A | 01
09 | NV | CLARK COUNTY | 32003C2200D | 28-MAY-2002 | 02-09-911P | 06
09 | NV | ELKO, CITY OF | 3200100004C | 08-MAY-2002 | 01-09-621P | 05
09 | NV | HENDERSON, CITY OF | 32003C2590D | 18-JAN-2002 | 00-09-1118P | 06
09 | NV | HENDERSON, CITY OF | 32003C2595D | 18-JAN-2002 | 00-09-1118P | 06
09 | NV | HENDERSON, CITY OF | 32003C2590D | 18-JAN-2002 | 01-09-863P | 06
09 | NV | HENDERSON, CITY OF | 32003C2595D | 20-FEB-2002 | 02-09-156P | 06
09 | NV | HENDERSON, CITY OF | 32003C2595D | 05-APR-2002 | 02-09-213P | 06
09 | NV | HENDERSON, CITY OF | 32003C2590D | 16-JAN-2002 | 02-09-347X | 01
09 | NV | HENDERSON, CITY OF | 32003C2595D | 16-JAN-2002 | 02-09-347X | 01
09 | NV | LAS VEGAS, CITY OF | 32003C2186D | 10-APR-2002 | 02-09-684A | 02
09 | NV | LYON COUNTY | 3200290400C | 15-FEB-2002 | 02-09-351A | 02
09 | NV | MESQUITE, CITY OF | 32003C0386D | 01-MAR-2002 | 02-09-472A | 01
09 | NV | RENO, CITY OF | 32031C3178E | 11-JAN-2002 | 02-09-364X | 01
09 | NV | RENO, CITY OF | 32031C3178E | 01-MAR-2002 | 02-09-460X | 01
09 | NV | RENO, CITY OF | 32031C3178E | 10-APR-2002 | 02-09-668A | 01
09 | NV | WASHOE COUNTY | 32031C3177F | 18-JAN-2002 | 02-09-075A | 01
09 | NV | WASHOE COUNTY | 32031C3250F | 01-FEB-2002 | 02-09-356A | 02
09 | NV | WASHOE COUNTY | 32031C3176F | 05-APR-2002 | 02-09-666A | 02
09 | NV | WASHOE COUNTY | 32031C2825E | 20-JUN-2002 | 02-09-670A | 02
10 | AK | ANCHORAGE, MUNICIPALITY OF | 0200050241C | 03-MAY-2002 | 02-10-342A | 02
10 | AK | ANCHORAGE, MUNICIPALITY OF | 0200050230B | 29-MAY-2002 | 02-10-445A | 02
10 | AK | FAIRBANKS-NORTH STAR BOROUGH | 0250090204G | 19-FEB-2002 | 02-10-209A | 02
10 | AK | FAIRBANKS-NORTH STAR BOROUGH | 0250090184G | 10-APR-2002 | 02-10-291A | 02
10 | AK | FAIRBANKS-NORTH STAR BOROUGH | 0250090184G | 05-JUN-2002 | 02-10-416A | 01
10 | AK | FAIRBANKS-NORTH STAR BOROUGH | 0250090183G | 20-JUN-2002 | 02-10-456A | 02
10 | AK | JUNEAU, CITY AND BOROUGH OF | 0200090885B | 18-JAN-2002 | 02-10-144A | 02
10 | AK | JUNEAU, CITY AND BOROUGH OF | 0200090890B | 22-MAY-2002 | 02-10-432A | 02
10 | AK | KENAI PENINSULA BOROUGH | 0200122090A | 27-FEB-2002 | 02-10-226A | 02
10 | AK | KENAI PENINSULA BOROUGH | 0200122090A | 17-APR-2002 | 02-10-354A | 02
10 | AK | MATANUSKA-SUSITNA, BOROUGH OF | 0200215100C | 15-MAR-2002 | 02-10-264A | 02
10 | AK | MATANUSKA-SUSITNA, BOROUGH OF | 0200219740D | 25-MAR-2002 | 02-10-286A | 02
10 | ID | ADA COUNTY | 16001C0140G | 11-JAN-2002 | 02-10-061A | 01
10 | ID | ADA COUNTY | 16001C0258G | 06-MAR-2002 | 02-10-246A | 01
10 | ID | ADA COUNTY | 16001C0259G | 28-MAY-2002 | 02-10-382A | 02
10 | ID | BENEWAH COUNTY | 1600140425B | 10-APR-2002 | 02-10-273A | 02
10 | ID | BINGHAM COUNTY | 1600180425B | 18-JAN-2002 | 02-10-147A | 01
10 | ID | BINGHAM COUNTY | 1600180425B | 20-FEB-2002 | 02-10-211A | 02
10 | ID | BINGHAM COUNTY | 1600180430C | 12-APR-2002 | 02-10-249A | 01
10 | ID | BLACKFOOT, CITY OF | 1600190002C | 06-MAR-2002 | 02-10-255A | 02
10 | ID | BLAINE COUNTY | 1651670654B | 27-FEB-2002 | 02-10-185A | 02
10 | ID | BLAINE COUNTY | 1651670859B | 08-MAY-2002 | 02-10-251A | 02
10 | ID | BLAINE COUNTY | 1651670656A | 22-MAY-2002 | 02-10-395A | 02
10 | ID | BONNER COUNTY | 1602060285C | 09-JAN-2002 | 02-10-087A | 02
10 | ID | BONNER COUNTY | 1602060400C | 06-FEB-2002 | 02-10-088A | 02
10 | ID | BONNER COUNTY | 1602060400C | 09-JAN-2002 | 02-10-130A | 02
10 | ID | BONNER COUNTY | 1602060300C | 11-JAN-2002 | 02-10-134A | 02
10 | ID | BONNER COUNTY | 1602060215B | 25-JAN-2002 | 02-10-155A | 02
10 | ID | BONNER COUNTY | 1602060300C | 03-APR-2002 | 02-10-330A | 02
10 | ID | BONNER COUNTY | 1602060360C | 10-APR-2002 | 02-10-348A | 02
10 | ID | BONNER COUNTY | 1602060325B | 24-APR-2002 | 02-10-361A | 02
10 | ID | BONNER COUNTY | 1602060300C | 26-JUN-2002 | 02-10-508A | 02
10 | ID | BONNEVILLE COUNTY | 1600270245C | 12-JUN-2002 | 02-10-429A | 02
10 | ID | BONNEVILLE COUNTY | 1600270235D | 28-JUN-2002 | 02-10-430A | 02
10 | ID | BONNEVILLE COUNTY | 1600270235D | 03-APR-2002 | 98-10-373V | 19
10 | ID | CUSTER COUNTY | 16037C1200C | 24-APR-2002 | 02-10-364A | 02
10 | ID | EAGLE, CITY OF | 16001C0161G | 24-APR-2002 | 02-10-188A | 01
10 | ID | EAGLE, CITY OF | 16001C0153G | 05-JUN-2002 | 02-10-349A | 02
10 | ID | ELMORE COUNTY | 1602120605C | 05-APR-2002 | 02-10-056A | 01
10 | ID | GARDEN CITY, CITY OF | 16001C0166G | 08-FEB-2002 | 02-10-137A | 01
10 | ID | GARDEN CITY, CITY OF | 16001C0166G | 20-FEB-2002 | 02-10-257X | 01
10 | ID | KOOTENAI COUNTY | 1600760025C | 06-MAR-2002 | 02-10-115A | 02
10 | ID | KOOTENAI COUNTY | 1600760180D | 01-MAY-2002 | 02-10-365A | 02
10 | ID | KOOTENAI COUNTY | 1600760160C | 24-APR-2002 | 02-10-377A | 02
10 | ID | LATAH COUNTY | 1600860355B | 03-MAY-2002 | 02-10-383A | 02
10 | ID | MADISON COUNTY | 16065C0020D | 23-JAN-2002 | 02-10-161A | 02
10 | ID | MADISON COUNTY | 16065C0030D | 07-JUN-2002 | 02-10-475A | 02
10 | ID | MERIDIAN, CITY OF | 16001C0251G | 25-MAR-2002 | 01-10-443A | 01
10 | ID | MINIDOKA COUNTY | 160201—54B | 25-JAN-2002 | 02-10-162A | 02
10 | ID | MOSCOW, CITY OF | 1600900001D | 16-APR-2002 | 98-10-030V | 19
10 | ID | MOSCOW, CITY OF | 1600900002D | 16-APR-2002 | 98-10-030V | 19
10 | ID | REXBURG, CITY OF | 16065C0020D | 01-MAY-2002 | 02-10-323A | 01
10 | ID | SHOSHONE COUNTY | 1601140190B | 12-MAR-2002 | 02-10-140A | 02
10 | ID | SHOSHONE COUNTY | 1601140240B | 10-APR-2002 | 02-10-316A | 02
10 | ID | SWAN VALLEY, CITY OF | 1601540005B | 08-MAY-2002 | 02-10-379A | 01
10 | ID | VALLEY COUNTY | 1602200325A | 15-MAY-2002 | 02-10-272A | 02
10 | ID | VALLEY COUNTY | 1602200175A | 15-MAY-2002 | 02-10-274A | 02
10 | ID | WASHINGTON COUNTY | 1602210345B | 03-MAY-2002 | 02-10-301A | 01
10 | ID | WASHINGTON COUNTY | 1602210405B | 20-JUN-2002 | 02-10-489A | 02
10 | ID | WEISER,CITY OF | 1601240005B | 26-JUN-2002 | 02-10-425A | 02
10 | OR | ALBANY, CITY OF | 4101370001F | 20-MAR-2002 | 02-10-219A | 02
10 | OR | ATHENA, CITY OF | 4102060001D | 25-JAN-2002 | 02-10-164A | 02
10 | OR | BANDON, CITY OF | 4100430001C | 21-JUN-2002 | 02-10-491A | 02
10 | OR | BEND, CITY OF | 41017C0215C | 04-JAN-2002 | 02-10-072A | 02
10 | OR | BEND, CITY OF | 41017C0215C | 05-JUN-2002 | 02-10-360A | 02
10 | OR | BENTON COUNTY | 4100080175C | 22-FEB-2002 | 02-10-090A | 02
10 | OR | CENTRAL POINT, CITY OF | 4100920001C | 04-JAN-2002 | 01-10-557A | 02
10 | OR | CLACKAMAS COUNTY | 4155880070B | 20-MAR-2002 | 02-10-153A | 02
10 | OR | CLACKAMAS COUNTY | 4155880036A | 03-MAY-2002 | 02-10-276A | 02
10 | OR | COLUMBIA COUNTY | 41009C0325C | 15-FEB-2002 | 02-10-076A | 02
10 | OR | COOS COUNTY | 4100420250B | 10-APR-2002 | 02-10-122A | 02
10 | OR | COOS COUNTY | 4100420165B | 18-JAN-2002 | 02-10-142A | 02
10 | OR | COOS COUNTY | 4100420250B | 23-JAN-2002 | 02-10-148A | 02
10 | OR | COOS COUNTY | 4100420330B | 10-APR-2002 | 02-10-346A | 02
10 | OR | COOS COUNTY | 4100420375B | 19-APR-2002 | 02-10-359A | 02
10 | OR | CORVALLIS, CITY OF | 4100090004E | 27-FEB-2002 | 02-10-231A | 02
10 | OR | CORVALLIS, CITY OF | 4100090006E | 06-MAR-2002 | 02-10-248A | 02
10 | OR | CORVALLIS, CITY OF | 4100090005E | 15-MAY-2002 | 02-10-423A | 02
10 | OR | CRESWELL, CITY OF | 41039C1642F | 29-MAY-2002 | 02-10-123A | 01
10 | OR | CURRY COUNTY | 4100520310C | 12-APR-2002 | 02-10-253A | 02
10 | OR | DALLAS, CITY OF | 41053C0107D | 16-JAN-2002 | 02-10-099A | 02
10 | OR | DESCHUTES COUNTY | 41017C0460D | 20-FEB-2002 | 02-10-174A | 02
10 | OR | DOUGLAS COUNTY | 4100590925A | 08-FEB-2002 | 02-10-103A | 02
10 | OR | DOUGLAS COUNTY | 4100590930A | 31-JAN-2002 | 02-10-186A | 02
10 | OR | DOUGLAS COUNTY | 4100590925A | 22-FEB-2002 | 02-10-227A | 02
10 | OR | DOUGLAS COUNTY | 4100590745B | 12-APR-2002 | 02-10-261A | 02
10 | OR | DOUGLAS COUNTY | 4100590930A | 20-MAR-2002 | 02-10-277A | 02
10 | OR | DOUGLAS COUNTY | 4100590740C | 05-APR-2002 | 02-10-324A | 02
10 | OR | DOUGLAS COUNTY | 4100590745B | 12-APR-2002 | 02-10-347A | 02
10 | OR | DOUGLAS COUNTY | 4100590930A | 07-JUN-2002 | 02-10-474A | 02
10 | OR | DOUGLAS COUNTY | 4100591175A | 20-JUN-2002 | 02-10-485A | 02
10 | OR | DOUGLAS COUNTY | 4100590940A | 28-JUN-2002 | 02-10-529A | 02
10 | OR | DRAIN, CITY OF | 4100610001B | 17-MAY-2002 | 02-10-331A | 02
10 | OR | EUGENE, CITY OF | 41039C0619F | 25-APR-2002 | 02-10-085P | 06
10 | OR | EUGENE, CITY OF | 41039C1141F | 25-MAR-2002 | 02-10-120A | 02
10 | OR | EUGENE, CITY OF | 41039C1127F | 09-JAN-2002 | 02-10-128A | 02
10 | OR | EUGENE, CITY OF | 41039C1104F | 13-MAR-2002 | 02-10-157A | 02
10 | OR | EUGENE, CITY OF | 41039C0619F | 25-APR-2002 | 02-10-216P | 06
10 | OR | EUGENE, CITY OF | 41039C1136F | 01-MAR-2002 | 02-10-223A | 02
10 | OR | EUGENE, CITY OF | 41039C1136F | 12-MAR-2002 | 02-10-238A | 02
10 | OR | EUGENE, CITY OF | 41039C1104F | 06-MAR-2002 | 02-10-252A | 02
10 | OR | EUGENE, CITY OF | 41039C1104F | 27-MAR-2002 | 02-10-254A | 01
10 | OR | EUGENE, CITY OF | 41039C1104F | 03-APR-2002 | 02-10-305A | 02
10 | OR | EUGENE, CITY OF | 41039C1107F | 03-APR-2002 | 02-10-321A | 02
10 | OR | EUGENE, CITY OF | 41039C1127F | 17-APR-2002 | 02-10-355A | 02
10 | OR | EUGENE, CITY OF | 41039C1104F | 15-MAY-2002 | 02-10-426A | 02
10 | OR | EUGENE, CITY OF | 41039C1104F | 20-JUN-2002 | 02-10-450A | 01
10 | OR | EUGENE, CITY OF | 41039C1104F | 28-JUN-2002 | 02-10-483A | 01
10 | OR | EUGENE, CITY OF | 41039C1107F | 20-JUN-2002 | 02-10-501A | 02
10 | OR | EUGENE, CITY OF | 41039C1106F | 26-JUN-2002 | 02-10-517A | 02
10 | OR | FAIRVIEW, CITY OF | 4101800001D | 03-MAY-2002 | 02-10-327A | 02
10 | OR | FAIRVIEW, CITY OF | 4101800001D | 26-JUN-2002 | 02-10-511A | 02
10 | OR | FLORENCE, CITY OF | 41039C1427F | 01-MAY-2002 | 02-10-356A | 02
10 | OR | GOLD BEACH, CITY OF | 4100540002D | 10-APR-2002 | 02-10-242A | 17
10 | OR | GRANTS PASS, CITY OF | 4155900237D | 09-JAN-2002 | 02-10-129A | 02
10 | OR | HILLSBORO, CITY OF | 4102430003B | 11-JAN-2002 | 02-10-135A | 02
10 | OR | HILLSBORO, CITY OF | 4102430002B | 29-MAY-2002 | 02-10-396A | 02
10 | OR | JACKSON COUNTY | 4155890285B | 22-FEB-2002 | 02-10-177A | 02
10 | OR | JACKSON COUNTY | 4155890395B | 27-FEB-2002 | 02-10-183A | 02
10 | OR | JACKSON COUNTY | 4155890207B | 05-APR-2002 | 02-10-271A | 02
10 | OR | JACKSON COUNTY | 4155890288B | 03-APR-2002 | 02-10-319A | 02
10 | OR | JACKSON COUNTY | 4155890317B | 03-MAY-2002 | 02-10-403A | 02
10 | OR | JACKSON COUNTY | 4155890293B | 20-JUN-2002 | 02-10-495A | 17
10 | OR | JOSEPHINE COUNTY | 4155900237D | 20-JUN-2002 | 02-10-448A | 02
10 | OR | KEIZER, CITY OF | 41047C0194G | 26-APR-2002 | 01-10-568A | 02
10 | OR | KEIZER, CITY OF | 41047C0331G | 09-JAN-2002 | 02-10-124A | 02
10 | OR | KEIZER, CITY OF | 41047C0194G | 06-FEB-2002 | 02-10-197A | 02
10 | OR | KEIZER, CITY OF | 41047C0194G | 27-FEB-2002 | 02-10-234A | 02
10 | OR | KEIZER, CITY OF | 41047C0194G | 12-MAR-2002 | 02-10-239A | 02
10 | OR | KEIZER, CITY OF | 41047C0332G | 13-MAR-2002 | 02-10-267A | 02
10 | OR | KLAMATH COUNTY | 4101091350B | 25-MAR-2002 | 02-10-190A | 02
10 | OR | KLAMATH COUNTY | 4101091350B | 21-JUN-2002 | 02-10-402A | 02
10 | OR | LAKE OSWEGO, CITY OF | 4100180002C | 19-FEB-2002 | 02-10-016A | 01
10 | OR | LAKE OSWEGO, CITY OF | 4100180003C | 04-JAN-2002 | 02-10-121A | 02
10 | OR | LAKE OSWEGO, CITY OF | 4100180003C | 27-FEB-2002 | 02-10-232A | 02
10 | OR | LAKE OSWEGO, CITY OF | 4100180003C | 24-APR-2002 | 02-10-299A | 02
10 | OR | LANE COUNTY | 41039C1050F | 16-JAN-2002 | 02-10-094A | 02
10 | OR | LANE COUNTY | 41039C0690F | 31-JAN-2002 | 02-10-102A | 02
10 | OR | LANE COUNTY | 41039C1075F | 31-JAN-2002 | 02-10-171A | 02
10 | OR | LANE COUNTY | 41039C0945F | 12-MAR-2002 | 02-10-184A | 02
10 | OR | LANE COUNTY | 41039C1107F | 08-FEB-2002 | 02-10-198A | 02
10 | OR | LANE COUNTY | 41039C1180F | 20-FEB-2002 | 02-10-207A | 02
10 | OR | LANE COUNTY | 41039C0690F | 20-MAR-2002 | 02-10-210A | 02
10 | OR | LANE COUNTY | 41039C1660F | 27-FEB-2002 | 02-10-222A | 02
10 | OR | LANE COUNTY | 41039C1100F | 27-FEB-2002 | 02-10-228A | 02
10 | OR | LANE COUNTY | 41039C0639F | 13-MAR-2002 | 02-10-258A | 02
10 | OR | LANE COUNTY | 41039C1660F | 05-APR-2002 | 02-10-311A | 02
10 | OR | LANE COUNTY | 41039C0680F | 10-APR-2002 | 02-10-339A | 02
10 | OR | LANE COUNTY | 41039C2092F | 08-MAY-2002 | 02-10-407A | 02
10 | OR | LANE COUNTY | 41039C1075F | 29-MAY-2002 | 02-10-439A | 02
10 | OR | LANE COUNTY | 41039C1165F | 29-MAY-2002 | 02-10-458A | 02
10 | OR | LANE COUNTY | 41039C1104F | 20-JUN-2002 | 02-10-459A | 02
10 | OR | LANE COUNTY | 41039C1107F | 12-JUN-2002 | 02-10-477A | 02
10 | OR | LANE COUNTY | 41039C1107F | 26-JUN-2002 | 02-10-486A | 02
10 | OR | LINCOLN COUNTY | 4101290075B | 20-JUN-2002 | 02-10-089A | 02
10 | OR | LINCOLN COUNTY | 4101290025B | 25-JAN-2002 | 02-10-160A | 02
10 | OR | LINCOLN COUNTY | 4101290125B | 01-MAR-2002 | 02-10-180A | 02
10 | OR | LINCOLN COUNTY | 4101290200B | 15-FEB-2002 | 02-10-201A | 02
10 | OR | LINN COUNTY | 4101360350B | 16-JAN-2002 | 02-10-178A | 02
10 | OR | LINN COUNTY | 4101360350B | 01-MAY-2002 | 02-10-225A | 01
10 | OR | LINN COUNTY | 4101360190B | 08-MAY-2002 | 02-10-397A | 02
10 | OR | MALHEUR COUNTY | 4101490375B | 20-MAR-2002 | 02-10-221A | 02
10 | OR | MARION COUNTY | 41047C0225G | 18-JAN-2002 | 02-10-117A | 02
10 | OR | MARION COUNTY | 41047C0194G | 10-APR-2002 | 02-10-344A | 02
10 | OR | MULTNOMAH COUNTY | 4101790214B | 15-MAY-2002 | 00-10-277P | 08
10 | OR | MULTNOMAH COUNTY | 4101790220B | 15-MAY-2002 | 00-10-277P | 08
10 | OR | MULTNOMAH COUNTY | 4101790381B | 20-FEB-2002 | 02-10-215A | 02
10 | OR | MULTNOMAH COUNTY | 4101790215B | 28-JUN-2002 | 02-10-515A | 02
10 | OR | MYRTLE POINT, CITY OF | 4100470001B | 07-JUN-2002 | 02-10-431A | 02
10 | OR | PHILOMATH, CITY OF | 4100110001B | 06-MAR-2002 | 02-10-262A | 02
10 | OR | PORTLAND, CITY OF | 4101830041D | 31-JAN-2002 | 02-10-170A | 02
10 | OR | PORTLAND, CITY OF | 4101830048C | 20-FEB-2002 | 02-10-182A | 02
10 | OR | PORTLAND, CITY OF | 4101830048C | 28-JUN-2002 | 02-10-514A | 02
10 | OR | ROSEBURG, CITY OF | 4100670005E | 13-MAY-2002 | 02-10-409A | 02
10 | OR | ROSEBURG, CITY OF | 4100670005E | 26-JUN-2002 | 02-10-516A | 02
10 | OR | SALEM, CITY OF | 41047C0337G | 07-MAR-2002 | 01-10-462P | 06
10 | OR | SALEM, CITY OF | 41047C0361G | 15-FEB-2002 | 02-10-204A | 01
10 | OR | SALEM, CITY OF | 41047C0333G | 15-MAY-2002 | 02-10-376A | 02
10 | OR | SEASIDE, CITY OF | 4100320002C | 12-JUN-2002 | 02-10-464A | 01
10 | OR | SPRINGFIELD, CITY OF | 41039C1167F | 27-FEB-2002 | 02-10-259A | 02
10 | OR | SPRINGFIELD, CITY OF | 41039C1167F | 28-JUN-2002 | 02-10-457A | 02
10 | OR | ST. HELENS, CITY OF | 41009C0452C | 15-MAY-2002 | 02-10-341A | 02
10 | OR | TIGARD, CITY OF | 4102760005B | 21-JUN-2002 | 02-10-302A | 02
10 | OR | TILLAMOOK COUNTY | 4101960085A | 22-FEB-2002 | 02-10-214A | 02
10 | OR | TILLAMOOK COUNTY | 4101960250A | 20-FEB-2002 | 02-10-220A | 02
10 | OR | TILLAMOOK COUNTY | 4101960165A | 24-APR-2002 | 02-10-243A | 02
10 | OR | TILLAMOOK COUNTY | 4101960170B | 24-APR-2002 | 02-10-243A | 02
10 | OR | TILLAMOOK COUNTY | 4101960250A | 29-MAR-2002 | 02-10-300A | 02
10 | OR | TILLAMOOK COUNTY | 4101960250A | 08-MAY-2002 | 02-10-303A | 02
10 | OR | TILLAMOOK COUNTY | 4101960310A | 12-JUN-2002 | 02-10-388A | 02
10 | OR | TUALATIN, CITY OF | 4102770002D | 31-JAN-2002 | 02-10-175A | 01
10 | OR | TURNER, CITY OF | 41047C0677G | 05-JUN-2002 | 02-10-468A | 01
10 | OR | WALLOWA COUNTY | 41063C0625B | 15-MAY-2002 | 02-10-427A | 02
10 | OR | WASHINGTON COUNTY | 4102380361B | 18-JAN-2002 | 02-10-146A | 02
10 | OR | WASHINGTON COUNTY | 4102380364C | 15-FEB-2002 | 02-10-206A | 02
10 | OR | WASHINGTON COUNTY | 4102380361B | 13-MAR-2002 | 02-10-265A | 02
10 | OR | WEST LINN, CITY OF | 4100240001B | 27-MAR-2002 | 02-10-280A | 02
10 | OR | WILSONVILLE, CITY OF | 4100250005B | 29-MAY-2002 | 02-10-463A | 02
10 | OR | WOODBURN, CITY OF | 41047C0117G | 06-FEB-2002 | 02-10-139A | 02
10 | OR | WOODBURN, CITY OF | 41047C0138G | 27-FEB-2002 | 02-10-237A | 02
10 | OR | WOODBURN, CITY OF | 41047C0117G | 08-MAY-2002 | 02-10-405A | 02
10 | OR | WOODBURN, CITY OF | 41047C0138G | 29-MAY-2002 | 02-10-461A | 02
10 | OR | YAMHILL COUNTY | 4102490275C | 15-FEB-2002 | 02-10-042A | 02
10 | OR | YAMHILL COUNTY | 4102490133C | 06-FEB-2002 | 02-10-202A | 02
10 | OR | YAMHILL COUNTY | 4102490480C | 10-APR-2002 | 02-10-266A | 02
10 | OR | YAMHILL COUNTY | 4102490428C | 10-APR-2002 | 02-10-269A | 02
10 | WA | ABERDEEN, CITY OF | 5300580004B | 01-MAY-2002 | 02-10-393A | 02
10 | WA | BELLINGHAM, CITY OF | 5301990006B | 20-MAR-2002 | 01-10-571A | 01
10 | WA | BURIEN, CITY OF | 53033C0955F | 20-JUN-2002 | 02-10-326A | 02
10 | WA | BURIEN, CITY OF | 53033C0955F | 12-JUN-2002 | 02-10-418A | 02
10 | WA | BURLINGTON, CITY OF | 5301530001B | 16-JAN-2002 | 02-10-141A | 02
10 | WA | BURLINGTON, CITY OF | 5301530001B | 19-APR-2002 | 02-10-195A | 01
10 | WA | BURLINGTON, CITY OF | 5301510250C | 29-MAY-2002 | 02-10-390A | 01
10 | WA | CARNATION, CITY OF | 53033C0419G | 27-FEB-2002 | 02-10-167A | 02
10 | WA | CARNATION, CITY OF | 53033C0418G | 01-MAY-2002 | 02-10-336P | 06
10 | WA | CARNATION, CITY OF | 53033C0419G | 01-MAY-2002 | 02-10-336P | 06
10 | WA | CARNATION, CITY OF | 53033C0420G | 01-MAY-2002 | 02-10-336P | 06
10 | WA | CENTRALIA, CITY OF | 5301030001B | 05-APR-2002 | 02-10-279A | 02
10 | WA | CENTRALIA, CITY OF | 5301030002B | 26-JUN-2002 | 02-10-519A | 02
10 | WA | CLALLAM COUNTY | 5300210575C | 16-JAN-2002 | 02-10-133A | 02
10 | WA | CLARK COUNTY | 5300240340C | 21-JUN-2002 | 02-10-424A | 02
10 | WA | CLE ELUM, CITY OF | 5300960001B | 15-MAY-2002 | 02-10-318A | 17
10 | WA | COWLITZ COUNTY | 5300320129E | 13-FEB-2002 | 01-10-401P | 05
10 | WA | COWLITZ COUNTY | 5300320137F | 15-MAR-2002 | 02-10-256A | 02
10 | WA | DOUGLAS COUNTY | 5300360535A | 31-JAN-2002 | 01-10-500A | 02
10 | WA | GRANT COUNTY | 5300490525B | 12-JUN-2002 | 02-10-378A | 02
10 | WA | GRAYS HARBOR COUNTY | 5300570215B | 15-FEB-2002 | 02-10-045A | 02
10 | WA | GRAYS HARBOR COUNTY | 5300570458B | 23-JAN-2002 | 02-10-151A | 02
10 | WA | GRAYS HARBOR COUNTY | 5300570342B | 13-MAR-2002 | 02-10-224A | 02
10 | WA | GRAYS HARBOR COUNTY | 5300570325B | 19-APR-2002 | 02-10-250A | 02
10 | WA | ISLAND COUNTY | 53029C0430D | 04-JAN-2002 | 02-10-011A | 02
10 | WA | ISLAND COUNTY | 53029C0130D | 21-JUN-2002 | 02-10-478A | 02
10 | WA | KENT, CITY OF | 53033C0988F | 22-FEB-2002 | 02-10-116A | 01
10 | WA | KENT, CITY OF | 53033C0986F | 25-JAN-2002 | 02-10-150A | 02
10 | WA | KENT, CITY OF | 53033C0989F | 26-JUN-2002 | 02-10-505A | 02
10 | WA | KING COUNTY | 53033C0736F | 04-JAN-2002 | 02-10-050A | 17
10 | WA | KING COUNTY | 53033C0925F | 22-FEB-2002 | 02-10-187A | 02
10 | WA | KING COUNTY | 53033C0418G | 27-FEB-2002 | 02-10-236A | 02
10 | WA | KING COUNTY | 53033C1290F | 27-FEB-2002 | 02-10-240A | 02
10 | WA | KING COUNTY | 53033C1515F | 12-MAR-2002 | 02-10-247A | 02
10 | WA | KING COUNTY | 53033C0213G | 12-APR-2002 | 02-10-284A | 17
10 | WA | KING COUNTY | 53033C1505F | 03-MAY-2002 | 02-10-297A | 02
10 | WA | KING COUNTY | 53033C1009F | 29-MAY-2002 | 02-10-307A | 02
10 | WA | KING COUNTY | 53033C0418G | 01-MAY-2002 | 02-10-336P | 06
10 | WA | KING COUNTY | 53033C0419G | 01-MAY-2002 | 02-10-336P | 06
10 | WA | KING COUNTY | 53033C0420G | 01-MAY-2002 | 02-10-336P | 06
10 | WA | KING COUNTY | 53033C1280F | 07-JUN-2002 | 02-10-398A | 02
10 | WA | KITSAP COUNTY | 5300920280B | 04-JAN-2002 | 02-10-046A | 02
10 | WA | KITSAP COUNTY | 5300920185B | 31-JAN-2002 | 02-10-132A | 02
10 | WA | KITSAP COUNTY | 5300920375B | 23-JAN-2002 | 02-10-154A | 02
10 | WA | KITSAP COUNTY | 5300920310B | 20-FEB-2002 | 02-10-158A | 02
10 | WA | KITTITAS COUNTY | 5300950554C | 04-JAN-2002 | 02-10-145A | 02
10 | WA | KITTITAS COUNTY | 5300950554C | 06-MAR-2002 | 02-10-229A | 17
10 | WA | KITTITAS COUNTY | 5300950439B | 15-MAR-2002 | 02-10-287A | 02
10 | WA | KITTITAS COUNTY | 5300950554C | 15-MAR-2002 | 02-10-312X | 17
10 | WA | LEWIS COUNTY | 5301020215B | 20-MAR-2002 | 02-10-136A | 02
10 | WA | LEWIS COUNTY | 5301020360B | 22-MAY-2002 | 02-10-433A | 02
10 | WA | LEWIS COUNTY | 5301020445B | 31-MAY-2002 | 02-10-465A | 02
10 | WA | MASON COUNTY | 5301150255C | 18-JAN-2002 | 02-10-179A | 02
10 | WA | MASON COUNTY | 5301150255C | 20-FEB-2002 | 02-10-208A | 02
10 | WA | MASON COUNTY | 5301150275C | 05-APR-2002 | 02-10-268A | 02
10 | WA | MASON COUNTY | 5301150150C | 12-JUN-2002 | 02-10-400A | 02
10 | WA | OKANOGAN COUNTY | 5301170850C | 13-MAY-2002 | 02-10-315A | 02
10 | WA | OLYMPIA, CITY OF | 5301910003B | 25-JAN-2002 | 02-10-159A | 02
10 | WA | OLYMPIA, CITY OF | 5301910003B | 12-MAR-2002 | 02-10-282A | 02
10 | WA | PEND OREILLE COUNTY | 53051C0335C | 05-MAR-2002 | 99-10-183V | 19
10 | WA | PEND OREILLE COUNTY | 53051C0850C | 05-MAR-2002 | 99-10-183V | 19
10 | WA | PEND OREILLE COUNTY | 53051C0860C | 05-MAR-2002 | 99-10-183V | 19
10 | WA | PEND OREILLE COUNTY | 53051C0875C | 05-MAR-2002 | 99-10-183V | 19
10 | WA | PIERCE COUNTY | 5301380150C | 15-MAR-2002 | 02-10-097A | 02
10 | WA | PIERCE COUNTY | 5301380275C | 22-MAY-2002 | 02-10-235A | 02
10 | WA | PIERCE COUNTY | 5301380375C | 22-MAY-2002 | 02-10-449A | 02
10 | WA | POULSBO, CITY OF | 5302410005C | 10-APR-2002 | 02-10-293A | 02
10 | WA | PRESCOTT, TOWN OF | 5302590216B | 22-MAY-2002 | 02-10-329A | 02
10 | WA | PUYALLUP, CITY OF | 5301440005B | 06-FEB-2002 | 02-10-196A | 02
10 | WA | SAN JUAN COUNTY | 5301490003B | 28-JUN-2002 | 02-10-414A | 02
10 | WA | SKAGIT COUNTY | 5301510260C | 04-JAN-2002 | 02-10-021A | 02
10 | WA | SKAGIT COUNTY | 5301510235D | 11-JAN-2002 | 02-10-131A | 02
10 | WA | SKAGIT COUNTY | 5301510450C | 16-JAN-2002 | 02-10-138A | 02
10 | WA | SKAGIT COUNTY | 5301510250C | 20-FEB-2002 | 02-10-172A | 02
10 | WA | SKAGIT COUNTY | 5301510320C | 13-MAR-2002 | 02-10-263A | 02
10 | WA | SKAGIT COUNTY | 5301510235D | 27-MAR-2002 | 02-10-294A | 02
10 | WA | SKAGIT COUNTY | 5301510050C | 05-APR-2002 | 02-10-308A | 02
10 | WA | SKAGIT COUNTY | 5301510250C | 10-APR-2002 | 02-10-328A | 02
10 | WA | SKAGIT COUNTY | 5301510025C | 22-MAY-2002 | 02-10-345A | 02
10 | WA | SKOKOMISH INDIAN TRIBE | 5301150180D | 07-FEB-2002 | 01-10-496P | 05
10 | WA | SKOKOMISH INDIAN TRIBE | 5301150185C | 07-FEB-2002 | 01-10-496P | 05
10 | WA | SNOHOMISH COUNTY | 53061C0710E | 23-JAN-2002 | 01-10-569A | 02
10 | WA | SNOHOMISH COUNTY | 53061C1310E | 01-MAY-2002 | 02-10-149A | 02
10 | WA | SNOHOMISH COUNTY | 53061C0165E | 08-MAY-2002 | 02-10-406A | 02
10 | WA | SNOHOMISH COUNTY | 53061C1055E | 08-MAY-2002 | 02-10-412A | 02
10 | WA | SNOHOMISH COUNTY | 53061C0739E | 08-MAY-2002 | 02-10-419A | 02
10 | WA | SNOHOMISH COUNTY | 53061C1310E | 29-MAY-2002 | 02-10-500X | 02
10 | WA | SOUTH BEND, CITY OF | 5301300001B | 08-MAY-2002 | 02-10-404A | 02
10 | WA | SPOKANE COUNTY | 5301740025B | 23-JAN-2002 | 02-10-044A | 02
10 | WA | SPOKANE COUNTY | 5301740401C | 08-FEB-2002 | 02-10-080A | 02
10 | WA | SPOKANE COUNTY | 5301740401C | 29-MAR-2002 | 02-10-098A | 02
10 | WA | SPOKANE COUNTY | 5301740085B | 16-JAN-2002 | 02-10-176X | 02
10 | WA | SPOKANE COUNTY | 5301740294C | 15-FEB-2002 | 02-10-217A | 02
10 | WA | SPOKANE COUNTY | 5301740294C | 29-MAY-2002 | 02-10-367A | 02
10 | WA | STEVENS COUNTY | 5301850600B | 27-MAR-2002 | 02-10-270A | 02
10 | WA | UNIONTOWN, TOWN OF | 5302160001A | 23-JAN-2002 | 02-10-156A | 02
10 | WA | WAHKIAKUM COUNTY | 5301930015B | 15-FEB-2002 | 02-10-082A | 02
10 | WA | WENATCHEE, CITY OF | 5300200005C | 14-JUN-2002 | 02-10-451A | 02
10 | WA | WHATCOM COUNTY | 530198—15B | 03-APR-2002 | 02-10-285A | 02
10 | WA | WHATCOM COUNTY | 530198—35B | 22-MAY-2002 | 02-10-338A | 17
10 | WA | WHATCOM COUNTY | 530198—17B | 17-APR-2002 | 02-10-353A | 02
10 | WA | WHATCOM COUNTY | 530198—23B | 22-MAY-2002 | 02-10-438A | 02
10 | WA | WHATCOM COUNTY | 530198—66B | 28-JUN-2002 | 02-10-527A | 02
10 | WA | YAKIMA COUNTY | 5302171028B | 29-MAR-2002 | 02-10-296A | 02
10 | WA | YAKIMA COUNTY | 5302171028B | 08-MAY-2002 | 02-10-306A | 02
10 | WA | YAKIMA COUNTY | 5302170715B | 05-JUN-2002 | 02-10-470A | 02

Region | State | Community | Panel | Panel date
01 | CONNECTICUT | CHESHIRE, TOWN OF | 0900740002E | 15-APR-2002
01 | CONNECTICUT | CHESHIRE, TOWN OF | 0900740003E | 15-APR-2002
01 | CONNECTICUT | CHESHIRE, TOWN OF | 0900740004E | 15-APR-2002
01 | CONNECTICUT | CHESHIRE, TOWN OF | 0900740005E | 15-APR-2002
01 | CONNECTICUT | CHESHIRE, TOWN OF | 0900740007E | 15-APR-2002
01 | CONNECTICUT | CHESHIRE, TOWN OF | 0900740008E | 15-APR-2002
01 | CONNECTICUT | CHESHIRE, TOWN OF | 0900740009E | 15-APR-2002
01 | CONNECTICUT | CHESHIRE, TOWN OF | 0900740010E | 15-APR-2002
01 | CONNECTICUT | CHESHIRE, TOWN OF | 0900740011E | 15-APR-2002
01 | CONNECTICUT | CHESHIRE, TOWN OF | 0900740012E | 15-APR-2002
01 | CONNECTICUT | CHESHIRE, TOWN OF | 0900740013E | 15-APR-2002
01 | CONNECTICUT | CHESHIRE, TOWN OF | 0900740014E | 15-APR-2002
01 | CONNECTICUT | CHESHIRE, TOWN OF | 0900740015E | 15-APR-2002
01 | CONNECTICUT | CHESHIRE, TOWN OF | 0900740016E | 15-APR-2002
01 | CONNECTICUT | CHESHIRE, TOWN OF | 0900740017E | 15-APR-2002
01 | CONNECTICUT | CHESHIRE, TOWN OF | 090074IND0 | 15-APR-2002
01 | CONNECTICUT | ENFIELD, TOWN OF | 0900280001C | 17-JUN-2002
01 | CONNECTICUT | ENFIELD, TOWN OF | 0900280002C | 17-JUN-2002
01 | CONNECTICUT | ENFIELD, TOWN OF | 0900280003C | 17-JUN-2002
01 | CONNECTICUT | ENFIELD, TOWN OF | 0900280004C | 17-JUN-2002
01 | CONNECTICUT | ENFIELD, TOWN OF | 0900280005C | 17-JUN-2002
01 | CONNECTICUT | ENFIELD, TOWN OF | 0900280006C | 17-JUN-2002
01 | CONNECTICUT | ENFIELD, TOWN OF | 0900280007C | 17-JUN-2002
01 | CONNECTICUT | ENFIELD, TOWN OF | 0900280008C | 17-JUN-2002
01 | CONNECTICUT | ENFIELD, TOWN OF | 0900280009C | 17-JUN-2002
01 | CONNECTICUT | ENFIELD, TOWN OF | 0900280010C | 17-JUN-2002
01 | CONNECTICUT | ENFIELD, TOWN OF | 0900280011C | 17-JUN-2002
01 | CONNECTICUT | ENFIELD, TOWN OF | 0900280012C | 17-JUN-2002
01 | CONNECTICUT | ENFIELD, TOWN OF | 0900280013C | 17-JUN-2002
01 | CONNECTICUT | ENFIELD, TOWN OF | 0900280014C | 17-JUN-2002
01 | CONNECTICUT | ENFIELD, TOWN OF | 0900280015C | 17-JUN-2002
01 | CONNECTICUT | ENFIELD, TOWN OF | 0900280017C | 17-JUN-2002
01 | CONNECTICUT | ENFIELD, TOWN OF | 090028IND0 | 17-JUN-2002
01 | CONNECTICUT | MARLBOROUGH, TOWN OF | 0901480002D | 17-JUN-2002
01 | CONNECTICUT | MARLBOROUGH, TOWN OF | 0901480003D | 17-JUN-2002
01 | CONNECTICUT | MARLBOROUGH, TOWN OF | 0901480006D | 17-JUN-2002
01 | CONNECTICUT | MARLBOROUGH, TOWN OF | 0901480007D | 17-JUN-2002
01 | CONNECTICUT | MARLBOROUGH, TOWN OF | 0901480008D | 17-JUN-2002
01 | CONNECTICUT | MARLBOROUGH, TOWN OF | 0901480009D | 17-JUN-2002
01 | CONNECTICUT | MARLBOROUGH, TOWN OF | 0901480010D | 17-JUN-2002
01 | CONNECTICUT | MARLBOROUGH, TOWN OF | 0901480011D | 17-JUN-2002
01 | CONNECTICUT | MARLBOROUGH, TOWN OF | 0901480013D | 17-JUN-2002
01 | CONNECTICUT | MARLBOROUGH, TOWN OF | 0901480014D | 17-JUN-2002
01 | CONNECTICUT | MARLBOROUGH, TOWN OF | 090148IND0 | 17-JUN-2002
01 | CONNECTICUT | NEW BRITAIN, CITY OF | 0900320001D | 02-FEB-2002
01 | CONNECTICUT | NEW BRITAIN, CITY OF | 0900320003D | 02-FEB-2002
01 | CONNECTICUT | NEW BRITAIN, CITY OF | 0900320005D | 02-FEB-2002
01 | CONNECTICUT | NEW BRITAIN, CITY OF | 090032IND0 | 02-FEB-2002
01 | CONNECTICUT | NEWINGTON, TOWN OF | 0900330001C | 02-FEB-2002
01 | CONNECTICUT | NEWINGTON, TOWN OF | 0900330002C | 02-FEB-2002
01 | CONNECTICUT | NEWINGTON, TOWN OF | 0900330003C | 02-FEB-2002
01 | CONNECTICUT | NEWINGTON, TOWN OF | 090033IND0 | 02-FEB-2002
01 | CONNECTICUT | SOUTHINGTON, TOWN OF | 0900370001E | 15-APR-2002
01 | CONNECTICUT | SOUTHINGTON, TOWN OF | 0900370002E | 15-APR-2002
01 | CONNECTICUT | SOUTHINGTON, TOWN OF | 0900370003E | 15-APR-2002
01 | CONNECTICUT | SOUTHINGTON, TOWN OF | 0900370004E | 15-APR-2002
01 | CONNECTICUT | SOUTHINGTON, TOWN OF | 0900370005E | 15-APR-2002
01 | CONNECTICUT | SOUTHINGTON, TOWN OF | 0900370006E | 15-APR-2002
01 | CONNECTICUT | SOUTHINGTON, TOWN OF | 0900370007E | 15-APR-2002
01 | CONNECTICUT | SOUTHINGTON, TOWN OF | 0900370010E | 15-APR-2002
01 | CONNECTICUT | SOUTHINGTON, TOWN OF | 0900370011E | 15-APR-2002
01 | CONNECTICUT | SOUTHINGTON, TOWN OF | 0900370012E | 15-APR-2002
01 | CONNECTICUT | SOUTHINGTON, TOWN OF | 0900370013E | 15-APR-2002
01 | CONNECTICUT | SOUTHINGTON, TOWN OF | 0900370015E | 15-APR-2002
01 | CONNECTICUT | SOUTHINGTON, TOWN OF | 0900370016E | 15-APR-2002
01 | CONNECTICUT | SOUTHINGTON, TOWN OF | 0900370017E | 15-APR-2002
01 | CONNECTICUT | SOUTHINGTON, TOWN OF | 090037IND0 | 15-APR-2002
01 | MAINE | BANGOR, CITY OF | 2301020002C | 04-MAR-2002
01 | MAINE | BANGOR, CITY OF | 2301020003C | 04-MAR-2002
01 | MAINE | BANGOR, CITY OF | 2301020004C | 04-MAR-2002
01 | MAINE | BANGOR, CITY OF | 2301020005C | 04-MAR-2002
01 | MAINE | BANGOR, CITY OF | 2301020006C | 04-MAR-2002
01 | MAINE | BANGOR, CITY OF | 2301020007C | 04-MAR-2002
01 | MAINE | BANGOR, CITY OF | 2301020008C | 04-MAR-2002
01 | MAINE | BANGOR, CITY OF | 2301020009C | 04-MAR-2002
01 | MAINE | BANGOR, CITY OF | 2301020010C | 04-MAR-2002
01 | MAINE | BANGOR, CITY OF | 2301020011C | 04-MAR-2002
01 | MAINE | BANGOR, CITY OF | 2301020012C | 04-MAR-2002
01 | MAINE | BANGOR, CITY OF | 2301020013C | 04-MAR-2002
01 | MAINE | BANGOR, CITY OF | 2301020015C | 04-MAR-2002
01 | MAINE | BANGOR, CITY OF | 2301020016C | 04-MAR-2002
01 | MAINE | BANGOR, CITY OF | 2301020017C | 04-MAR-2002
01 | MAINE | BANGOR, CITY OF | 2301020018C | 04-MAR-2002
01 | MAINE | BANGOR, CITY OF | 2301020020C | 04-MAR-2002
01 | MAINE | BANGOR, CITY OF | 2301020021C | 04-MAR-2002
01 | MAINE | BANGOR, CITY OF | 230102IND0 | 04-MAR-2002
01 | MAINE | BRISTOL, TOWN OF | 2302150005C | 04-JAN-2002
01 | MAINE | BRISTOL, TOWN OF | 2302150015C | 04-JAN-2002
01 | MAINE | BRISTOL, TOWN OF | 230215IND0 | 04-JAN-2002
01 | MAINE | LOWELL, TOWN OF | 230395IND0 | 01-JUN-2002
01 | MAINE | LOWELL, TOWN OF | 2303950002A | 01-JUN-2002
01 | MAINE | LOWELL, TOWN OF | 2303950003A | 01-JUN-2002
01 | MAINE | LOWELL, TOWN OF | 2303950004A | 01-JUN-2002
01 | MAINE | PRINCETON, TOWN OF | 2303200005D | 15-MAY-2002
01 | MAINE | PRINCETON, TOWN OF | 2303200010D | 15-MAY-2002
01 | MAINE | PRINCETON, TOWN OF | 2303200020D | 15-MAY-2002
01 | MAINE | PRINCETON, TOWN OF | 2303200025D | 15-MAY-2002
01 | MAINE | PRINCETON, TOWN OF | 2303200030D | 15-MAY-2002
01 | MAINE | PRINCETON, TOWN OF | 2303200035D | 15-MAY-2002
01 | MAINE | PRINCETON, TOWN OF | 2303200040D | 15-MAY-2002
01 | MAINE | PRINCETON, TOWN OF | 230320IND0 | 15-MAY-2002
01 | MAINE | WINN, TOWN OF | 230404IND0 | 01-JUN-2002
01 | MAINE | WINN, TOWN OF | 2304040001A | 01-JUN-2002
01 | MAINE | WINN, TOWN OF | 2304040002A | 01-JUN-2002
01 | MAINE | WINN, TOWN OF | 2304040003A | 01-JUN-2002
01 | MAINE | WINN, TOWN OF | 2304040005A | 01-JUN-2002
01 | MAINE | WINN, TOWN OF | 2304040006A | 01-JUN-2002
01 | MAINE | YORK, TOWN OF | 2301590010D | 17-JUN-2002
01 | MAINE | YORK, TOWN OF | 2301590011D | 17-JUN-2002
01 | MAINE | YORK, TOWN OF | 2301590013D | 17-JUN-2002
01 | MAINE | YORK, TOWN OF | 2301590020D | 17-JUN-2002
01 | MAINE | YORK, TOWN OF | 2301590021D | 17-JUN-2002
01 | MAINE | YORK, TOWN OF | 2301590022D | 17-JUN-2002
01 | MAINE | YORK, TOWN OF | 2301590023D | 17-JUN-2002
01 | MAINE | YORK, TOWN OF | 2301590024D | 17-JUN-2002
01 | MAINE | YORK, TOWN OF | 2301590026D | 17-JUN-2002
01 | MAINE | YORK, TOWN OF | 2301590028D | 17-JUN-2002
01 | MAINE | YORK, TOWN OF | 2301590032D | 17-JUN-2002
01 | MAINE | YORK, TOWN OF | 230159IND0A | 17-JUN-2002
01 | MASSACHUSETTS | NORTHBRIDGE, TOWN OF | 2503220002C | 02-FEB-2002
01 | MASSACHUSETTS | NORTHBRIDGE, TOWN OF | 2503220003C | 02-FEB-2002
01 | MASSACHUSETTS | NORTHBRIDGE, TOWN OF | 2503220004C | 02-FEB-2002
01 | MASSACHUSETTS | NORTHBRIDGE, TOWN OF | 2503220005C | 02-FEB-2002
01 | MASSACHUSETTS | NORTHBRIDGE, TOWN OF | 2503220006C | 02-FEB-2002
01 | MASSACHUSETTS | NORTHBRIDGE, TOWN OF | 2503220007C | 02-FEB-2002
01 | MASSACHUSETTS | NORTHBRIDGE, TOWN OF | 2503220008C | 02-FEB-2002
01 | MASSACHUSETTS | NORTHBRIDGE, TOWN OF | 2503220009C | 02-FEB-2002
01 | MASSACHUSETTS | NORTHBRIDGE, TOWN OF | 2503220010C | 02-FEB-2002
01 | MASSACHUSETTS | NORTHBRIDGE, TOWN OF | 2503220011C | 02-FEB-2002
01 | MASSACHUSETTS | NORTHBRIDGE, TOWN OF | 250322IND0 | 02-FEB-2002
01 | MASSACHUSETTS | WESTWOOD, TOWN OF | 2552250001D | 17-JUN-2002
01 | MASSACHUSETTS | WESTWOOD, TOWN OF | 2552250002D | 17-JUN-2002
01 | MASSACHUSETTS | WESTWOOD, TOWN OF | 2552250003D | 17-JUN-2002
01 | MASSACHUSETTS | WESTWOOD, TOWN OF | 2552250004D | 17-JUN-2002
01 | MASSACHUSETTS | WESTWOOD, TOWN OF | 2552250005D | 17-JUN-2002
01 | MASSACHUSETTS | WESTWOOD, TOWN OF | 2552250006D | 17-JUN-2002
01 | MASSACHUSETTS | WESTWOOD, TOWN OF | 2552250007D | 17-JUN-2002
01 | MASSACHUSETTS | WESTWOOD, TOWN OF | 2552250008D | 17-JUN-2002
01 | MASSACHUSETTS | WESTWOOD, TOWN OF | 2552250009D | 17-JUN-2002
01 | MASSACHUSETTS | WESTWOOD, TOWN OF | 255225IND0 | 17-JUN-2002
01 | NEW HAMPSHIRE | CONWAY, TOWN OF | 3300110005C | 03-JUN-2002
01 | NEW HAMPSHIRE | CONWAY, TOWN OF | 3300110020C | 03-JUN-2002
01 | NEW HAMPSHIRE | CONWAY, TOWN OF | 3300110025C | 03-JUN-2002
01 | NEW HAMPSHIRE | CONWAY, TOWN OF | 3300110030C | 03-JUN-2002
01 | NEW HAMPSHIRE | CONWAY, TOWN OF | 3300110035C | 03-JUN-2002
01 | NEW HAMPSHIRE | CONWAY, TOWN OF | 3300110040C | 03-JUN-2002
01 | NEW HAMPSHIRE | CONWAY, TOWN OF | 3300110045C | 03-JUN-2002
01 | NEW HAMPSHIRE | CONWAY, TOWN OF | 330011IND0 | 03-JUN-2002
01 | NEW HAMPSHIRE | STRAFFORD, TOWN OF | 3301960005C | 02-MAY-2002
01 | NEW HAMPSHIRE | STRAFFORD, TOWN OF | 3301960010C | 02-MAY-2002
01 | NEW HAMPSHIRE | STRAFFORD, TOWN OF | 3301960020C | 02-MAY-2002
01 | NEW HAMPSHIRE | STRAFFORD, TOWN OF | 3301960025C | 02-MAY-2002
01 | NEW HAMPSHIRE | STRAFFORD, TOWN OF | 3301960030C | 02-MAY-2002
01 | NEW HAMPSHIRE | STRAFFORD, TOWN OF | 3301960035C | 02-MAY-2002
01 | NEW HAMPSHIRE | STRAFFORD, TOWN OF | 3301960040C | 02-MAY-2002
01 | NEW HAMPSHIRE | STRAFFORD, TOWN OF | 3301960045C | 02-MAY-2002
01 | NEW HAMPSHIRE | STRAFFORD, TOWN OF | 330196IND0 | 02-MAY-2002
01 | VERMONT | STOWE, TOWN OF | 5000660015D | 15-FEB-2002
01 | VERMONT | STOWE, TOWN OF | 5000660020D | 15-FEB-2002
01 | VERMONT | STOWE, TOWN OF | 5000660025D | 15-FEB-2002
01 | VERMONT | STOWE, TOWN OF | 5000660035D | 15-FEB-2002
01 | VERMONT | STOWE, TOWN OF | 500066IND0 | 15-FEB-2002
01 | VERMONT | WOODSTOCK, TOWN OF | 5001600001D | 02-MAY-2002
01 | VERMONT | WOODSTOCK, TOWN OF | 5001600004D | 02-MAY-2002
01 | VERMONT | WOODSTOCK, TOWN OF | 5001600005D | 02-MAY-2002
01 | VERMONT | WOODSTOCK, TOWN OF | 5001600006D | 02-MAY-2002
01 | VERMONT | WOODSTOCK, TOWN OF | 5001600007D | 02-MAY-2002
01 | VERMONT | WOODSTOCK, TOWN OF | 5001600008D | 02-MAY-2002
01 | VERMONT | WOODSTOCK, TOWN OF | 5001600009D | 02-MAY-2002
01 | VERMONT | WOODSTOCK, TOWN OF | 5001600010D | 02-MAY-2002
01 | VERMONT | WOODSTOCK, TOWN OF | 5001600011D | 02-MAY-2002
01 | VERMONT | WOODSTOCK, TOWN OF | 5001600014D | 02-MAY-2002
01 | VERMONT | WOODSTOCK, TOWN OF | 5001600016D | 02-MAY-2002
01 | VERMONT | WOODSTOCK, TOWN OF | 5001600017D | 02-MAY-2002
01 | VERMONT | WOODSTOCK, TOWN OF | 5001600022D | 02-MAY-2002
01 | VERMONT | WOODSTOCK, TOWN OF | 500160IND0 | 02-MAY-2002
01 | VERMONT | WOODSTOCK, VILLAGE OF | 5001610006D | 02-MAY-2002
01 | VERMONT | WOODSTOCK, VILLAGE OF | 5001610011D | 02-MAY-2002
01 | VERMONT | WOODSTOCK, VILLAGE OF | 500161IND0 | 02-MAY-2002
02 | NEW JERSEY | BERKELEY, TOWNSHIP OF | 3403690003E | 03-JUN-2002
02 | NEW JERSEY | BERKELEY, TOWNSHIP OF | 3403690004E | 03-JUN-2002
02 | NEW JERSEY | BERKELEY, TOWNSHIP OF | 3403690010E | 03-JUN-2002
02 | NEW JERSEY | BERKELEY, TOWNSHIP OF | 3403690011E | 03-JUN-2002
02 | NEW JERSEY | BERKELEY, TOWNSHIP OF | 3403690012E | 03-JUN-2002
02 | NEW JERSEY | BERKELEY, TOWNSHIP OF | 3403690015E | 03-JUN-2002
02 | NEW JERSEY | BERKELEY, TOWNSHIP OF | 3403690020E | 03-JUN-2002
02 | NEW JERSEY | BERKELEY, TOWNSHIP OF | 3403690025E | 03-JUN-2002
02 | NEW JERSEY | BERKELEY, TOWNSHIP OF | 3403690030E | 03-JUN-2002
02 | NEW JERSEY | BERKELEY, TOWNSHIP OF | 3403690035E | 03-JUN-2002
02 | NEW JERSEY | BERKELEY, TOWNSHIP OF | 340369IND0 | 03-JUN-2002
02 | NEW JERSEY | BERNARDS, TOWNSHIP OF | 3404280005B | 04-MAR-2002
02 | NEW JERSEY | BERNARDS, TOWNSHIP OF | 3404280010B | 04-MAR-2002
02 | NEW JERSEY | BERNARDS, TOWNSHIP OF | 340428IND0 | 04-MAR-2002
02 | NEW JERSEY | MADISON, BOROUGH OF | 3403470002C | 15-APR-2002
02 | NEW JERSEY | MADISON, BOROUGH OF | 3403470003C | 15-APR-2002
02 | NEW JERSEY | MADISON, BOROUGH OF | 340347IND0 | 15-APR-2002
02 | NEW JERSEY | MILLBURN, TOWNSHIP OF | 3401870005E | 17-MAR-2002
02 | NEW JERSEY | SUMMIT, CITY OF | 3404760001B | 02-MAY-2002
02 | NEW JERSEY | SUMMIT, CITY OF | 3404760002B | 02-MAY-2002
02 | NEW JERSEY | SUMMIT, CITY OF | 340476IND0 | 02-MAY-2002
02 | NEW JERSEY | WARREN, TOWNSHIP OF | 3404460005B | 04-JAN-2002
02 | NEW JERSEY | WARREN, TOWNSHIP OF | 3404460010B | 04-JAN-2002
02 | NEW JERSEY | WARREN, TOWNSHIP OF | 3404460015B | 04-JAN-2002
02 | NEW JERSEY | WARREN, TOWNSHIP OF | 340446IND0 | 04-JAN-2002
02 | NEW YORK | DAVENPORT, TOWN OF | 3601920003C | 02-FEB-2002
02 | NEW YORK | DAVENPORT, TOWN OF | 3601920004C | 02-FEB-2002
02 | NEW YORK | DAVENPORT, TOWN OF | 3601920007C | 02-FEB-2002
02 | NEW YORK | DAVENPORT, TOWN OF | 3601920008C | 02-FEB-2002
02 | NEW YORK | DAVENPORT, TOWN OF | 3601920009C | 02-FEB-2002
02 | NEW YORK | DAVENPORT, TOWN OF | 3601920010C | 02-FEB-2002
02 | NEW YORK | DAVENPORT, TOWN OF | 3601920012C | 02-FEB-2002
02 | NEW YORK | DAVENPORT, TOWN OF | 3601920013C | 02-FEB-2002
02 | NEW YORK | DAVENPORT, TOWN OF | 3601920014C | 02-FEB-2002
02 | NEW YORK | DAVENPORT, TOWN OF | 3601920015C | 02-FEB-2002
02 | NEW YORK | DAVENPORT, TOWN OF | 3601920016C | 02-FEB-2002
02 | NEW YORK | DAVENPORT, TOWN OF | 3601920017C | 02-FEB-2002
02 | NEW YORK | DAVENPORT, TOWN OF | 360192IND0 | 02-FEB-2002
02 | NEW YORK | EVANS, TOWN OF | 3602400001F | 02-FEB-2002
02 | NEW YORK | EVANS, TOWN OF | 3602400002F | 02-FEB-2002
02 | NEW YORK | EVANS, TOWN OF | 3602400003F | 02-FEB-2002
02 | NEW YORK | EVANS, TOWN OF | 3602400004F | 02-FEB-2002
02 | NEW YORK | EVANS, TOWN OF | 3602400005F | 02-FEB-2002
02 | NEW YORK | EVANS, TOWN OF | 3602400006F | 02-FEB-2002
02 | NEW YORK | EVANS, TOWN OF | 3602400007F | 02-FEB-2002
02 | NEW YORK | EVANS, TOWN OF | 3602400008F | 02-FEB-2002
02 | NEW YORK | EVANS, TOWN OF | 3602400009F | 02-FEB-2002
02 | NEW YORK | EVANS, TOWN OF | 3602400010F | 02-FEB-2002
02 | NEW YORK | EVANS, TOWN OF | 3602400011F | 02-FEB-2002
02 | NEW YORK | EVANS, TOWN OF | 3602400012F | 02-FEB-2002
02 | NEW YORK | EVANS, TOWN OF | 3602400013F | 02-FEB-2002
02 | NEW YORK | EVANS, TOWN OF | 3602400014F | 02-FEB-2002
02 | NEW YORK | EVANS, TOWN OF | 3602400015F | 02-FEB-2002
02 | NEW YORK | EVANS, TOWN OF | 3602400016F | 02-FEB-2002
02 | NEW YORK | EVANS, TOWN OF | 3602400018F | 02-FEB-2002
02 | NEW YORK | EVANS, TOWN OF | 3602400019F | 02-FEB-2002
02 | NEW YORK | EVANS, TOWN OF | 360240IND0 | 02-FEB-2002
02 | NEW YORK | FORT PLAIN, VILLAGE OF | 3604480001C | 17-JUN-2002
02 | NEW YORK | FORT PLAIN, VILLAGE OF | 3604480002C | 17-JUN-2002
02 | NEW YORK | FORT PLAIN, VILLAGE OF | 3604480003C | 17-JUN-2002
02 | NEW YORK | FORT PLAIN, VILLAGE OF | 3604480004C | 17-JUN-2002
02 | NEW YORK | FORT PLAIN, VILLAGE OF | 360448IND0 | 17-JUN-2002
02 | NEW YORK | HERKIMER, VILLAGE OF | 3603070002C | 17-JUN-2002
02 | NEW YORK | HERKIMER, VILLAGE OF | 3603070003C | 17-JUN-2002
02 | NEW YORK | HERKIMER, VILLAGE OF | 3603070004C | 17-JUN-2002
02 | NEW YORK | HERKIMER, VILLAGE OF | 3603070005C | 17-JUN-2002
02 | NEW YORK | HERKIMER, VILLAGE OF | 360307IND0 | 17-JUN-2002
02 | NEW YORK | JAY, TOWN OF | 3602650002D | 17-JUN-2002
02 | NEW YORK | JAY, TOWN OF | 3602650003D | 17-JUN-2002
02 | NEW YORK | JAY, TOWN OF | 3602650004D | 17-JUN-2002
02 | NEW YORK | JAY, TOWN OF | 3602650005D | 17-JUN-2002
02 | NEW YORK | JAY, TOWN OF | 3602650006D | 17-JUN-2002
02 | NEW YORK | JAY, TOWN OF | 3602650008D | 17-JUN-2002
02 | NEW YORK | JAY, TOWN OF | 3602650009D | 17-JUN-2002
02 | NEW YORK | JAY, TOWN OF | 3602650010D | 17-JUN-2002
02 | NEW YORK | JAY, TOWN OF | 3602650014D | 17-JUN-2002
02 | NEW YORK | JAY, TOWN OF | 3602650015D | 17-JUN-2002
02 | NEW YORK | JAY, TOWN OF | 3602650016D | 17-JUN-2002
02 | NEW YORK | JAY, TOWN OF | 3602650020D | 17-JUN-2002
02 | NEW YORK | JAY, TOWN OF | 3602650021D | 17-JUN-2002
02 | NEW YORK | JAY, TOWN OF | 3602650022D | 17-JUN-2002
02 | NEW YORK | JAY, TOWN OF | 3602650025D | 17-JUN-2002
02 | NEW YORK | JAY, TOWN OF | 3602650026D | 17-JUN-2002
02 | NEW YORK | JAY, TOWN OF | 3602650030D | 17-JUN-2002
02 | NEW YORK | JAY, TOWN OF | 360265IND0 | 17-JUN-2002
02 | NEW YORK | KIRYAS JOEL, VILLAGE OF | 3616100001B | 15-APR-2002
02 | NEW YORK | LERAY, TOWN OF | 3603410020E | 02-FEB-2002
02 | NEW YORK | LERAY, TOWN OF | 3603410040E | 02-FEB-2002
02 | NEW YORK | LERAY, TOWN OF | 3603410043E | 02-FEB-2002
02 | NEW YORK | LERAY, TOWN OF | 3603410044E | 02-FEB-2002
02 | NEW YORK | LERAY, TOWN OF | 3603410056E | 02-FEB-2002
02 | NEW YORK | LERAY, TOWN OF | 3603410057E | 02-FEB-2002
02 | NEW YORK | LERAY, TOWN OF | 3603410058E | 02-FEB-2002
02 | NEW YORK | LERAY, TOWN OF | 3603410059E | 02-FEB-2002
02 | NEW YORK | LERAY, TOWN OF | 3603410065E | 02-FEB-2002
02 | NEW YORK | LERAY, TOWN OF | 3603410068E | 02-FEB-2002
02 | NEW YORK | LERAY, TOWN OF | 3603410070E | 02-FEB-2002
02 | NEW YORK | LERAY, TOWN OF | 3603410090E | 02-FEB-2002
02 | NEW YORK | LERAY, TOWN OF | 3603410101E | 02-FEB-2002
02 | NEW YORK | LERAY, TOWN OF | 3603410102E | 02-FEB-2002
02 | NEW YORK | LERAY, TOWN OF | 3603410106E | 02-FEB-2002
02 | NEW YORK | LERAY, TOWN OF | 360341IND0 | 02-FEB-2002
02 | NEW YORK | PORT JERVIS, CITY OF | 3609760001C | 02-APR-2002
02 | NEW YORK | PORT JERVIS, CITY OF | 3609760002C | 02-APR-2002
02 | NEW YORK | PORT JERVIS, CITY OF | 3609760003C | 02-APR-2002
02 | NEW YORK | PORT JERVIS, CITY OF | 3609760004C | 02-APR-2002
02 | NEW YORK | PORT JERVIS, CITY OF | 360976IND0 | 02-APR-2002
03 | PENNSYLVANIA | AVONDALE, BOROUGH OF | 42029C0458E | 17-MAR-2002
03 | PENNSYLVANIA | AVONDALE, BOROUGH OF | 42029C0459E | 17-MAR-2002
03 | PENNSYLVANIA | AVONDALE, BOROUGH OF | 42029CIND1 | 17-MAR-2002
03 | PENNSYLVANIA | AVONDALE, BOROUGH OF | 42029CIND2 | 17-MAR-2002
03 | PENNSYLVANIA | BANKS, TOWNSHIP OF | 42025C0110D | 03-JUN-2002
03 | PENNSYLVANIA | BANKS, TOWNSHIP OF | 42025C0115D | 03-JUN-2002
03 | PENNSYLVANIA | BANKS, TOWNSHIP OF | 42025C0120D | 03-JUN-2002
03 | PENNSYLVANIA | BANKS, TOWNSHIP OF | 42025C0130D | 03-JUN-2002
03 | PENNSYLVANIA | BANKS, TOWNSHIP OF | 42025C0140D | 03-JUN-2002
03 | PENNSYLVANIA | BANKS, TOWNSHIP OF | 42025CIND0 | 03-JUN-2002
03 | PENNSYLVANIA | BENSALEM TOWNSHIP OF | 42017C0443G | 02-APR-2002
03 | PENNSYLVANIA | BENSALEM TOWNSHIP OF | 42017CIND1 | 02-APR-2002
03 | PENNSYLVANIA | BENSALEM TOWNSHIP OF | 42017CIND2 | 02-APR-2002
03 | PENNSYLVANIA | BIRMINGHAM, TOWNSHIP OF | 42029C0342E | 17-MAR-2002
03 | PENNSYLVANIA | BIRMINGHAM, TOWNSHIP OF | 42029CIND1 | 17-MAR-2002
03 | PENNSYLVANIA | BIRMINGHAM, TOWNSHIP OF | 42029CIND2 | 17-MAR-2002
03 | PENNSYLVANIA | BOWMANSTOWN, BOROUGH OF | 42025C0291D | 03-JUN-2002
03 | PENNSYLVANIA | BOWMANSTOWN, BOROUGH OF | 42025C0292D | 03-JUN-2002
03 | PENNSYLVANIA | BOWMANSTOWN, BOROUGH OF | 42025CIND0 | 03-JUN-2002
03 | PENNSYLVANIA | BUCKS COUNTY* | 42017C0441G | 02-APR-2002
03 | PENNSYLVANIA | BUCKS COUNTY* | 42017C0443G | 02-APR-2002
03 | PENNSYLVANIA | BUCKS COUNTY* | 42017CIND1 | 02-APR-2002
03 | PENNSYLVANIA | BUCKS COUNTY* | 42017CIND2 | 02-APR-2002
03 | PENNSYLVANIA | CALN, TOWNSHIP OF | 42029C0164E | 17-MAR-2002
03 | PENNSYLVANIA | CALN, TOWNSHIP OF | 42029C0189E | 17-MAR-2002
03 | PENNSYLVANIA | CALN, TOWNSHIP OF | 42029C0302E | 17-MAR-2002
03 | PENNSYLVANIA | CALN, TOWNSHIP OF | 42029C0327E | 17-MAR-2002
03 | PENNSYLVANIA | CALN, TOWNSHIP OF | 42029CIND1 | 17-MAR-2002
03 | PENNSYLVANIA | CALN, TOWNSHIP OF | 42029CIND2 | 17-MAR-2002
03 | PENNSYLVANIA | CARBON COUNTY* | 42025C0015D | 03-JUN-2002
03 | PENNSYLVANIA | CARBON COUNTY* | 42025C0020D | 03-JUN-2002
03 | PENNSYLVANIA | CARBON COUNTY* | 42025C0035D | 03-JUN-2002
03 | PENNSYLVANIA | CARBON COUNTY* | 42025C0045D | 03-JUN-2002
03 | PENNSYLVANIA | CARBON COUNTY* | 42025C0054D | 03-JUN-2002
03 | PENNSYLVANIA | CARBON COUNTY* | 42025C0055D | 03-JUN-2002
03 | PENNSYLVANIA | CARBON COUNTY* | 42025C0058D | 03-JUN-2002
03 | PENNSYLVANIA | CARBON COUNTY* | 42025C0060D | 03-JUN-2002
03 | PENNSYLVANIA | CARBON COUNTY* | 42025C0065D | 03-JUN-2002
03 | PENNSYLVANIA | CARBON COUNTY* | 42025C0070D | 03-JUN-2002
03 | PENNSYLVANIA | CARBON COUNTY* | 42025C0080D | 03-JUN-2002
03 | PENNSYLVANIA | CARBON COUNTY* | 42025C0088D | 03-JUN-2002
03 | PENNSYLVANIA | CARBON COUNTY* | 42025C0089D | 03-JUN-2002
03 | PENNSYLVANIA | CARBON COUNTY* | 42025C0090D | 03-JUN-2002
03 | PENNSYLVANIA | CARBON COUNTY* | 42025C0095D | 03-JUN-2002
03 | PENNSYLVANIA | CARBON COUNTY* | 42025C0110D | 03-JUN-2002
03 | PENNSYLVANIA | CARBON COUNTY* | 42025C0115D | 03-JUN-2002
03 | PENNSYLVANIA | CARBON COUNTY* | 42025C0120D | 03-JUN-2002
03 | PENNSYLVANIA | CARBON COUNTY* | 42025C0129D | 03-JUN-2002
03 | PENNSYLVANIA | CARBON COUNTY* | 42025C0130D | 03-JUN-2002
03 | PENNSYLVANIA | CARBON COUNTY* | 42025C0135D | 03-JUN-2002
03 | PENNSYLVANIA | CARBON COUNTY* | 42025C0137D | 03-JUN-2002
03 | PENNSYLVANIA | CARBON COUNTY* | 42025C0140D | 03-JUN-2002
03 | PENNSYLVANIA | CARBON COUNTY* | 42025C0144D | 03-JUN-2002
03 | PENNSYLVANIA | CARBON COUNTY* | 42025C0145D | 03-JUN-2002
03 | PENNSYLVANIA | CARBON COUNTY* | 42025C0155D | 03-JUN-2002
03 | PENNSYLVANIA | CARBON COUNTY* | 42025C0160D | 03-JUN-2002
03 | PENNSYLVANIA | CARBON COUNTY* | 42025C0163D | 03-JUN-2002
03 | PENNSYLVANIA | CARBON COUNTY* | 42025C0165D | 03-JUN-2002
03 | PENNSYLVANIA | CARBON COUNTY* | 42025C0170D | 03-JUN-2002
03 | PENNSYLVANIA | CARBON COUNTY* | 42025C0180D | 03-JUN-2002
03 | PENNSYLVANIA | CARBON COUNTY* | 42025C0185D | 03-JUN-2002
03 | PENNSYLVANIA | CARBON COUNTY* | 42025C0190D | 03-JUN-2002
03 | PENNSYLVANIA | CARBON COUNTY* | 42025C0195D | 03-JUN-2002
03 | PENNSYLVANIA | CARBON COUNTY* | 42025C0230D | 03-JUN-2002
03 | PENNSYLVANIA | CARBON COUNTY* | 42025C0232D | 03-JUN-2002
03 | PENNSYLVANIA | CARBON COUNTY* | 42025C0235D | 03-JUN-2002
03 | PENNSYLVANIA | CARBON COUNTY* | 42025C0245D | 03-JUN-2002
03 | PENNSYLVANIA | CARBON COUNTY* | 42025C0251D | 03-JUN-2002
03 | PENNSYLVANIA | CARBON COUNTY* | 42025C0252D | 03-JUN-2002
03 | PENNSYLVANIA | CARBON COUNTY* | 42025C0255D | 03-JUN-2002
03 | PENNSYLVANIA | CARBON COUNTY* | 42025C0256D | 03-JUN-2002
03 | PENNSYLVANIA | CARBON COUNTY* | 42025C0257D | 03-JUN-2002
03 | PENNSYLVANIA | CARBON COUNTY* | 42025C0258D | 03-JUN-2002
03 | PENNSYLVANIA | CARBON COUNTY* | 42025C0259D | 03-JUN-2002
03 | PENNSYLVANIA | CARBON COUNTY* | 42025C0265D | 03-JUN-2002
03 | PENNSYLVANIA | CARBON COUNTY* | 42025C0266D | 03-JUN-2002
03 | PENNSYLVANIA | CARBON COUNTY* | 42025C0267D | 03-JUN-2002
03 | PENNSYLVANIA | CARBON COUNTY* | 42025C0268D | 03-JUN-2002
03 | PENNSYLVANIA | CARBON COUNTY* | 42025C0269D | 03-JUN-2002
03 | PENNSYLVANIA | CARBON COUNTY* | 42025C0276D | 03-JUN-2002
03 | PENNSYLVANIA | CARBON COUNTY* | 42025C0277D | 03-JUN-2002
03 | PENNSYLVANIA | CARBON COUNTY* | 42025C0278D | 03-JUN-2002
03 | PENNSYLVANIA | CARBON COUNTY* | 42025C0279D | 03-JUN-2002
03 | PENNSYLVANIA | CARBON COUNTY* | 42025C0281D | 03-JUN-2002
03 | PENNSYLVANIA | CARBON COUNTY* | 42025C0282D | 03-JUN-2002
03 | PENNSYLVANIA | CARBON COUNTY* | 42025C0283D | 03-JUN-2002
03 | PENNSYLVANIA | CARBON COUNTY* | 42025C0284D | 03-JUN-2002
03 | PENNSYLVANIA | CARBON COUNTY* | 42025C0286D | 03-JUN-2002
03 | PENNSYLVANIA | CARBON COUNTY* | 42025C0287D | 03-JUN-2002
03 | PENNSYLVANIA | CARBON COUNTY* | 42025C0288D | 03-JUN-2002
03 | PENNSYLVANIA | CARBON COUNTY* | 42025C0289D | 03-JUN-2002
03 | PENNSYLVANIA | CARBON COUNTY* | 42025C0291D | 03-JUN-2002
03 | PENNSYLVANIA | CARBON COUNTY* | 42025C0292D | 03-JUN-2002
03 | PENNSYLVANIA | CARBON COUNTY* | 42025C0303D | 03-JUN-2002
03 | PENNSYLVANIA | CARBON COUNTY* | 42025C0304D | 03-JUN-2002
03 | PENNSYLVANIA | CARBON COUNTY* | 42025C0305D | 03-JUN-2002
03 | PENNSYLVANIA | CARBON COUNTY* | 42025C0308D | 03-JUN-2002
03 | PENNSYLVANIA | CARBON COUNTY* | 42025C0309D | 03-JUN-2002
03 | PENNSYLVANIA | CARBON COUNTY* | 42025C0310D | 03-JUN-2002
03 | PENNSYLVANIA | CARBON COUNTY* | 42025C0311D | 03-JUN-2002
03 | PENNSYLVANIA | CARBON COUNTY* | 42025C0312D | 03-JUN-2002
03 | PENNSYLVANIA | CARBON COUNTY* | 42025C0326D | 03-JUN-2002
03 | PENNSYLVANIA | CARBON COUNTY* | 42025C0328D | 03-JUN-2002
03 | PENNSYLVANIA | CARBON COUNTY* | 42025CIND0 | 03-JUN-2002
03 | PENNSYLVANIA | CHESTER COUNTY (ALL JURISDICTIONS | ALL | 17-MAR-2002
03 | PENNSYLVANIA | COATESVILLE, CITY OF | 42029C0164E | 17-MAR-2002
03 | PENNSYLVANIA | COATESVILLE, CITY OF | 42029C0302E | 17-MAR-2002
03 | PENNSYLVANIA | COATESVILLE, CITY OF | 42029CIND1 | 17-MAR-2002
03 | PENNSYLVANIA | COATESVILLE, CITY OF | 42029CIND2 | 17-MAR-2002
03 | PENNSYLVANIA | DOWNINGTOWN, BOROUGH OF | 42029C0189E | 17-MAR-2002
03 | PENNSYLVANIA | DOWNINGTOWN, BOROUGH OF | 42029C0327E | 17-MAR-2002
03 | PENNSYLVANIA | DOWNINGTOWN, BOROUGH OF | 42029CIND1 | 17-MAR-2002
03 | PENNSYLVANIA | DOWNINGTOWN, BOROUGH OF | 42029CIND2 | 17-MAR-2002
03 | PENNSYLVANIA | EAST BRADFORD TOWNSHIP OF | 42029C0327E | 17-MAR-2002
03 | PENNSYLVANIA | EAST BRADFORD TOWNSHIP OF | 42029C0331E | 17-MAR-2002
03 | PENNSYLVANIA | EAST BRADFORD TOWNSHIP OF | 42029C0333E | 17-MAR-2002
03 | PENNSYLVANIA | EAST BRADFORD TOWNSHIP OF | 42029C0334E | 17-MAR-2002
03 | PENNSYLVANIA | EAST BRADFORD TOWNSHIP OF | 42029C0341E | 17-MAR-2002
03 | PENNSYLVANIA | EAST BRADFORD TOWNSHIP OF | 42029C0342E | 17-MAR-2002
03 | PENNSYLVANIA | EAST BRADFORD TOWNSHIP OF | 42029CIND1 | 17-MAR-2002
03 | PENNSYLVANIA | EAST BRADFORD TOWNSHIP OF | 42029CIND2 | 17-MAR-2002
03 | PENNSYLVANIA | EAST BRANDYWINE, TOWNSHIP OF | 42029C0159E | 17-MAR-2002
03 | PENNSYLVANIA | EAST BRANDYWINE, TOWNSHIP OF | 42029C0178E | 17-MAR-2002
03 | PENNSYLVANIA | EAST BRANDYWINE, TOWNSHIP OF | 42029C0186E | 17-MAR-2002
03 | PENNSYLVANIA | EAST BRANDYWINE, TOWNSHIP OF | 42029C0187E | 17-MAR-2002
03 | PENNSYLVANIA | EAST BRANDYWINE, TOWNSHIP OF | 42029C0189E | 17-MAR-2002
03 | PENNSYLVANIA | EAST BRANDYWINE, TOWNSHIP OF | 42029CIND1 | 17-MAR-2002
03 | PENNSYLVANIA | EAST BRANDYWINE, TOWNSHIP OF | 42029CIND2 | 17-MAR-2002
03 | PENNSYLVANIA | EAST CALN, TOWNSHIP OF | 42029C0189E | 17-MAR-2002
03 | PENNSYLVANIA | EAST CALN, TOWNSHIP OF | 42029C0327E | 17-MAR-2002
03 | PENNSYLVANIA | EAST CALN, TOWNSHIP OF | 42029C0331E | 17-MAR-2002
03 | PENNSYLVANIA | EAST CALN, TOWNSHIP OF | 42029CIND1 | 17-MAR-2002
03 | PENNSYLVANIA | EAST CALN, TOWNSHIP OF | 42029CIND2 | 17-MAR-2002
03 | PENNSYLVANIA | EAST FALLOWFIELD, TOWNSHIP OF | 42029C0302E | 17-MAR-2002
03 | PENNSYLVANIA | EAST FALLOWFIELD, TOWNSHIP OF | 42029C0304E | 17-MAR-2002
03 | PENNSYLVANIA | EAST FALLOWFIELD, TOWNSHIP OF | 42029C0308E | 17-MAR-2002
03 | PENNSYLVANIA | EAST FALLOWFIELD, TOWNSHIP OF | 42029C0309E | 17-MAR-2002
03 | PENNSYLVANIA | EAST FALLOWFIELD, TOWNSHIP OF | 42029C0317E | 17-MAR-2002
03 | PENNSYLVANIA | EAST FALLOWFIELD, TOWNSHIP OF | 42029CIND1 | 17-MAR-2002
03 | PENNSYLVANIA | EAST FALLOWFIELD, TOWNSHIP OF | 42029CIND2 | 17-MAR-2002
03 | PENNSYLVANIA | EAST MARLBOROUGH, TOWNSHIP OF | 42029C0317E | 17-MAR-2002
03 | PENNSYLVANIA | EAST MARLBOROUGH, TOWNSHIP OF | 42029C0336E | 17-MAR-2002
03 | PENNSYLVANIA | EAST MARLBOROUGH, TOWNSHIP OF | 42029CIND1 | 17-MAR-2002
03 | PENNSYLVANIA | EAST MARLBOROUGH, TOWNSHIP OF | 42029CIND2 | 17-MAR-2002
03 | PENNSYLVANIA | EAST NANTMEAL, TOWNSHIP OF | 42029C0156E | 17-MAR-2002
03 | PENNSYLVANIA | EAST NANTMEAL, TOWNSHIP OF | 42029C0157E | 17-MAR-2002
03 | PENNSYLVANIA | EAST NANTMEAL, TOWNSHIP OF | 42029CIND1 | 17-MAR-2002
03 | PENNSYLVANIA | EAST NANTMEAL, TOWNSHIP OF | 42029CIND2 | 17-MAR-2002
03 | PENNSYLVANIA | EAST PENN, TOWNSHIP OF | 42025C0265D | 03-JUN-2002
03 | PENNSYLVANIA | EAST PENN, TOWNSHIP OF | 42025C0266D | 03-JUN-2002
03 | PENNSYLVANIA | EAST PENN, TOWNSHIP OF | 42025C0267D | 03-JUN-2002
03 | PENNSYLVANIA | EAST PENN, TOWNSHIP OF | 42025C0268D | 03-JUN-2002
03 | PENNSYLVANIA | EAST PENN, TOWNSHIP OF | 42025C0269D | 03-JUN-2002
03 | PENNSYLVANIA | EAST PENN, TOWNSHIP OF | 42025C0286D | 03-JUN-2002
03 | PENNSYLVANIA | EAST PENN, TOWNSHIP OF | 42025C0287D | 03-JUN-2002
03 | PENNSYLVANIA | EAST PENN, TOWNSHIP OF | 42025C0288D | 03-JUN-2002
03 | PENNSYLVANIA | EAST PENN, TOWNSHIP OF | 42025C0289D | 03-JUN-2002
03 | PENNSYLVANIA | EAST PENN, TOWNSHIP OF | 42025C0291D | 03-JUN-2002
03 | PENNSYLVANIA | EAST PENN, TOWNSHIP OF | 42025C0292D | 03-JUN-2002
03 | PENNSYLVANIA | EAST PENN, TOWNSHIP OF | 42025CIND0 | 03-JUN-2002
03 | PENNSYLVANIA | EAST SIDE, CITY OF | 42025C0035D | 03-JUN-2002
03 | PENNSYLVANIA | EAST SIDE, CITY OF | 42025C0045D | 03-JUN-2002
03 | PENNSYLVANIA | EAST SIDE, CITY OF | 42025C0055D | 03-JUN-2002
03 | PENNSYLVANIA | EAST SIDE, CITY OF | 42025C0065D | 03-JUN-2002
03 | PENNSYLVANIA | EAST SIDE, CITY OF | 42025CIND0 | 03-JUN-2002
03 | PENNSYLVANIA | FRANKLIN, TOWNSHIP OF | 42025C0170D | 03-JUN-2002
03 | PENNSYLVANIA | FRANKLIN, TOWNSHIP OF | 42025C0277D | 03-JUN-2002
03 | PENNSYLVANIA | FRANKLIN, TOWNSHIP OF | 42025C0279D | 03-JUN-2002
03 | PENNSYLVANIA | FRANKLIN, TOWNSHIP OF | 42025C0281D | 03-JUN-2002
03 | PENNSYLVANIA | FRANKLIN, TOWNSHIP OF | 42025C0282D | 03-JUN-2002
03 | PENNSYLVANIA | FRANKLIN, TOWNSHIP OF | 42025C0283D | 03-JUN-2002
03 | PENNSYLVANIA | FRANKLIN, TOWNSHIP OF | 42025C0284D | 03-JUN-2002
03 | PENNSYLVANIA | FRANKLIN, TOWNSHIP OF | 42025C0303D | 03-JUN-2002
03 | PENNSYLVANIA | FRANKLIN, TOWNSHIP OF | 42025C0305D | 03-JUN-2002
03 | PENNSYLVANIA | FRANKLIN, TOWNSHIP OF | 42025CIND0 | 03-JUN-2002
03 | PENNSYLVANIA | HONEYBROOK, TOWNSHIP OF | 42029C0151E | 17-MAR-2002
03 | PENNSYLVANIA | HONEYBROOK, TOWNSHIP OF | 42029C0152E | 17-MAR-2002
03 | PENNSYLVANIA | HONEYBROOK, TOWNSHIP OF | 42029CIND1 | 17-MAR-2002
03 | PENNSYLVANIA | HONEYBROOK, TOWNSHIP OF | 42029CIND2 | 17-MAR-2002
03 | PENNSYLVANIA | HULMEVILLE BOROUGH OF | 42017C0443G | 02-APR-2002
03 | PENNSYLVANIA | HULMEVILLE BOROUGH OF | 42017CIND1 | 02-APR-2002
03 | PENNSYLVANIA | HULMEVILLE BOROUGH OF | 42017CIND2 | 02-APR-2002
03 | PENNSYLVANIA | JIM THORPE, BOROUGH OF | 42025C0144D | 03-JUN-2002
03 | PENNSYLVANIA | JIM THORPE, BOROUGH OF | 42025C0163D | 03-JUN-2002
03 | PENNSYLVANIA | JIM THORPE, BOROUGH OF | 42025C0165D | 03-JUN-2002
03 | PENNSYLVANIA | JIM THORPE, BOROUGH OF | 42025C0256D | 03-JUN-2002
03 | PENNSYLVANIA | JIM THORPE, BOROUGH OF | 42025C0257D | 03-JUN-2002
03 | PENNSYLVANIA | JIM THORPE, BOROUGH OF | 42025C0258D | 03-JUN-2002
03 | PENNSYLVANIA | JIM THORPE, BOROUGH OF | 42025C0259D | 03-JUN-2002
03 | PENNSYLVANIA | JIM THORPE, BOROUGH OF | 42025C0276D | 03-JUN-2002
03 | PENNSYLVANIA | JIM THORPE, BOROUGH OF | 42025C0277D | 03-JUN-2002
03 | PENNSYLVANIA | JIM THORPE, BOROUGH OF | 42025CIND0 | 03-JUN-2002
03 | PENNSYLVANIA | KIDDER, TOWNSHIP OF | 42025C0015D | 03-JUN-2002
03 | PENNSYLVANIA | KIDDER, TOWNSHIP OF | 42025C0020D | 03-JUN-2002
03 | PENNSYLVANIA | KIDDER, TOWNSHIP OF | 42025C0035D | 03-JUN-2002
03 | PENNSYLVANIA | KIDDER, TOWNSHIP OF | 42025C0045D | 03-JUN-2002
03 | PENNSYLVANIA | KIDDER, TOWNSHIP OF | 42025C0054D | 03-JUN-2002
03 | PENNSYLVANIA | KIDDER, TOWNSHIP OF | 42025C0055D | 03-JUN-2002
03 | PENNSYLVANIA | KIDDER, TOWNSHIP OF | 42025C0058D | 03-JUN-2002
03 | PENNSYLVANIA | KIDDER, TOWNSHIP OF | 42025C0060D | 03-JUN-2002
03 | PENNSYLVANIA | KIDDER, TOWNSHIP OF | 42025C0065D | 03-JUN-2002
03 | PENNSYLVANIA | KIDDER, TOWNSHIP OF | 42025C0070D | 03-JUN-2002
03 | PENNSYLVANIA | KIDDER, TOWNSHIP OF | 42025C0080D | 03-JUN-2002
03 | PENNSYLVANIA | KIDDER, TOWNSHIP OF | 42025C0088D | 03-JUN-2002
03 | PENNSYLVANIA | KIDDER, TOWNSHIP OF | 42025C0089D | 03-JUN-2002
03 | PENNSYLVANIA | KIDDER, TOWNSHIP OF | 42025C0090D | 03-JUN-2002
03 | PENNSYLVANIA | KIDDER, TOWNSHIP OF | 42025C0095D | 03-JUN-2002
03 | PENNSYLVANIA | KIDDER, TOWNSHIP OF | 42025C0155D | 03-JUN-2002
03 | PENNSYLVANIA | KIDDER, TOWNSHIP OF | 42025C0160D | 03-JUN-2002
03 | PENNSYLVANIA | KIDDER, TOWNSHIP OF | 42025CIND0 | 03-JUN-2002
03 | PENNSYLVANIA | LANGHORNE MANOR, BOROUGH OF | 42017C0441G | 02-APR-2002
03 | PENNSYLVANIA | LANGHORNE MANOR, BOROUGH OF | 42017CIND1 | 02-APR-2002
03 | PENNSYLVANIA | LANGHORNE MANOR, BOROUGH OF | 42017CIND2 | 02-APR-2002
03 | PENNSYLVANIA | LANGHORNE, BOROUGH OF | 42017C0441G | 02-APR-2002
03 | PENNSYLVANIA | LANGHORNE, BOROUGH OF | 42017CIND1 | 02-APR-2002
03 | PENNSYLVANIA | LANGHORNE, BOROUGH OF | 42017CIND2 | 02-APR-2002
03 | PENNSYLVANIA | LANSFORD, BOROUGH OF | 42025C0235D | 03-JUN-2002
03 | PENNSYLVANIA | LANSFORD, BOROUGH OF | 42025C0255D | 03-JUN-2002
03 | PENNSYLVANIA | LANSFORD, BOROUGH OF | 42025CIND0 | 03-JUN-2002
03 | PENNSYLVANIA | LAUSANNE, TOWNSHIP OF | 42025C0129D | 03-JUN-2002
03 | PENNSYLVANIA | LAUSANNE, TOWNSHIP OF | 42025C0130D | 03-JUN-2002
03 | PENNSYLVANIA | LAUSANNE, TOWNSHIP OF | 42025C0135D | 03-JUN-2002
03 | PENNSYLVANIA | LAUSANNE, TOWNSHIP OF | 42025CIND0 | 03-JUN-2002
03 | PENNSYLVANIA | LEHIGH, TOWNSHIP OF | 42025C0045D | 03-JUN-2002
03 | PENNSYLVANIA | LEHIGH, TOWNSHIP OF | 42025C0065D | 03-JUN-2002
03 | PENNSYLVANIA | LEHIGH, TOWNSHIP OF | 42025C0129D | 03-JUN-2002
03 | PENNSYLVANIA | LEHIGH, TOWNSHIP OF | 42025C0135D | 03-JUN-2002
03 | PENNSYLVANIA | LEHIGH, TOWNSHIP OF | 42025C0137D | 03-JUN-2002
03 | PENNSYLVANIA | LEHIGH, TOWNSHIP OF | 42025C0144D | 03-JUN-2002
03 | PENNSYLVANIA | LEHIGH, TOWNSHIP OF | 42025C0145D | 03-JUN-2002
03 | PENNSYLVANIA | LEHIGH, TOWNSHIP OF | 42025C0155D | 03-JUN-2002
03 | PENNSYLVANIA | LEHIGH, TOWNSHIP OF | 42025C0163D | 03-JUN-2002
03 | PENNSYLVANIA | LEHIGH, TOWNSHIP OF | 42025C0165D | 03-JUN-2002
03 | PENNSYLVANIA | LEHIGH, TOWNSHIP OF | 42025CIND0 | 03-JUN-2002
03 | PENNSYLVANIA | LEHIGHTON, BOROUGH OF | 42025C0278D | 03-JUN-2002
03 | PENNSYLVANIA | LEHIGHTON, BOROUGH OF | 42025C0279D | 03-JUN-2002
03 | PENNSYLVANIA | LEHIGHTON, BOROUGH OF | 42025CIND0 | 03-JUN-2002
03 | PENNSYLVANIA | LONDON GROVE, TOWNSHIP OF | 42029C0458E | 17-MAR-2002
03 | PENNSYLVANIA | LONDON GROVE, TOWNSHIP OF | 42029C0459E | 17-MAR-2002
03 | PENNSYLVANIA | LONDON GROVE, TOWNSHIP OF | 42029CIND1 | 17-MAR-2002
03 | PENNSYLVANIA | LONDON GROVE, TOWNSHIP OF | 42029CIND2 | 17-MAR-2002
03 | PENNSYLVANIA | LOWER TOWAMENSING, TOWNSHIP OF | 42025C0283D | 03-JUN-2002
03 | PENNSYLVANIA | LOWER TOWAMENSING, TOWNSHIP OF | 42025C0284D | 03-JUN-2002
03 | PENNSYLVANIA | LOWER TOWAMENSING, TOWNSHIP OF | 42025C0291D | 03-JUN-2002
03 | PENNSYLVANIA | LOWER TOWAMENSING, TOWNSHIP OF | 42025C0292D | 03-JUN-2002
03 | PENNSYLVANIA | LOWER TOWAMENSING, TOWNSHIP OF | 42025C0303D | 03-JUN-2002
03 | PENNSYLVANIA | LOWER TOWAMENSING, TOWNSHIP OF | 42025C0304D | 03-JUN-2002
03 | PENNSYLVANIA | LOWER TOWAMENSING, TOWNSHIP OF | 42025C0308D | 03-JUN-2002
03 | PENNSYLVANIA | LOWER TOWAMENSING, TOWNSHIP OF | 42025C0309D | 03-JUN-2002
03 | PENNSYLVANIA | LOWER TOWAMENSING, TOWNSHIP OF | 42025C0310D | 03-JUN-2002
03 | PENNSYLVANIA | LOWER TOWAMENSING, TOWNSHIP OF | 42025C0311D | 03-JUN-2002
03 | PENNSYLVANIA | LOWER TOWAMENSING, TOWNSHIP OF | 42025C0312D | 03-JUN-2002
03 | PENNSYLVANIA | LOWER TOWAMENSING, TOWNSHIP OF | 42025C0326D | 03-JUN-2002
03 | PENNSYLVANIA | LOWER TOWAMENSING, TOWNSHIP OF | 42025C0328D | 03-JUN-2002
03 | PENNSYLVANIA | LOWER TOWAMENSING, TOWNSHIP OF | 42025CIND0 | 03-JUN-2002
03 | PENNSYLVANIA | MAHONING, TOWNSHIP OF | 42025C0255D | 03-JUN-2002
03 | PENNSYLVANIA | MAHONING, TOWNSHIP OF | 42025C0257D | 03-JUN-2002
03 | PENNSYLVANIA | MAHONING, TOWNSHIP OF | 42025C0258D | 03-JUN-2002
03 | PENNSYLVANIA | MAHONING, TOWNSHIP OF | 42025C0259D | 03-JUN-2002
03 | PENNSYLVANIA | MAHONING, TOWNSHIP OF | 42025C0265D | 03-JUN-2002
03 | PENNSYLVANIA | MAHONING, TOWNSHIP OF | 42025C0266D | 03-JUN-2002
03 | PENNSYLVANIA | MAHONING, TOWNSHIP OF | 42025C0267D | 03-JUN-2002
03 | PENNSYLVANIA | MAHONING, TOWNSHIP OF | 42025C0268D | 03-JUN-2002
03 | PENNSYLVANIA | MAHONING, TOWNSHIP OF | 42025C0276D | 03-JUN-2002
03 | PENNSYLVANIA | MAHONING, TOWNSHIP OF | 42025C0277D | 03-JUN-2002
03 | PENNSYLVANIA | MAHONING, TOWNSHIP OF | 42025C0278D | 03-JUN-2002
03 | PENNSYLVANIA | MAHONING, TOWNSHIP OF | 42025C0279D | 03-JUN-2002
03 | PENNSYLVANIA | MAHONING, TOWNSHIP OF | 42025C0283D | 03-JUN-2002
03 | PENNSYLVANIA | MAHONING, TOWNSHIP OF | 42025C0286D | 03-JUN-2002
03 | PENNSYLVANIA | MAHONING, TOWNSHIP OF | 42025C0287D | 03-JUN-2002
03 | PENNSYLVANIA | MAHONING, TOWNSHIP OF | 42025C0291D | 03-JUN-2002
03 | PENNSYLVANIA | MAHONING, TOWNSHIP OF | 42025CIND0 | 03-JUN-2002
03 | PENNSYLVANIA | MIDDLETOWN, TOWNSHIP OF | 42017C0441G | 02-APR-2002
03 | PENNSYLVANIA | MIDDLETOWN, TOWNSHIP OF | 42017C0443G | 02-APR-2002
03 | PENNSYLVANIA | MIDDLETOWN, TOWNSHIP OF | 42017CIND1 | 02-APR-2002
03 | PENNSYLVANIA | MIDDLETOWN, TOWNSHIP OF | 42017CIND2 | 02-APR-2002
03 | PENNSYLVANIA | MODENA, BOROUGH OF | 42029C0304E | 17-MAR-2002
03 | PENNSYLVANIA | MODENA, BOROUGH OF | 42029C0308E | 17-MAR-2002
03 | PENNSYLVANIA | MODENA, BOROUGH OF | 42029CIND1 | 17-MAR-2002
03 | PENNSYLVANIA | MODENA, BOROUGH OF | 42029CIND2 | 17-MAR-2002
03 | PENNSYLVANIA | NESQUEHONING, BOROUGH OF | 42025C0140D | 03-JUN-2002
03 | PENNSYLVANIA | NESQUEHONING, BOROUGH OF | 42025C0144D | 03-JUN-2002
03 | PENNSYLVANIA | NESQUEHONING, BOROUGH OF | 42025C0232D | 03-JUN-2002
03 | PENNSYLVANIA | NESQUEHONING, BOROUGH OF | 42025C0235D | 03-JUN-2002
03 | PENNSYLVANIA | NESQUEHONING, BOROUGH OF | 42025C0251D | 03-JUN-2002
03 | PENNSYLVANIA | NESQUEHONING, BOROUGH OF | 42025C0252D | 03-JUN-2002
03 | PENNSYLVANIA | NESQUEHONING, BOROUGH OF | 42025C0255D | 03-JUN-2002
03 | PENNSYLVANIA | NESQUEHONING, BOROUGH OF | 42025C0256D | 03-JUN-2002
03 | PENNSYLVANIA | NESQUEHONING, BOROUGH OF | 42025C0257D | 03-JUN-2002
03 | PENNSYLVANIA | NESQUEHONING, BOROUGH OF | 42025C0276D | 03-JUN-2002
03 | PENNSYLVANIA | NESQUEHONING, BOROUGH OF | 42025CIND0 | 03-JUN-2002
03 | PENNSYLVANIA | NEW GARDEN, TOWNSHIP OF | 42029C0458E | 17-MAR-2002
03 | PENNSYLVANIA | NEW GARDEN, TOWNSHIP OF | 42029C0459E | 17-MAR-2002
03 | PENNSYLVANIA | NEW GARDEN, TOWNSHIP OF | 42029CIND1 | 17-MAR-2002
03 | PENNSYLVANIA | NEW GARDEN, TOWNSHIP OF | 42029CIND2 | 17-MAR-2002
03 | PENNSYLVANIA | NEWLIN, TOWNSHIP OF | 42029C0309E | 17-MAR-2002
03 | PENNSYLVANIA | NEWLIN, TOWNSHIP OF | 42029C0317E | 17-MAR-2002
03 | PENNSYLVANIA | NEWLIN, TOWNSHIP OF | 42029C0328E | 17-MAR-2002
03 | PENNSYLVANIA | NEWLIN, TOWNSHIP OF | 42029C0336E | 17-MAR-2002
03 | PENNSYLVANIA | NEWLIN, TOWNSHIP OF | 42029C0337E | 17-MAR-2002
03 | PENNSYLVANIA | NEWLIN, TOWNSHIP OF | 42029CIND1 | 17-MAR-2002
03 | PENNSYLVANIA | NEWLIN, TOWNSHIP OF | 42029CIND2 | 17-MAR-2002
03 | PENNSYLVANIA | NORTHAMPTON, TOWNSHIP OF | 42017C0441G | 02-APR-2002
03 | PENNSYLVANIA | NORTHAMPTON, TOWNSHIP OF | 42017CIND1 | 02-APR-2002
03 | PENNSYLVANIA | NORTHAMPTON, TOWNSHIP OF | 42017CIND2 | 02-APR-2002
03 | PENNSYLVANIA | PACKER, TOWNSHIP OF | 42025C0115D | 03-JUN-2002
03 | PENNSYLVANIA | PACKER, TOWNSHIP OF | 42025C0120D | 03-JUN-2002
03 | PENNSYLVANIA | PACKER, TOWNSHIP OF | 42025C0129D | 03-JUN-2002
03 | PENNSYLVANIA | PACKER, TOWNSHIP OF | 42025C0130D | 03-JUN-2002
03 | PENNSYLVANIA | PACKER, TOWNSHIP OF | 42025C0137D | 03-JUN-2002
03 | PENNSYLVANIA | PACKER, TOWNSHIP OF | 42025C0140D | 03-JUN-2002
03 | PENNSYLVANIA | PACKER, TOWNSHIP OF | 42025C0145D | 03-JUN-2002
03 | PENNSYLVANIA | PACKER, TOWNSHIP OF | 42025C0230D | 03-JUN-2002
03 | PENNSYLVANIA | PACKER, TOWNSHIP OF | 42025C0232D | 03-JUN-2002
03 | PENNSYLVANIA | PACKER, TOWNSHIP OF | 42025C0235D | 03-JUN-2002
03 | PENNSYLVANIA | PACKER, TOWNSHIP OF | 42025C0251D | 03-JUN-2002
03 | PENNSYLVANIA | PACKER, TOWNSHIP OF | 42025CIND0 | 03-JUN-2002
03 | PENNSYLVANIA | PALMERTON, BOROUGH OF | 42025C0291D | 03-JUN-2002
03 | PENNSYLVANIA | PALMERTON, BOROUGH OF | 42025C0292D | 03-JUN-2002
03 | PENNSYLVANIA | PALMERTON, BOROUGH OF | 42025C0303D | 03-JUN-2002
03 | PENNSYLVANIA | PALMERTON, BOROUGH OF | 42025C0304D | 03-JUN-2002
03 | PENNSYLVANIA | PALMERTON, BOROUGH OF | 42025C0311D | 03-JUN-2002
03 | PENNSYLVANIA | PALMERTON, BOROUGH OF | 42025C0312D | 03-JUN-2002
03 | PENNSYLVANIA | PALMERTON, BOROUGH OF | 42025CIND0 | 03-JUN-2002
03 | PENNSYLVANIA | PARRYVILLE, BOROUGH OF | 42025C0279D | 03-JUN-2002
03 | PENNSYLVANIA | PARRYVILLE, BOROUGH OF | 42025C0283D | 03-JUN-2002
03 | PENNSYLVANIA | PARRYVILLE, BOROUGH OF | 42025C0284D | 03-JUN-2002
03 | PENNSYLVANIA | PARRYVILLE, BOROUGH OF | 42025CIND0 | 03-JUN-2002
03 | PENNSYLVANIA | PENN FOREST, TOWNSHIP OF | 42025C0070D | 03-JUN-2002
03 | PENNSYLVANIA | PENN FOREST, TOWNSHIP OF | 42025C0088D | 03-JUN-2002
03 | PENNSYLVANIA | PENN FOREST, TOWNSHIP OF | 42025C0089D | 03-JUN-2002
03 | PENNSYLVANIA | PENN FOREST, TOWNSHIP OF | 42025C0090D | 03-JUN-2002
03 | PENNSYLVANIA | PENN FOREST, TOWNSHIP OF | 42025C0095D | 03-JUN-2002
03 | PENNSYLVANIA | PENN FOREST, TOWNSHIP OF | 42025C0135D | 03-JUN-2002
03 | PENNSYLVANIA | PENN FOREST, TOWNSHIP OF | 42025C0155D | 03-JUN-2002
03 | PENNSYLVANIA | PENN FOREST, TOWNSHIP OF | 42025C0160D | 03-JUN-2002
03 | PENNSYLVANIA | PENN FOREST, TOWNSHIP OF | 42025C0165D | 03-JUN-2002
03 | PENNSYLVANIA | PENN FOREST, TOWNSHIP OF | 42025C0170D | 03-JUN-2002
03 | PENNSYLVANIA | PENN FOREST, TOWNSHIP OF | 42025C0180D | 03-JUN-2002
03 | PENNSYLVANIA | PENN FOREST, TOWNSHIP OF | 42025C0185D | 03-JUN-2002
03 | PENNSYLVANIA | PENN FOREST, TOWNSHIP OF | 42025C0190D | 03-JUN-2002
03 | PENNSYLVANIA | PENN FOREST, TOWNSHIP OF | 42025C0195D | 03-JUN-2002
03 | PENNSYLVANIA | PENN FOREST, TOWNSHIP OF | 42025C0277D | 03-JUN-2002
03 | PENNSYLVANIA | PENN FOREST, TOWNSHIP OF | 42025C0281D | 03-JUN-2002
03 | PENNSYLVANIA | PENN FOREST, TOWNSHIP OF | 42025CIND0 | 03-JUN-2002
03 | PENNSYLVANIA | PENNDEL, BOROUGH OF | 42017C0441G | 02-APR-2002
03 | PENNSYLVANIA | PENNDEL, BOROUGH OF | 42017C0443G | 02-APR-2002
03 | PENNSYLVANIA | PENNDEL, BOROUGH OF | 42017CIND1 | 02-APR-2002
03 | PENNSYLVANIA | PENNDEL, BOROUGH OF | 42017CIND2 | 02-APR-2002
03 | PENNSYLVANIA | POCOPSON, TOWNSHIP OF | 42029C0337E | 17-MAR-2002
03 | PENNSYLVANIA | POCOPSON, TOWNSHIP OF | 42029C0341E | 17-MAR-2002
03 | PENNSYLVANIA | POCOPSON, TOWNSHIP OF | 42029C0342E | 17-MAR-2002
03 | PENNSYLVANIA | POCOPSON, TOWNSHIP OF | 42029CIND1 | 17-MAR-2002
03 | PENNSYLVANIA | POCOPSON, TOWNSHIP OF | 42029CIND2 | 17-MAR-2002
03 | PENNSYLVANIA | SOUTH COATESVILLE, BOROUGH OF | 42029C0302E | 17-MAR-2002
03 | PENNSYLVANIA | SOUTH COATESVILLE, BOROUGH OF | 42029C0304E | 17-MAR-2002
03 | PENNSYLVANIA | SOUTH COATESVILLE, BOROUGH OF | 42029C0308E | 17-MAR-2002
03 | PENNSYLVANIA | SOUTH COATESVILLE, BOROUGH OF | 42029CIND1 | 17-MAR-2002
03 | PENNSYLVANIA | SOUTH COATESVILLE, BOROUGH OF | 42029CIND2 | 17-MAR-2002
03 | PENNSYLVANIA | SUMMIT HILL, BOROUGH OF | 42025C0235D | 03-JUN-2002
03 | PENNSYLVANIA | SUMMIT HILL, BOROUGH OF | 42025C0245D | 03-JUN-2002
03 | PENNSYLVANIA | SUMMIT HILL, BOROUGH OF | 42025C0251D | 03-JUN-2002
03 | PENNSYLVANIA | SUMMIT HILL, BOROUGH OF | 42025C0252D | 03-JUN-2002
03 | PENNSYLVANIA | SUMMIT HILL, BOROUGH OF | 42025C0255D | 03-JUN-2002
03 | PENNSYLVANIA | SUMMIT HILL, BOROUGH OF | 42025C0256D | 03-JUN-2002
03 | PENNSYLVANIA | SUMMIT HILL, BOROUGH OF | 42025C0258D | 03-JUN-2002
03 | PENNSYLVANIA | SUMMIT HILL, BOROUGH OF | 42025C0265D | 03-JUN-2002
03 | PENNSYLVANIA | SUMMIT HILL, BOROUGH OF | 42025CIND0 | 03-JUN-2002
03 | PENNSYLVANIA | TOWAMENSING, TOWNSHIP OF | 42025C0170D | 03-JUN-2002
03 | PENNSYLVANIA | TOWAMENSING, TOWNSHIP OF | 42025C0190D | 03-JUN-2002
03 | PENNSYLVANIA | TOWAMENSING, TOWNSHIP OF | 42025C0195D | 03-JUN-2002
03 | PENNSYLVANIA | TOWAMENSING, TOWNSHIP OF | 42025C0282D | 03-JUN-2002
03 | PENNSYLVANIA | TOWAMENSING, TOWNSHIP OF | 42025C0303D | 03-JUN-2002
03 | PENNSYLVANIA | TOWAMENSING, TOWNSHIP OF | 42025C0304D | 03-JUN-2002
03 | PENNSYLVANIA | TOWAMENSING, TOWNSHIP OF | 42025C0305D | 03-JUN-2002
03 | PENNSYLVANIA | TOWAMENSING, TOWNSHIP OF | 42025C0308D | 03-JUN-2002
03 | PENNSYLVANIA | TOWAMENSING, TOWNSHIP OF | 42025C0310D | 03-JUN-2002
03 | PENNSYLVANIA | TOWAMENSING, TOWNSHIP OF | 42025C0326D | 03-JUN-2002
03 | PENNSYLVANIA | TOWAMENSING, TOWNSHIP OF | 42025CIND0 | 03-JUN-2002
03 | PENNSYLVANIA | UPPER UWCHLAN, TWP OF | 42029C0178E | 17-MAR-2002
03 | PENNSYLVANIA | UPPER UWCHLAN, TWP OF | 42029C0186E | 17-MAR-2002
03 | PENNSYLVANIA | UPPER UWCHLAN, TWP OF | 42029C0187E | 17-MAR-2002
03 | PENNSYLVANIA | UPPER UWCHLAN, TWP OF | 42029CIND1 | 17-MAR-2002
03 | PENNSYLVANIA | UPPER UWCHLAN, TWP OF | 42029CIND2 | 17-MAR-2002
03 | PENNSYLVANIA | UWCHLAN, TOWNSHIP OF | 42029C0187E | 17-MAR-2002
03 | PENNSYLVANIA | UWCHLAN, TOWNSHIP OF | 42029C0189E | 17-MAR-2002
03 | PENNSYLVANIA | UWCHLAN, TOWNSHIP OF | 42029CIND1 | 17-MAR-2002
03 | PENNSYLVANIA | UWCHLAN, TOWNSHIP OF | 42029CIND2 | 17-MAR-2002
03 | PENNSYLVANIA | VALLEY, TOWNSHIP OF | 42029C0164E | 17-MAR-2002
03 | PENNSYLVANIA | VALLEY, TOWNSHIP OF | 42029C0302E | 17-MAR-2002
03 | PENNSYLVANIA | VALLEY, TOWNSHIP OF | 42029CIND1 | 17-MAR-2002
03 | PENNSYLVANIA | VALLEY, TOWNSHIP OF | 42029CIND2 | 17-MAR-2002
03 | PENNSYLVANIA | WALLACE, TOWNSHIP OF | 42029C0156E | 17-MAR-2002
03 | PENNSYLVANIA | WALLACE, TOWNSHIP OF | 42029C0157E | 17-MAR-2002
03 | PENNSYLVANIA | WALLACE, TOWNSHIP OF | 42029C0159E | 17-MAR-2002
03 | PENNSYLVANIA | WALLACE, TOWNSHIP OF | 42029C0178E | 17-MAR-2002
03 | PENNSYLVANIA | WALLACE, TOWNSHIP OF | 42029CIND1 | 17-MAR-2002
03 | PENNSYLVANIA | WALLACE, TOWNSHIP OF | 42029CIND2 | 17-MAR-2002
03 | PENNSYLVANIA | WEATHERLY, BOROUGH OF | 42025C0129D | 03-JUN-2002
03 | PENNSYLVANIA | WEATHERLY, BOROUGH OF | 42025C0130D | 03-JUN-2002
03 | PENNSYLVANIA | WEATHERLY, BOROUGH OF | 42025C0135D | 03-JUN-2002
03 | PENNSYLVANIA | WEATHERLY, BOROUGH OF | 42025C0137D | 03-JUN-2002
03 | PENNSYLVANIA | WEATHERLY, BOROUGH OF | 42025C0145D | 03-JUN-2002
03 | PENNSYLVANIA | WEATHERLY, BOROUGH OF | 42025CIND0 | 03-JUN-2002
03 | PENNSYLVANIA | WEISSPORT, BOROUGH OF | 42025C0279D | 03-JUN-2002
03 | PENNSYLVANIA | WEISSPORT, BOROUGH OF | 42025CIND0 | 03-JUN-2002
03 | PENNSYLVANIA | WEST BRADFORD, TOWNSHIP OF | 42029C0309E | 17-MAR-2002
03 | PENNSYLVANIA | WEST BRADFORD, TOWNSHIP OF | 42029C0327E | 17-MAR-2002
03 | PENNSYLVANIA | WEST BRADFORD, TOWNSHIP OF | 42029C0328E | 17-MAR-2002
03 | PENNSYLVANIA | WEST BRADFORD, TOWNSHIP OF | 42029C0331E | 17-MAR-2002
03 | PENNSYLVANIA | WEST BRADFORD, TOWNSHIP OF | 42029C0333E | 17-MAR-2002
03 | PENNSYLVANIA | WEST BRADFORD, TOWNSHIP OF | 42029C0333E | 17-MAR-2002
03 | PENNSYLVANIA | WEST BRADFORD, TOWNSHIP OF | 42029C0341E | 17-MAR-2002
03 | PENNSYLVANIA | WEST BRADFORD, TOWNSHIP OF | 42029CIND1 | 17-MAR-2002
03 | PENNSYLVANIA | WEST BRADFORD, TOWNSHIP OF | 42029CIND2 | 17-MAR-2002
03 | PENNSYLVANIA | WEST BRANDYWINE, TOWNSHIP OF | 42029C0159E | 17-MAR-2002
03 | PENNSYLVANIA | WEST BRANDYWINE, TOWNSHIP OF | 42029C0164E | 17-MAR-2002
03 | PENNSYLVANIA | WEST BRANDYWINE, TOWNSHIP OF | 42029CIND1 | 17-MAR-2002
03 | PENNSYLVANIA | WEST BRANDYWINE, TOWNSHIP OF | 42029CIND2 | 17-MAR-2002
03 | PENNSYLVANIA | WEST CALN, TOWNSHIP OF | 42029C0164E | 17-MAR-2002
03 | PENNSYLVANIA | WEST CALN, TOWNSHIP OF | 42029CIND1 | 17-MAR-2002
03 | PENNSYLVANIA | WEST CALN, TOWNSHIP OF | 42029CIND2 | 17-MAR-2002
03 | PENNSYLVANIA | WEST GOSHEN, TOWNSHIP OF | 42029C0334E | 17-MAR-2002
03 | PENNSYLVANIA | WEST GOSHEN, TOWNSHIP OF | 42029CIND1 | 17-MAR-2002
03 | PENNSYLVANIA | WEST GOSHEN, TOWNSHIP OF | 42029CIND2 | 17-MAR-2002
03 | PENNSYLVANIA | WEST MARLBOROUGH, TOWNSHIP OF | 42029C0317E | 17-MAR-2002
03 | PENNSYLVANIA | WEST MARLBOROUGH, TOWNSHIP OF | 42029CIND1 | 17-MAR-2002
03 | PENNSYLVANIA | WEST MARLBOROUGH, TOWNSHIP OF | 42029CIND2 | 17-MAR-2002
03 | PENNSYLVANIA | WEST NANTMEAL, TOWNSHIP OF | 42029C0151E | 17-MAR-2002
03 | PENNSYLVANIA | WEST NANTMEAL, TOWNSHIP OF | 42029C0152E | 17-MAR-2002
03 | PENNSYLVANIA | WEST NANTMEAL, TOWNSHIP OF | 42029C0156E | 17-MAR-2002
03 | PENNSYLVANIA | WEST NANTMEAL, TOWNSHIP OF | 42029C0157E | 17-MAR-2002
03 | PENNSYLVANIA | WEST NANTMEAL, TOWNSHIP OF | 42029CIND1 | 17-MAR-2002
03 | PENNSYLVANIA | WEST NANTMEAL, TOWNSHIP OF | 42029CIND2 | 17-MAR-2002
03 | VIRGINIA | BERRYVILLE, TOWN OF | 5100370001C | 02-MAY-2002
03 | VIRGINIA | MONTEREY, TOWN OF | 5103790001B | 17-MAR-2002
03 | WEST VIRGINIA | ALDERSON, TOWN OF | 54063C0007C | 17-JUN-2002
03 | WEST VIRGINIA | ALDERSON, TOWN OF | 54063CIND0 | 17-JUN-2002
03 | WEST VIRGINIA | MONROE COUNTY * | 54063C0007C | 17-JUN-2002
03 | WEST VIRGINIA | MONROE COUNTY * | 54063C0010C | 17-JUN-2002
03 | WEST VIRGINIA | MONROE COUNTY * | 54063C0015C | 17-JUN-2002
03 | WEST VIRGINIA | MONROE COUNTY * | 54063C0020C | 17-JUN-2002
03 | WEST VIRGINIA | MONROE COUNTY * | 54063C0030C | 17-JUN-2002
03 | WEST VIRGINIA | MONROE COUNTY * | 54063C0035C | 17-JUN-2002
03 | WEST VIRGINIA | MONROE COUNTY * | 54063C0040C | 17-JUN-2002
03 | WEST VIRGINIA | MONROE COUNTY * | 54063C0055C | 17-JUN-2002
03 | WEST VIRGINIA | MONROE COUNTY * | 54063C0065C | 17-JUN-2002
03 | WEST VIRGINIA | MONROE COUNTY * | 54063C0070C | 17-JUN-2002
03 | WEST VIRGINIA | MONROE COUNTY * | 54063C0090C | 17-JUN-2002
03 | WEST VIRGINIA | MONROE COUNTY * | 54063C0095C | 17-JUN-2002
03 | WEST VIRGINIA | MONROE COUNTY * | 54063C0115C | 17-JUN-2002
03 | WEST VIRGINIA | MONROE COUNTY * | 54063C0145C | 17-JUN-2002
03 | WEST VIRGINIA | MONROE COUNTY * | 54063C0155C | 17-JUN-2002
03 | WEST VIRGINIA | MONROE COUNTY * | 54063C0165C | 17-JUN-2002
03 | WEST VIRGINIA | MONROE COUNTY * | 54063C0170C | 17-JUN-2002
03 | WEST VIRGINIA | MONROE COUNTY * | 54063C0180C | 17-JUN-2002
03 | WEST VIRGINIA | MONROE COUNTY * | 54063C0185C | 17-JUN-2002
03 | WEST VIRGINIA | MONROE COUNTY * | 54063C0190C | 17-JUN-2002
03 | WEST VIRGINIA | MONROE COUNTY * | 54063C0195C | 17-JUN-2002
03 | WEST VIRGINIA | MONROE COUNTY * | 54063C0205C | 17-JUN-2002
03 | WEST VIRGINIA | MONROE COUNTY * | 54063C0210C | 17-JUN-2002
03 | WEST VIRGINIA | MONROE COUNTY * | 54063C0220C | 17-JUN-2002
03 | WEST VIRGINIA | MONROE COUNTY * | 54063C0230C | 17-JUN-2002
03 | WEST VIRGINIA | MONROE COUNTY * | 54063C0235C | 17-JUN-2002
03 | WEST VIRGINIA | MONROE COUNTY * | 54063C0240C | 17-JUN-2002
03 | WEST VIRGINIA | MONROE COUNTY * | 54063C0255C | 17-JUN-2002
03 | WEST VIRGINIA | MONROE COUNTY * | 54063C0280C | 17-JUN-2002
03 | WEST VIRGINIA | MONROE COUNTY * | 54063C0285C | 17-JUN-2002
03 | WEST VIRGINIA | MONROE COUNTY * | 54063C0290C | 17-JUN-2002
03 | WEST VIRGINIA | MONROE COUNTY * | 54063C0293C | 17-JUN-2002
03 | WEST VIRGINIA | MONROE COUNTY * | 54063C0295C | 17-JUN-2002
03 | WEST VIRGINIA | MONROE COUNTY * | 54063C0305C | 17-JUN-2002
03 | WEST VIRGINIA | MONROE COUNTY * | 54063C0310C | 17-JUN-2002
03 | WEST VIRGINIA | MONROE COUNTY * | 54063C0315C | 17-JUN-2002
03 | WEST VIRGINIA | MONROE COUNTY * | 54063C0330C | 17-JUN-2002
03 | WEST VIRGINIA | MONROE COUNTY * | 54063C0355C | 17-JUN-2002
03 | WEST VIRGINIA | MONROE COUNTY * | 54063C0360C | 17-JUN-2002
03 | WEST VIRGINIA | MONROE COUNTY * | 54063CIND0 | 17-JUN-2002
03 | WEST VIRGINIA | PETERSTOWN, TOWN OF | 54063C0293C | 17-JUN-2002
03 | WEST VIRGINIA | PETERSTOWN, TOWN OF | 54063CIND0 | 17-JUN-2002
03 | WEST VIRGINIA | UNION, TOWN OF | 54063C0185C | 17-JUN-2002
03 | WEST VIRGINIA | UNION, TOWN OF | 54063CIND0 | 17-JUN-2002
04 | ALABAMA | BALDWIN COUNTY* | 01003C0025K | 17-JUN-2002
04 | ALABAMA | BALDWIN COUNTY* | 01003C0050K | 17-JUN-2002
04 | ALABAMA | BALDWIN COUNTY* | 01003C0075K | 17-JUN-2002
04 | ALABAMA | BALDWIN COUNTY* | 01003C0100K | 17-JUN-2002
04 | ALABAMA | BALDWIN COUNTY* | 01003C0125K | 17-JUN-2002
04 | ALABAMA | BALDWIN COUNTY* | 01003C0150K | 17-JUN-2002
04 | ALABAMA | BALDWIN COUNTY* | 01003C0175K | 17-JUN-2002
04 | ALABAMA | BALDWIN COUNTY* | 01003C0200K | 17-JUN-2002
04 | ALABAMA | BALDWIN COUNTY* | 01003C0225K | 17-JUN-2002
04 | ALABAMA | BALDWIN COUNTY* | 01003C0244K | 17-JUN-2002
04 | ALABAMA | BALDWIN COUNTY* | 01003C0245K | 17-JUN-2002
04 | ALABAMA | BALDWIN COUNTY* | 01003C0250K | 17-JUN-2002
04 | ALABAMA | BALDWIN COUNTY* | 01003C0275K | 17-JUN-2002
04 | ALABAMA | BALDWIN COUNTY* | 01003C0300K | 17-JUN-2002
04 | ALABAMA | BALDWIN COUNTY* | 01003C0325K | 17-JUN-2002
04 | ALABAMA | BALDWIN COUNTY* | 01003C0350K | 17-JUN-2002
04 | ALABAMA | BALDWIN COUNTY* | 01003C0375K | 17-JUN-2002
04 | ALABAMA | BALDWIN COUNTY* | 01003C0391K | 17-JUN-2002
04 | ALABAMA | BALDWIN COUNTY* | 01003C0392K | 17-JUN-2002
04 | ALABAMA | BALDWIN COUNTY* | 01003C0393K | 17-JUN-2002
04 | ALABAMA | BALDWIN COUNTY* | 01003C0394K | 17-JUN-2002
04 | ALABAMA | BALDWIN COUNTY* | 01003C0400K | 17-JUN-2002
04 | ALABAMA | BALDWIN COUNTY* | 01003C0405K | 17-JUN-2002
04 | ALABAMA | BALDWIN COUNTY* | 01003C0410K | 17-JUN-2002
04 | ALABAMA | BALDWIN COUNTY* | 01003C0413K | 17-JUN-2002
04 | ALABAMA | BALDWIN COUNTY* | 01003C0415K | 17-JUN-2002
04 | ALABAMA | BALDWIN COUNTY* | 01003C0419K | 17-JUN-2002
04 | ALABAMA | BALDWIN COUNTY* | 01003C0420K | 17-JUN-2002
04 | ALABAMA | BALDWIN COUNTY* | 01003C0438K | 17-JUN-2002
04 | ALABAMA | BALDWIN COUNTY* | 01003C0440K | 17-JUN-2002
04 | ALABAMA | BALDWIN COUNTY* | 01003C0445K | 17-JUN-2002
04 | ALABAMA | BALDWIN COUNTY* | 01003C0450K | 17-JUN-2002
04 | ALABAMA | BALDWIN COUNTY* | 01003C0465K | 17-JUN-2002
04 | ALABAMA | BALDWIN COUNTY* | 01003C0475K | 17-JUN-2002
04 | ALABAMA | BALDWIN COUNTY* | 01003C0500K | 17-JUN-2002
04 | ALABAMA | BALDWIN COUNTY* | 01003C0506K | 17-JUN-2002
04 | ALABAMA | BALDWIN COUNTY* | 01003C0507K | 17-JUN-2002
04 | ALABAMA | BALDWIN COUNTY* | 01003C0508K | 17-JUN-2002
04 | ALABAMA | BALDWIN COUNTY* | 01003C0509K | 17-JUN-2002
04 | ALABAMA | BALDWIN COUNTY* | 01003C0517K | 17-JUN-2002
04 | ALABAMA | BALDWIN COUNTY* | 01003C0518K | 17-JUN-2002
04 | ALABAMA | BALDWIN COUNTY* | 01003C0519K | 17-JUN-2002
04 | ALABAMA | BALDWIN COUNTY* | 01003C0530K | 17-JUN-2002
04 | ALABAMA | BALDWIN COUNTY* | 01003C0532K | 17-JUN-2002
04 | ALABAMA | BALDWIN COUNTY* | 01003C0535K | 17-JUN-2002
04 | ALABAMA | BALDWIN COUNTY* | 01003C0540K | 17-JUN-2002
04 | ALABAMA | BALDWIN COUNTY* | 01003C0545K | 17-JUN-2002
04 | ALABAMA | BALDWIN COUNTY* | 01003C0551K | 17-JUN-2002
04 | ALABAMA | BALDWIN COUNTY* | 01003C0555K | 17-JUN-2002
04 | ALABAMA | BALDWIN COUNTY* | 01003C0560K | 17-JUN-2002
04 | ALABAMA | BALDWIN COUNTY* | 01003C0565K | 17-JUN-2002
04 | ALABAMA | BALDWIN COUNTY* | 01003C0570K | 17-JUN-2002
04 | ALABAMA | BALDWIN COUNTY* | 01003C0580K | 17-JUN-2002
04 | ALABAMA | BALDWIN COUNTY* | 01003C0585K | 17-JUN-2002
04 | ALABAMA | BALDWIN COUNTY* | 01003C0590K | 17-JUN-2002
04 | ALABAMA | BALDWIN COUNTY* | 01003C0595K | 17-JUN-2002
04 | ALABAMA | BALDWIN COUNTY* | 01003C0615K | 17-JUN-2002
04 | ALABAMA | BALDWIN COUNTY* | 01003C0625K | 17-JUN-2002
04 | ALABAMA | BALDWIN COUNTY* | 01003C0631K | 17-JUN-2002
04 | ALABAMA | BALDWIN COUNTY* | 01003C0633K | 17-JUN-2002
04 | ALABAMA | BALDWIN COUNTY* | 01003C0642K | 17-JUN-2002
04 | ALABAMA | BALDWIN COUNTY* | 01003C0644K | 17-JUN-2002
04 | ALABAMA | BALDWIN COUNTY* | 01003C0655K | 17-JUN-2002
04 | ALABAMA | BALDWIN COUNTY* | 01003C0660K | 17-JUN-2002
04 | ALABAMA | BALDWIN COUNTY* | 01003C0661K | 17-JUN-2002
04 | ALABAMA | BALDWIN COUNTY* | 01003C0662K | 17-JUN-2002
04 | ALABAMA | BALDWIN COUNTY* | 01003C0663K | 17-JUN-2002
04 | ALABAMA | BALDWIN COUNTY* | 01003C0664K | 17-JUN-2002
04 | ALABAMA | BALDWIN COUNTY* | 01003C0670K | 17-JUN-2002
04 | ALABAMA | BALDWIN COUNTY* | 01003C0680K | 17-JUN-2002
04 | ALABAMA | BALDWIN COUNTY* | 01003C0685K | 17-JUN-2002
04 | ALABAMA | BALDWIN COUNTY* | 01003C0690K | 17-JUN-2002
04 | ALABAMA | BALDWIN COUNTY* | 01003C0695K | 17-JUN-2002
04 | ALABAMA | BALDWIN COUNTY* | 01003C0705K | 17-JUN-2002
04 | ALABAMA | BALDWIN COUNTY* | 01003C0710K | 17-JUN-2002
04 | ALABAMA | BALDWIN COUNTY* | 01003C0715K | 17-JUN-2002
04 | ALABAMA | BALDWIN COUNTY* | 01003C0720K | 17-JUN-2002
04 | ALABAMA | BALDWIN COUNTY* | 01003C0730K | 17-JUN-2002
04 | ALABAMA | BALDWIN COUNTY* | 01003C0735K | 17-JUN-2002
04 | ALABAMA | BALDWIN COUNTY* | 01003C0740K | 17-JUN-2002
04 | ALABAMA | BALDWIN COUNTY* | 01003C0745K | 17-JUN-2002
04 | ALABAMA | BALDWIN COUNTY* | 01003C0764K | 17-JUN-2002
04 | ALABAMA | BALDWIN COUNTY* | 01003C0768K | 17-JUN-2002
04 | ALABAMA | BALDWIN COUNTY* | 01003C0777K | 17-JUN-2002
04 | ALABAMA | BALDWIN COUNTY* | 01003C0779K | 17-JUN-2002
04 | ALABAMA | BALDWIN COUNTY* | 01003C0781K | 17-JUN-2002
04 | ALABAMA | BALDWIN COUNTY* | 01003C0783K | 17-JUN-2002
04 | ALABAMA | BALDWIN COUNTY* | 01003C0784K | 17-JUN-2002
04 | ALABAMA | BALDWIN COUNTY* | 01003C0789K | 17-JUN-2002
04 | ALABAMA | BALDWIN COUNTY* | 01003C0792K | 17-JUN-2002
04 | ALABAMA | BALDWIN COUNTY* | 01003C0793K | 17-JUN-2002
04 | ALABAMA | BALDWIN COUNTY* | 01003C0794K | 17-JUN-2002
04 | ALABAMA | BALDWIN COUNTY* | 01003C0803K | 17-JUN-2002
04 | ALABAMA | BALDWIN COUNTY* | 01003C0804K | 17-JUN-2002
04 | ALABAMA | BALDWIN COUNTY* | 01003C0805K | 17-JUN-2002
04 | ALABAMA | BALDWIN COUNTY* | 01003C0808K | 17-JUN-2002
04 | ALABAMA | BALDWIN COUNTY* | 01003C0809K | 17-JUN-2002
04 | ALABAMA | BALDWIN COUNTY* | 01003C0810K | 17-JUN-2002
04 | ALABAMA | BALDWIN COUNTY* | 01003C0811K | 17-JUN-2002
04 | ALABAMA | BALDWIN COUNTY* | 01003C0812K | 17-JUN-2002
04 | ALABAMA | BALDWIN COUNTY* | 01003C0813K | 17-JUN-2002
04 | ALABAMA | BALDWIN COUNTY* | 01003C0814K | 17-JUN-2002
04 | ALABAMA | BALDWIN COUNTY* | 01003C0816K | 17-JUN-2002
04 | ALABAMA | BALDWIN COUNTY* | 01003C0817K | 17-JUN-2002
04 | ALABAMA | BALDWIN COUNTY* | 01003C0818K | 17-JUN-2002
04 | ALABAMA | BALDWIN COUNTY* | 01003C0819K | 17-JUN-2002
04 | ALABAMA | BALDWIN COUNTY* | 01003C0828K | 17-JUN-2002
04 | ALABAMA | BALDWIN COUNTY* | 01003C0829K | 17-JUN-2002
04 | ALABAMA | BALDWIN COUNTY* | 01003C0830K | 17-JUN-2002
04 | ALABAMA | BALDWIN COUNTY* | 01003C0833K | 17-JUN-2002
04 | ALABAMA | BALDWIN COUNTY* | 01003C0834K | 17-JUN-2002
04 | ALABAMA | BALDWIN COUNTY* | 01003C0835K | 17-JUN-2002
04 | ALABAMA | BALDWIN COUNTY* | 01003C0836K | 17-JUN-2002
04 | ALABAMA | BALDWIN COUNTY* | 01003C0837K | 17-JUN-2002
04 | ALABAMA | BALDWIN COUNTY* | 01003C0838K | 17-JUN-2002
04 | ALABAMA | BALDWIN COUNTY* | 01003C0839K | 17-JUN-2002
04 | ALABAMA | BALDWIN COUNTY* | 01003C0841K | 17-JUN-2002
04 | ALABAMA | BALDWIN COUNTY* | 01003C0842K | 17-JUN-2002
04 | ALABAMA | BALDWIN COUNTY* | 01003C0843K | 17-JUN-2002
04 | ALABAMA | BALDWIN COUNTY* | 01003C0844K | 17-JUN-2002
04 | ALABAMA | BALDWIN COUNTY* | 01003C0855K | 17-JUN-2002
04 | ALABAMA | BALDWIN COUNTY* | 01003C0861K | 17-JUN-2002
04 | ALABAMA | BALDWIN COUNTY* | 01003C0862K | 17-JUN-2002
04 | ALABAMA | BALDWIN COUNTY* | 01003C0882K | 17-JUN-2002
04 | ALABAMA | BALDWIN COUNTY* | 01003C0901K | 17-JUN-2002
04 | ALABAMA | BALDWIN COUNTY* | 01003C0902K | 17-JUN-2002
04 | ALABAMA | BALDWIN COUNTY* | 01003C0906K | 17-JUN-2002
04 | ALABAMA | BALDWIN COUNTY* | 01003C0907K | 17-JUN-2002
04 | ALABAMA | BALDWIN COUNTY* | 01003C0926K | 17-JUN-2002
04 | ALABAMA | BALDWIN COUNTY* | 01003C0927K | 17-JUN-2002
04 | ALABAMA | BALDWIN COUNTY* | 01003C0931K | 17-JUN-2002
04 | ALABAMA | BALDWIN COUNTY* | 01003C0932K | 17-JUN-2002
04 | ALABAMA | BALDWIN COUNTY* | 01003C0951K | 17-JUN-2002
04 | ALABAMA | BALDWIN COUNTY* | 01003C0952K | 17-JUN-2002
04 | ALABAMA | BALDWIN COUNTY* | 01003C0956K | 17-JUN-2002
04 | ALABAMA | BALDWIN COUNTY* | 01003CIND1 | 17-JUN-2002
04 | ALABAMA | BALDWIN COUNTY* | 01003CIND2 | 17-JUN-2002
04 | ALABAMA | BAY MINETTE, CITY OF | 01003C0244K | 17-JUN-2002
04 | ALABAMA | BAY MINETTE, CITY OF | 01003C0245K | 17-JUN-2002
04 | ALABAMA | BAY MINETTE, CITY OF | 01003C0325K | 17-JUN-2002
04 | ALABAMA | BAY MINETTE, CITY OF | 01003CIND1 | 17-JUN-2002
04 | ALABAMA | BAY MINETTE, CITY OF | 01003CIND2 | 17-JUN-2002
04 | ALABAMA | DAPHNE, CITY OF | 01003C0391K | 17-JUN-2002
04 | ALABAMA | DAPHNE, CITY OF | 01003C0392K | 17-JUN-2002
04 | ALABAMA | DAPHNE, CITY OF | 01003C0393K | 17-JUN-2002
04 | ALABAMA | DAPHNE, CITY OF | 01003C0394K | 17-JUN-2002
04 | ALABAMA | DAPHNE, CITY OF | 01003C0413K | 17-JUN-2002
04 | ALABAMA | DAPHNE, CITY OF | 01003C0415K | 17-JUN-2002
04 | ALABAMA | DAPHNE, CITY OF | 01003C0506K | 17-JUN-2002
04 | ALABAMA | DAPHNE, CITY OF | 01003C0507K | 17-JUN-2002
04 | ALABAMA | DAPHNE, CITY OF | 01003C0508K | 17-JUN-2002
04 | ALABAMA | DAPHNE, CITY OF | 01003C0509K | 17-JUN-2002
04 | ALABAMA | DAPHNE, CITY OF | 01003C0530K | 17-JUN-2002
04 | ALABAMA | DAPHNE, CITY OF | 01003CIND1 | 17-JUN-2002
04 | ALABAMA | DAPHNE, CITY OF | 01003CIND2 | 17-JUN-2002
04 | ALABAMA | ELBERTA, TOWN OF | 01003C0715K | 17-JUN-2002
04 | ALABAMA | ELBERTA, TOWN OF | 01003CIND1 | 17-JUN-2002
04 | ALABAMA | ELBERTA, TOWN OF | 01003CIND2 | 17-JUN-2002
04 | ALABAMA | FAIRHOPE, CITY OF | 01003C0509K | 17-JUN-2002
04 | ALABAMA | FAIRHOPE, CITY OF | 01003C0517K | 17-JUN-2002
04 | ALABAMA | FAIRHOPE, CITY OF | 01003C0518K | 17-JUN-2002
04 | ALABAMA | FAIRHOPE, CITY OF | 01003C0519K | 17-JUN-2002
04 | ALABAMA | FAIRHOPE, CITY OF | 01003C0540K | 17-JUN-2002
04 | ALABAMA | FAIRHOPE, CITY OF | 01003C0655K | 17-JUN-2002
04 | ALABAMA | FAIRHOPE, CITY OF | 01003CIND1 | 17-JUN-2002
04 | ALABAMA | FAIRHOPE, CITY OF | 01003CIND2 | 17-JUN-2002
04 | ALABAMA | FOLEY, CITY OF | 01003C0685K | 17-JUN-2002
04 | ALABAMA | FOLEY, CITY OF | 01003C0690K | 17-JUN-2002
04 | ALABAMA | FOLEY, CITY OF | 01003C0695K | 17-JUN-2002
04 | ALABAMA | FOLEY, CITY OF | 01003C0810K | 17-JUN-2002
04 | ALABAMA | FOLEY, CITY OF | 01003CIND1 | 17-JUN-2002
04 | ALABAMA | FOLEY, CITY OF | 01003CIND2 | 17-JUN-2002
04 | ALABAMA | GULF SHORES, TOWN OF | 01003C0793K | 17-JUN-2002
04 | ALABAMA | GULF SHORES, TOWN OF | 01003C0794K | 17-JUN-2002
04 | ALABAMA | GULF SHORES, TOWN OF | 01003C0804K | 17-JUN-2002
04 | ALABAMA | GULF SHORES, TOWN OF | 01003C0808K | 17-JUN-2002
04 | ALABAMA | GULF SHORES, TOWN OF | 01003C0809K | 17-JUN-2002
04 | ALABAMA | GULF SHORES, TOWN OF | 01003C0812K | 17-JUN-2002
04 | ALABAMA | GULF SHORES, TOWN OF | 01003C0813K | 17-JUN-2002
04 | ALABAMA | GULF SHORES, TOWN OF | 01003C0814K | 17-JUN-2002
04 | ALABAMA | GULF SHORES, TOWN OF | 01003C0816K | 17-JUN-2002
04 | ALABAMA | GULF SHORES, TOWN OF | 01003C0817K | 17-JUN-2002
04 | ALABAMA | GULF SHORES, TOWN OF | 01003C0818K | 17-JUN-2002
04 | ALABAMA | GULF SHORES, TOWN OF | 01003C0819K | 17-JUN-2002
04 | ALABAMA | GULF SHORES, TOWN OF | 01003C0838K | 17-JUN-2002
04 | ALABAMA | GULF SHORES, TOWN OF | 01003C0931K | 17-JUN-2002
04 | ALABAMA | GULF SHORES, TOWN OF | 01003C0932K | 17-JUN-2002
04 | ALABAMA | GULF SHORES, TOWN OF | 01003C0951K | 17-JUN-2002
04 | ALABAMA | GULF SHORES, TOWN OF | 01003C0952K | 17-JUN-2002
04 | ALABAMA | GULF SHORES, TOWN OF | 01003C0956K | 17-JUN-2002
04 | ALABAMA | GULF SHORES, TOWN OF | 01003CIND1 | 17-JUN-2002
04 | ALABAMA | GULF SHORES, TOWN OF | 01003CIND2 | 17-JUN-2002
04 | ALABAMA | LOXLEY, TOWN OF | 01003C0419K | 17-JUN-2002
04 | ALABAMA | LOXLEY, TOWN OF | 01003C0438K | 17-JUN-2002
04 | ALABAMA | LOXLEY, TOWN OF | 01003C0532K | 17-JUN-2002
04 | ALABAMA | LOXLEY, TOWN OF | 01003C0551K | 17-JUN-2002
04 | ALABAMA | LOXLEY, TOWN OF | 01003CIND1 | 17-JUN-2002
04 | ALABAMA | LOXLEY, TOWN OF | 01003CIND2 | 17-JUN-2002
04 | ALABAMA | ORANGE BEACH, CITY OF | 01003C0817K | 17-JUN-2002
04 | ALABAMA | ORANGE BEACH, CITY OF | 01003C0819K | 17-JUN-2002
04 | ALABAMA | ORANGE BEACH, CITY OF | 01003C0834K | 17-JUN-2002
04 | ALABAMA | ORANGE BEACH, CITY OF | 01003C0836K | 17-JUN-2002
04 | ALABAMA | ORANGE BEACH, CITY OF | 01003C0837K | 17-JUN-2002
04 | ALABAMA | ORANGE BEACH, CITY OF | 01003C0838K | 17-JUN-2002
04 | ALABAMA | ORANGE BEACH, CITY OF | 01003C0839K | 17-JUN-2002
04 | ALABAMA | ORANGE BEACH, CITY OF | 01003C0841K | 17-JUN-2002
04 | ALABAMA | ORANGE BEACH, CITY OF | 01003C0842K | 17-JUN-2002
04 | ALABAMA | ORANGE BEACH, CITY OF | 01003C0843K | 17-JUN-2002
04 | ALABAMA | ORANGE BEACH, CITY OF | 01003CIND1 | 17-JUN-2002
04 | ALABAMA | ORANGE BEACH, CITY OF | 01003CIND2 | 17-JUN-2002
04 | ALABAMA | ROBERTSDALE, CITY OF | 01003C0555K | 17-JUN-2002
04 | ALABAMA | ROBERTSDALE, CITY OF | 01003C0560K | 17-JUN-2002
04 | ALABAMA | ROBERTSDALE, CITY OF | 01003C0565K | 17-JUN-2002
04 | ALABAMA | ROBERTSDALE, CITY OF | 01003CIND1 | 17-JUN-2002
04 | ALABAMA | ROBERTSDALE, CITY OF | 01003CIND2 | 17-JUN-2002
04 | ALABAMA | SILVERHILL, TOWN OF | 01003C0545K | 17-JUN-2002
04 | ALABAMA | SILVERHILL, TOWN OF | 01003C0565K | 17-JUN-2002
04 | ALABAMA | SILVERHILL, TOWN OF | 01003CIND1 | 17-JUN-2002
04 | ALABAMA | SILVERHILL, TOWN OF | 01003CIND2 | 17-JUN-2002
04 | ALABAMA | SPANISH FORT, CITY OF | 01003C0391K | 17-JUN-2002
04 | ALABAMA | SPANISH FORT, CITY OF | 01003C0392K | 17-JUN-2002
04 | ALABAMA | SPANISH FORT, CITY OF | 01003C0400K | 17-JUN-2002
04 | ALABAMA | SPANISH FORT, CITY OF | 01003C0415K | 17-JUN-2002
04 | ALABAMA | SPANISH FORT, CITY OF | 01003CIND1 | 17-JUN-2002
04 | ALABAMA | SPANISH FORT, CITY OF | 01003CIND2 | 17-JUN-2002
04 | ALABAMA | SUMMERDALE, TOWN OF | 01003C0565K | 17-JUN-2002
04 | ALABAMA | SUMMERDALE, TOWN OF | 01003C0570K | 17-JUN-2002
04 | ALABAMA | SUMMERDALE, TOWN OF | 01003C0680K | 17-JUN-2002
04 | ALABAMA | SUMMERDALE, TOWN OF | 01003C0685K | 17-JUN-2002
04 | ALABAMA | SUMMERDALE, TOWN OF | 01003CIND1 | 17-JUN-2002
04 | ALABAMA | SUMMERDALE, TOWN OF | 01003CIND2 | 17-JUN-2002
04 | FLORIDA | APALACHICOLA, CITY OF | 12037C0509E | 17-JUN-2002
04 | FLORIDA | APALACHICOLA, CITY OF | 12037C0510E | 17-JUN-2002
04 | FLORIDA | APALACHICOLA, CITY OF | 12037C0526E | 17-JUN-2002
04 | FLORIDA | APALACHICOLA, CITY OF | 12037C0528E | 17-JUN-2002
04 | FLORIDA | APALACHICOLA, CITY OF | 12037CIND0 | 17-JUN-2002
04 | FLORIDA | CARRABELLE, CITY OF | 12037C0430E | 17-JUN-2002
04 | FLORIDA | CARRABELLE, CITY OF | 12037C0431E | 17-JUN-2002
04 | FLORIDA | CARRABELLE, CITY OF | 12037C0432E | 17-JUN-2002
04 | FLORIDA | CARRABELLE, CITY OF | 12037C0433E | 17-JUN-2002
04 | FLORIDA | CARRABELLE, CITY OF | 12037C0434E | 17-JUN-2002
04 | FLORIDA | CARRABELLE, CITY OF | 12037CIND0 | 17-JUN-2002
04 | FLORIDA | DAYTONA BEACH SHORES, CITY OF | 12127C0378G | 15-APR-2002
04 | FLORIDA | DAYTONA BEACH SHORES, CITY OF | 12127C0386G | 15-APR-2002
04 | FLORIDA | DAYTONA BEACH SHORES, CITY OF | 12127C0388G | 15-APR-2002
04 | FLORIDA | DAYTONA BEACH SHORES, CITY OF | 12127C0389G | 15-APR-2002
04 | FLORIDA | DAYTONA BEACH SHORES, CITY OF | 12127CIND0 | 15-APR-2002
04 | FLORIDA | DAYTONA BEACH, CITY OF | 12127C0218G | 15-APR-2002
04 | FLORIDA | DAYTONA BEACH, CITY OF | 12127C0219G | 15-APR-2002
04 | FLORIDA | DAYTONA BEACH, CITY OF | 12127C0350G | 15-APR-2002
04 | FLORIDA | DAYTONA BEACH, CITY OF | 12127C0351G | 15-APR-2002
04 | FLORIDA | DAYTONA BEACH, CITY OF | 12127C0352G | 15-APR-2002
04 | FLORIDA | DAYTONA BEACH, CITY OF | 12127C0353G | 15-APR-2002
04 | FLORIDA | DAYTONA BEACH, CITY OF | 12127C0354G | 15-APR-2002
04 | FLORIDA | DAYTONA BEACH, CITY OF | 12127C0356G | 15-APR-2002
04 | FLORIDA | DAYTONA BEACH, CITY OF | 12127C0357G | 15-APR-2002
04 | FLORIDA | DAYTONA BEACH, CITY OF | 12127C0358G | 15-APR-2002
04 | FLORIDA | DAYTONA BEACH, CITY OF | 12127C0359G | 15-APR-2002
04 | FLORIDA | DAYTONA BEACH, CITY OF | 12127C0361G | 15-APR-2002
04 | FLORIDA | DAYTONA BEACH, CITY OF | 12127C0362G | 15-APR-2002
04 | FLORIDA | DAYTONA BEACH, CITY OF | 12127C0363G | 15-APR-2002
04 | FLORIDA | DAYTONA BEACH, CITY OF | 12127C0364G | 15-APR-2002
04 | FLORIDA | DAYTONA BEACH, CITY OF | 12127C0366G | 15-APR-2002
04 | FLORIDA | DAYTONA BEACH, CITY OF | 12127C0367G | 15-APR-2002
04 | FLORIDA | DAYTONA BEACH, CITY OF | 12127C0368G | 15-APR-2002
04 | FLORIDA | DAYTONA BEACH, CITY OF | 12127C0378G | 15-APR-2002
04 | FLORIDA | DAYTONA BEACH, CITY OF | 12127C0386G | 15-APR-2002
04 | FLORIDA | DAYTONA BEACH, CITY OF | 12127C0388G | 15-APR-2002
04 | FLORIDA | DAYTONA BEACH, CITY OF | 12127CIND0 | 15-APR-2002
04 | FLORIDA | DEBARY, CITY OF | 12127C0615G | 15-APR-2002
04 | FLORIDA | DEBARY, CITY OF | 12127C0620G | 15-APR-2002
04 | FLORIDA | DEBARY, CITY OF | 12127C0730G | 15-APR-2002
04 | FLORIDA | DEBARY, CITY OF | 12127C0735G | 15-APR-2002
04 | FLORIDA | DEBARY, CITY OF | 12127CIND0 | 15-APR-2002
04 | FLORIDA | DELAND, CITY OF | 12127C0460G | 15-APR-2002
04 | FLORIDA | DELAND, CITY OF | 12127C0465G | 15-APR-2002
04 | FLORIDA | DELAND, CITY OF | 12127C0470G | 15-APR-2002
04 | FLORIDA | DELAND, CITY OF | 12127C0500G | 15-APR-2002
04 | FLORIDA | DELAND, CITY OF | 12127C0610G | 15-APR-2002
04 | FLORIDA | DELAND, CITY OF | 12127CIND0 | 15-APR-2002
04 | FLORIDA | DELTONA, CITY OF | 12127C0610G | 15-APR-2002
04 | FLORIDA | DELTONA, CITY OF | 12127C0620G | 15-APR-2002
04 | FLORIDA | DELTONA, CITY OF | 12127C0650G | 15-APR-2002
04 | FLORIDA | DELTONA, CITY OF | 12127C0735G | 15-APR-2002
04 | FLORIDA | DELTONA, CITY OF | 12127C0755G | 15-APR-2002
04 | FLORIDA | DELTONA, CITY OF | 12127C0760G | 15-APR-2002
04 | FLORIDA | DELTONA, CITY OF | 12127CIND0 | 15-APR-2002
04 | FLORIDA | EDGEWATER, CITY OF | 12127C0543G | 15-APR-2002
04 | FLORIDA | EDGEWATER, CITY OF | 12127C0544G | 15-APR-2002
04 | FLORIDA | EDGEWATER, CITY OF | 12127C0685G | 15-APR-2002
04 | FLORIDA | EDGEWATER, CITY OF | 12127C0700G | 15-APR-2002
04 | FLORIDA | EDGEWATER, CITY OF | 12127C0705G | 15-APR-2002
04 | FLORIDA | EDGEWATER, CITY OF | 12127CIND0 | 15-APR-2002
04 | FLORIDA | FRANKLIN COUNTY * | 12037C0025E | 17-JUN-2002
04 | FLORIDA | FRANKLIN COUNTY * | 12037C0050E | 17-JUN-2002
04 | FLORIDA | FRANKLIN COUNTY * | 12037C0075E | 17-JUN-2002
04 | FLORIDA | FRANKLIN COUNTY * | 12037C0100E | 17-JUN-2002
04 | FLORIDA | FRANKLIN COUNTY * | 12037C0125E | 17-JUN-2002
04 | FLORIDA | FRANKLIN COUNTY * | 12037C0150E | 17-JUN-2002
04 | FLORIDA | FRANKLIN COUNTY * | 12037C0175E | 17-JUN-2002
04 | FLORIDA | FRANKLIN COUNTY * | 12037C0200E | 17-JUN-2002
04 | FLORIDA | FRANKLIN COUNTY * | 12037C0225E | 17-JUN-2002
04 | FLORIDA | FRANKLIN COUNTY * | 12037C0250E | 17-JUN-2002
04 | FLORIDA | FRANKLIN COUNTY * | 12037C0255E | 17-JUN-2002
04 | FLORIDA | FRANKLIN COUNTY * | 12037C0260E | 17-JUN-2002
04 | FLORIDA | FRANKLIN COUNTY * | 12037C0265E | 17-JUN-2002
04 | FLORIDA | FRANKLIN COUNTY * | 12037C0270E | 17-JUN-2002
04 | FLORIDA | FRANKLIN COUNTY * | 12037C0280E | 17-JUN-2002
04 | FLORIDA | FRANKLIN COUNTY * | 12037C0285E | 17-JUN-2002
04 | FLORIDA | FRANKLIN COUNTY * | 12037C0290E | 17-JUN-2002
04 | FLORIDA | FRANKLIN COUNTY * | 12037C0291E | 17-JUN-2002
04 | FLORIDA | FRANKLIN COUNTY * | 12037C0292E | 17-JUN-2002
04 | FLORIDA | FRANKLIN COUNTY * | 12037C0293E | 17-JUN-2002
04 | FLORIDA | FRANKLIN COUNTY * | 12037C0294E | 17-JUN-2002
04 | FLORIDA | FRANKLIN COUNTY * | 12037C0305E | 17-JUN-2002
04 | FLORIDA | FRANKLIN COUNTY * | 12037C0311E | 17-JUN-2002
04 | FLORIDA | FRANKLIN COUNTY * | 12037C0312E | 17-JUN-2002
04 | FLORIDA | FRANKLIN COUNTY * | 12037C0313E | 17-JUN-2002
04 | FLORIDA | FRANKLIN COUNTY * | 12037C0314E | 17-JUN-2002
04 | FLORIDA | FRANKLIN COUNTY * | 12037C0350E | 17-JUN-2002
04 | FLORIDA | FRANKLIN COUNTY * | 12037C0375E | 17-JUN-2002
04 | FLORIDA | FRANKLIN COUNTY * | 12037C0380E | 17-JUN-2002
04 | FLORIDA | FRANKLIN COUNTY * | 12037C0385E | 17-JUN-2002
04 | FLORIDA | FRANKLIN COUNTY * | 12037C0390E | 17-JUN-2002
04 | FLORIDA | FRANKLIN COUNTY * | 12037C0395E | 17-JUN-2002
04 | FLORIDA | FRANKLIN COUNTY * | 12037C0405E | 17-JUN-2002
04 | FLORIDA | FRANKLIN COUNTY * | 12037C0410E | 17-JUN-2002
04 | FLORIDA | FRANKLIN COUNTY * | 12037C0413E | 17-JUN-2002
04 | FLORIDA | FRANKLIN COUNTY * | 12037C0414E | 17-JUN-2002
04 | FLORIDA | FRANKLIN COUNTY * | 12037C0415E | 17-JUN-2002
04 | FLORIDA | FRANKLIN COUNTY * | 12037C0416E | 17-JUN-2002
04 | FLORIDA | FRANKLIN COUNTY * | 12037C0417E | 17-JUN-2002
04 | FLORIDA | FRANKLIN COUNTY * | 12037C0418E | 17-JUN-2002
04 | FLORIDA | FRANKLIN COUNTY * | 12037C0419E | 17-JUN-2002
04 | FLORIDA | FRANKLIN COUNTY * | 12037C0428E | 17-JUN-2002
04 | FLORIDA | FRANKLIN COUNTY * | 12037C0429E | 17-JUN-2002
04 | FLORIDA | FRANKLIN COUNTY * | 12037C0430E | 17-JUN-2002
04 | FLORIDA | FRANKLIN COUNTY * | 12037C0431E | 17-JUN-2002
04 | FLORIDA | FRANKLIN COUNTY * | 12037C0432E | 17-JUN-2002
04 | FLORIDA | FRANKLIN COUNTY * | 12037C0433E | 17-JUN-2002
04 | FLORIDA | FRANKLIN COUNTY * | 12037C0434E | 17-JUN-2002
04 | FLORIDA | FRANKLIN COUNTY * | 12037C0436E | 17-JUN-2002
04 | FLORIDA | FRANKLIN COUNTY * | 12037C0437E | 17-JUN-2002
04 | FLORIDA | FRANKLIN COUNTY * | 12037C0439E | 17-JUN-2002
04 | FLORIDA | FRANKLIN COUNTY * | 12037C0441E | 17-JUN-2002
04 | FLORIDA | FRANKLIN COUNTY * | 12037C0442E | 17-JUN-2002
04 | FLORIDA | FRANKLIN COUNTY * | 12037C0443E | 17-JUN-2002
04 | FLORIDA | FRANKLIN COUNTY * | 12037C0444E | 17-JUN-2002
04 | FLORIDA | FRANKLIN COUNTY * | 12037C0451E | 17-JUN-2002
04 | FLORIDA | FRANKLIN COUNTY * | 12037C0453E | 17-JUN-2002
04 | FLORIDA | FRANKLIN COUNTY * | 12037C0454E | 17-JUN-2002
04 | FLORIDA | FRANKLIN COUNTY * | 12037C0461E | 17-JUN-2002
04 | FLORIDA | FRANKLIN COUNTY * | 12037C0462E | 17-JUN-2002
04 | FLORIDA | FRANKLIN COUNTY * | 12037C0478E | 17-JUN-2002
04 | FLORIDA | FRANKLIN COUNTY * | 12037C0479E | 17-JUN-2002
04 | FLORIDA | FRANKLIN COUNTY * | 12037C0480E | 17-JUN-2002
04 | FLORIDA | FRANKLIN COUNTY * | 12037C0483E | 17-JUN-2002
04 | FLORIDA | FRANKLIN COUNTY * | 12037C0484E | 17-JUN-2002
04 | FLORIDA | FRANKLIN COUNTY * | 12037C0485E | 17-JUN-2002
04 | FLORIDA | FRANKLIN COUNTY * | 12037C0486E | 17-JUN-2002
04 | FLORIDA | FRANKLIN COUNTY * | 12037C0487E | 17-JUN-2002
04 | FLORIDA | FRANKLIN COUNTY * | 12037C0491E | 17-JUN-2002
04 | FLORIDA | FRANKLIN COUNTY * | 12037C0492E | 17-JUN-2002
04 | FLORIDA | FRANKLIN COUNTY * | 12037C0493E | 17-JUN-2002
04 | FLORIDA | FRANKLIN COUNTY * | 12037C0494E | 17-JUN-2002
04 | FLORIDA | FRANKLIN COUNTY * | 12037C0503E | 17-JUN-2002
04 | FLORIDA | FRANKLIN COUNTY * | 12037C0504E | 17-JUN-2002
04 | FLORIDA | FRANKLIN COUNTY * | 12037C0505E | 17-JUN-2002
04 | FLORIDA | FRANKLIN COUNTY * | 12037C0508E | 17-JUN-2002
04 | FLORIDA | FRANKLIN COUNTY * | 12037C0509E | 17-JUN-2002
04 | FLORIDA | FRANKLIN COUNTY * | 12037C0510E | 17-JUN-2002
04 | FLORIDA | FRANKLIN COUNTY * | 12037C0511E | 17-JUN-2002
04 | FLORIDA | FRANKLIN COUNTY * | 12037C0512E | 17-JUN-2002
04 | FLORIDA | FRANKLIN COUNTY * | 12037C0513E | 17-JUN-2002
04 | FLORIDA | FRANKLIN COUNTY * | 12037C0514E | 17-JUN-2002
04 | FLORIDA | FRANKLIN COUNTY * | 12037C0526E | 17-JUN-2002
04 | FLORIDA | FRANKLIN COUNTY * | 12037C0527E | 17-JUN-2002
04 | FLORIDA | FRANKLIN COUNTY * | 12037C0528E | 17-JUN-2002
04 | FLORIDA | FRANKLIN COUNTY * | 12037C0531E | 17-JUN-2002
04 | FLORIDA | FRANKLIN COUNTY * | 12037C0532E | 17-JUN-2002
04 | FLORIDA | FRANKLIN COUNTY * | 12037C0534E | 17-JUN-2002
04 | FLORIDA | FRANKLIN COUNTY * | 12037C0539E | 17-JUN-2002
04 | FLORIDA | FRANKLIN COUNTY * | 12037C0542E | 17-JUN-2002
04 | FLORIDA | FRANKLIN COUNTY * | 12037C0543E | 17-JUN-2002
04 | FLORIDA | FRANKLIN COUNTY * | 12037C0544E | 17-JUN-2002
04 | FLORIDA | FRANKLIN COUNTY * | 12037C0551E | 17-JUN-2002
04 | FLORIDA | FRANKLIN COUNTY * | 12037C0557E | 17-JUN-2002
04 | FLORIDA | FRANKLIN COUNTY * | 12037C0558E | 17-JUN-2002
04 | FLORIDA | FRANKLIN COUNTY * | 12037C0559E | 17-JUN-2002
04 | FLORIDA | FRANKLIN COUNTY * | 12037C0561E | 17-JUN-2002
04 | FLORIDA | FRANKLIN COUNTY * | 12037C0562E | 17-JUN-2002
04 | FLORIDA | FRANKLIN COUNTY * | 12037C0563E | 17-JUN-2002
04 | FLORIDA | FRANKLIN COUNTY * | 12037C0566E | 17-JUN-2002
04 | FLORIDA | FRANKLIN COUNTY * | 12037C0576E | 17-JUN-2002
04 | FLORIDA | FRANKLIN COUNTY * | 12037C0577E | 17-JUN-2002
04 | FLORIDA | FRANKLIN COUNTY * | 12037C0578E | 17-JUN-2002
04 | FLORIDA | FRANKLIN COUNTY * | 12037C0601E | 17-JUN-2002
04 | FLORIDA | FRANKLIN COUNTY * | 12037C0602E | 17-JUN-2002
04 | FLORIDA | FRANKLIN COUNTY * | 12037C0606E | 17-JUN-2002
04 | FLORIDA | FRANKLIN COUNTY * | 12037C0607E | 17-JUN-2002
04 | FLORIDA | FRANKLIN COUNTY * | 12037C0608E | 17-JUN-2002
04 | FLORIDA | FRANKLIN COUNTY * | 12037C0609E | 17-JUN-2002
04 | FLORIDA | FRANKLIN COUNTY * | 12037C0626E | 17-JUN-2002
04 | FLORIDA | FRANKLIN COUNTY * | 12037C0627E | 17-JUN-2002
04 | FLORIDA | FRANKLIN COUNTY * | 12037C0631E | 17-JUN-2002
04 | FLORIDA | FRANKLIN COUNTY * | 12037CIND0 | 17-JUN-2002
04 | FLORIDA | HOLLY HILL, CITY OF | 12127C0214G | 15-APR-2002
04 | FLORIDA | HOLLY HILL, CITY OF | 12127C0218G | 15-APR-2002
04 | FLORIDA | HOLLY HILL, CITY OF | 12127C0352G | 15-APR-2002
04 | FLORIDA | HOLLY HILL, CITY OF | 12127C0356G | 15-APR-2002
04 | FLORIDA | HOLLY HILL, CITY OF | 12127C0357G | 15-APR-2002
04 | FLORIDA | HOLLY HILL, CITY OF | 12127CIND0 | 15-APR-2002
04 | FLORIDA | KEY COLONY BEACH, CITY OF | 12087C1582J | 15-FEB-2002
04 | FLORIDA | KEY COLONY BEACH, CITY OF | 12087CIND1 | 15-FEB-2002
04 | FLORIDA | KEY COLONY BEACH, CITY OF | 12087CIND2 | 15-FEB-2002
04 | FLORIDA | LAKE HELEN, CITY OF | 12127C0500G | 15-APR-2002
04 | FLORIDA | LAKE HELEN, CITY OF | 12127C0650G | 15-APR-2002
04 | FLORIDA | LAKE HELEN, CITY OF | 12127CIND0 | 15-APR-2002
04 | FLORIDA | MARATHON, CITY OF | 12087C1288J | 15-FEB-2002
04 | FLORIDA | MARATHON, CITY OF | 12087C1289J | 15-FEB-2002
04 | FLORIDA | MARATHON, CITY OF | 12087C1293J | 15-FEB-2002
04 | FLORIDA | MARATHON, CITY OF | 12087C1578J | 15-FEB-2002
04 | FLORIDA | MARATHON, CITY OF | 12087C1579J | 15-FEB-2002
04 | FLORIDA | MARATHON, CITY OF | 12087C1581H | 15-FEB-2002
04 | FLORIDA | MARATHON, CITY OF | 12087C1582J | 15-FEB-2002
04 | FLORIDA | MARATHON, CITY OF | 12087C1601J | 15-FEB-2002
04 | FLORIDA | MARATHON, CITY OF | 12087CIND1 | 15-FEB-2002
04 | FLORIDA | MARATHON, CITY OF | 12087CIND2 | 15-FEB-2002
04 | FLORIDA | MONROE COUNTY* | 12087C1293J | 15-FEB-2002
04 | FLORIDA | MONROE COUNTY* | 12087CIND1 | 15-FEB-2002
04 | FLORIDA | MONROE COUNTY* | 12087CIND2 | 15-FEB-2002
04 | FLORIDA | NEW SMYRNA BEACH, CITY OF | 12127C0528G | 15-APR-2002
04 | FLORIDA | NEW SMYRNA BEACH, CITY OF | 12127C0529G | 15-APR-2002
04 | FLORIDA | NEW SMYRNA BEACH, CITY OF | 12127C0533G | 15-APR-2002
04 | FLORIDA | NEW SMYRNA BEACH, CITY OF | 12127C0540G | 15-APR-2002
04 | FLORIDA | NEW SMYRNA BEACH, CITY OF | 12127C0541G | 15-APR-2002
04 | FLORIDA | NEW SMYRNA BEACH, CITY OF | 12127C0542G | 15-APR-2002
04 | FLORIDA | NEW SMYRNA BEACH, CITY OF | 12127C0543G | 15-APR-2002
04 | FLORIDA | NEW SMYRNA BEACH, CITY OF | 12127C0544G | 15-APR-2002
04 | FLORIDA | NEW SMYRNA BEACH, CITY OF | 12127C0563G | 15-APR-2002
04 | FLORIDA | NEW SMYRNA BEACH, CITY OF | 12127C0685G | 15-APR-2002
04 | FLORIDA | NEW SMYRNA BEACH, CITY OF | 12127C0705G | 15-APR-2002
04 | FLORIDA | NEW SMYRNA BEACH, CITY OF | 12127CIND0 | 15-APR-2002
04 | FLORIDA | OAK HILL, CITY OF | 12127C0715G | 15-APR-2002
04 | FLORIDA | OAK HILL, CITY OF | 12127C0720G | 15-APR-2002
04 | FLORIDA | OAK HILL, CITY OF | 12127C0830G | 15-APR-2002
04 | FLORIDA | OAK HILL, CITY OF | 12127C0835G | 15-APR-2002
04 | FLORIDA | OAK HILL, CITY OF | 12127CIND0 | 15-APR-2002
04 | FLORIDA | ORANGE CITY, CITY OF | 12127C0605G | 15-APR-2002
04 | FLORIDA | ORANGE CITY, CITY OF | 12127C0610G | 15-APR-2002
04 | FLORIDA | ORANGE CITY, CITY OF | 12127C0615G | 15-APR-2002
04 | FLORIDA | ORANGE CITY, CITY OF | 12127C0620G | 15-APR-2002
04 | FLORIDA | ORANGE CITY, CITY OF | 12127CIND0 | 15-APR-2002
04 | FLORIDA | ORMOND BEACH, CITY OF | 12127C0193G | 15-APR-2002
04 | FLORIDA | ORMOND BEACH, CITY OF | 12127C0194G | 15-APR-2002
04 | FLORIDA | ORMOND BEACH, CITY OF | 12127C0200G | 15-APR-2002
04 | FLORIDA | ORMOND BEACH, CITY OF | 12127C0201G | 15-APR-2002
04 | FLORIDA | ORMOND BEACH, CITY OF | 12127C0202G | 15-APR-2002
04 | FLORIDA | ORMOND BEACH, CITY OF | 12127C0203G | 15-APR-2002
04 | FLORIDA | ORMOND BEACH, CITY OF | 12127C0204G | 15-APR-2002
04 | FLORIDA | ORMOND BEACH, CITY OF | 12127C0208G | 15-APR-2002
04 | FLORIDA | ORMOND BEACH, CITY OF | 12127C0211G | 15-APR-2002
04 | FLORIDA | ORMOND BEACH, CITY OF | 12127C0212G | 15-APR-2002
04 | FLORIDA | ORMOND BEACH, CITY OF | 12127C0213G | 15-APR-2002
04 | FLORIDA | ORMOND BEACH, CITY OF | 12127C0214G | 15-APR-2002
04 | FLORIDA | ORMOND BEACH, CITY OF | 12127C0216G | 15-APR-2002
04 | FLORIDA | ORMOND BEACH, CITY OF | 12127C0218G | 15-APR-2002
04 | FLORIDA | ORMOND BEACH, CITY OF | 12127C0219G | 15-APR-2002
04 | FLORIDA | ORMOND BEACH, CITY OF | 12127C0350G | 15-APR-2002
04 | FLORIDA | ORMOND BEACH, CITY OF | 12127C0351G | 15-APR-2002
04 | FLORIDA | ORMOND BEACH, CITY OF | 12127C0356G | 15-APR-2002
04 | FLORIDA | ORMOND BEACH, CITY OF | 12127CIND0 | 15-APR-2002
04 | FLORIDA | PIERSON, TOWN OF | 12127C0150G | 15-APR-2002
04 | FLORIDA | PIERSON, TOWN OF | 12127C0300G | 15-APR-2002
04 | FLORIDA | PIERSON, TOWN OF | 12127CIND0 | 15-APR-2002
04 | FLORIDA | PONCE INLET, TOWN OF | 12127C0526G | 15-APR-2002
04 | FLORIDA | PONCE INLET, TOWN OF | 12127C0527G | 15-APR-2002
04 | FLORIDA | PONCE INLET, TOWN OF | 12127C0528G | 15-APR-2002
04 | FLORIDA | PONCE INLET, TOWN OF | 12127C0529G | 15-APR-2002
04 | FLORIDA | PONCE INLET, TOWN OF | 12127C0531G | 15-APR-2002
04 | FLORIDA | PONCE INLET, TOWN OF | 12127C0533G | 15-APR-2002
04 | FLORIDA | PONCE INLET, TOWN OF | 12127CIND0 | 15-APR-2002
04 | FLORIDA | PORT ORANGE, CITY OF | 12127C0367G | 15-APR-2002
04 | FLORIDA | PORT ORANGE, CITY OF | 12127C0368G | 15-APR-2002
04 | FLORIDA | PORT ORANGE, CITY OF | 12127C0369G | 15-APR-2002
04 | FLORIDA | PORT ORANGE, CITY OF | 12127C0388G | 15-APR-2002
04 | FLORIDA | PORT ORANGE, CITY OF | 12127C0389G | 15-APR-2002
04 | FLORIDA | PORT ORANGE, CITY OF | 12127C0506G | 15-APR-2002
04 | FLORIDA | PORT ORANGE, CITY OF | 12127C0507G | 15-APR-2002
04 | FLORIDA | PORT ORANGE, CITY OF | 12127C0508G | 15-APR-2002
04 | FLORIDA | PORT ORANGE, CITY OF | 12127C0509G | 15-APR-2002
04 | FLORIDA | PORT ORANGE, CITY OF | 12127C0516G | 15-APR-2002
04 | FLORIDA | PORT ORANGE, CITY OF | 12127C0525G | 15-APR-2002
04 | FLORIDA | PORT ORANGE, CITY OF | 12127C0526G | 15-APR-2002
04 | FLORIDA | PORT ORANGE, CITY OF | 12127C0527G | 15-APR-2002
04 | FLORIDA | PORT ORANGE, CITY OF | 12127C0528G | 15-APR-2002
04 | FLORIDA | PORT ORANGE, CITY OF | 12127CIND0 | 15-APR-2002
04 | FLORIDA | SOUTH DAYTONA, CITY OF | 12127C0367G | 15-APR-2002
04 | FLORIDA | SOUTH DAYTONA, CITY OF | 12127C0369G | 15-APR-2002
04 | FLORIDA | SOUTH DAYTONA, CITY OF | 12127C0386G | 15-APR-2002
04 | FLORIDA | SOUTH DAYTONA, CITY OF | 12127C0388G | 15-APR-2002
04 | FLORIDA | SOUTH DAYTONA, CITY OF | 12127CIND0 | 15-APR-2002
04 | FLORIDA | VOLUSIA COUNTY* | 12127C0025G | 15-APR-2002
04 | FLORIDA | VOLUSIA COUNTY* | 12127C0042G | 15-APR-2002
04 | FLORIDA | VOLUSIA COUNTY* | 12127C0044G | 15-APR-2002
04 | FLORIDA | VOLUSIA COUNTY* | 12127C0061G | 15-APR-2002
04 | FLORIDA | VOLUSIA COUNTY* | 12127C0062G | 15-APR-2002
04 | FLORIDA | VOLUSIA COUNTY* | 12127C0063G | 15-APR-2002
04 | FLORIDA | VOLUSIA COUNTY* | 12127C0064G | 15-APR-2002
04 | FLORIDA | VOLUSIA COUNTY* | 12127C0100G | 15-APR-2002
04 | FLORIDA | VOLUSIA COUNTY* | 12127C0125G | 15-APR-2002
04 | FLORIDA | VOLUSIA COUNTY* | 12127C0150G | 15-APR-2002
04 | FLORIDA | VOLUSIA COUNTY* | 12127C0175G | 15-APR-2002
04 | FLORIDA | VOLUSIA COUNTY* | 12127C0193G | 15-APR-2002
04 | FLORIDA | VOLUSIA COUNTY* | 12127C0194G | 15-APR-2002
04 | FLORIDA | VOLUSIA COUNTY* | 12127C0200G | 15-APR-2002
04 | FLORIDA | VOLUSIA COUNTY* | 12127C0201G | 15-APR-2002
04 | FLORIDA | VOLUSIA COUNTY* | 12127C0202G | 15-APR-2002
04 | FLORIDA | VOLUSIA COUNTY* | 12127C0203G | 15-APR-2002
04 | FLORIDA | VOLUSIA COUNTY* | 12127C0204G | 15-APR-2002
04 | FLORIDA | VOLUSIA COUNTY* | 12127C0208G | 15-APR-2002
04 | FLORIDA | VOLUSIA COUNTY* | 12127C0211G | 15-APR-2002
04 | FLORIDA | VOLUSIA COUNTY* | 12127C0212G | 15-APR-2002
04 | FLORIDA | VOLUSIA COUNTY* | 12127C0213G | 15-APR-2002
04 | FLORIDA | VOLUSIA COUNTY* | 12127C0214G | 15-APR-2002
04 | FLORIDA | VOLUSIA COUNTY* | 12127C0216G | 15-APR-2002
04 | FLORIDA | VOLUSIA COUNTY* | 12127C0218G | 15-APR-2002
04 | FLORIDA | VOLUSIA COUNTY* | 12127C0219G | 15-APR-2002
04 | FLORIDA | VOLUSIA COUNTY* | 12127C0250G | 15-APR-2002
04 | FLORIDA | VOLUSIA COUNTY* | 12127C0275G | 15-APR-2002
04 | FLORIDA | VOLUSIA COUNTY* | 12127C0300G | 15-APR-2002
04 | FLORIDA | VOLUSIA COUNTY* | 12127C0325G | 15-APR-2002
04 | FLORIDA | VOLUSIA COUNTY* | 12127C0350G | 15-APR-2002
04 | FLORIDA | VOLUSIA COUNTY* | 12127C0351G | 15-APR-2002
04 | FLORIDA | VOLUSIA COUNTY* | 12127C0352G | 15-APR-2002
04 | FLORIDA | VOLUSIA COUNTY* | 12127C0353G | 15-APR-2002
04 | FLORIDA | VOLUSIA COUNTY* | 12127C0354G | 15-APR-2002
04 | FLORIDA | VOLUSIA COUNTY* | 12127C0356G | 15-APR-2002
04 | FLORIDA | VOLUSIA COUNTY* | 12127C0357G | 15-APR-2002
04 | FLORIDA | VOLUSIA COUNTY* | 12127C0358G | 15-APR-2002
04 | FLORIDA | VOLUSIA COUNTY* | 12127C0359G | 15-APR-2002
04 | FLORIDA | VOLUSIA COUNTY* | 12127C0361G | 15-APR-2002
04 | FLORIDA | VOLUSIA COUNTY* | 12127C0362G | 15-APR-2002
04 | FLORIDA | VOLUSIA COUNTY* | 12127C0363G | 15-APR-2002
04 | FLORIDA | VOLUSIA COUNTY* | 12127C0364G | 15-APR-2002
04 | FLORIDA | VOLUSIA COUNTY* | 12127C0366G | 15-APR-2002
04 | FLORIDA | VOLUSIA COUNTY* | 12127C0367G | 15-APR-2002
04 | FLORIDA | VOLUSIA COUNTY* | 12127C0368G | 15-APR-2002
04 | FLORIDA | VOLUSIA COUNTY* | 12127C0369G | 15-APR-2002
04 | FLORIDA | VOLUSIA COUNTY* | 12127C0378G | 15-APR-2002
04 | FLORIDA | VOLUSIA COUNTY* | 12127C0386G | 15-APR-2002
04 | FLORIDA | VOLUSIA COUNTY* | 12127C0388G | 15-APR-2002
04 | FLORIDA | VOLUSIA COUNTY* | 12127C0389G | 15-APR-2002
04 | FLORIDA | VOLUSIA COUNTY* | 12127C0410G | 15-APR-2002
04 | FLORIDA | VOLUSIA COUNTY* | 12127C0430G | 15-APR-2002
04 | FLORIDA | VOLUSIA COUNTY* | 12127C0435G | 15-APR-2002
04 | FLORIDA | VOLUSIA COUNTY* | 12127C0440G | 15-APR-2002
04 | FLORIDA | VOLUSIA COUNTY* | 12127C0445G | 15-APR-2002
04 | FLORIDA | VOLUSIA COUNTY* | 12127C0455G | 15-APR-2002
04 | FLORIDA | VOLUSIA COUNTY* | 12127C0460G | 15-APR-2002
04 | FLORIDA | VOLUSIA COUNTY* | 12127C0465G | 15-APR-2002
04 | FLORIDA | VOLUSIA COUNTY* | 12127C0470G | 15-APR-2002
04 | FLORIDA | VOLUSIA COUNTY* | 12127C0500G | 15-APR-2002
04 | FLORIDA | VOLUSIA COUNTY* | 12127C0504G | 15-APR-2002
04 | FLORIDA | VOLUSIA COUNTY* | 12127C0506G | 15-APR-2002
04 | FLORIDA | VOLUSIA COUNTY* | 12127C0507G | 15-APR-2002
04 | FLORIDA | VOLUSIA COUNTY* | 12127C0508G | 15-APR-2002
04 | FLORIDA | VOLUSIA COUNTY* | 12127C0509G | 15-APR-2002
04 | FLORIDA | VOLUSIA COUNTY* | 12127C0516G | 15-APR-2002
04 | FLORIDA | VOLUSIA COUNTY* | 12127C0525G | 15-APR-2002
04 | FLORIDA | VOLUSIA COUNTY* | 12127C0526G | 15-APR-2002
04 | FLORIDA | VOLUSIA COUNTY* | 12127C0527G | 15-APR-2002
04 | FLORIDA | VOLUSIA COUNTY* | 12127C0528G | 15-APR-2002
04 | FLORIDA | VOLUSIA COUNTY* | 12127C0529G | 15-APR-2002
04 | FLORIDA | VOLUSIA COUNTY* | 12127C0531G | 15-APR-2002
04 | FLORIDA | VOLUSIA COUNTY* | 12127C0533G | 15-APR-2002
04 | FLORIDA | VOLUSIA COUNTY* | 12127C0540G | 15-APR-2002
04 | FLORIDA | VOLUSIA COUNTY* | 12127C0541G | 15-APR-2002
04 | FLORIDA | VOLUSIA COUNTY* | 12127C0542G | 15-APR-2002
04 | FLORIDA | VOLUSIA COUNTY* | 12127C0543G | 15-APR-2002
04 | FLORIDA | VOLUSIA COUNTY* | 12127C0544G | 15-APR-2002
04 | FLORIDA | VOLUSIA COUNTY* | 12127C0563G | 15-APR-2002
04 | FLORIDA | VOLUSIA COUNTY* | 12127C0585G | 15-APR-2002
04 | FLORIDA | VOLUSIA COUNTY* | 12127C0605G | 15-APR-2002
04 | FLORIDA | VOLUSIA COUNTY* | 12127C0610G | 15-APR-2002
04 | FLORIDA | VOLUSIA COUNTY* | 12127C0615G | 15-APR-2002
04 | FLORIDA | VOLUSIA COUNTY* | 12127C0620G | 15-APR-2002
04 | FLORIDA | VOLUSIA COUNTY* | 12127C0650G | 15-APR-2002
04 | FLORIDA | VOLUSIA COUNTY* | 12127C0675G | 15-APR-2002
04 | FLORIDA | VOLUSIA COUNTY* | 12127C0685G | 15-APR-2002
04 | FLORIDA | VOLUSIA COUNTY* | 12127C0700G | 15-APR-2002
04 | FLORIDA | VOLUSIA COUNTY* | 12127C0705G | 15-APR-2002
04 | FLORIDA | VOLUSIA COUNTY* | 12127C0715G | 15-APR-2002
04 | FLORIDA | VOLUSIA COUNTY* | 12127C0720G | 15-APR-2002
04 | FLORIDA | VOLUSIA COUNTY* | 12127C0730G | 15-APR-2002
04 | FLORIDA | VOLUSIA COUNTY* | 12127C0735G | 15-APR-2002
04 | FLORIDA | VOLUSIA COUNTY* | 12127C0755G | 15-APR-2002
04 | FLORIDA | VOLUSIA COUNTY* | 12127C0760G | 15-APR-2002
04 | FLORIDA | VOLUSIA COUNTY* | 12127C0765G | 15-APR-2002
04 | FLORIDA | VOLUSIA COUNTY* | 12127C0770G | 15-APR-2002
04 | FLORIDA | VOLUSIA COUNTY* | 12127C0780G | 15-APR-2002
04 | FLORIDA | VOLUSIA COUNTY* | 12127C0785G | 15-APR-2002
04 | FLORIDA | VOLUSIA COUNTY* | 12127C0790G | 15-APR-2002
04 | FLORIDA | VOLUSIA COUNTY* | 12127C0795G | 15-APR-2002
04 | FLORIDA | VOLUSIA COUNTY* | 12127C0825G | 15-APR-2002
04 | FLORIDA | VOLUSIA COUNTY* | 12127C0830G | 15-APR-2002
04 | FLORIDA | VOLUSIA COUNTY* | 12127C0835G | 15-APR-2002
04 | FLORIDA | VOLUSIA COUNTY* | 12127C0840G | 15-APR-2002
04 | FLORIDA | VOLUSIA COUNTY* | 12127C0845G | 15-APR-2002
04 | FLORIDA | VOLUSIA COUNTY* | 12127C0855G | 15-APR-2002
04 | FLORIDA | VOLUSIA COUNTY* | 12127C0865G | 15-APR-2002
04 | FLORIDA | VOLUSIA COUNTY* | 12127C0885G | 15-APR-2002
04 | FLORIDA | VOLUSIA COUNTY* | 12127C0895G | 15-APR-2002
04 | FLORIDA | VOLUSIA COUNTY* | 12127CIND0 | 15-APR-2002
04 | GEORGIA | BOSTWICK, TOWN OF | 13211C0020A | 15-FEB-2002
04 | GEORGIA | BOSTWICK, TOWN OF | 13211C0085A | 15-FEB-2002
04 | GEORGIA | BOSTWICK, TOWN OF | 13211C0105A | 15-FEB-2002
04 | GEORGIA | BOSTWICK, TOWN OF | 13211CIND0 | 15-FEB-2002
04 | GEORGIA | BUCKHEAD, TOWN OF | 13211C0230A | 15-FEB-2002
04 | GEORGIA | BUCKHEAD, TOWN OF | 13211C0250A | 15-FEB-2002
04 | GEORGIA | BUCKHEAD, TOWN OF | 13211CIND0 | 15-FEB-2002
04 | GEORGIA | MADISON, CITY OF | 13211C0205A | 15-FEB-2002
04 | GEORGIA | MADISON, CITY OF | 13211CIND0 | 15-FEB-2002
04 | GEORGIA | MORGAN COUNTY* | 13211C0009A | 15-FEB-2002
04 | GEORGIA | MORGAN COUNTY* | 13211C0020A | 15-FEB-2002
04 | GEORGIA | MORGAN COUNTY* | 13211C0040A | 15-FEB-2002
04 | GEORGIA | MORGAN COUNTY* | 13211C0070A | 15-FEB-2002
04 | GEORGIA | MORGAN COUNTY* | 13211C0080A | 15-FEB-2002
04 | GEORGIA | MORGAN COUNTY* | 13211C0085A | 15-FEB-2002
04 | GEORGIA | MORGAN COUNTY* | 13211C0090A | 15-FEB-2002
04 | GEORGIA | MORGAN COUNTY* | 13211C0095A | 15-FEB-2002
04 | GEORGIA | MORGAN COUNTY* | 13211C0105A | 15-FEB-2002
04 | GEORGIA | MORGAN COUNTY* | 13211C0110A | 15-FEB-2002
04 | GEORGIA | MORGAN COUNTY* | 13211C0115A | 15-FEB-2002
04 | GEORGIA | MORGAN COUNTY* | 13211C0120A | 15-FEB-2002
04 | GEORGIA | MORGAN COUNTY* | 13211C0140A | 15-FEB-2002
04 | GEORGIA | MORGAN COUNTY* | 13211C0175A | 15-FEB-2002
04 | GEORGIA | MORGAN COUNTY* | 13211C0180A | 15-FEB-2002
04 | GEORGIA | MORGAN COUNTY* | 13211C0200A | 15-FEB-2002
04 | GEORGIA | MORGAN COUNTY* | 13211C0205A | 15-FEB-2002
04 | GEORGIA | MORGAN COUNTY* | 13211C0225A | 15-FEB-2002
04 | GEORGIA | MORGAN COUNTY* | 13211C0230A | 15-FEB-2002
04 | GEORGIA | MORGAN COUNTY* | 13211C0250A | 15-FEB-2002
04 | GEORGIA | MORGAN COUNTY* | 13211C0300A | 15-FEB-2002
04 | GEORGIA | MORGAN COUNTY* | 13211C0325A | 15-FEB-2002
04 | GEORGIA | MORGAN COUNTY* | 13211C0350A | 15-FEB-2002
04 | GEORGIA | MORGAN COUNTY* | 13211CIND0 | 15-FEB-2002
04 | GEORGIA | RUTLEDGE, TOWN OF | 13211C0070A | 15-FEB-2002
04 | GEORGIA | RUTLEDGE, TOWN OF | 13211C0090A | 15-FEB-2002
04 | GEORGIA | RUTLEDGE, TOWN OF | 13211C0175A | 15-FEB-2002
04 | GEORGIA | RUTLEDGE, TOWN OF | 13211C0180A | 15-FEB-2002
04 | GEORGIA | RUTLEDGE, TOWN OF | 13211CIND0 | 15-FEB-2002
04 | SOUTH CAROLINA | CAYCE, CITY OF | 45063C0277H | 20-FEB-2002
04 | SOUTH CAROLINA | CAYCE, CITY OF | 45063C0281G | 20-FEB-2002
04 | SOUTH CAROLINA | CAYCE, CITY OF | 45063C0283G | 20-FEB-2002
04 | SOUTH CAROLINA | CAYCE, CITY OF | 45063C0285G | 20-FEB-2002
04 | SOUTH CAROLINA | CAYCE, CITY OF | 45063C0287H | 20-FEB-2002
04 | SOUTH CAROLINA | CAYCE, CITY OF | 45063C0291G | 20-FEB-2002
04 | SOUTH CAROLINA | CAYCE, CITY OF | 45063C0292G | 20-FEB-2002
04 | SOUTH CAROLINA | CAYCE, CITY OF | 45063CIND0 | 20-FEB-2002
04 | SOUTH CAROLINA | COLUMBIA, CITY OF | 45079C0091H | 20-FEB-2002
04 | SOUTH CAROLINA | COLUMBIA, CITY OF | 45079C0092H | 20-FEB-2002
04 | SOUTH CAROLINA | COLUMBIA, CITY OF | 45079C0094H | 20-FEB-2002
04 | SOUTH CAROLINA | COLUMBIA, CITY OF | 45079C0178H | 20-FEB-2002
04 | SOUTH CAROLINA | COLUMBIA, CITY OF | 45079CIND0 | 20-FEB-2002
04 | SOUTH CAROLINA | EDGEFIELD, TOWN OF | 450074IND0 | 01-FEB-2002
04 | SOUTH CAROLINA | EDGEFIELD, TOWN OF | 4500740001B | 01-FEB-2002
04 | SOUTH CAROLINA | EDGEFIELD, TOWN OF | 4500740002B | 01-FEB-2002
04 | SOUTH CAROLINA | LAMAR, TOWN OF | 450063IND0 | 01-FEB-2002
04 | SOUTH CAROLINA | LAMAR, TOWN OF | 4500630001A | 01-FEB-2002
04 | SOUTH CAROLINA | LEXINGTON COUNTY * | 45063C0164G | 20-FEB-2002
04 | SOUTH CAROLINA | LEXINGTON COUNTY * | 45063C0168G | 20-FEB-2002
04 | SOUTH CAROLINA | LEXINGTON COUNTY * | 45063C0277H | 20-FEB-2002
04 | SOUTH CAROLINA | LEXINGTON COUNTY * | 45063C0281G | 20-FEB-2002
04 | SOUTH CAROLINA | LEXINGTON COUNTY * | 45063C0283G | 20-FEB-2002
04 | SOUTH CAROLINA | LEXINGTON COUNTY * | 45063C0285G | 20-FEB-2002
04 | SOUTH CAROLINA | LEXINGTON COUNTY * | 45063C0287H | 20-FEB-2002
04 | SOUTH CAROLINA | LEXINGTON COUNTY * | 45063C0291G | 20-FEB-2002
04 | SOUTH CAROLINA | LEXINGTON COUNTY * | 45063C0292G | 20-FEB-2002
04 | SOUTH CAROLINA | LEXINGTON COUNTY * | 45063C0293G | 20-FEB-2002
04 | SOUTH CAROLINA | LEXINGTON COUNTY * | 45063C0294G | 20-FEB-2002
04 | SOUTH CAROLINA | LEXINGTON COUNTY * | 45063CIND0 | 20-FEB-2002
04 | SOUTH CAROLINA | PAMPLICO, TOWN OF | 450081IND0 | 01-FEB-2002
04 | SOUTH CAROLINA | PAMPLICO, TOWN OF | 4500810001B | 01-FEB-2002
04 | SOUTH CAROLINA | PINE RIDGE, TOWN OF | 45063C0287H | 20-FEB-2002
04 | SOUTH CAROLINA | PINE RIDGE, TOWN OF | 45063CIND0 | 20-FEB-2002
04 | SOUTH CAROLINA | RICHLAND COUNTY* | 45079C0025H | 20-FEB-2002
04 | SOUTH CAROLINA | RICHLAND COUNTY* | 45079C0091H | 20-FEB-2002
04 | SOUTH CAROLINA | RICHLAND COUNTY* | 45079C0092H | 20-FEB-2002
04 | SOUTH CAROLINA | RICHLAND COUNTY* | 45079C0094H | 20-FEB-2002
04 | SOUTH CAROLINA | RICHLAND COUNTY* | 45079C0110H | 20-FEB-2002
04 | SOUTH CAROLINA | RICHLAND COUNTY* | 45079C0160H | 20-FEB-2002
04 | SOUTH CAROLINA | RICHLAND COUNTY* | 45079C0178H | 20-FEB-2002
04 | SOUTH CAROLINA | RICHLAND COUNTY* | 45079C0190H | 20-FEB-2002
04 | SOUTH CAROLINA | RICHLAND COUNTY* | 45079CIND0 | 20-FEB-2002
04 | SOUTH CAROLINA | SELLERS, TOWN OF | 450145IND0 | 01-APR-2002
04 | SOUTH CAROLINA | SELLERS, TOWN OF | 4501450001C | 01-APR-2002
04 | SOUTH CAROLINA | SPRINGDALE, TOWN OF | 45063C0277H | 20-FEB-2002
04 | SOUTH CAROLINA | SPRINGDALE, TOWN OF | 45063CIND0 | 20-FEB-2002
04 | SOUTH CAROLINA | SYCAMORE, TOWN OF | 4500110001B | 01-FEB-2002
04 | SOUTH CAROLINA | WEST COLUMBIA, CITY OF | 45063C0164G | 20-FEB-2002
04 | SOUTH CAROLINA | WEST COLUMBIA, CITY OF | 45063C0277H | 20-FEB-2002
04 | SOUTH CAROLINA | WEST COLUMBIA, CITY OF | 45063C0281G | 20-FEB-2002
04 | SOUTH CAROLINA | WEST COLUMBIA, CITY OF | 45063CIND0 | 20-FEB-2002
04 | TENNESSEE | ADAMSVILLE, TOWN OF | 4702920006C | 15-FEB-2002
04 | TENNESSEE | ADAMSVILLE, TOWN OF | 4702920007C | 15-FEB-2002
04 | TENNESSEE | ADAMSVILLE, TOWN OF | 4702920008C | 15-FEB-2002
04 | TENNESSEE | ADAMSVILLE, TOWN OF | 4702920009C | 15-FEB-2002
04 | TENNESSEE | ADAMSVILLE, TOWN OF | 470292IND0 | 15-FEB-2002
04 | TENNESSEE | SELMER, CITY OF | 4701320005C | 15-APR-2002
04 | TENNESSEE | SELMER, CITY OF | 4701320002D | 15-APR-2002
04 | TENNESSEE | SELMER, CITY OF | 4701320004D | 15-APR-2002
04 | TENNESSEE | SELMER, CITY OF | 4701320005D | 15-APR-2002
04 | TENNESSEE | SELMER, CITY OF | 4701320006D | 15-APR-2002
04 | TENNESSEE | SELMER, CITY OF | 4701320007D | 15-APR-2002
04 | TENNESSEE | SELMER, CITY OF | 4701320008D | 15-APR-2002
04 | TENNESSEE | SELMER, CITY OF | 470132IND0 | 15-APR-2002
05 | ILLINOIS | KENDALL COUNTY * | 1703410015D | 15-MAY-2002
05 | ILLINOIS | KENDALL COUNTY * | 1703410065D | 15-MAY-2002
05 | ILLINOIS | KENDALL COUNTY * | 170341IND0 | 15-MAY-2002
05 | ILLINOIS | NEWARK, VILLAGE OF | 1703440001C | 15-MAY-2002
05 | ILLINOIS | SANDWICH, CITY OF | 1701880001C | 15-MAY-2002
05 | ILLINOIS | SANDWICH, CITY OF | 1701880002C | 15-MAY-2002
05 | ILLINOIS | SANDWICH, CITY OF | 170188IND0A | 15-MAY-2002
05 | INDIANA | FAIRMOUNT, TOWN OF | 18053C0250D | 15-MAY-2002
05 | INDIANA | FAIRMOUNT, TOWN OF | 18053CIND0 | 15-MAY-2002
05 | INDIANA | FRENCH LICK, TOWN OF | 180187 B*** | 01-JUN-2002
05 | INDIANA | GAS CITY, CITY OF | 18053C0165D | 15-MAY-2002
05 | INDIANA | GAS CITY, CITY OF | 18053C0232D | 15-MAY-2002
05 | INDIANA | GAS CITY, CITY OF | 18053C0251D | 15-MAY-2002
05 | INDIANA | GAS CITY, CITY OF | 18053C0275D | 15-MAY-2002
05 | INDIANA | GAS CITY, CITY OF | 18053CIND0 | 15-MAY-2002
05 | INDIANA | GRANT COUNTY* | 18053C0025D | 15-MAY-2002
05 | INDIANA | GRANT COUNTY* | 18053C0050D | 15-MAY-2002
05 | INDIANA | GRANT COUNTY* | 18053C0100D | 15-MAY-2002
05 | INDIANA | GRANT COUNTY* | 18053C0125D | 15-MAY-2002
05 | INDIANA | GRANT COUNTY* | 18053C0133D | 15-MAY-2002
05 | INDIANA | GRANT COUNTY* | 18053C0134D | 15-MAY-2002
05 | INDIANA | GRANT COUNTY* | 18053C0135D | 15-MAY-2002
05 | INDIANA | GRANT COUNTY* | 18053C0141D | 15-MAY-2002
05 | INDIANA | GRANT COUNTY* | 18053C0142D | 15-MAY-2002
05 | INDIANA | GRANT COUNTY* | 18053C0145D | 15-MAY-2002
05 | INDIANA | GRANT COUNTY* | 18053C0150D | 15-MAY-2002
05 | INDIANA | GRANT COUNTY* | 18053C0158D | 15-MAY-2002
05 | INDIANA | GRANT COUNTY* | 18053C0160D | 15-MAY-2002
05 | INDIANA | GRANT COUNTY* | 18053C0161D | 15-MAY-2002
05 | INDIANA | GRANT COUNTY* | 18053C0162D | 15-MAY-2002
05 | INDIANA | GRANT COUNTY* | 18053C0165D | 15-MAY-2002
05 | INDIANA | GRANT COUNTY* | 18053C0166D | 15-MAY-2002
05 | INDIANA | GRANT COUNTY* | 18053C0167D | 15-MAY-2002
05 | INDIANA | GRANT COUNTY* | 18053C0170D | 15-MAY-2002
05 | INDIANA | GRANT COUNTY* | 18053C0200D | 15-MAY-2002
05 | INDIANA | GRANT COUNTY* | 18053C0232D | 15-MAY-2002
05 | INDIANA | GRANT COUNTY* | 18053C0250D | 15-MAY-2002
05 | INDIANA | GRANT COUNTY* | 18053C0251D | 15-MAY-2002
05 | INDIANA | GRANT COUNTY* | 18053C0275D | 15-MAY-2002
05 | INDIANA | GRANT COUNTY* | 18053C0300D | 15-MAY-2002
05 | INDIANA | GRANT COUNTY* | 18053CIND0 | 15-MAY-2002
05 | INDIANA | JONESBORO, TOWN OF | 18053C0232D | 15-MAY-2002
05 | INDIANA | JONESBORO, TOWN OF | 18053C0251D | 15-MAY-2002
05 | INDIANA | JONESBORO, TOWN OF | 18053CIND0 | 15-MAY-2002
05 | INDIANA | MARION, CITY OF | 18053C0133D | 15-MAY-2002
05 | INDIANA | MARION, CITY OF | 18053C0134D | 15-MAY-2002
05 | INDIANA | MARION, CITY OF | 18053C0141D | 15-MAY-2002
05 | INDIANA | MARION, CITY OF | 18053C0142D | 15-MAY-2002
05 | INDIANA | MARION, CITY OF | 18053C0145D | 15-MAY-2002
05 | INDIANA | MARION, CITY OF | 18053C0150D | 15-MAY-2002
05 | INDIANA | MARION, CITY OF | 18053CIND0 | 15-MAY-2002
05 | INDIANA | MATTHEWS, CITY OF | 18053C0275D | 15-MAY-2002
05 | INDIANA | MATTHEWS, CITY OF | 18053C0300D | 15-MAY-2002
05 | INDIANA | MATTHEWS, CITY OF | 18053CIND0 | 15-MAY-2002
05 | INDIANA | SWEETSER, TOWN OF | 18053C0125D | 15-MAY-2002
05 | INDIANA | SWEETSER, TOWN OF | 18053C0150D | 15-MAY-2002
05 | INDIANA | SWEETSER, TOWN OF | 18053CIND0 | 15-MAY-2002
05 | INDIANA | UPLAND, TOWN OF | 18053C0275D | 15-MAY-2002
05 | INDIANA | UPLAND, TOWN OF | 18053C0300D | 15-MAY-2002
05 | INDIANA | UPLAND, TOWN OF | 18053CIND0 | 15-MAY-2002
05 | INDIANA | VAN BUREN, TOWN OF | 18053C0160D | 15-MAY-2002
05 | INDIANA | VAN BUREN, TOWN OF | 18053C0200D | 15-MAY-2002
05 | INDIANA | VAN BUREN, TOWN OF | 18053CIND0 | 15-MAY-2002
05 | MINNESOTA | BLAINE, CITY OF | 2700070001D | 17-JUN-2002
05 | MINNESOTA | BLAINE, CITY OF | 2700070003D | 17-JUN-2002
05 | MINNESOTA | BLAINE, CITY OF | 2700070005D | 17-JUN-2002
05 | MINNESOTA | BLAINE, CITY OF | 2700070006D | 17-JUN-2002
05 | MINNESOTA | BLAINE, CITY OF | 2700070010D | 17-JUN-2002
05 | MINNESOTA | BLAINE, CITY OF | 270007IND0 | 17-JUN-2002
05 | OHIO | WILLOUGHBY HILLS, CITY OF | 3903230002C | 02-MAY-2002
05 | OHIO | WILLOUGHBY HILLS, CITY OF | 3903230003C | 02-MAY-2002
05 | OHIO | WILLOUGHBY HILLS, CITY OF | 3903230004C | 02-MAY-2002
05 | OHIO | WILLOUGHBY HILLS, CITY OF | 3903230005C | 02-MAY-2002
05 | OHIO | WILLOUGHBY HILLS, CITY OF | 390323IND0 | 02-MAY-2002
06 | AR | BELLEVILLE, CITY OF | 05149C0280E | 04-MAR-2002
06 | AR | BELLEVILLE, CITY OF | 05149CIND0 ** | 04-MAR-2002
06 | AR | CORINTH, TOWN OF | 05149CIND0 ** | 04-MAR-2002
06 | AR | DANVILLE, CITY OF | 05149C0285E | 04-MAR-2002
06 | AR | DANVILLE, CITY OF | 05149C0295E | 04-MAR-2002
06 | AR | DANVILLE, CITY OF | 05149C0315E | 04-MAR-2002
06 | AR | DANVILLE, CITY OF | 05149CIND0 ** | 04-MAR-2002
06 | AR | DARDANELLE, CITY OF | 05149C0050E | 04-MAR-2002
06 | AR | DARDANELLE, CITY OF | 05149C0160E | 04-MAR-2002
06 | AR | DARDANELLE, CITY OF | 05149CIND0 ** | 04-MAR-2002
06 | AR | HAVANA, CITY OF | 05149C0275E | 04-MAR-2002
06 | AR | HAVANA, CITY OF | 05149CIND0 ** | 04-MAR-2002
06 | AR | OLA, CITY OF | 05149C0340E | 04-MAR-2002
06 | AR | OLA, CITY OF | 05149CIND0 ** | 04-MAR-2002
06 | AR | PATTERSON,CITY OF | 0502740001B | 02-MAY-2002
06 | AR | PLAINVIEW, CITY OF | 05149C0485E | 04-MAR-2002
06 | AR | PLAINVIEW, CITY OF | 05149CIND0 ** | 04-MAR-2002
06 | AR | YELL COUNTY * | 05149C0025E | 04-MAR-2002
06 | AR | YELL COUNTY * | 05149C0050E | 04-MAR-2002
06 | AR | YELL COUNTY * | 05149C0075E | 04-MAR-2002
06 | AR | YELL COUNTY * | 05149C0100E | 04-MAR-2002
06 | AR | YELL COUNTY * | 05149C0125E | 04-MAR-2002
06 | AR | YELL COUNTY * | 05149C0150E | 04-MAR-2002
06 | AR | YELL COUNTY * | 05149C0160E | 04-MAR-2002
06 | AR | YELL COUNTY * | 05149C0175E | 04-MAR-2002
06 | AR | YELL COUNTY * | 05149C0200E | 04-MAR-2002
06 | AR | YELL COUNTY * | 05149C0225E | 04-MAR-2002
06 | AR | YELL COUNTY * | 05149C0250E | 04-MAR-2002
06 | AR | YELL COUNTY * | 05149C0275E | 04-MAR-2002
06 | AR | YELL COUNTY * | 05149C0280E | 04-MAR-2002
06 | AR | YELL COUNTY * | 05149C0285E | 04-MAR-2002
06 | AR | YELL COUNTY * | 05149C0290E | 04-MAR-2002
06 | AR | YELL COUNTY * | 05149C0295E | 04-MAR-2002
06 | AR | YELL COUNTY * | 05149C0315E | 04-MAR-2002
06 | AR | YELL COUNTY * | 05149C0325E | 04-MAR-2002
06 | AR | YELL COUNTY * | 05149C0340E | 04-MAR-2002
06 | AR | YELL COUNTY * | 05149C0350E | 04-MAR-2002
06 | AR | YELL COUNTY * | 05149C0375E | 04-MAR-2002
06 | AR | YELL COUNTY * | 05149C0400E | 04-MAR-2002
06 | AR | YELL COUNTY * | 05149C0425E | 04-MAR-2002
06 | AR | YELL COUNTY * | 05149C0450E | 04-MAR-2002
06 | AR | YELL COUNTY * | 05149C0475E | 04-MAR-2002
06 | AR | YELL COUNTY * | 05149C0485E | 04-MAR-2002
06 | AR | YELL COUNTY * | 05149C0500E | 04-MAR-2002
06 | AR | YELL COUNTY * | 05149C0525E | 04-MAR-2002
06 | AR | YELL COUNTY * | 05149C0550E | 04-MAR-2002
06 | AR | YELL COUNTY * | 05149C0575E | 04-MAR-2002
06 | AR | YELL COUNTY * | 05149C0600E | 04-MAR-2002
06 | AR | YELL COUNTY * | 05149C0625E | 04-MAR-2002
06 | AR | YELL COUNTY * | 05149C0650E | 04-MAR-2002
06 | AR | YELL COUNTY * | 05149C0675E** | 04-MAR-2002
06 | AR | YELL COUNTY * | 05149C0700E | 04-MAR-2002
06 | AR | YELL COUNTY * | 05149CIND0 ** | 04-MAR-2002
06 | NM | ALBUQUERQUE, CITY OF | 35001C0109E** | 02-APR-2002
06 | NM | ALBUQUERQUE, CITY OF | 35001C0109E | 02-APR-2002
06 | NM | ALBUQUERQUE, CITY OF | 35001C0116E** | 02-APR-2002
06 | NM | ALBUQUERQUE, CITY OF | 35001C0116E | 02-APR-2002
06 | NM | ALBUQUERQUE, CITY OF | 35001C0128E** | 02-APR-2002
06 | NM | ALBUQUERQUE, CITY OF | 35001C0128E | 02-APR-2002
06 | NM | ALBUQUERQUE, CITY OF | 35001C0129E** | 02-APR-2002
06 | NM | ALBUQUERQUE, CITY OF | 35001C0129E | 02-APR-2002
06 | NM | ALBUQUERQUE, CITY OF | 35001C0133E** | 02-APR-2002
06 | NM | ALBUQUERQUE, CITY OF | 35001C0133E | 02-APR-2002
06 | NM | ALBUQUERQUE, CITY OF | 35001C0136E** | 02-APR-2002
06 | NM | ALBUQUERQUE, CITY OF | 35001C0136E | 02-APR-2002
06 | NM | ALBUQUERQUE, CITY OF | 35001C0137E** | 02-APR-2002
06 | NM | ALBUQUERQUE, CITY OF | 35001C0137E | 02-APR-2002
06 | NM | ALBUQUERQUE, CITY OF | 35001C0141E | 02-APR-2002
06 | NM | ALBUQUERQUE, CITY OF | 35001C0142E | 02-APR-2002
06 | NM | ALBUQUERQUE, CITY OF | 35001C0144E | 02-APR-2002
06 | NM | ALBUQUERQUE, CITY OF | 35001C0161E | 02-APR-2002
06 | NM | ALBUQUERQUE, CITY OF | 35001C0163E** | 02-APR-2002
06 | NM | ALBUQUERQUE, CITY OF | 35001C0163E | 02-APR-2002
06 | NM | ALBUQUERQUE, CITY OF | 35001C0358E | 02-APR-2002
06 | NM | ALBUQUERQUE, CITY OF | 35001C0359E | 02-APR-2002
06 | NM | ALBUQUERQUE, CITY OF | 35001C0367E | 02-APR-2002
06 | NM | ALBUQUERQUE, CITY OF | 35001C0386E | 02-APR-2002
06 | NM | ALBUQUERQUE, CITY OF | 35001CIND0 ** | 02-APR-2002
06 | NM | BERNALILLO COUNTY * | 35001C0109E** | 02-APR-2002
06 | NM | BERNALILLO COUNTY * | 35001C0109E | 02-APR-2002
06 | NM | BERNALILLO COUNTY * | 35001C0116E** | 02-APR-2002
06 | NM | BERNALILLO COUNTY * | 35001C0116E | 02-APR-2002
06 | NM | BERNALILLO COUNTY * | 35001C0117E** | 02-APR-2002
06 | NM | BERNALILLO COUNTY * | 35001C0128E** | 02-APR-2002
06 | NM | BERNALILLO COUNTY * | 35001C0128E | 02-APR-2002
06 | NM | BERNALILLO COUNTY * | 35001C0129E** | 02-APR-2002
06 | NM | BERNALILLO COUNTY * | 35001C0129E | 02-APR-2002
06 | NM | BERNALILLO COUNTY * | 35001C0133E** | 02-APR-2002
06 | NM | BERNALILLO COUNTY * | 35001C0133E | 02-APR-2002
06 | NM | BERNALILLO COUNTY * | 35001C0134E** | 02-APR-2002
06 | NM | BERNALILLO COUNTY * | 35001C0136E** | 02-APR-2002
06 | NM | BERNALILLO COUNTY * | 35001C0136E | 02-APR-2002
06 | NM | BERNALILLO COUNTY * | 35001C0137E** | 02-APR-2002
06 | NM | BERNALILLO COUNTY * | 35001C0137E | 02-APR-2002
06 | NM | BERNALILLO COUNTY * | 35001C0141E | 02-APR-2002
06 | NM | BERNALILLO COUNTY * | 35001C0142E | 02-APR-2002
06 | NM | BERNALILLO COUNTY * | 35001C0144E | 02-APR-2002
06 | NM | BERNALILLO COUNTY * | 35001C0161E | 02-APR-2002
06 | NM | BERNALILLO COUNTY * | 35001C0163E** | 02-APR-2002
06 | NM | BERNALILLO COUNTY * | 35001C0163E | 02-APR-2002
06 | NM | BERNALILLO COUNTY * | 35001C0358E | 02-APR-2002
06 | NM | BERNALILLO COUNTY * | 35001C0359E | 02-APR-2002
06 | NM | BERNALILLO COUNTY * | 35001C0367E | 02-APR-2002
06 | NM | BERNALILLO COUNTY * | 35001C0379E | 02-APR-2002
06 | NM | BERNALILLO COUNTY * | 35001C0383E | 02-APR-2002
06 | NM | BERNALILLO COUNTY * | 35001C0386E | 02-APR-2002
06 | NM | BERNALILLO COUNTY * | 35001C0387E | 02-APR-2002
06 | NM | BERNALILLO COUNTY * | 35001CIND0 ** | 02-APR-2002
06 | NM | FARMINGTON, CITY OF | 3500670039E | 15-MAY-2002
06 | NM | FARMINGTON, CITY OF | 3500670040E | 15-MAY-2002
06 | NM | FARMINGTON, CITY OF | 3500670041E | 15-MAY-2002
06 | NM | FARMINGTON, CITY OF | 3500670042E | 15-MAY-2002
06 | NM | FARMINGTON, CITY OF | 3500670043E | 15-MAY-2002
06 | NM | FARMINGTON, CITY OF | 3500670044E | 15-MAY-2002
06 | NM | FARMINGTON, CITY OF | 3500670061E | 15-MAY-2002
06 | NM | FARMINGTON, CITY OF | 3500670063E | 15-MAY-2002
06 | NM | FARMINGTON, CITY OF | 3500670085E | 15-MAY-2002
06 | NM | FARMINGTON, CITY OF | 3500670101E | 15-MAY-2002
06 | NM | FARMINGTON, CITY OF | 3500670105E | 15-MAY-2002
06 | NM | FARMINGTON, CITY OF | 3500670110E | 15-MAY-2002
06 | NM | FARMINGTON, CITY OF | 350067IND0A** | 15-MAY-2002
06 | NM | LOS RANCHOS, VILLAGE OF | 35001C0109E** | 02-APR-2002
06 | NM | LOS RANCHOS, VILLAGE OF | 35001C0109E | 02-APR-2002
06 | NM | LOS RANCHOS, VILLAGE OF | 35001C0116E** | 02-APR-2002
06 | NM | LOS RANCHOS, VILLAGE OF | 35001C0116E | 02-APR-2002
06 | NM | LOS RANCHOS, VILLAGE OF | 35001C0117E** | 02-APR-2002
06 | NM | LOS RANCHOS, VILLAGE OF | 35001C0136E** | 02-APR-2002
06 | NM | LOS RANCHOS, VILLAGE OF | 35001C0136E | 02-APR-2002
06 | NM | LOS RANCHOS, VILLAGE OF | 35001CIND0 ** | 02-APR-2002
06 | NM | SAN JUAN COUNTY * | 3500640318C | 15-MAY-2002
06 | NM | SAN JUAN COUNTY * | 3500640320C | 15-MAY-2002
06 | NM | SAN JUAN COUNTY * | 3500640505C | 15-MAY-2002
06 | NM | SAN JUAN COUNTY * | 3500640510C | 15-MAY-2002
06 | NM | SAN JUAN COUNTY * | 350064IND0A** | 15-MAY-2002
06 | NM | TIJERAS, VILLAGE OF | 35001CIND0 ** | 02-APR-2002
06 | TX | ALAMO HEIGHTS, CITY OF | 48029CIND0 ** | 04-JAN-2002
06 | TX | AUSTIN, CITY OF | 48453CIND0 ** | 15-APR-2002
06 | TX | BALCONES HEIGHTS, CITY OF | 48029C0268F** | 04-JAN-2002
06 | TX | BALCONES HEIGHTS, CITY OF | 48029C0268F | 04-JAN-2002
06 | TX | BALCONES HEIGHTS, CITY OF | 48029CIND0 ** | 04-JAN-2002
06 | TX | BEE CAVE, VILLAGE OF | 48453CIND0 ** | 15-APR-2002
06 | TX | BEXAR COUNTY * | 48029C0110F | 04-JAN-2002
06 | TX | BEXAR COUNTY * | 48029C0120F | 04-JAN-2002
06 | TX | BEXAR COUNTY * | 48029C0130F | 04-JAN-2002
06 | TX | BEXAR COUNTY * | 48029C0140F | 04-JAN-2002
06 | TX | BEXAR COUNTY * | 48029C0145F | 04-JAN-2002
06 | TX | BEXAR COUNTY * | 48029C0220F | 04-JAN-2002
06 | TX | BEXAR COUNTY * | 48029C0227F** | 04-JAN-2002
06 | TX | BEXAR COUNTY * | 48029C0227F | 04-JAN-2002
06 | TX | BEXAR COUNTY * | 48029C0229F | 04-JAN-2002
06 | TX | BEXAR COUNTY * | 48029C0230F | 04-JAN-2002
06 | TX | BEXAR COUNTY * | 48029C0232F | 04-JAN-2002
06 | TX | BEXAR COUNTY * | 48029C0233F | 04-JAN-2002
06 | TX | BEXAR COUNTY * | 48029C0234F | 04-JAN-2002
06 | TX | BEXAR COUNTY * | 48029C0236F | 04-JAN-2002
06 | TX | BEXAR COUNTY * | 48029C0237F | 04-JAN-2002
06 | TX | BEXAR COUNTY * | 48029C0238F | 04-JAN-2002
06 | TX | BEXAR COUNTY * | 48029C0239F | 04-JAN-2002
06 | TX | BEXAR COUNTY * | 48029C0241F | 04-JAN-2002
06 | TX | BEXAR COUNTY * | 48029C0242F | 04-JAN-2002
06 | TX | BEXAR COUNTY * | 48029C0243F | 04-JAN-2002
06 | TX | BEXAR COUNTY * | 48029C0244F | 04-JAN-2002
06 | TX | BEXAR COUNTY * | 48029C0251F | 04-JAN-2002
06 | TX | BEXAR COUNTY * | 48029C0252F | 04-JAN-2002
06 | TX | BEXAR COUNTY * | 48029C0253F | 04-JAN-2002
06 | TX | BEXAR COUNTY * | 48029C0254F | 04-JAN-2002
06 | TX | BEXAR COUNTY * | 48029C0256F | 04-JAN-2002
06 | TX | BEXAR COUNTY * | 48029C0257F** | 04-JAN-2002
06 | TX | BEXAR COUNTY * | 48029C0257F | 04-JAN-2002
06 | TX | BEXAR COUNTY * | 48029C0258F | 04-JAN-2002
06 | TX | BEXAR COUNTY * | 48029C0259F** | 04-JAN-2002
06 | TX | BEXAR COUNTY * | 48029C0259F | 04-JAN-2002
06 | TX | BEXAR COUNTY * | 48029C0261F | 04-JAN-2002
06 | TX | BEXAR COUNTY * | 48029C0262F | 04-JAN-2002
06 | TX | BEXAR COUNTY * | 48029C0263F | 04-JAN-2002
06 | TX | BEXAR COUNTY * | 48029C0266F** | 04-JAN-2002
06 | TX | BEXAR COUNTY * | 48029C0266F | 04-JAN-2002
06 | TX | BEXAR COUNTY * | 48029C0267F** | 04-JAN-2002
06 | TX | BEXAR COUNTY * | 48029C0267F | 04-JAN-2002
06 | TX | BEXAR COUNTY * | 48029C0268F** | 04-JAN-2002
06 | TX | BEXAR COUNTY * | 48029C0268F | 04-JAN-2002
06 | TX | BEXAR COUNTY * | 48029C0269F** | 04-JAN-2002
06 | TX | BEXAR COUNTY * | 48029C0269F | 04-JAN-2002
06 | TX | BEXAR COUNTY * | 48029C0276F** | 04-JAN-2002
06 | TX | BEXAR COUNTY * | 48029C0276F | 04-JAN-2002
06 | TX | BEXAR COUNTY * | 48029C0277F | 04-JAN-2002
06 | TX | BEXAR COUNTY * | 48029C0278F** | 04-JAN-2002
06 | TX | BEXAR COUNTY * | 48029C0278F | 04-JAN-2002
06 | TX | BEXAR COUNTY * | 48029C0279F | 04-JAN-2002
06 | TX | BEXAR COUNTY * | 48029C0281F | 04-JAN-2002
06 | TX | BEXAR COUNTY * | 48029C0283F | 04-JAN-2002
06 | TX | BEXAR COUNTY * | 48029C0284F | 04-JAN-2002
06 | TX | BEXAR COUNTY * | 48029C0286F | 04-JAN-2002
06 | TX | BEXAR COUNTY * | 48029C0287F | 04-JAN-2002
06 | TX | BEXAR COUNTY * | 48029C0289F | 04-JAN-2002
06 | TX | BEXAR COUNTY * | 48029C0291F | 04-JAN-2002
06 | TX | BEXAR COUNTY * | 48029C0292F | 04-JAN-2002
06 | TX | BEXAR COUNTY * | 48029C0293F | 04-JAN-2002
06 | TX | BEXAR COUNTY * | 48029C0294F** | 04-JAN-2002
06 | TX | BEXAR COUNTY * | 48029C0294F | 04-JAN-2002
06 | TX | BEXAR COUNTY * | 48029C0402F | 04-JAN-2002
06 | TX | BEXAR COUNTY * | 48029C0405F | 04-JAN-2002
06 | TX | BEXAR COUNTY * | 48029C0406F | 04-JAN-2002
06 | TX | BEXAR COUNTY * | 48029C0407F | 04-JAN-2002
06 | TX | BEXAR COUNTY * | 48029C0409F | 04-JAN-2002
06 | TX | BEXAR COUNTY * | 48029C0417F | 04-JAN-2002
06 | TX | BEXAR COUNTY * | 48029C0426F | 04-JAN-2002
06 | TX | BEXAR COUNTY * | 48029C0428F | 04-JAN-2002
06 | TX | BEXAR COUNTY * | 48029C0436F | 04-JAN-2002
06 | TX | BEXAR COUNTY * | 48029C0438F | 04-JAN-2002
06 | TX | BEXAR COUNTY * | 48029C0456F** | 04-JAN-2002
06 | TX | BEXAR COUNTY * | 48029C0456F | 04-JAN-2002
06 | TX | BEXAR COUNTY * | 48029C0458F | 04-JAN-2002
06 | TX | BEXAR COUNTY * | 48029C0466F | 04-JAN-2002
06 | TX | BEXAR COUNTY * | 48029C0468F | 04-JAN-2002
06 | TX | BEXAR COUNTY * | 48029C0631F | 04-JAN-2002
06 | TX | BEXAR COUNTY * | 48029C0632F | 04-JAN-2002
06 | TX | BEXAR COUNTY * | 48029C0633F | 04-JAN-2002
06 | TX | BEXAR COUNTY * | 48029C0634F | 04-JAN-2002
06 | TX | BEXAR COUNTY * | 48029CIND0 ** | 04-JAN-2002
06 | TX | BRIARCLIFF, VILLAGE OF | 48453C0791F | 15-APR-2002
06 | TX | BRIARCLIFF, VILLAGE OF | 48453C0793F | 15-APR-2002
06 | TX | BRIARCLIFF, VILLAGE OF | 48453CIND0 ** | 15-APR-2002
06 | TX | CASTLE HILLS, CITY OF | 48029C0266F** | 04-JAN-2002
06 | TX | CASTLE HILLS, CITY OF | 48029C0266F | 04-JAN-2002
06 | TX | CASTLE HILLS, CITY OF | 48029C0267F** | 04-JAN-2002
06 | TX | CASTLE HILLS, CITY OF | 48029C0267F | 04-JAN-2002
06 | TX | CASTLE HILLS, CITY OF | 48029C0268F** | 04-JAN-2002
06 | TX | CASTLE HILLS, CITY OF | 48029C0268F | 04-JAN-2002
06 | TX | CASTLE HILLS, CITY OF | 48029C0269F** | 04-JAN-2002
06 | TX | CASTLE HILLS, CITY OF | 48029C0269F | 04-JAN-2002
06 | TX | CASTLE HILLS, CITY OF | 48029CIND0 ** | 04-JAN-2002
06 | TX | CHINA GROVE, CITY OF | 48029CIND0 ** | 04-JAN-2002
06 | TX | CONVERSE, CITY OF | 48029CIND0 ** | 04-JAN-2002
06 | TX | ELMENDORF, CITY OF | 48029CIND0 ** | 04-JAN-2002
06 | TX | FAIR OAKS RANCH, CITY OF | 48029CIND0 ** | 04-JAN-2002
06 | TX | GARFIELD, VILLAGE OF | 48453CIND0 ** | 15-APR-2002
06 | TX | GREY FOREST, CITY OF | 48029C0227F** | 04-JAN-2002
06 | TX | GREY FOREST, CITY OF | 48029C0227F | 04-JAN-2002
06 | TX | GREY FOREST, CITY OF | 48029CIND0 ** | 04-JAN-2002
06 | TX | HELOTES, CITY OF | 48029C0229F | 04-JAN-2002
06 | TX | HELOTES, CITY OF | 48029C0233F | 04-JAN-2002
06 | TX | HELOTES, CITY OF | 48029C0237F | 04-JAN-2002
06 | TX | HELOTES, CITY OF | 48029C0241F | 04-JAN-2002
06 | TX | HELOTES, CITY OF | 48029CIND0 ** | 04-JAN-2002
06 | TX | HILL COUNTRY VILLAGE, CITY OF | 48029C0257F** | 04-JAN-2002
06 | TX | HILL COUNTRY VILLAGE, CITY OF | 48029C0257F | 04-JAN-2002
06 | TX | HILL COUNTRY VILLAGE, CITY OF | 48029C0259F** | 04-JAN-2002
06 | TX | HILL COUNTRY VILLAGE, CITY OF | 48029C0259F | 04-JAN-2002
06 | TX | HILL COUNTRY VILLAGE, CITY OF | 48029C0276F** | 04-JAN-2002
06 | TX | HILL COUNTRY VILLAGE, CITY OF | 48029C0276F | 04-JAN-2002
06 | TX | HILL COUNTRY VILLAGE, CITY OF | 48029C0278F** | 04-JAN-2002
06 | TX | HILL COUNTRY VILLAGE, CITY OF | 48029C0278F | 04-JAN-2002
06 | TX | HILL COUNTRY VILLAGE, CITY OF | 48029CIND0 ** | 04-JAN-2002
06 | TX | HOLLYWOOD PARK, TOWN OF | 48029C0257F** | 04-JAN-2002
06 | TX | HOLLYWOOD PARK, TOWN OF | 48029C0257F | 04-JAN-2002
06 | TX | HOLLYWOOD PARK, TOWN OF | 48029C0276F** | 04-JAN-2002
06 | TX | HOLLYWOOD PARK, TOWN OF | 48029C0276F | 04-JAN-2002
06 | TX | HOLLYWOOD PARK, TOWN OF | 48029C0278F** | 04-JAN-2002
06 | TX | HOLLYWOOD PARK, TOWN OF | 48029C0278F | 04-JAN-2002
06 | TX | HOLLYWOOD PARK, TOWN OF | 48029CIND0 ** | 04-JAN-2002
06 | TX | JONESTOWN, CITY OF | 48453C0802F | 15-APR-2002
06 | TX | JONESTOWN, CITY OF | 48453C0804F | 15-APR-2002
06 | TX | JONESTOWN, CITY OF | 48453CIND0 ** | 15-APR-2002
06 | TX | KIRBY, CITY OF | 48029CIND0 ** | 04-JAN-2002
06 | TX | LAGO VISTA, CITY OF | 48453C0690F | 15-APR-2002
06 | TX | LAGO VISTA, CITY OF | 48453C0782F | 15-APR-2002
06 | TX | LAGO VISTA, CITY OF | 48453C0784F | 15-APR-2002
06 | TX | LAGO VISTA, CITY OF | 48453C0791F | 15-APR-2002
06 | TX | LAGO VISTA, CITY OF | 48453C0792F | 15-APR-2002
06 | TX | LAGO VISTA, CITY OF | 48453C0801F | 15-APR-2002
06 | TX | LAGO VISTA, CITY OF | 48453C0802F | 15-APR-2002
06 | TX | LAGO VISTA, CITY OF | 48453C0803F | 15-APR-2002
06 | TX | LAGO VISTA, CITY OF | 48453C0811F | 15-APR-2002
06 | TX | LAGO VISTA, CITY OF | 48453CIND0 ** | 15-APR-2002
06 | TX | LAKEWAY, CITY OF | 48453C0813F | 15-APR-2002
06 | TX | LAKEWAY, CITY OF | 48453C0814F | 15-APR-2002
06 | TX | LAKEWAY, CITY OF | 48453CIND0 ** | 15-APR-2002
06 | TX | LEON VALLEY, CITY OF | 48029C0244F | 04-JAN-2002
06 | TX | LEON VALLEY, CITY OF | 48029C0263F | 04-JAN-2002
06 | TX | LEON VALLEY, CITY OF | 48029C0407F | 04-JAN-2002
06 | TX | LEON VALLEY, CITY OF | 48029C0426F | 04-JAN-2002
06 | TX | LEON VALLEY, CITY OF | 48029CIND0 ** | 04-JAN-2002
06 | TX | LIVE OAK, CITY OF | 48029CIND0 ** | 04-JAN-2002
06 | TX | MANOR, CITY OF | 48453CIND0 ** | 15-APR-2002
06 | TX | OLMOS PARK, CITY OF | 48029CIND0 ** | 04-JAN-2002
06 | TX | PFLUGERVILLE, CITY OF | 48453CIND0 ** | 15-APR-2002
06 | TX | POINT VENTURE, VILLAGE OF | 48453C0794F | 15-APR-2002
06 | TX | POINT VENTURE, VILLAGE OF | 48453C0813F | 15-APR-2002
06 | TX | POINT VENTURE, VILLAGE OF | 48453CIND0 ** | 15-APR-2002
06 | TX | ROLLINGWOOD, CITY OF | 48453CIND0 ** | 15-APR-2002
06 | TX | SAN ANTONIO, CITY OF | 48029C0120F | 04-JAN-2002
06 | TX | SAN ANTONIO, CITY OF | 48029C0140F | 04-JAN-2002
06 | TX | SAN ANTONIO, CITY OF | 48029C0145F | 04-JAN-2002
06 | TX | SAN ANTONIO, CITY OF | 48029C0220F | 04-JAN-2002
06 | TX | SAN ANTONIO, CITY OF | 48029C0232F | 04-JAN-2002
06 | TX | SAN ANTONIO, CITY OF | 48029C0233F | 04-JAN-2002
06 | TX | SAN ANTONIO, CITY OF | 48029C0234F | 04-JAN-2002
06 | TX | SAN ANTONIO, CITY OF | 48029C0237F | 04-JAN-2002
06 | TX | SAN ANTONIO, CITY OF | 48029C0238F | 04-JAN-2002
06 | TX | SAN ANTONIO, CITY OF | 48029C0239F | 04-JAN-2002
06 | TX | SAN ANTONIO, CITY OF | 48029C0241F | 04-JAN-2002
06 | TX | SAN ANTONIO, CITY OF | 48029C0242F | 04-JAN-2002
06 | TX | SAN ANTONIO, CITY OF | 48029C0243F | 04-JAN-2002
06 | TX | SAN ANTONIO, CITY OF | 48029C0244F | 04-JAN-2002
06 | TX | SAN ANTONIO, CITY OF | 48029C0251F | 04-JAN-2002
06 | TX | SAN ANTONIO, CITY OF | 48029C0252F | 04-JAN-2002
06 | TX | SAN ANTONIO, CITY OF | 48029C0253F | 04-JAN-2002
06 | TX | SAN ANTONIO, CITY OF | 48029C0254F | 04-JAN-2002
06 | TX | SAN ANTONIO, CITY OF | 48029C0256F | 04-JAN-2002
06 | TX | SAN ANTONIO, CITY OF | 48029C0257F** | 04-JAN-2002
06 | TX | SAN ANTONIO, CITY OF | 48029C0257F | 04-JAN-2002
06 | TX | SAN ANTONIO, CITY OF | 48029C0258F | 04-JAN-2002
06 | TX | SAN ANTONIO, CITY OF | 48029C0259F** | 04-JAN-2002
06 | TX | SAN ANTONIO, CITY OF | 48029C0259F | 04-JAN-2002
06 | TX | SAN ANTONIO, CITY OF | 48029C0261F | 04-JAN-2002
06 | TX | SAN ANTONIO, CITY OF | 48029C0262F | 04-JAN-2002
06 | TX | SAN ANTONIO, CITY OF | 48029C0263F | 04-JAN-2002
06 | TX | SAN ANTONIO, CITY OF | 48029C0266F** | 04-JAN-2002
06 | TX | SAN ANTONIO, CITY OF | 48029C0266F | 04-JAN-2002
06 | TX | SAN ANTONIO, CITY OF | 48029C0267F** | 04-JAN-2002
06 | TX | SAN ANTONIO, CITY OF | 48029C0267F | 04-JAN-2002
06 | TX | SAN ANTONIO, CITY OF | 48029C0268F** | 04-JAN-2002
06 | TX | SAN ANTONIO, CITY OF | 48029C0268F | 04-JAN-2002
06 | TX | SAN ANTONIO, CITY OF | 48029C0269F** | 04-JAN-2002
06 | TX | SAN ANTONIO, CITY OF | 48029C0269F | 04-JAN-2002
06 | TX | SAN ANTONIO, CITY OF | 48029C0276F** | 04-JAN-2002
06 | TX | SAN ANTONIO, CITY OF | 48029C0276F | 04-JAN-2002
06 | TX | SAN ANTONIO, CITY OF | 48029C0277F | 04-JAN-2002
06 | TX | SAN ANTONIO, CITY OF | 48029C0278F** | 04-JAN-2002
06 | TX | SAN ANTONIO, CITY OF | 48029C0278F | 04-JAN-2002
06 | TX | SAN ANTONIO, CITY OF | 48029C0279F | 04-JAN-2002
06 | TX | SAN ANTONIO, CITY OF | 48029C0281F | 04-JAN-2002
06 | TX | SAN ANTONIO, CITY OF | 48029C0283F | 04-JAN-2002
06 | TX | SAN ANTONIO, CITY OF | 48029C0284F | 04-JAN-2002
06 | TX | SAN ANTONIO, CITY OF | 48029C0286F | 04-JAN-2002
06 | TX | SAN ANTONIO, CITY OF | 48029C0287F | 04-JAN-2002
06 | TX | SAN ANTONIO, CITY OF | 48029C0289F | 04-JAN-2002
06 | TX | SAN ANTONIO, CITY OF | 48029C0291F | 04-JAN-2002
06 | TX | SAN ANTONIO, CITY OF | 48029C0292F | 04-JAN-2002
06 | TX | SAN ANTONIO, CITY OF | 48029C0293F | 04-JAN-2002
06 | TX | SAN ANTONIO, CITY OF | 48029C0294F** | 04-JAN-2002
06 | TX | SAN ANTONIO, CITY OF | 48029C0294F | 04-JAN-2002
06 | TX | SAN ANTONIO, CITY OF | 48029C0402F | 04-JAN-2002
06 | TX | SAN ANTONIO, CITY OF | 48029C0405F | 04-JAN-2002
06 | TX | SAN ANTONIO, CITY OF | 48029C0406F | 04-JAN-2002
06 | TX | SAN ANTONIO, CITY OF | 48029C0407F | 04-JAN-2002
06 | TX | SAN ANTONIO, CITY OF | 48029C0409F | 04-JAN-2002
06 | TX | SAN ANTONIO, CITY OF | 48029C0417F | 04-JAN-2002
06 | TX | SAN ANTONIO, CITY OF | 48029C0426F | 04-JAN-2002
06 | TX | SAN ANTONIO, CITY OF | 48029C0428F | 04-JAN-2002
06 | TX | SAN ANTONIO, CITY OF | 48029C0436F | 04-JAN-2002
06 | TX | SAN ANTONIO, CITY OF | 48029C0438F | 04-JAN-2002
06 | TX | SAN ANTONIO, CITY OF | 48029C0456F** | 04-JAN-2002
06 | TX | SAN ANTONIO, CITY OF | 48029C0456F | 04-JAN-2002
06 | TX | SAN ANTONIO, CITY OF | 48029C0458F | 04-JAN-2002
06 | TX | SAN ANTONIO, CITY OF | 48029C0466F | 04-JAN-2002
06 | TX | SAN ANTONIO, CITY OF | 48029C0468F | 04-JAN-2002
06 | TX | SAN ANTONIO, CITY OF | 48029C0631F | 04-JAN-2002
06 | TX | SAN ANTONIO, CITY OF | 48029C0632F | 04-JAN-2002
06 | TX | SAN ANTONIO, CITY OF | 48029C0633F | 04-JAN-2002
06 | TX | SAN ANTONIO, CITY OF | 48029C0634F | 04-JAN-2002
06 | TX | SAN ANTONIO, CITY OF | 48029CIND0 ** | 04-JAN-2002
06 | TX | SAN LEANNA, CITY OF | 48453CIND0 ** | 15-APR-2002
06 | TX | SCHERTZ, CITY OF | 48029CIND0 ** | 04-JAN-2002
06 | TX | SELMA, CITY OF | 48029CIND0 ** | 04-JAN-2002
06 | TX | SHAVANO PARK, TOWN OF | 48029C0252F | 04-JAN-2002
06 | TX | SHAVANO PARK, TOWN OF | 48029C0254F | 04-JAN-2002
06 | TX | SHAVANO PARK, TOWN OF | 48029C0256F | 04-JAN-2002
06 | TX | SHAVANO PARK, TOWN OF | 48029C0258F | 04-JAN-2002
06 | TX | SHAVANO PARK, TOWN OF | 48029CIND0 ** | 04-JAN-2002
06 | TX | SOMERSET, CITY OF | 48029CIND0 ** | 04-JAN-2002
06 | TX | ST. HEDWIG, CITY OF | 48029CIND0 ** | 04-JAN-2002
06 | TX | SUNSET VALLEY, CITY OF | 48453CIND0 ** | 15-APR-2002
06 | TX | TERRELL HILLS, CITY OF | 48029C0456F** | 04-JAN-2002
06 | TX | TERRELL HILLS, CITY OF | 48029C0456F | 04-JAN-2002
06 | TX | TERRELL HILLS, CITY OF | 48029CIND0 ** | 04-JAN-2002
06 | TX | TRAVIS COUNTY* | 48453C0670F | 15-APR-2002
06 | TX | TRAVIS COUNTY* | 48453C0689F | 15-APR-2002
06 | TX | TRAVIS COUNTY* | 48453C0690F | 15-APR-2002
06 | TX | TRAVIS COUNTY* | 48453C0781F | 15-APR-2002
06 | TX | TRAVIS COUNTY* | 48453C0782F | 15-APR-2002
06 | TX | TRAVIS COUNTY* | 48453C0783F | 15-APR-2002
06 | TX | TRAVIS COUNTY* | 48453C0784F | 15-APR-2002
06 | TX | TRAVIS COUNTY* | 48453C0791F | 15-APR-2002
06 | TX | TRAVIS COUNTY* | 48453C0792F | 15-APR-2002
06 | TX | TRAVIS COUNTY* | 48453C0793F | 15-APR-2002
06 | TX | TRAVIS COUNTY* | 48453C0794F | 15-APR-2002
06 | TX | TRAVIS COUNTY* | 48453C0801F | 15-APR-2002
06 | TX | TRAVIS COUNTY* | 48453C0802F | 15-APR-2002
06 | TX | TRAVIS COUNTY* | 48453C0803F | 15-APR-2002
06 | TX | TRAVIS COUNTY* | 48453C0804F | 15-APR-2002
06 | TX | TRAVIS COUNTY* | 48453C0811F | 15-APR-2002
06 | TX | TRAVIS COUNTY* | 48453C0812F | 15-APR-2002
06 | TX | TRAVIS COUNTY* | 48453C0813F | 15-APR-2002
06 | TX | TRAVIS COUNTY* | 48453C0814F | 15-APR-2002
06 | TX | TRAVIS COUNTY* | 48453CIND0 ** | 15-APR-2002
06 | TX | UNIVERSAL CITY, CITY OF | 48029CIND0 ** | 04-JAN-2002
06 | TX | WEST LAKE HILLS, CITY OF | 48453CIND0 ** | 15-APR-2002
06 | TX | WINDCREST, CITY OF | 48029C0294F** | 04-JAN-2002
06 | TX | WINDCREST, CITY OF | 48029C0294F | 04-JAN-2002
06 | TX | WINDCREST, CITY OF | 48029CIND0 ** | 04-JAN-2002
07 | IA | BLENCOE, CITY OF | 19133C0175C | 02-MAY-2002
07 | IA | BLENCOE, CITY OF | 19133CIND0 ** | 02-MAY-2002
07 | IA | CASTANA, CITY OF | 19133C0045C** | 02-MAY-2002
07 | IA | CASTANA, CITY OF | 19133C0045C | 02-MAY-2002
07 | IA | CASTANA, CITY OF | 19133C0075C** | 02-MAY-2002
07 | IA | CASTANA, CITY OF | 19133C0075C | 02-MAY-2002
07 | IA | CASTANA, CITY OF | 19133C0110C** | 02-MAY-2002
07 | IA | CASTANA, CITY OF | 19133C0110C | 02-MAY-2002
07 | IA | CASTANA, CITY OF | 19133C0150C** | 02-MAY-2002
07 | IA | CASTANA, CITY OF | 19133C0150C | 02-MAY-2002
07 | IA | CASTANA, CITY OF | 19133CIND0 ** | 02-MAY-2002
07 | IA | COUNCIL BLUFFS, CITY OF | 1902350005D | 02-APR-2002
07 | IA | COUNCIL BLUFFS, CITY OF | 1902350010C | 02-APR-2002
07 | IA | COUNCIL BLUFFS, CITY OF | 1902350015C | 02-APR-2002
07 | IA | COUNCIL BLUFFS, CITY OF | 1902350020C | 02-APR-2002
07 | IA | COUNCIL BLUFFS, CITY OF | 190235IND0 ** | 02-APR-2002
07 | IA | MAPLETON, CITY OF | 19133C0055C** | 02-MAY-2002
07 | IA | MAPLETON, CITY OF | 19133C0055C | 02-MAY-2002
07 | IA | MAPLETON, CITY OF | 19133C0075C** | 02-MAY-2002
07 | IA | MAPLETON, CITY OF | 19133C0075C | 02-MAY-2002
07 | IA | MAPLETON, CITY OF | 19133CIND0 ** | 02-MAY-2002
07 | IA | MONONA COUNTY * | 19133C0020C | 02-MAY-2002
07 | IA | MONONA COUNTY * | 19133C0025C | 02-MAY-2002
07 | IA | MONONA COUNTY * | 19133C0040C | 02-MAY-2002
07 | IA | MONONA COUNTY * | 19133C0045C** | 02-MAY-2002
07 | IA | MONONA COUNTY * | 19133C0045C | 02-MAY-2002
07 | IA | MONONA COUNTY * | 19133C0050C** | 02-MAY-2002
07 | IA | MONONA COUNTY * | 19133C0050C | 02-MAY-2002
07 | IA | MONONA COUNTY * | 19133C0055C** | 02-MAY-2002
07 | IA | MONONA COUNTY * | 19133C0055C | 02-MAY-2002
07 | IA | MONONA COUNTY * | 19133C0075C** | 02-MAY-2002
07 | IA | MONONA COUNTY * | 19133C0075C | 02-MAY-2002
07 | IA | MONONA COUNTY * | 19133C0100C | 02-MAY-2002
07 | IA | MONONA COUNTY * | 19133C0110C** | 02-MAY-2002
07 | IA | MONONA COUNTY * | 19133C0110C | 02-MAY-2002
07 | IA | MONONA COUNTY * | 19133C0125C | 02-MAY-2002
07 | IA | MONONA COUNTY * | 19133C0135C** | 02-MAY-2002
07 | IA | MONONA COUNTY * | 19133C0135C | 02-MAY-2002
07 | IA | MONONA COUNTY * | 19133C0145C** | 02-MAY-2002
07 | IA | MONONA COUNTY * | 19133C0145C | 02-MAY-2002
07 | IA | MONONA COUNTY * | 19133C0150C** | 02-MAY-2002
07 | IA | MONONA COUNTY * | 19133C0150C | 02-MAY-2002
07 | IA | MONONA COUNTY * | 19133C0175C | 02-MAY-2002
07 | IA | MONONA COUNTY * | 19133C0200C | 02-MAY-2002
07 | IA | MONONA COUNTY * | 19133CIND0 ** | 02-MAY-2002
07 | IA | MOORHEAD,CITY OF | 19133C0200C | 02-MAY-2002
07 | IA | MOORHEAD,CITY OF | 19133CIND0 ** | 02-MAY-2002
07 | IA | ONAWA, CITY OF | 19133C0125C | 02-MAY-2002
07 | IA | ONAWA, CITY OF | 19133CIND0 ** | 02-MAY-2002
07 | IA | RODNEY, CITY OF | 19133C0050C** | 02-MAY-2002
07 | IA | RODNEY, CITY OF | 19133C0050C | 02-MAY-2002
07 | IA | RODNEY, CITY OF | 19133CIND0 ** | 02-MAY-2002
07 | IA | SOLDIER, CITY OF | 19133C0145C** | 02-MAY-2002
07 | IA | SOLDIER, CITY OF | 19133C0145C | 02-MAY-2002
07 | IA | SOLDIER, CITY OF | 19133CIND0 ** | 02-MAY-2002
07 | IA | TURIN, CITY OF | 19133C0110C** | 02-MAY-2002
07 | IA | TURIN, CITY OF | 19133C0110C | 02-MAY-2002
07 | IA | TURIN, CITY OF | 19133CIND0 ** | 02-MAY-2002
07 | IA | UTE, CITY OF | 19133C0135C** | 02-MAY-2002
07 | IA | UTE, CITY OF | 19133C0135C | 02-MAY-2002
07 | IA | UTE, CITY OF | 19133CIND0 ** | 02-MAY-2002
07 | IA | WHITING,CITY OF | 19133C0020C | 02-MAY-2002
07 | IA | WHITING,CITY OF | 19133C0040C | 02-MAY-2002
07 | IA | WHITING,CITY OF | 19133CIND0 ** | 02-MAY-2002
07 | KS | COUNTRYSIDE, CITY OF | 20091C0093F | 17-JUN-2002
07 | KS | COUNTRYSIDE, CITY OF | 20091C0094F | 17-JUN-2002
07 | KS | COUNTRYSIDE, CITY OF | 20091CIND0A** | 17-JUN-2002
07 | KS | DESOTO, CITY OF | 20091C0045F | 17-JUN-2002
07 | KS | DESOTO, CITY OF | 20091C0135F | 17-JUN-2002
07 | KS | DESOTO, CITY OF | 20091C0154F | 17-JUN-2002
07 | KS | DESOTO, CITY OF | 20091C0155F | 17-JUN-2002
07 | KS | DESOTO, CITY OF | 20091C0158F | 17-JUN-2002
07 | KS | DESOTO, CITY OF | 20091C0160F | 17-JUN-2002
07 | KS | DESOTO, CITY OF | 20091CIND0A** | 17-JUN-2002
07 | KS | EDGERTON, CITY OF | 20091C0270F | 17-JUN-2002
07 | KS | EDGERTON, CITY OF | 20091C0290F | 17-JUN-2002
07 | KS | EDGERTON, CITY OF | 20091CIND0A** | 17-JUN-2002
07 | KS | FAIRWAY, CITY OF | 20091C0092F | 17-JUN-2002
07 | KS | FAIRWAY, CITY OF | 20091C0094F | 17-JUN-2002
07 | KS | FAIRWAY, CITY OF | 20091C0111F | 17-JUN-2002
07 | KS | FAIRWAY, CITY OF | 20091C0113F | 17-JUN-2002
07 | KS | FAIRWAY, CITY OF | 20091CIND0A** | 17-JUN-2002
07 | KS | GARDNER, CITY OF | 20091C0290F | 17-JUN-2002
07 | KS | GARDNER, CITY OF | 20091C0300F | 17-JUN-2002
07 | KS | GARDNER, CITY OF | 20091CIND0A** | 17-JUN-2002
07 | KS | JOHNSON COUNTY * | 20091C0045F | 17-JUN-2002
07 | KS | JOHNSON COUNTY * | 20091C0065F | 17-JUN-2002
07 | KS | JOHNSON COUNTY * | 20091C0067F | 17-JUN-2002
07 | KS | JOHNSON COUNTY * | 20091C0069F | 17-JUN-2002
07 | KS | JOHNSON COUNTY * | 20091C0070F | 17-JUN-2002
07 | KS | JOHNSON COUNTY * | 20091C0087F | 17-JUN-2002
07 | KS | JOHNSON COUNTY * | 20091C0089F | 17-JUN-2002
07 | KS | JOHNSON COUNTY * | 20091C0091F | 17-JUN-2002
07 | KS | JOHNSON COUNTY * | 20091C0092F | 17-JUN-2002
07 | KS | JOHNSON COUNTY * | 20091C0093F | 17-JUN-2002
07 | KS | JOHNSON COUNTY * | 20091C0094F | 17-JUN-2002
07 | KS | JOHNSON COUNTY * | 20091C0111F | 17-JUN-2002
07 | KS | JOHNSON COUNTY * | 20091C0113F | 17-JUN-2002
07 | KS | JOHNSON COUNTY * | 20091C0135F | 17-JUN-2002
07 | KS | JOHNSON COUNTY * | 20091C0145F | 17-JUN-2002
07 | KS | JOHNSON COUNTY * | 20091C0154F | 17-JUN-2002
07 | KS | JOHNSON COUNTY * | 20091C0155F | 17-JUN-2002
07 | KS | JOHNSON COUNTY * | 20091C0158F | 17-JUN-2002
07 | KS | JOHNSON COUNTY * | 20091C0159F | 17-JUN-2002
07 | KS | JOHNSON COUNTY * | 20091C0160F | 17-JUN-2002
07 | KS | JOHNSON COUNTY * | 20091C0162F | 17-JUN-2002
07 | KS | JOHNSON COUNTY * | 20091C0165F | 17-JUN-2002
07 | KS | JOHNSON COUNTY * | 20091C0166F | 17-JUN-2002
07 | KS | JOHNSON COUNTY * | 20091C0167F | 17-JUN-2002
07 | KS | JOHNSON COUNTY * | 20091C0168F | 17-JUN-2002
07 | KS | JOHNSON COUNTY * | 20091C0169F | 17-JUN-2002
07 | KS | JOHNSON COUNTY * | 20091C0180F | 17-JUN-2002
07 | KS | JOHNSON COUNTY * | 20091C0183F | 17-JUN-2002
07 | KS | JOHNSON COUNTY * | 20091C0184F | 17-JUN-2002
07 | KS | JOHNSON COUNTY * | 20091C0185F | 17-JUN-2002
07 | KS | JOHNSON COUNTY * | 20091C0186F | 17-JUN-2002
07 | KS | JOHNSON COUNTY * | 20091C0188F | 17-JUN-2002
07 | KS | JOHNSON COUNTY * | 20091C0189F | 17-JUN-2002
07 | KS | JOHNSON COUNTY * | 20091C0191F | 17-JUN-2002
07 | KS | JOHNSON COUNTY * | 20091C0192F | 17-JUN-2002
07 | KS | JOHNSON COUNTY * | 20091C0193F | 17-JUN-2002
07 | KS | JOHNSON COUNTY * | 20091C0194F | 17-JUN-2002
07 | KS | JOHNSON COUNTY * | 20091C0201F | 17-JUN-2002
07 | KS | JOHNSON COUNTY * | 20091C0202F | 17-JUN-2002
07 | KS | JOHNSON COUNTY * | 20091C0203F | 17-JUN-2002
07 | KS | JOHNSON COUNTY * | 20091C0204F | 17-JUN-2002
07 | KS | JOHNSON COUNTY * | 20091C0206F | 17-JUN-2002
07 | KS | JOHNSON COUNTY * | 20091C0207F | 17-JUN-2002
07 | KS | JOHNSON COUNTY * | 20091C0208F | 17-JUN-2002
07 | KS | JOHNSON COUNTY * | 20091C0209F | 17-JUN-2002
07 | KS | JOHNSON COUNTY * | 20091C0211F | 17-JUN-2002
07 | KS | JOHNSON COUNTY * | 20091C0212F | 17-JUN-2002
07 | KS | JOHNSON COUNTY * | 20091C0213F | 17-JUN-2002
07 | KS | JOHNSON COUNTY * | 20091C0214F | 17-JUN-2002
07 | KS | JOHNSON COUNTY * | 20091C0217F | 17-JUN-2002
07 | KS | JOHNSON COUNTY * | 20091C0218F | 17-JUN-2002
07 | KS | JOHNSON COUNTY * | 20091C0219F | 17-JUN-2002
07 | KS | JOHNSON COUNTY * | 20091C0220F** | 17-JUN-2002
07 | KS | JOHNSON COUNTY * | 20091C0220F | 17-JUN-2002
07 | KS | JOHNSON COUNTY * | 20091C0226F | 17-JUN-2002
07 | KS | JOHNSON COUNTY * | 20091C0228F | 17-JUN-2002
07 | KS | JOHNSON COUNTY * | 20091C0236F | 17-JUN-2002
07 | KS | JOHNSON COUNTY * | 20091C0240F** | 17-JUN-2002
07 | KS | JOHNSON COUNTY * | 20091C0240F | 17-JUN-2002
07 | KS | JOHNSON COUNTY * | 20091C0260F | 17-JUN-2002
07 | KS | JOHNSON COUNTY * | 20091C0270F | 17-JUN-2002
07 | KS | JOHNSON COUNTY * | 20091C0282F | 17-JUN-2002
07 | KS | JOHNSON COUNTY * | 20091C0290F | 17-JUN-2002
07 | KS | JOHNSON COUNTY * | 20091C0300F | 17-JUN-2002
07 | KS | JOHNSON COUNTY * | 20091C0301F | 17-JUN-2002
07 | KS | JOHNSON COUNTY * | 20091C0302F | 17-JUN-2002
07 | KS | JOHNSON COUNTY * | 20091C0306F | 17-JUN-2002
07 | KS | JOHNSON COUNTY * | 20091C0307F | 17-JUN-2002
07 | KS | JOHNSON COUNTY * | 20091C0310F | 17-JUN-2002
07 | KS | JOHNSON COUNTY * | 20091C0320F | 17-JUN-2002
07 | KS | JOHNSON COUNTY * | 20091C0325F | 17-JUN-2002
07 | KS | JOHNSON COUNTY * | 20091C0326F | 17-JUN-2002
07 | KS | JOHNSON COUNTY * | 20091C0327F | 17-JUN-2002
07 | KS | JOHNSON COUNTY * | 20091C0330F** | 17-JUN-2002
07 | KS | JOHNSON COUNTY * | 20091C0330F | 17-JUN-2002
07 | KS | JOHNSON COUNTY * | 20091C0331F | 17-JUN-2002
07 | KS | JOHNSON COUNTY * | 20091C0332F | 17-JUN-2002
07 | KS | JOHNSON COUNTY * | 20091C0335F | 17-JUN-2002
07 | KS | JOHNSON COUNTY * | 20091C0340F | 17-JUN-2002
07 | KS | JOHNSON COUNTY * | 20091C0345F | 17-JUN-2002
07 | KS | JOHNSON COUNTY * | 20091C0351F | 17-JUN-2002
07 | KS | JOHNSON COUNTY * | 20091C0353F | 17-JUN-2002
07 | KS | JOHNSON COUNTY * | 20091C0365F | 17-JUN-2002
07 | KS | JOHNSON COUNTY * | 20091C0385F | 17-JUN-2002
07 | KS | JOHNSON COUNTY * | 20091C0425F | 17-JUN-2002
07 | KS | JOHNSON COUNTY * | 20091C0450F | 17-JUN-2002
07 | KS | JOHNSON COUNTY * | 20091C0460F | 17-JUN-2002
07 | KS | JOHNSON COUNTY * | 20091C0480F | 17-JUN-2002
07 | KS | JOHNSON COUNTY * | 20091CIND0A** | 17-JUN-2002
07 | KS | LAKE QUIVIRA, CITY OF | 20091C0067F | 17-JUN-2002
07 | KS | LAKE QUIVIRA, CITY OF | 20091C0069F | 17-JUN-2002
07 | KS | LAKE QUIVIRA, CITY OF | 20091CIND0A** | 17-JUN-2002
07 | KS | LEAWOOD, CITY OF | 20091C0207F | 17-JUN-2002
07 | KS | LEAWOOD, CITY OF | 20091C0209F | 17-JUN-2002
07 | KS | LEAWOOD, CITY OF | 20091C0217F | 17-JUN-2002
07 | KS | LEAWOOD, CITY OF | 20091C0219F | 17-JUN-2002
07 | KS | LEAWOOD, CITY OF | 20091C0226F | 17-JUN-2002
07 | KS | LEAWOOD, CITY OF | 20091C0228F | 17-JUN-2002
07 | KS | LEAWOOD, CITY OF | 20091C0236F | 17-JUN-2002
07 | KS | LEAWOOD, CITY OF | 20091C0240F** | 17-JUN-2002
07 | KS | LEAWOOD, CITY OF | 20091C0240F | 17-JUN-2002
07 | KS | LEAWOOD, CITY OF | 20091C0332F | 17-JUN-2002
07 | KS | LEAWOOD, CITY OF | 20091C0351F | 17-JUN-2002
07 | KS | LEAWOOD, CITY OF | 20091CIND0A** | 17-JUN-2002
07 | KS | LENEXA, CITY OF | 20091C0158F | 17-JUN-2002
07 | KS | LENEXA, CITY OF | 20091C0159F | 17-JUN-2002
07 | KS | LENEXA, CITY OF | 20091C0160F | 17-JUN-2002
07 | KS | LENEXA, CITY OF | 20091C0180F | 17-JUN-2002
07 | KS | LENEXA, CITY OF | 20091C0183F | 17-JUN-2002
07 | KS | LENEXA, CITY OF | 20091C0184F | 17-JUN-2002
07 | KS | LENEXA, CITY OF | 20091C0185F | 17-JUN-2002
07 | KS | LENEXA, CITY OF | 20091C0191F | 17-JUN-2002
07 | KS | LENEXA, CITY OF | 20091C0192F | 17-JUN-2002
07 | KS | LENEXA, CITY OF | 20091C0201F | 17-JUN-2002
07 | KS | LENEXA, CITY OF | 20091C0202F | 17-JUN-2002
07 | KS | LENEXA, CITY OF | 20091C0203F | 17-JUN-2002
07 | KS | LENEXA, CITY OF | 20091C0211F | 17-JUN-2002
07 | KS | LENEXA, CITY OF | 20091CIND0A** | 17-JUN-2002
07 | KS | MERRIAM, CITY OF | 20091C0087F | 17-JUN-2002
07 | KS | MERRIAM, CITY OF | 20091C0089F | 17-JUN-2002
07 | KS | MERRIAM, CITY OF | 20091C0091F | 17-JUN-2002
07 | KS | MERRIAM, CITY OF | 20091C0093F | 17-JUN-2002
07 | KS | MERRIAM, CITY OF | 20091C0202F | 17-JUN-2002
07 | KS | MERRIAM, CITY OF | 20091C0203F | 17-JUN-2002
07 | KS | MERRIAM, CITY OF | 20091CIND0A** | 17-JUN-2002
07 | KS | MISSION HILLS, CITY OF | 20091C0094F | 17-JUN-2002
07 | KS | MISSION HILLS, CITY OF | 20091C0111F | 17-JUN-2002
07 | KS | MISSION HILLS, CITY OF | 20091C0113F | 17-JUN-2002
07 | KS | MISSION HILLS, CITY OF | 20091CIND0A** | 17-JUN-2002
07 | KS | MISSION WOODS, CITY OF | 20091C0111F | 17-JUN-2002
07 | KS | MISSION WOODS, CITY OF | 20091C0113F | 17-JUN-2002
07 | KS | MISSION WOODS, CITY OF | 20091CIND0A** | 17-JUN-2002
07 | KS | MISSION, CITY OF | 20091C0091F | 17-JUN-2002
07 | KS | MISSION, CITY OF | 20091C0092F | 17-JUN-2002
07 | KS | MISSION, CITY OF | 20091C0093F | 17-JUN-2002
07 | KS | MISSION, CITY OF | 20091C0094F | 17-JUN-2002
07 | KS | MISSION, CITY OF | 20091CIND0A** | 17-JUN-2002
07 | KS | OLATHE, CITY OF | 20091C0158F | 17-JUN-2002
07 | KS | OLATHE, CITY OF | 20091C0159F | 17-JUN-2002
07 | KS | OLATHE, CITY OF | 20091C0160F | 17-JUN-2002
07 | KS | OLATHE, CITY OF | 20091C0166F | 17-JUN-2002
07 | KS | OLATHE, CITY OF | 20091C0167F | 17-JUN-2002
07 | KS | OLATHE, CITY OF | 20091C0169F | 17-JUN-2002
07 | KS | OLATHE, CITY OF | 20091C0180F | 17-JUN-2002
07 | KS | OLATHE, CITY OF | 20091C0183F | 17-JUN-2002
07 | KS | OLATHE, CITY OF | 20091C0186F | 17-JUN-2002
07 | KS | OLATHE, CITY OF | 20091C0188F | 17-JUN-2002
07 | KS | OLATHE, CITY OF | 20091C0189F | 17-JUN-2002
07 | KS | OLATHE, CITY OF | 20091C0191F | 17-JUN-2002
07 | KS | OLATHE, CITY OF | 20091C0192F | 17-JUN-2002
07 | KS | OLATHE, CITY OF | 20091C0193F | 17-JUN-2002
07 | KS | OLATHE, CITY OF | 20091C0194F | 17-JUN-2002
07 | KS | OLATHE, CITY OF | 20091C0211F | 17-JUN-2002
07 | KS | OLATHE, CITY OF | 20091C0213F | 17-JUN-2002
07 | KS | OLATHE, CITY OF | 20091C0282F | 17-JUN-2002
07 | KS | OLATHE, CITY OF | 20091C0301F | 17-JUN-2002
07 | KS | OLATHE, CITY OF | 20091C0302F | 17-JUN-2002
07 | KS | OLATHE, CITY OF | 20091C0306F | 17-JUN-2002
07 | KS | OLATHE, CITY OF | 20091C0307F | 17-JUN-2002
07 | KS | OLATHE, CITY OF | 20091C0310F | 17-JUN-2002
07 | KS | OLATHE, CITY OF | 20091C0325F | 17-JUN-2002
07 | KS | OLATHE, CITY OF | 20091C0326F | 17-JUN-2002
07 | KS | OLATHE, CITY OF | 20091C0327F | 17-JUN-2002
07 | KS | OLATHE, CITY OF | 20091C0330F** | 17-JUN-2002
07 | KS | OLATHE, CITY OF | 20091C0330F | 17-JUN-2002
07 | KS | OLATHE, CITY OF | 20091CIND0A** | 17-JUN-2002
07 | KS | OVERLAND PARK, CITY OF | 20091C0091F | 17-JUN-2002
07 | KS | OVERLAND PARK, CITY OF | 20091C0093F | 17-JUN-2002
07 | KS | OVERLAND PARK, CITY OF | 20091C0094F | 17-JUN-2002
07 | KS | OVERLAND PARK, CITY OF | 20091C0201F | 17-JUN-2002
07 | KS | OVERLAND PARK, CITY OF | 20091C0202F | 17-JUN-2002
07 | KS | OVERLAND PARK, CITY OF | 20091C0203F | 17-JUN-2002
07 | KS | OVERLAND PARK, CITY OF | 20091C0204F | 17-JUN-2002
07 | KS | OVERLAND PARK, CITY OF | 20091C0206F | 17-JUN-2002
07 | KS | OVERLAND PARK, CITY OF | 20091C0207F | 17-JUN-2002
07 | KS | OVERLAND PARK, CITY OF | 20091C0208F | 17-JUN-2002
07 | KS | OVERLAND PARK, CITY OF | 20091C0209F | 17-JUN-2002
07 | KS | OVERLAND PARK, CITY OF | 20091C0211F | 17-JUN-2002
07 | KS | OVERLAND PARK, CITY OF | 20091C0212F | 17-JUN-2002
07 | KS | OVERLAND PARK, CITY OF | 20091C0213F | 17-JUN-2002
07 | KS | OVERLAND PARK, CITY OF | 20091C0214F | 17-JUN-2002
07 | KS | OVERLAND PARK, CITY OF | 20091C0217F | 17-JUN-2002
07 | KS | OVERLAND PARK, CITY OF | 20091C0218F | 17-JUN-2002
07 | KS | OVERLAND PARK, CITY OF | 20091C0219F | 17-JUN-2002
07 | KS | OVERLAND PARK, CITY OF | 20091C0220F** | 17-JUN-2002
07 | KS | OVERLAND PARK, CITY OF | 20091C0220F | 17-JUN-2002
07 | KS | OVERLAND PARK, CITY OF | 20091C0228F | 17-JUN-2002
07 | KS | OVERLAND PARK, CITY OF | 20091C0326F | 17-JUN-2002
07 | KS | OVERLAND PARK, CITY OF | 20091C0327F | 17-JUN-2002
07 | KS | OVERLAND PARK, CITY OF | 20091C0330F** | 17-JUN-2002
07 | KS | OVERLAND PARK, CITY OF | 20091C0330F | 17-JUN-2002
07 | KS | OVERLAND PARK, CITY OF | 20091C0331F | 17-JUN-2002
07 | KS | OVERLAND PARK, CITY OF | 20091C0332F | 17-JUN-2002
07 | KS | OVERLAND PARK, CITY OF | 20091C0335F | 17-JUN-2002
07 | KS | OVERLAND PARK, CITY OF | 20091C0351F | 17-JUN-2002
07 | KS | OVERLAND PARK, CITY OF | 20091C0353F | 17-JUN-2002
07 | KS | OVERLAND PARK, CITY OF | 20091CIND0A** | 17-JUN-2002
07 | KS | PRAIRIE VILLAGE, CITY OF | 20091C0094F | 17-JUN-2002
07 | KS | PRAIRIE VILLAGE, CITY OF | 20091C0113F | 17-JUN-2002
07 | KS | PRAIRIE VILLAGE, CITY OF | 20091C0206F | 17-JUN-2002
07 | KS | PRAIRIE VILLAGE, CITY OF | 20091C0207F | 17-JUN-2002
07 | KS | PRAIRIE VILLAGE, CITY OF | 20091C0209F | 17-JUN-2002
07 | KS | PRAIRIE VILLAGE, CITY OF | 20091C0226F | 17-JUN-2002
07 | KS | PRAIRIE VILLAGE, CITY OF | 20091CIND0A** | 17-JUN-2002
07 | KS | ROELAND PARK, CITY OF | 20091C0092F | 17-JUN-2002
07 | KS | ROELAND PARK, CITY OF | 20091C0094F | 17-JUN-2002
07 | KS | ROELAND PARK, CITY OF | 20091C0111F | 17-JUN-2002
07 | KS | ROELAND PARK, CITY OF | 20091CIND0A** | 17-JUN-2002
07 | KS | SHAWNEE, CITY OF | 20091C0045F | 17-JUN-2002
07 | KS | SHAWNEE, CITY OF | 20091C0065F | 17-JUN-2002
07 | KS | SHAWNEE, CITY OF | 20091C0067F | 17-JUN-2002
07 | KS | SHAWNEE, CITY OF | 20091C0069F | 17-JUN-2002
07 | KS | SHAWNEE, CITY OF | 20091C0070F | 17-JUN-2002
07 | KS | SHAWNEE, CITY OF | 20091C0087F | 17-JUN-2002
07 | KS | SHAWNEE, CITY OF | 20091C0089F | 17-JUN-2002
07 | KS | SHAWNEE, CITY OF | 20091C0160F | 17-JUN-2002
07 | KS | SHAWNEE, CITY OF | 20091C0180F | 17-JUN-2002
07 | KS | SHAWNEE, CITY OF | 20091C0185F | 17-JUN-2002
07 | KS | SHAWNEE, CITY OF | 20091C0201F | 17-JUN-2002
07 | KS | SHAWNEE, CITY OF | 20091C0202F | 17-JUN-2002
07 | KS | SHAWNEE, CITY OF | 20091CIND0A** | 17-JUN-2002
07 | KS | SPRING HILL, CITY OF | 20091C0325F | 17-JUN-2002
07 | KS | SPRING HILL, CITY OF | 20091C0450F | 17-JUN-2002
07 | KS | SPRING HILL, CITY OF | 20091CIND0A** | 17-JUN-2002
07 | MO | AIRPORT DRIVE, VILLAGE OF | 2907610005B | 04-MAR-2002
07 | MO | GRANBY, CITY OF | 2902630005C | 02-MAY-2002
07 | MO | GRAND FALLS PLAZA, TOWN OF | 2909040001A | 02-MAY-2002
07 | MO | NEWTON COUNTY * | 2908200110C | 02-MAY-2002
07 | MO | NEWTON COUNTY * | 290820IND0 ** | 02-MAY-2002
07 | MO | PULASKI COUNTY * | 2908260090C | 17-MAR-2002
07 | MO | PULASKI COUNTY * | 290826IND0 ** | 17-MAR-2002
07 | NE | CUSTER COUNTY * | 3104280003B*** | 01-MAR-2002
07 | NE | CUSTER COUNTY * | 3104280004B*** | 01-MAR-2002
07 | NE | CUSTER COUNTY * | 3104280005B*** | 01-MAR-2002
07 | NE | CUSTER COUNTY * | 3104280007B*** | 01-MAR-2002
07 | NE | CUSTER COUNTY * | 3104280008B*** | 01-MAR-2002
07 | NE | CUSTER COUNTY * | 3104280009B*** | 01-MAR-2002
07 | NE | CUSTER COUNTY * | 3104280010B*** | 01-MAR-2002
07 | NE | CUSTER COUNTY * | 3104280011B*** | 01-MAR-2002
07 | NE | CUSTER COUNTY * | 3104280012B*** | 01-MAR-2002
07 | NE | CUSTER COUNTY * | 3104280013B*** | 01-MAR-2002
07 | NE | CUSTER COUNTY * | 3104280014B*** | 01-MAR-2002
07 | NE | CUSTER COUNTY * | 3104280015B*** | 01-MAR-2002
07 | NE | CUSTER COUNTY * | 3104280016B*** | 01-MAR-2002
07 | NE | CUSTER COUNTY * | 3104280017B*** | 01-MAR-2002
07 | NE | CUSTER COUNTY * | 3104280018B*** | 01-MAR-2002
07 | NE | CUSTER COUNTY * | 3104280019B*** | 01-MAR-2002
07 | NE | CUSTER COUNTY * | 3104280020B*** | 01-MAR-2002
07 | NE | CUSTER COUNTY * | 3104280021B*** | 01-MAR-2002
07 | NE | CUSTER COUNTY * | 3104280022B*** | 01-MAR-2002
07 | NE | CUSTER COUNTY * | 3104280023B*** | 01-MAR-2002
07 | NE | CUSTER COUNTY * | 3104280024B*** | 01-MAR-2002
07 | NE | CUSTER COUNTY * | 3104280025B*** | 01-MAR-2002
07 | NE | CUSTER COUNTY * | 3104280026B*** | 01-MAR-2002
07 | NE | CUSTER COUNTY * | 3104280027B*** | 01-MAR-2002
07 | NE | CUSTER COUNTY * | 3104280028B*** | 01-MAR-2002
07 | NE | CUSTER COUNTY * | 3104280029B*** | 01-MAR-2002
07 | NE | CUSTER COUNTY * | 3104280030B*** | 01-MAR-2002
07 | NE | CUSTER COUNTY * | 3104289999B*** | 01-MAR-2002
07 | NE | CUSTER COUNTY * | 310428IND0A*** | 01-MAR-2002
08 | CO | FLORENCE, CITY OF | 0800700342D | 17-MAR-2002
08 | CO | FLORENCE, CITY OF | 0800700361D | 17-MAR-2002
08 | CO | FLORENCE, CITY OF | 0800700365D | 17-MAR-2002
08 | CO | FLORENCE, CITY OF | 080070IND0 ** | 17-MAR-2002
08 | CO | FREMONT COUNTY * | 0800670342C | 17-MAR-2002
08 | CO | FREMONT COUNTY * | 0800670345C** | 17-MAR-2002
08 | CO | FREMONT COUNTY * | 0800670361C | 17-MAR-2002
08 | CO | FREMONT COUNTY * | 0800670365C | 17-MAR-2002
08 | CO | FREMONT COUNTY * | 080067IND0 ** | 17-MAR-2002
08 | MT | CASCADE COUNTY * | 3000080220C | 15-FEB-2002
08 | MT | CASCADE COUNTY * | 3000080230C | 15-FEB-2002
08 | MT | CASCADE COUNTY * | 3000080240C | 15-FEB-2002
08 | MT | CASCADE COUNTY * | 3000080241C | 15-FEB-2002
08 | MT | CASCADE COUNTY * | 3000080243C | 15-FEB-2002
08 | MT | CASCADE COUNTY * | 3000080407C | 15-FEB-2002
08 | MT | CASCADE COUNTY * | 3000080426C | 15-FEB-2002
08 | MT | CASCADE COUNTY * | 3000080427C | 15-FEB-2002
08 | MT | CASCADE COUNTY * | 3000080428C | 15-FEB-2002
08 | MT | CASCADE COUNTY * | 3000080429C | 15-FEB-2002
08 | MT | CASCADE COUNTY * | 3000080433C | 15-FEB-2002
08 | MT | CASCADE COUNTY * | 3000080437C | 15-FEB-2002
08 | MT | CASCADE COUNTY * | 3000080441C | 15-FEB-2002
08 | MT | CASCADE COUNTY * | 300008IND0 ** | 15-FEB-2002
08 | MT | GREAT FALLS, CITY OF | 3000100005D | 15-FEB-2002
08 | MT | LEWIS AND CLARK COUNTY * | 3000381395C | 17-JUN-2002
08 | MT | LEWIS AND CLARK COUNTY * | 3000381415C | 17-JUN-2002
08 | MT | LEWIS AND CLARK COUNTY * | 3000381445C | 17-JUN-2002
08 | MT | LEWIS AND CLARK COUNTY * | 3000381465C | 17-JUN-2002
08 | MT | LEWIS AND CLARK COUNTY * | 3000381526C | 17-JUN-2002
08 | MT | LEWIS AND CLARK COUNTY * | 3000381527C | 17-JUN-2002
08 | MT | LEWIS AND CLARK COUNTY * | 3000381534D | 17-JUN-2002
08 | MT | LEWIS AND CLARK COUNTY * | 3000381542D | 17-JUN-2002
08 | MT | LEWIS AND CLARK COUNTY * | 3000381544D | 17-JUN-2002
08 | MT | LEWIS AND CLARK COUNTY * | 3000381555D | 17-JUN-2002
08 | MT | LEWIS AND CLARK COUNTY * | 3000381560D | 17-JUN-2002
08 | MT | LEWIS AND CLARK COUNTY * | 3000381570D | 17-JUN-2002
08 | MT | LEWIS AND CLARK COUNTY * | 3000381575D | 17-JUN-2002
08 | MT | LEWIS AND CLARK COUNTY * | 3000381660D | 17-JUN-2002
08 | MT | LEWIS AND CLARK COUNTY * | 3000381675D | 17-JUN-2002
08 | MT | LEWIS AND CLARK COUNTY * | 300038IND0A** | 17-JUN-2002
08 | ND | ANAMOOSE, CITY OF | 38049CIND0 ** | 15-FEB-2002
08 | ND | BALFOUR, CITY OF | 38049CIND0 ** | 15-FEB-2002
08 | ND | BANTRY, CITY OF | 38049C0450E** | 15-FEB-2002
08 | ND | BANTRY, CITY OF | 38049CIND0 ** | 15-FEB-2002
08 | ND | BERGEN, CITY OF | 38049C1000E** | 15-FEB-2002
08 | ND | BERGEN, CITY OF | 38049CIND0 ** | 15-FEB-2002
08 | ND | BERTHOLD, CITY OF | 38101C0505E** | 15-FEB-2002
08 | ND | BERTHOLD, CITY OF | 38101CIND0 ** | 15-FEB-2002
08 | ND | BURLINGTON, CITY OF | 38101CIND0 ** | 15-FEB-2002
08 | ND | BURLINGTON, TOWNSHIP OF | 38101C0545E** | 15-FEB-2002
08 | ND | BURLINGTON, TOWNSHIP OF | 38101CIND0 ** | 15-FEB-2002
08 | ND | CARPIO, CITY OF | 38101CIND0 ** | 15-FEB-2002
08 | ND | DEERING, CITY OF | 38049CIND0 ** | 15-FEB-2002
08 | ND | DES LACS, CITY OF | 38101C0540E** | 15-FEB-2002
08 | ND | DES LACS, CITY OF | 38101C0545E** | 15-FEB-2002
08 | ND | DES LACS, CITY OF | 38101CIND0 ** | 15-FEB-2002
08 | ND | DONNYBROOK, CITY OF | 38101CIND0 ** | 15-FEB-2002
08 | ND | DOUGLAS, CITY OF | 38101CIND0 ** | 15-FEB-2002
08 | ND | DRAKE, CITY OF | 38049CIND0 ** | 15-FEB-2002
08 | ND | DURBIN, TOWNSHIP OF | 3803250025B | 04-JAN-2002
08 | ND | GLADSTONE, CITY OF | 38101CIND0 ** | 15-FEB-2002
08 | ND | GRANVILLE, CITY OF | 38049CIND0 ** | 15-FEB-2002
08 | ND | KARLSRUHE, CITY OF | 38049C1000E** | 15-FEB-2002
08 | ND | KARLSRUHE, CITY OF | 38049C1025E** | 15-FEB-2002
08 | ND | KARLSRUHE, CITY OF | 38049CIND0 ** | 15-FEB-2002
08 | ND | KENMARE, CITY OF | 38101CIND0 ** | 15-FEB-2002
08 | ND | KENMARE, TOWNSHIP OF | 38101CIND0 ** | 15-FEB-2002
08 | ND | KIEF, CITY OF | 38049CIND0 ** | 15-FEB-2002
08 | ND | LEBANON, TOWNSHIP OF | 38049C0975E** | 15-FEB-2002
08 | ND | LEBANON, TOWNSHIP OF | 38049CIND0 ** | 15-FEB-2002
08 | ND | MAKOTI, CITY OF | 38101CIND0 ** | 15-FEB-2002
08 | ND | MAPLETON, CITY OF | 3800230001C | 02-FEB-2002
08 | ND | MCHENRY COUNTY* | 38049C0325E** | 15-FEB-2002
08 | ND | MCHENRY COUNTY* | 38049C0450E** | 15-FEB-2002
08 | ND | MCHENRY COUNTY* | 38049C0500E** | 15-FEB-2002
08 | ND | MCHENRY COUNTY* | 38049C0625E** | 15-FEB-2002
08 | ND | MCHENRY COUNTY* | 38049C0675E** | 15-FEB-2002
08 | ND | MCHENRY COUNTY* | 38049C0775E** | 15-FEB-2002
08 | ND | MCHENRY COUNTY* | 38049C0780E** | 15-FEB-2002
08 | ND | MCHENRY COUNTY* | 38049C0875E** | 15-FEB-2002
08 | ND | MCHENRY COUNTY* | 38049C0975E** | 15-FEB-2002
08 | ND | MCHENRY COUNTY* | 38049C1000E** | 15-FEB-2002
08 | ND | MCHENRY COUNTY* | 38049C1025E** | 15-FEB-2002
08 | ND | MCHENRY COUNTY* | 38049C1050E** | 15-FEB-2002
08 | ND | MCHENRY COUNTY* | 38049C1075E** | 15-FEB-2002
08 | ND | MCHENRY COUNTY* | 38049CIND0 ** | 15-FEB-2002
08 | ND | MINOT, CITY OF | 38101C0810E** | 15-FEB-2002
08 | ND | MINOT, CITY OF | 38101CIND0 ** | 15-FEB-2002
08 | ND | NEWPORT, TOWNSHIP OF | 38049C0675E** | 15-FEB-2002
08 | ND | NEWPORT, TOWNSHIP OF | 38049CIND0 ** | 15-FEB-2002
08 | ND | RAYMOND, TOWNSHIP OF | 3802610025C | 04-JAN-2002
08 | ND | RYDER, CITY OF | 38101CIND0 ** | 15-FEB-2002
08 | ND | SAWYER, CITY OF | 38101CIND0 ** | 15-FEB-2002
08 | ND | SURREY, CITY OF | 38101C0810E** | 15-FEB-2002
08 | ND | SURREY, CITY OF | 38101C0830E** | 15-FEB-2002
08 | ND | SURREY, CITY OF | 38101CIND0 ** | 15-FEB-2002
08 | ND | TOWNER, CITY OF | 38049CIND0 ** | 15-FEB-2002
08 | ND | UPHAM, CITY OF | 38049CIND0 ** | 15-FEB-2002
08 | ND | VELVA, CITY OF | 38049CIND0 ** | 15-FEB-2002
08 | ND | VELVA, TOWNSHIP OF | 38049CIND0 ** | 15-FEB-2002
08 | ND | VILLARD, TOWNSHIP OF | 38049C1000E** | 15-FEB-2002
08 | ND | VILLARD, TOWNSHIP OF | 38049C1025E** | 15-FEB-2002
08 | ND | VILLARD, TOWNSHIP OF | 38049C1050E** | 15-FEB-2002
08 | ND | VILLARD, TOWNSHIP OF | 38049CIND0 ** | 15-FEB-2002
08 | ND | VOLTAIRE, CITY OF | 38049C0975E** | 15-FEB-2002
08 | ND | VOLTAIRE, CITY OF | 38049CIND0 ** | 15-FEB-2002
08 | ND | WARD COUNTY * | 38101C0505E** | 15-FEB-2002
08 | ND | WARD COUNTY * | 38101C0540E** | 15-FEB-2002
08 | ND | WARD COUNTY * | 38101C0545E** | 15-FEB-2002
08 | ND | WARD COUNTY * | 38101C0810E** | 15-FEB-2002
08 | ND | WARD COUNTY * | 38101C0830E** | 15-FEB-2002
08 | ND | WARD COUNTY * | 38101CIND0 ** | 15-FEB-2002
08 | ND | WILLOW CREEK, TOWNSHIP OF | 38049CIND0 ** | 15-FEB-2002
08 | SD | HOT SPRINGS, CITY OF | 4600270001B | 17-MAR-2002
08 | UT | ALTA, TOWN OF | 49035CIND0A** | 15-MAY-2002
08 | UT | BLUFFDALE, CITY OF | 49035C0440F** | 15-MAY-2002
08 | UT | BLUFFDALE, CITY OF | 49035C0440F | 15-MAY-2002
08 | UT | BLUFFDALE, CITY OF | 49035CIND0A** | 15-MAY-2002
08 | UT | DRAPER, CITY OF | 49035C0441F | 15-MAY-2002
08 | UT | DRAPER, CITY OF | 49035C0442F** | 15-MAY-2002
08 | UT | DRAPER, CITY OF | 49035C0442F | 15-MAY-2002
08 | UT | DRAPER, CITY OF | 49035C0444F | 15-MAY-2002
08 | UT | DRAPER, CITY OF | 49035CIND0A** | 15-MAY-2002
08 | UT | HERRIMAN, TOWN OF | 49035C0436F** | 15-MAY-2002
08 | UT | HERRIMAN, TOWN OF | 49035C0436F | 15-MAY-2002
08 | UT | HERRIMAN, TOWN OF | 49035C0440F** | 15-MAY-2002
08 | UT | HERRIMAN, TOWN OF | 49035C0440F | 15-MAY-2002
08 | UT | HERRIMAN, TOWN OF | 49035CIND0A** | 15-MAY-2002
08 | UT | HOLLADAY, CITY OF | 49035CIND0A** | 15-MAY-2002
08 | UT | MIDVALE, CITY OF | 49035CIND0A** | 15-MAY-2002
08 | UT | MURRAY, CITY OF | 49035C0291F** | 15-MAY-2002
08 | UT | MURRAY, CITY OF | 49035C0291F | 15-MAY-2002
08 | UT | MURRAY, CITY OF | 49035C0292F** | 15-MAY-2002
08 | UT | MURRAY, CITY OF | 49035C0292F | 15-MAY-2002
08 | UT | MURRAY, CITY OF | 49035C0311F** | 15-MAY-2002
08 | UT | MURRAY, CITY OF | 49035C0311F | 15-MAY-2002
08 | UT | MURRAY, CITY OF | 49035CIND0A** | 15-MAY-2002
08 | UT | RIVERTON, CITY OF | 49035C0436F** | 15-MAY-2002
08 | UT | RIVERTON, CITY OF | 49035C0436F | 15-MAY-2002
08 | UT | RIVERTON, CITY OF | 49035C0437F | 15-MAY-2002
08 | UT | RIVERTON, CITY OF | 49035C0440F** | 15-MAY-2002
08 | UT | RIVERTON, CITY OF | 49035C0440F | 15-MAY-2002
08 | UT | RIVERTON, CITY OF | 49035C0441F | 15-MAY-2002
08 | UT | RIVERTON, CITY OF | 49035CIND0A** | 15-MAY-2002
08 | UT | SALT LAKE CITY, CITY OF | 49035C0284F** | 15-MAY-2002
08 | UT | SALT LAKE CITY, CITY OF | 49035C0284F | 15-MAY-2002
08 | UT | SALT LAKE CITY, CITY OF | 49035C0303F** | 15-MAY-2002
08 | UT | SALT LAKE CITY, CITY OF | 49035C0303F | 15-MAY-2002
08 | UT | SALT LAKE CITY, CITY OF | 49035CIND0A** | 15-MAY-2002
08 | UT | SALT LAKE COUNTY * | 49035C0283F** | 15-MAY-2002
08 | UT | SALT LAKE COUNTY * | 49035C0283F | 15-MAY-2002
08 | UT | SALT LAKE COUNTY * | 49035C0284F** | 15-MAY-2002
08 | UT | SALT LAKE COUNTY * | 49035C0284F | 15-MAY-2002
08 | UT | SALT LAKE COUNTY * | 49035C0291F** | 15-MAY-2002
08 | UT | SALT LAKE COUNTY * | 49035C0291F | 15-MAY-2002
08 | UT | SALT LAKE COUNTY * | 49035C0292F** | 15-MAY-2002
08 | UT | SALT LAKE COUNTY * | 49035C0292F | 15-MAY-2002
08 | UT | SALT LAKE COUNTY * | 49035C0303F** | 15-MAY-2002
08 | UT | SALT LAKE COUNTY * | 49035C0303F | 15-MAY-2002
08 | UT | SALT LAKE COUNTY * | 49035C0311F** | 15-MAY-2002
08 | UT | SALT LAKE COUNTY * | 49035C0311F | 15-MAY-2002
08 | UT | SALT LAKE COUNTY * | 49035C0436F** | 15-MAY-2002
08 | UT | SALT LAKE COUNTY * | 49035C0436F | 15-MAY-2002
08 | UT | SALT LAKE COUNTY * | 49035C0437F | 15-MAY-2002
08 | UT | SALT LAKE COUNTY * | 49035C0440F** | 15-MAY-2002
08 | UT | SALT LAKE COUNTY * | 49035C0440F | 15-MAY-2002
08 | UT | SALT LAKE COUNTY * | 49035C0441F | 15-MAY-2002
08 | UT | SALT LAKE COUNTY * | 49035C0442F** | 15-MAY-2002
08 | UT | SALT LAKE COUNTY * | 49035C0442F | 15-MAY-2002
08 | UT | SALT LAKE COUNTY * | 49035C0444F | 15-MAY-2002
08 | UT | SALT LAKE COUNTY * | 49035CIND0A** | 15-MAY-2002
08 | UT | SANDY CITY, CITY OF | 49035C0442F** | 15-MAY-2002
08 | UT | SANDY CITY, CITY OF | 49035C0442F | 15-MAY-2002
08 | UT | SANDY CITY, CITY OF | 49035CIND0A** | 15-MAY-2002
08 | UT | SOUTH JORDAN, CITY OF | 49035C0436F** | 15-MAY-2002
08 | UT | SOUTH JORDAN, CITY OF | 49035C0436F | 15-MAY-2002
08 | UT | SOUTH JORDAN, CITY OF | 49035C0437F | 15-MAY-2002
08 | UT | SOUTH JORDAN, CITY OF | 49035C0440F** | 15-MAY-2002
08 | UT | SOUTH JORDAN, CITY OF | 49035C0440F | 15-MAY-2002
08 | UT | SOUTH JORDAN, CITY OF | 49035C0441F | 15-MAY-2002
08 | UT | SOUTH JORDAN, CITY OF | 49035C0442F** | 15-MAY-2002
08 | UT | SOUTH JORDAN, CITY OF | 49035C0442F | 15-MAY-2002
08 | UT | SOUTH JORDAN, CITY OF | 49035CIND0A** | 15-MAY-2002
08 | UT | SOUTH SALT LAKE, CITY OF | 49035C0283F** | 15-MAY-2002
08 | UT | SOUTH SALT LAKE, CITY OF | 49035C0283F | 15-MAY-2002
08 | UT | SOUTH SALT LAKE, CITY OF | 49035C0284F** | 15-MAY-2002
08 | UT | SOUTH SALT LAKE, CITY OF | 49035C0284F | 15-MAY-2002
08 | UT | SOUTH SALT LAKE, CITY OF | 49035C0303F** | 15-MAY-2002
08 | UT | SOUTH SALT LAKE, CITY OF | 49035C0303F | 15-MAY-2002
08 | UT | SOUTH SALT LAKE, CITY OF | 49035CIND0A** | 15-MAY-2002
08 | UT | TAYLORSVILLE, CITY OF | 49035C0283F** | 15-MAY-2002
08 | UT | TAYLORSVILLE, CITY OF | 49035C0283F | 15-MAY-2002
08 | UT | TAYLORSVILLE, CITY OF | 49035C0291F** | 15-MAY-2002
08 | UT | TAYLORSVILLE, CITY OF | 49035C0291F | 15-MAY-2002
08 | UT | TAYLORSVILLE, CITY OF | 49035CIND0A** | 15-MAY-2002
08 | UT | WEST JORDAN, CITY OF | 49035CIND0A** | 15-MAY-2002
08 | UT | WEST VALLEY CITY, CITY OF | 49035C0283F** | 15-MAY-2002
08 | UT | WEST VALLEY CITY, CITY OF | 49035C0283F | 15-MAY-2002
08 | UT | WEST VALLEY CITY, CITY OF | 49035C0291F** | 15-MAY-2002
08 | UT | WEST VALLEY CITY, CITY OF | 49035C0291F | 15-MAY-2002
08 | UT | WEST VALLEY CITY, CITY OF | 49035CIND0A** | 15-MAY-2002
08 | WY | NEWCASTLE, CITY OF | 5600570007D | 02-APR-2002
08 | WY | NEWCASTLE, CITY OF | 5600570026D | 02-APR-2002
08 | WY | NEWCASTLE, CITY OF | 5600570027D | 02-APR-2002
08 | WY | NEWCASTLE, CITY OF | 560057IND0 ** | 02-APR-2002
09 | AZ | LA PAZ COUNTY* | 0401220345B | 04-MAR-2002
09 | AZ | LA PAZ COUNTY* | 0401220350B** | 04-MAR-2002
09 | AZ | LA PAZ COUNTY* | 0401220485B | 04-MAR-2002
09 | AZ | LA PAZ COUNTY* | 0401220500B** | 04-MAR-2002
09 | AZ | LA PAZ COUNTY* | 040122IND0 ** | 04-MAR-2002
09 | AZ | QUARTZSITE, TOWN OF | 040122IND0 ** | 04-MAR-2002
09 | CA | MARTINEZ, CITY OF | 0650440001B | 02-MAY-2002
09 | CA | MARTINEZ, CITY OF | 0650440002B | 02-MAY-2002
09 | CA | MARTINEZ, CITY OF | 065044IND0 ** | 02-MAY-2002
09 | CA | OAKLEY, CITY OF | 0607660175A | 02-FEB-2002
09 | CA | OAKLEY, CITY OF | 0607660335A | 02-FEB-2002
09 | CA | OAKLEY, CITY OF | 0607660355A | 02-FEB-2002
09 | CA | OAKLEY, CITY OF | 0607660360A | 02-FEB-2002
09 | CA | OAKLEY, CITY OF | 060766IND0 ** | 02-FEB-2002
09 | CA | SAN JOAQUIN COUNTY* | 0602990170C | 02-APR-2002
09 | CA | SAN JOAQUIN COUNTY* | 0602990260C | 02-APR-2002
09 | CA | SAN JOAQUIN COUNTY* | 0602990270C | 02-APR-2002
09 | CA | SAN JOAQUIN COUNTY* | 0602990280C | 02-APR-2002
09 | CA | SAN JOAQUIN COUNTY* | 0602990285C | 02-APR-2002
09 | CA | SAN JOAQUIN COUNTY* | 0602990290C | 02-APR-2002
09 | CA | SAN JOAQUIN COUNTY* | 0602990295C | 02-APR-2002
09 | CA | SAN JOAQUIN COUNTY* | 0602990305C | 02-APR-2002
09 | CA | SAN JOAQUIN COUNTY* | 0602990310C | 02-APR-2002
09 | CA | SAN JOAQUIN COUNTY* | 0602990315B | 02-APR-2002
09 | CA | SAN JOAQUIN COUNTY* | 0602990320B | 02-APR-2002
09 | CA | SAN JOAQUIN COUNTY* | 0602990340B | 02-APR-2002
09 | CA | SAN JOAQUIN COUNTY* | 0602990345B | 02-APR-2002
09 | CA | SAN JOAQUIN COUNTY* | 0602990410C | 02-APR-2002
09 | CA | SAN JOAQUIN COUNTY* | 0602990430C | 02-APR-2002
09 | CA | SAN JOAQUIN COUNTY* | 0602990435C | 02-APR-2002
09 | CA | SAN JOAQUIN COUNTY* | 0602990440C | 02-APR-2002
09 | CA | SAN JOAQUIN COUNTY* | 0602990445C | 02-APR-2002
09 | CA | SAN JOAQUIN COUNTY* | 0602990455C | 02-APR-2002
09 | CA | SAN JOAQUIN COUNTY* | 0602990460B | 02-APR-2002
09 | CA | SAN JOAQUIN COUNTY* | 0602990465C | 02-APR-2002
09 | CA | SAN JOAQUIN COUNTY* | 0602990470B | 02-APR-2002
09 | CA | SAN JOAQUIN COUNTY* | 0602990480B | 02-APR-2002
09 | CA | SAN JOAQUIN COUNTY* | 0602990485B | 02-APR-2002
09 | CA | SAN JOAQUIN COUNTY* | 0602990580C | 02-APR-2002
09 | CA | SAN JOAQUIN COUNTY* | 0602990585D | 02-APR-2002
09 | CA | SAN JOAQUIN COUNTY* | 0602990590C | 02-APR-2002
09 | CA | SAN JOAQUIN COUNTY* | 0602990595D | 02-APR-2002
09 | CA | SAN JOAQUIN COUNTY* | 060299IND0 ** | 02-APR-2002
09 | CA | STOCKTON, CITY OF | 0603020005E | 02-APR-2002
09 | CA | STOCKTON, CITY OF | 0603020010D | 02-APR-2002
09 | CA | STOCKTON, CITY OF | 0603020015E | 02-APR-2002
09 | CA | STOCKTON, CITY OF | 0603020020E | 02-APR-2002
09 | CA | STOCKTON, CITY OF | 0603020025E | 02-APR-2002
09 | CA | STOCKTON, CITY OF | 0603020030E | 02-APR-2002
09 | CA | STOCKTON, CITY OF | 0603020035E | 02-APR-2002
09 | CA | STOCKTON, CITY OF | 0603020040E | 02-APR-2002
09 | CA | STOCKTON, CITY OF | 0603020045E | 02-APR-2002
09 | CA | STOCKTON, CITY OF | 060302IND0 ** | 02-APR-2002
09 | CA | WOODLAND, CITY OF | 0604260410C | 02-APR-2002
09 | CA | WOODLAND, CITY OF | 0604260420C | 02-APR-2002
09 | CA | WOODLAND, CITY OF | 0604260430C | 02-APR-2002
09 | CA | WOODLAND, CITY OF | 0604260440C | 02-APR-2002
09 | CA | WOODLAND, CITY OF | 060426IND0 ** | 02-APR-2002
09 | CA | YOLO COUNTY* | 0604230300C | 02-APR-2002
09 | CA | YOLO COUNTY* | 0604230355C | 02-APR-2002
09 | CA | YOLO COUNTY* | 0604230357C | 02-APR-2002
09 | CA | YOLO COUNTY* | 0604230358C | 02-APR-2002
09 | CA | YOLO COUNTY* | 0604230359C | 02-APR-2002
09 | CA | YOLO COUNTY* | 0604230376C | 02-APR-2002
09 | CA | YOLO COUNTY* | 0604230378D | 02-APR-2002
09 | CA | YOLO COUNTY* | 0604230379D | 02-APR-2002
09 | CA | YOLO COUNTY* | 0604230385C | 02-APR-2002
09 | CA | YOLO COUNTY* | 0604230395C | 02-APR-2002
09 | CA | YOLO COUNTY* | 0604230405D | 02-APR-2002
09 | CA | YOLO COUNTY* | 0604230410D | 02-APR-2002
09 | CA | YOLO COUNTY* | 0604230415D | 02-APR-2002
09 | CA | YOLO COUNTY* | 0604230420D | 02-APR-2002
09 | CA | YOLO COUNTY* | 0604230430F | 02-APR-2002
09 | CA | YOLO COUNTY* | 0604230440F | 02-APR-2002
09 | CA | YOLO COUNTY* | 0604230450F | 02-APR-2002
09 | CA | YOLO COUNTY* | 060423IND0 ** | 02-APR-2002
09 | HI | MAUI COUNTY * | 1500030183D | 15-MAY-2002
09 | HI | MAUI COUNTY * | 1500030185D | 15-MAY-2002
09 | HI | MAUI COUNTY * | 150003IND0A** | 15-MAY-2002
10 | ID | AMMON, CITY OF | 1600280001C | 02-APR-2002
10 | ID | BONNER COUNTY* | 1602060265D | 04-MAR-2002
10 | ID | BONNER COUNTY* | 1602060275D** | 04-MAR-2002
10 | ID | BONNER COUNTY* | 1602060355D | 04-MAR-2002
10 | ID | BONNER COUNTY* | 1602060375D | 04-MAR-2002
10 | ID | BONNER COUNTY* | 160206IND0 ** | 04-MAR-2002
10 | ID | BONNEVILLE COUNTY * | 1600270070D | 02-APR-2002
10 | ID | BONNEVILLE COUNTY * | 1600270235D | 02-APR-2002
10 | ID | BONNEVILLE COUNTY * | 1600270525D | 02-APR-2002
10 | ID | BONNEVILLE COUNTY * | 1600270600D | 02-APR-2002
10 | ID | BONNEVILLE COUNTY * | 160027IND0 ** | 02-APR-2002
10 | ID | LATAH COUNTY * | 1600860240D | 15-APR-2002
10 | ID | LATAH COUNTY * | 1600860330D | 15-APR-2002
10 | ID | LATAH COUNTY * | 160086IND0 ** | 15-APR-2002
10 | ID | MOSCOW, CITY OF | 1600900001D | 15-APR-2002
10 | ID | MOSCOW, CITY OF | 1600900002D | 15-APR-2002
10 | ID | MOSCOW, CITY OF | 160090IND0 ** | 15-APR-2002
10 | OR | GRESHAM, CITY OF | 4101810004G | 02-MAY-2002
10 | OR | GRESHAM, CITY OF | 4101810006F | 02-MAY-2002
10 | OR | GRESHAM, CITY OF | 4101810007F | 02-MAY-2002
10 | OR | GRESHAM, CITY OF | 410181IND0 ** | 02-MAY-2002
10 | OR | JACKSON COUNTY * | 4155890507C | 15-MAY-2002
10 | OR | JACKSON COUNTY * | 4155890509C | 15-MAY-2002
10 | OR | JACKSON COUNTY * | 415589IND0A** | 15-MAY-2002
10 | OR | TALENT, CITY OF | 4101000001D | 15-MAY-2002
10 | OR | WARM SPRING RESERVATION, TRIBE OF | 4102910164A | 15-APR-2002
10 | OR | WARM SPRING RESERVATION, TRIBE OF | 4102910168A | 15-APR-2002
10 | OR | WARM SPRING RESERVATION, TRIBE OF | 4102910236A | 15-APR-2002
10 | OR | WARM SPRING RESERVATION, TRIBE OF | 4102910237A | 15-APR-2002
10 | OR | WARM SPRING RESERVATION, TRIBE OF | 4102910250A | 15-APR-2002
10 | OR | WARM SPRING RESERVATION, TRIBE OF | 4102910300A | 15-APR-2002
10 | OR | WARM SPRING RESERVATION, TRIBE OF | 4102910325A | 15-APR-2002
10 | OR | WARM SPRING RESERVATION, TRIBE OF | 410291IND0 ** | 15-APR-2002
10 | WA | CUSICK, TOWN OF | 53051C0708C | 04-MAR-2002
10 | WA | CUSICK, TOWN OF | 53051CIND0 ** | 04-MAR-2002
10 | WA | IONE, TOWN OF | 53051C0195C | 04-MAR-2002
10 | WA | IONE, TOWN OF | 53051C0331C | 04-MAR-2002
10 | WA | IONE, TOWN OF | 53051CIND0 ** | 04-MAR-2002
10 | WA | LONE, TOWN OF | 53051C0195C | 04-MAR-2002
10 | WA | LONE, TOWN OF | 53051C0331C | 04-MAR-2002
10 | WA | LONE, TOWN OF | 53051CIND0 ** | 04-MAR-2002
10 | WA | METALINE FALLS, TOWN OF | 53051C0182C** | 04-MAR-2002
10 | WA | METALINE FALLS, TOWN OF | 53051C0201C** | 04-MAR-2002
10 | WA | METALINE FALLS, TOWN OF | 53051CIND0 ** | 04-MAR-2002
10 | WA | METALINE, TOWN OF | 53051C0182C** | 04-MAR-2002
10 | WA | METALINE, TOWN OF | 53051CIND0 ** | 04-MAR-2002
10 | WA | NEWPORT, CITY OF | 53051C0885C | 04-MAR-2002
10 | WA | NEWPORT, CITY OF | 53051C0890C** | 04-MAR-2002
10 | WA | NEWPORT, CITY OF | 53051C0895C | 04-MAR-2002
10 | WA | NEWPORT, CITY OF | 53051CIND0 ** | 04-MAR-2002
10 | WA | PEND OREILLE COUNTY * | 53051C0075C** | 04-MAR-2002
10 | WA | PEND OREILLE COUNTY * | 53051C0100C** | 04-MAR-2002
10 | WA | PEND OREILLE COUNTY * | 53051C0182C** | 04-MAR-2002
10 | WA | PEND OREILLE COUNTY * | 53051C0195C | 04-MAR-2002
10 | WA | PEND OREILLE COUNTY * | 53051C0200C** | 04-MAR-2002
10 | WA | PEND OREILLE COUNTY * | 53051C0201C** | 04-MAR-2002
10 | WA | PEND OREILLE COUNTY * | 53051C0325C** | 04-MAR-2002
10 | WA | PEND OREILLE COUNTY * | 53051C0331C | 04-MAR-2002
10 | WA | PEND OREILLE COUNTY * | 53051C0335C | 04-MAR-2002
10 | WA | PEND OREILLE COUNTY * | 53051C0345C | 04-MAR-2002
10 | WA | PEND OREILLE COUNTY * | 53051C0350C** | 04-MAR-2002
10 | WA | PEND OREILLE COUNTY * | 53051C0365C | 04-MAR-2002
10 | WA | PEND OREILLE COUNTY * | 53051C0375C** | 04-MAR-2002
10 | WA | PEND OREILLE COUNTY * | 53051C0475C** | 04-MAR-2002
10 | WA | PEND OREILLE COUNTY * | 53051C0480C | 04-MAR-2002
10 | WA | PEND OREILLE COUNTY * | 53051C0485C | 04-MAR-2002
10 | WA | PEND OREILLE COUNTY * | 53051C0490C | 04-MAR-2002
10 | WA | PEND OREILLE COUNTY * | 53051C0495C** | 04-MAR-2002
10 | WA | PEND OREILLE COUNTY * | 53051C0525C** | 04-MAR-2002
10 | WA | PEND OREILLE COUNTY * | 53051C0605C | 04-MAR-2002
10 | WA | PEND OREILLE COUNTY * | 53051C0610C | 04-MAR-2002
10 | WA | PEND OREILLE COUNTY * | 53051C0615C | 04-MAR-2002
10 | WA | PEND OREILLE COUNTY * | 53051C0620C | 04-MAR-2002
10 | WA | PEND OREILLE COUNTY * | 53051C0650C** | 04-MAR-2002
10 | WA | PEND OREILLE COUNTY * | 53051C0700C** | 04-MAR-2002
10 | WA | PEND OREILLE COUNTY * | 53051C0708C | 04-MAR-2002
10 | WA | PEND OREILLE COUNTY * | 53051C0710C | 04-MAR-2002
10 | WA | PEND OREILLE COUNTY * | 53051C0720C | 04-MAR-2002
10 | WA | PEND OREILLE COUNTY * | 53051C0725C | 04-MAR-2002
10 | WA | PEND OREILLE COUNTY * | 53051C0740C | 04-MAR-2002
10 | WA | PEND OREILLE COUNTY * | 53051C0750C | 04-MAR-2002
10 | WA | PEND OREILLE COUNTY * | 53051C0775C** | 04-MAR-2002
10 | WA | PEND OREILLE COUNTY * | 53051C0825C** | 04-MAR-2002
10 | WA | PEND OREILLE COUNTY * | 53051C0850C | 04-MAR-2002
10 | WA | PEND OREILLE COUNTY * | 53051C0855C | 04-MAR-2002
10 | WA | PEND OREILLE COUNTY * | 53051C0860C | 04-MAR-2002
10 | WA | PEND OREILLE COUNTY * | 53051C0875C** | 04-MAR-2002
10 | WA | PEND OREILLE COUNTY * | 53051C0880C | 04-MAR-2002
10 | WA | PEND OREILLE COUNTY * | 53051C0885C | 04-MAR-2002
10 | WA | PEND OREILLE COUNTY * | 53051C0890C** | 04-MAR-2002
10 | WA | PEND OREILLE COUNTY * | 53051C0895C | 04-MAR-2002
10 | WA | PEND OREILLE COUNTY * | 53051C0925C** | 04-MAR-2002
10 | WA | PEND OREILLE COUNTY * | 53051C0950C** | 04-MAR-2002
10 | WA | PEND OREILLE COUNTY * | 53051C0975C** | 04-MAR-2002
10 | WA | PEND OREILLE COUNTY * | 53051C1000C** | 04-MAR-2002
10 | WA | PEND OREILLE COUNTY * | 53051CIND0 ** | 04-MAR-2002
10 | WA | PRESCOTT, TOWN OF | 5302590216B | 18-JAN-2002
10 | WA | PRESCOTT, TOWN OF | 5302590217B | 18-JAN-2002
10 | WA | PRESCOTT, TOWN OF | 530259IND0 ** | 18-JAN-2002
10 | WA | WALLA WALLA COUNTY * | 5301940216C | 18-JAN-2002
10 | WA | WALLA WALLA COUNTY * | 5301940217C | 18-JAN-2002
10 | WA | WALLA WALLA COUNTY * | 5301940225C** | 18-JAN-2002
10 | WA | WALLA WALLA COUNTY * | 530194IND0 ** | 18-JAN-2002

[FR Doc. 02-23297 Filed 9-12-02; 8:45 am]

BILLING CODE 6718-04-F